DEPARTMENT OF HOUSING AND URBAN DEVELOPMENT

[Docket No. FR-6000-FA-23; FR-6000-FA-29; FR-6100-FA-06; FR-6100-FA-23; FR-6100-FA-25; FR-6100-FA-38]

Announcement of Funding Awards

AGENCY: Office of Strategic Planning and Management, HUD.

ACTION: Notice.

SUMMARY: In accordance with section 102(a)(4)(C) of the Department of Housing and Urban Development Reform Act of 1989, this announcement notifies the public of funding decisions the Department of Housing and Urban Development (The Department or HUD) has made in competitions for funding under Notices of Funding Availability (NOFAs) for the following programs: FY2016 Community Development Block Grant Program for Indian Tribes and Alaska Native Villages; FY2016 Research and Evaluation, Demonstration and Data Analysis and Utilization; FY2017 Community Compass Technical Assistance and Capacity Building Program; FY2014-FY2016 Community Compass Technical Assistance and Capacity Building Program Award Amendments; FY2017 Community Development Block Grant Program for Indian Tribes and Alaska Native Villages; FY2017 Continuum of Care (CoC) Program; and FY2017 Choice Neighborhoods Planning Grants.

FOR FURTHER INFORMATION CONTACT: Julie Hopkins, Director, Office of Strategic Planning and Management, Grants Management and Oversight Division, 451 Seventh Street SW, Room 3156, Washington, DC 20410, at 202-502-4496 (this is not a toll-free number) or by email at AskGMO@hud.gov. Further information may also be provided by the contact person listed in each appendix to this notice. Persons with hearing or speech impairments may access these numbers by calling the Federal Relay Service at 888-877-8339 (this is a toll-free number).

SUPPLEMENTARY INFORMATION: On April 13, 2016, the Department announced the FY16 Community Development Block Grant Program for Indian Tribes and Alaska Native Villages competition in NOFA FR-6000-N-23 on grants.gov. The competition closed on June 14, 2016. The Department rated and selected applications for funding based on selection criteria in the NOFA. The Department awarded seventy-seven recipients a total of $56,611,911 to provide grants to Indian tribes and Alaska Native Villages to develop viable Indian and Alaska Native communities, including the creation of decent housing, suitable living environments, and economic opportunities primarily for persons with low and moderate incomes as defined in 24 CFR 1003.4. Please see Appendix A for the list of recipients under this grant competition.

On February 10, 2017, the Department announced the FY2016 Research and Evaluation, Demonstration and Data Analysis and Utilization competition in NOFA FR-6000-N-29 on grants.gov. The competition closed on May 11, 2017. The Department rated and selected applications for funding based on selection criteria in the NOFA. The Department awarded three recipients a total of $2,900,000 to further the Office of Policy Development and Research's mission to inform policy development and implementation to improve life in American communities through conducting, supporting, and sharing research, surveys, demonstrations, program evaluations, and best practices. Please see Appendix B for the list of recipients under this grant competition.

On August 14, 2017, the Department announced the FY2017 Community Compass Technical Assistance and Capacity Building Program competition in NOFA FR-6100-N-06 on grants.gov. The competition closed on September 28, 2017. The Department rated and selected applications for funding based on selection criteria in the NOFA. The Department awarded twenty-one recipients a total of $52,473,608 to help HUD's customers navigate complex housing and community development challenges by equipping them with the knowledge, skills, tools, capacity, and systems to implement HUD programs and policies successfully and be more effective stewards of HUD funding. Additionally, prior to issuing new awards, the Department added $6,205,905 to 10 previous award recipients under the FY2014-FY2016 NOFAs. The goal of Community Compass is to empower communities by providing effective technical assistance and capacity building to sustain successful program implementation long term. Please see Appendix C for the list of recipients under the FY2017 Community Compass Technical Assistance and Capacity Building Program. Please see Appendix D for the list of recipients under the FY2014-FY2016 Community Compass Technical Assistance and Capacity Building Program Award Amendments.

On March 9, 2017, the Department announced the FY17 Community Development Block Grant Program for Indian Tribes and Alaska Native Villages competition in NOFA FR-6100-N-23 on grants.gov. The competition closed on May 18, 2017. The Department rated and selected applications for funding based on selection criteria in the NOFA. The Department awarded seventy-seven recipients a total of $55,240,655 to provide grants to Indian tribes and Alaska Native Villages. The purpose of those grants is to develop viable Indian and Alaska Native communities, including the creation of decent housing, suitable living environments, and economic opportunities primarily for persons with low and moderate incomes as defined in 24 CFR 1003.4. Please see Appendix E for the list of recipients under this grant competition.

On July 14, 2017, the Department announced the FY2017 Continuum of Care (CoC) Program competition in NOFA FR-6100-N-25 on grants.gov. The competition closed on September 28, 2017; the Department granted several extensions to CoCs due to major disaster declarations from hurricanes Harvey, Irma, and Maria. The Department rated and selected applications for funding based on selection criteria in the NOFA. The Department awarded 7,328 recipients a total of $2,011,348,825 to address the housing and service needs of individuals and families experiencing homelessness. The funds provide short-term, medium-term, and long-term housing and necessary services to ensure housing stability. Please see Appendix F for the list of recipients under this grant competition.

On June 28, 2017, the Department announced the FY2017 Choice Neighborhoods Planning Grants competition in NOFA FR-6100-N-38 on grants.gov. The competition closed on August 28, 2017. The Department rated and selected applications for funding based on selection criteria in the NOFA. The Department awarded six recipients a total of $4,950,000 to support the development of comprehensive neighborhood revitalization plans which focused on directing resources to address three core goals: housing, people, and neighborhoods. To achieve these core goals, communities must develop and implement a comprehensive neighborhood revitalization strategy, or Transformation Plan. The Transformation Plan will become the guiding document for the revitalization of the public and/or assisted housing units while simultaneously directing the transformation of the surrounding neighborhood and positive outcomes for families. Please see Appendix G for the list of recipients under this grant competition.

In accordance with section 102(a)(4)(C) of the Department of Housing and Urban Development Reform Act of 1989 (103 Stat. 1987, 42 U.S.C. 3545(a)(4)(C)), the Department is publishing the awardees and the amounts of the awards in Appendices A-G to this document.

Dated: May 10, 2018.
Henry Hensley,
Director, Office of Strategic Planning and Management.

FR-6000-FA-23

FR-6000-FA-29

FR-6100-FA-06

FR-6100-FA-23

FR-6100-FA-25

FR-6100-FA-38

Appendix A

FY2016 Community Development Block Grant Program for Indian Tribes and Alaska Native Villages

Contact: Monique Wisdom, 202-402-8841

Organization name | Address | City | State | Zip code | Amount
Birch Creek Tribe | P.O. Box 71502 | Fairbanks | AK | 99707-1502 | $449,969
Central Council of the Tlingit & Haida Indian Tribes | 9097 Glacier Hwy | Juneau | AK | 99801-6922 | 600,000
Curyung Tribal Council | P.O. Box 216 | Dillingham | AK | 99576-0216 | 600,000
Native Village of Fort Yukon | P.O. Box 126 | Fort Yukon | AK | 99740 | 600,000
Native Village of Karluk | P.O. Box 2279 | Karluk | AK | 99608 | 525,000
Native Village of Nanwalek | P.O. Box 8065 | Nanwalek | AK | 99603-6665 | 600,000
Native Village of Napaimute | Box 1301 | Bethel | AK | 99559-1301 | 600,000
Nenana Native Association | P.O. Box 369 | Nenana | AK | 99760-0369 | 450,036
Organized Village of Saxman | Rt. 2 Box 2 (Saxman) | Ketchikan | AK | 99901-9800 | 600,000
Petersburg Indian Association | P.O. Box 1418 | Petersburg | AK | 99833-9999 | 600,000
Rampart Village | P.O. Box 67029 | Rampart | AK | 99767 | 351,178
Tanana Chiefs Conference | 122 First Avenue | Fairbanks | AK | 99701-0122 | 600,000
Village of Dot Lake | P.O. Box 2279 | Dot Lake | AK | 99737-2279 | 450,270
Kaibab Band of Paiute Indians | HC 65, Box 2 | Fredonia | AZ | 86022 | 605,000
Navajo Nation | P.O. Box 7440 | Window Rock | AZ | 86515 | 4,763,147
Tohono O'odham KIKI Association | P.O. Box 790 | Sells | AZ | 85634 | 2,750,000
All Mission Indian Housing Authority (La Jolla) | 27368 Via Industrial, Suite 113 | Temecula | CA | 92590 | 605,000
All Mission Indian Housing Authority (Santa Rosa) | 27368 Via Industrial, Suite 113 | Temecula | CA | 92590 | 605,000
All Mission Indian Housing Authority (Torres Martinez) | 27368 Via Industrial, Suite 113 | Temecula | CA | 92590 | 605,000
All Mission Indian Housing Authority (Viejas) | 27368 Via Industrial, Suite 113 | Temecula | CA | 92590 | 605,000
Bear River Band of Rohnerville Rancheria | 266 Kiesner Road | Loleta | CA | 95551 | 605,000
Campo Band of Diegueno Mission Indians | 36190 Church Road, Suite 1 | Campo | CA | 91906 | 605,000
Coyote Valley Band of Pomo Indians | P.O. Box 39 | Redwood Valley | CA | 95470 | 605,000
Dry Creek Rancheria Band of Pomo Indians | P.O. Box 607 | Geyserville | CA | 95441 | 605,000
Fort Independence Indian Reservation | P.O. Box 67 | Independence | CA | 93526 | 605,000
Iipay Nation of Santa Ysabel | P.O. Box 130 | Santa Ysabel | CA | 92070 | 605,000
Karuk Tribe of California | P.O. Box 1159 | Happy Camp | CA | 96039 | 605,000
Moapa Indian Housing Authority | P.O. Box 204 | Moapa | CA | 89025 | 605,000
Stewarts Point Rancheria | 1420 Guerneville Road, Suite 1 | Santa Rosa | CA | 95403 | 605,000
Wiyot Tribe | 1000 Wiyot Drive | Loleta | CA | 95551 | 605,000
Ute Mountain Ute Housing Authority | P.O. Box EE | Towaoc | CO | 81334-0088 | 825,000
Coeur d'Alene Tribal Housing Authority | P.O. Box 267 | Plummer | ID | 83851 | 438,100
Aroostook Band of Mic Mac | 7 Northern Road | Presque Isle | ME | 04769 | 600,000
Keweenaw Bay Indian Community | 16429 Beartown Rd | Baraga | MI | 49908 | 600,000
Sault Ste Marie Tribe of Chippewa Indians | 523 Ashmun Street | Sault Ste Marie | MI | 49783 | 600,000
Fond du Lac Band of Lake Superior Chippewa | 1720 Big Lake Rd. | Cloquet | MN | 55720 | 600,000
White Earth Band of the Minnesota Chippewa | P.O. Box 418 | White Earth | MN | 56591 | 600,000
Eastern Shawnee Tribe of Oklahoma | P.O. Box 350 | Seneca | MO | 64865 | 800,000
Mississippi Choctaw Housing Authority | 13660 Hwy 16 West | Neshoba | MS | 39350 | 108,084
Blackfeet Housing Authority | P.O. Box 449 | Browning | MT | 59417-0449 | 1,000,000
Chippewa Cree Housing Authority | RR 1, Box 567 | Box Elder | MT | 59521-8795 | 351,891
Northern Cheyenne Tribal Housing Authority | P.O. Box 327 | Lame Deer | MT | 59043-0327 | 1,000,000
Salish-Kootenai Housing Authority | P.O. Box 38 | Pablo | MT | 59855-0038 | 1,000,000
Northern Ponca Housing Authority | 1501 Michigan Avenue | Norfolk | NE | 68701-5602 | 1,000,000
Pueblo de Cochiti | P.O. Box 98 | Cochiti Pueblo | NM | 87072 | 605,000
Pueblo of Zuni | P.O. Box 710 | Zuni Pueblo | NM | 87327 | 2,200,000
Washoe Housing Authority | 1588 Watasheamu Drive | Gardnerville | NV | 89460 | 490,000
Akwesasne Housing Authority | 378 State Rd 37 | Hogansburg | NY | 13655 | 600,000
Cheyenne-Arapaho Tribes | P.O. Box 167 | Concho | OK | 73022 | 800,000
Chickasaw Nation | P.O. Box 1548 | Ada | OK | 74821 | 800,000
Choctaw Nation | PO Drawer 1210 | Durant | OK | 74702 | 800,000
Comanche Nation Housing Authority | P.O. Box 1671 | Lawton | OK | 73502 | 765,488
Delaware Nation—Western | P.O. Box 825 | Anadarko | OK | 73005 | 800,000
Iowa Tribe of Oklahoma | 335588 E. 750 Rd | Perkins | OK | 74059 | 800,000
Modoc Tribe | 418 G SE Street | Miami | OK | 74354 | 800,000
Osage Nation | P.O. Box 779 | Pawhuska | OK | 74056 | 800,000
Pawnee Nation | P.O. Box 470 | Pawnee | OK | 74058 | 800,000
Peoria Tribe Housing Authority | 3606 Sencay Avenue | Miami | OK | 74355 | 800,000
Quapaw Tribe of Oklahoma | P.O. Box 765 | Quapaw | OK | 74363 | 800,000
Shawnee Tribe | P.O. Box 189 | Miami | OK | 74355 | 800,000
Thlopthlocco Tribal Town | P.O. Box 188 | Okemah | OK | 74859 | 800,000
Tonkawa Tribe | 1 Rush Buffalo Road | Tonkawa | OK | 74653 | 800,000
Wyandotte Nation of Oklahoma | 64700 E Highway 60 | Wyandotte | OK | 74370 | 678,768
Ponca Tribe of Oklahoma | 20 White Eagle Drive | Ponca City | OK | 74601 | 800,000
Warm Springs Housing Authority | P.O. Box 1167 | Warm Springs | OR | 97761 | 500,000
Oglala Sioux (Lakota) Housing Authority | P.O. Box 603, 4 SuAnne Center Dr | Pine Ridge | SD | 57770-0603 | 1,000,000
Goshute Housing Authority | P.O. Box 6035 | Ibapah | UT | 84034-6035 | 375,000
Jamestown Tribe | 1033 Old Blyn Highway | Sequim | WA | 98382 | 500,000
Lummi Nation Housing Authority | 2828 Kwina Road | Bellingham | WA | 98226 | 500,000
Muckleshoot Housing Authority | 38037 158th Ave. SE | Auburn | WA | 98092 | 500,000
Port Gamble S'Klallam Housing Auth | 32000 Little Boston Road NE | Kingston | WA | 98346 | 400,000
Squaxin Island Tribe | 10 SE Squaxin Lane | Shelton | WA | 98584 | 230,264
Bad River Band of Lake Superior Chippewa | 72682 Maple St | Odanah | WI | 54861 | 300,000
Ho-Chunk Nation | 1102E. Monowau St | Tomah | WI | 54660 | 600,000
Eastern Shoshone Housing Auth | P.O. Box 1250 | Fort Washakie | WY | 82514-1250 | 1,000,000
Northern Arapaho Tribal Housing Auth | 501 Ethete Road | Ethete | WY | 82520-9384 | 1,000,000
|  |  |  |  | 56,582,132

Appendix B

FY2016 Research and Evaluation, Demonstration and Data Analysis and Utilization

Contact: Curtissa Coleman, 202 402-7580.

Recipient | Address | City | State | Zip code | Amount
The Urban Institute | 2100 M Street, NW | Washington | DC | 20037 | $899,177
University of Florida | 207 Ginter Hall | Gainesville | FL | 32611 | 531,539
Home Innovation Research | 400 Prince Georges Blvd | Upper Marlboro | MD | 20774 | 835,325
Auburn University | 310 Samford Hall | Auburn | AL | 36849 | 633,959

Appendix C

FY2017 Community Compass Technical Assistance and Capacity Building Program

Contact: Stephanie V. Stone, (202) 402-7418

Organization name | Address | City | State | Zip code | Total award
Econometrica, Inc | 7475 Wisconsin Avenue, Suite 1000 | Bethesda | MD | 20814 | $3,000,000.00
HomeBase/The Center for Common Concerns | 870 Market Street, Suite 1228 | San Francisco | CA | 94102 | 2,000,000.00
BCT Partners, LLC | 105 Lock Street, Suite 311 | Newark | NJ | 07103 | 650,000.00
Cloudburst Consulting Group, Inc | 8400 Corporate Drive, Suite 550 | Landover | MD | 20785 | 4,955,000.00
Enterprise Community Partners, Inc | 70 Corporate Center, 11000 Broken Land Parkway | Columbia | MD | 21044 | 3,585,000.00
ICF Incorporated, LLC | 9300 Lee Highway | Fairfax | VA | 22031 | 13,509,000.00
Abt Associates Inc | 55 Wheeler Street | Cambridge | MA | 02138 | 5,965,000.00
FirstPic, Inc | 2614 Chapel Lake Drive | Gambrills | MD | 21054 | 3,176,000.00
CVR Associates, Inc | 2309 S. MacDill Avenue, Suite 200 | Tampa | FL | 33629 | 1,400,000.00
Technical Assistance Collaborative, Inc | 31 Saint James Avenue, Suite 950 | Boston | MA | 02116 | 1,400,000.00
Du & Associates, Inc | 7501 Wisconsin Avenue, Suite 705E | Bethesda | MD | 20814 | 250,000.00
American Institutes for Research | 1000 Thomas Jefferson Street, NW | Washington | DC | 20007 | 500,000.00
Corporation for Supportive Housing | 61 Broadway, Suite 2300 | New York | NY | 10006 | 3,125,000.00
TDA Consulting, Inc | 17 Caleb Circle | San Antonio | TX | 78258 | 2,308,608.00
Collaborative Solutions, Inc | P.O. Box 130159 | Birmingham | AL | 35213 | 500,000.00
National American Indian Housing Council | 122 C Street NW, Suite 350 | Washington | DC | 20001 | 3,050,000.00
Corporate F.A.C.T.S | 51248 Plymouth Valley Drive | Plymouth | MI | 48170 | 350,000.00
National Association for Latino Community Asset Builders | 5404 Wurzbach Rd | San Antonio | TX | 78238 | 500,000.00
Association of Alaska Housing Authorities | 4300 Boniface Parkway | Anchorage | AK | 99504 | 900,000.00
The Partnership Center, Ltd | 2134 Alpine Place | Cincinnati | OH | 45206 | 1,000,000.00
Innovative Emergency Management, Inc | 2801 Slater Road, Suite 110 | Morrisville | NC | 27560 | 350,000.00

Appendix D

FY2014-FY2016 Community Compass Technical Assistance and Capacity Building Program Award Amendments

Contact: Stephanie V. Stone, (202) 402-7418.

Organization name | Address | City | State | Zip code | Additional award amount | Updated total award
Econometrica, Inc | 7475 Wisconsin Avenue, Suite 1000 | Bethesda | MD | 20814 | $750,000 | $4,000,000
Abt Associates Inc | 55 Wheeler Street | Cambridge | MA | 02138 | 285,700 | 6,635,700
Cloudburst Consulting Group, Inc | 8400 Corporate Drive, Suite 550 | Landover | MD | 20785 | 865,000 | 4,740,000
ICF Incorporated, LLC | 9300 Lee Highway | Fairfax | VA | 22031 | 1,903,230 | 14,560,338
FirstPic, Inc | 2614 Chapel Lake Drive | Gambrills | MD | 21054 | 304,975 | 2,222,475
Technical Assistance Collaborative, Inc | 31 Saint James Avenue, Suite 950 | Boston | MA | 02116 | 200,000 | 1,900,000
American Institutes for Research | 1000 Thomas Jefferson Street NW | Washington | DC | 20007 | 1,300,000 | 6,250,000
TDA Consulting, Inc | 17 Caleb Circle | San Antonio | TX | 78258 | 104,000 | 904,000
National American Indian Housing Council | 122 C Street NW, Suite 350 | Washington | DC | 20001 | 443,000 | 3,237,401
Association of Alaska Housing Authorities | 4300 Boniface Parkway | Anchorage | AK | 99504 | 50,000 | 750,000

Appendix E

FY2017 Community Development Block Grant Program for Indian Tribes and Alaska Native Villages

Contact: Monique Wisdom, 202-402-8841.

Organization name | Address | City | State | Zip code | Amount
Cheesh-Na Tribe | P.O. Box 241 | Chistochina | AK | 99586 | $600,000
Cook Inlet Tribal Council, Inc | 3600 San Jeronimo Drive | Anchorage | AK | 99508 | 600,000
Haida Corporation | P.O. Box 89 | Hydaburg | AK | 99922 | 599,500
Klawock Cooperative Association | P.O. Box 430 | Klawock | AK | 99925 | 600,000
Knik Tribe | P.O. Box 871565 | Wasilla | AK | 99687-1565 | 600,000
Native Village of Chignik Lagoon | Box 57 | Chignik Lagoon | AK | 99565 | 184,531
Qawalangin Tribe of Unalaska | P.O. Box 334 | Unalaska | AK | 99685 | 100,000
Organized Village of Grayling | P.O. Box 49 | Grayling | AK | 99590 | 148,940
Organized Village of Kake | P.O. Box 316 | Kake | AK | 99830 | 600,000
Saint Paul Island | P.O. Box 86 | St. Paul Island | AK | 99660-0086 | 600,000
Sitka Tribe of Alaska | 456 Katlian St | Sitka | AK | 99835 | 600,000
Village of Clark's Point | P.O. Box 90 | Clarks Point | AK | 99569 | 600,000
Village of Iliamna | P.O. Box 286 | Iliamna | AK | 99606-0286 | 600,000
Wrangell Cooperative Association | P.O. Box 2021 | Wrangell | AK | 99929 | 600,000
Navajo Nation | P.O. Box 7440 | Window Rock | AZ | 86515-7440 | 1,401,181
San Carlos Apache Housing Authority | P.O. Box 740 | Peridot | AZ | 85542-0740 | 1,900,000
Tohono O'odham—KIKI Association | P.O. Box 790 | Sells | AZ | 85634-0790 | 2,500,000
White Mountain Apache Housing Authority | 50 West Chinatown Street | Whiteriver | AZ | 85941-1270 | 2,500,000
Cahuilla Band of Mission Indians | P.O. Box 391760 | Anza | CA | 92539 | 605,000
Greenville Rancheria of Maidu Indians | P.O. Box 279 | Greenville | CA | 95947-0279 | 605,000
Iipay Nation of Santa Ysabel | P.O. Box 130 | Santa Ysabel | CA | 92070-0130 | 605,000
Karuk Tribe of California | P.O. Box 1016 | Happy Camp | CA | 96039-1016 | 605,000
La Jolla Band of Mission Indians | 22000 Highway 76 | Pauma Valley | CA | 92061 | 605,000
Manchester Band of Pomo Indians | P.O. Box 623 | Point Arena | CA | 95468-0623 | 605,000
Mechoopda Tribe of Chico Rancheria | 125 Mission Ranch Boulevard | Chico | CA | 95926 | 583,316
North Fork Rancheria of Mono Indians | P.O. Box 929 | North Fork | CA | 93643-0929 | 605,000
Santa Rosa Band of Cahuilla Indians | P.O. Box 391820 | Anza | CA | 92539-1820 | 605,000
Sherwood Valley Rancheria of Pomo Indians | 190 Sherwood Hill Drive | Willits | CA | 95490 | 605,000
Tejon Indian Tribe | 1731 Hasti Acres Ste 108 | Bakersfield | CA | 93309 | 605,000
Torres-Martinez Band of Cahuilla Indians | P.O. Box 1160 | Thermal | CA | 92274-1160 | 605,000
Utu Gwaitu Paiute Tribe (Benton Paiute Reservation) | 25669 Highway 6 PMBI | Benton | CA | 93512 | 605,000
Viejas Band of Mission Indians | P.O. Box 908 | Alpine | CA | 91903-0908 | 510,000
Nez Perce Tribal Housing Authority | P.O. Box 188 | Lapwai | ID | 83540-0188 | 500,000
Iowa Tribe of Kansas and Nebraska Housing Authority | 117 North T Street | White Cloud | KS | 66094 | 800,000
Aroostook Band of MicMac | 7 Northern Road | Presque Isle | ME | 04969 | 600,000
Penobscot Indian Nation | 12 Wabanaki Way | Indian Island | ME | 04468 | 600,000
Hannahville Indian Community | N14911 Hannahville B1 Road | Wilson | MI | 49896 | 600,000
Pokaogon Band of Potawatomi Indians | 58620 Sink Rd | Dowagiac | MI | 49047 | 280,000
Bois Forte Band of Chippewa Indians | 5344 Lakeshore Drive | Nett Lake | MN | 55772-1200 | 555,203
Fond du Lac Band of Lake Superior Chippewa | 1720 Big Lake Road | Cloquet | MN | 55720 | 600,000
Lower Sioux Indian Community | 39527 Reservation Hwy | Morton | MN | 56270 | 600,000
Blackfeet Housing Authority | P.O. Box 449 | Browning | MT | 59417-0449 | 547,464
Chippewa Cree Housing Authority | RR1 Box 567 | Box Elder | MT | 59521-8795 | 1,000,000
Fort Peck Housing Authority | P.O. Box 667 | Poplar | MT | 59255-0677 | 1,000,000
Northern Cheyenne Housing Authority | P.O. Box 327 | Lame Deer | MT | 59043-0327 | 1,000,000
Salish & Kootenai Housing Authority | P.O. Box 38 | Pablo | MT | 59855-0038 | 255,350
Jicarilla Apache Housing Authority | P.O. Box 486 | Dulce | NM | 87528-0486 | 825,000
Ohkay Owingeh Housing Authority | P.O. Box 1059 | Ohkay Owingeh | NM | 87566-1059 | 825,000
Pueblo de Cochiti Housing Authority | P.O. Box 98 | Cochiti Pueblo | NM | 87072-0098 | 605,000
Ely Shoshone Tribe | 16 Shoshone Circle | Ely | NV | 89301 | 605,000
St. Regis Band of Mohawk Indians of New York | 412 State Route 37 | Akwesasne | NY | 13655 | 600,000
Absentee-Shawnee Tribe of Indians of Oklahoma | 2025 South Gordon Cooper Drive | Shawnee | OK | 74801 | 800,000
Cherokee Nation | P.O. Box 948 | Tahlequah | OK | 74465 | 800,000
Chickasaw Nation | P.O. Box 1548 | Ada | OK | 74821 | 800,000
Citizen Potawatomi Nation | 1601 South Gordon Cooper Drive | Shawnee | OK | 74801 | 800,000
Comanche Nation Housing Authority | P.O. Box 1671 | Lawton | OK | 73502 | 800,000
Delaware Tribe of Indians | 5100 Tuxedo Blvd | Bartlesville | OK | 74006-2838 | 800,000
Eastern Shawnee Tribe of Oklahoma | 12755 S 705 Rd | Wyandotte | OK | 74370 | 800,000
Fort Sill Apache Tribe | 43187 US HIGHWAY 281 | Apache | OK | 73006-8038 | 800,000
Miami Tribe of Oklahoma | P.O. Box 1326 | Miami | OK | 74355 | 800,000
Otoe-Missouria Tribe | 8151 Highway 177 | Red Rock | OK | 74651-0348 | 800,000
Ponca Tribe of Indians of Oklahoma | 20 White Eagle Dr | Ponca City | OK | 74601 | 800,000
Quapaw Tribe | P.O. Box 765 | Quapaw | OK | 74363 | 800,000
Thlopthlocco Tribal Town | P.O. Box 188 | Okemah | OK | 74859 | 800,000
Tonkawa Tribe | 1 Rush Buffalo Road | Tonkawa | OK | 74653 | 539,332
Wyandotte Nation | 64700 E. Highway 60 | Wyandotte | OK | 74370 | 800,000
Burns Paiute Tribe | 100 Pasigo Street | Burns | OR | 97720-2442 | 340,000
Confederated Tribes of the Grand Ronde Community of Oregon | 9615 Grand Ronde Road | Grand Ronde | OR | 97347-9712 | 500,000
Klamath Tribes | P.O. Box 436 | Chiloquin | OR | 97624-0436 | 275,838
Lower Brule Housing Authority | P.O. Box 183 | Lower Brule | SD | 57548-0183 | 1,000,000
Oglala Sioux (Lakota) Housing Authority | P.O. Box 603 | Pine Ridge | SD | 57770-0603 | 1,000,000
Alabama-Coushatta Tribe of Texas | 571 State Park Road 56 | Livingston | TX | 77351 | 800,000
Paiute Indian Tribe of Utah | 440 North Paiute Dr | Cedar City | UT | 84721-6181 | 1,000,000
Muckleshoot Housing Authority | 38037 158th Avenue SE | Auburn | WA | 98092-9428 | 500,000
Port Gamble S'Klallam Housing Authority | 32000 Little Boston Road NE | Kingston | WA | 98346-9700 | 500,000
Upper Skagit Indian Tribe | 25944 Community Plaza Way | Sedro Woolley | WA | 98284-9721 | 500,000
Eastern Shoshone Housing Authority | P.O. Box 1250 | Fort Washakie | WY | 82514-1250 | 1,000,000
|  |  |  |  | 55,240,655

Appendix F

FY2017 Continuum of (CoC) Program

Contact: Norm Suchar; 202-402-5015.

Recipient | Address | City | State | ZIP | Amount
Valley Charities, Inc./Neighbor to Neighbor: A Community Solution to Homelessness | 400 N Yenlo St | Wasilla | AK | 99654 | $17,268.00
Alaska Housing Finance Corporation/AK-501 CoC Planning Application FY2017 | P.O. Box 101020 | Anchorage | AK | 99510 | 22,149.00
Alaska Housing Finance Corporation/2017 CoC KPH SRA | P.O. Box 101020 | Anchorage | AK | 99510 | 22,816.00
Alaska Coalition on Housing and Homelessness/AK Balance of State Dedicated HMIS Project | P.O. Box 200862 | Anchorage | AK | 99520 | 30,206.00
St. Vincent de Paul Society Diocesan Council Southeast Alaska/Paul's Place SHP | 8617 Teal St | Juneau | AK | 99801 | 34,033.00
Valley Charities, Inc./Neighbor to Neighbor: A Community Solution to Homelessness | 400 N Yenlo St | Wasilla | AK | 99654 | 47,576.00
Nome Emergency Shelter Team/NEST PSH 2 | P.O. Box 1004 | Nome | AK | 99762 | 54,639.00
Interior Alaska Center for Non-Violent Living/Our House—PSH | 726 26th Avenue, Suite 1 | Fairbanks | AK | 99701 | 67,271.00
The LeeShore Center/Supportive Housing Program | 325 S. Spruce St | Kenai | AK | 99611 | 67,313.00
Juneau Housing First Collaborative/Juneau Housing First Collaborative | 1944 Allen Court | Juneau | AK | 99801 | 69,336.00
Alaska Housing Finance Corporation/2017 CoC VRS SRA | P.O. Box 101020 | Anchorage | AK | 99510 | 71,827.00
Anchorage Coalition to End Homelessness/Anchorage Coordinated Entry System Project | P.O. Box 243041 | Anchorage | AK | 99524 | 77,600.00
Anchorage Coalition to End Homelessness/CoC Planning Project Application FY2017 | P.O. Box 243041 | Anchorage | AK | 99524 | 85,498.00
Interior Alaska Center for Non-Violent Living/Burch Supportive Housing | 726 26th Avenue, Suite 1 | Fairbanks | AK | 99701 | 90,659.00
Alaska Housing Finance Corporation/2017 CoC TCC HsgFst PSH-CH | P.O. Box 101020 | Anchorage | AK | 99510 | 96,728.00
Alaska Housing Finance Corporation/2017 CoC SVP SRA | P.O. Box 101020 | Anchorage | AK | 99510 | 106,830.00
Anchorage Housing Initiatives, Inc./Coming Home I | 315 Barrow Street | Anchorage | AK | 99501 | 126,499.00
Abused Women's Aid in Crisis, Inc./AWAIC Rapid ReHousing Program | 100 W. 13th Avenue | Anchorage | AK | 99501 | 158,313.00
Anchorage Coalition to End Homelessness/Anchorage Dedicated HMIS Project | P.O. Box 243041 | Anchorage | AK | 99524 | 175,994.00
Covenant House Alaska/Rights of Passage | 755 “A” Street | Anchorage | AK | 99501 | 241,062.00
Rural Alaska Community Action Program, Inc./325 East 3rd Avenue | 731 East 8th Ave | Anchorage | AK | 99501 | 527,264.00
Alaska Housing Finance Corporation/2017 CoC ANC SRA | P.O. Box 101020 | Anchorage | AK | 99510 | 691,954.00
Anchorage Neighborhood Housing Services, Inc. dba NeighborWorks Alaska/Resources and Initiatives to Support and Empower | 2515 A Street | Anchorage | AK | 99503 | 848,411.00
United Way of Northwest Alabama/HMIS | 118 E Mobile Street, Suite 300, P.O. Box 1228 | Florence | AL | 35631 | 11,196.00
The Salvation Army, A Georgia Corporation/Veterans Transitional Living Program | 2902 Greensboro Ave., N/A | Tuscaloosa | AL | 35401 | 15,559.00
City of Florence Office of Planning & Development/CoC Planning Project | 110 W. College Street, Suite 115 | Florence, | AL | 35631 | 17,104.00
North Alabama Coalition for the Homeless, Inc./2017 Coordinated Assessment Expanded | 1580 Sparkman Drive, Suite 111 | Huntsville | AL | 35816 | 18,033.00
North Alabama Coalition for the Homeless, Inc./2017 CoC Planning | 1580 Sparkman Drive, Suite 111 | Huntsville | AL | 35816 | 25,810.00
United Way of Northwest Alabama/HMIS Expansion | 118 E Mobile Street, Suite 300, P.O. Box 1228 | Florence | AL | 35631 | 27,179.00
City of Tuscaloosa/City of Tuscaloosa FY 2017 HMIS Renewal Project | 2201 University Boulevard | Tuscaloosa | AL | 35401 | 42,000.00
The Tuscaloosa Housing Authority/FY2017CoC76 Renewal | 2117 Jack Warner Parkway | Tuscaloosa | AL | 35401 | 50,484.00
Montgomery Area Coalition for the Homeless, Inc./AL-504 CoC Planning Application FY2017 | 101 Coliseum Blvd | Montgomery | AL | 36109 | 61,329.00
North Alabama Coalition for the Homeless, Inc./2017 Coordinated Assessment | 1580 Sparkman Drive, Suite 111 | Huntsville | AL | 35816 | 62,054.00
Housing First, Inc./HMIS Expansion | 3929 Airport Blvd., Building 3, Suite 110 | Mobile | AL | 36609 | 66,723.00
HandsOn River Region/HMIS Project Link | 101 Coliseum Boulevard | Montgomery | AL | 36109 | 71,667.00
The Tuscaloosa Housing Authority/FY2017CoC87 Renewal | 2117 Jack Warner Parkway | Tuscaloosa | AL | 35401 | 92,592.00
State of Alabama/ARCH Shelter + Care | 100 North Union Street RSA Union Building, Suite 420 | Montgomery | AL | 36130 | 97,752.00
Huntsville Housing Authority/Shelter Care Plus Expansion 2017 | 200 Washington Street | Huntsville | AL | 35801 | 101,214.00
First Light, Inc./Fourth floor—2017 Renewal | 2230 4th Avenue North | Birmingham | AL | 35203 | 101,665.00
First Light, Inc./Bessemer 2017 Renewal | 2230 4th Avenue North | Birmingham | AL | 35203 | 102,629.00
The Alabama Rural Coalition for the Homeless/AL-507 CoC Planning Project Application FY17 | Post Office Box 451 | Montgomery | AL | 36101 | 103,550.00
Housing First, Inc./Homeless Management Information System | 3929 Airport Blvd., Building 3, Suite 110 | Mobile | AL | 36609 | 107,000.00
Housing First, Inc./CoC Planning Activities 2017 | 3929 Airport Blvd., Building 3, Suite 110 | Mobile | AL | 36609 | 112,058.00
North Alabama Coalition for the Homeless, Inc./2017 HMIS Renewal | 1580 Sparkman Drive, Suite 111 | Huntsville | AL | 35816 | 117,498.00
Montgomery Area Family Violence Program Inc./Joint Rapid Rehousing and Transitional Housing (Phase II) for Victims of Domestic Violence | P.O. Box 5160 | Montgomery | AL | 36103 | 124,325.00
The Cooperative Downtown Ministries, Inc./2017 Safe Haven Renewal | P.O. Box 11722 | Birmingham | AL | 35202 | 128,834.00
The Alabama Rural Coalition for the Homeless/HMIS Project | Post Office Box 451 | Montgomery | AL | 36101 | 131,211.00
First Light, Inc./East 2017 Renewal | 2230 4th Avenue North | Birmingham | AL | 35203 | 131,649.00
One Roof/HMIS Expansion Project | 1515 6th Avenue South | Birmingham | AL | 35233 | 141,240.00
One Roof/MBSH HMIS Project | 1515 6th Avenue South | Birmingham | AL | 35233 | 141,240.00
Pathways Inc./Safe Haven Shelter for Women | Pathways 409 North Richard Arrington Jr. Blvd | Birmingham | AL | 35203 | 142,468.00
AIDS Alabama, Inc./Le Project FY2017 | 3529 7th Avenue South | Birmingham | AL | 35222 | 145,072.00
Lighthouse Counseling Center, Inc./Genesis | 111 Coliseum Boulevard, none | Montgomery | AL | 36109 | 148,277.00
AIDS Alabama, Inc./Transclusive PSH Expansion FY2017 | 3529 7th Avenue South | Birmingham | AL | 35222 | 148,416.00
AIDS Alabama, Inc./Transclusive PSH FY2017 | 3529 7th Avenue South | Birmingham | AL | 35222 | 148,416.00
First Light, Inc./Noahs Ark 2017 Renewal | 2230 4th Avenue North | Birmingham | AL | 35203 | 149,117.00
The Alabama Rural Coalition for the Homeless/Rural Housing Stability Assistance Program (RH-SAP) | Post Office Box 451 | Montgomery | AL | 36101 | 150,090.00
Montgomery Area Family Violence Program Inc./Phase I Transitional Housing Program for Family Violence Victims | P.O. Box 5160 | Montgomery | AL | 36103 | 167,788.00
The Alabama Rural Coalition for the Homeless/ARCH Project Changing Lives | Post Office Box 451 | Montgomery | AL | 36101 | 201,474.00
The Cooperative Downtown Ministries, Inc./17 Nash Renewal | P.O. Box 11722 | Birmingham | AL | 35202 | 223,262.00
Housing First, Inc./Returning Citizens Housing Program | 3929 Airport Blvd., Building 3, Suite 110 | Mobile | AL | 36609 | 232,448.00
Housing First, Inc./RRH for Families and Youth | 3929 Airport Blvd., Building 3, Suite 110 | Mobile | AL | 36609 | 238,953.00
One Roof/CoC Planning Project Application FY2017 | 1515 6th Avenue South | Birmingham | AL | 35233 | 259,416.00
Jefferson-Blount-St. Clair Mental Health/Mental Retardation/Supportive Housing Program FY17 | 940 Montclair Road, Suite 200 | Birmingham | AL | 35213 | 267,051.00
State of Alabama/Shelter + Care | 100 North Union Street RSA Union Building, Suite 420 | Montgomery | AL | 36130 | 284,459.00
AIDS Alabama, Inc./Way Station TH/RRH FY2017 | 3529 7th Avenue South | Birmingham | AL | 35222 | 293,881.00
Huntsville Housing Authority/Shelter Plus Care 2017 | 200 Washington Street | Huntsville | AL | 35801 | 351,208.00
One Roof/Coordinated Assessment | 1515 6th Avenue South | Birmingham | AL | 35233 | 377,643.00
City of Florence Office of Planning & Development/TH & Supportive Services | 110 W. College Street, Suite 115 | Florence, | AL | 35631 | 408,934.00
Housing First, Inc./Permanent Housing Chronic Homeless | 3929 Airport Blvd. Building 3, Suite 110 | Mobile | AL | 36609 | 457,641.00
The Cooperative Downtown Ministries, Inc./2017 Consolidated PSH Renewal | P.O. Box 11722 | Birmingham | AL | 35202 | 465,962.00
Aletheia House/Rapid Re-housing for Individuals and Families with Substance Use Disorders | P.O. Box 1514 | Birmingham | AL | 35201 | 466,823.00
AIDS Alabama, Inc./Ascension Project FY2017 | 3529 7th Avenue South | Birmingham | AL | 35222 | 475,253.00
AIDS Alabama, Inc./Rapid Re Housing FY2017 | 3529 7th Avenue South | Birmingham | AL | 35222 | 499,431.00
The Alabama Rural Coalition for the Homeless/ARCH CONNECT | Post Office Box 451 | Montgomery | AL | 36101 | 524,453.00
Lighthouse Counseling Center, Inc./LIFE | 111 Coliseum Boulevard, none | Montgomery | AL | 36109 | 534,204.00
Housing First, Inc./Disabled Homeless Program PH | 3929 Airport Blvd., Building 3, Suite 110 | Mobile | AL | 36609 | 562,261.00
Jefferson-Blount-St. Clair Mental Health/Mental Retardation/REACT Supportive Housing FY17 | 940 Montclair Road, Suite 200 | Birmingham | AL | 35213 | 586,812.00
Housing First, Inc./Community Connections Network (CCN) | 3929 Airport Blvd., Building 3, Suite 110 | Mobile | AL | 36609 | 752,973.00
Montgomery Area Mental Health Authority, Inc./525—Supportive Housing for Persons with Dual Diagnosis | 2140 Upper Wetumpka Rd | Montgomery | AL | 36107 | 903,335.00
Housing First, Inc./Community Housing Program | 3929 Airport Blvd., Building 3, Suite 110 | Mobile | AL | 36609 | 1,008,672.00
Jefferson County Housing Authority/AL0013L4C0016909 | 3700 Industrial Parkway | Birmingham | AL | 35217 | 3,972,374.00
Committee Against Spouse Abuse/transitional housing for victims of domestic violence expansion project | 1113 State Street | Pine Bluff | AR | 71601 | 4,391.00
Ozark Opportunities, Inc./CoC Planning FY2017 | 701 East Prospect | Harrison | AR | 72601 | 6,980.00
Community Development Corporation of Bentonnville/Bella VIsta, Inc./NWA CoC Consolidated 2017 | 808 NORTH MAIN #1 | BENTONVILLE | AR | 72712 | 30,817.00
Committee Against Spouse Abuse/transitional housing for victims of domestic violence | 1113 State Street | Pine Bluff | AR | 71601 | 31,307.00
City of Fayetteville/Health PSH bonus (1)—2017 | 113 West Mountain St | Fayetteville | AR | 72701 | 34,881.00
City of West Memphis/Shelter Plus Care Renewal Project | 205 South Redding Street | West Memphis | AR | 72301 | 35,472.00
Little Rock Community Mental Health Center, Inc./LRCMHC Outreach, Assessment and Treatment Program | 1100 North University Avenue | Little Rock | AR | 72207 | 36,311.00
Metropolitan Housing Alliance/MHA Portage House | 100 South Arch Street | Little Rock | AR | 72201 | 38,016.00
City of Fayetteville/Hearth PSH bonus (2) 2017 | 113 West Mountain St | Fayetteville | AR | 72701 | 38,397.00
Metropolitan Housing Alliance/MHA Jericho Program | 100 South Arch Street | Little Rock | AR | 72201 | 39,008.00
City of Fayetteville/Hearth TH—2017 | 113 West Mountain St | Fayetteville | AR | 72701 | 42,042.00
Community Development Corporation of Bentonnville/Bella VIsta, Inc./Havenwood—PHS Bonus 2017 | 808 NORTH MAIN #1 | BENTONVILLE | AR | 72712 | 43,319.00
Better Community Development, Inc./BCD Beyond Shelter Renewal 2017 | 3805 West 12th Street, Suite 203 | Little Rock | AR | 72204 | 43,890.00
Little Rock Community Mental Health Center, Inc./Arkansas management Information System Balance of State Expansion | 1100 North University Avenue | Little Rock | AR | 72207 | 52,221.00
ARVAC, Inc./Balance of State Planning | 613 N 5th Street | Dardanelle | AR | 72834 | 57,035.00
City of Little Rock/AR-500 CoC Planning Application FY2017 | 500 West Markham, Suite 120 W | Little Rock | AR | 72201 | 63,700.00
Little Rock Community Mental Health Center, Inc./Arkansas Management Information System | 1100 North University Avenue | Little Rock | AR | 72207 | 99,210.00
ARVAC, Inc./ARVAC Homeless Assistance | 613 N 5th Street | Dardanelle | AR | 72834 | 114,347.00
Little Rock Community Mental Health Center, Inc./LRCMHC Step 2 Project | 1100 North University Avenue | Little Rock | AR | 72207 | 153,227.00
Our House, Inc./FY2017 Family Housing Program—Our House | 302 E. Roosevelt Road | Little Rock | AR | 72206 | 162,568.00
City of Fayetteville/Hearth PSH—2017 | 113 West Mountain St | Fayetteville | AR | 72701 | 186,784.00
Bethlehem House, Inc./BH Transitional Housing Combined | 1115 Parkway St | Conway | AR | 72034 | 199,114.00
City of Pine Bluff/City of Pine Bluff Supportive Housing | 716 Georgia Street | Pine Bluff | AR | 71601 | 221,891.00
Little Rock Community Mental Health Center, Inc./LRCMHC Joseph Project | 1100 North University Avenue | Little Rock | AR | 72207 | 415,624.00
Little Rock Community Mental Health Center, Inc./LRCMHC Shelter Plus Care Program #44 | 1100 North University Avenue | Little Rock | AR | 72207 | 980,889.00
Little Rock Community Mental Health Center, Inc./LRCMHC Shelter Plus Care Program #43 | 1100 North University Avenue | Little Rock | AR | 72207 | 1,136,788.00
Arizona Department of Housing/WYGC-PH | 1110 West Washington, Suite 280 | Phoenix | AZ | 85007 | 28,622.00
Native American Connections, Inc./Sunrise Circle | 4520 N. Central Avenue, Ste. 600 | Phoenix | AZ | 85012 | 35,452.00
Arizona Department of Housing/Catholic Charities Skypointe | 1110 West Washington, Suite 280 | Phoenix | AZ | 85007 | 36,750.00
Arizona Department of Housing/Victory Place | 1110 West Washington, Suite 280 | Phoenix | AZ | 85007 | 38,676.00
Arizona Housing, Inc./Vista Commons-Collins Court | 209 West Jackson Street, Suite 100 | Phoenix | AZ | 85003 | 40,738.00
Arizona Department of Housing/Good Shepherd Support Housing | 1110 West Washington, Suite 280 | Phoenix | AZ | 85007 | 41,851.00
Southern Arizona AIDS Foundation/Positive Housing Opportunities II | 375 S. Euclid Ave | Tucson | AZ | 85719 | 48,785.00
Our Family Services, Inc./Your Place Youth TH 18-19 | 2590 N. Alvernon Way | Tucson | AZ | 85712 | 60,789.00
UMOM New Day Centers, Inc./Next Step Housing 2e | 3333 E. Van Buren Street | Phoenix | AZ | 85008 | 61,360.00
City of Tucson/Emerge! Center Against Domestic Abuse—Rapid Re-Housing for Survivors of Domestic Abuse | 310 N Commerce Park Loop, Santa Rita Building, First Floor | Tucson | AZ | 85726 | 61,535.00
Arizona Housing, Inc./Horace Steele-SMI Units | 209 West Jackson Street, Suite 100 | Phoenix | AZ | 85003 | 61,754.00
Arizona Department of Housing/Sycamore Canyon | 1110 West Washington, Suite 280 | Phoenix | AZ | 85007 | 64,835.00
Old Pueblo Community Foundation/Agave | 4501 E. 5th St | Tucson | AZ | 85711 | 65,275.00
Arizona Department of Housing/Cypress Grove | 1110 West Washington, Suite 280 | Phoenix | AZ | 85007 | 70,029.00
Phoenix Shanti Group/Shanti | 2345 W. Glendale Ave | Phoenix | AZ | 85021 | 73,346.00
Arizona Department of Housing/Sharon Manor RRH | 1110 West Washington, Suite 280 | Phoenix | AZ | 85007 | 75,344.00
Old Pueblo Community Foundation/Old Pueblo My Home Project | 4501 E. 5th St | Tucson | AZ | 85711 | 81,982.00
Arizona Department of Housing/Little Colorado Housing Program | 1110 West Washington, Suite 280 | Phoenix | AZ | 85007 | 82,116.00
Arizona Housing, Inc./Horace Steele-16 Units | 209 West Jackson Street, Suite 100 | Phoenix | AZ | 85003 | 84,964.00
Arizona Department of Housing/Forward Step | 1110 West Washington, Suite 280 | Phoenix | AZ | 85007 | 87,373.00
City of Mesa Housing Authority/2017 Shelter + Care | 20 E. Main Street, Suite 250, P.O. Box 1466 | Mesa | AZ | 85211 | 88,232.00
Native American Connections, Inc./Stepping Stones | 4520 N. Central Avenue, Ste. 600 | Phoenix | AZ | 85012 | 91,043.00
Southern Arizona AIDS Foundation/Long Term Housing | 375 S. Euclid Ave | Tucson | AZ | 85719 | 94,086.00
Arizona Department of Housing/Flagstaff Pines | 1110 West Washington, Suite 280 | Phoenix | AZ | 85007 | 100,181.00
Arizona Department of Housing/Hope House for Heroes | 1110 West Washington, Suite 280 | Phoenix | AZ | 85007 | 104,911.00
Arizona Department of Housing/AZ BOSCOC Planning 2017 | 1110 West Washington, Suite 280 | Phoenix | AZ | 85007 | 116,504.00
Arizona Department of Housing/Cochise County RRH | 1110 West Washington, Suite 280 | Phoenix | AZ | 85007 | 126,983.00
City of Tucson/Pathways | 310 N Commerce Park Loop, Santa Rita Building, First Floor | Tucson | AZ | 85726 | 131,097.00
Arizona Department of Housing/NARBHA-PSH | 1110 West Washington, Suite 280 | Phoenix | AZ | 85007 | 144,345.00
Arizona Department of Housing/Mohave County PSH 2011 Fresh Start | 1110 West Washington, Suite 280 | Phoenix | AZ | 85007 | 159,981.00
Arizona Department of Housing/Casas Primeras | 1110 West Washington, Suite 280 | Phoenix | AZ | 85007 | 166,650.00
Native American Connections, Inc./Catherine Arms | 4520 N. Central Avenue, Ste. 600 | Phoenix | AZ | 85012 | 171,828.00
Arizona Department of Housing/Dreamcatcher RRH | 1110 West, Washington Suite 280 | Phoenix | AZ | 85007 | 179,602.00
Community Bridges, Inc./CBI PSH 12 | 1855 West Baseline Road, Ste. 101 | Mesa | AZ | 85202 | 187,451.00
Arizona Department of Housing/Mohave County Permanent Housing (Bridging Northern Arizona) | 1110 West Washington, Suite 280 | Phoenix | AZ | 85007 | 195,565.00
Old Pueblo Community Foundation/Oasis Project | 4501 E. 5th. St | Tucson | AZ | 85711 | 196,391.00
Arizona Department of Housing/New Start Housing Project PSH | 1110 West Washington, Suite 280 | Phoenix | AZ | 85007 | 196,672.00
Pima County/Pima County HMIS Expansion | 2797 E Ajo Way | Tucson | AZ | 85713 | 200,000.00
Pima County/La Casita Renewal Grant FY' 2017 | 2797 E. Ajo Way, 400 East 26th Street | Tucson | AZ | 85713 | 200,919.00
Community Partnership of Southern Arizona/Frontiers | 4575 E. Broadway | Tucson | AZ | 85711 | 201,509.00
Pima County/One-Stop RRH Renewal Grant FY' 2017 | 2797 E. Ajo Way, 400 East 26th Street | Tucson | AZ | 85713 | 202,973.00
Save the Family Foundation of Arizona/Homeless Families Intervention Project Rapid Re-housing | 125 E. University | Mesa | AZ | 85201 | 212,742.00
Arizona Department of Housing/HMIS Project | 1110 West Washington, Suite 280 | Phoenix | AZ | 85007 | 213,140.00
Our Family Services, Inc./Homes First PSH 18-19 | 2590 N. Alvernon Way | Tucson | AZ | 85712 | 215,332.00
Pima County/Pima County HMIS | 2797 E Ajo Way | Tucson | AZ | 85713 | 221,492.00
Our Family Services, Inc./Home Again RRH 18-19 | 2590 N. Alvernon Way | Tucson | AZ | 85712 | 226,770.00
CODAC Behavioral Health Services/Enhanced Supported Housing | 1650 E. Ft. Lowell Rd., #202 | Tucson | AZ | 85719 | 232,161.00
Our Family Services, Inc./Home Again RRH Expansion 18-19 | 2590 N. Alvernon Way | Tucson | AZ | 85712 | 236,606.00
COPE Community Services, Inc./LifeWorks Supportive Housing Project | 82 S. Stone | Tucson | AZ | 85701 | 238,201.00
Community Partnership of Southern Arizona/CoC Planning Project Application FY2017 | 4575 E. Broadway | Tucson | AZ | 85711 | 245,094.00
Community Partnership of Southern Arizona/Medical Respite TH-RRH | 4575 E. Broadway | Tucson | AZ | 85711 | 245,730.00
Our Family Services, Inc./Secure Futures (RRH for Youth) | 2590 N. Alvernon Way | Tucson | AZ | 85712 | 248,286.00
CODAC Behavioral Health Services/Solitude | 1650 E. Ft. Lowell Rd., #202 | Tucson | AZ | 85719 | 258,936.00
UMOM New Day Centers, Inc./PSH for Youth Too | 3333 E. Van Buren Street | Phoenix | AZ | 85008 | 261,036.00
Arizona Department of Housing/Permanent Housing Yuma | 1110 West Washington, Suite 280 | Phoenix | AZ | 85007 | 269,683.00
Arizona Department of Housing/Northern Sky | 1110 West Washington, Suite 280 | Phoenix | AZ | 85007 | 286,015.00
UMOM New Day Centers, Inc./Regional Coordinated Entry MC | 3333 E. Van Buren Street | Phoenix | AZ | 85008 | 302,558.00
UMOM New Day Centers, Inc./Next Step Housing II | 3333 E. Van Buren Street | Phoenix | AZ | 85008 | 336,890.00
Community Partnership of Southern Arizona/Project Bienestar | 4575 E. Broadway | Tucson | AZ | 85711 | 337,817.00
Native American Connections, Inc./Stepping Stones III | 4520 N. Central Avenue, Ste. 600 | Phoenix | AZ | 85012 | 346,797.00
A New Leaf, Inc./A New Leaf Transitional Housing & Rapid Rehousing Program | 868 E. University Dr | Mesa | AZ | 85203 | 347,990.00
Community Bridges, Inc./CBI PSH 25 | 1855 West Baseline Road, Ste. 101 | Mesa | AZ | 85202 | 351,210.00
Arizona Department of Housing/Arizona Veterans In Progress | 1110 West Washington, Suite 280 | Phoenix | AZ | 85007 | 354,123.00
Arizona Department of Housing/SPC Rural | 1110 West Washington, Suite 280 | Phoenix | AZ | 85007 | 382,049.00
Arizona Behavioral Health Corporation/Casa de Paz | 1406 North 2nd Street | Phoenix | AZ | 85004 | 393,458.00
Community Information and Referral Services/Maricopa HMIS Project | 1275 W. Washington St., Suite 108 | Tempe | AZ | 85281 | 400,921.00
Pima County/Project Advent RRH Renewal Grant FY' 2017 | 2797 E. Ajo Way, 400 East 26th Street | Tucson | AZ | 85713 | 420,065.00
Save the Family Foundation of Arizona/New Directions Rapid Re-housing for Families | 125 E. University | Mesa | AZ | 85201 | 430,468.00
La Frontera Center, Inc./Sonora House Safe Haven | 504 W. 29th St | Tucson | AZ | 85713 | 433,245.00
Pima County/CASA Renewal Grant FY' 2017 | 2797 E. Ajo Way, 400 East 26th Street | Tucson | AZ | 85713 | 445,497.00
Arizona Behavioral Health Corporation/PSH 2009 | 1406 North 2nd Street | Phoenix | AZ | 85004 | 459,455.00
Arizona Department of Housing/SPC Yuma and La Paz | 1110 West Washington, Suite 280 | Phoenix | AZ | 85007 | 474,879.00
Native American Connections, Inc./Stepping Stones II | 4520 N. Central Avenue, Ste. 600 | Phoenix | AZ | 85012 | 511,408.00
Arizona Behavioral Health Corporation/HUD 3024 | 1406 North 2nd Street | Phoenix | AZ | 85004 | 547,443.00
Lodestar Day Resource Center/Regional Coordinated Entry MC LDRC | 1125 W. Jackson | Phoenix | AZ | 85007 | 552,600.00
Arizona Behavioral Health Corporation/Casa de Luz | 1406 North 2nd Street | Phoenix | AZ | 85004 | 558,847.00
ARM of Save the Family Foundation of Arizona/209 West Jackson-PSH | 125 E. University Drive | Mesa | AZ | 85201 | 613,573.00
City of Tucson/ECHO Permanent Supportive Housing Program | 310 N Commerce Park Loop, Santa Rita Building, First Floor | Tucson | AZ | 85726 | 660,631.00
City of Tucson/Shelter Plus Care IV—Operation Safe At Home | 310 N Commerce Park Loop, Santa Rita Building, First Floor | Tucson | AZ | 85726 | 691,467.00
UMOM New Day Centers, Inc./Next Step Housing | 3333 E. Van Buren Street | Phoenix | AZ | 85008 | 709,044.00
Arizona Behavioral Health Corporation/Casa Mia | 1406 North 2nd Street | Phoenix | AZ | 85004 | 723,318.00
Arizona Behavioral Health Corporation/PSH 3106 | 1406 North 2nd Street | Phoenix | AZ | 85004 | 731,807.00
Arizona Behavioral Health Corporation/PSH 3109 | 1406 North 2nd Street | Phoenix | AZ | 85004 | 731,807.00
Maricopa Association of Governments/AZ-502 CoC Planning Application FY 2017 | 302 N. 1st Avenue, Ste. 300 | Phoenix | AZ | 85003 | 759,415.00
City of Tucson/Shelter Plus Care Partnership | 310 N Commerce Park Loop, Santa Rita Building, First Floor | Tucson | AZ | 85726 | 772,076.00
Community Bridges, Inc./CBI PSH 54 | 1855 West Baseline Road, Ste. 101 | Mesa | AZ | 85202 | 807,715.00
Native American Connections, Inc./Camelback Pointe | 4520 N. Central Avenue, Ste. 600 | Phoenix | AZ | 85012 | 835,124.00
Arizona Department of Housing/Shelter Plus Care TRA Pima | 1110 West Washington, Suite 280 | Phoenix | AZ | 85007 | 966,088.00
Arizona Behavioral Health Corporation/HUD 3084 | 1406 North 2nd Street | Phoenix | AZ | 85004 | 991,653.00
Arizona Behavioral Health Corporation/PSH 2016 | 1406 North 2nd Street | Phoenix | AZ | 85004 | 1,006,418.00
Community Bridges, Inc./CBI PSH 75 | 1855 West Baseline Road, Ste. 101 | Mesa | AZ | 85202 | 1,087,171.00
Arizona Behavioral Health Corporation/Another Chance | 1406 North 2nd Street | Phoenix | AZ | 85004 | 1,244,995.00
Arizona Behavioral Health Corporation/SPC 151 | 1406 North 2nd Street | Phoenix | AZ | 85004 | 1,622,078.00
Arizona Behavioral Health Corporation/Village | 1406 North 2nd Street | Phoenix | AZ | 85004 | 1,910,184.00
Arizona Behavioral Health Corporation/SPC 189 | 1406 North 2nd Street | Phoenix | AZ | 85004 | 2,046,944.00
Arizona Behavioral Health Corporation/SPC 293 | 1406 North 2nd Street | Phoenix | AZ | 85004 | 3,157,522.00
Sutter Yuba Homeless Consortium/2017 Planning Grant | 1521 Butte House Road, Suite C | Yuba City | CA | 95993 | 2,490.00
Inyo Mono Advocates for Community Action, Inc./CA-530 CoC Planning Application FY2017 | 137 E. South Street | Bishop | CA | 93514 | 3,164.00
Alternatives to Violence/CA-527 CoC Planning Project FY2017 | 1805 Walnut Street | Red Bluff | CA | 96080 | 5,524.00
Glenn County Health & Human Services/CoC Planning Project 2017 | 420 E. Laurel Street | Willows | CA | 95988 | 6,469.00
The Center for Violence-Free Relationships/CoC Planning Application FY 2017 | 344 Placerville Dr., Suite 11 | Placerville | CA | 95667 | 9,330.00
The Center for Violence-Free Relationships/HMIS Renewal 2017 | 344 Placerville Dr., Suite 11 | Placerville | CA | 95667 | 9,817.00
Placer County Health and Human Services Adult System of Care/Placer St 2011 FY 2016 | 11512 B Avenue | Auburn | CA | 95603 | 13,294.00
Yolo Community Care Continuum/Planning Project Application 2017 | 285 West Court Street, Suite 207 | Woodland | CA | 95695 | 14,737.00
Encompass Community Services/Freedom Cottages | 380 Encinal St., Suite 200 | Santa Cruz | CA | 95060 | 15,645.00
Amador Tuolumne Community Action Agency/ASH-PSH 2017 | 935 S Highway 49 | Jackson | CA | 95642 | 16,824.00
Amador-Tuolumne Community Action Agency/PSH Tuolumne | 935 S Highway 49 | Jackson | CA | 95642 | 16,856.00
Sierra HOPE/Sierra HOPE SHP 2 | 1168 Booster Way | Angels Camp | CA | 95222 | 16,893.00
Catholic Charities, Diocese of San Diego/IVC Planning Project 2017 | 3888 Paducah Drive | San Diego | CA | 92117 | 17,060.00
Community Action Agency of Butte County/2017 CoC Planning Project | 181 E. Shasta | Chico | CA | 95928 | 17,105.00
Amador-Tuolumne Community Action Agency/PSH Tuolumne 2014 | 935 S Highway 49 | Jackson | CA | 95642 | 17,136.00
County of Napa Health and Human Services Agency/Coordinated Assessment 2017 | 2751 Napa Valley Corporate Drive South Campus, Building B, 2nd Floor | Napa | CA | 94558 | 19,054.00
Placer County Health and Human Services Adult System of Care/Timberline Shelter Plus Care FY 2016 | 11512 B Avenue | Auburn | CA | 95603 | 20,718.00
County of Napa Health and Human Services Agency/CA-517 CoC Planning Application 2017 | 2751 Napa Valley Corporate Drive South Campus, Building B, 2nd Floor | Napa | CA | 94558 | 20,839.00
Advocates for Mentally Ill Housing, Inc/Permanent Supportive Housing 4 | 11768 Atwood Road, Suite 6 | Auburn | CA | 95603 | 21,079.00
Advocates for Mentally Ill Housing, Inc/Permanent Supportive Housing 2 | 11768 Atwood Road, Suite 6 | Auburn | CA | 95603 | 22,251.00
Many Mansions, a California nonprofit corporation/D-Street Apartments 2017 | 1259 E. Thousand Oaks Blvd | Thousand Oaks | CA | 91362 | 22,506.00
County of Santa Barbara/Clean and Sober Living | 123 E. Anapamu St., 2nd Floor | Santa Barbara | CA | 93101 | 23,364.00
Humboldt, County of, DBA—Dept. of Health and Human Services/CA-522 CoC Planning Application FY2017 | 507 F Street | Eureka | CA | 95501 | 23,970.00
City of Woodland/Bonus Project (2016) PSH for CH 2017 | 300 First Street | Woodland | CA | 95695 | 24,309.00
County of Nevada/Home Anew Renewal 3 | 950 Maidu Avenue NA | Nevada City | CA | 95959 | 24,950.00
Homeward Bound of Marin/Palm Court III | 1385 North Hamilton Parkway | Novato | CA | 94949 | 25,705.00
Homeward Bound of Marin/Palm Court II | 1385 North Hamilton Parkway | Novato | CA | 94949 | 25,727.00
Community Homeless Solutions/Casa de Paz | P.O. Box 1340 | Marina | CA | 93933 | 26,500.00
United Way of Merced County/CA-520 CoC Planning Application FY2017 | 658 W. Main Street | Merced | CA | 95340 | 26,533.00
Butte County Department of Behavioral Health/LINK Permanent Housing Bonus | 3217 Cohasset Road | Chico | CA | 95973 | 27,591.00
Butte County Department of Behavioral Health/Permanent Housing Bonus SEARCH II | 3217 Cohasset Road | Chico | CA | 95973 | 27,790.00
Butte County Department of Behavioral Health/SEARCH III Supportive Housing Program | 3217 Cohasset Road | Chico | CA | 95973 | 27,872.00
Shasta County/CoC Planning Project | 1450 Court Street, Suite 108 | Redding | CA | 96001 | 28,688.00
Housing Authority of the City of Santa Barbara/Shelter Plus Care PRA for Artisan Court—2017 Renewal Grant | 808 Laguna Street | Santa Barbara | CA | 93101 | 28,925.00
County of Napa Health and Human Services Agency/Permanent Supportive Housing II 2017 | 2751 Napa Valley Corporate Drive South Campus, Building B, 2nd Floor | Napa | CA | 94558 | 29,740.00
County of Shasta/HMIS | 1450 Court St., Suite 108 | Redding | CA | 96001 | 30,000.00
Turning Point Foundation/Stephenson Place Permanent Housing 2017 | 557 East Thompson Blvd. | Ventura | CA | 93001 | 30,280.00
Arcata House Partnership/MHSA Permanent Supportive Housing | 1005 11th Street | Arcata | CA | 95521 | 30,368.00
Valley Teen Ranch/Valley Teen Ranch | 2610 W Shaw Ln, #105 | Fresno | CA | 93711 | 30,620.00
Humboldt Community Access and Resource Centers/Coordinated Entry | 1707 E. Street, Suite 2 | Eureka | CA | 95501 | 31,549.00
County of Ventura/Santa Paula CoC | 1911 Williams Drive, Suite 200 | Oxnard | CA | 93036 | 32,084.00
Caminar/Bonus Grant | 908 Tuolumne Street | Vallejo | CA | 94590 | 32,361.00
Marjaree Mason Center, Inc./MMC Welcome Home 2a | 1600 M Street | Fresno | CA | 93721 | 32,774.00
Caminar/Sereno Village Expansion | 908 Tuolumne Street | Vallejo | CA | 94590 | 33,014.00
Catholic Charities, Diocese of San Diego/Ninth and F Street Apts | 3888 Paducah Drive | San Diego | CA | 92117 | 33,141.00
The Association For Community Housing Solutions, dba Housing Innovation Partners/TACHS/HIP Operations Expansion | 5151 Murphy Canyon Road, Suite #120 | San Diego | CA | 92123 | 33,360.00
City and County of San Francisco Project Applicant/San Francisco HMIS 2016 | 1650 Mission St., 3RD Floor | San Francisco | CA | 94103 | 33,909.00
Turning Point Foundation/Wooley House Permanent Housing II 2017 | 557 East Thompson Blvd | Ventura | CA | 93001 | 34,234.00
Chico Community Shelter Partnership/Friends House | 101 Silver Dollar Way | Chico | CA | 95928 | 34,410.00
Advocates for Mentally Ill Housing, Inc/Permanent Supportive Housing 1 | 11768 Atwood Road, Suite 6 | Auburn | CA | 95603 | 34,821.00
Los Angeles Homeless Services Authority/Far East Building | 811 Wilshire Boulevard, 6th Floor | Los Angeles | CA | 90017 | 35,666.00
County of Napa Health and Human Services Agency/HMIS 2017 | 2751 Napa Valley Corporate Drive South Campus, Building B, 2nd Floor | Napa | CA | 94558 | 35,887.00
Alameda County Allied Housing Program/Carmen Avenue Apartments | 40849 Fremont Blvd | Fremont | CA | 94538 | 36,166.00
United Way of Merced County/Coordinated Entry System | 658 W. Main Street | Merced | CA | 95340 | 36,385.00
Butte County Department of Behavioral Health/SEARCH Samaritan Bonus | 3217 Cohasset Road | Chico | CA | 95973 | 36,617.00
Community Action Partnership of Solano—JPA/CA-518 CoC Planning Application FY2017 | 701 Civic Center Boulevard | Suisun City | CA | 94585 | 36,956.00
Homeless Resource Council of the Sierras/2017 CoC Planning Grant | 11768 Atwood Road Suite 6 | Auburn | CA | 95603 | 36,981.00
Many Mansions, a California nonprofit corporation/Esseff Village—Expansion | 1259 E. Thousand Oaks Blvd | Thousand Oaks | CA | 91362 | 37,118.00
Community Action North Bay/Fairfield VETS Program | 416 Union Avenue | Fairfield | CA | 94533 | 37,202.00
Community Action North Bay/Living Self-Reliantly | 416 Union Avenue | Fairfield | CA | 94533 | 37,203.00
San Luis Obispo County/CA-614 CoC Planning Application FY2017 | 976 Osos Street, Room 300 | San Luis Obispo | CA | 93408 | 37,699.00
Sierra Saving Grace Homeless Project/Sierra Saving Grace Homeless Project | 2222 T St | Merced | CA | 95340 | 39,317.00
New Hope Village, Inc./New Hope, Too! 2017 | 100 W. Fredricks | Barstow | CA | 92311 | 39,344.00
Turning Point Foundation/Wooley House Permanent Housing I 2017 | 557 East Thompson Blvd | Ventura | CA | 93001 | 39,566.00
Bonita House, Inc./Channing Way Apartments | 6333 Telegraph Avenue, Suite #102 | Oakland | CA | 94609 | 39,767.00
Mental Health Association of San Mateo County/Spring Street Transitional Housing | 2686 Spring Street | Redwood City | CA | 94063 | 40,283.00
County of Nevada/Winters' Haven Renewal 3 | 950 Maidu Avenue NA | Nevada City | CA | 95959 | 40,580.00
Many Mansions, a California nonprofit corporation/Esseff Village 2017 | 1259 E. Thousand Oaks Blvd | Thousand Oaks | CA | 91362 | 40,760.00
Humboldt, County of, DBA-Dept. of Health and Human Services/Project HART Expansion | 507 F Street | Eureka | CA | 95501 | 40,917.00
Turning Point Community Programs/TP Merced Bonus Renewal 2017 | 1001 Needham st | Modesto | CA | 95354 | 40,938.00
Housing Authority of the County of Butte/Search South SPC PH | 2039 Forest Avenue | Chico | CA | 95928 | 41,518.00
County of Santa Cruz Health Services Agency/MATCH II | 115-A Coral Street | Santa Cruz | CA | 95060 | 41,662.00
City of Tulare/Tulare Housing First II Bonus | 411 East Kern Avenue | Tulare | CA | 93274 | 42,533.00
Los Angeles Homeless Services Authority/Willis Avenue Apartments—C | 811 Wilshire Boulevard, 6th Floor | Los Angeles | CA | 90017 | 42,800.00
Alameda County/Tri-City FESCO Bridgeway Apartments | 224 W. Winton Ave, Room 108 | Hayward | CA | 94544 | 42,973.00
County of Ventura/SVDPLA FY17 Rapid ReHousing | 800 South Victoria Avenue, L#1940 | Ventura | CA | 93009 | 42,990.00
County of Riverside/Housing Authority EHOP | 4060 County Circle Drive | Riverside | CA | 92503 | 43,027.00
Center for Human Services/Pathways-Support Services Only | 2000 W. Briggsmore Ave., Suite I | Modesto | CA | 95350 | 43,241.00
Community Working Group/Opportunity Center of the Midpeninsula | 2507-A Alma Street, N/A | Palo Alto | CA | 94301 | 43,936.00
Catholic Charities, Diocese of San Diego/IV CAP II | 3888 Paducah Drive | San Diego | CA | 92117 | 44,000.00
Encompass Community Services/Housing for Health 2 | 380 Encinal St., Suite 200 | Santa Cruz | CA | 95060 | 44,108.00
Stairways Programming/Opportunity House | P.O. Box 3806 | Chico | CA | 95927 | 44,198.00
Satellite Affordable Housing Associates/Peter Babcock House | 1835 Alcatraz Ave | Berkeley | CA | 94703 | 45,245.00
City of Pasadena/2017 Shelter Plus Care 08 | 649 N. Fair Oaks Ave., Suite 202 | Pasadena | CA | 91103 | 45,749.00
Bethany Services, Inc. dba Bakersfield Homeless Center/Casa Nueva Placement and Supportive Services | 1600 East Truxtun Ave | Bakersfield | CA | 93305 | 45,858.00
City of Pasadena/2017 Navarro House | 649 N. Fair Oaks Ave., Suite 202 | Pasadena | CA | 91103 | 46,226.00
Los Angeles Homeless Services Authority/Central Court Apartments | 811 Wilshire Boulevard, 6th Floor | Los Angeles | CA | 90017 | 46,268.00
Butte County Department of Behavioral Health/SEARCH II Supportive Housing Program | 3217 Cohasset Road | Chico | CA | 95973 | 46,453.00
We Care Program—Turlock/We Care Turlock Permanent Housing | 221 S. Broadway | Turlock | CA | 95380 | 46,798.00
Humboldt, County of, DBA-Dept. of Health and Human Services/Project HART | 507 F Street | Eureka | CA | 95501 | 46,871.00
Humboldt, County of, DBA-Dept. of Health and Human Services/Humboldt Housing | 507 F Street | Eureka | CA | 95501 | 47,311.00
Homeward Bound of Marin/Palm Court IV | 1385 North Hamilton Parkway | Novato | CA | 94949 | 47,813.00
Sierra HOPE/Sierra HOPE SHP 1 | 1168 Booster Way | Angels Camp | CA | 95222 | 48,173.00
County of Santa Barbara/Santa Maria/Santa Barbara CoC Planning 2017 | 123 E. Anapamu St., 2nd Floor | Santa Barbara | CA | 93101 | 48,449.00
Bethany Services, Inc. dba Bakersfield Homeless Center/Casa Nueva II Placement and Supportive Services Project | 1600 East Truxtun Ave | Bakersfield | CA | 93305 | 48,500.00
Caminar/Laurel Gardens | 908 Tuolumne Street | Vallejo | CA | 94590 | 48,824.00
HOUSING AUTHORITY OF THE CITY OF LOS ANGELES (HACLA)/2017 Project New Hope Tripp House CA0921 | 2600 WILSHIRE BLVD., 3RD FLOOR | LOS ANGELES | CA | 90057 | 48,931.00
Arcata House Partnership/Apartments First Expansion 2017 | 1005 11th Street | Arcata | CA | 95521 | 48,942.00
Mendocino County Health and Human Services Agency/CoC Planning Project 2017 | 747 S. State St | Ukiah | CA | 95482 | 49,496.00
Sonoma County Community Development Commission/Homeless Management Information System (HMIS) Expansion | 1440 Guerneville Road | Santa Rosa | CA | 95403 | 50,000.00
Amador-Tuolumne Community Action Agency/HMIS | 935 S Highway 49 | Jackson | CA | 95642 | 50,000.00
St. Vincent de Paul Village, Inc./Boulevard Apartments | 3350 E Street | San Diego | CA | 92102 | 50,168.00
Community Support Network/Stony Point Commons | 1410 Guerneville Road, Suite 14 | Santa Rosa | CA | 95403 | 50,746.00
Los Angeles Homeless Services Authority/Willow Apartments | 811 Wilshire Boulevard, 6th Floor | Los Angeles | CA | 90017 | 50,980.00
The Salvation Army/ReAllocation HMIS Project | 10725 Alta St | Grass Valley | CA | 95945 | 51,266.00
Housing Authority City of Fresno/Permanent Supportive Housing, Blackstone | 1331 Fulton Mall | Fresno | CA | 93721 | 51,918.00
A Community of Friends/Parker Hotel | 3701 Wilshire Boulevard, Suite 700 | Los Angeles | CA | 90010 | 53,245.00
Su Casa—Ending Domestic Violence/Su Casa Supportive Housing Program 2017 | 3840 Woodruff Avenue—Suite 203 | Long Beach | CA | 90808 | 53,462.00
Los Angeles Homeless Services Authority/Osborne Place Apartments—C | 811 Wilshire Boulevard, 6th Floor | Los Angeles | CA | 90017 | 53,500.00
Housing Authority of the County of Merced/Shelter Plus Care Renewal Proj App FY2017 | 405 U Street | Merced | CA | 95341 | 53,586.00
Kings United Way/HMIS Supplemental | 125 West 7th Street | Hanford | CA | 93230 | 53,672.00
Community Services & Employment Training, Inc./Permanent Supportive Housing—Visalia (CA1273L9T131401) | 312 Northwest 3rd Avenue | Visalia | CA | 93291 | 54,159.00
Community HousingWorks/Las Casitas Permanent Supportive Housing | 2815 Camino del Rio South, Suite 350 | San Diego | CA | 92108 | 54,172.00
County of Los Angeles, Housing Authority/A Community of Friends 4—Las Flores | 700 W. Main Street | Alhambra | CA | 91801 | 54,678.00
San Luis Obispo County/Bordeaux North County Expansion | 976 Osos Street, Room 300 | San Luis Obispo | CA | 93408 | 55,626.00
Solano County Health & Social Services/CalWORKs PSH 2 | 365 Tuolumne St, MS 23-200 | Vallejo | CA | 94590 | 55,790.00
City of Glendale/Glendale Housing Authority/2011 Shelter Plus Care Project | 141 N. Glendale Ave., Room 202 | Glendale | CA | 91206 | 55,922.00
Los Angeles Homeless Services Authority/HFL Van Nuys Apartments | 811 Wilshire Boulevard, 6th Floor | Los Angeles | CA | 90017 | 56,275.00
Humboldt, County of, DBA-Dept. of Health and Human Services/Humboldt Housing Expansion | 507 F Street | Eureka | CA | 95501 | 56,550.00
Transition House/Firehouse | 425 E. Cota Street | Santa Barbara | CA | 93101 | 56,855.00
Housing Authority of the County of Santa Cruz/Brommer Street | 2931 Mission Street | Santa Cruz | CA | 95060 | 57,067.00
Housing Authority of the City of Santa Barbara/Shelter Plus Care PRA for Bradley Studios II—2017 Renewal Grant | 808 Laguna Street | Santa Barbara | CA | 93101 | 57,866.00
Los Angeles Homeless Services Authority/Carriage House | 811 Wilshire Boulevard, 6th Floor | Los Angeles | CA | 90017 | 58,052.00
City of Glendale/Glendale Housing Authority/2010 Shelter Plus Care Project | 141 N. Glendale Ave., Room 202 | Glendale | CA | 91206 | 58,422.00
City of Tulare/Tulare Housing First | 411 East Kern Avenue | Tulare | CA | 93274 | 58,720.00
Community Housing and Shelter Services/Permanent Supportive Housing for Families with Children | 708 H. Street | Modesto | CA | 95354 | 59,257.00
MidPen Housing Corporation/21 Soledad Street Housing Community CoC—PSH Bonus | 303 Vintage Park Drive, Suite 250 | Foster City | CA | 94404 | 59,604.00
Los Angeles Homeless Services Authority/Lincoln Hotel | 811 Wilshire Boulevard, 6th Floor | Los Angeles | CA | 90017 | 60,177.00
Solano County Health & Social Services/CalWORKs PSH 3 | 365 Tuolumne St, MS 23-200 | Vallejo | CA | 94590 | 60,208.00
Arcata House Partnership/SVK | 1005 11th Street | Arcata | CA | 95521 | 60,858.00
San Luis Obispo County/HMIS | 976 Osos Street, Room 300 | San Luis Obispo | CA | 93408 | 61,160.00
Fairfield, California/Restoration Project | Office of the City Manager 1000 Webster Street | Fairfield | CA | 94533 | 61,187.00
City of Pasadena/2017 Shelter Plus Care 11 | 649 N. Fair Oaks Ave., Suite 202 | Pasadena | CA | 91103 | 61,237.00
Coalition of Homeless Services Providers/CA-506 CoC Planning Application 2017 | 220 12th St | Marina | CA | 93933 | 62,100.00
Mercy House Living Centers/CA-602-Mills End | P.O. Box 1905 | Santa Ana | CA | 92702 | 62,162.00
County of Mariposa/Mariposa PSH—CoC 2017 | P.O. Box 99 5362 Lemee Lane | Mariposa | CA | 95338 | 62,240.00
Family Services of Tulare County/Tulare County PSH II | 815 W. Oak | Visalia | CA | 93291 | 62,897.00
Los Angeles Homeless Services Authority/Elm Street Homes | 811 Wilshire Boulevard, 6th Floor | Los Angeles | CA | 90017 | 62,993.00
Many Mansions, a California nonprofit corporation/Casa de Paz/La Rahada 2017 | 1259 E. Thousand Oaks Blvd | Thousand Oaks | CA | 91362 | 63,319.00
Kings/Tulare Continuum of Care on Homelessness/CoC Planning Project | 1900 N. Dinuba Boulevard, Suite G | Visalia | CA | 93291 | 63,832.00
Sonoma County Community Development Commission/Renewal Rental Assistance—Youth with Disabilities | 1440 Guerneville Road | Santa Rosa | CA | 95403 | 63,962.00
County of Santa Barbara/HMIS Expansion I | 123 E. Anapamu St., 2nd Floor | Santa Barbara | CA | 93101 | 64,283.00
Orange County Housing Authority/Colette's Children's Home Shelter Plus Care TRA 2017 Renewal Project | 1770 North Broadway | Santa Ana | CA | 92706 | 64,665.00
Northern Valley Catholic Social Service, Inc/Partners in Housing II | 2400 Washington Avenue | Redding | CA | 96001 | 65,280.00
Many Mansions, a California nonprofit corporation/Peppertree Apartments 2017 | 1259 E. Thousand Oaks Blvd | Thousand Oaks | CA | 91362 | 65,395.00
City of Davis/Transitional Housing Program for Homeless Single Men and Women | 23 Russell Boulevard | Davis | CA | 95616 | 66,282.00
Bethany Services, Inc. dba Bakersfield Homeless Center/Casa Nueva III Placement and Supportive Services Project | 1600 East Truxtun Ave | Bakersfield | CA | 93305 | 66,463.00
Many Mansions, a California nonprofit corporation/Richmond Terrace 2017 | 1259 E. Thousand Oaks Blvd | Thousand Oaks | CA | 91362 | 66,561.00
Caminar/Avenida Apartments Supportive Housing Projct | 376 Rio Lindo Ave | Chico | CA | 95926 | 66,626.00
Community HousingWorks/El Norte Permanent Supportive Housing | 2815 Camino del Rio South Suite 350 | San Diego | CA | 92108 | 67,128.00
Stanislaus County Affordable Housing Corp/Supportive Housing Outreach Project | 1207 13th Street, Suite 2 | Modesto | CA | 95354 | 67,931.00
County of Santa Cruz/CA-508 CoC Planning Application FY2017 | 701 Ocean St., Room 418 | Santa Cruz | CA | 95060 | 68,546.00
City of Glendale/Glendale Housing Authority/CoC Planning Project Application FY 2017 | 141 N. Glendale Ave., Room 202 | Glendale | CA | 91206 | 69,082.00
Community Action North Bay/Living Self-Sufficiently | 416 Union Avenue | Fairfield | CA | 94533 | 69,483.00
Humboldt, County of, DBA-Dept. of Health and Human Services/Humboldt County HMIS | 507 F Street | Eureka | CA | 95501 | 69,500.00
Alameda County/Spirit of Hope I | 224 W. Winton Ave, Room 108 | Hayward | CA | 94544 | 70,208.00
Women's Daytime Drop-In Center/Bridget Transitional House | 2218 Acton Street, N/A | Berkeley | CA | 94702 | 70,289.00
HOUSING AUTHORITY OF THE CITY OF LOS ANGELES (HACLA)/2017 Special Services for Groups—TRA—Scattered Sites CA0328 | 2600 WILSHIRE BLVD., 3RD FLOOR | LOS ANGELES | CA | 90057 | 70,832.00
Amador-Tuolumne Community Action Agency/TRC RRH FY 2017 | 935 S Highway 49 | Jackson | CA | 95642 | 72,999.00
County of Riverside/Shelter Plus Care Project Based w/OSH | 4060 County Circle Drive | Riverside | CA | 92503 | 73,667.00
Mental Health Association of San Mateo County/SAYAT | 2686 Spring Street | Redwood City | CA | 94063 | 74,666.00
Housing Authority of the County of San Mateo/Shelter Plus Care Tenant Based (SP10 Supportive Services) | 264 Harbor Blvd., #A | Belmont | CA | 94002 | 74,768.00
County of Santa Cruz/Coordinated Entry System | 701 Ocean St., Room 418 | Santa Cruz | CA | 95060 | 75,000.00
Homes for Life Foundation/Harvest House | 8939 S. Sepulveda Boulevard, Suite 460 | Los Angeles | CA | 90045 | 75,328.00
WillBridge of Santa Barbara, Inc./WillBridge Master Lease Project | 2904 State Street, Suite A | Santa Barbara | CA | 93105 | 75,575.00
Housing Authority City of Fresno/Permanent Supportive Housing Trinity | 1331 Fulton Mall | Fresno | CA | 93721 | 76,215.00
Housing Authority City of Fresno/HMIS Expansion | 1331 Fulton Mall | Fresno | CA | 93721 | 76,500.00
Los Angeles Homeless Services Authority/Garden Villas Homes | 811 Wilshire Boulevard, 6th Floor | Los Angeles | CA | 90017 | 76,501.00
Good Samaritan Shelter/Casa de Familia | 245 E, Inger Drive, Suite 103B | Santa Maria | CA | 93456 | 76,556.00
Lutheran Social Services of Southern California/Permanent Housing for Homeless with HIV/AIDS | 435 W. Orange Show Lane, Suite 104 | San Bernardino | CA | 92408 | 76,700.00
Community HousingWorks/Pine View Permanent Supportive Housing | 2815 Camino del Rio South, Suite 350 | San Diego | CA | 92108 | 78,448.00
Good Samaritan Shelter/Northern SB County Rapid Rehousing | 245 E, Inger Drive, Suite 103B | Santa Maria | CA | 93456 | 78,804.00
City of Glendale/Glendale Housing Authority/Chester Street Permanent Supportive Housing Program | 141 N. Glendale Ave., Room 202 | Glendale | CA | 91206 | 78,929.00
Housing Authority City of Fresno/Renaissance at Santa Clara | 1331 Fulton Mall | Fresno | CA | 93721 | 78,948.00
Kings Community Action Organization/Every Door Open | 1130 N. 11th Avenue | Hanford | CA | 93230 | 78,958.00
Center for Human Services/Pathways | 2000 W. Briggsmore Ave., Suite I | Modesto | CA | 95350 | 78,976.00
Kings/Tulare Continuum of Care on Homelessness/Coordinated Entry | 1900 N. Dinuba Boulevard, Suite G | Visalia | CA | 93291 | 79,200.00
SANTA BARBARA COMMUNITY HOUSING CORP./Hotel de Riviera Permanent Supportive Housing FY2017 | 11 E. HALEY STREET | SANTA BARBARA | CA | 93101 | 79,444.00
Turning Point of Central California, Inc./Casa de Robles 2 Permanent Supportive Housing | 615 S. Atwood St | Visalia | CA | 93277 | 79,525.00
Community Action Partnership of Solano—JPA/Coordinated Entry System 2017 | 701 Civic Center Boulevard | Suisun City | CA | 94585 | 80,000.00
Sierra Saving Grace Homeless Project/Sierra Saving Grace Homeless Project 2 | 2222 T St | Merced | CA | 95340 | 80,076.00
San Mateo County Human Services Agency/San Mateo County HMIS Project 2017 | 1 Davis Drive | Belmont | CA | 94002 | 80,110.00
West County Community Services/Mill Street Supportive Housing | 16390 Main St | Guerneville | CA | 95446 | 80,196.00
Kern Behavioral Health & Recovery Services/KCMH-HMIS | 2001 28th Street | Bakersfield | CA | 93302 | 80,409.00
Caminar/Sereno Village | 908 Tuolumne Street | Vallejo | CA | 94590 | 80,667.00
Kings Community Action Organization/Anchors IV | 1130 N. 11th Avenue | Hanford | CA | 93230 | 80,939.00
Alameda County/Banyan House Transitional Housing | 224 W. Winton Ave, Room 108 | Hayward | CA | 94544 | 81,320.00
Los Angeles Homeless Services Authority/Elm Street Apartments Expansion | 811 Wilshire Boulevard, 6th Floor | Los Angeles | CA | 90017 | 81,391.00
County of Ventura Human Services Agency/Ventura County Rapid Re-Housing Program | 855 Partridge Drive | Ventura | CA | 93003 | 81,829.00
Los Angeles Homeless Services Authority/Sequoia Apartments—C | 811 Wilshire Boulevard, 6th Floor | Los Angeles | CA | 90017 | 82,430.00
Resources for Community Development/Regent Street | 2220 Oxford St | Berkeley | CA | 94704 | 82,552.00
Veterans Transition Center/The Coming Home Program | 220 12th Street | Marina | CA | 93933 | 82,555.00
Catalyst Domestic Violence Services/Rapid Re-Housing | 330 Wall Street Ste 50 | Chico | CA | 95928 | 82,637.00
Merced County Community Action Board/MCCAA HMIS FY2017 | P.O. Box 2085 1235 W Main Street | Merced | CA | 95344 | 82,709.00
Sacramento Steps Forward/Rapid Rehousing for Youth | 1331 Garden Highway, Suite 100 | Sacramento | CA | 95833 | 82,860.00
County of San Diego/MHS S+C Housing Plus IIIa | 3989 Ruffin Road | San Diego | CA | 92123 | 83,173.00
Interval House/Rapid Rehousing Program | P.O. Box 3356 | Seal Beach | CA | 90740 | 83,349.00
Housing Authority City of Fresno/SSO Coordinated Entry | 1331 Fulton Mall | Fresno | CA | 93721 | 83,547.00
Kings Community Action Organization/Anchors II | 1130 N. 11th Avenue | Hanford | CA | 93230 | 83,936.00
Housing Authority of the County of San Mateo/Shelter Plus Care SP14 | 264 Harbor Blvd., #A | Belmont | CA | 94002 | 84,441.00
Alameda County/Lorenzo Creek SHP | 224 W. Winton Ave, Room 108 | Hayward | CA | 94544 | 85,788.00
County of Santa Cruz Health Services Agency/MATCH III | 115-A Coral Street | Santa Cruz | CA | 95060 | 86,189.00
Housing Authority of Contra Costa County/Shelter Plus Care—Lakeside | 3133 Estudillo Street, P.O. Box 2759 | Martinez | CA | 94553 | 86,340.00
San Joaquin County/Shelter Plus Care 6 | 1810 E. Hazelton Avenue | Stockton | CA | 95205 | 86,914.00
HOUSING AUTHORITY OF THE CITY OF LOS ANGELES (HACLA)/2017 St. Joseph Center-TRA CA0885 | 2600 WILSHIRE BLVD., 3RD FLOOR | LOS ANGELES | CA | 90057 | 87,468.00
City of Glendale/Glendale Housing Authority/Glendale HMIS Project | 141 N. Glendale Ave., Room 202 | Glendale | CA | 91206 | 88,577.00
Community Impact Central Valley (SCAP)/NEW HALO VET | 817 10th Street, n/a | Modesto | CA | 95354 | 89,027.00
Buckelew Programs/Samaritan FACT 02.01.18-01.31.19 | 555 Northgate Drive Ste. 200 | San Rafael | CA | 94903 | 89,050.00
Sonoma County Community Development Commission/Sonoma County Continuum of Care | 1440 Guerneville Road | Santa Rosa | CA | 95403 | 89,602.00
City of Woodland/Consolidated PSH for CH 2017 | 300 First Street | Woodland | CA | 95695 | 89,832.00
Los Angeles Homeless Services Authority/CHOISS Program—SPA 5 | 811 Wilshire Boulevard, 6th Floor | Los Angeles | CA | 90017 | 89,939.00
Housing Authority of the County of Marin/Shelter Plus Care 3 FY2017 | 4020 Civic Center Drive | San Rafael | CA | 94903 | 90,382.00
Kings/Tulare Continuum of Care on Homelessness/Coordinated Entry Expansion | 1900 N. Dinuba Boulevard, Suite G | Visalia | CA | 93291 | 90,390.00
Encompass Community Services/Housing for Health 3 | 380 Encinal St., Suite 200 | Santa Cruz | CA | 95060 | 90,429.00
County of Ventura Human Services Agency/Ventura County Homeless Management Information System Program | 855 Partridge Drive | Ventura | CA | 93003 | 90,778.00
Housing Authority of the County of San Mateo/Housing Plus—South (SP13) | 264 Harbor Blvd., #A | Belmont | CA | 94002 | 91,367.00
Community Technology Alliance/County of Santa Cruz Homeless Management Information System | 1080 Minnesota, Suite 1 | San Jose | CA | 95125 | 91,699.00
Turning Point Community Programs/Merced Renewal 2017 | 1001 Needham st | Modesto | CA | 95354 | 92,080.00
Community Action Partnership of Madera County/Shunammite Place Expansion | 1225 Gill Avenue | Madera | CA | 93637 | 92,209.00
Resources for Community Development/Concord House | 2220 Oxford St | Berkeley | CA | 94704 | 92,458.00
City of Pasadena/2017 CoC Planning Project | 649 N. Fair Oaks Ave., Suite 202 | Pasadena | CA | 91103 | 92,521.00
Los Angeles Homeless Services Authority/Vanowen Apartments | 811 Wilshire Boulevard, 6th Floor | Los Angeles | CA | 90017 | 92,662.00
Community Impact Central Valley (SCAP)/HALO 7 (14) | 817 10th Street, n/a | Modesto | CA | 95354 | 93,281.00
Community Development Commission of Mendocino County/Coordinated Entry 2017 | 1076 N State Street | Ukiah | CA | 95482 | 93,312.00
Sonoma County Community Development Commission/Renewal Rental Assistance—Chronically Homeless Persons with Mental Illness | 1440 Guerneville Road | Santa Rosa | CA | 95403 | 93,981.00
Northern Valley Catholic Social Service, Inc/Partners in Housing | 2400 Washington Avenue | Redding | CA | 96001 | 94,075.00
Community Services & Employment Training, Inc./Permanent Supportive Housing—Visalia Expansion | 312 Northwest 3rd Avenue | Visalia | CA | 93291 | 94,241.00
Flood Bakersfield Ministries, Inc./Project Home | 601 24th Street, Suite #C | Bakersfield | CA | 93301 | 94,263.00
Clinca Sierra Vista, Inc./Sebastian House HIV/AIDS Homeless Project | P.O. Box 1559 | Bakersfield | CA | 93302 | 94,861.00
County of Napa Health and Human Services Agency/Permanent Supportive Housing I 2017 | 2751 Napa Valley Corporate Drive, South Campus, Building B, 2nd Floor | Napa | CA | 94558 | 94,974.00
Los Angeles Homeless Services Authority/Fedora Apartments | 811 Wilshire Boulevard, 6th Floor | Los Angeles | CA | 90017 | 95,010.00
Community Housing and Shelter Services/Permanent Supportive Housing for Families with Children #2 | 708 H. Street | Modesto | CA | 95354 | 95,102.00
Interfaith Community Services, Inc./Raymond's Refuge | 550 W. Washington Ave., Suite B | Escondido | CA | 92025 | 96,040.00
City of Modesto/CA-510 CoC Planning Application FY2017 | 1010 10th Street, Suite 3100 | Modesto | CA | 95353 | 96,288.00
Bethany Services, Inc. dba Bakersfield Homeless Center/BHC Rapid Rehousing Project | 1600 East Truxtun Ave | Bakersfield | CA | 93305 | 96,820.00
County of Marin/CA-507 CoC Planning Application FY2017 | 1600 Los Gamos Drive, Suite 350 | San Rafael | CA | 94903 | 96,989.00
Stanislaus County Affordable Housing Corp/Permanent Housing #1 | 1207 13th Street, Suite 2 | Modesto | CA | 95354 | 97,303.00
Housing Authority of the City of San Buenaventura/HACSB FY2017 Grant renewal | 995 Riverside Street | Ventura | CA | 93001 | 98,169.00
Carrillo Counseling Services, Inc./New Beginnings RRH | 324 E. Carrillo Street, Suite C | Santa Barbara | CA | 93101 | 98,279.00
San Joaquin County/CHARM | 1810 E. Hazelton Avenue | Stockton | CA | 95205 | 98,540.00
Community Impact Central Valley (SCAP)/HALO RCC VET | 817 10th Street n/a | Modesto | CA | 95354 | 99,187.00
Turning Point Community Programs/Affordable Housing Renewal 2017 | 1001 Needham ST | Modesto | CA | 95354 | 100,078.00
City of Long Beach CA 606/SPC 10 | 2525 Grand Avenue, Room 235 | Long Beach | CA | 90815 | 100,983.00
City of Long Beach CA 606/SPC 11 | 2525 Grand Avenue, Room 235 | Long Beach | CA | 90815 | 101,212.00
Community Homeless Solutions/MOST/Lexington Court | P.O. Box 1340 | Marina | CA | 93933 | 101,336.00
Sonoma County Community Development Commission/Coordinated Intake Project | 1440 Guerneville Road | Santa Rosa | CA | 95403 | 102,198.00
Family Services of Tulare County/Permanent Supportive Housing Program | 815 W. Oak | Visalia | CA | 93291 | 102,595.00
County of Ventura/VC CoC FY17 Planning | 800 South Victoria Avenue, L#1940 | Ventura | CA | 93009 | 102,755.00
County of Los Angeles, Housing Authority/Homes For Life Foundation | 700 W. Main Street | Alhambra | CA | 91801 | 102,897.00
City of Glendale/Glendale Housing Authority/Family Promise of the Vedugos Rapid Re Housing Program | 141 N. Glendale Ave., Room 202 | Glendale | CA | 91206 | 103,752.00
Kings United Way/Homeless Management Information System (HMIS) | 125 West 7th Street | Hanford | CA | 93230 | 103,861.00
Sacramento Steps Forward/Rapid Rehousing for Youth #2 | 1331 Garden Highway, Suite 100 | Sacramento | CA | 95833 | 104,573.00
County of Santa Barbara/Homeless Management Information System | 123 E. Anapamu St., 2nd Floor | Santa Barbara | CA | 93101 | 104,767.00
Central California Family Crisis Center, Inc./Ridge Connections 1 RRH | 211 North Main Street, P.O. Box 2033 | Porterville | CA | 93258 | 105,110.00
Individuals Now dba Social Advocates for Youth/SAY Sponsor-Based Rental Assistance | 2447 Summerfield Road | Santa Rosa | CA | 95405 | 105,508.00
Individuals Now dba Social Advocates for Youth/SAY Sponsor-Based Rental Assistance Expansion | 2447 Summerfield Road | Santa Rosa | CA | 95405 | 105,508.00
Interim, Inc./Sandy Shores | 604 Pearl St | Monterey | CA | 93940 | 105,620.00
Colette's Children Home, Inc./Colette's Children's Home-Olinda Lane | 7372 Prince Drive, Suite 106 | Huntington Beach | CA | 92647 | 106,232.00
City of Pasadena/2017 Shelter Plus Care 09-10 | 649 N. Fair Oaks Ave., Suite 202 | Pasadena | CA | 91103 | 106,866.00
Community Action Agency of Butte County, Inc./Butte County HMIS Project | 181 E Shasta Avenue | Chico | CA | 95973 | 107,000.00
Buckelew Programs/Marin SHP +2 | 555 Northgate Drive, Ste. 200 | San Rafael | CA | 94903 | 107,245.00
Kings Community Action Organization/Hope Survives | 1130 N. 11th Avenue | Hanford | CA | 93230 | 107,588.00
Housing Authority of Contra Costa County/Villa Vasconcellos | 3133 Estudillo Street, P.O. Box 2759 | Martinez | CA | 94553 | 107,811.00
Ocean Park Community Center/Santa Monica Dual Diagnosis Project | 1453 16th Street | Santa Monica | CA | 90404 | 108,838.00
Interim, Inc./MCHOPE | 604 Pearl St | Monterey | CA | 93940 | 110,341.00
Community Action North Bay/Housing Express Expansion | 416 Union Avenue | Fairfield | CA | 94533 | 110,436.00
City and County of San Francisco Project Applicant/SF HMIS | 1650 Mission St., 3RD Floor | San Francisco | CA | 94103 | 110,712.00
California Veterans Assistance Foundation, Inc./Rally Point | 2215 Buena Vista St | Bakersfield | CA | 93304 | 111,259.00
Fresno County Economic Opportunities Commission/Bridge to Home 2 | 1920 Mariposa Mall, Suite 300 | Fresno | CA | 93721 | 112,283.00
Los Angeles Homeless Services Authority/Permanent Housing Project for Disabled Women | 811 Wilshire Boulevard, 6th Floor | Los Angeles | CA | 90017 | 112,935.00
Community Action North Bay/Housing Express | 416 Union Avenue | Fairfield | CA | 94533 | 113,055.00
City of Long Beach CA 606/SPC 05 CH | 2525 Grand Avenue, Room 235 | Long Beach | CA | 90815 | 113,478.00
County of Marin/Marin County CoC Coordinated Entry | 1600 Los Gamos Drive, Suite 350 | San Rafael | CA | 94903 | 113,493.00
County of Nevada/Summer's Haven Renewal 6 | 950 Maidu Avenue, NA | Nevada City | CA | 95959 | 113,958.00
Los Angeles Homeless Services Authority/Harbor Gateway Homes | 811 Wilshire Boulevard, 6th Floor | Los Angeles | CA | 90017 | 114,239.00
Santa Barbara County Department of Behavioral Wellness/Casa del Mural | 300 N San Antonio Rd, N/A | Santa Barbara | CA | 93110 | 115,315.00
County of Riverside/Housing Authority Street to Home Chronic Homeless Project | 4060 County Circle Drive | Riverside | CA | 92503 | 115,521.00
Los Angeles Homeless Services Authority/Kosumosu Transitional Housing—C | 811 Wilshire Boulevard, 6th Floor | Los Angeles | CA | 90017 | 116,142.00
Greater Bakersfield Legal Assistance, Inc. (GBLA)/Community Homeless Law Center Project | 615 California Ave | Bakersfield | CA | 93304 | 117,643.00
WomanHaven/WomanHaven Rapid Rehousing Project 2018-2019 T1 | 510 W. Main Street, Suite 106 | El Centro | CA | 92243 | 117,815.00
Bethany Services, Inc. dba Bakersfield Homeless Center/Rapid Rehousing Project I | 1600 East Truxtun Ave | Bakersfield | CA | 93305 | 118,133.00
Community Homeless Solutions/Homeward Bound | P.O. Box 1340 | Marina | CA | 93933 | 118,209.00
City of Pasadena/2017 Shelter Plus Care 0506 | 649 N. Fair Oaks Ave., Suite 202 | Pasadena | CA | 91103 | 119,357.00
City of Glendale/Glendale Housing Authority/2005 Shelter Plus Care Project | 141 N. Glendale Ave., Room 202 | Glendale | CA | 91206 | 119,357.00
Los Angeles Homeless Services Authority/Center for Women and Children, Sites A and B-C | 811 Wilshire Boulevard, 6th Floor | Los Angeles | CA | 90017 | 120,600.00
Humboldt, County of, DBA-Dept. of Health and Human Services/Best Chance RRH | 507 F Street | Eureka | CA | 95501 | 121,578.00
Community Action North Bay/Healthy Living Your Way | 416 Union Avenue | Fairfield | CA | 94533 | 122,966.00
Los Angeles Homeless Services Authority/CPAF Transitional Housing Program | 811 Wilshire Boulevard, 6th Floor | Los Angeles | CA | 90017 | 124,195.00
County of Riverside/City of Riverside PSH for Disabled | 4060 County Circle Drive | Riverside | CA | 92503 | 124,285.00
City of Pasadena/2017 CES | 649 N. Fair Oaks Ave., Suite 202 | Pasadena | CA | 91103 | 124,423.00
Community Impact Central Valley (SCAP)/HALO Housing (1) | 817 10th Street n/a | Modesto | CA | 95354 | 125,641.00
County of Riverside/City of Riverside PSH Chronically Homeless | 4060 County Circle Drive | Riverside | CA | 92503 | 126,264.00
Homeward Bound of Marin/Chronically Homeless Families PSH Project | 1385 North Hamilton Parkway | Novato | CA | 94949 | 127,112.00
Housing Authority of the City of Napa/Shelter Plus Care | 1115 Seminary Street, P.O. Box 660 | Napa | CA | 94559 | 127,255.00
Northern Valley Catholic Social Service, Inc/New Path Housing | 2400 Washington Avenue | Redding | CA | 96001 | 127,992.00
San Joaquin County/CA-511 CoC Planning Application FY2017 | 1810 E. Hazelton Avenue | Stockton | CA | 95205 | 129,000.00
County of Santa Clara by and through Office of Supportive Housing/Santa Clara County Coordinated Entry System | 3180 Newberry Drive, Suite 150 | San Jose | CA | 95118 | 130,241.00
County of Riverside/Behavioral Health—Men's Permanent Housing | 4060 County Circle Drive | Riverside | CA | 92503 | 130,338.00
Community Human Services/FY2017 Safe Passage Renewal | 2560 Garden Road, Suite 201-B | Monterey | CA | 93940 | 130,574.00
County of Santa Barbara/Santa Barbara County Coordinated Entry | 123 E. Anapamu St., 2nd Floor | Santa Barbara | CA | 93101 | 130,675.00
County of Los Angeles, Housing Authority/Homeless Health Care Los Angeles | 700 W. Main Street | Alhambra | CA | 91801 | 131,602.00
The Association For Community Housing Solutions, dba Housing Innovation Partners/TACHS Operations | 5151 Murphy Canyon Road, Suite #120 | San Diego | CA | 92123 | 132,003.00
City and County of San Francisco Project Applicant/San Francisco Coordinated Entry | 1650 Mission St., 3RD Floor | San Francisco | CA | 94103 | 132,364.00
County of Ventura/CAVC PSH 2017 | 800 South Victoria Avenue, L#1940 | Ventura | CA | 93009 | 132,374.00
Step Up on Second Street, Inc./Stepping Up | 1328 Second St | Santa Monica | CA | 90401 | 132,711.00
Alliance Against Family Violence and Sexual Assault/Alliance Transitional Housing Project | 1921 19th Street | Bakersfield | CA | 93301 | 133,139.00
County of Los Angeles, Housing Authority/MHA Pathways II | 700 W. Main Street | Alhambra | CA | 91801 | 133,533.00
LifeMoves/Family Crossroads 2017 | 181 Constitution Drive | Menlo Park | CA | 94025 | 133,750.00
LifeMoves/Redwood Family House 2017 | 181 Constitution Drive | Menlo Park | CA | 94025 | 133,750.00
Sacramento Steps Forward/Friendship Housing Expansion | 1331 Garden Highway, Suite 100 | Sacramento | CA | 95833 | 133,775.00
Sacramento Housing and Redevelopment Agency/Shasta Hotel | 801 12th St | Sacramento | CA | 95814 | 135,267.00
Catholic Charities, Diocese of San Diego/Rachel's Rapid Rehousing Project | 3888 Paducah Drive | San Diego | CA | 92117 | 135,715.00
Merced County Behavioral Health and Recovery Services/Project Home Start 2017 | P.O. Box 2087 | Merced | CA | 95344 | 135,916.00
County of San Diego/MHS S+C 3 | 3989 Ruffin Road | San Diego | CA | 92123 | 135,955.00
City and County of San Francisco Project Applicant/Mission Housing Juan Pifarre | 1650 Mission St., 3RD Floor | San Francisco | CA | 94103 | 136,068.00
HOUSING AUTHORITY OF THE CITY OF LOS ANGELES (HACLA)/2017 ACOF-Fox Normandie CA0335 | 2600 WILSHIRE BLVD., 3RD FLOOR | LOS ANGELES | CA | 90057 | 136,298.00
Clinca Sierra Vista, Inc./Homeless Most Vulnerable Project | P.O. Box 1559 | Bakersfield | CA | 93302 | 136,468.00
Sacramento Housing and Redevelopment Agency/Boulevard Court | 801 12th St | Sacramento | CA | 95814 | 137,354.00
Housing Authority City of Fresno/HMIS | 1331 Fulton Mall | Fresno | CA | 93721 | 137,700.00
Sonoma County Community Development Commission/Homeless Management Information System (HMIS) | 1440 Guerneville Road | Santa Rosa | CA | 95403 | 137,907.00
City of Tulare/Tulare Housing First II | 411 East Kern Avenue | Tulare | CA | 93274 | 138,023.00
County of Los Angeles, Housing Authority/MHA Pathways to Permanent Housing | 700 W. Main Street | Alhambra | CA | 91801 | 138,695.00
A Community of Friends/39 West Apartments | 3701 Wilshire Boulevard, Suite 700 | Los Angeles | CA | 90010 | 138,885.00
Community Action Partnership of Solano—JPA/Coordinated Entry System Expansion | 701 Civic Center Boulevard | Suisun City | CA | 94585 | 139,614.00
Housing Authority of the County of Stanislaus/Shelter plus Care 5 MP FY2017 Renewal | 1701 Robertson Road | Modesto | CA | 95358 | 139,626.00
City of Pasadena/2017 Step Up PSH | 649 N. Fair Oaks Ave., Suite 202 | Pasadena | CA | 91103 | 139,793.00
MidPen Housing Corporation/21 Soledad Street Housing Community CoC Rental Assistance—Reallocation | 303 Vintage Park Drive, Suite 250 | Foster City | CA | 94404 | 139,876.00
Los Angeles Homeless Services Authority/Targeted Supportive Housing Program—Project 1 | 811 Wilshire Boulevard, 6th Floor | Los Angeles | CA | 90017 | 140,104.00
Turning Point Foundation/Rapid Re-Housing 2017 | 557 East Thompson Blvd | Ventura | CA | 93001 | 140,152.00
City of Pasadena/2017 HMIS | 649 N. Fair Oaks Ave., Suite 202 | Pasadena | CA | 91103 | 140,378.00
County of San Diego/MHS Housing Plus II | 3989 Ruffin Road | San Diego | CA | 92123 | 140,825.00
County of Santa Clara by and through Office of Supportive Housing/SCVHHS Rental Assistance Program #2 | 3180 Newberry Drive, Suite 150 | San Jose | CA | 95118 | 141,244.00
Interim, Inc./Shelter Plus Care #2 | 604 Pearl St | Monterey | CA | 93940 | 141,845.00
Inland Valley Council of Churches/Hope Partners' Family Stabilization Program | 1753 N. Park Ave | Pomona | CA | 91768 | 142,145.00
Los Angeles Homeless Services Authority/Rainbow Apartments | 811 Wilshire Boulevard, 6th Floor | Los Angeles | CA | 90017 | 143,106.00
Mental Health Systems Inc./MHS Fresno Housing Plus 3 | 9465 Farnham Street | San Diego | CA | 92123 | 144,328.00
Yolo Community Care Continuum/YCCC Supported Housing 2017 | 285 West Court Street, Suite 207 | Woodland | CA | 95695 | 144,855.00
City of Oceanside/Women's Resource Center Transitional Housing | 300 North Coast Highway | Oceanside | CA | 92054 | 145,091.00
Homeless Services Center/Page Smith Transitional and Rapid Rehousing | 115B Coral Street | Santa Cruz | CA | 95060 | 146,843.00
Anaheim Supportive Housing, Inc./Tyrol Plaza Senior Apartments | 891 S State College Blvd, #A | Anaheim | CA | 92806 | 147,145.00
County of Ventura Human Services Agency/HMIS Expansion-Coordinated Entry System Implementation | 855 Partridge Drive | Ventura | CA | 93003 | 150,000.00
HOUSING AUTHORITY OF THE CITY OF LOS ANGELES (HACLA)/2017 Hillview-Hillview Village CA0392 | 2600 WILSHIRE BLVD., 3RD FLOOR | LOS ANGELES | CA | 90057 | 150,321.00
Los Angeles Homeless Services Authority/Vista Nueva Apartments | 811 Wilshire Boulevard, 6th Floor | Los Angeles | CA | 90017 | 150,537.00
City of Woodland/Reallocation (2015) PSH for CH 2017 | 300 First Street | Woodland | CA | 95695 | 150,875.00
People for Irvine Community Health dba 2-1-1 Orange County/HMIS Expansion NOFA 2017 | 1505 E 17th St., Suite 108 | Santa Ana | CA | 92705 | 150,929.00
San Joaquin County/Hermanas II | 1810 E. Hazelton Avenue | Stockton | CA | 95205 | 151,260.00
San Joaquin County/Hermanas I | 1810 E. Hazelton Avenue | Stockton | CA | 95205 | 151,654.00
Merced County Behavioral Health and Recovery Services/Project Hope Westside 2017 | P.O. Box 2087 | Merced | CA | 95344 | 151,744.00
Housing Authority of Contra Costa County/Contra Costa Project-Based Rental Assistance | 3133 Estudillo Street, P.O. Box 2759 | Martinez | CA | 94553 | 151,880.00
Mercy Housing California/Mather Veterans Village | 2512 River Plaza Drive, Suite 200 | Sacramento | CA | 95833 | 152,488.00
Los Angeles Homeless Services Authority/CPAF Transitional Housing Program 2 | 811 Wilshire Boulevard, 6th Floor | Los Angeles | CA | 90017 | 152,667.00
City of Long Beach CA 606/Long Beach CoC UFA | 2525 Grand Avenue, Room 235 | Long Beach | CA | 90815 | 153,287.00
Los Angeles Homeless Services Authority/Brandon Apartments | 811 Wilshire Boulevard, 6th Floor | Los Angeles | CA | 90017 | 155,155.00
San Joaquin County/SPICE | 1810 E. Hazelton Avenue | Stockton | CA | 95205 | 155,368.00
HOUSING AUTHORITY OF THE CITY OF LOS ANGELES (HACLA)/2017 LAMP, Inc. Lamp Lodge CA0407 | 2600 WILSHIRE BLVD., 3RD FLOOR | LOS ANGELES | CA | 90057 | 156,060.00
County of Los Angeles, Housing Authority/New Directions 1 | 700 W. Main Street | Alhambra | CA | 91801 | 156,096.00
Central California Family Crisis Center, Inc./Ridge Connections 2 PSH | 211 North Main Street, P.O. Box 2033 | Porterville | CA | 93258 | 156,159.00
Housing Authority of the County of Santa Cruz/New Beginnings | 2931 Mission Street | Santa Cruz | CA | 95060 | 156,208.00
San Joaquin County/Shelter Plus Care 5 | 1810 E. Hazelton Avenue | Stockton | CA | 95205 | 156,282.00
Los Angeles Homeless Services Authority/Denker House Consolidated Application—C | 811 Wilshire Boulevard, 6th Floor | Los Angeles | CA | 90017 | 156,400.00
Los Angeles Homeless Services Authority/Project Independence/Gateways | 811 Wilshire Boulevard, 6th Floor | Los Angeles | CA | 90017 | 157,741.00
Community Housing Partnership/Iroquois Residence | 20 Jones Street, Suite 200 | San Francisco | CA | 94102 | 158,804.00
Alameda County/Reciprocal Integrated Services for Empowerment (RISE) Project | 224 W. Winton Ave, Room 108 | Hayward | CA | 94544 | 160,183.00
SAN DIEGO HOUSING COMMISSION/TACHS Unity Project | 1122 Broadway, Suite 300 | San Diego | CA | 92101 | 160,311.00
County of Napa Health and Human Services Agency/Home to Stay 2017 | 2751 Napa Valley Corporate Drive, South Campus, Building B, 2nd Floor | Napa | CA | 94558 | 163,699.00
Marjaree Mason Center, Inc./Welcome Home | 1600 M Street | Fresno | CA | 93721 | 163,995.00
Turning Point of Central California, Inc./Casa de Robles 3 Permanent Supportive Housing | 615 S. Atwood St | Visalia | CA | 93277 | 164,130.00
Mental Health Systems Inc/Next Step PSH | 9465 Farnham Street | San Diego | CA | 92123 | 165,197.00
Anka Behavioral Health, Incorporated/STOP Plus | 1850 Gateway, Suite 900 | Concord | CA | 94520 | 165,969.00
City of Glendale/Glendale Housing Authority/Next Step Permanent Supportive Housing Project | 141 N. Glendale Ave., Room 202 | Glendale | CA | 91206 | 166,598.00
Catholic Charities CYO/Leland House | 990 Eddy Street | San Francisco | CA | 94109 | 166,628.00
HOUSING AUTHORITY OF THE CITY OF LOS ANGELES (HACLA)/2017 Skid Row Housing Trust—St. George Hotel 2 CA1224 | 2600 WILSHIRE BLVD., 3RD FLOOR | LOS ANGELES | CA | 90057 | 167,400.00
Sacramento Steps Forward/The King Project | 1331 Garden Highway, Suite 100 | Sacramento | CA | 95833 | 167,737.00
United Way of Kern County/2017 CoC Planning Grant UWKC | 5405 Stockdale 200 | Bakersfield | CA | 93309 | 167,963.00
City of Long Beach CA 606/Domestic Violence Shelter | 2525 Grand Avenue, Room 235 | Long Beach | CA | 90815 | 168,270.00
Turning Point Foundation/Our Place Safe Haven 2017 | 557 East Thompson Blvd | Ventura | CA | 93001 | 168,977.00
Community Homeless Solutions/Men in Transition | P.O. Box 1340 | Marina | CA | 93933 | 169,772.00
City of Glendale/Glendale Housing Authority/2001 Shelter Plus Care Project | 141 N. Glendale Ave., Room 202 | Glendale | CA | 91206 | 170,356.00
Los Angeles Homeless Services Authority/Fox Normandie Apartments—C | 811 Wilshire Boulevard, 6th Floor | Los Angeles | CA | 90017 | 172,646.00
Alameda County Behavioral Health Care Services/Laguna Commons Rental Assistance Program (RAP) | 1404 Franklin Street, STE 200 | Oakland | CA | 94612 | 173,080.00
City of Modesto/Stanislaus HMIS 1&2 FY2016 Renewal 1 | 1010 10th Street, Suite 3100 | Modesto | CA | 95353 | 173,533.00
Contra Costa Health Services/Contra Costa HMIS | 2400 Bisso Lane #D2 | Concord | CA | 94520 | 175,596.00
Los Angeles Homeless Services Authority/Ready, Willing, and Able Program | 811 Wilshire Boulevard, 6th Floor | Los Angeles | CA | 90017 | 175,734.00
City of Pasadena/2017 Euclid Villa | 649 N. Fair Oaks Ave., Suite 202 | Pasadena | CA | 91103 | 176,124.00
LifeMoves/SAFE (Savings & Financial Education) 2017 | 181 Constitution Drive | Menlo Park | CA | 94025 | 176,151.00
YMCA of San Diego County/Turning Point | 3708 | San Diego | CA | 92123 | 177,096.00
The Salvation Army, a California corporation/The Salvation Army SC Division LA Santa Fe Springs TLC II | 180 East Ocean Boulevard, Suite 500 | Long Beach | CA | 90802 | 177,450.00
Housing Authority City of Fresno/A Rapid Way Home | 1331 Fulton Mall | Fresno | CA | 93721 | 177,874.00
Los Angeles Homeless Services Authority/Steppin' Into the Light | 811 Wilshire Boulevard, 6th Floor | Los Angeles | CA | 90017 | 178,205.00
Turning Point of Central California, Inc./Serenity Village | 615 S. Atwood St | Visalia | CA | 93277 | 178,589.00
City and County of San Francisco Project Applicant/Hotel Isabel | 1650 Mission St., 3RD Floor | San Francisco | CA | 94103 | 179,208.00
Los Angeles Homeless Services Authority/Figueroa Apartments—C | 811 Wilshire Boulevard, 6th Floor | Los Angeles | CA | 90017 | 180,028.00
County of Ventura/Its a New Day LSS FY17 RRH | 800 South Victoria Avenue, L#1940 | Ventura | CA | 93009 | 182,651.00
Community Impact Central Valley (SCAP)/Hope Housing | 817 10th Street, n/a | Modesto | CA | 95354 | 183,150.00
Orange County Housing Authority/2008 Shelter Plus Care TRA 2017 Renewal Project | 1770 North Broadway | Santa Ana | CA | 92706 | 183,190.00
Housing Authority of the County of San Bernardino/Project Gateway | 715 E. Brier Drive | San Bernardino | CA | 92408 | 183,990.00
HOUSING AUTHORITY OF THE CITY OF LOS ANGELES (HACLA)/2017 la house of ruth ca1500 | 2600 WILSHIRE BLVD., 3RD FLOOR | LOS ANGELES | CA | 90057 | 184,952.00
Los Angeles Homeless Services Authority/Birch Grove Homes | 811 Wilshire Boulevard, 6th Floor | Los Angeles | CA | 90017 | 185,174.00
Colette's Children Home, Inc./Colette's Children's Home Housing First | 7372 Prince Drive, Suite 106 | Huntington Beach | CA | 92647 | 185,344.00
Community Housing and Shelter Services/Households In Recovery | 708 H. Street | Modesto | CA | 95354 | 186,028.00
Los Angeles Homeless Services Authority/California Hotel Apartments—C | 811 Wilshire Boulevard, 6th Floor | Los Angeles | CA | 90017 | 186,548.00
City and County of San Francisco Project Applicant/Rita da Cascia Positive Match | 1650 Mission St., 3RD Floor | San Francisco | CA | 94103 | 186,663.00
SHELTER, Inc. of Contra Costa County/Permanent Step Project | 1333 Willow Pass Road, Suite 206 | Concord | CA | 94520 | 186,849.00
Turning Point of Central California, Inc./Kings Permanent Supportive Housing | 615 S. Atwood St | Visalia | CA | 93277 | 187,281.00
Global One Development Center/Global One Development Center 2017 Renewal | 9250 Reseda Blvd., 2B-151 | Northridge | CA | 91324 | 187,435.00
City of Berkeley/Pathways Project | 2180 Milvia Street | Berkeley | CA | 94704 | 188,768.00
Ritter Center/Housing First Expansion | 16 Ritter St | San Rafael | CA | 94901 | 189,558.00
Los Angeles Homeless Services Authority/House of Dignity 1 | 811 Wilshire Boulevard, 6th Floor | Los Angeles | CA | 90017 | 190,171.00
Alpha Project for the Homeless/Rapid Rehousing | 3737 5th Ave., #203 | San Diego | CA | 92103 | 191,735.00
Families In Transition of Santa Cruz County, Inc./First Step-Scattered Site Housing for Families with Children | 406 Main Street, #326 | Watsonville | CA | 95076 | 192,343.00
Marjaree Mason Center, Inc./MMC Welcome Home 2 | 1600 M Street | Fresno | CA | 93721 | 192,590.00
Community Action Partnership of Madera County/Shunammite Place | 1225 Gill Avenue | Madera | CA | 93637 | 193,462.00
City of Berkeley/Supportive Housing Network | 2180 Milvia Street | Berkeley | CA | 94704 | 194,131.00
Resources for Community Development/Idaho Apartments | 2220 Oxford St | Berkeley | CA | 94704 | 194,836.00
HOUSING AUTHORITY OF THE CITY OF LOS ANGELES (HACLA)/2017 Hollywood Community Housing Corp. Hollywood Bungalow Cts. CA0326 | 2600 WILSHIRE BLVD., 3RD FLOOR | LOS ANGELES | CA | 90057 | 195,167.00
Housing Authority of the County of San Bernardino/Whispering Pines | 715 E. Brier Drive | San Bernardino | CA | 92408 | 196,445.00
County of Los Angeles, Housing Authority/Tri-City Mental Health | 700 W. Main Street | Alhambra | CA | 91801 | 198,246.00
Los Angeles Homeless Services Authority/Las Palomas Apartments | 811 Wilshire Boulevard, 6th Floor | Los Angeles | CA | 90017 | 198,957.00
Families In Transition of Santa Cruz County, Inc./First Step-Scattered Site Housing for Families with Children expansion from reallocation | 406 Main Street, #326 | Watsonville | CA | 95076 | 199,885.00
City of Glendale/Glendale Housing Authority/Ascencia Scattered Site Permanent Supportive Housing Program | 141 N. Glendale Ave., Room 202 | Glendale | CA | 91206 | 200,297.00
Los Angeles Homeless Services Authority/CHOISS Program—SPA 7(b) | 811 Wilshire Boulevard, 6th Floor | Los Angeles | CA | 90017 | 200,737.00
Step Up on Second Street, Inc./Step Up H & H Project SA | 1328 Second St | Santa Monica | CA | 90401 | 201,634.00
HOUSING AUTHORITY OF THE CITY OF LOS ANGELES (HACLA)/2017 L.A. Family Housing—Day Street Apartments CA1106 | 2600 WILSHIRE BLVD., 3RD FLOOR | LOS ANGELES | CA | 90057 | 202,424.00
Community Impact Central Valley (SCAP)/HALO (3) | 817 10th Street n/a | Modesto | CA | 95354 | 202,629.00
Los Angeles Homeless Services Authority/City of Pomona Street Outreach Program | 811 Wilshire Boulevard, 6th Floor | Los Angeles | CA | 90017 | 203,809.00
Vietnam Veterans of San Diego/Joint TH & RRH For Homeless Veterans | 4141 Pacific Highway | San Diego | CA | 92110 | 204,128.00
Housing Authority of the County of Marin/Shelter Plus Care Expansion FY2017 | 4020 Civic Center Drive | San Rafael | CA | 94903 | 206,844.00
San Joaquin County/Horizons | 1810 E. Hazelton Avenue | Stockton | CA | 95205 | 208,767.00
HOUSING AUTHORITY OF THE CITY OF LOS ANGELES (HACLA)/2017 Hillview Mental Health Ctr.-Scattered Sites CA0393 | 2600 WILSHIRE BLVD., 3RD FLOOR | LOS ANGELES | CA | 90057 | 209,420.00
City of Long Beach CA 606/Transition in Place—Youth | 2525 Grand Avenue, Room 235 | Long Beach | CA | 90815 | 212,240.00
Sonoma County Community Development Commission/CoC—Rental Assistance for Homeless with Chronic Health Problems | 1440 Guerneville Road | Santa Rosa | CA | 95403 | 215,534.00
Los Angeles Homeless Services Authority/Penny Lane Permanent Housing Center Program | 811 Wilshire Boulevard, 6th Floor | Los Angeles | CA | 90017 | 215,806.00
Illumination Foundation/Street2Home OC Expansion | 2691 Richter Ave., Suite 107 | Irvine | CA | 92606 | 217,222.00
Interfaith Community Services, Inc./Path to Permanence | 550 W. Washington Ave., Suite B | Escondido | CA | 92025 | 217,744.00
Mercy House Living Centers/OC PSH Collaboration Project II—Expansion | P.O. Box 1905 | Santa Ana | CA | 92702 | 218,080.00
City and County of San Francisco Project Applicant/Veterans' Hope House I | 1650 Mission St., 3RD Floor | San Francisco | CA | 94103 | 219,571.00
San Luis Obispo County/Coordinated Entry Program | 976 Osos Street, Room 300 | San Luis Obispo | CA | 93408 | 220,554.00
HOUSING AUTHORITY OF THE CITY OF LOS ANGELES (HACLA)/2017 National Mental Health—Mental Health Association CA0420 | 2600 WILSHIRE BLVD., 3RD FLOOR | LOS ANGELES | CA | 90057 | 220,649.00
City of Long Beach CA 606/Transition in Place—Families | 2525 Grand Avenue, Room 235 | Long Beach | CA | 90815 | 221,113.00
Buckelew Programs/Sonoma SCIL 02.01.18-01.31.19 | 555 Northgate Drive, Ste. 200 | San Rafael | CA | 94903 | 221,188.00
TLCS, Inc./PPHP Expansion 2017 | 650 Howe Ave, Bldg 400-A | Sacramento | CA | 95825 | 222,266.00
Alameda County/Alameda County Shelter Plus Care—Lorenzo Creek | 224 W. Winton Ave, Room 108 | Hayward | CA | 94544 | 222,436.00
Marjaree Mason Center, Inc./MMC Clovis Transitional Project | 1600 M Street | Fresno | CA | 93721 | 222,501.00
Housing Authority of the County of Kern/Lugar De Refugio Bonus | 601 24th Street | Bakersfield | CA | 93301 | 223,263.00
HOUSING AUTHORITY OF THE CITY OF LOS ANGELES (HACLA)/2017 LAMP, INC, Scattered Sites CA0408 | 2600 WILSHIRE BLVD., 3RD FLOOR | LOS ANGELES | CA | 90057 | 223,702.00
City of Long Beach CA 606/Advance | 2525 Grand Avenue, Room 235 | Long Beach | CA | 90815 | 224,843.00
City of Long Beach CA 606/Homeless Assistance Program | 2525 Grand Avenue, Room 235 | Long Beach | CA | 90815 | 226,963.00
County of Los Angeles, Housing Authority/A Community of Friends 2—Las Flores | 700 W. Main Street | Alhambra | CA | 91801 | 226,967.00
Stand Up Placer, Inc./Stand Up Placer Permanent Housing 2017 | P.O. Box 5462 | Auburn | CA | 95604 | 226,983.00
Housing Authority of the County of San Bernardino/Lantern Woods | 715 E. Brier Drive | San Bernardino | CA | 92408 | 227,278.00
Orange County Housing Authority/2009 Shelter Plus Care TRA 2017 Renewal Project | 1770 North Broadway | Santa Ana | CA | 92706 | 229,615.00
CORA (Community Overcoming Relationship Abuse)/Casa de Sor Juana Ines | 2211 Palm Avenue | San Mateo | CA | 94403 | 229,668.00
City of Long Beach CA 606/Long Beach CoC Planning | 2525 Grand Avenue, Room 235 | Long Beach | CA | 90815 | 229,930.00
SAN DIEGO HOUSING COMMISSION/San Diego Rapid Re Housing Program | 1122 Broadway, Suite 300 | San Diego | CA | 92101 | 232,112.00
Community Impact Central Valley (SCAP)/HALO Apartments (5) | 817 10th Street, n/a | Modesto | CA | 95354 | 232,822.00
Los Angeles Homeless Services Authority/Antelope Valley Assistance Program | 811 Wilshire Boulevard, 6th Floor | Los Angeles | CA | 90017 | 233,625.00
City and County of San Francisco Project Applicant/Hazel Betsey | 1650 Mission St., 3RD Floor | San Francisco | CA | 94103 | 233,771.00
County of Riverside/Lighthouse SSC Permanent Housing for Disabled Women with Children | 4060 County Circle Drive | Riverside | CA | 92503 | 233,891.00
City and County of San Francisco Project Applicant/Canon Kip Community House Expansion | 1650 Mission St., 3RD Floor | San Francisco | CA | 94103 | 234,376.00
Vietnam Veterans of San Diego/Escondido Veteran Apartments | 4141 Pacific Highway | San Diego | CA | 92110 | 236,858.00
LifeMoves/Vendome 2017 | 181 Constitution Drive | Menlo Park | CA | 94025 | 237,712.00
Committee on the Shelterless/Community Based Permanent Supportive Housing (CA0829L9T041605) | 900 Hopper Street | Petaluma | CA | 94952 | 237,868.00
Abode Services/Sunset Leasing Project | 40849 Fremont Blvd | Fremont | CA | 94538 | 238,646.00
San Benito, County of/Helping Hands | 1111 San Felipe Road, Suite 108 | Hollister | CA | 95023 | 241,357.00
Knowledge, Education for Your Success, Inc./KEYS for Life | 680 S. Waterman Avenue | San Bernardino | CA | 92408 | 242,221.00
City and County of San Francisco Project Applicant/Mercy Housing Richardson Hall | 1650 Mission St., 3RD Floor | San Francisco | CA | 94103 | 242,481.00
HOUSING AUTHORITY OF THE CITY OF LOS ANGELES (HACLA)/2017 Venice Community Housing Corp. Horizon Apts. CA0858 | 2600 WILSHIRE BLVD., 3RD FLOOR | LOS ANGELES | CA | 90057 | 243,910.00
Sonoma County Community Development Commission/Coordinated Intake Expansion Project | 1440 Guerneville Road | Santa Rosa | CA | 95403 | 247,793.00
Orange County Housing Authority/Mercy House Permanent Bonus Shelter Plus Care TRA 2017 Renewal Project | 1770 North Broadway | Santa Ana | CA | 92706 | 248,499.00
City of Long Beach CA 606/Veterans in Progress VIP | 2525 Grand Avenue, Room 235 | Long Beach | CA | 90815 | 249,665.00
County of Santa Clara by and through Office of Supportive Housing/HMIS Expansion 2015 | 3180 Newberry Drive, Suite 150 | San Jose | CA | 95118 | 250,000.00
County of Santa Clara by and through Office of Supportive Housing/HMIS Expansion 2017 | 3180 Newberry Drive, Suite 150 | San Jose | CA | 95118 | 250,000.00
Fresno County Economic Opportunities Commission/HERO Team 2 expansion | 1920 Mariposa Mall, Suite 300 | Fresno | CA | 93721 | 250,000.00
County of San Bernardino/HMIS Renewal 2017 | 303 E. Vanderbilt Way, 1st Floor | San Bernardino | CA | 92415 | 250,158.00
Community Resource Center/CRC Rapid Re-Housing | 650 Second Street | Encinitas | CA | 92024 | 250,377.00
Interfaith Community Services, Inc./Rental Assistance Program | 550 W. Washington Ave., Suite B | Escondido | CA | 92025 | 250,440.00
City of Pasadena/2017 CHOISS | 649 N. Fair Oaks Ave., Suite 202 | Pasadena | CA | 91103 | 251,148.00
City of Long Beach CA 606/SPC 96/99 | 2525 Grand Avenue, Room 235 | Long Beach | CA | 90815 | 251,576.00
City of Pasadena/2017 Hestia House | 649 N. Fair Oaks Ave., Suite 202 | Pasadena | CA | 91103 | 251,640.00
Mental Health Systems Inc./MHS Hacienda Housing Program | 9465 Farnham Street | San Diego | CA | 92123 | 251,712.00
Los Angeles Homeless Services Authority/Gower Street Apartments | 811 Wilshire Boulevard, 6th Floor | Los Angeles | CA | 90017 | 252,431.00
San Luis Obispo County/SLO City Permanent Housing | 976 Osos Street, Room 300 | San Luis Obispo | CA | 93408 | 253,455.00
Los Angeles Homeless Services Authority/Transitional Services Project | 811 Wilshire Boulevard, 6th Floor | Los Angeles | CA | 90017 | 253,721.00
Mercy House Living Centers/Mercy House—CoC-Rapid Re-Housing (JRHR) | P.O. Box 1905 | Santa Ana | CA | 92702 | 254,402.00
Buckelew Programs/Napa PSH 01.01.19-12.31.19 | 555 Northgate Drive Ste. 200 | San Rafael | CA | 94903 | 254,438.00
Cornerstone Community Development/Bessie Coleman Court Permanent Supportive Housing | 1395 Bancroft Ave | San Leandro | CA | 94577 | 254,926.00
The City of Oakland/Families in Transition—TH/RRH | 150 Frank H. Ogawa Plaza, Suite 4340 | Oakland | CA | 94612 | 255,215.00
City and County of San Francisco Project Applicant/Rapid Re-Housing for TAY | 1650 Mission St., 3RD Floor | San Francisco | CA | 94103 | 255,240.00
San Mateo County Human Services Agency/CA-512 CoC Planning Application FY 2017 | 1 Davis Drive | Belmont | CA | 94002 | 256,339.00
Catholic Charities of the Diocese of Santa Rosa/Catholic Charities Permanent Supportive Housing Project 3 | 987 Airway Court | Santa Rosa | CA | 95403 | 257,752.00
Contra Costa Health Services/Permanent Connections | 2400 Bisso Lane, #D2 | Concord | CA | 94520 | 258,886.00
Los Angeles Homeless Services Authority/CHOISS Program—SPA 7(a) | 811 Wilshire Boulevard, 6th Floor | Los Angeles | CA | 90017 | 261,013.00
Housing Authority City of Fresno/Rapid Rehousing Project | 1331 Fulton Mall | Fresno | CA | 93721 | 262,029.00
Housing Authority of the County of San Mateo/Shelter Plus Care Belmont Apartments | 264 Harbor Blvd., #A | Belmont | CA | 94002 | 262,879.00
Home Start, Inc./Maternity Shelter Program | 5005 Texas Street, Suite 203 | San Diego | CA | 92108 | 264,441.00
Los Angeles Homeless Services Authority/South Central Access Center | 811 Wilshire Boulevard, 6th Floor | Los Angeles | CA | 90017 | 264,648.00
County of Riverside/Lighthouse SSC Rapid Rehousing | 4060 County Circle Drive | Riverside | CA | 92503 | 264,786.00
South Bay Community Services, Inc./Casas de Luz | 430 F Street | Chula Vista | CA | 91910 | 265,676.00
Housing Authority City of Fresno/CoC Planning Project 2017 | 1331 Fulton Mall | Fresno | CA | 93721 | 266,808.00
County of Los Angeles, Housing Authority/Union Station Homeless Services | 700 W. Main Street | Alhambra | CA | 91801 | 267,066.00
Marjaree Mason Center, Inc./MMC Welcome Home 3 | 1600 M Street | Fresno | CA | 93721 | 267,309.00
Fresno County Economic Opportunities Commission/Project Hearth | 1920 Mariposa Mall, Suite 300 | Fresno | CA | 93721 | 268,202.00
City and County of San Francisco Project Applicant/Mission Housing South Park | 1650 Mission St., 3RD Floor | San Francisco | CA | 94103 | 268,812.00
The City of Oakland/Matilda Cleveland TH/RRH | 150 Frank H. Ogawa Plaza, Suite 4340 | Oakland | CA | 94612 | 269,445.00
Buckelew Programs/Marin SHP 01.01.19-12.31.19 | 555 Northgate Drive, Ste. 200 | San Rafael | CA | 94903 | 269,527.00
County of Los Angeles, Housing Authority/Asian Pacific Counseling and Treatment Center | 700 W. Main Street | Alhambra | CA | 91801 | 271,300.00
City and County of San Francisco Project Applicant/Eddy and Taylor | 1650 Mission St., 3RD Floor | San Francisco | CA | 94103 | 271,668.00
Sacramento Steps Forward/Sacramento HMIS | 1331 Garden Highway, Suite 100 | Sacramento | CA | 95833 | 273,194.00
Orange County Housing Authority/Samaritan Housing Shelter Plus Care TRA 2017 Renewal Project | 1770 North Broadway | Santa Ana | CA | 92706 | 274,784.00
Fresno County Economic Opportunities Commission/HERO Team 2 | 1920 Mariposa Mall, Suite 300 | Fresno | CA | 93721 | 275,000.00
HOUSING AUTHORITY OF THE CITY OF LOS ANGELES (HACLA)/2017 Hillview Mental Health Center-Hillview Village CA0391 | 2600 WILSHIRE BLVD., 3RD FLOOR | LOS ANGELES | CA | 90057 | 275,043.00
Bill Wilson Center/TH-RRH Youth 2017 | 3490 The Alameda | Santa Clara | CA | 95050 | 276,172.00
Catholic Charities of the Diocese of Santa Rosa/Catholic Charities Permanent Supportive Housing Project Santa Rosa 2 | 987 Airway Court | Santa Rosa | CA | 95403 | 276,565.00
Housing Authority of the County of Kern/Permanent Supportive Housing Bonus Project II | 601 24th Street | Bakersfield | CA | 93301 | 276,810.00
Fullerton Interfaith Emergency Service/Rapid Re-Housing for Families | 514 W. Amerige Ave | Fullerton | CA | 92832 | 277,523.00
Bill Wilson Center/Peacock Commons 2017 | 3490 The Alameda | Santa Clara | CA | 95050 | 278,574.00
County of Los Angeles, Housing Authority/City of West Hollywood | 700 W. Main Street | Alhambra | CA | 91801 | 278,894.00
Los Angeles Homeless Services Authority/Lamp Lodge | 811 Wilshire Boulevard, 6th Floor | Los Angeles | CA | 90017 | 279,274.00
Arcata House Partnership/Apartments First! | 1005 11th Street | Arcata | CA | 95521 | 279,918.00
Sacramento Steps Forward/Connections | 1331 Garden Highway, Suite 100 | Sacramento | CA | 95833 | 281,425.00
Mental Health Systems Inc/2017 North County Safehaven RENEWAL | 9465 Farnham Street | San Diego | CA | 92123 | 282,511.00
Placer County Health and Human Services Adult System of Care/Shelter Plus Care Renewal FY 2016 | 11512 B Avenue | Auburn | CA | 95603 | 283,184.00
City of Long Beach CA 606/CHAMPS | 2525 Grand Avenue, Room 235 | Long Beach | CA | 90815 | 284,689.00
HOUSING AUTHORITY OF THE CITY OF LOS ANGELES (HACLA)/2017 St. Joseph Center-TRA-Scattered CA0329 | 2600 WILSHIRE BLVD., 3RD FLOOR | LOS ANGELES | CA | 90057 | 285,558.00
HOUSING AUTHORITY OF THE CITY OF LOS ANGELES (HACLA)/2017 LTSC Community Development Corp-Epworth Apts. CA0997 | 2600 WILSHIRE BLVD., 3RD FLOOR | LOS ANGELES | CA | 90057 | 285,562.00
Knowledge, Education for Your Success, Inc./KEYS for Success | 680 S. Waterman Avenue | San Bernardino | CA | 92408 | 286,632.00
Upward Bound House/Upward Bound House Family Place | 1104 Washington Avenue | Santa Monica | CA | 90403 | 286,785.00
County of Los Angeles, Housing Authority/Southern California Health and Rehabilitation Program | 700 W. Main Street | Alhambra | CA | 91801 | 288,557.00
HOUSING AUTHORITY OF THE CITY OF LOS ANGELES (HACLA)/2017 Step Up on Second—Michael's Village CA1112 | 2600 WILSHIRE BLVD., 3RD FLOOR | LOS ANGELES | CA | 90057 | 290,984.00
Satellite Affordable Housing Associates/Tabora Gardens Senior Apartments | 1835 Alcatraz Ave | Berkeley | CA | 94703 | 291,675.00
City of Berkeley/Berkeley Housing for Older Adults Project (HOAP) | 2180 Milvia Street | Berkeley | CA | 94704 | 292,416.00
Los Angeles Homeless Services Authority/Project Hotel Alert | 811 Wilshire Boulevard, 6th Floor | Los Angeles | CA | 90017 | 292,466.00
Los Angeles Homeless Services Authority/Housing Works Home First | 811 Wilshire Boulevard, 6th Floor | Los Angeles | CA | 90017 | 292,581.00
Los Angeles Homeless Services Authority/Family Violence Project—Hope Cottage | 811 Wilshire Boulevard, 6th Floor | Los Angeles | CA | 90017 | 292,583.00
Alameda County/Alameda Point Permanent | 224 W. Winton Ave, Room 108 | Hayward | CA | 94544 | 294,015.00
Fresno County Economic Opportunities Commission/Project Homestead | 1920 Mariposa Mall, Suite 300 | Fresno | CA | 93721 | 295,214.00
United States Veterans Initiative/Veterans in Progress Program | 733 South Hindry Avenue | Inglewood | CA | 90301 | 295,315.00
HOUSING AUTHORITY OF THE CITY OF LOS ANGELES (HACLA)/2017 Portals/Pacific Clinics—Various Locations CA0438 | 2600 WILSHIRE BLVD., 3RD FLOOR | LOS ANGELES | CA | 90057 | 297,200.00
San Joaquin County/From Homelessness to Homes II | 1810 E. Hazelton Avenue | Stockton | CA | 95205 | 298,490.00
Homeward Bound of Marin/Palm Court | 1385 North Hamilton Parkway | Novato | CA | 94949 | 303,805.00
County of Los Angeles, Housing Authority/New Directions 3 | 700 W. Main Street | Alhambra | CA | 91801 | 305,471.00
HOUSING AUTHORITY OF THE CITY OF LOS ANGELES (HACLA)/2017 L. A. County Dept of Mental Health Various Locations CA1105 | 2600 WILSHIRE BLVD., 3RD FLOOR | LOS ANGELES | CA | 90057 | 306,187.00
County of Ventura/Oxnard/East County Coc | 1911 Williams Drive, Suite 200 | Oxnard | CA | 93036 | 307,185.00
Orange County Housing Authority/Jackson Aisle Shelter Plus Care PRA 2017 Renewal Project | 1770 North Broadway | Santa Ana | CA | 92706 | 307,618.00
Bill Wilson Center/Transitional Housing Program Youth and Young Families North 2017 | 3490 The Alameda | Santa Clara | CA | 95050 | 309,348.00
Volunteers of America Southwest CA/Focus on Housing | 3530 Camino Del Rio North, Suite 300 | San Diego | CA | 92108 | 309,626.00
City and County of San Francisco Project Applicant/Mary Helen Rogers Senior Community | 1650 Mission St., 3RD Floor | San Francisco | CA | 94103 | 309,847.00
HOUSING AUTHORITY OF THE CITY OF LOS ANGELES (HACLA)/2017 LA County Dept of Mental Health—FY2014 PSH TRA CA1388 | 2600 WILSHIRE BLVD., 3RD FLOOR | LOS ANGELES | CA | 90057 | 315,216.00
San Luis Obispo County/North Coastal Permanent Supportive Housing | 976 Osos Street, Room 300 | San Luis Obispo | CA | 93408 | 315,820.00
HOUSING AUTHORITY OF THE CITY OF LOS ANGELES (HACLA)/2017 San Fernando Valley Community Mental Health Center CA1110 | 2600 WILSHIRE BLVD., 3RD FLOOR | LOS ANGELES | CA | 90057 | 316,287.00
Alpha Project for the Homeless/Rapid Rehousing III | 3737 5th Ave., #203 | San Diego | CA | 92103 | 318,076.00
Sacramento Steps Forward/Quinn Cottages | 1331 Garden Highway, Suite 100 | Sacramento | CA | 95833 | 318,083.00
Volunteers of America Southwest CA/Housing First | 3530 Camino Del Rio North, Suite 300 | San Diego | CA | 92108 | 319,537.00
Sacramento Steps Forward/Home at Last | 1331 Garden Highway, Suite 100 | Sacramento | CA | 95833 | 322,126.00
HOUSING AUTHORITY OF THE CITY OF LOS ANGELES (HACLA)/2017 Project New Hope Norlin: Lockwood CA0445 | 2600 WILSHIRE BLVD., 3RD FLOOR | LOS ANGELES | CA | 90057 | 322,425.00
City and County of San Francisco Project Applicant/El Dorado/Midori | 1650 Mission St., 3RD Floor | San Francisco | CA | 94103 | 322,574.00
City and County of San Francisco Project Applicant/Knox | 1650 Mission St., 3RD Floor | San Francisco | CA | 94103 | 322,574.00
County of Los Angeles, Housing Authority/A Community of Friends 1—Willow | 700 W. Main Street | Alhambra | CA | 91801 | 322,600.00
HOUSING AUTHORITY OF THE CITY OF LOS ANGELES (HACLA)/2017 ACOF-Gateway Hotel CA0783 | 2600 WILSHIRE BLVD., 3RD FLOOR | LOS ANGELES | CA | 90057 | 324,012.00
City of Glendale/Glendale Housing Authority/1998 and 1999 Shelter Plus Care Project | 141 N. Glendale Ave., Room 202 | Glendale | CA | 91206 | 324,709.00
HOUSING AUTHORITY OF THE CITY OF LOS ANGELES (HACLA)/2017 Alcott Center for Mental Health Services Permanent Supportive Housing Project-CA1594 | 2600 WILSHIRE BLVD., 3RD FLOOR | LOS ANGELES | CA | 90057 | 324,893.00
County of Los Angeles, Housing Authority/The Whole Child 2 | 700 W. Main Street | Alhambra | CA | 91801 | 325,469.00
Fresno County Economic Opportunities Commission/Project Home Plate | 1920 Mariposa Mall, Suite 300 | Fresno | CA | 93721 | 327,326.00
County of Riverside/County of Riverside Planning FY2017 | 4060 County Circle Drive | Riverside | CA | 92503 | 329,354.00
Alliance for Housing and Healing dba The Serra Project/CHOISS SPA 2 | 825 Colorado Blvd., Suite 100 | Los Angeles | CA | 90041 | 329,897.00
Homeless Services Center/Bonus Permanent Supportive Housing 1 | 115B Coral Street | Santa Cruz | CA | 95060 | 330,279.00
LightHouse Social Service Centers/Hope For Heroes 2 FY 2017 | 1003 E. Cooley Drive, Suite #205 | Colton | CA | 92324 | 330,835.00
City of Long Beach CA 606/Homeless Management Information System HMIS | 2525 Grand Avenue, Room 235 | Long Beach | CA | 90815 | 332,030.00
Community Services & Employment Training, Inc./Tulare County Permanent Supportive Housing Program | 312 Northwest 3rd Avenue | Visalia | CA | 93291 | 333,523.00
Housing Authority of the County of San Bernardino/Stepping Stones | 715 E. Brier Drive | San Bernardino | CA | 92408 | 334,799.00
County of Riverside/LightHouse Riverside PSH | 4060 County Circle Drive | Riverside | CA | 92503 | 337,524.00
American Family Housing/Permanent Housing Collaborative | 15161 Jackson St | Midway City | CA | 92655 | 338,007.00
Sacramento Steps Forward/Mutual Housing at the Highlands | 1331 Garden Highway, Suite 100 | Sacramento | CA | 95833 | 339,225.00
Garden Park Apartments Community (GPAC)/Garden Park Apartments Community (GPAC) | 2387 Lisa Lane | Pleasant Hill | CA | 94523 | 340,072.00
Housing Authority City of Fresno/Shelter Plus Care 4 | 1331 Fulton Mall | Fresno | CA | 93721 | 340,771.00
Orange County Housing Authority/Permanent Housing Shelter Plus Care TRA 2017 Renewal Project | 1770 North Broadway | Santa Ana | CA | 92706 | 342,252.00
County of Riverside/HMIS Consolidated | 4060 County Circle Drive | Riverside | CA | 92503 | 344,072.00
Sacramento Steps Forward/Achieving Change Together (ACT) | 1331 Garden Highway, Suite 100 | Sacramento | CA | 95833 | 346,103.00
County of Riverside/Path of Life Rapid Rehousing | 4060 County Circle Drive | Riverside | CA | 92503 | 347,805.00
County of Los Angeles, Housing Authority/County of Los Angeles Department of Mental Health 9 | 700 W. Main Street | Alhambra | CA | 91801 | 348,781.00
County of San Bernardino/2017 CoC Planning Project Application | 303 E. Vanderbilt Way 1st Floor | San Bernardino | CA | 92415 | 349,628.00
Sacramento Steps Forward/Casas de Esperanza | 1331 Garden Highway, Suite 100 | Sacramento | CA | 95833 | 350,359.00
WestCare California, Inc./Project LiftOFF | 1900 N. Gateway Blvd | FRESNO | CA | 93727 | 352,472.00
HOUSING AUTHORITY OF THE CITY OF LOS ANGELES (HACLA)/2017 L.A. Family Housing—SPA 2 Welcome Home Project CA1340 | 2600 WILSHIRE BLVD., 3RD FLOOR | LOS ANGELES | CA | 90057 | 355,838.00
Alliance for Housing and Healing dba The Serra Project/CHOISS SPA 8 | 825 Colorado Blvd., Suite 100 | Los Angeles | CA | 90041 | 355,906.00
St. Joseph's Family Center/Gilroy Place | 7950 Church St., Suite A | Gilroy | CA | 95020 | 356,476.00
HOUSING AUTHORITY OF THE CITY OF LOS ANGELES (HACLA)/2017 Watts Labor CAC—McCoy Plaza CA0923 | 2600 WILSHIRE BLVD., 3RD FLOOR | LOS ANGELES | CA | 90057 | 356,948.00
City and County of San Francisco Project Applicant/Veterans Academy | 1650 Mission St., 3RD Floor | San Francisco | CA | 94103 | 358,694.00
City of Glendale/Glendale Housing Authority/Ascencia Housing Now Program | 141 N. Glendale Ave., Room 202 | Glendale | CA | 91206 | 359,525.00
County of Riverside/Behavioral Health—Riverside Permanent Housing | 4060 County Circle Drive | Riverside | CA | 92503 | 360,127.00
County of San Diego/County S+C SRA | 3989 Ruffin Road | San Diego | CA | 92123 | 360,884.00
Housing Authority of the County of San Bernardino/Laurelbrook Estates | 715 E. Brier Drive | San Bernardino | CA | 92408 | 361,188.00
City of Long Beach CA 606/CH Healthy Homes | 2525 Grand Avenue, Room 235 | Long Beach | CA | 90815 | 361,477.00
County of Ventura Human Services Agency/Choices Permanent Supportive Housing | 855 Partridge Drive | Ventura | CA | 93003 | 362,211.00
City and County of San Francisco Project Applicant/Veterans Commons | 1650 Mission St., 3RD Floor | San Francisco | CA | 94103 | 362,491.00
Time for Change Foundation/Homes of Hope | 1255 E. Highland Avenue, Suite 211 | San Bernardino | CA | 92404 | 363,162.00
TLCS, Inc./PACT Permanent Housing Program (PPHP) 2016 | 650 Howe Ave, Bldg 400-A | Sacramento | CA | 95825 | 363,290.00
Step Up on Second Street, Inc./Step Up in San Bernardino Bonus Funds Application | 1328 Second St | Santa Monica | CA | 90401 | 363,738.00
City of Long Beach CA 606/Rapid Rehousing | 2525 Grand Avenue, Room 235 | Long Beach | CA | 90815 | 366,860.00
City of Long Beach CA 606/Harbor PSH | 2525 Grand Avenue, Room 235 | Long Beach | CA | 90815 | 369,051.00
Sacramento Steps Forward/Building Bridges Program | 1331 Garden Highway, Suite 100 | Sacramento | CA | 95833 | 369,092.00
Berkeley Food and Housing Project/Russell Street Residence | 1901 Fairview St | Berkeley | CA | 94703 | 372,040.00
Los Angeles Homeless Services Authority/Downtown Women's Center—Women's Center Residence | 811 Wilshire Boulevard, 6th Floor | Los Angeles | CA | 90017 | 373,174.00
Placer County Health and Human Services Adult System of Care/ASOC Permanent Supportive Housing 2016 | 11512 B Avenue | Auburn | CA | 95603 | 374,039.00
Housing Authority of the County of Monterey/Pueblo Del Mar | 123 Rico Street | Salinas | CA | 93907 | 374,874.00
Fresno County Economic Opportunities Commission/Project PHoenix | 1920 Mariposa Mall, Suite 300 | Fresno | CA | 93721 | 374,898.00
SAN DIEGO HOUSING COMMISSION/YWCA of San Diego Rapid Re Housing Program | 1122 Broadway, Suite 300 | San Diego | CA | 92101 | 375,234.00
St. Joseph's Family Center/Our New Place | 7950 Church St., Suite A | Gilroy | CA | 95020 | 376,809.00
HOUSING AUTHORITY OF THE CITY OF LOS ANGELES (HACLA)/2017 Venice Community Housing Corp. Scattered Sites CA0519 | 2600 WILSHIRE BLVD., 3RD FLOOR | LOS ANGELES | CA | 90057 | 377,076.00
County of Los Angeles, Housing Authority/SPA 6 CES/SSG | 700 W. Main Street | Alhambra | CA | 91801 | 377,384.00
County of Riverside/POLM RRH East County | 4060 County Circle Drive | Riverside | CA | 92503 | 379,096.00
The Salvation Army, a California Corportaion/Door of Hope Rapid Rehousing Program | 2799 Health Center Drive | San Diego | CA | 92123 | 379,237.00
County of Santa Clara by and through Office of Supportive Housing/CoC Grant Renewal Application 5320 | 3180 Newberry Drive, Suite 150 | San Jose | CA | 95118 | 379,713.00
County of Santa Clara by and through Office of Supportive Housing/Santa Clara County Rapid Rehousing Program for Re-Entry 2015 | 3180 Newberry Drive, Suite 150 | San Jose | CA | 95118 | 380,137.00
County of Los Angeles, Housing Authority/A Community of Friends 5—Avalon | 700 W. Main Street | Alhambra | CA | 91801 | 380,841.00
City of Long Beach CA 606/Cabrillo Plaza PHD | 2525 Grand Avenue, Room 235 | Long Beach | CA | 90815 | 381,152.00
Crisis House, Inc./New Journey | 1034 N. Magnolia Ave | El Cajon | CA | 92020 | 381,270.00
Contra Costa Health Services/CA-505 CoC Planning Application FY2017 | 2400 Bisso Lane, #D2 | Concord | CA | 94520 | 382,602.00
County of Los Angeles, Housing Authority/Ocean Park Community Center 2 | 700 W. Main Street | Alhambra | CA | 91801 | 382,734.00
Families Forward/Families Forward Rapid Re-Housing | 8 Thomas | Irvine | CA | 92618 | 383,269.00
Contra Costa Health Services/Destination Home | 2400 Bisso, Lane #D2 | Concord | CA | 94520 | 385,900.00
Bethany Services, Inc. dba Bakersfield Homeless Center/A Way Home | 1600 East Truxtun Ave | Bakersfield | CA | 93305 | 386,810.00
YWCA of Silicon Valley/Sexual Assault & Human Trafficking-Rehousing Intervention Solutions Efforts (SA & HT-RISE) | 375 S. Third Street | San Jose | CA | 95112 | 390,006.00
Berkeley Food and Housing Project/North County Women's Center | 1901 Fairview St | Berkeley | CA | 94703 | 390,535.00
County of Los Angeles, Housing Authority/County of Los Angeles, Department of Mental Health 10 | 700 W. Main Street | Alhambra | CA | 91801 | 391,721.00
Alameda County/InHOUSE | 224 W. Winton Ave, Room 108 | Hayward | CA | 94544 | 391,907.00
Housing Authority of the County of Kern/Casa Bella | 601 24th Street | Bakersfield | CA | 93301 | 392,324.00
City and County of San Francisco Project Applicant/San Francisco HMIS 2015 | 1650 Mission St., 3RD Floor | San Francisco | CA | 94103 | 396,000.00
HOUSING AUTHORITY OF THE CITY OF LOS ANGELES (HACLA)/2017 St. Joseph Center-TRA CA1111 | 2600 WILSHIRE BLVD., 3RD FLOOR | LOS ANGELES | CA | 90057 | 398,043.00
HOUSING AUTHORITY OF THE CITY OF LOS ANGELES (HACLA)/2017 ACOF-Brandon Apts. CA0917 | 2600 WILSHIRE BLVD., 3RD FLOOR | LOS ANGELES | CA | 90057 | 398,681.00
Illumination Foundation/Stanton Multi-Service Center | 2691 Richter Ave., Suite 107 | Irvine | CA | 92606 | 399,021.00
City and County of San Francisco Project Applicant/Compass Rapid Rehousing I | 1650 Mission St., 3RD Floor | San Francisco | CA | 94103 | 401,908.00
Inland Empire United Way/Pathways Home | 9644 Hermosa Avenue | Rancho Cucamonga | CA | 91730 | 403,136.00
Building Opportunities for Self-Sufficiency/Housing Stabilization | 1918 University Ave | Berkeley | CA | 94704 | 404,888.00
Housing Authority of the County of San Bernardino/Cornerstone | 715 E. Brier Drive | San Bernardino | CA | 92408 | 405,167.00
Los Angeles Homeless Services Authority/Road Home | 811 Wilshire Boulevard, 6th Floor | Los Angeles | CA | 90017 | 407,139.00
SHELTER, Inc. of Contra Costa County/Transitional Housing Partnership | 1333 Willow Pass Road, Suite 206 | Concord | CA | 94520 | 407,235.00
Los Angeles Homeless Services Authority/Los Angeles County HMIS Expansion | 811 Wilshire Boulevard, 6th Floor | Los Angeles | CA | 90017 | 407,620.00
City and County of San Francisco Project Applicant/ECS Bishop Swing | 1650 Mission St., 3RD Floor | San Francisco | CA | 94103 | 407,667.00
San Joaquin County/HOPE | 1810 E. Hazelton Avenue | Stockton | CA | 95205 | 407,883.00
Mercy House Living Centers/Mercy House—CoC-PSH Leasing | P.O. Box 1905 | Santa Ana | CA | 92702 | 409,931.00
County of Santa Clara by and through Office of Supportive Housing/Santa Clara County Rapid Rehousing Program for Domestic Violence and Human Trafficking Survivors | 3180 Newberry Drive, Suite 150 | San Jose | CA | 95118 | 413,908.00
City of Long Beach CA 606/Chronic Homeless Housing—CHH | 2525 Grand Avenue, Room 235 | Long Beach | CA | 90815 | 413,977.00
Los Angeles Homeless Services Authority/CHOISS Program—SPA 3 | 811 Wilshire Boulevard, 6th Floor | Los Angeles | CA | 90017 | 415,337.00
San Joaquin County/CARE (Coordinated Area Response Effort) | 1810 E. Hazelton Avenue | Stockton | CA | 95205 | 415,491.00
County of Los Angeles, Housing Authority/Pacific Clinics | 700 W. Main Street | Alhambra | CA | 91801 | 416,358.00
County of Los Angeles, Housing Authority/St. Joseph Center | 700 W. Main Street | Alhambra | CA | 91801 | 417,289.00
City and County of San Francisco Project Applicant/Bayview Hill Gardens | 1650 Mission St., 3RD Floor | San Francisco | CA | 94103 | 417,682.00
County of Riverside/Housing Authority Consolidated | 4060 County Circle Drive | Riverside | CA | 92503 | 423,348.00
Los Angeles Homeless Services Authority/Golden West Hotel | 811 Wilshire Boulevard, 6th Floor | Los Angeles | CA | 90017 | 427,549.00
Serving People In Need, Inc./CoC Rapid Re-Housing 2017 | 151 Kalmus Drive, Suite H-2 | Costa Mesa | CA | 92626 | 428,926.00
LifeMoves/First Step for Families 2017 | 181 Constitution Drive | Menlo Park | CA | 94025 | 429,444.00
County of Riverside/Desert Horizon PSH | 4060 County Circle Drive | Riverside | CA | 92503 | 434,275.00
County of Los Angeles, Housing Authority/New Directions 2 | 700 W. Main Street | Alhambra | CA | 91801 | 435,564.00
HOUSING AUTHORITY OF THE CITY OF LOS ANGELES (HACLA)/2017 ACOF-Vendome Apartments CA1220 | 2600 WILSHIRE BLVD., 3RD FLOOR | LOS ANGELES | CA | 90057 | 436,640.00
City and County of San Francisco Project Applicant/Compass Rapid Rehousing II | 1650 Mission St., 3RD Floor | San Francisco | CA | 94103 | 437,145.00
Sacramento Steps Forward/Friendship Housing Expansion #2 | 1331 Garden Highway, Suite 100 | Sacramento | CA | 95833 | 440,457.00
Housing Authority City of Fresno/RRH A Family Home | 1331 Fulton Mall | Fresno | CA | 93721 | 440,713.00
Mercy House Living Centers/Mercy House—CoC Leasing—Renewal | P.O. Box 1905 | Santa Ana | CA | 92702 | 441,729.00
Homeward Bound of Marin/Family Place | 1385 North Hamilton Parkway | Novato | CA | 94949 | 444,797.00
County of Los Angeles, Housing Authority/PATH Gateways Connections | 700 W. Main Street | Alhambra | CA | 91801 | 444,991.00
Larkin Street Youth Services/Geary House | 134 Golden Gate Ave | San Francisco | CA | 94102 | 445,538.00
TLCS, Inc./WORK 2016 | 650 Howe Ave, Bldg 400-A | Sacramento | CA | 95825 | 445,947.00
Fresno County Economic Opportunities Commission/Bridge to Home 1 | 1920 Mariposa Mall, Suite 300 | Fresno | CA | 93721 | 447,821.00
City and County of San Francisco Project Applicant/1300 Fourth | 1650 Mission St., 3RD Floor | San Francisco | CA | 94103 | 449,088.00
County of Riverside/Housing Authority Consolidated All County | 4060 County Circle Drive | Riverside | CA | 92503 | 450,929.00
Turning Point of Central California, Inc./Stasis Permanent Supportive Housing | 615 S. Atwood St. | Visalia | CA | 93277 | 451,053.00
SAN DIEGO HOUSING COMMISSION/TACHS Prizm | 1122 Broadway, Suite 300 | San Diego | CA | 92101 | 452,060.00
Sacramento Steps Forward/Omega Permanent Supportive Housing Project | 1331 Garden Highway, Suite 100 | Sacramento | CA | 95833 | 452,641.00
Abode Services/Mission Rebuild | 40849 Fremont Blvd | Fremont | CA | 94538 | 455,298.00
City and County of San Francisco Project Applicant/95 Laguna Senior Housing | 1650 Mission St., 3RD Floor | San Francisco | CA | 94103 | 460,072.00
HOUSING AUTHORITY OF THE CITY OF LOS ANGELES (HACLA)/2017 Project New Hope Hoover & Nyumba CA0444 | 2600 WILSHIRE BLVD., 3RD FLOOR | LOS ANGELES | CA | 90057 | 461,705.00
City of Burbank/Homes, Equality and Links to Programs “Equal Access to Supportive Living for our Homeless“ | 150 N. Third Street | Burbank | CA | 91502 | 462,908.00
County of Santa Clara by and through Office of Supportive Housing/HMIS SCC | 3180 Newberry Drive, Suite 150 | San Jose | CA | 95118 | 464,321.00
City and County of San Francisco Project Applicant/Rental Assistance for Homeless Veterans II | 1650 Mission St., 3RD Floor | San Francisco | CA | 94103 | 467,554.00
Bill Wilson Center/Rapid Rehousing Youth 2017 | 3490 The Alameda | Santa Clara | CA | 95050 | 468,160.00
SHELTER, Inc. of Contra Costa County/Reach Plus RRH | 1333 Willow Pass Road, Suite 206 | Concord | CA | 94520 | 471,427.00
Alameda County/Alameda County Shelter Plus Care—PRA | 224 W. Winton Ave, Room 108 | Hayward | CA | 94544 | 471,604.00
Crisis House, Inc./Journey Home | 1034 N. Magnolia Ave | El Cajon | CA | 92020 | 473,859.00
County of Los Angeles, Housing Authority/Antelope Valley Domestic Violence Council | 700 W. Main Street | Alhambra | CA | 91801 | 476,372.00
Los Angeles Homeless Services Authority/LA CoC Coordinated Assessment | 811 Wilshire Boulevard, 6th Floor | Los Angeles | CA | 90017 | 479,058.00
HOUSING AUTHORITY OF THE CITY OF LOS ANGELES (HACLA)/2017 SRO Housing Corp-Eugene Hotel CA0799 | 2600 WILSHIRE BLVD., 3RD FLOOR | LOS ANGELES | CA | 90057 | 480,958.00
Los Angeles Homeless Services Authority/Westside Residence Hall and Employment Center | 811 Wilshire Boulevard, 6th Floor | Los Angeles | CA | 90017 | 485,775.00
County of Santa Cruz Health Services Agency/Meaningful Answers to Chronic Homelessness (MATCH) | 115-A Coral Street | Santa Cruz | CA | 95060 | 486,281.00
Alameda County/Alameda County Shelter Plus Care—HOPE Housing | 224 W. Winton Ave., Room 108 | Hayward | CA | 94544 | 487,069.00
Fred Finch Youth Center/Turning Point | 3800 Coolidge Avenue | Oakland | CA | 94602 | 489,001.00
City of Long Beach CA 606/Domestic Violence | 2525 Grand Avenue, Room 235 | Long Beach | CA | 90815 | 489,879.00
LightHouse Social Service Centers/Hope for Heroes FY 2017 | 1003 E. Cooley Drive, Suite #205 | Colton | CA | 92324 | 490,878.00
County of Los Angeles, Housing Authority/OPCC Integrated Housing Program | 700 W. Main Street | Alhambra | CA | 91801 | 492,840.00
LifeMoves/Rapid Re-housing 2017 | 181 Constitution Drive | Menlo Park | CA | 94025 | 492,900.00
City of Long Beach CA 606/SPC 95/00 | 2525 Grand Avenue, Room 235 | Long Beach | CA | 90815 | 495,001.00
City of Santa Monica Housing Authority/COLA CA0360L9D001205 | 1901 Main St., Suite A | Santa Monica | CA | 90405 | 496,926.00
County of Riverside/Behavioral Health HHOPE Consolidated Permanent Housing | 4060 County Circle Drive | Riverside | CA | 92503 | 498,042.00
County of Riverside/Behavioral Health—Coachella Valley Permanent Housing | 4060 County Circle Drive | Riverside | CA | 92503 | 499,496.00
People for Irvine Community Health dba 2-1-1 Orange County/HMIS Community Support NOFA 2017 | 1505 E 17th St., Suite 108 | Santa Ana | CA | 92705 | 499,646.00
Los Angeles Homeless Services Authority/Los Angeles County HMIS 2016 Project | 811 Wilshire Boulevard, 6th Floor | Los Angeles | CA | 90017 | 500,000.00
County of Riverside/County of Riverside CES Project | 4060 County Circle Drive | Riverside | CA | 92503 | 500,000.00
HOUSING AUTHORITY OF THE CITY OF LOS ANGELES (HACLA)/2017 Skid Row Housing Trust—Abbey Apartments CA1051 | 2600 WILSHIRE BLVD., 3RD FLOOR | LOS ANGELES | CA | 90057 | 503,329.00
City and County of San Francisco Project Applicant/Homeless Prenatal Project—HPP TRA | 1650 Mission St., 3RD Floor | San Francisco | CA | 94103 | 507,084.00
Housing Authority of the County of San Mateo/Permanent Supportive housing (SP18) | 264 Harbor Blvd., #A | Belmont | CA | 94002 | 508,327.00
American Family Housing/Permanent Housing 2 | 15161 Jackson St | Midway City | CA | 92655 | 509,907.00
Sacramento Steps Forward/Saybrook Permanent Supportive Housing Project | 1331 Garden Highway, Suite 100 | Sacramento | CA | 95833 | 516,530.00
Alpha Project for the Homeless/Alpha Square | 3737 5th Ave. #203 | San Diego | CA | 92103 | 517,030.00
Inland Temporary Homes dba Inland Housing Solutions/Infinite Horizons—RRH FY 2017 | P.O. Box 239 | Loma Linda | CA | 92354 | 519,946.00
County of Riverside/JFSSD Permanent Supportive Housing Expansion | 4060 County Circle Drive | Riverside | CA | 92503 | 525,009.00
HOUSING AUTHORITY OF THE CITY OF LOS ANGELES (HACLA)/2017 SRO Housing Corp-Brownstone Hotel CA1049 | 2600 WILSHIRE BLVD., 3RD FLOOR | LOS ANGELES | CA | 90057 | 525,699.00
City and County of San Francisco Project Applicant/Glide Cecil Williams Community House | 1650 Mission St., 3RD Floor | San Francisco | CA | 94103 | 525,759.00
County of Los Angeles, Housing Authority/Mental Health America of Los Angeles | 700 W. Main Street | Alhambra | CA | 91801 | 527,184.00
City and County of San Francisco Project Applicant/Folsom/Dore | 1650 Mission St., 3RD Floor | San Francisco | CA | 94103 | 527,796.00
Interfaith Community Services, Inc./Home Now | 550 W. Washington Ave., Suite B | Escondido | CA | 92025 | 528,709.00
County of Riverside/Stepping Up in Riverside Bonus | 4060 County Circle Drive | Riverside | CA | 92503 | 530,269.00
Regional Task Force on the Homeless Inc./CoC Planning Project Application—2017 | 4699 Murphy Canyon Road, Suite 104 | San Diego | CA | 92123 | 531,248.00
County of Santa Clara by and through Office of Supportive Housing/Samaritan Inns 2014 | 3180 Newberry Drive, Suite 150 | San Jose | CA | 95118 | 531,298.00
1736 Family Crisis Center/1736 Family Crisis Center SHP | 2116 Arlington Avenue, Suite 200 | Los Angeles | CA | 90018 | 531,763.00
County of Los Angeles, Housing Authority/OPCC | 700 W. Main Street | Alhambra | CA | 91801 | 532,800.00
YWCA of Silicon Valley/Domestic Violence Rapid Rehousing for Families | 375 S. Third Street | San Jose | CA | 95112 | 536,948.00
Friendship Shelter, Inc./Henderson House Permanent Supportive Housing | 1335 South Coast Highway | Laguna Beach | CA | 92651 | 540,864.00
SHELTER, Inc. of Contra Costa County/Project Thrive | 1333 Willow Pass Road, Suite 206 | Concord | CA | 94520 | 541,220.00
Housing Authority of the County of Santa Cruz/Shelter Plus Care Renewal | 2931 Mission Street | Santa Cruz | CA | 95060 | 542,418.00
LifeLong Medical Care/Health, Housing and Integrated Services Network | 2344 6th Street | Berkeley | CA | 94710 | 549,672.00
Contra Costa Health Services/Contra Costa Coordinated Entry | 2400 Bisso Lane #D2 | Concord | CA | 94520 | 550,344.00
Housing Authority of the County of Kern/Lugar De Refugio | 601 24th Street | Bakersfield | CA | 93301 | 555,197.00
1736 Family Crisis Center/Rapid Re-housing for Homeless Veterans | 2116 Arlington Avenue, Suite 200 | Los Angeles | CA | 90018 | 555,689.00
HOUSING AUTHORITY OF THE CITY OF LOS ANGELES (HACLA)/2017 St. Joseph Center -HACLA PSH for SPA 5 and 6 CH Clients CA1595 | 2600 WILSHIRE BLVD., 3RD FLOOR | LOS ANGELES | CA | 90057 | 558,041.00
Bill Wilson Center/Transitional Housing Program Youth and Young Families 2017 | 3490 The Alameda | Santa Clara | CA | 95050 | 558,923.00
County of Santa Clara by and through Office of Supportive Housing/Housing Case Management for Medical Respite Recovery | 3180 Newberry Drive, Suite 150 | San Jose | CA | 95118 | 567,859.00
HOUSING AUTHORITY OF THE CITY OF LOS ANGELES (HACLA)/2017 ACOF-Woodland Terrace CA0916 | 2600 WILSHIRE BLVD., 3RD FLOOR | LOS ANGELES | CA | 90057 | 575,631.00
HOUSING AUTHORITY OF THE CITY OF LOS ANGELES (HACLA)/2017 Skid Row Housing Trust—St. George Hotel 1 CA1216 | 2600 WILSHIRE BLVD., 3RD FLOOR | LOS ANGELES | CA | 90057 | 578,002.00
City and County of San Francisco Project Applicant/Rental Assistance for Homeless Veterans | 1650 Mission St., 3RD Floor | San Francisco | CA | 94103 | 580,191.00
Sacramento Steps Forward/CA-503 CoC Planning Application FY2017 | 1331 Garden Highway, Suite 100 | Sacramento | CA | 95833 | 581,035.00
Los Angeles Homeless Services Authority/Westside Safe Haven | 811 Wilshire Boulevard, 6th Floor | Los Angeles | CA | 90017 | 584,327.00
County of Los Angeles, Housing Authority/Union Station Housing Services 2 Expansion | 700 W. Main Street | Alhambra | CA | 91801 | 585,302.00
County of Santa Clara by and through Office of Supportive Housing/CA-500 CoC Planning Application FY2017 | 3180 Newberry Drive, Suite 150 | San Jose | CA | 95118 | 586,308.00
Sacramento Steps Forward/Building Community | 1331 Garden Highway, Suite 100 | Sacramento | CA | 95833 | 590,232.00
HOUSING AUTHORITY OF THE CITY OF LOS ANGELES (HACLA)/2017 SRO Housing Corp-Gateways Apts CA0996 | 2600 WILSHIRE BLVD., 3RD FLOOR | LOS ANGELES | CA | 90057 | 594,202.00
Orange County Housing Authority/2005 Shelter Plus Care TRA 2017 Renewal Project | 1770 North Broadway | Santa Ana | CA | 92706 | 598,869.00
Los Angeles Homeless Services Authority/Housing Works Home First—Expansion | 811 Wilshire Boulevard, 6th Floor | Los Angeles | CA | 90017 | 605,563.00
County of Los Angeles, Housing Authority/OPCC Integrated Housing Program Expansion | 700 W. Main Street | Alhambra | CA | 91801 | 612,374.00
City and County of San Francisco Project Applicant/Allen Hotel | 1650 Mission St., 3RD Floor | San Francisco | CA | 94103 | 613,527.00
Abode Services/Oakland PATH Re-Housing Initiative | 40849 Fremont Blvd | Fremont | CA | 94538 | 620,822.00
City of Glendale/Glendale Housing Authority/CES Reallocation 2015 | 141 N. Glendale Ave., Room 202 | Glendale | CA | 91206 | 620,951.00
County of Santa Clara by and through Office of Supportive Housing/Housing Case Management for the Homeless | 3180 Newberry Drive, Suite 150 | San Jose | CA | 95118 | 622,311.00
Los Angeles Homeless Services Authority/Pomona Operation Porchlight-Rapid Rehousing Program | 811 Wilshire Boulevard, 6th Floor | Los Angeles | CA | 90017 | 623,008.00
Turning Point of Central California, Inc./Family Villa Permanent Supportive Housing | 615 S. Atwood St | Visalia | CA | 93277 | 627,544.00
County of Santa Clara by and through Office of Supportive Housing/CoC Renewal Grant Application SCC Chronically Homeless PSH | 3180 Newberry Drive, Suite 150 | San Jose | CA | 95118 | 633,479.00
Los Angeles Homeless Services Authority/Los Angeles County HMIS Project | 811 Wilshire Boulevard, 6th Floor | Los Angeles | CA | 90017 | 641,640.00
HOUSING AUTHORITY OF THE CITY OF LOS ANGELES (HACLA)/2017 Ocean Park Community Center Various Locations CA0859 | 2600 WILSHIRE BLVD., 3RD FLOOR | LOS ANGELES | CA | 90057 | 643,385.00
Sacramento Steps Forward/The Doorway | 1331 Garden Highway, Suite 100 | Sacramento | CA | 95833 | 645,981.00
HOUSING AUTHORITY OF THE CITY OF LOS ANGELES (HACLA)/2017 SRO Housing Corp-Lyndon House CA1050 | 2600 WILSHIRE BLVD., 3RD FLOOR | LOS ANGELES | CA | 90057 | 648,328.00
Orange County Housing Authority/2002 Shelter Plus Care TRA 2017 Renewal Project | 1770 North Broadway | Santa Ana | CA | 92706 | 649,027.00
Orange County/FY2017 Planning Grant Application | 1300 S. Grand | Santa Ana | CA | 92705 | 651,112.00
Housing Authority of the County of San Mateo/Permanent Supportive Housing (SP16 Expansion) | 264 Harbor Blvd., #A | Belmont | CA | 94002 | 655,957.00
Contra Costa Health Services/Contra Costa Coordinated Entry Expansion | 2400 Bisso Lane #D2 | Concord | CA | 94520 | 666,691.00
County of Santa Clara by and through Office of Supportive Housing/Family Housing | 3180 Newberry Drive, Suite 150 | San Jose | CA | 95118 | 667,579.00
City and County of San Francisco Project Applicant/Canon Barcus Community House | 1650 Mission St., 3RD Floor | San Francisco | CA | 94103 | 668,694.00
City and County of San Francisco Project Applicant/Veterans' Hope House II | 1650 Mission St., 3RD Floor | San Francisco | CA | 94103 | 670,457.00
West Valley Community Services of Santa Clara County, Inc./Haven to Home | 10104 Vista Drive | Cupertino | CA | 95014 | 670,879.00
HOUSING AUTHORITY OF THE CITY OF LOS ANGELES (HACLA)/2017 St. Joseph Center—Scattered Site-TRA CA0995 | 2600 WILSHIRE BLVD., 3RD FLOOR | LOS ANGELES | CA | 90057 | 670,954.00
TLCS, Inc./New Direction PHP 2016 | 650 Howe Ave., Bldg 400-A | Sacramento | CA | 95825 | 671,423.00
County of Santa Clara by and through Office of Supportive Housing/Senter Road Permanent Supportive Housing 2015 | 3180 Newberry Drive, Suite 150 | San Jose | CA | 95118 | 676,379.00
Los Angeles Homeless Services Authority/South Los Angeles Rapid Rehousing Program | 811 Wilshire Boulevard, 6th Floor | Los Angeles | CA | 90017 | 677,418.00
Homeward Bound of Marin/Housing at Last | 1385 North Hamilton Parkway | Novato | CA | 94949 | 680,128.00
Orange County Housing Authority/2007 Shelter Plus Care TRA 2017 Renewal Project | 1770 North Broadway | Santa Ana | CA | 92706 | 682,847.00
Alameda County/Welcome Home San Leandro | 224 W. Winton Ave., Room 108 | Hayward | CA | 94544 | 683,628.00
SAN DIEGO HOUSING COMMISSION/TAY Rapid Rehousing | 1122 Broadway, Suite 300 | San Diego | CA | 92101 | 687,960.00
County of Riverside/JFS Desert Vista Permanent Housing | 4060 County Circle Drive | Riverside | CA | 92503 | 688,476.00
Housing Authority of the City of Santa Barbara/2017—Shelter Plus Care, A Santa Barbara Partnership Serving the Homeless | 808 Laguna Street | Santa Barbara | CA | 93101 | 694,008.00
City of Berkeley/COACH Project | 2180 Milvia Street | Berkeley | CA | 94704 | 698,098.00
City of Long Beach CA 606/Family Commons | 2525 Grand Avenue, Room 235 | Long Beach | CA | 90815 | 698,330.00
Sacramento Steps Forward/New Community | 1331 Garden Highway, Suite 100 | Sacramento | CA | 95833 | 698,885.00
Regional Task Force on the Homeless Inc./CoC Regional CAHP—2017 | 4699 Murphy Canyon Road, Suite 104 | San Diego | CA | 92123 | 707,000.00
Alpha Project for the Homeless/Rapid Rehousing II | 3737 5th Ave., #203 | San Diego | CA | 92103 | 711,299.00
The City of Oakland/Oakland Homeless Youth Housing Collaborative | 150 Frank H. Ogawa Plaza, Suite 4340 | Oakland | CA | 94612 | 713,095.00
St. Vincent de Paul Village, Inc./Village Rapid Rehousing Program | 3350 E Street | San Diego | CA | 92102 | 718,137.00
Orange County Housing Authority/2006 Shelter Plus Care TRA 2017 Renewal Project | 1770 North Broadway | Santa Ana | CA | 92706 | 730,587.00
Regional Task Force on the Homeless Inc./HMIS San Diego County Expansion | 4699 Murphy Canyon Road, Suite 104 | San Diego | CA | 92123 | 734,003.00
Housing Authority of the County of San Mateo/Permanent Supportive Housing (SP17) | 264 Harbor Blvd., #A | Belmont | CA | 94002 | 738,236.00
City of Compton/Permanent Support Housing (PSH) | 700 North Bullis Road | Compton | CA | 90221 | 763,326.00
County of San Diego/County S+C TRA | 3989 Ruffin Road | San Diego | CA | 92123 | 776,651.00
PATH (People Assisting the Homeless)/PATH Connections Housing | 340 North Madison Avenue | Los Angeles | CA | 90004 | 776,923.00
St. Vincent de Paul Village, Inc./Village Rapid Rehousing for Families | 3350 E Street | San Diego | CA | 92102 | 781,422.00
Sacramento Steps Forward/Friendship Housing | 1331 Garden Highway, Suite 100 | Sacramento | CA | 95833 | 781,581.00
Abode Services/STAY Well Housing | 40849 Fremont Blvd | Fremont | CA | 94538 | 783,579.00
HOUSING AUTHORITY OF THE CITY OF LOS ANGELES (HACLA)/2017 Special Services for Groups—TRA CA0798 | 2600 WILSHIRE BLVD., 3RD FLOOR | LOS ANGELES | CA | 90057 | 791,133.00
Alameda County/Alameda County Shelter Plus Care—SRO | 224 W. Winton Ave., Room 108 | Hayward | CA | 94544 | 794,964.00
HOUSING AUTHORITY OF THE CITY OF LOS ANGELES (HACLA)/2017 Harbor Interfaith Services Inc.—SPA 8 CES PSH CA1491 | 2600 WILSHIRE BLVD., 3RD FLOOR | LOS ANGELES | CA | 90057 | 798,798.00
City of Pasadena/2017 Shelter Plus Care | 649 N. Fair Oaks Ave., Suite 202 | Pasadena | CA | 91103 | 800,770.00
TLCS, Inc./Possibilities | 650 Howe Ave, Bldg. 400-A | Sacramento | CA | 95825 | 809,822.00
Orange County Housing Authority/2004 Shelter Plus Care TRA 2017 Renewal Project | 1770 North Broadway | Santa Ana | CA | 92706 | 817,821.00
The City of Oakland/North County Family Rapid Rehousing Collaborative | 150 Frank H. Ogawa Plaza, Suite 4340 | Oakland | CA | 94612 | 822,119.00
County of Los Angeles, Housing Authority/Union Station Housing Services 2 | 700 W. Main Street | Alhambra | CA | 91801 | 826,208.00
Turning Point of Central California, Inc./Falcon Court Permanent Supportive Housing | 615 S. Atwood St | Visalia | CA | 93277 | 826,230.00
Housing Authority of the County of Kern/Permanent Supportive Housing Bonus Project | 601 24th Street | Bakersfield | CA | 93301 | 829,973.00
City of Long Beach CA 606/MSC | 2525 Grand Avenue, Room 235 | Long Beach | CA | 90815 | 842,737.00
Alameda County/Welcome Home | 224 W. Winton Ave., Room 108 | Hayward | CA | 94544 | 843,587.00
City and County of San Francisco Project Applicant/TNDC Scattered Sites | 1650 Mission St., 3RD Floor | San Francisco | CA | 94103 | 878,754.00
HOUSING AUTHORITY OF THE CITY OF LOS ANGELES (HACLA)/2017 Special Services for Groups—SPA 6 CES CA1339 | 2600 WILSHIRE BLVD., 3RD FLOOR | LOS ANGELES | CA | 90057 | 879,202.00
Sonoma County Community Development Commission/Renewal Rental Assistance—Persons with HIV/AIDS | 1440 Guerneville Road | Santa Rosa | CA | 95403 | 887,006.00
County of Riverside/Stepping Up in Riverside | 4060 County Circle Drive | Riverside | CA | 92503 | 895,767.00
City and County of San Francisco Project Applicant/TNDC Ambassador | 1650 Mission St., 3RD Floor | San Francisco | CA | 94103 | 896,040.00
City of Long Beach CA 606/Street to Home | 2525 Grand Avenue, Room 235 | Long Beach | CA | 90815 | 896,447.00
City and County of San Francisco Project Applicant/CHP Scattered Sites | 1650 Mission St., 3RD Floor | San Francisco | CA | 94103 | 898,830.00
City of Pasadena/2017 Holly Street Housing | 649 N. Fair Oaks Ave., Suite 202 | Pasadena | CA | 91103 | 899,542.00
People for Irvine Community Health dba 2-1-1 Orange County/Coordinated Entry System SSO Grant NOFA 2017 | 1505 E 17th St., Suite 108 | Santa Ana | CA | 92705 | 907,239.00
HOUSING AUTHORITY OF THE CITY OF LOS ANGELES (HACLA)/2017 St. Joseph Center—Scattered Sites CA0474 | 2600 WILSHIRE BLVD., 3RD FLOOR | LOS ANGELES | CA | 90057 | 909,001.00
Alameda County/Homes for Wellness | 224 W. Winton Ave., Room 108 | Hayward | CA | 94544 | 917,900.00
City and County of San Francisco Project Applicant/1036 Mission | 1650 Mission St., 3RD Floor | San Francisco | CA | 94103 | 926,875.00
HOUSING AUTHORITY OF THE CITY OF LOS ANGELES (HACLA)/2017 L.A. County Dept. of Mental Health Various Locations CA0862 | 2600 WILSHIRE BLVD., 3RD FLOOR | LOS ANGELES | CA | 90057 | 943,179.00
HOUSING AUTHORITY OF THE CITY OF LOS ANGELES (HACLA)/2017 Ocean Park Community Ctr. Various Locations CA0920 | 2600 WILSHIRE BLVD., 3RD FLOOR | LOS ANGELES | CA | 90057 | 943,900.00
City and County of San Francisco Project Applicant/CoC Planning Project Application FY2017 | 1650 Mission St., 3RD Floor | San Francisco | CA | 94103 | 944,592.00
City and County of San Francisco Project Applicant/Franciscan Towers | 1650 Mission St., 3RD Floor | San Francisco | CA | 94103 | 954,789.00
City and County of San Francisco Project Applicant/TNDC Franciscan Towers 2 | 1650 Mission St., 3RD Floor | San Francisco | CA | 94103 | 954,789.00
Contra Costa Interfaith Transitional Housing, Inc/ACCESS | 399 Taylor Blvd., Suite 115 | Pleasant Hill | CA | 94523 | 962,318.00
Contra Costa Health Services/High Utilizers of Multiple Systems | 2400 Bisso Lane, #D2 | Concord | CA | 94520 | 966,573.00
Los Angeles Homeless Services Authority/Moving Families Home | 811 Wilshire Boulevard, 6th Floor | Los Angeles | CA | 90017 | 987,549.00
City and County of San Francisco Project Applicant/ECS—Henry | 1650 Mission St., 3RD Floor | San Francisco | CA | 94103 | 992,317.00
Contra Costa Interfaith Transitional Housing, Inc/Families in Supportive Housing (FISH) | 399 Taylor Blvd., Suite 115 | Pleasant Hill | CA | 94523 | 992,422.00
Alameda County/Alameda County CoC Planning Project FY2017 | 224 W. Winton Ave., Room 108 | Hayward | CA | 94544 | 998,188.00
Housing Authority City of Fresno/Shelter Plus Care 1 | 1331 Fulton Mall | Fresno | CA | 93721 | 1,019,717.00
Housing Authority of the County of Stanislaus/Shelter plus Care 1-4,6,7,8 FY2017 Renewal | 1701 Robertson Road | Modesto | CA | 95358 | 1,021,640.00
County of Los Angeles, Housing Authority/County of Los Angeles Department of Mental Health 12 | 700 W. Main Street | Alhambra | CA | 91801 | 1,025,727.00
United States Veterans Initiative/U.S.VETS SB Renewal project Application FY2017 | 15105 6th Street | Riverside | CA | 92518 | 1,028,277.00
Alameda County/Alameda County CES | 224 W. Winton Ave., Room 108 | Hayward | CA | 94544 | 1,038,171.00
City and County of San Francisco Project Applicant/Lyric | 1650 Mission St., 3RD Floor | San Francisco | CA | 94103 | 1,039,406.00
Los Angeles Homeless Services Authority/The Salvation Army CIS PSH (DedicatedPLUS) for TAY | 811 Wilshire Boulevard, 6th Floor | Los Angeles | CA | 90017 | 1,041,036.00
City and County of San Francisco Project Applicant/Hamilton New Rapid Rehousing | 1650 Mission St., 3RD Floor | San Francisco | CA | 94103 | 1,046,792.00
County of Los Angeles, Housing Authority/St. Joseph Center 2 | 700 W. Main Street | Alhambra | CA | 91801 | 1,053,029.00
HOUSING AUTHORITY OF THE CITY OF LOS ANGELES (HACLA)/2017 St. Joseph Center-Permanent Supportive Housing CA1490 | 2600 WILSHIRE BLVD., 3RD FLOOR | LOS ANGELES | CA | 90057 | 1,077,596.00
City of Pomona Housing Authority/Pomona PHA CoC-PSH Program | 505 S. Garey Avenue | Pomona | CA | 91766 | 1,082,827.00
County of Los Angeles, Housing Authority/OPCC Wellnes Housing Program | 700 W. Main Street | Alhambra | CA | 91801 | 1,105,882.00
County of Los Angeles, Housing Authority/County of Los Angeles Department of Mental Health 11 (MIT) | 700 W. Main Street | Alhambra | CA | 91801 | 1,107,943.00
Alameda County/APC Multi-Service Center | 224 W. Winton Ave., Room 108 | Hayward | CA | 94544 | 1,111,092.00
County of Los Angeles, Housing Authority/Southern California Health and Rehabilitation Program Expansion | 700 W. Main Street | Alhambra | CA | 91801 | 1,114,179.00
City and County of San Francisco Project Applicant/Direct Access to Housing Empress/Folsom Dore | 1650 Mission St., 3RD Floor | San Francisco | CA | 94103 | 1,127,459.00
Housing Authority of the County of San Mateo/SHP Scattered Site | 264 Harbor Blvd., #A | Belmont | CA | 94002 | 1,130,311.00
Los Angeles Homeless Services Authority/The Salvation Army CIS PSH | 811 Wilshire Boulevard, 6th Floor | Los Angeles | CA | 90017 | 1,158,315.00
Orange County Housing Authority/2003 Shelter Plus Care TRA 2017 Renewal Project | 1770 North Broadway | Santa Ana | CA | 92706 | 1,180,715.00
City and County of San Francisco Project Applicant/Integrated Services Network | 1650 Mission St., 3RD Floor | San Francisco | CA | 94103 | 1,186,619.00
HOUSING AUTHORITY OF THE CITY OF LOS ANGELES (HACLA)/2017 LAMP—Downtown—CoC 2018 | 2600 WILSHIRE BLVD., 3RD FLOOR | LOS ANGELES | CA | 90057 | 1,208,573.00
City and County of San Francisco Project Applicant/Tenant Based Rental Assistance | 1650 Mission St., 3RD Floor | San Francisco | CA | 94103 | 1,220,446.00
Los Angeles Homeless Services Authority/CA-600 CoC Planning Application FY2017 | 811 Wilshire Boulevard, 6th Floor | Los Angeles | CA | 90017 | 1,250,000.00
Abode Services/Impact | 40849 Fremont Blvd | Fremont | CA | 94538 | 1,258,129.00
HOUSING AUTHORITY OF THE CITY OF LOS ANGELES (HACLA)/2017 HACLA-SAMARITAN BONUS CA0324 | 2600 WILSHIRE BLVD., 3RD FLOOR | LOS ANGELES | CA | 90057 | 1,276,595.00
Housing Authority of the County of San Mateo/Permanent Supportive Housing (SP16) | 264 Harbor Blvd., #A | Belmont | CA | 94002 | 1,294,617.00
County of Santa Clara by and through Office of Supportive Housing/CCP Placement Project Expansion 2017 | 3180 Newberry Drive, Suite 150 | San Jose | CA | 95118 | 1,303,260.00
Alameda County/Alameda County Shelter Plus Care—HOST | 224 W. Winton Ave, Room 108 | Hayward | CA | 94544 | 1,309,124.00
HOUSING AUTHORITY OF THE CITY OF LOS ANGELES (HACLA)/2017 Skid Row Housing Trust—Samaritan Grant CA1217 | 2600 WILSHIRE BLVD., 3RD FLOOR | LOS ANGELES | CA | 90057 | 1,309,404.00
City and County of San Francisco Project Applicant/Direct Access to Housing Chronic Alcoholics | 1650 Mission St., 3RD Floor | San Francisco | CA | 94103 | 1,311,151.00
County of Riverside/Path of Life PSH | 4060 County Circle Drive | Riverside | CA | 92503 | 1,323,522.00
County of Los Angeles, Housing Authority/County of Los Angeles Department of Mental Health 8 | 700 W. Main Street | Alhambra | CA | 91801 | 1,325,352.00
HOUSING AUTHORITY OF THE CITY OF LOS ANGELES (HACLA)/2017 Hollywood Scattered Sites CA0395 | 2600 WILSHIRE BLVD., 3RD FLOOR | LOS ANGELES | CA | 90057 | 1,325,792.00
The City of Oakland/North County Homeless Youth Rapid Rehousing | 150 Frank H. Ogawa Plaza, Suite 4340 | Oakland | CA | 94612 | 1,340,466.00
HOUSING AUTHORITY OF THE CITY OF LOS ANGELES (HACLA)/2017 L.A. County Department of Mental Health Multidisciplinary Integrated Teams CA1337 | 2600 WILSHIRE BLVD., 3RD FLOOR | LOS ANGELES | CA | 90057 | 1,418,224.00
City and County of San Francisco Project Applicant/Cadillac/William Penn | 1650 Mission St., 3RD Floor | San Francisco | CA | 94103 | 1,433,664.00
City and County of San Francisco Project Applicant/Canon Kip | 1650 Mission St., 3RD Floor | San Francisco | CA | 94103 | 1,433,808.00
HOUSING AUTHORITY OF THE CITY OF LOS ANGELES (HACLA)/2017 L.A. Family Housing—2015 SPA 2 Welcome Home Project CA1492 | 2600 WILSHIRE BLVD., 3RD FLOOR | LOS ANGELES | CA | 90057 | 1,455,802.00
Community Development Commission of Mendocino County/TRA Renewal 2017 | 1076 N State Street | Ukiah | CA | 95482 | 1,476,931.00
Illumination Foundation/Street2Home OC | 2691 Richter Ave., Suite 107 | Irvine | CA | 92606 | 1,483,513.00
Housing Authority of the County of San Mateo/Shelter Plus Care Sponsor Based (SP2) | 264 Harbor Blvd., #A | Belmont | CA | 94002 | 1,494,558.00
Alameda County/Southern Alameda County Housing/Jobs Linkages Program | 224 W. Winton Ave, Room 108 | Hayward | CA | 94544 | 1,499,466.00
Los Angeles Homeless Services Authority/Step Up Los Angeles County 2017 | 811 Wilshire Boulevard, 6th Floor | Los Angeles | CA | 90017 | 1,504,357.00
City and County of San Francisco Project Applicant/Scattered Sites Supportive Housing—CCSF | 1650 Mission St., 3RD Floor | San Francisco | CA | 94103 | 1,511,180.00
County of Los Angeles, Housing Authority/County of Los Angeles Department of Mental Health 9 Expansion | 700 W. Main Street | Alhambra | CA | 91801 | 1,530,936.00
Step Up on Second Street, Inc./Step Up in San Bernardino | 1328 Second St | Santa Monica | CA | 90401 | 1,548,776.00
Housing Authority of the County of Marin/Shelter Plus Care 1 FY2017 | 4020 Civic Center Drive | San Rafael | CA | 94903 | 1,563,393.00
Housing Authority of the County of Kern/El Programa Dulce Hogar | 601 24th Street | Bakersfield | CA | 93301 | 1,568,030.00
HOUSING AUTHORITY OF THE CITY OF LOS ANGELES (HACLA)/2017 ACOF—Vista, 39 West, Fig. Ct., Parker CA0336 | 2600 WILSHIRE BLVD., 3RD FLOOR | LOS ANGELES | CA | 90057 | 1,569,906.00
Alameda County/Alameda County Shelter Plus Care—SRA | 224 W. Winton Ave, Room 108 | Hayward | CA | 94544 | 1,657,388.00
Mercy House Living Centers/OC PSH Collaboration Project II | P.O. Box 1905 | Santa Ana | CA | 92702 | 1,670,313.00
St. Vincent de Paul Village, Inc./St. Vincent de Paul Village 2015 Bonus Project | 3350 E Street | San Diego | CA | 92102 | 1,678,565.00
City and County of San Francisco Project Applicant/Hope House | 1650 Mission St., 3RD Floor | San Francisco | CA | 94103 | 1,813,459.00
HOUSING AUTHORITY OF THE CITY OF LOS ANGELES (HACLA)/2017 SRO Housing Corp—Scattered Sites CA0473 | 2600 WILSHIRE BLVD., 3RD FLOOR | LOS ANGELES | CA | 90057 | 1,823,352.00
The City of Oakland/Housing Fast Support Network | 150 Frank H. Ogawa Plaza, Suite 4340 | Oakland | CA | 94612 | 1,864,465.00
Housing Authority of the County of San Bernardino/New Horizon | 715 E. Brier Drive | San Bernardino | CA | 92408 | 1,882,272.00
County of Santa Clara by and through Office of Supportive Housing/Santa Clara County Rapid Rehousing Program for Families & Youth 2015 | 3180 Newberry Drive, Suite 150 | San Jose | CA | 95118 | 1,900,564.00
Los Angeles Homeless Services Authority/The Way Home | 811 Wilshire Boulevard, 6th Floor | Los Angeles | CA | 90017 | 2,127,871.00
San Joaquin County/Shelter Plus Care—combined | 1810 E. Hazelton Avenue | Stockton | CA | 95205 | 2,155,023.00
HOUSING AUTHORITY OF THE CITY OF LOS ANGELES (HACLA)/2017 Skid Row Housing Trust—Skid Row Collaborative CA0797 | 2600 WILSHIRE BLVD., 3RD FLOOR | LOS ANGELES | CA | 90057 | 2,186,768.00
HOUSING AUTHORITY OF THE CITY OF LOS ANGELES (HACLA)/2017 Skid Row Housing Trust—Scattered Sites CA0464 | 2600 WILSHIRE BLVD., 3RD FLOOR | LOS ANGELES | CA | 90057 | 2,304,390.00
City and County of San Francisco Project Applicant/Treasure Island | 1650 Mission St., 3RD Floor | San Francisco | CA | 94103 | 2,461,952.00
Sacramento Steps Forward/Step Up Sacramento | 1331 Garden Highway, Suite 100 | Sacramento | CA | 95833 | 2,473,067.00
Sacramento Steps Forward/reSTART | 1331 Garden Highway, Suite 100 | Sacramento | CA | 95833 | 2,636,186.00
County of Los Angeles, Housing Authority/County of Los Angeles Department of Mental Health 1-7 | 700 W. Main Street | Alhambra | CA | 91801 | 2,656,009.00
Mercy House Living Centers/OC PSH Collaboration Project | P.O. Box 1905 | Santa Ana | CA | 92702 | 2,759,348.00
City and County of San Francisco Project Applicant/THC—Baldwin House | 1650 Mission St., 3RD Floor | San Francisco | CA | 94103 | 2,799,756.00
County of Los Angeles, Housing Authority/The Whole Child | 700 W. Main Street | Alhambra | CA | 91801 | 2,853,884.00
City of Santa Monica Housing Authority/SIP CA0359L9D001205 | 1901 Main Street, Suite A | Santa Monica | CA | 90405 | 2,890,184.00
Housing Authority of the County of San Mateo/Shelter Plus Care Tenant Based (SP10) | 264 Harbor Blvd., #A | Belmont | CA | 94002 | 2,916,260.00
City of Berkeley/Tenant Based Rental Assistance | 2180 Milvia Street | Berkeley | CA | 94704 | 3,058,786.00
County of Los Angeles, Housing Authority/Los Angeles County Health Agency 1 | 700 W. Main Street | Alhambra | CA | 91801 | 3,061,872.00
City and County of San Francisco Project Applicant/THC—National, Crowne, Winton | 1650 Mission St., 3RD Floor | San Francisco | CA | 94103 | 3,161,665.00
SAN DIEGO HOUSING COMMISSION/SDHC Merged Grant | 1122 Broadway, Suite 300 | San Diego | CA | 92101 | 3,432,976.00
Orange County Housing Authority/#1 Consolidated Shelter Plus Care TRA 2017 Renewal Project | 1770 North Broadway | Santa Ana | CA | 92706 | 3,467,291.00
County of Santa Clara by and through Office of Supportive Housing/CoC Grant Renewal Application 5022 | 3180 Newberry Drive, Suite 150 | San Jose | CA | 95118 | 3,513,231.00
County of Santa Clara by and through Office of Supportive Housing/CCP Placement Project | 3180 Newberry Drive, Suite 150 | San Jose | CA | 95118 | 3,519,811.00
Sacramento Housing and Redevelopment Agency/Shelter Plus Care TRA | 801 12th St | Sacramento | CA | 95814 | 4,337,079.00
HOUSING AUTHORITY OF THE CITY OF LOS ANGELES (HACLA)/2017 L.A. County Dept. of Mental Health Scattered Sites CA0405 | 2600 WILSHIRE BLVD., 3RD FLOOR | LOS ANGELES | CA | 90057 | 4,407,521.00
Housing Authority of Contra Costa County/Contra Costa Tenant-Based Rental Assistance | 3133 Estudillo Street, P.O. Box 2759 | Martinez | CA | 94553 | 6,496,359.00
Alameda County/Alameda County Shelter Plus Care—TRA | 224 W. Winton Ave, Room 108 | Hayward | CA | 94544 | 6,806,807.00
HOUSING AUTHORITY OF THE CITY OF LOS ANGELES (HACLA)/2017 HACLA—Permanent Supportive Housing Bonus CA1341 | 2600 WILSHIRE BLVD., 3RD FLOOR | LOS ANGELES | CA | 90057 | 10,808,057.00
Urban Peak Denver/2017 Renewal RRH | 730 21st Street | Denver | CO | 80205 | 21,944.00
The Housing Authority City Boulder dba Boulder Housing Partn/Permanent Supportive Housing at the Drive In Theater | 4800 Broadway | Boulder | CO | 80304 | 29,322.00
Greeley Center for Independence, Inc./Stephens Brain Injury Campus | 2780 28th Avenue | Greeley | CO | 80634 | 34,930.00
Partners in Housing, Inc./Colorado House and Resource Center Transitional Housing Project | 455 Gold Pass Heights N/A | Colorado Springs | CO | 80906 | 36,797.00
Ascending to Health Respite Care, Inc./ATH Permanent Housing—CO0149—2017 | 123 West Rio Grande | Colorado Springs | CO | 80903 | 37,254.00
Ascending to Health Respite Care, Inc./ATH Permanent Housing—CO0121—2017 | 123 West Rio Grande | Colorado Springs | CO | 80903 | 39,589.00
Pikes Peak United Way/New Dedicated HMIS Project 2017 | 518 North Nevada Avenue | Colorado Springs | CO | 80903 | 39,590.00
Colorado Coalition for the Homeless/Trinidad Transitional Housing Program | 2111 Champa Street | Denver | CO | 80205 | 49,473.00
Homeward Pikes Peak/2017 COC Housing First Dual Diagnosis Bonus | 606 S. Tejon St | Colorado Springs | CO | 80903 | 49,536.00
TESSA/TESSA Rapid Re-housing Project | 435 Gold Pass Heights | Colorado Springs | CO | 80906 | 59,977.00
SummitStone Health Partners (formerly Touchstone Health Partners and Larimer Center for Mental Health)/Permanent Supportive Housing in Loveland | 525 West Oak Street | Fort Collins | CO | 80521 | 60,417.00
Colorado Coalition for the Homeless/Balance of State HMIS Implementation Project | 2111 Champa Street | Denver | CO | 80205 | 60,622.00
Partners in Housing, Inc./CoC Family Rapid Rehousing Project | 455 Gold Pass Heights N/A | Colorado Springs | CO | 80906 | 64,351.00
Pikes Peak United Way/CO-504 CoC Planning Application FY2017 | 518 North Nevada Avenue | Colorado Springs | CO | 80903 | 71,171.00
Urban Peak Denver/2017 Renewal PSH 2 | 730 21st Street | Denver | CO | 80205 | 75,946.00
Pikes Peak United Way/Coordinated Entry | 518 North Nevada Avenue | Colorado Springs | CO | 80903 | 90,000.00
Grand Valley Catholic Outreach.Inc./St. Martin Permanent Housing | 245 S. 1st Street | Grand Junction | CO | 81501 | 92,540.00
Colorado Coalition for the Homeless/CO-500 CoC Planning Application FY2017 | 2111 Champa Street | Denver | CO | 80205 | 98,055.00
Grand Valley Catholic Outreach.Inc./Catholic Outreach Rapid Rehousing | 245 S. 1st Street | Grand Junction | CO | 81501 | 98,270.00
Colorado Coalition for the Homeless/Pueblo Permanent Supportive Housing Program | 2111 Champa Street | Denver | CO | 80205 | 99,329.00
Colorado Springs Housing Authority/CO-504-REN-PH-TRA | 831 South Nevada Avenue | Colorado Springs | CO | 80901 | 102,377.00
Colorado Coalition for the Homeless/Ruth Goebel House | 2111 Champa Street | Denver | CO | 80205 | 106,365.00
North Range Behavioral Health/Harmony Way Permanent Housing Project | 1300 N 17th Ave | Greeley | CO | 80631 | 115,470.00
Urban Peak Denver/2017 Renewal PSH 1 | 730 21st Street | Denver | CO | 80205 | 117,074.00
Colorado Coalition for the Homeless/Pueblo Rapid Rehousing Program | 2111 Champa Street | Denver | CO | 80205 | 119,214.00
Colorado Coalition for the Homeless/Lowry Permanent Supportive Housing Project | 2111 Champa Street | Denver | CO | 80205 | 121,805.00
Colorado Coalition for the Homeless/Eagle Rapid Rehousing Program | 2111 Champa Street | Denver | CO | 80205 | 122,808.00
Colorado Coalition for the Homeless/Garfield Rapid Rehousing Program | 2111 Champa Street | Denver | CO | 80205 | 132,211.00
Divison of Housing/FY2017 New Project—Pikes Peak PSH Youth Bonus | 1313 Sherman St., Room 500 | Denver | CO | 80203 | 135,496.00
Colorado Coalition for the Homeless/Southwest Colorado Rapid Rehousing Program | 2111 Champa Street | Denver | CO | 80205 | 135,878.00
Colorado Coalition for the Homeless/Morgan/Logan Rapid Rehousing Program | 2111 Champa Street | Denver | CO | 80205 | 136,883.00
St. Francis Center/Cornerstone | 2323 Curtis St | Denver | CO | 80205 | 146,622.00
Del Norte Neighborhood Development Corporation/Juan Diego COH14001 | 3275 West 14th Avenue, #202 | Denver | CO | 80204 | 151,068.00
Divison of Housing/FY2017 Renewal—Pikes Peak PSH Bonus | 1313 Sherman St., Room 500 | Denver | CO | 80203 | 168,453.00
The Housing Authority City Boulder dba Boulder Housing Partn/Permanent Supportive Housing at 1175 Lee Hill | 4800 Broadway | Boulder | CO | 80304 | 176,903.00
Colorado Coalition for the Homeless/Fremont/Custer/Chaffee Rapid Rehousing Program | 2111 Champa Street | Denver | CO | 80205 | 183,185.00
Homeward Pikes Peak/2017 COC Specialized Veterans Services PSH | 606 S. Tejon St | Colorado Springs | CO | 80903 | 188,874.00
City and County of Denver—Department of Human Services/Back Home Rapid Re-Housing FY2017 | 1200 Federal Blvd | Denver | CO | 80204 | 194,916.00
Colorado Coalition for the Homeless/Expanded Colorado HMIS Metro Denver | 2111 Champa Street | Denver | CO | 80205 | 200,032.00
Pikes Peak United Way/Dedicated HMIS Project 2017 | 518 North Nevada Avenue | Colorado Springs | CO | 80903 | 200,353.00
Colorado Coalition for the Homeless/Renaissance 88 Permanent Supportive Housing Project | 2111 Champa Street | Denver | CO | 80205 | 207,135.00
Colorado Coalition for the Homeless/Expansion 2-Colorado HMIS Metro Denver Project | 2111 Champa Street | Denver | CO | 80205 | 213,443.00
Grand Valley Catholic Outreach.Inc./St. Benedict Permanent Housing | 245 S. 1st Street | Grand Junction | CO | 81501 | 215,523.00
City and County of Denver—Department of Human Services/Anchor FY2017 | 1200 Federal Blvd | Denver | CO | 80204 | 243,858.00
Del Norte Neighborhood Development Corporation/HAWCCO0099L8T031603 | 3275 West 14th Avenue, #202 | Denver | CO | 80204 | 251,779.00
Colorado Coalition for the Homeless/Northern Front Range Rapid Rehousing Program | 2111 Champa Street | Denver | CO | 80205 | 274,658.00
Fort Collins Housing Authority/Redtail Ponds SHP 2017 Renewal | 1715 West Mountain Avenue | Fort Collins | CO | 80521 | 288,462.00
Volunteers of America Colorado Branch/Irving Street Women's Residence | 2660 Larimer Street | Denver | CO | 80205 | 292,544.00
The Housing Authority City Boulder dba Boulder Housing Partn/Housing First Permanent Supportive Housing Project | 4800 Broadway | Boulder | CO | 80304 | 340,763.00
Colorado Coalition for the Homeless/Colorado HMIS Metro Denver Project | 2111 Champa Street | Denver | CO | 80205 | 341,335.00
Aurora Comprehesive Community Mental Health Center/Aurora @Home Aurora Mental Health Center | 11059 E. Bethany Drive, Suite 200 | Aurora | CO | 80014 | 366,316.00
Homeward Pikes Peak/2017 Consolidated Housing First Dedicated Plus | 606 S. Tejon St | Colorado Springs | CO | 80903 | 435,479.00
Divison of Housing/FY2017 Renewal—Pikes Peak PSH | 1313 Sherman St., Room 500 | Denver | CO | 80203 | 468,031.00
Family Tree, Inc./Home At Last | 3805 Marshall Street | Wheat Ridge | CO | 80033 | 550,138.00
City and County of Denver—Department of Human Services/Bedrock FY2017 | 1200 Federal Blvd | Denver | CO | 80204 | 577,910.00
Divison of Housing/FY2017 Renewal—Balance of State PSH | 1313 Sherman St., Room 500 | Denver | CO | 80203 | 591,008.00
Divison of Housing/FY2017 Renewal—Metro Denver Youth Bonus—MDHI | 1313 Sherman St., Room 500 | Denver | CO | 80203 | 607,633.00
Boulder County Housing Authority/Boulder County CoC Rapid-Rehousing Program | P.O. Box 471 | Boulder | CO | 80306 | 620,738.00
Family Tree, Inc./Brookview/PCH | 3805 Marshall Street | Wheat Ridge | CO | 80033 | 624,833.00
Metro Denver Homeless Initiative/CO-503 CoC Planning Application FY2017 | 711 Park Avenue West, Suite 320 | Denver | CO | 80205 | 711,919.00
City and County of Denver—Department of Human Services/Spectrum FY2017 | 1200 Federal Blvd | Denver | CO | 80204 | 811,222.00
Volunteers of America Colorado Branch/Youth Transitions Project | 2660 Larimer Street | Denver | CO | 80205 | 812,726.00
Divison of Housing/FY2017 Renewal—Metro Denver PSH Bonus—MDHI | 1313 Sherman St., Room 500 | Denver | CO | 80203 | 1,823,286.00
Colorado Coalition for the Homeless/CCH Combined Permanent Supportive Housing Project | 2111 Champa Street | Denver | CO | 80205 | 1,836,508.00
Colorado Coalition for the Homeless/Metro Denver Chronic Homelessness Collaborative SHP Project | 2111 Champa Street | Denver | CO | 80205 | 2,334,610.00
City and County of Denver—Department of Human Services/Combined Housing First FY2017 | 1200 Federal Blvd | Denver | CO | 80204 | 2,657,458.00
Divison of Housing/FY2017 Renewal—Metro One Consolidated PSH—MDHI | 1313 Sherman St., Room 500 | Denver | CO | 80203 | 3,671,799.00
Colorado Coalition for the Homeless/Consolidated Rapid Rehousing Project (Formerly Concord Plaza) | 2111 Champa Street | Denver | CO | 80205 | 4,254,506.00
Laurel House, Inc./Partners 3 FY17 | 1616 Washington Blvd | Stamford | CT | 06902 | 21,528.00
Inspirica, Inc./Rose Park Apartments (CT0166L1E031607) | 141 Franklin Street | Stamford | CT | 06901 | 21,788.00
Housing Authority of the City of Waterbury/Waterbury New Hope | 2 Lakewood Road | Waterbury | CT | 06704 | 24,213.00
Family and Children's Agency/HUD Reallocation #1 | 9 Mott Ave | Norwalk | CT | 06850 | 26,572.00
The Association of Religious Communities, Inc./Vouchers 1—2017 Renewal | 325 Main Street | Danbury | CT | 06810 | 33,335.00
New London Homeless Hospitality Center, Inc./NLHHC Renewal Project Application FY 2017 | 730 State Pier Road, P.O. Box 1651 | New London | CT | 06320 | 34,797.00
CT Department of Mental Health and Addiction Services/CT0220 New Haven Columbus House Rapid Rehousing | 410 Capitol Avenue, MS #14 HOU, P.O. Box 341431 | Hartford | CT | 06134 | 40,466.00
CT Department of Mental Health and Addiction Services/CT0176 Norwich New London Rental Assistance Boswell | 410 Capitol Avenue, MS #14 HOU, P.O. Box 341431 | Hartford | CT | 06134 | 40,952.00
New Opportunities Inc./Meriden SHP | 232 North Elm Street | Waterbury | CT | 06702 | 41,604.00
Inspirica, Inc./Rose Park Apartments 1st and 2nd Floor (CT0178L1E031605) | 141 Franklin Street | Stamford | CT | 06901 | 42,434.00
Killingly Housing Authority/Killingly Wrap Around Housing Program | 620 Upper Maple Street | Danielson | CT | 06239 | 44,282.00
United Way of Coastal Fairfield County/Fairfield County Rapid Rehousing 2017 | 855 Main Street, 10th FL | Bridgeport | CT | 06604 | 45,742.00
Emerge, Inc./Emerge 1 | P.O. Box 1190 | Stratford | CT | 06615 | 46,256.00
Open Door Shelter/129 South Main St | 4 Merritt | Norwalk | CT | 06854 | 50,418.00
Safe Futures, Inc./Phoenix House Transitional Housing Program | 16 Jay Street | New London | CT | 06320 | 51,596.00
Killingly Housing Authority/Putnam Wrap Around Housing Program | 620 Upper Maple Street | Danielson | CT | 06239 | 53,138.00
Mid Fairfield AIDS Project, Inc./Independent Living Program 2 2017 | 618 West Avenue | Norwalk | CT | 06850 | 53,147.00
Family and Children's Agency/FCA HUD Reallocation #2 | 9 Mott Ave | Norwalk | CT | 06850 | 53,237.00
CREDO Housing Development Corp. Inc./1569 Thomaston Avenue | 1569 Thomaston Avenue | Waterbury | CT | 06704 | 60,889.00
CT Department of Mental Health and Addiction Services/CT0205 Danbury ARC Rental Assistance | 410 Capitol Avenue, MS #14 HOU, P.O. Box 341431 | Hartford | CT | 06134 | 69,369.00
Connecticut Department of Housing/ODFC 211 SSO | 505 Hudson Street, 2nd Floor | Hartford | CT | 06106 | 70,000.00
CT Department of Mental Health and Addiction Services/CT0237 Waterbury East Main Street | 410 Capitol Avenue, MS #14 HOU, P.O. Box 341431 | Hartford | CT | 06134 | 73,746.00
Housing Authority of City of Torrington/Pilots I (CT0072) | 110 Prospect Street | Torrington | CT | 06790 | 74,100.00
Housing Authority of the City of Waterbury/Waterbury Step Up | 2 Lakewood Road | Waterbury | CT | 06704 | 76,368.00
Family and Children's Agency/FCA HUD Reallocation #3v2 | 9 Mott Ave | Norwalk | CT | 06850 | 77,767.00
CT Department of Mental Health and Addiction Services/CT0223 Hartford Salvation Army Rapid Rehousing | 410 Capitol Avenue, MS #14 HOU, P.O. Box 341431 | Hartford | CT | 06134 | 82,775.00
Youth Continuum/Youth Rapid Rehousing. 2017 application | 141 Valley Street | New Haven | CT | 06515 | 87,360.00
CT Department of Mental Health and Addiction Services/CT0076 Windham United Services Rental Assistance | 410 Capitol Avenue, MS #14 HOU, P.O. Box 341431 | Hartford | CT | 06134 | 88,406.00
Bethsaida Community, Inc./Flora O'Neil Apartments | 120 Cliff Street | Norwich | CT | 06360 | 90,978.00
Applied Behavioral Rehabilitation Institute, Inc./Waldorf House Supportive Housing Program | 655 Park Avenue | Bridgeport | CT | 06604 | 92,592.00
Shelter for the Homeless, Inc./Berkeley House FY18-19 | 137 Henry Steet, Suite 205 | Stamford | CT | 06902 | 94,031.00
Torrington Community Housing Corporation/HOPE I & II 2017 | 110 Prospect Street | Torrington | CT | 06790 | 96,969.00
Connecticut Department of Housing/Coordinated Access Network SSO | 505 Hudson Street, 2nd Floor | Hartford | CT | 06106 | 98,171.00
Liberty Community Services, Inc./Safe Haven Scattered Site | 129 Church Street Mezzanine | New Haven | CT | 06510 | 99,032.00
CT Department of Mental Health and Addiction Services/CT0077 Windham United Services Brick Row | 410 Capitol Avenue, MS #14 HOU, P.O. Box 341431 | Hartford | CT | 06134 | 106,431.00
Connecticut Department of Housing/New Reach Rapid Rehousing DOH | 505 Hudson Street, 2nd Floor | Hartford | CT | 06106 | 107,230.00
Liberty Community Services, Inc./Rapid Rehousing II | 129 Church Street Mezzanine | New Haven | CT | 06510 | 109,504.00
CT Department of Mental Health and Addiction Services/CT0154 Greater Hartford Mercy Rental Assistance | 410 Capitol Avenue, MS #14 HOU, P.O. Box 341431 | Hartford | CT | 06134 | 109,585.00
CT Department of Mental Health and Addiction Services/CT0172 Hartford Sue Ann Shay Place | 410 Capitol Avenue, MS #14 HOU, P.O. Box 341431 | Hartford | CT | 06134 | 110,013.00
Shelter for the Homeless, Inc./Beacon III FY18-19 | 137 Henry Steet, Suite 205 | Stamford | CT | 06902 | 110,314.00
Liberty Community Services, Inc./Housing First | 129 Church Street Mezzanine | New Haven | CT | 06510 | 111,511.00
CT Department of Mental Health and Addiction Services/CT0292 Greater Hartford CAN Rental Assistance | 410 Capitol Avenue, MS #14 HOU, P.O. Box 341431 | Hartford | CT | 06134 | 112,165.00
Laurel House, Inc./Partners 2 FY17 | 1616 Washington Blvd | Stamford | CT | 06902 | 122,197.00
Alpha Home Inc/Alpha Home, Inc. (Jessica Tandy Apartments) | 387 Clinton Avenue | Bridgeport | CT | 06605 | 122,496.00
CT Department of Mental Health and Addiction Services/CT0198 BHCare Rental Assistance 2 | 410 Capitol Avenue, MS #14 HOU, P.O. Box 341431 | Hartford | CT | 06134 | 122,515.00
Connecticut Coalition to End Homelessness/Greater Hartford HMIS 2017 (CT0293) | 257 Lawrence Street | Hartford | CT | 06106 | 122,740.00
Liberation Programs, Inc/Cherry Homes PSH 1 | 129 Glover Avenue | Norwalk | CT | 06850 | 125,088.00
Friendship Service Center, Inc./Arch Street Housing | P.O. Box 1896, 85 Arch Street | New Britain | CT | 06050 | 125,132.00
Liberty Community Services, Inc./Safe Haven Scattered Site III | 129 Church Street Mezzanine | New Haven | CT | 06510 | 128,244.00
Holy Family Home and Shelter, Inc/Homes Plus | P.O. Box 884, 88 Jackson St | Willimantic | CT | 06226 | 130,349.00
Housing Authority of the City of Waterbury/Waterbury Brooklyn Hope | 2 Lakewood Road | Waterbury | CT | 06704 | 134,558.00
Housing Authority of the City of Danbury/HACD/WCMHN 2017 CT0003 | 2 Mill Ridge Road | Danbury | CT | 06811 | 134,605.00
CT Department of Mental Health and Addiction Services/CT0131 Hartford Hudson View Commons | 410 Capitol Avenue, MS #14 HOU, P.O. Box 341431 | Hartford | CT | 06134 | 134,711.00
CT Department of Mental Health and Addiction Services/CT0012 New Haven Lucht Hall | 410 Capitol Avenue, MS #14 HOU, P.O. Box 341431 | Hartford | CT | 06134 | 135,419.00
Mid Fairfield AIDS Project, Inc./Independent Living Program 1 2017 | 618 West Avenue | Norwalk | CT | 06850 | 135,855.00
Connecticut Department of Housing/ODFC CAN-SSO 2017 | 505 Hudson Street, 2nd Floor | Hartford | CT | 06106 | 140,000.00
Windham Regional Community Council/Haven | 872 Main Street | Willimantic | CT | 06226 | 145,879.00
Connecticut Coalition to End Homelessness/CT HMIS-BOS 2017 (CT0063) | 257 Lawrence Street | Hartford | CT | 06106 | 145,891.00
The Connection, Inc/Supportive Housing Program Fairfield | 100 Roscommon Drive, Suite 203 | Middletown | CT | 06457 | 146,700.00
CT Department of Mental Health and Addiction Services/CT0142 Torrington Mental Health CT Rental Assistance | 410 Capitol Avenue, MS #14 HOU, P.O. Box 341431 | Hartford | CT | 06134 | 148,199.00
Alliance for Living/Alliance for Living-Supportive Housing Program FY 2017 | 154 Broad Street | New London | CT | 06320 | 149,964.00
CT Department of Mental Health and Addiction Services/CT0242 Middlesex Columbus House Rapid Rehousing | 410 Capitol Avenue, MS #14 HOU, P.O. Box 341431 | Hartford | CT | 06134 | 152,222.00
Prudence Crandall Center, Inc./Permanent Supportive Housing for Persons with Disabilities | P.O. Box 895 | New Britain | CT | 06050 | 152,831.00
Connecticut Department of Housing/ODFC Coordinated Access Network SSO | 505 Hudson Street, 2nd Floor | Hartford | CT | 06106 | 153,006.00
St. Vincent DePaul Place, Middletown, Inc./SVD Middletown SHP | 617 Main St., P.O. Box 398 | Middletown | CT | 06457 | 153,726.00
Housing Authority of City of Torrington/Pilots II (CT0141) | 110 Prospect Street | Torrington | CT | 06790 | 158,784.00
Operation Hope of Fairfield, Inc./Hope 4 | 636 Old Post Road | Fairfield | CT | 06824 | 158,800.00
CT Department of Mental Health and Addiction Services/CT0013 New Haven Cedar Hill | 410 Capitol Avenue, MS #14 HOU, P.O. Box 341431 | Hartford | CT | 06134 | 159,875.00
Micah Housing, Inc./Hope Supportive Housing | 636 Old Post Road | Fairfield | CT | 06824 | 161,533.00
CT Department of Mental Health and Addiction Services/CT0129 New Haven Safe Haven | 410 Capitol Avenue, MS #14 HOU, P.O. Box 341431 | Hartford | CT | 06134 | 163,157.00
United Way of Coastal Fairfield County/CT-503 HMIS FY 2017 (CT0082) | 855 Main Street, 10th FL | Bridgeport | CT | 06604 | 163,791.00
CT Department of Mental Health and Addiction Services/CT0033 Bridgeport Fairfield Apartments | 410 Capitol Avenue, MS #14 HOU, P.O. Box 341431 | Hartford | CT | 06134 | 164,436.00
CT Department of Mental Health and Addiction Services/CT0053 Middletown The Connection | 410 Capitol Avenue, MS #14 HOU, P.O. Box 341431 | Hartford | CT | 06134 | 166,685.00
Housing Authority of the City of Waterbury/Waterbury Housing Plus | 2 Lakewood Road | Waterbury | CT | 06704 | 170,840.00
Chrysalis Center, Inc./St. Philip House Permanent Housing Program CT0191 | 255 Homestead Ave | Hartford | CT | 06112 | 175,412.00
Recovery Network of Programs, Inc./Seaview Supportive Housing Program 2017 | 2 Trap Falls Road, Suite 405 | Shelton | CT | 06484 | 176,032.00
CT Department of Mental Health and Addiction Services/CT0243 New Haven New Reach Rapid Rehousing | 410 Capitol Avenue, MS #14 HOU, P.O. Box 341431 | Hartford | CT | 06134 | 177,605.00
CT Department of Mental Health and Addiction Services/CT0034 Bridgeport Crescent Apartments | 410 Capitol Avenue, MS #14 HOU, P.O. Box 341431 | Hartford | CT | 06134 | 179,731.00
Liberty Community Services, Inc./Safe Haven Scattered Site II | 129 Church Street Mezzanine | New Haven | CT | 06510 | 180,560.00
Young Women's Christian Association of the Hartford Region/Soromundi Commons Supportive Housing | 135 Broad Street | Hartford | CT | 06105 | 181,707.00
Prudence Crandall Center, Inc./Rose Hill Transitional Living | P.O. Box 895 | New Britain | CT | 06050 | 184,897.00
Catholic Charities of Fairfield County, Inc./Conger House Renewal 2017 | 238 Jewett Avenue | Bridgeport | CT | 06606 | 185,152.00
CT Department of Mental Health and Addiction Services/CT0023 Hartford Mary Seymour Place | 410 Capitol Avenue, MS #14 HOU, P.O. Box 341431 | Hartford | CT | 06134 | 185,477.00
Liberty Community Services, Inc./Rapid Rehousing | 129 Church Street Mezzanine | New Haven | CT | 06510 | 188,284.00
CT Department of Mental Health and Addiction Services/CT0052 Middletown Liberty Commons | 410 Capitol Avenue, MS #14 HOU, P.O. Box 341431 | Hartford | CT | 06134 | 190,353.00
Family and Children's Agency/PILOTS I | 9 Mott Ave | Norwalk | CT | 06850 | 192,080.00
CT Department of Mental Health and Addiction Services/CT0297 Pendleton PSH | 410 Capitol Avenue, MS #14 HOU, P.O. Box 341431 | Hartford | CT | 06134 | 192,344.00
Thames River Community Service Inc./Thames River Family Program | One Thames River Place | Norwich | CT | 06360 | 195,983.00
Prudence Crandall Center, Inc./Rose Hill Supportive Housing | P.O. Box 895 | New Britain | CT | 06050 | 196,961.00
CT Department of Mental Health and Addiction Services/CT0104 Stamford Atlantic Apartments | 410 Capitol Avenue, MS #14 HOU, P.O. Box 341431 | Hartford | CT | 06134 | 197,377.00
CT Department of Mental Health and Addiction Services/CT0135 Hartford Chrysalis Soromundi Commons | 410 Capitol Avenue, MS #14 HOU, P.O. Box 341431 | Hartford | CT | 06134 | 197,843.00
CT Department of Mental Health and Addiction Services/CT0103 Stamford Colony Apartments | 410 Capitol Avenue, MS #14 HOU, P.O. Box 341431 | Hartford | CT | 06134 | 198,280.00
Housing Authority of the City of Danbury/HACD/CHD PILOT 2017 Renewal | 2 Mill Ridge Road | Danbury | CT | 06811 | 201,907.00
CT Department of Mental Health and Addiction Services/CT0204 Waterbury Rental Assistance | 410 Capitol Avenue, MS #14 HOU, P.O. Box 341431 | Hartford | CT | 06134 | 205,374.00
Friendship Service Center, Inc./TLP | P.O. Box 1896, 85 Arch Street | New Britain | CT | 06050 | 210,007.00
Chrysalis Center, Inc./Family Matters CT0064 | 255 Homestead Avenue | Hartford | CT | 06112 | 217,012.00
Housing Authority of the City of Waterbury/Pilots II | 2 Lakewood Road | Waterbury | CT | 06704 | 218,524.00
CT Department of Mental Health and Addiction Services/CT0011 New Haven Columbus House Sojourners | 410 Capitol Avenue, MS #14 HOU, P.O. Box 341431 | Hartford | CT | 06134 | 220,101.00
Connecticut Department of Housing/Youth Continuum Supportive Housing Project | 505 Hudson Street, 2nd Floor | Hartford | CT | 06106 | 223,640.00
Community Renewal Team, Inc./Project Teach Permanent 2018-2019 | 555 Windsor Street | Hartford | CT | 06120 | 226,505.00
CT Department of Mental Health and Addiction Services/CT0105 Stamford Rental Assistance | 410 Capitol Avenue, MS #14 HOU, P.O. Box 341431 | Hartford | CT | 06134 | 237,933.00
CT Department of Mental Health and Addiction Services/CT0185 Manchester Rental Assistance | 410 Capitol Avenue, MS #14 HOU, P.O. Box 341431 | Hartford | CT | 06134 | 241,311.00
Housing Authority of the City of Waterbury/Pilots I | 2 Lakewood Road | Waterbury | CT | 06704 | 250,022.00
My Sisters' Place, Inc./Permanent Supportive Housing at MSP | 102 Pliny Street | Hartford | CT | 06120 | 252,614.00
CT Department of Mental Health and Addiction Services/CT0246 Greater Middletown Mercy Rental Assistance | 410 Capitol Avenue, MS #14 HOU, P.O. Box 341431 | Hartford | CT | 06134 | 264,182.00
CT Department of Mental Health and Addiction Services/CT0054 Middletown Rental Assistance | 410 Capitol Avenue, MS #14 HOU, P.O. Box 341431 | Hartford | CT | 06134 | 266,768.00
CT Department of Mental Health and Addiction Services/CT0061 Intercommunity Casa Hope | 410 Capitol Avenue, MS #14 HOU, P.O. Box 341431 | Hartford | CT | 06134 | 283,027.00
Windham Regional Community Council/Project Home | 872 Main Street | Willimantic | CT | 06226 | 287,225.00
Connecticut Department of Housing/Coordinated Access Network DOH 211 | 505 Hudson Street, 2nd Floor | Hartford | CT | 06106 | 289,304.00
CT Department of Mental Health and Addiction Services/CT0200 Torrington Rental Assistance WHO | 410 Capitol Avenue, MS #14 HOU, P.O. Box 341431 | Hartford | CT | 06134 | 291,554.00
United Way of Coastal Fairfield County/CoC Planning Project FY 2017 | 855 Main Street, 10th FL | Bridgeport | CT | 06604 | 296,865.00
Housing Authority of the City of Waterbury/Walking Into Wall Street | 2 Lakewood Road | Waterbury | CT | 06704 | 308,278.00
St. Vincent DePaul Mission of Waterbury, Inc./Society of Support (SOS) | 34 Willow Street | Waterbury | CT | 06710 | 315,197.00
CT Department of Mental Health and Addiction Services/CT0139 Hartford Chrysalis Supportive Housing for Veterans | 410 Capitol Avenue, MS #14 HOU, P.O. Box 341431 | Hartford | CT | 06134 | 322,500.00
CT Department of Mental Health and Addiction Services/CT0073 Manchester CHR Rental Assistance | 410 Capitol Avenue, MS #14 HOU, P.O. Box 341431 | Hartford | CT | 06134 | 323,982.00
St. Vincent's Medical Center/SVMC—Norwalk SHP 2017 | 47 Long Lots Road | Westport | CT | 06880 | 326,982.00
CT Department of Mental Health and Addiction Services/CT0062 BHCare Rental Assistance 1 | 410 Capitol Avenue, MS #14 HOU, P.O. Box 341431 | Hartford | CT | 06134 | 341,708.00
St. Vincent DePaul Mission of Bristol, Inc./St. Vincent DePaul Rapid ReHousing | 19 Jacobs St | Bristol | CT | 06010 | 362,252.00
Catholic Charities of Fairfield County, Inc./PHD Supportive Housing Renewal 2017 | 238 Jewett Avenue | Bridgeport | CT | 06606 | 389,948.00
Inspirica, Inc./Family Transitional Living Program (CT0099L1E031609) | 141 Franklin Street | Stamford | CT | 06901 | 392,895.00
New Opportunities Inc./Freedom Walk | 232 North Elm Street | Waterbury | CT | 06702 | 402,235.00
CT Department of Mental Health and Addiction Services/CT0089 Norwich New London Rental Assistance | 410 Capitol Avenue, MS #14 HOU, P.O. Box 341431 | Hartford | CT | 06134 | 452,152.00
Community Renewal Team, Inc./Project Teach 2018-2019 | 555 Windsor Street | Hartford | CT | 06120 | 492,664.00
CT Department of Mental Health and Addiction Services/CT0070 Meriden Wallingford Rushford Rental Assistance | 410 Capitol Avenue, MS #14 HOU, P.O. Box 341431 | Hartford | CT | 06134 | 538,772.00
CT Department of Mental Health and Addiction Services/CT0085 Norwalk Rental Assistance | 410 Capitol Avenue, MS #14 HOU, P.O. Box 341431 | Hartford | CT | 06134 | 540,801.00
Friendship Service Center, Inc./PEAK | P.O. Box 1896, 85 Arch Street | New Britain | CT | 06050 | 548,776.00
CT Department of Mental Health and Addiction Services/CT0210 Danbury Rental Assistance | 410 Capitol Avenue, MS #14 HOU, P.O. Box 341431 | Hartford | CT | 06134 | 555,685.00
Community Renewal Team, Inc./BOS Consolidated PSH 2018-2019 | 555 Windsor Street | Hartford | CT | 06120 | 595,295.00
Connecticut Department of Housing/ODFC RRH Bonus 2017 | 505 Hudson Street, 2nd Floor | Hartford | CT | 06106 | 605,515.00
Community Renewal Team, Inc./H-PASS RRH 2018-2019 | 555 Windsor Street | Hartford | CT | 06120 | 606,692.00
Thames Valley Council for Community Action, Inc./Homeless Collaborative Network | 1 Sylvandale Rd | Jewett City | CT | 06351 | 696,464.00
CT Department of Mental Health and Addiction Services/ODFC 2017 PSH | 410 Capitol Avenue, MS #14 HOU, P.O. Box 341431 | Hartford | CT | 06134 | 738,822.00
Liberty Community Services, Inc./Safe Haven | 129 Church Street Mezzanine | New Haven | CT | 06510 | 771,748.00
ImmaCare Inc./CDF-Combo 1-4 FY2017 | 168 Hungerford Street | Hartford | CT | 06106 | 796,327.00
Connecticut Department of Housing/Permanent Supportive Housing 1 | 505 Hudson Street, 2nd Floor | Hartford | CT | 06106 | 814,263.00
Connecticut Department of Housing/CT BOS RRH bonus 2016 | 505 Hudson Street, 2nd Floor | Hartford | CT | 06106 | 823,830.00
CT Department of Mental Health and Addiction Services/CT0161 New Britain CMHA Rental Assistance | 410 Capitol Avenue, MS #14 HOU, P.O. Box 341431 | Hartford | CT | 06134 | 845,589.00
Columbus House, Inc/CHI Consolidated SHP FY 2017 | 586 Ella Grasso Boulevard | New Haven | CT | 06519 | 853,397.00
CT Department of Mental Health and Addiction Services/CT0285 ODFC DMHAS 2015 | 410 Capitol Avenue, MS #14 HOU, P.O. Box 341431 | Hartford | CT | 06134 | 961,657.00
St. Vincent's Medical Center/SVMC-Bridgeport SHP 2017 | 47 Long Lots Road | Westport | CT | 06880 | 989,079.00
CT Department of Mental Health and Addiction Services/CT0290 BOS Planning Grant | 410 Capitol Avenue, MS #14 HOU, P.O. Box 341431 | Hartford | CT | 06134 | 1,002,403.00
CT Department of Mental Health and Addiction Services/CT0066 Greater Hartford Chrysalis Rental Assistance | 410 Capitol Avenue, MS #14 HOU, P.O. Box 341431 | Hartford | CT | 06134 | 1,034,839.00
CT Department of Mental Health and Addiction Services/CT0035 Bridgeport Rental Assistance | 410 Capitol Avenue, MS #14 HOU, P.O. Box 341431 | Hartford | CT | 06134 | 1,553,100.00
CT Department of Mental Health and Addiction Services/CT0286 BOS DMHAS 2015 | 410 Capitol Avenue, MS #14 HOU, P.O. Box 341431 | Hartford | CT | 06134 | 1,991,380.00
CT Department of Mental Health and Addiction Services/CT0022 Greater Hartford Rental Assistance | 410 Capitol Avenue, MS #14 HOU, P.O. Box 341431 | Hartford | CT | 06134 | 2,269,530.00
CT Department of Mental Health and Addiction Services/CT0164 New Haven Rental Assistance | 410 Capitol Avenue, MS #14 HOU, P.O. Box 341431 | Hartford | CT | 06134 | 2,818,393.00
CT Department of Mental Health and Addiction Services/CT0265 BOS DMHAS 2014 | 410 Capitol Avenue, MS #14 HOU, P.O. Box 341431 | Hartford | CT | 06134 | 2,861,394.00
Sasha Bruce Youthwork, Inc./Independent Living Program 1 | 741 8th Street SE | Washington | DC | 20003 | 68,916.00
The Community Partnership for the Prevention of Homelessness/The Community Partnership—HMIS Expansion | 801 Pennsylvania Ave SE, Suite 360 | Washington | DC | 20003 | 76,429.00
The Community Partnership for the Prevention of Homelessness/Woodley House—Holly House | 801 Pennsylvania Ave SE, Suite 360 | Washington | DC | 20003 | 89,162.00
Community Connections, Inc./Permanent Living Community | 801 Pennsylvania Ave SE, Suite 201 | Washington | DC | 20003 | 113,027.00
The Community Partnership for the Prevention of Homelessness/Community Connections—Suitland/Trauma | 801 Pennsylvania Ave SE, Suite 360 | Washington | DC | 20003 | 116,944.00
The Community Partnership for the Prevention of Homelessness/US Vets—Ignatia House | 801 Pennsylvania Ave SE, Suite 360 | Washington | DC | 20003 | 120,433.00
Sasha Bruce Youthwork, Inc./Independent Living Program 2 | 741 8th Street SE | Washington | DC | 20003 | 132,061.00
The Community Partnership for the Prevention of Homelessness/Friendship Place—Bridges 1 | 801 Pennsylvania Ave SE, Suite 360 | Washington | DC | 20003 | 132,218.00
House of Ruth/New Horizons Rapid Rehousing | 5 Thomas Circle NW | Washington | DC | 20005 | 139,473.00
The Community Partnership for the Prevention of Homelessness/Miriam's House | 801 Pennsylvania Ave SE, Suite 360 | Washington | DC | 20003 | 143,904.00
The Community Partnership for the Prevention of Homelessness/The Community Partnership—FOCUS | 801 Pennsylvania Ave SE, Suite 360 | Washington | DC | 20003 | 154,913.00
Housing Up/Partner Arms 1 | 5101 16th Street NW | Washington | DC | 20011 | 160,171.00
The Community Partnership for the Prevention of Homelessness/Housing Up—Partner Arms 2 | 801 Pennsylvania Ave SE, Suite 360 | Washington | DC | 20003 | 163,597.00
The Community Partnership for the Prevention of Homelessness/Friendship Place—Bridges 2 | 801 Pennsylvania Ave SE, Suite 360 | Washington | DC | 20003 | 166,627.00
Sasha Bruce Youthwork, Inc./Olaiya's Cradle | 741 8th Street SE | Washington | DC | 20003 | 192,658.00
The Community Partnership for the Prevention of Homelessness/New Endeavors by Women—New Journeys 2 | 801 Pennsylvania Ave SE, Suite 360 | Washington | DC | 20003 | 194,374.00
The Community Partnership for the Prevention of Homelessness/New Endeavors by Women—Rachael's House | 801 Pennsylvania Ave SE, Suite 360 | Washington | DC | 20003 | 196,326.00
The Community Partnership for the Prevention of Homelessness/The Community Partnership—Chronic Homeless Initiative 7 | 801 Pennsylvania Ave SE, Suite 360 | Washington | DC | 20003 | 196,605.00
The Community Partnership for the Prevention of Homelessness/Catholic Charities—Mt. Carmel | 801 Pennsylvania Ave SE, Suite 360 | Washington | DC | 20003 | 215,840.00
The Community Partnership for the Prevention of Homelessness/Community Connections—Permanent Families | 801 Pennsylvania Ave SE, Suite 360 | Washington | DC | 20003 | 224,843.00
The Community Partnership for the Prevention of Homelessness/Catholic Charities—Families in Transition | 801 Pennsylvania Ave SE, Suite 360 | Washington | DC | 20003 | 229,112.00
The Community Partnership for the Prevention of Homelessness/New Endeavors by Women—New Hope | 801 Pennsylvania Ave SE, Suite 360 | Washington | DC | 20003 | 239,373.00
The Community Partnership for the Prevention of Homelessness/Calvary Women's Services—Sister Circle | 801 Pennsylvania Ave SE, Suite 360 | Washington | DC | 20003 | 243,331.00
The Community Partnership for the Prevention of Homelessness/Friendship Place—Veronica's House | 801 Pennsylvania Ave SE, Suite 360 | Washington | DC | 20003 | 267,037.00
The Community Partnership for the Prevention of Homelessness/Catholic Charities—Mulumba House | 801 Pennsylvania Ave SE, Suite 360 | Washington | DC | 20003 | 277,503.00
The Community Partnership for the Prevention of Homelessness/House of Ruth—Hope Rising | 801 Pennsylvania Ave SE, Suite 360 | Washington | DC | 20003 | 278,689.00
D.C. Department of Behavioral Health/Shelter Plus Care Grant | 3rd Floor, 64 New York Avenue NE | Washington | DC | 20002 | 287,347.00
The Community Partnership for the Prevention of Homelessness/Covenant House—My Place | 801 Pennsylvania Ave SE, Suite 360 | Washington | DC | 20003 | 297,913.00
The Community Partnership for the Prevention of Homelessness/Access Housing—Chesapeake House | 801 Pennsylvania Ave SE, Suite 360 | Washington | DC | 20003 | 304,235.00
House of Ruth/House of Ruth Families First | 5 Thomas Circle NW | Washington | DC | 20005 | 340,504.00
The Community Partnership for the Prevention of Homelessness/Community Connections—Coates and Lane | 801 Pennsylvania Ave SE, Suite 360 | Washington | DC | 20003 | 426,896.00
The Community Partnership for the Prevention of Homelessness/Community Connections—Veterans First | 801 Pennsylvania Ave SE, Suite 360 | Washington | DC | 20003 | 438,293.00
Catholic Charities of The Archdiocese of Washington, Inc/Tenants Empowerment Network | 924 G Street NW | Washington | DC | 20001 | 483,071.00
The Community Partnership for the Prevention of Homelessness/New Endeavors by Women—New Horizons | 801 Pennsylvania Ave SE, Suite 360 | Washington | DC | 20003 | 494,019.00
The Community Partnership for the Prevention of Homelessness/House of Ruth—New Foundations | 801 Pennsylvania Ave SE, Suite 360 | Washington | DC | 20003 | 498,182.00
The Community Partnership for the Prevention of Homelessness/Community Connections—Youth Families | 801 Pennsylvania Ave SE, Suite 360 | Washington | DC | 20003 | 504,693.00
The Community Partnership for the Prevention of Homelessness/Housing Up—Housing with Care | 801 Pennsylvania Ave SE, Suite 360 | Washington | DC | 20003 | 518,942.00
The Community Partnership for the Prevention of Homelessness/Pathways to Housing DC—Streets to Homes | 801 Pennsylvania Ave SE, Suite 360 | Washington | DC | 20003 | 531,951.00
The Community Partnership for the Prevention of Homelessness/Community Connections—Family Connections | 801 Pennsylvania Ave SE, Suite 360 | Washington | DC | 20003 | 550,608.00
The Community Partnership for the Prevention of Homelessness/Community Connections—Veterans Connections | 801 Pennsylvania Ave SE, Suite 360 | Washington | DC | 20003 | 551,046.00
The Community Partnership for the Prevention of Homelessness/Catholic Charities—Chronic Homeless Initiative 5 | 801 Pennsylvania Ave SE, Suite 360 | Washington | DC | 20003 | 571,179.00
The Community Partnership for the Prevention of Homelessness/CoC Planning Project | 801 Pennsylvania Ave SE, Suite 360 | Washington | DC | 20003 | 593,228.00
The Community Partnership for the Prevention of Homelessness/Housing Up—Homeward | 801 Pennsylvania Ave SE, Suite 360 | Washington | DC | 20003 | 633,940.00
Pathways to Housing DC/Serial Inebriates | 101 Q Street NE, Suite G | Washington | DC | 20002 | 639,745.00
The Community Partnership for the Prevention of Homelessness/Community of Hope—Housing Families First | 801 Pennsylvania Ave SE, Suite 360 | Washington | DC | 20003 | 647,783.00
The Community Partnership for the Prevention of Homelessness/The Community Partnership—Chronic Homeless Initiative 6 | 801 Pennsylvania Ave SE, Suite 360 | Washington | DC | 20003 | 895,680.00
The Community Partnership for the Prevention of Homelessness/Christ House—Kairos House | 801 Pennsylvania Ave SE, Suite 360 | Washington | DC | 20003 | 988,197.00
Department of Human Services/DHS Shelter Plus Care TRA 1 | 64 New York Avenue NE | Washington | DC | 20002 | 1,154,764.00
The Community Partnership for the Prevention of Homelessness/Calvary Women's Services—Reach Up | 801 Pennsylvania Ave SE, Suite 360 | Washington | DC | 20003 | 1,228,155.00
Department of Human Services/DHS Shelter Plus Care TRA 2 | 64 New York Avenue NE | Washington | DC | 20002 | 3,976,696.00
The Ministry of Caring Inc./Bethany House II | 115 E. 14th Street | Wilmington | DE | 19801 | 43,362.00
The Ministry of Caring Inc./Bethany House | 115 E. 14th Street | Wilmington | DE | 19801 | 52,203.00
The Ministry of Caring Inc./Rapid Rehousing Plus | 115 E. 14th Street | Wilmington | DE | 19801 | 64,251.00
The Ministry of Caring Inc./Mary Mother of Hope Permanent Housing | 115 E. 14th Street | Wilmington | DE | 19801 | 69,252.00
PEOPLES PLACE II INC/Rapid Rehousing For Domestic Violence Survivors At People's Place | 1129 AIRPORT ROAD | MILFORD | DE | 19963 | 81,655.00
Housing Alliance Delaware, Inc./Delaware HMIS | 100 West 10th Street, Suite 611 | Wilmington | DE | 19801 | 96,900.00
The Ministry of Caring Inc./Rapid Rehousing Program | 115 E. 14th Street | Wilmington | DE | 19801 | 100,204.00
Housing Alliance Delaware, Inc./Delaware Centralized Intake | 100 West 10th Street, Suite 611 | Wilmington | DE | 19801 | 111,888.00
Housing Alliance Delaware, Inc./Delaware Centralized Intake Plus | 100 West 10th Street, Suite 611 | Wilmington | DE | 19801 | 150,000.00
The Ministry of Caring Inc./Nazareth Permanent Housing | 115 E. 14th Street | Wilmington | DE | 19801 | 163,470.00
Connections Community Support Programs, Inc./Next Step 3 | 3821 Lancaster Pike | Wilmington | DE | 19805 | 175,164.00
Connections Community Support Programs, Inc./Next Step 2 | 3821 Lancaster Pike | Wilmington | DE | 19805 | 182,599.00
Connections Community Support Programs, Inc./Judy's House | 3821 Lancaster Pike | Wilmington | DE | 19805 | 186,750.00
Connections Community Support Programs, Inc./Delthine House | 3821 Lancaster Pike | Wilmington | DE | 19805 | 187,365.00
Connections Community Support Programs, Inc./PH for 20 | 3821 Lancaster Pike | Wilmington | DE | 19805 | 187,438.00
Connections Community Support Programs, Inc./New Hope 2 | 3821 Lancaster Pike | Wilmington | DE | 19805 | 191,726.00
Family Promise of Northern New Castle County, Inc./Transitional-Rapid Rehousing | 2104 St. James Church Rd | Wilmington | DE | 19808 | 200,504.00
The Ministry of Caring Inc./St. Francis Transitional Residence | 115 E. 14th Street | Wilmington | DE | 19801 | 204,225.00
YWCA Delaware Inc./YWCA Rapid Rehousing Project | 100 W. 10th Street, Suite 515 | Wilmington | DE | 19801 | 206,762.00
West End Neighborhood House Inc./Life Lines Permanent Housing Program | 710 North Lincoln Street | Wilmington | DE | 19805 | 213,563.00
Housing Alliance Delaware, Inc./CoC Planning 2017 | 100 West 10th Street, Suite 611 | Wilmington | DE | 19801 | 228,875.00
Connections Community Support Programs, Inc./Next Step | 3821 Lancaster Pike | Wilmington | DE | 19805 | 267,140.00
Connections Community Support Programs, Inc./Positive Progress | 3821 Lancaster Pike | Wilmington | DE | 19805 | 296,108.00
Young Men's Christian Association of Delaware/Central Y Residence Supportive Housing Program | 100 West 10th St, Suite 1100 | Wilmington | DE | 19801 | 301,871.00
Connections Community Support Programs, Inc./Enterprise | 3821 Lancaster Pike | Wilmington | DE | 19805 | 309,988.00
YWCA Delaware Inc./Home-Life Management Center II | 100 W. 10th Street, Suite 515 | Wilmington | DE | 19801 | 330,235.00
Connections Community Support Programs, Inc./Next Step 4 | 3821 Lancaster Pike | Wilmington | DE | 19805 | 376,939.00
The Ministry of Caring Inc./House of Joseph II | 115 E. 14th Street | Wilmington | DE | 19801 | 399,430.00
Connections Community Support Programs, Inc./Easy Access | 3821 Lancaster Pike | Wilmington | DE | 19805 | 500,502.00
Connections Community Support Programs, Inc./New Hope | 3821 Lancaster Pike | Wilmington | DE | 19805 | 768,116.00
Connections Community Support Programs, Inc./New Century | 3821 Lancaster Pike | Wilmington | DE | 19805 | 1,303,995.00
Heartland Coalition for the Homeless, Inc./HMIS Operations | 134 N. Ridgewood Drive, Suite 12 | Sebring | FL | 33870 | 3,627.00
Home Again St. Johns/CoC Planning Project FY17 | 1850 SR 207 | Saint Augustine | FL | 32086 | 6,630.00
Gulf Coast Partnership Inc/CoC Planning Project FL-602 FY2017 | 408 Tamiami Trail, Unit 121 | Punta Gorda | FL | 33950 | 7,526.00
United Way of Suwannee Valley/FL-518 CoC Planning Project FY2017 | 871 SW State Road 47 | Lake City | FL | 32025 | 10,784.00
Lee County Board of County Commissioners/CASL Broadway | 2440 Thompson Street | Fort Myers | FL | 33901 | 13,380.00
Monroe County Homeless Services Continuum of Care, Inc./FL-604 CoC Planning Application FY2017 | 1434 Kennedy Drive | Key West | FL | 33040 | 14,139.00
Jewish Family and Children's Services of the Suncoast/CoC Charlotte County Supportive | 2688 Fruitville Rd | Sarasota | FL | 34237 | 15,376.00
A.H. of Monroe County, Inc. (AIDS Help)/Seebol Place 2017 | 1434 Kennedy Drive | Key West | FL | 33040 | 15,644.00
Okaloosa Walton Homeless Continuum of Care/Opportunity Inc/CoC Planning Grant 2017 | 207 Hospital Drive | Fort Walton Beach | FL | 32548 | 16,724.00
St. Johns County Board of County Commissioners/Rapid Rehousing Renewal Project | 500 San Sebastian View | St. Augustine | FL | 32084 | 17,956.00
Escarosa Coalition on the Homeless, Inc/ECOH Centralized Coordinated Entry17 | P.O. Box 17222 | Pensacola | FL | 32522 | 20,901.00
Homeless and Hunger Coalition of Northwest Florida, Inc. DBA Doorways/FL515 CoC Planning Application FY2017 | 954 Magnolia Avenue | Panama City | FL | 32401 | 21,783.00
Brevard Homeless Coalition, Inc./BHC Planning Grant 2017 | 6905 N. Wickham Road | Melbourne | FL | 32940 | 22,900.00
Heartland Coalition for the Homeless, Inc./Heartland Coalition 2017 Planning Grant | 134 N. Ridgewood Drive, Suite 12 | Sebring | FL | 33870 | 23,052.00
The Neighborhood Center of West Volusia/PH 2 17 | 434 S. Woodland Blvd | Deland | FL | 32720 | 23,106.00
Marion County Homeless Council, Inc./HOMES II 2018-2019 | 108 N. Magnolia Ave, Suite 202 | Ocala | FL | 34475 | 24,456.00
Treasure Coast Homeless Services Council, Inc./2017 Systems Performance | 2525 St. Lucie Avenue | Vero Beach | FL | 32960 | 24,821.00
The Neighborhood Center of West Volusia/PH OHW 17 | 434 S. Woodland Blvd | Deland | FL | 32720 | 25,571.00
Indian River County Board of County Commissioners/2017 Data Qualitty | 1801 27th Street | Vero Beach | FL | 32960 | 27,840.00
Homeless and Hunger Coalition of Northwest Florida, Inc. DBA Doorways/HMIS Renewal 2017 | 954 Magnolia Avenue | Panama City | FL | 32401 | 30,765.00
Florida Keys Outreach Coalition, Inc./FKOC Rapid Rehousing | 3154 Northside Drive, Suite 201 | Key West | FL | 33040 | 30,786.00
Coalition for the Homeless of Pasco County, Inc./HMIS REN 2017 | 5652 Pine Street | New Port Richey | FL | 34656 | 31,554.00
Alachua County Coalition for the Homeless and Hungry, Inc./2017 CE Renewal | 3055 NE 28th Drive | Gainesville | FL | 32609 | 32,012.00
United Way of Suwannee Valley/FL-518 HMIS Renewal FY2017 | 871 SW State Road 47 | Lake City | FL | 32025 | 32,146.00
Mid Florida Homeless Coalition, Inc./MFHC FY2017 Planning Grant | 104 E Dampier Street | Inverness | FL | 34450 | 32,337.00
Alachua County Coalition for the Homeless and Hungry, Inc./FL-508 CoC Planning Application FY2017 | 3055 NE 28th Drive | Gainesville | FL | 32609 | 32,814.00
Marion County Homeless Council, Inc./HOMES 2018-2019 | 108 N. Magnolia Ave, Suite 202 | Ocala | FL | 34475 | 33,446.00
Heartland Coalition for the Homeless, Inc./Coordinated Entry HMIS | 134 N. Ridgewood Drive, Suite 12 | Sebring | FL | 33870 | 34,085.00
Catholic Charities of Northwest Florida/PSH Bonus | 11 First Street SE | Fort Walton Beach | FL | 32548 | 34,154.00
Indian River County Board of County Commissioners/2017 HMIS CE | 1801 27th Street | Vero Beach | FL | 32960 | 35,400.00
Society of St. Vincent de Paul South Pinellas, Inc./Returning Home—Pinellas Financial Assistance | 384 15th Street North | St. Petersburg | FL | 33705 | 39,011.00
Mid Florida Homeless Coalition, Inc./2017 MFHC CIA | 104 E Dampier Street | Inverness | FL | 34450 | 39,031.00
Housing for Homeless Inc./HfH RRH 2018-19 | 4087 U S. Hwy 1, Suite 3 | Rockledge | FL | 32955 | 39,789.00
Flagelr Hospital, Inc./Housing Navigator | 400 Helath Park Blvd | St. Augustine | FL | 32086 | 40,852.00
Peaceful Paths Domestic Abuse Network, Inc./RRH Expansion Renewal 2017 | 2100 NW 53rd Ave, Suite A | Gainesville | FL | 32653 | 42,375.00
Alachua County Coalition for the Homeless and Hungry, Inc./2017 RRH CH Renewal | 3055 NE 28th Drive | Gainesville | FL | 32609 | 43,743.00
Marion County Homeless Council, Inc./Housing Navigator 2018*2019 | 108 N. Magnolia Ave, Suite 202 | Ocala | FL | 34475 | 44,300.00
Treasure Coast Homeless Services Council, Inc./2017 CoC Planning Project | 2525 St. Lucie Avenue | Vero Beach | FL | 32960 | 45,927.00
Miami-Dade County/Coconut Grove 2 | 111 N.W. 1st Street, 27th floor, Suite 310 | Miami | FL | 33128 | 45,945.00
Crosswinds Youth Services, Inc./Crosswinds RRH 2018-2019 | 1407 Dixon Blvd | Cocoa | FL | 32922 | 46,088.00
Miami-Dade County/Little River Bend 20 Units | 111 N.W. 1st Street, 27th floor, Suite 310 | Miami | FL | 33128 | 49,250.00
The Neighborhood Center of West Volusia/PH EU-2-2017 | 434 S. Woodland Blvd | Deland | FL | 32720 | 49,366.00
Escarosa Coalition on the Homeless, Inc/CoC Planning Project Application FY2017 | P.O. Box 17222 | Pensacola | FL | 32522 | 49,812.00
Volusia/Flagler County Coalition for the Homeless/FL 504 HMIS II | 101 N. Woodland Blvd., Suite 401 | DeLand | FL | 32720 | 50,489.00
The Neighborhood Center of West Volusia/PH 09 17 | 434 S. Woodland Blvd | Deland | FL | 32720 | 50,508.00
Family Promise of Gainesville, Florida, Inc./Family Promise Rapid Re-Housing Program | 229 SW 5 Street | Gainesviille | FL | 32601 | 50,523.00
The Neighborhood Center of West Volusia/PH 08 17 | 434 S. Woodland Blvd | Deland | FL | 32720 | 50,534.00
Halifax Urban Ministries/PSH for Homeless Families With Dep Children 2017 | 215 Bay St | Daytona Beach | FL | 32114 | 51,034.00
Shepherd's LightHouse, Inc./Renewal Project SL5142017 | 5930 S.E. Robinson Road | Belleview | FL | 34420 | 51,056.00
Pasco County Housing Auhority/Pasco County HA Renewal 2017 PSH | 36739 S.R. 52 | Dade City | FL | 33523 | 52,140.00
Homeless Services Network of Central Florida, Inc./2017 GAECDC Homes for New Beginnings | 4065-D L.B McLeod Rd | Orlando | FL | 32811 | 52,183.00
Okaloosa Walton Homeless Continuum of Care/Opportunity Inc/HHA HMIS Renewal 2017 | 207 Hospital Drive | Fort Walton Beach | FL | 32548 | 52,552.00
Homeless Emergency Project, Inc./Independence Square North FY2017 | 1120 North Betty Lane | Clearwater | FL | 33755 | 52,565.00
Shepherd's LightHouse, Inc./Rapid Re-Housing 2017 | 5930 S.E. Robinson Road | Belleview | FL | 34420 | 53,152.00
Lee County Board of County Commissioners/CASL Broadway Expansion | 2440 Thompson Street | Fort Myers | FL | 33901 | 53,977.00
Lee County Board of County Commissioners/CASL Sans Souci | 2440 Thompson Street | Fort Myers | FL | 33901 | 53,986.00
The Neighborhood Center of West Volusia/PH 1 17 | 434 S. Woodland Blvd | Deland | FL | 32720 | 54,143.00
Volusia/Flagler County Coalition for the Homeless/2017 FL 504 Planning Project | 101 N. Woodland Blvd., Suite 401 | DeLand | FL | 32720 | 54,373.00
Agency for Community Treatment Services, Inc. (ACTS)/ACTS Moonlite Drive Permanent Housing Program | 4612 N. 56th Street | Tampa | FL | 33610 | 55,379.00
Coalition for the Homeless of Pasco County, Inc./Pasco County 2017 Planning Grant | 5652 Pine Street | New Port Richey | FL | 34656 | 57,109.00
LifeStream Behavioral Center, Inc./Grove Street 2017 Permanent Supported Housing | 515 W Main Street | Leesburg | FL | 34748 | 57,881.00
Volusia/Flagler County Coalition for the Homeless/FL 504 coordinated Entry | 101 N. Woodland Blvd., Suite 401 | DeLand | FL | 32720 | 58,250.00
Changing Homelessness Inc./Universal Linkage System | 660 Park Street | Jacksonville | FL | 32204 | 58,269.00
Apalachee Regional Planning Council/2017 CoC Planning Grant | 2507 Callaway Road, Suite 200 | Tallahassee | FL | 32303 | 62,042.00
Florida Keys Outreach Coalition, Inc./Peacock PSH for Chronic Expansion | 3154 Northside Drive, Suite 201 | Key West | FL | 33040 | 62,489.00
Boley Centers, Inc./Shelter Plus Care 7 | 445 31st Street N | St. Petersburg | FL | 33713 | 62,580.00
Peaceful Paths Domestic Abuse Network, Inc./Rapid Rehousing Renewal 2017 | 2100 NW 53rd Ave, Suite A | Gainesville | FL | 32653 | 62,776.00
Flagelr Hospital, Inc./HMIS FY17 | 400 Helath Park Blvd | St. Augustine | FL | 32086 | 62,790.00
Miami-Dade County/City of Miami Beach Outreach | 111 N.W. 1st Street, 27th floor, Suite 310 | Miami | FL | 33128 | 65,212.00
Changing Homelessness Inc./Northeast Florida Information Network | 660 Park Street | Jacksonville | FL | 32204 | 65,600.00
Alachua County Coalition for the Homeless and Hungry, Inc./2017 PSH expansion from PHB | 3055 NE 28th Drive | Gainesville | FL | 32609 | 66,004.00
I.M. Sulzbacher Center for the Homeless, Inc./First Coast Rapid Rehousing Program | 611 East Adams Street | Jacksonville | FL | 32202 | 66,474.00
Crosswinds Youth Services, Inc./Crosswinds TLP Program 2018-2019 | 1407 Dixon Blvd | Cocoa | FL | 32922 | 66,547.00
United Way of Suwannee Valley/FL-518 Rapid Rehousing Renewal FY2017 | 871 SW State Road 47 | Lake City | FL | 32025 | 69,812.00
Changing Homelessness Inc./Safe Spaces | 660 Park Street | Jacksonville | FL | 32204 | 69,906.00
Gulf Coast Partnership Inc/HMIS Renewal FY2017 | 408 Tamiami Trail, Unit 121 | Punta Gorda | FL | 33950 | 70,061.00
Indian River County Board of County Commissioners/2017 CoC TRA 2 | 1801 27th Street | Vero Beach | FL | 32960 | 70,776.00
Indian River County Board of County Commissioners/2017Alcohope Renewal | 1801 27th Street | Vero Beach | FL | 32960 | 70,776.00
2-1-1 Brevard, Inc./HMIS Renewal FY2017 (2018-2019) | P.O. Box 561627 | Rockledge | FL | 32956 | 71,455.00
Volusia/Flagler County Coalition for the Homeless/FL 504 HMIS | 101 N. Woodland Blvd., Suite 401 | DeLand | FL | 32720 | 71,645.00
Presbyterian Social Ministries Inc./Home Safe Extention | 4115 Post St | Jacksonville | FL | 32205 | 71,683.00
Lee County Board of County Commissioners/2017 CoC Planning | 2440 Thompson Street | Fort Myers | FL | 33901 | 72,244.00
Lee County Board of County Commissioners/CASL S+C II | 2440 Thompson Street | Fort Myers | FL | 33901 | 73,328.00
Suncoast Partnership to End Homelessness, Inc./FL 500 HMIS Renewal 2017 | 1750 17th Street, K-1 | Sarasota | FL | 34234 | 74,575.00
Coalition for the Homeless of Pasco County, Inc./Expanded HMIS 2017 FL519 | 5652 Pine Street | New Port Richey | FL | 34656 | 75,000.00
Suncoast Partnership to End Homelessness, Inc./FL 500 2017 CoC Planning Grant | 1750 17th Street, K-1 | Sarasota | FL | 34234 | 75,281.00
Homeless Coalition of Polk County, Inc./FL-503 CoC Planning Project | 107 Morningside Drive, Suite C | Lakeland | FL | 33803 | 75,836.00
Changing Homelessness Inc./NEFIN HMIS Training and Analysis Program | 660 Park Street | Jacksonville | FL | 32204 | 76,471.00
Mid Florida Homeless Coalition, Inc./2017 MFIN—HMIS Renewal | 104 E Dampier Street | Inverness | FL | 34450 | 76,999.00
Community Assisted and Supported Living, Inc. d/b/a Renaissance Manor/FL500 Bonus, CASL PSH Rental Assistance | 1401 16th Street | Sarasota | FL | 34236 | 77,544.00
Lee County Board of County Commissioners/CASL S+C I | 2440 Thompson Street | Fort Myers | FL | 33901 | 77,632.00
Tampa Hillsborough Homeless Initiative/Tampa-Hillsborough County Coordinated Entry | 601 E. Kennedy Blvd., County Center, 24th Floor | Tampa | FL | 33602 | 78,160.00
Collier County Hunger and Homeless Coalition, Inc./HMIS Renewal 2017 | 9015 Strada Stell Ct | Naples | FL | 34109 | 78,676.00
Brookwood Florida, Inc./Brookwood Transitional Housing Project | 901 Seventh Avenue South | St. Petersburg | FL | 33705 | 79,085.00
Tampa Hillsborough Homeless Initiative/Hillsborough Pathways to Housing | 601 E. Kennedy Blvd., County Center, 24th Floor | Tampa | FL | 33602 | 80,505.00
Talbot House Ministries of Lakeland, Inc./Rapid Rehousing For Polk County | 814 N. Kentucky Ave | Lakeland | FL | 33801 | 81,045.00
Tri-County Human Services, Inc./TCHS Homeless Women with Children PH 2 | 1815 Crystal Lake Drive | Lakeland | FL | 33801 | 83,146.00
Catholic Charities, Diocese of Venice, Inc./FL500 Renewal Casa San Jose 2017 | 1000 Pinebrook Rd | Venice | FL | 34285 | 83,275.00
Tri-County Human Services, Inc./Scattered Site Leasing for Homeless Women with Children | 1815 Crystal Lake Drive | Lakeland | FL | 33801 | 83,362.00
Marion County Homeless Council, Inc./HMIS 2018-2019 | 108 N. Magnolia Ave, Suite 202 | Ocala | FL | 34475 | 83,491.00
Jacksonville Housing Authority/Shelter Plus Care 2 Villages Supportive Housing | 1300 North Broad Street | Jacksonville | FL | 32209 | 83,557.00
The Neighborhood Center of West Volusia/PH 15 17 | 434 S. Woodland Blvd | Deland | FL | 32720 | 84,980.00
United Way of Suwannee Valley/FL-518 Coordinated Entry and Assessment Renewal FY2017 | 871 SW State Road 47 | Lake City | FL | 32025 | 85,000.00
WestCare GulfCoast-Florida, Inc./WestCare MSI Rapid Re-Housing FY17 CoC | 1735 Dr. Martin Luther King, Jr. St. S. | St. Petersburg | FL | 33705 | 85,953.00
Catholic Charities of the Archdiocese of Miami, Inc./St. Theresa Permanent Housing Renewal 2017 | 2706 Flagler Ave | Key West | FL | 33040 | 87,273.00
Religious Community Services, Inc./The Haven of RCS Housing | 503 S. Martin Luther King Jr. Avenue | Clearwater | FL | 33756 | 87,296.00
Alachua County Coalition for the Homeless and Hungry, Inc./2017 HMIS Renewal | 3055 NE 28th Drive | Gainesville | FL | 32609 | 87,361.00
Miami-Dade County/Shepard House | 111 N.W. 1st Street, 27th floor, Suite 310 | Miami | FL | 33128 | 87,747.00
Miami-Dade County/S + C 2002 | 111 N.W. 1st Street, 27th floor, Suite 310 | Miami | FL | 33128 | 87,850.00
Osceola County Government/2017 Osceola County S+C 2 Renewal | 1 Courthouse Square, Suite 4700 | Kissimmee | FL | 34741 | 87,934.00
Indian River County Board of County Commissioners/2017 Family Rental Assistance | 1801 27th Street | Vero Beach | FL | 32960 | 89,340.00
Homeless Services Network of Central Florida, Inc./2017 Covenant House CMO | 4065-D L.B McLeod Rd | Orlando | FL | 32811 | 91,003.00
Homeless Services Network of Central Florida, Inc./2017 CBC—Pathways to Home | 4065-D L.B McLeod Rd | Orlando | FL | 32811 | 91,374.00
Halifax Urban Ministries/Rapid Rehousing Ind and Unaccomp Youth 2017 | 215 Bay St | Daytona Beach | FL | 32114 | 92,163.00
Indian River County Board of County Commissioners/2017 Indian River Chronics | 1801 27th Street | Vero Beach | FL | 32960 | 92,532.00
Homeless Emergency Project, Inc./Baty Villas and Carlton Home FY2017 | 1120 North Betty Lane | Clearwater | FL | 33755 | 93,314.00
Society of St. Vincent de Paul South Pinellas, Inc./Returning Home II—Pasco | 384 15th Street North | St. Petersburg | FL | 33705 | 93,931.00
St. Lucie County Board of County Commissioners/2017 SLC RENTAL ASSISTANCE BEDS | 437 North 7th Street | Ft. Pierce | FL | 34950 | 94,260.00
Catholic Charities Diocese of St. Petersburg/Pasco Pathways Rapid Rehousing | 1213 16th Street North | St. Petersburg | FL | 33705 | 94,592.00
Homeless Services Network of Central Florida, Inc./2017 HMIS 3 | 4065-D L.B McLeod Rd | Orlando | FL | 32811 | 94,695.00
Lake County Board of County Commissioners/Lake County Permanent Supportive Housing 17/18 Application | 2008 Classique Lane | Tavares | FL | 32778 | 97,857.00
Citrus County, a political subdivision of the state of Florida/Shelter Plus Care | 2804 W. Marc Knighton Ct. #12 | Lecanto | FL | 34461 | 98,593.00
Ace Opportunities, Inc./Ace Female 2017R6 | 6011 High Street | New Port Richey | FL | 34652 | 99,635.00
Youth Haven/One Family at a Time | 5867 Whitaker Road | Naples | FL | 34112 | 99,680.00
Martin County Board of County Commissioners/2017 MC Chronic New Focus | 2401 SE Monterey Road | Stuart | FL | 34996 | 99,720.00
Lee County Board of County Commissioners/The Salvation Army Rapid Rehousing Expansion | 2440 Thompson Street | Fort Myers | FL | 33901 | 99,831.00
Halifax Urban Ministries/PSH for Individuals 2017 | 215 Bay St | Daytona Beach | FL | 32114 | 100,418.00
Indian River County Board of County Commissioners/2017 CoCWideTRA | 1801 27th Street | Vero Beach | FL | 32960 | 100,428.00
Homeless Services Network of Central Florida, Inc./2017 CES 2 | 4065-D L.B McLeod Rd | Orlando | FL | 32811 | 103,406.00
Agency for Community Treatment Services, Inc. (ACTS)/Polk Scattered Site Leasing | 4612 N. 56th Street | Tampa | FL | 33610 | 105,065.00
Tri-County Human Services, Inc./Permanent Housing Services Group A | 1815 Crystal Lake Drive | Lakeland | FL | 33801 | 106,079.00
The Shelter for Abused Women & Children/The Shelter Transitional Housing Renewal | P.O. Box 10102 | Naples | FL | 34101 | 107,795.00
Monroe Association for Retarded Citizens, Inc./Don Moore Apartments 2017 | P.O. Box 428 | Key West | FL | 33041 | 108,854.00
Indian River County Board of County Commissioners/2017 NEW HORIZONS TWO | 1801 27th Street | Vero Beach | FL | 32960 | 108,864.00
Martin County Board of County Commissioners/2017 Martin County Chronics | 2401 SE Monterey Road | Stuart | FL | 34996 | 109,692.00
Ace Opportunities, Inc./Ace Male 2017R5 | 6011 High Street | New Port Richey | FL | 34652 | 109,775.00
Boley Centers, Inc./Preserves at Clam Bayou | 445 31st Street N | St. Petersburg | FL | 33713 | 111,394.00
Miami-Dade County/Thomas Jefferson | 111 N.W. 1st Street, 27th floor, Suite 310 | Miami | FL | 33128 | 112,215.00
Jewish Family and Children's Services of the Suncoast/CoC Charlotte County | 2688 Fruitville Rd | Sarasota | FL | 34237 | 114,135.00
Miami-Dade County/Healthy Choice | 111 N.W. 1st Street, 27th floor, Suite 310 | Miami | FL | 33128 | 116,710.00
Martin County Board of County Commissioners/2017 Martin County Rental | 2401 SE Monterey Road | Stuart | FL | 34996 | 117,000.00
Pinellas County Homeless Leadership Board, Inc./2017 FL502 Planning Grant | 647 1st Avenue North | St. Petersburg | FL | 33701 | 117,608.00
Osceola County Government/2017 Osceola County S+C | 1 Courthouse Square, Suite 4700 | Kissimmee | FL | 34741 | 118,209.00
Homeless Coalition of Polk County, Inc./Homeless Management Information System | 107 Morningside Drive, Suite C | Lakeland | FL | 33803 | 118,751.00
Mental Health Resource Center, Inc./Coordinated Intake Expansion | 10550 Deerwood Park Boulevard, Suite 600 | Jacksonville | FL | 32256 | 120,000.00
Heartland Coalition for the Homeless, Inc./Heartland Permanent Supportive Housing | 134 N. Ridgewood Drive, Suite 12 | Sebring | FL | 33870 | 120,494.00
Agency for Community Treatment Services, Inc. (ACTS)/ACTS Hillsborough County Permanent Housing Program | 4612 N. 56th Street | Tampa | FL | 33610 | 122,330.00
Lakeview Center Incorporated/New Permanent Supportive Housing Program | 1221 West Lakeview Ave, Building G | Pensacola | FL | 32501 | 122,493.00
The Wilson House, Inc./Wilson House PSH Program | P.O. Box 2461 | Lakeland | FL | 33806 | 123,206.00
Housing for Homeless Inc./HfH CH Project 2018-19 | 4087 U.S. Hwy 1, Suite 3 | Rockledge | FL | 32955 | 123,266.00
Miami-Dade County/Bonita Cove | 111 N.W. 1st Street, 27th floor, Suite 310 | Miami | FL | 33128 | 125,078.00
Society of St. Vincent de Paul South Pinellas, Inc./Returning Home—Pasco | 384 15th Street North | St. Petersburg | FL | 33705 | 125,930.00
Alachua County Coalition for the Homeless and Hungry, Inc./2017 PSH renewal | 3055 NE 28th Drive | Gainesville | FL | 32609 | 127,333.00
The House of Israel, Inc./Solomon's Project | 4 SW 5TH Street | Fort Meade | FL | 33841 | 129,366.00
Apalachee Regional Planning Council/2017 HMIS Renewal | 2507 Callaway Road, Suite 200 | Tallahassee | FL | 32303 | 130,292.00
Harvest Tabernacle of Sarasota, Inc./FL 500 Renewal Harvest House Permanent Supportive Housing FY2017 | 209 N Lime Ave | Sarasota | FL | 34237 | 131,120.00
Miami-Dade County/Coconut Grove 1 | 111 N.W. 1st Street, 27th floor, Suite 310 | Miami | FL | 33128 | 132,574.00
Miami-Dade County/Wynwood | 111 N.W. 1st Street, 27th floor, Suite 310 | Miami | FL | 33128 | 132,993.00
The Neighborhood Center of West Volusia/PH 16 WS 17 | 434 S. Woodland Blvd | Deland | FL | 32720 | 133,749.00
Escarosa Coalition on the Homeless, Inc/Open Doors Coordinated Entry | P.O. Box 17222 | Pensacola | FL | 32522 | 135,000.00
Homeless Coalition of Polk County, Inc./Coordinated Entry | 107 Morningside Drive, Suite C | Lakeland | FL | 33803 | 138,223.00
Miami-Dade County/Right Directions | 111 N.W. 1st Street, 27th floor, Suite 310 | Miami | FL | 33128 | 139,584.00
Changing Homelessness Inc./FL-510 CoC Planning Project Application FY2017 | 660 Park Street | Jacksonville | FL | 32204 | 141,015.00
Miami-Dade County/MMHAP South | 111 N.W. 1st Street, 27th floor, Suite 310 | Miami | FL | 33128 | 141,433.00
Ability Housing, Inc/First Coast Beyond Shelter 2017 | 76 S. Laura St., Suite 303 | Jacksonville | FL | 32202 | 143,372.00
The Lord's Place, Inc./Operation Home Ready II | 2808 N. Australian Avenue | West Palm Beach | FL | 33407 | 143,816.00
Escarosa Coalition on the Homeless, Inc/HMIS Supportive Housing Program 2017 | P.O. Box 17222 | Pensacola | FL | 32522 | 143,974.00
Miami-Dade County/Mayfair | 111 N.W. 1st Street, 27th floor, Suite 310 | Miami | FL | 33128 | 148,321.00
The Lord's Place, Inc./Operation Home Ready | 2808 N. Australian Avenue | West Palm Beach | FL | 33407 | 149,666.00
Catholic Charities Diocese of St. Petersburg/Pinellas Pathways to Housing | 1213 16th Street North | St. Petersburg | FL | 33705 | 150,215.00
Meridian Behavioral Healthcare, Inc./HOPE PSH | 4300 SW 13th St | Gainesville | FL | 32608 | 150,451.00
The Wilson House, Inc./Wilson House PSH Program II | P.O. Box 2461 | Lakeland | FL | 33806 | 151,672.00
Volunteers of America of Florida, Inc./Lake City | 405 Central Ave, Ste 100 | St. Petersburg | FL | 33701 | 152,430.00
The Center for Independent Living of N. F., dba Ability1st/APCH for Families | 1823 Buford Court | Tallahassee | FL | 32308 | 152,831.00
Palm Beach County Board of County Commissioners/FL-605 CoC Planning Application 2017 | 810 Datura Street, Suite 350 | West Palm Beach | FL | 33401 | 153,758.00
Homeless Services Network of Central Florida, Inc./2017 Covenant House—ROPAL | 4065-D L.B McLeod Rd | Orlando | FL | 32811 | 154,449.00
Catholic Charities Diocese of St. Petersburg/Bethany Family Apartments—Project Lift | 1213 16th Street North | St. Petersburg | FL | 33705 | 156,864.00
Project Return, Inc./Project Return Permanent Supportive Housing | 304 West Waters Avenue | Tampa | FL | 33604 | 158,364.00
St. Lucie County Board of County Commissioners/2017 St. Lucie County VETS | 437 North 7th Street | Ft. Pierce | FL | 34950 | 158,964.00
St. Lucie County Board of County Commissioners/2017 St. Lucie TRA | 437 North 7th Street | Ft. Pierce | FL | 34950 | 159,552.00
Miami-Dade County/FRAT House | 111 N.W. 1st Street, 27th floor, Suite 310 | Miami | FL | 33128 | 163,128.00
Talbot House Ministries of Lakeland, Inc./Polk Rapid Rehousing | 814 N. Kentucky Ave. | Lakeland | FL | 33801 | 163,287.00
Miami-Dade County/Barrett Place | 111 N.W. 1st Street, 27th floor, Suite 310 | Miami | FL | 33128 | 166,372.00
Pinellas County Homeless Leadership Board, Inc./Coordinated Intake | 647 1st Avenue North | St. Petersburg | FL | 33701 | 168,211.00
Housing Authority of the City of Tampa/TRA Collaborative 2004 | 5301 West Cypress Street | Tampa | FL | 33607 | 169,385.00
Miami-Dade County/Elan Apartments | 111 N.W. 1st Street, 27th floor, Suite 310 | Miami | FL | 33128 | 172,137.00
Miami-Dade County/Housing Assistance Program | 111 N.W. 1st Street, 27th floor, Suite 310 | Miami | FL | 33128 | 172,820.00
Miami-Dade County/Coming Home-2013 New Reallocation Project | 111 N.W. 1st Street, 27th floor, Suite 310 | Miami | FL | 33128 | 173,839.00
Covenant House Florida, Inc./Rights of Passage | 733 Breakers Avenue | Fort Lauderdale | FL | 33304 | 179,418.00
I.M. Sulzbacher Center for the Homeless, Inc./Homeward Bound Project Expansion | 611 East Adams Street | Jacksonville | FL | 32202 | 181,121.00
Miami-Dade County/Homestead Scattered Site | 111 N.W. 1st Street, 27th floor, Suite 310 | Miami | FL | 33128 | 183,837.00
Miami-Dade County/My Choice | 111 N.W. 1st Street, 27th floor, Suite 310 | Miami | FL | 33128 | 184,486.00
Miami-Dade County/Little Haiti | 111 N.W. 1st Street, 27th floor, Suite 310 | Miami | FL | 33128 | 184,710.00
Agency for Community Treatment Services, Inc. (ACTS)/ACTS Sandra Prince Supported Housing Program | 4612 N. 56th Street | Tampa | FL | 33610 | 186,755.00
Miami-Dade County/Douglas Gardens-Starting Again-New Reallocation Project | 111 N.W. 1st Street, 27th floor, Suite 310 | Miami | FL | 33128 | 187,276.00
Tampa Hillsborough Homeless Initiative/FL-501 CoC Planning Application FY2017 | 601 E. Kennedy Blvd., County Center, 24th Floor | Tampa | FL | 33602 | 187,822.00
Volusia/Flagler County Coalition for the Homeless/My Place Apartments | 101 N. Woodland Blvd., Suite 401 | DeLand | FL | 32720 | 193,170.00
Miami-Dade County/Casa Matias | 111 N.W. 1st Street, 27th floor, Suite 310 | Miami | FL | 33128 | 199,196.00
Agency for Community Treatment Services, Inc. (ACTS)/ACTS Polk/Winterhaven Scatted Site Leasing | 4612 N. 56th Street | Tampa | FL | 33610 | 204,318.00
Broward County Board of County Commissioners/ROP2-Rapid Re-Housing Leasing Assistance | 115 S Andrews Avenue, A370 | Fort Lauderdale | FL | 33301 | 206,555.00
Community Assisted and Supported Living, Inc. d/b/a Renaissance Manor/FL500 Renewal, CASL Supportive Housing | 1401 16th Street | Sarasota | FL | 34236 | 210,668.00
Catholic Charities of the Archdiocese of Miami, Inc./St. Bede Housing for Homeless Renewal 2017 | 2706 Flagler Ave | Key West | FL | 33040 | 214,542.00
Halifax Urban Ministries/Rapid Rehousing Families 2017 | 215 Bay St | Daytona Beach | FL | 32114 | 216,221.00
Ability Housing, Inc/Finally Home Nassau 2017 | 76 S. Laura St., Suite 303 | Jacksonville | FL | 32202 | 217,643.00
Broward County Board of County Commissioners/FL 601 Dedicated HMIS Project | 115 S Andrews Avenue, A370 | Fort Lauderdale | FL | 33301 | 220,149.00
The Salvation Army, a GA Corp., for The Salvation Army of Sarasota, FL/Everyone's Home 2017 | 1400 10th Street | Sarasota | FL | 34236 | 221,919.00
Miami-Dade County/Better Way West Wing | 111 N.W. 1st Street, 27th floor, Suite 310 | Miami | FL | 33128 | 222,332.00
Homeless Services Network of Central Florida, Inc./2017 Planning Grant | 4065-D L.B McLeod Rd | Orlando | FL | 32811 | 224,192.00
Broward County Board of County Commissioners/S + C Permanent Housing 18 Unit | 115 S Andrews Avenue, A370 | Fort Lauderdale | FL | 33301 | 225,750.00
Broward County Board of County Commissioners/Chalet Apartments | 115 S Andrews Avenue, A370 | Fort Lauderdale | FL | 33301 | 226,952.00
Jacksonville Housing Authority/Shelter Plus Care 2 | 1300 North Broad Street | Jacksonville | FL | 32209 | 228,268.00
Adopt-A-Family of the Palm Beaches, Inc./Project SAFE II | 1712 Second Avenue North | Lake Worth | FL | 33460 | 230,395.00
Community Action Stops Abuse, Inc./Gateway Housing | P.O. Box 414 | St. Petersburg | FL | 33731 | 234,331.00
Adopt-A-Family of the Palm Beaches, Inc./Bridges to Success | 1712 Second Avenue North | Lake Worth | FL | 33460 | 237,318.00
Tampa Hillsborough Homeless Initiative/UNITY Information Network | 601 E. Kennedy Blvd. County Center, 24th Floor | Tampa | FL | 33602 | 238,843.00
Miami-Dade County/Brother Mathias | 111 N.W. 1st Street, 27th floor, Suite 310 | Miami | FL | 33128 | 241,280.00
Homeless Services Network of Central Florida, Inc./2017 HMIS 1 | 4065-D L.B McLeod Rd | Orlando | FL | 32811 | 242,870.00
Society of St. Vincent de Paul South Pinellas, Inc./Returning Home—Pinellas | 384 15th Street North | St. Petersburg | FL | 33705 | 242,973.00
Miami-Dade County/Sunsouth | 111 N.W. 1st Street, 27th floor, Suite 310 | Miami | FL | 33128 | 243,950.00
Agency for Community Treatment Services, Inc. (ACTS)/Polk HEART | 4612 N. 56th Street | Tampa | FL | 33610 | 244,876.00
Miami-Dade County/Little River Bend/City View 26 | 111 N.W. 1st Street, 27th floor, Suite 310 | Miami | FL | 33128 | 245,100.00
2-1-1 Tampa Bay Cares, Inc./TBIN Renewal Application FY18-19 | 5500 Rio Vista Dr., Suite 5500 | Clearwater | FL | 33760 | 247,797.00
Broward County Board of County Commissioners/S + C Permanent Housing 16 Units | 115 S Andrews Avenue, A370 | Fort Lauderdale | FL | 33301 | 250,039.00
Broward County Board of County Commissioners/S + C Permanent Housing 25 Units | 115 S Andrews Avenue, A370 | Fort Lauderdale | FL | 33301 | 252,925.00
Mental Health Resource Center, Inc./Community Outreach Program (QUEST) | 10550 Deerwood Park Boulevard, Suite 600 | Jacksonville | FL | 32256 | 254,553.00
Miami-Dade County/Miami Homeless Assistance Program | 111 N.W. 1st Street, 27th floor, Suite 310 | Miami | FL | 33128 | 255,853.00
Gulfstream Goodwill Industries, Inc./Beacon Place 2 Renewal FY 2017 LC | 1715 Tiffany Drive East | West Palm Beach | FL | 33407 | 257,413.00
I.M. Sulzbacher Center for the Homeless, Inc./Homeward Bound | 611 East Adams Street | Jacksonville | FL | 32202 | 261,104.00
Adopt-A-Family of the Palm Beaches, Inc./Connecting Youth to Opportunities | 1712 Second Avenue North | Lake Worth | FL | 33460 | 265,213.00
Miami-Dade County/Thomas Jefferson S + C | 111 N.W. 1st Street, 27th floor, Suite 310 | Miami | FL | 33128 | 265,408.00
Broward County Board of County Commissioners/HART & Home | 115 S Andrews Avenue, A370 | Fort Lauderdale | FL | 33301 | 265,839.00
Miami-Dade County/Another Chance | 111 N.W. 1st Street, 27th floor, Suite 310 | Miami | FL | 33128 | 268,601.00
Broward County Board of County Commissioners/Samaritan 2008 | 115 S Andrews Avenue, A370 | Fort Lauderdale | FL | 33301 | 269,119.00
Indian River County Board of County Commissioners/2017New Chronics | 1801 27th Street | Vero Beach | FL | 32960 | 269,184.00
Boley Centers, Inc./Shelter Plus Care 62 | 445 31st Street N | St. Petersburg | FL | 33713 | 269,400.00
Miami-Dade County/C. Wilson | 111 N.W. 1st Street, 27th floor, Suite 310 | Miami | FL | 33128 | 272,676.00
Miami-Dade County/Little River Bend 46 Units | 111 N.W. 1st Street, 27th floor, Suite 310 | Miami | FL | 33128 | 281,949.00
Miami-Dade County/Kensington | 111 N.W. 1st Street, 27th floor, Suite 310 | Miami | FL | 33128 | 284,082.00
Lakeview Center Incorporated/Permanent Supportive Housing Escambis Santa Rosa | 1221 West Lakeview Ave., Building G | Pensacola | FL | 32501 | 284,889.00
Broward County Board of County Commissioners/HOPE4Families Rapid Re-Housing | 115 S Andrews Avenue, A370 | Fort Lauderdale | FL | 33301 | 289,797.00
Miami-Dade County/MMHAP North | 111 N.W. 1st Street, 27th floor, Suite 310 | Miami | FL | 33128 | 298,234.00
Broward County Board of County Commissioners/FL-601 CoC Planning Project Application 2017 | 115 S Andrews Avenue, A370 | Fort Lauderdale | FL | 33301 | 302,188.00
Miami-Dade County/First Place | 111 N.W. 1st Street, 27th floor, Suite 310 | Miami | FL | 33128 | 309,162.00
Miami-Dade County/Villa Aurora 2 | 111 N.W. 1st Street, 27th floor, Suite 310 | Miami | FL | 33128 | 311,242.00
The Lord's Place, Inc./Project Family Care | 2808 N. Australian Avenue | West Palm Beach | FL | 33407 | 312,087.00
Housing Authority of the City of Tampa/TRA Collaborative | 5301 West Cypress Street | Tampa | FL | 33607 | 313,644.00
Miami-Dade County/Harding Village PH | 111 N.W. 1st Street, 27th floor, Suite 310 | Miami | FL | 33128 | 316,470.00
Housing for Homeless Inc./HfH PH1 2018-19 | 4087 U S. Hwy 1, Suite 3 | Rockledge | FL | 32955 | 318,972.00
The Lord's Place, Inc./Home First | 2808 N. Australian Avenue | West Palm Beach | FL | 33407 | 326,265.00
Miami-Dade County/S + C 2003 | 111 N.W. 1st Street, 27th floor, Suite 310 | Miami | FL | 33128 | 331,453.00
Broward County Board of County Commissioners/Broward IV (Samaritan Expansion) | 115 S Andrews Avenue, A370 | Fort Lauderdale | FL | 33301 | 332,685.00
Volunteers of America of Florida, Inc./Volunteers of America of Florida PH | 405 Central Ave., Ste 100 | St. Petersburg | FL | 33701 | 334,282.00
Homeless Services Network of Central Florida, Inc./2017 CES 1 | 4065-D L.B McLeod Rd | Orlando | FL | 32811 | 336,589.00
Broward County Board of County Commissioners/Broward Partnership Housing III | 115 S Andrews Avenue, A370 | Fort Lauderdale | FL | 33301 | 339,376.00
Ability Housing, Inc/Giving Hope A Home 2017 | 76 S. Laura St., Suite 303 | Jacksonville | FL | 32202 | 351,675.00
Broward County Board of County Commissioners/Independent Living Program | 115 S Andrews Avenue, A370 | Fort Lauderdale | FL | 33301 | 366,241.00
YWCA of Palm Beach County, Inc/YWCA DV SAFEhouse Rapid Re-Housing | 1016 North Dixie Highway | West Palm Beach | FL | 33401 | 368,728.00
Miami-Dade County/Marie Toussaint | 111 N.W. 1st Street, 27th floor, Suite 310 | Miami | FL | 33128 | 370,580.00
Ability Housing, Inc/Villages PSH 2017 | 76 S. Laura St., Suite 303 | Jacksonville | FL | 32202 | 372,040.00
Broward County Board of County Commissioners/Broward Partnership Housing IV | 115 S Andrews Avenue, A370 | Fort Lauderdale | FL | 33301 | 380,519.00
Broward County Board of County Commissioners/NewHart Project | 115 S Andrews Avenue, A370 | Fort Lauderdale | FL | 33301 | 383,962.00
Homeless Services Network of Central Florida, Inc./2017 PSH Operating and Services | 4065-D L.B McLeod Rd | Orlando | FL | 32811 | 387,972.00
Miami-Dade County/Royalton Expansion | 111 N.W. 1st Street, 27th floor, Suite 310 | Miami | FL | 33128 | 388,829.00
Miami-Dade County/Amistad-2013 New Reallocation Project | 111 N.W. 1st Street, 27th floor, Suite 310 | Miami | FL | 33128 | 390,773.00
Miami-Dade County/2001 TRA 30 Citrus | 111 N.W. 1st Street, 27th floor, Suite 310 | Miami | FL | 33128 | 394,160.00
Volunteers of America of Florida, Inc./Broward I | 405 Central Ave., Ste 100 | St. Petersburg | FL | 33701 | 395,231.00
Miami-Dade County/Del Prado | 111 N.W. 1st Street, 27th floor, Suite 310 | Miami | FL | 33128 | 401,388.00
Miami-Dade County/Karis Village | 111 N.W. 1st Street, 27th floor, Suite 310 | Miami | FL | 33128 | 405,703.00
Miami-Dade County/Villa Aurora 25 | 111 N.W. 1st Street, 27th floor, Suite 310 | Miami | FL | 33128 | 408,710.00
Broward County Board of County Commissioners/S + C Permanent Housing 29 Units | 115 S Andrews Avenue, A370 | Fort Lauderdale | FL | 33301 | 409,425.00
Homeless Services Network of Central Florida, Inc./2017 HSN Rapid Rehousing 1 | 4065-D L.B McLeod Rd | Orlando | FL | 32811 | 416,824.00
Big Bend Homeless Coalition, Inc./A Place Called Home | 325 John Knox Rd, Bldg A | Tallahassee | FL | 32303 | 417,007.00
Miami-Dade County/J. Moss | 111 N.W. 1st Street, 27th floor, Suite 310 | Miami | FL | 33128 | 428,245.00
Miami-Dade County/Villa Aurora 14 | 111 N.W. 1st Street, 27th floor, Suite 310 | Miami | FL | 33128 | 434,360.00
Tampa Hillsborough Homeless Initiative/More HEART | 601 E. Kennedy Blvd., County Center, 24th Floor | Tampa | FL | 33602 | 435,535.00
Tampa Hillsborough Homeless Initiative/PHAME (Permanent Housing Access Made Easy) | 601 E. Kennedy Blvd., County Center, 24th Floor | Tampa | FL | 33602 | 437,853.00
Miami-Dade County/M. Toussaint S + C | 111 N.W. 1st Street, 27th floor, Suite 310 | Miami | FL | 33128 | 439,531.00
Jerome Golden Center for Behavioral Health, Inc./Flagler Project | 1041 45th Street | West Palm Beach | FL | 33407 | 442,594.00
Miami-Dade County/Shaman | 111 N.W. 1st Street, 27th floor, Suite 310 | Miami | FL | 33128 | 442,635.00
Ability Housing, Inc/Giving Hope A Home II 2017 | 76 S. Laura St., Suite 303 | Jacksonville | FL | 32202 | 445,990.00
Carrfour Supportive Housing/Rivermont House | 789 NW 13 Avenue | Miami | FL | 33125 | 455,227.00
Gulfstream Goodwill Industries, Inc./Beacon Place Renewal FY 2017 LC | 1715 Tiffany Drive East | West Palm Beach | FL | 33407 | 473,368.00
Miami-Dade County/Brother Keily PH | 111 N.W. 1st Street, 27th floor, Suite 310 | Miami | FL | 33128 | 473,552.00
Seminole County Government/2017 Seminole County SPC | 534 W. Lake Mary Boulevard | Sanford | FL | 32773 | 479,291.00
Miami-Dade County/Royalton | 111 N.W. 1st Street, 27th floor, Suite 310 | Miami | FL | 33128 | 488,859.00
Miami-Dade County/Shepherd's Court Samaritan | 111 N.W. 1st Street, 27th floor, Suite 310 | Miami | FL | 33128 | 494,397.00
Miami-Dade County/Verde Gardens PH Bonus | 111 N.W. 1st Street, 27th floor, Suite 310 | Miami | FL | 33128 | 496,661.00
Miami-Dade County/Good Shepherd PH | 111 N.W. 1st Street, 27th floor, Suite 310 | Miami | FL | 33128 | 507,610.00
Catholic Charities of Northwest Florida/Permanent Supportive Housing | 11 First Street SE | Fort Walton Beach | FL | 32548 | 518,989.00
Boley Centers, Inc./Burlington/Grove Park/Twin I+II/Broadwater II,iii,IV/Clam Bayou | 445 31st Street N | St. Petersburg | FL | 33713 | 522,115.00
The Salvation Army a Georgia Corporation/Red Shield/Plymouth Colony Levels I and II | 1445 West Broward Blvd | Ft. Lauderdale | FL | 33312 | 522,956.00
Miami-Dade County/Better Way Apartments | 111 N.W. 1st Street, 27th floor, Suite 310 | Miami | FL | 33128 | 526,733.00
Miami-Dade County/KIVA | 111 N.W. 1st Street, 27th floor, Suite 310 | Miami | FL | 33128 | 538,120.00
Changing Homelessness Inc./Homesafe | 660 Park Street | Jacksonville | FL | 32204 | 543,279.00
Miami-Dade County/Mother Seton PH | 111 N.W. 1st Street, 27th floor, Suite 310 | Miami | FL | 33128 | 550,588.00
Miami-Dade County/55 2003 TRA Citrus | 111 N.W. 1st Street, 27th floor, Suite 310 | Miami | FL | 33128 | 570,652.00
Boley Centers, Inc./Oaks/Marconi/Butterfly Grove/Kenwwod Parkside PSH | 445 31st Street N | St. Petersburg | FL | 33713 | 584,419.00
Big Bend Homeless Coalition, Inc./Home Plate | 325 John Knox Rd, Bldg A | Tallahassee | FL | 32303 | 591,253.00
Miami-Dade County/Project Dade Cares PH | 111 N.W. 1st Street, 27th floor, Suite 310 | Miami | FL | 33128 | 597,975.00
Miami-Dade County/Liberty Village | 111 N.W. 1st Street, 27th floor, Suite 310 | Miami | FL | 33128 | 604,564.00
Orange County Housing and Community Development Division/Orange County SPC 2017 | 525 E. South Street | Orlando | FL | 32801 | 676,113.00
I.M. Sulzbacher Center for the Homeless, Inc./North Florida SHP Rapid Rehousing Program | 611 East Adams Street | Jacksonville | FL | 32202 | 726,185.00
Miami-Dade County/Advocate Housing Solutions | 111 N.W. 1st Street, 27th floor, Suite 310 | Miami | FL | 33128 | 767,996.00
Miami-Dade County/Transition to Homeownership (THOP)-New Reallocation Project | 111 N.W. 1st Street, 27th floor, Suite 310 | Miami | FL | 33128 | 770,510.00
Tampa Hillsborough Homeless Initiative/HOME 3 | 601 E. Kennedy Blvd. County Center, 24th Floor | Tampa | FL | 33602 | 782,808.00
Miami-Dade County/Coalition Lift | 111 N.W. 1st Street, 27th floor, Suite 310 | Miami | FL | 33128 | 786,624.00
Volunteers of America of Florida, Inc./Hogar I | 405 Central Ave., Ste 100 | St. Petersburg | FL | 33701 | 798,180.00
Miami-Dade County/Partners for Homes | 111 N.W. 1st Street, 27th floor, Suite 310 | Miami | FL | 33128 | 803,274.00
Gulfstream Goodwill Industries, Inc./New Avenues Renewal FY 2017 LC | 1715 Tiffany Drive East | West Palm Beach | FL | 33407 | 854,401.00
Miami-Dade County/CoC Planning Project Application FY2017 | 111 N.W. 1st Street, 27th floor, Suite 310 | Miami | FL | 33128 | 870,831.00
Boley Centers, Inc./Mid County and Pinellas County Safe Havens | 445 31st Street N | St. Petersburg | FL | 33713 | 926,753.00
Broward County Board of County Commissioners/S + C 74 Unit HHOPE Chronic Homeless Initiative | 115 S Andrews Avenue, A370 | Fort Lauderdale | FL | 33301 | 938,290.00
Catholic Charities Diocese of St. Petersburg/Pathways Rapid Rehousing Program | 1213 16th Street North | St. Petersburg | FL | 33705 | 970,701.00
Miami-Dade County/Archbishop Carroll Homes | 111 N.W. 1st Street, 27th floor, Suite 310 | Miami | FL | 33128 | 976,704.00
Broward County Board of County Commissioners/Broward II | 115 S Andrews Avenue, A370 | Fort Lauderdale | FL | 33301 | 983,170.00
Miami-Dade County/Hogar 2 | 111 N.W. 1st Street, 27th floor, Suite 310 | Miami | FL | 33128 | 990,216.00
Broward County Board of County Commissioners/S + C Permanent Housing 88 Units | 115 S Andrews Avenue, A370 | Fort Lauderdale | FL | 33301 | 1,004,769.00
Broward County Housing Authority/S + C Permanent Housing 100 Units | 4780 North State Road 7 | Lauderdale Lakes | FL | 33319 | 1,061,923.00
Homeless Services Network of Central Florida, Inc./2017 Rapid Rehousing 2 | 4065-D L.B McLeod Rd | Orlando | FL | 32811 | 1,083,435.00
Gulfstream Goodwill Industries, Inc./Project Succeed Renewal FY 2017 LC #2 | 1715 Tiffany Drive East | West Palm Beach | FL | 33407 | 1,142,628.00
Homeless Services Network of Central Florida, Inc./2017 Leasing | 4065-D L.B McLeod Rd | Orlando | FL | 32811 | 1,165,033.00
Miami-Dade County/2003 TRA 95 Citrus | 111 N.W. 1st Street, 27th floor, Suite 310 | Miami | FL | 33128 | 1,182,164.00
Lee County Board of County Commissioners/The Salvation Army Rapid Rehousing | 2440 Thompson Street | Fort Myers | FL | 33901 | 1,295,154.00
Homeless Services Network of Central Florida, Inc./2017 PSH Rental Assistance | 4065-D L.B McLeod Rd | Orlando | FL | 32811 | 1,745,109.00
Agency for Community Treatment Services, Inc. (ACTS)/Hillsborough HEART Project | 4612 N. 56th Street | Tampa | FL | 33610 | 1,820,807.00
Miami-Dade County/Kolapi | 111 N.W. 1st Street, 27th floor, Suite 310 | Miami | FL | 33128 | 2,002,366.00
Miami-Dade County/Housing ACT Team Consolidation | 111 N.W. 1st Street, 27th floor, Suite 310 | Miami | FL | 33128 | 2,602,810.00
Georgia Housing and Finance Authority/Cobb HMIS Expansion Project FY2017 | 60 Executive Park South, NE | Atlanta | GA | 30329 | 12,293.00
Unified Government of Athens-Clarke County/Athens-Clarke County Planning Project | 375 Satula Avenue | Athens | GA | 30601 | 19,910.00
Georgia Housing and Finance Authority/Cobb HMIS Project FY2017 | 60 Executive Park South, NE | Atlanta | GA | 30329 | 27,861.00
Dalton-Whitfield Community Development Corporation/PH SPC Case Manager | 310 Selviedge St | Dalton | GA | 30720 | 31,679.00
Unified Government of Athens-Clarke County/ABHS Rapid Re-Housing Program | 375 Satula Avenue | Athens | GA | 30601 | 35,052.00
Cobb County Community Services Board/Cobb County SHP | 3830 S. Cobb Drive, Suite 300 | Smyrna | GA | 30080 | 35,700.00
MUST Ministries, Inc./Cobb County Permanent Supportive Housing Program SHP-SSO | 1407 Cobb Parkway N | Marietta | GA | 30062 | 35,700.00
Georgia Housing and Finance Authority/CSB of Middle Georgia S+CR | 60 Executive Park South, NE | Atlanta | GA | 30329 | 36,511.00
Chatham-Savannah Authority for the Homeless/HMIS Lead 2017 | 761 Wheaton Street | Savannah | GA | 31401 | 37,860.00
Augusta, Georgia/GA-504 CoC Planning Project | 925 Laney Walker Boulevard, 2nd Floor | Augusta | GA | 30901 | 37,878.00
United Way of the Chattachoochee Valley/GA-505 CoC Planning Project Application Fy 2017 | 1100 5th Ave | Columbus | GA | 31901 | 40,815.00
Marietta Housing Authority/Cobb County S+C#3 | 95 Cole Street | Marietta | GA | 30060 | 46,937.00
MUST Ministries, Inc./Cobb County Coordinated Entry and Assessment | 1407 Cobb Parkway N | Marietta | GA | 30062 | 50,000.00
New Horizons Community Service Board/Red Hill Adaptive Group Residence FY17 | P.O. Box 5328, 2100 Comer Avenue | Columbus | GA | 31906 | 51,784.00
Travelers Aid of Metropolitan Atlanta, Inc./DeKalb RRH 2017 | 34 Peachtree Street NW, Suite 700 | Atlanta | GA | 30303 | 54,443.00
Greenbriar Children's Center, Inc./Supportive Housing | 3709 Hopkins Street | Savannah | GA | 31405 | 56,144.00
House of TIME, Inc./Homeless to a Home I | 1200 Wynnton Road | Columbus | GA | 31906 | 60,371.00
Unified Government of Athens-Clarke County/ABHS Supportive Housing Program 5 Unit | 375 Satula Avenue | Athens | GA | 30601 | 64,064.00
House of TIME, Inc./Homeless to a Home with Children | 1200 Wynnton Road | Columbus | GA | 31906 | 64,786.00
AIDS Athens/AIDS Athens PSHP | 240 North Ave | Athens | GA | 30601 | 67,167.00
Georgia Housing and Finance Authority/Comprehensive AIDS Resource Encounter S+CR | 60 Executive Park South, NE | Atlanta | GA | 30329 | 70,781.00
The Center for Family Resources/RRH 2 | 995 Roswell Street, Suite 100 | Marietta GA | GA | 30060 | 71,035.00
Georgia Housing and Finance Authority/New Horizons CSB BoS S+CR | 60 Executive Park South, NE | Atlanta | GA | 30329 | 71,128.00
Action Ministries, Inc./DeKalb Rapid Re-housing | 1700 Century Circle NE, Suite 200 | Atlanta | GA | 30345 | 71,645.00
MUST Ministries, Inc./Cherokee County PSH-PH Case Management | 1407 Cobb Parkway N | Marietta | GA | 30062 | 71,904.00
Chatham-Savannah Authority for the Homeless/SSO-Coordinated Entry FY 2017 | 761 Wheaton Street | Savannah | GA | 31401 | 72,140.00
Fulton County Board of Commissioners/CoC Planning Project Application FY2017 | 137 Peachtree Street | Atlanta | GA | 30303 | 75,685.00
Georgia Housing and Finance Authority/Fulton HMIS Renewal FY2017 | 60 Executive Park South, NE | Atlanta | GA | 30329 | 76,484.00
The Center for Family Resources/GA 506 CoC Planning Application 2017 | 995 Roswell Street, Suite 100 | Marietta GA | GA | 30060 | 77,286.00
Action Ministries, Inc./Atlanta Rapid Re-housing | 1700 Century Circle NE, Suite 200 | Atlanta | GA | 30345 | 77,964.00
Decatur Cooperative Ministry, Inc./Family Success Project | 115 Church Street | Decatur | GA | 30030 | 80,947.00
Georgia Housing and Finance Authority/MUST Ministries S+CR | 60 Executive Park South, NE | Atlanta | GA | 30329 | 83,287.00
Georgia Housing and Finance Authority/Oconee CSB S+CR | 60 Executive Park South, NE | Atlanta | GA | 30329 | 84,702.00
Georgia Housing and Finance Authority/River Edge S+CR4 | 60 Executive Park South, NE | Atlanta | GA | 30329 | 85,611.00
Georgia Housing and Finance Authority/Dalton Whitfield CDC S+CR2 | 60 Executive Park South, NE | Atlanta | GA | 30329 | 87,623.00
House of TIME, Inc./Homeless to a Home III | 1200 Wynnton Road | Columbus | GA | 31906 | 88,494.00
Georgia Housing and Finance Authority/Dalton Whitfield CDC S+CR | 60 Executive Park South, NE | Atlanta | GA | 30329 | 90,987.00
The Center for Family Resources/RRH 1 | 995 Roswell Street, Suite 100 | Marietta GA | GA | 30060 | 91,676.00
Georgia Housing and Finance Authority/Action Ministries S+CR | 60 Executive Park South, NE | Atlanta | GA | 30329 | 95,088.00
Douglas County Community Services Board/Douglas County SHP | 3830 S. Cobb Drive, Suite 300 | Smyrna | GA | 30080 | 96,419.00
New Horizons Community Service Board/HUD Rural Rapid Rehousing FY17 | P.O. Box 5328, 2100 Comer Avenue | Columbus | GA | 31906 | 97,227.00
The Extension, Inc./Residential Recovery Program | 1507 Church Street Ext | Marietta | GA | 30060 | 98,474.00
Georgia Housing and Finance Authority/Caring Works ATL S+CR | 60 Executive Park South, NE | Atlanta | GA | 30329 | 98,507.00
Georgia Housing and Finance Authority/Caring Works ATL S+CR2 | 60 Executive Park South, NE | Atlanta | GA | 30329 | 98,507.00
Chatham-Savannah Authority for the Homeless/GA-507 CoC Planning Application FY 2017 | 761 Wheaton Street | Savannah | GA | 31401 | 98,536.00
DeKalb County Government/Coordinated Entry 2017 | 3486 Covington Highway | Decatur | GA | 30032 | 99,022.00
Georgia Housing and Finance Authority/Dalton Whitfield CDC S+CR3 | 60 Executive Park South, NE | Atlanta | GA | 30329 | 99,951.00
Georgia Housing and Finance Authority/Balance of State HMIS Grant FY2017 | 60 Executive Park South, NE | Atlanta | GA | 30329 | 100,003.00
Georgia Housing and Finance Authority/Avita Community Partners S+CR3 | 60 Executive Park South, NE | Atlanta | GA | 30329 | 109,342.00
Georgia Housing and Finance Authority/Viewpoint Health BHS S+CR4 | 60 Executive Park South, NE | Atlanta | GA | 30329 | 109,848.00
MUST Ministries, Inc./MUST Ministries BoS CoC RRH | 1407 Cobb Parkway N | Marietta | GA | 30062 | 110,232.00
Georgia Housing and Finance Authority/Highland Rivers CSB S+CR2 | 60 Executive Park South, NE | Atlanta | GA | 30329 | 111,630.00
House of TIME, Inc./Homeless to a Home II | 1200 Wynnton Road | Columbus | GA | 31906 | 113,476.00
City of Hinesville/Homeless Prevention Program RRH | 115 East M.L. King, Jr. Drive | Hinesville | GA | 31313 | 117,416.00
Georgia Housing and Finance Authority/Highland Rivers CSB S+CR | 60 Executive Park South, NE | Atlanta | GA | 30329 | 119,603.00
Travelers Aid of Metropolitan Atlanta, Inc./Douglas RRH | 34 Peachtree Street NW, Suite 700 | Atlanta | GA | 30303 | 119,744.00
Georgia Housing and Finance Authority/Georgia Rehabilitation Outreach FUL S+CR | 60 Executive Park South, NE | Atlanta | GA | 30329 | 124,333.00
Georgia Housing and Finance Authority/Georgia Mountain Women's Center S+CR | 60 Executive Park South, NE | Atlanta | GA | 30329 | 124,366.00
Action Ministries, Inc./Mountain Initiative Rapid Re-housing | 1700 Century Circle NE, Suite 200 | Atlanta | GA | 30345 | 128,112.00
Another Chance of Atlanta, Inc./ACA PSH for Clayton County | 777 Cleveland Avenue, Suite 520 | Atlanta | GA | 30315 | 128,293.00
Georgia Housing and Finance Authority/URDC S+CR | 60 Executive Park South, NE | Atlanta | GA | 30329 | 132,496.00
DeKalb County Government/GA 508 CoC Planning Project 2017 | 3486 Covington Highway | Decatur | GA | 30032 | 136,112.00
Georgia Housing and Finance Authority/AVITA Community Partners S+CR | 60 Executive Park South, NE | Atlanta | GA | 30329 | 136,391.00
Georgia Housing and Finance Authority/Avita Community Partners S+CR2 | 60 Executive Park South, NE | Atlanta | GA | 30329 | 138,228.00
MUST Ministries, Inc./Cobb County PSH Program for Veterans | 1407 Cobb Parkway N | Marietta | GA | 30062 | 138,748.00
Georgia Housing and Finance Authority/Advantage BHS BoS S+CR2 | 60 Executive Park South, NE | Atlanta | GA | 30329 | 138,889.00
Partnership Against Domestic Violence/PADV Supportive Housing—Fulton CO. | P.O. Box 170225 | Atlanta | GA | 30317 | 139,200.00
Partners for HOME/Atlanta CoC Coordinated Entry | 100 Edgewood Avenue | Atlanta | GA | 30303 | 140,000.00
Georgia Law Center on Homelessness & Poverty Inc./Rapid Rehousing Atlanta CoC | 34 Peachtree Street, Suite 750 | Atlanta | GA | 30303 | 146,064.00
Lowndes Associated Ministries to People, Inc./Rapid Rehousing | 714 Charlton Street | Valdosta | GA | 31601 | 146,774.00
Georgia Housing and Finance Authority/Advantage BHS S+CR4—BoS | 60 Executive Park South, NE | Atlanta | GA | 30329 | 150,408.00
Georgia Housing and Finance Authority/South GA CSB S+CR2 | 60 Executive Park South, NE | Atlanta | GA | 30329 | 150,610.00
S.H.A.R.E. House, Inc./S.H.A.R.E. House Rapid Re-Housing | 8460 Courthouse Sq. E | Douglasville | GA | 30134 | 151,709.00
Georgia Housing and Finance Authority/DeKalb HMIS Renewal FY2017 | 60 Executive Park South, NE | Atlanta | GA | 30329 | 151,860.00
Georgia Housing and Finance Authority/Albany Area CSB S+CR | 60 Executive Park South, NE | Atlanta | GA | 30329 | 155,696.00
Georgia Housing and Finance Authority/Action Ministries S+CR2 | 60 Executive Park South, NE | Atlanta | GA | 30329 | 157,956.00
liveSAFE Resources, Inc. (formerly YWCA of NW GA)/TH Renewal 2017 | 48 Henderson Street | Marietta | GA | 30064 | 159,633.00
Action Ministries, Inc./Augusta Rapid Re-housing | 1700 Century Circle NE, Suite 200 | Atlanta | GA | 30345 | 159,880.00
Georgia Housing and Finance Authority/Middle Flint BHS S+CR | 60 Executive Park South, NE | Atlanta | GA | 30329 | 164,204.00
St. Jude's Recovery Center, Inc./Welcome Home | 139 Renaissance Parkway, NE | Atlanta | GA | 30308 | 165,921.00
Asian American Resource Foundation, Inc./AARC Rapid Re-Housing 2017 | 3635 Peachtree Industrial Blvd., Suite 450 | Duluth | GA | 30096 | 166,478.00
Georgia Housing and Finance Authority/Presley Woods S+CR | 60 Executive Park South, NE | Atlanta | GA | 30329 | 167,166.00
CSRA Economic Opportunity Authority, Inc/Centralized Intake & Assessment FY 2018 | 1261 Greene Street, P.O. Box 10104 | Augusta | GA | 30903 | 167,815.00
Georgia Housing and Finance Authority/Advantage BHS BOS S+CR | 60 Executive Park South, NE | Atlanta | GA | 30329 | 168,441.00
Another Chance of Atlanta, Inc./ACA PSH for Gwinnett County | 777 Cleveland Avenue Suite 520 | Atlanta | GA | 30315 | 171,856.00
Partnership Against Domestic Violence/PADV PH Project—City of Atlanta | P.O. Box 170225 | Atlanta | GA | 30317 | 171,986.00
Travelers Aid of Metropolitan Atlanta, Inc./Gwinnett PSH 2015 | 34 Peachtree Street NW, Suite 700 | Atlanta | GA | 30303 | 172,789.00
Project Interconnections, Inc./A Way Home | 2198 Dresden Drive | Chamblee | GA | 30341 | 173,320.00
Georgia Housing and Finance Authority/McIntosh Trail CSB S+CR3 | 60 Executive Park South, NE | Atlanta | GA | 30329 | 175,756.00
Georgia Housing and Finance Authority/Advantage BHS S+CR | 60 Executive Park South, NE | Atlanta | GA | 30329 | 176,666.00
Union Mission, Inc../Eagles Landing PSH FY2017 | 120 Fahm Street | Savannah | GA | 31401 | 177,302.00
Georgia Housing and Finance Authority/Oconee CSB S+CR2 | 60 Executive Park South, NE | Atlanta | GA | 30329 | 182,862.00
Augusta, Georgia/Intake & Referral Services Coordination | 925 Laney Walker Boulevard, 2nd Floor | Augusta | GA | 30901 | 184,475.00
Georgia Housing and Finance Authority/Pineland CSB S+CR | 60 Executive Park South, NE | Atlanta | GA | 30329 | 185,213.00
Georgia Housing and Finance Authority/Travelers Aid of Metropolitan Atlanta S+CR2 | 60 Executive Park South, NE | Atlanta | GA | 30329 | 187,824.00
Georgia Housing and Finance Authority/BoS CoC Coordinated Assessment FY 2017 | 60 Executive Park South, NE | Atlanta | GA | 30329 | 189,176.00
Georgia Housing and Finance Authority/Viewpoint Health S+CR3 | 60 Executive Park South, NE | Atlanta | GA | 30329 | 190,046.00
CaringWorks, Inc./Shamrock SHP | 2785 Lawrenceville Highway, Suite 205 | Decatur | GA | 30033 | 193,367.00
Georgia Housing and Finance Authority/Travelers Aid of Metropolitan Atlanta S+CR1 | 60 Executive Park South, NE | Atlanta | GA | 30329 | 194,052.00
The Center for Family Resources/RRH 3 | 995 Roswell Street, Suite 100 | Marietta GA | GA | 30060 | 197,424.00
Project Interconnections, Inc./Bridges to Housing | 2198 Dresden Drive | Chamblee | GA | 30341 | 200,074.00
Zion Hill Community Development Corporation/Supportive Housing Program | 2741 Bayard Street | East Point | GA | 30344 | 201,145.00
Jerusalem House, Inc./The Family Program | 17 Executive Park Drive NE, Suite 290 | Atlanta | GA | 30329 | 202,681.00
Partners for HOME/Atlanta CoC Planning FY2017 | 100 Edgewood Avenue | Atlanta | GA | 30303 | 203,314.00
Georgia Housing and Finance Authority/Families First S+CR | 60 Executive Park South, NE | Atlanta | GA | 30329 | 206,010.00
Georgia Housing and Finance Authority/Viewpoint Health S+CR | 60 Executive Park South, NE | Atlanta | GA | 30329 | 208,118.00
MUST Ministries, Inc./Cobb County PSH Program II | 1407 Cobb Parkway N | Marietta | GA | 30062 | 208,358.00
Unified Government of Athens-Clarke County/ABHS Supportive Housing Program 23 Unit | 375 Satula Avenue | Athens | GA | 30601 | 208,688.00
DeKalb Community Service Board/Permanent Housing for Persons with Disabilities | 455 Winn Way | Decatur | GA | 30030 | 208,699.00
Georgia Housing and Finance Authority/Georgia Rehabilitation Outreach S+CR2 | 60 Executive Park South, NE | Atlanta | GA | 30329 | 211,444.00
Georgia Housing and Finance Authority/Albany CSB S+CR2 | 60 Executive Park South, NE | Atlanta | GA | 30329 | 212,353.00
Trinity Community Ministries/Trinity Living | 21 Bell Street North East | Atlanta | GA | 30303 | 216,129.00
Mary Hall Freedom House, Inc./Mary's Heart | 8995 Roswell Road | Sandy Springs | GA | 30350 | 217,009.00
Georgia Housing and Finance Authority/New Horizons CSB BoS S+CR2 | 60 Executive Park South, NE | Atlanta | GA | 30329 | 217,729.00
Travelers Aid of Metropolitan Atlanta, Inc./Fulton PSH Bonus Project 2017 | 34 Peachtree Street NW, Suite 700 | Atlanta | GA | 30303 | 221,025.00
CaringWorks, Inc./CaringWorks RISE II Atlanta | 2785 Lawrenceville Highway, Suite 205 | Decatur | GA | 30033 | 224,141.00
Economic Opportunity Authority for Savannah-Chatham County/Tom D Austin House | 618 W. Anderson St | Savannah | GA | 31401 | 224,700.00
Georgia Housing and Finance Authority/AIDS Athens S+CR | 60 Executive Park South, NE | Atlanta | GA | 30329 | 225,135.00
Georgia Housing and Finance Authority/Georgia Rehabilitation Outreach S+CR | 60 Executive Park South, NE | Atlanta | GA | 30329 | 227,278.00
Project Community Connections, Inc./PCCI Rapid Re-Housing BoS | 302 Decatur Street SE | Atlanta | GA | 30312 | 228,850.00
Quest Community Development Organization f/k/a Quest 35, Inc./Quest Communities PH15 | 878 Rock St NW | Atlanta | GA | 30314 | 230,973.00
Georgia Housing and Finance Authority/Phoenix House S+CR | 60 Executive Park South, NE | Atlanta | GA | 30329 | 231,651.00
Georgia Housing and Finance Authority/MUST Ministries BOS S+CR | 60 Executive Park South, NE | Atlanta | GA | 30329 | 232,792.00
CHRIS 180/Changing Directions Rapid Rehousing Program | 1017 Fayetteville Road 4045643402 | Atlanta | GA | 30316 | 233,873.00
Georgia Housing and Finance Authority/Highland Rivers S+CR3 | 60 Executive Park South, NE | Atlanta | GA | 30329 | 234,923.00
House of TIME, Inc./The House of TIME | 1200 Wynnton Road | Columbus | GA | 31906 | 235,762.00
CaringWorks, Inc./CaringWorks Housing Solutions BOS | 2785 Lawrenceville Highway, Suite 205 | Decatur | GA | 30033 | 235,884.00
Georgia Housing and Finance Authority/Jerusalem House DEK S+CR | 60 Executive Park South, NE | Atlanta | GA | 30329 | 238,168.00
Open Door Community House, Inc./Welcome Home | 2405 2nd Avenue | Columbus | GA | 31901 | 242,777.00
Georgia Housing and Finance Authority/Families First S+CR2 | 60 Executive Park South, NE | Atlanta | GA | 30329 | 243,252.00
Stewart Community Home, Inc./MedLife 2017 | 1125 15th Street | Columbus | GA | 31914 | 251,797.00
Georgia Housing and Finance Authority/Lookout Mountain CSB S+CR | 60 Executive Park South, NE | Atlanta | GA | 30329 | 252,172.00
Georgia Housing and Finance Authority/Caring Works DEK S+CR | 60 Executive Park South, NE | Atlanta | GA | 30329 | 259,553.00
Georgia Housing and Finance Authority/McIntosh Trail CSB S+CR2 | 60 Executive Park South, NE | Atlanta | GA | 30329 | 265,209.00
Travelers Aid of Metropolitan Atlanta, Inc./Gwinnett RRH 1 | 34 Peachtree Street NW, Suite 700 | Atlanta | GA | 30303 | 266,492.00
Travelers Aid of Metropolitan Atlanta, Inc./Gwinnett RRH 2 | 34 Peachtree Street NW, Suite 700 | Atlanta | GA | 30303 | 266,492.00
Macon-Bibb County Economic Opportunity Council, Inc./HUD Renewal Application for Rapid Rehousing 2016 | 1680 Broadway, Suite B | Macon | GA | 31201 | 266,654.00
Georgia Housing and Finance Authority/Rosalyn Apartments S+CR | 60 Executive Park South, NE | Atlanta | GA | 30329 | 269,918.00
Quest Community Development Organization f/k/a Quest 35, Inc./Quest Village II | 878 Rock St. NW | Atlanta | GA | 30314 | 278,566.00
Decatur Cooperative Ministry, Inc./DCM Interim Housing Project | 115 Church Street | Decatur | GA | 30030 | 283,668.00
Citizens Against Violence, Inc./Rapid Re-Housing DV-COC | P.O. Box 2494 | Statesboro | GA | 30459 | 285,226.00
Georgia Housing and Finance Authority/Caring Works DEK S+CR2 | 60 Executive Park South, NE | Atlanta | GA | 30329 | 285,604.00
Mary Hall Freedom House, Inc./Higher Ground—Phase III | 8995 Roswell Road | Sandy Springs | GA | 30350 | 287,848.00
Georgia Housing and Finance Authority/Atlanta HMIS Renewal FY2017 | 60 Executive Park South, NE | Atlanta | GA | 30329 | 289,884.00
Travelers Aid of Metropolitan Atlanta, Inc./Atlanta PSH 2017 | 34 Peachtree Street NW, Suite 700 | Atlanta | GA | 30303 | 296,694.00
Georgia Housing and Finance Authority/Douglas CSB S+CR4 | 60 Executive Park South, NE | Atlanta | GA | 30329 | 297,970.00
Georgia Housing and Finance Authority/New Horizons CSB S+CR | 60 Executive Park South, NE | Atlanta | GA | 30329 | 303,059.00
Georgia Housing and Finance Authority/River Edge CSB S+CR5 | 60 Executive Park South, NE | Atlanta | GA | 30329 | 305,441.00
Georgia Housing and Finance Authority/Quest 35 S+CR | 60 Executive Park South, NE | Atlanta | GA | 30329 | 309,316.00
Partners for HOME/Atlanta CoC Integrated Care PSH | 100 Edgewood Avenue | Atlanta | GA | 30303 | 328,305.00
Quest Community Development Organization f/k/a Quest 35, Inc./Quest Communities PH25 | 878 Rock St NW | Atlanta | GA | 30314 | 339,714.00
Georgia Housing and Finance Authority/McIntosh Trail CSB S+CR1 | 60 Executive Park South, NE | Atlanta | GA | 30329 | 342,996.00
CHRIS 180/Changing Directions Through Collaboration | 1017 Fayetteville Road 4045643402 | Atlanta | GA | 30316 | 345,000.00
Georgia Housing and Finance Authority/Unison BHS S+CR | 60 Executive Park South, NE | Atlanta | GA | 30329 | 349,061.00
Georgia Housing and Finance Authority/Welcome House S+CR | 60 Executive Park South, NE | Atlanta | GA | 30329 | 351,631.00
Georgia Housing and Finance Authority/Union Mission (Savannah) S+CR—Chatham | 60 Executive Park South, NE | Atlanta | GA | 30329 | 356,909.00
Georgia Housing and Finance Authority/Dekalb CSB DEK S+CR | 60 Executive Park South, NE | Atlanta | GA | 30329 | 366,978.00
Georgia Housing and Finance Authority/South GA CSB S+CR | 60 Executive Park South, NE | Atlanta | GA | 30329 | 371,171.00
Georgia Housing and Finance Authority/Carrollton Housing Authority S+CR | 60 Executive Park South, NE | Atlanta | GA | 30329 | 377,011.00
CaringWorks, Inc./MOVE SHP | 2785 Lawrenceville Highway, Suite 205 | Decatur | GA | 30033 | 387,725.00
Travelers Aid of Metropolitan Atlanta, Inc./DeKalb PSH 2017 | 34 Peachtree Street NW, Suite 700 | Atlanta | GA | 30303 | 390,248.00
Gateway Behavioral Health Services/Brunswick Homeless Non-custodial Disabled Men's Project | 500 Coastal Village Drive | Brunswick | GA | 31520 | 398,230.00
Cobb County Community Services Board/Cobb County New Renewal | 3830 S. Cobb Drive, Suite 300 | Smyrna | GA | 30080 | 403,000.00
Zion Hill Community Development Corporation/Young Adult Supportive Housing Program | 2741 Bayard Street | East Point | GA | 30344 | 407,123.00
Chatham-Savannah Authority for the Homeless/Unified Case Management FY 2017 | 761 Wheaton Street | Savannah | GA | 31401 | 410,592.00
Nicholas House Inc/New Horizons | P.O. Box 15577 | Atlanta | GA | 30333 | 411,064.00
Project Community Connections, Inc./PCCI Rapid Re-Housing City of Atlanta | 302 Decatur Street SE | Atlanta | GA | 30312 | 415,373.00
Fulton County Board of Commissioners/GA-502 Coordinated Intake and Assessment System FY2017 | 137 Peachtree Street | Atlanta | GA | 30303 | 433,204.00
The Center for Family Resources/Multi-Agency Group RRH | 995 Roswell Street, Suite 100 | Marietta GA | GA | 30060 | 463,566.00
St. Jude's Recovery Center, Inc./Project Open Arms | 139 Renaissance Parkway, NE | Atlanta | GA | 30308 | 484,469.00
Georgia Housing and Finance Authority/Viewpoint Health S+CR2 | 60 Executive Park South, NE | Atlanta | GA | 30329 | 485,658.00
Action Ministries, Inc./Balance of State Rapid Re-housing | 1700 Century Circle NE, Suite 200 | Atlanta | GA | 30345 | 507,706.00
Georgia Coalition Against Domestic Violence/GCADV Rapid Re-housing for Victims of Domestic Violence | 114 New Street, Suite B | Decatur | GA | 30030 | 513,666.00
Project Community Connections, Inc./PCCI Rapid Re-Housing BoS2 | 302 Decatur Street SE | Atlanta | GA | 30312 | 525,042.00
Georgia Department of Community Affairs/CoC Planning Project Application FY2017 | 60 Executive Park South, NE | Atlanta | GA | 30329 | 553,937.00
Georgia Housing and Finance Authority/URDC BoS S+CR | 60 Executive Park South, NE | Atlanta | GA | 30329 | 603,697.00
Action Ministries, Inc./DeKalb Rapid Re-housing II | 1700 Century Circle NE, Suite 200 | Atlanta | GA | 30345 | 607,968.00
Georgia Housing and Finance Authority/Douglas CSB S+CR2 | 60 Executive Park South, NE | Atlanta | GA | 30329 | 640,288.00
Georgia Housing and Finance Authority/Gateway BHS S+CR | 60 Executive Park South, NE | Atlanta | GA | 30329 | 648,225.00
Georgia Housing and Finance Authority/GHFA Statewide HMIS Renewal FY2017 | 60 Executive Park South, NE | Atlanta | GA | 30329 | 663,400.00
City of Savannah, Georgia/City of Savannah-54 Units CoC Project—FY2017 | P.O. Box 1027 | Savannah | GA | 31402 | 693,715.00
Georgia Housing and Finance Authority/River Edge CSB S+CR3 | 60 Executive Park South, NE | Atlanta | GA | 30329 | 696,560.00
CaringWorks, Inc./CaringWorks RISE Atlanta | 2785 Lawrenceville Highway, Suite 205 | Decatur | GA | 30033 | 696,822.00
Georgia Housing and Finance Authority/River Edge CSB S+CR | 60 Executive Park South, NE | Atlanta | GA | 30329 | 720,258.00
Housing Authority of Savannah/SHELTER PLUS CARE | 200 East Broad Street, P.O. Box 1179 | Savannah | GA | 31402 | 1,123,474.00
Government of Guam/Guam Housing & Urban Renewal Authority/GU-500 CoC Planning Application FY2017 | 117 Bien Venida Avenue | Sinajana | GU | 96910 | 41,076.00
Government of Guam/Guam Housing & Urban Renewal Authority/Y Jahame Permanent Housing Program | 117 Bien Venida Avenue | Sinajana | GU | 96910 | 68,261.00
Government of Guam/Guam Housing & Urban Renewal Authority/Y Jahame Permanent Housing Program Expansion | 117 Bien Venida Avenue | Sinajana | GU | 96910 | 83,517.00
Government of Guam/Guam Housing & Urban Renewal Authority/HMIS | 117 Bien Venida Avenue | Sinajana | GU | 96910 | 117,146.00
Government of Guam/Guam Housing & Urban Renewal Authority/Empowered Together | 117 Bien Venida Avenue | Sinajana | GU | 96910 | 133,236.00
Government of Guam/Guam Housing & Urban Renewal Authority/Housing First Rental Assistance Program | 117 Bien Venida Avenue | Sinajana | GU | 96910 | 325,623.00
Government of Guam/Guam Housing & Urban Renewal Authority/Guma Hinemlo' | 117 Bien Venida Avenue | Sinajana | GU | 96910 | 326,917.00
Steadfast Housing Development Corporation/Kaahele Group Home 2017 | 888 Iwilei Road, Suite 250 | Honolulu | HI | 96817 | 25,655.00
Hawaii Department of Human Services/FLC S+C 1 FY2017 | 1010 Richards St., Ste. 312 | Honolulu | HI | 96813 | 28,218.00
Hawaii Department of Human Services/Hawaii HMIS 31,131 FY2017 | 1010 Richards St., Ste. 312 | Honolulu | HI | 96813 | 31,131.00
Steadfast Housing Development Corporation/Kaulana Group Home 2017 | 888 Iwilei Road, Suite 250 | Honolulu | HI | 96817 | 40,555.00
Hawaii Department of Human Services/HMIS Analysis and Dissemination Project FY2017 | 1010 Richards St., Ste. 312 | Honolulu | HI | 96813 | 41,160.00
Hawaii Department of Human Services/HIHR PH 2 FY2017 | 1010 Richards St., Ste. 312 | Honolulu | HI | 96813 | 42,341.00
Steadfast Housing Development Corporation/Kulalani Group Home 2017 | 888 Iwilei Road, Suite 250 | Honolulu | HI | 96817 | 42,736.00
Hawaii Department of Human Services/HI-500 BTG Planning Project FY2017 | 1010 Richards St., Ste. 312 | Honolulu | HI | 96813 | 64,597.00
Hawaii Department of Human Services/New HMIS FY2017 | 1010 Richards St., Ste. 312 | Honolulu | HI | 96813 | 68,914.00
Hawaii Department of Human Services/HOPE Rapid Re-housing Project FY2017 | 1010 Richards St., Ste. 312 | Honolulu | HI | 96813 | 70,050.00
Hawaii Department of Human Services/HIHR PH 3 FY2017 | 1010 Richards St., Ste. 312 | Honolulu | HI | 96813 | 70,660.00
Child and Family Service/Continuum of Care Domestic Abuse Shelter & Transitional Housing Oahu FY2017 | 91-1841 Fort Weaver Road | Ewa Beach | HI | 96706 | 79,580.00
Hawaii Department of Human Services/Family Life Center S+C 3 FY2017 | 1010 Richards St., Ste. 312 | Honolulu | HI | 96813 | 93,892.00
Steadfast Housing Development Corporation/Ekolu Group Homes 2017 | 888 Iwilei Road, Suite 250 | Honolulu | HI | 96817 | 117,967.00
Hawaii Department of Human Services/Hawaii HMIS 124,462 FY2017 | 1010 Richards St., Ste. 312 | Honolulu | HI | 96813 | 124,462.00
City and County of Honolulu/IHS Home Sweet Home II 2017 | 715 South King Street, Suite 311 | Honolulu | HI | 96813 | 130,083.00
Hawaii Department of Human Services/FLC S+C 1 Expansion FY2017 | 1010 Richards St., Ste. 312 | Honolulu | HI | 96813 | 133,694.00
United States Veterans Initiative, Inc/Kalaeloa Permanent Housing for Veterans with Disabilities | Bldg 37, Shangrila Road | Kapolei | HI | 96707 | 143,414.00
Hawaii Department of Human Services/HOPE Continuum of Care II FY2017 | 1010 Richards St., Ste. 312 | Honolulu | HI | 96813 | 163,829.00
Hawaii Department of Human Services/HIHR PH 1 FY2017 | 1010 Richards St., Ste. 312 | Honolulu | HI | 96813 | 184,394.00
Steadfast Housing Development Corporation/Headway House 2017 | 888 Iwilei Road, Suite 250 | Honolulu | HI | 96817 | 209,745.00
United States Veterans Initiative, Inc/Permanent Supportive Housing for Chronically Homeless Veterans and Families | Bldg 37, Shangrila Road | Kapolei | HI | 96707 | 217,657.00
City and County of Honolulu/IHS PSH 2017 | 715 South King Street, Suite 311 | Honolulu | HI | 96813 | 219,843.00
Alternative Structures International/Youth Rapid Rehousing Collaborative 2017 Bonus Project | 86-660 Lualualei Homestead Road | Waianae | HI | 96792 | 260,839.00
Hawaii Department of Human Services/Family Life Center S+C 2 FY2017 | 1010 Richards St., Ste. 312 | Honolulu | HI | 96813 | 266,797.00
Aloha United Way/HI-501 CoC Planning Application FY2017 | 200 N. Vineyard Blvd., Suite 700 | Honolulu | HI | 96817 | 272,999.00
City and County of Honolulu/IHS NPLH 2017 | 715 South King Street, Suite 311 | Honolulu | HI | 96813 | 295,315.00
Aloha United Way/AUW 211 CES | 200 N. Vineyard Blvd., Suite 700 | Honolulu | HI | 96817 | 300,000.00
City and County of Honolulu/IHS YRRH 2017 | 715 South King Street, Suite 311 | Honolulu | HI | 96813 | 316,742.00
Alternative Structures International/Family PSH Leeward Oahu Year 2 | 86-660 Lualualei Homestead Road | Waianae | HI | 96792 | 319,141.00
United States Veterans Initiative, Inc/Leeward Permanent Supportive Housing | Bldg 37, Shangrila Road | Kapolei | HI | 96707 | 319,221.00
Hawaii Department of Human Services/Kukui FY2017 | 1010 Richards St., Ste. 312 | Honolulu | HI | 96813 | 508,237.00
Hawaii Department of Human Services/Eha FY2017 | 1010 Richards St., Ste. 312 | Honolulu | HI | 96813 | 532,084.00
Mental Health Kokua/Safe Haven | 1221 Kapiolani Blvd., Suite 345 | Honolulu | HI | 96814 | 829,228.00
City and County of Honolulu/CONSOLIDATED PH 2017 | 715 South King Street, Suite 311 | Honolulu | HI | 96813 | 5,197,316.00
YWCA Clinton/YWCA Rapid Rehousing Expansion Project | 317 7th Avenue South | Clinton | IA | 52732 | 7,276.00
Community Housing Initiatives, Inc./Permanent Housing Expansion | 915 W. 4th Street | Waterloo | IA | 50702 | 10,205.00
Humility of Mary Shelter, Inc./Permanent Supportive Housing for Chronically Homeless Expansion Project | 1016 W. 5th | Davenport | IA | 52802 | 11,315.00
Cedar Valley Friends of the Family/Turning Point Rural Housing Project | P.O. Box 784 123 21st St. Nw | Waverly | IA | 50677 | 26,904.00
Hawkeye Area Community Action Program, Inc./HACAP Housing First | 1515 Hawkeye Drive, P.O. Box 490 | Hiawatha | IA | 52233 | 34,465.00
Crisis Intervention Services/Pathway 2 Independence | 500 High Ave West | Oskaloosa | IA | 52577 | 36,855.00
Institute for Community Alliances/Iowa's Continuum Outcome and Universal Needs Toolkit (Siouxland HMIS) 2017 | 1111 9th Street, Suite 245 | Des Moines | IA | 50314 | 43,156.00
Hillcrest Family Services/Hillcrest Supportive Housing Program | 2005 Asbury Road | Dubuque | IA | 52001 | 46,590.00
Crittenton Center/Project Help PSH | 814 Pierce St., Suite 100, P.O. Box 295 | Sioux City | IA | 51102 | 51,045.00
Hawkeye Area Community Action Program, Inc./Eastern Iowa Regional Rapid Rehousing II | 1515 Hawkeye Drive, P.O. Box 490 | Hiawatha | IA | 52233 | 54,094.00
Shelter House Community Shelter and Transition Services/Shelter House Rapid Rehousing Renewal Expansion | 429 Sousthgate Avenue, P.O. Box 3146 | Iowa City | IA | 52244 | 55,117.00
Humility of Mary Shelter, Inc./Housing First | 1016 W. 5th | Davenport | IA | 52802 | 68,156.00
YWCA Clinton/YWCA Rapid Rehousing | 317 7th Avenue South | Clinton | IA | 52732 | 71,899.00
City of Des Moines/PHC_RRH(S&F)2_2017 | 602 Robert D. Ray Drive | Des Moines | IA | 50309 | 73,653.00
City of Des Moines/Primary Rapid Rehousing(2) 2017 | 602 Robert D. Ray Drive | Des Moines | IA | 50309 | 78,183.00
City of Dubuque/Phoenix Housing Special Needs Assistance | 350 West 6th Street, Suite 312 | Dubuque | IA | 52001 | 82,411.00
Hawkeye Area Community Action Program, Inc./Eastern Iowa Regional Rapid Rehousing | 1515 Hawkeye Drive, P.O. Box 490 | Hiawatha | IA | 52233 | 99,705.00
City of Des Moines/IA-502 CoC Planning Project 2017 | 602 Robert D. Ray Drive | Des Moines | IA | 50309 | 100,070.00
Community Housing Initiatives, Inc./Permanent Housing | 915 W. 4th Street | Waterloo | IA | 50702 | 102,111.00
City of Des Moines/West Des Moines Rapid Rehousing 2017 | 602 Robert D. Ray Drive | Des Moines | IA | 50309 | 102,256.00
Area Substance Abuse Council, Inc/Hightower Place Women and Children Transitional Program | 250 20th Avenue North, Suite 250 | Clinton | IA | 52732 | 106,208.00
City of Des Moines/Iowa Institute HMIS 2017 | 602 Robert D. Ray Drive | Des Moines | IA | 50309 | 108,419.00
Humility of Mary Shelter, Inc./Permanent Supportive Housing for Chronically Homeless | 1016 W. 5th | Davenport | IA | 52802 | 119,766.00
Community Action Agency of Siouxland/Crossroads Shelter | 2700 Leech Ave | Sioux City | IA | 51106 | 124,292.00
Center For Siouxland/Bridges West Transitional Housing | 715 Douglas St | Sioux City | IA | 51101 | 130,609.00
Youth and Shelter Services, Inc/New Hope Transitional Living Program | 420 Kellogg Ave P.O. Box 1628 | Ames | IA | 50010 | 132,205.00
City of Des Moines/PHC_CI_2017 | 602 Robert D. Ray Drive | Des Moines | IA | 50309 | 147,882.00
City of Des Moines/IHYC Youth Rapid Rehousing 2017 | 602 Robert D. Ray Drive | Des Moines | IA | 50309 | 155,706.00
Crisis Intervention & Advocacy Center/STAARS | 911 Court Street | Adel | IA | 50003 | 161,945.00
Muscatine Center for Social Action (MCSA)/MCSA Rapid Rehousing Initiative | 312 Iowa Avenue | Muscatine | IA | 52761 | 179,099.00
Cedar Valley Friends of the Family/Rapid Housing Initiative of North Iowa | P.O. Box 784, 123 21st ST NW | Waverly | IA | 50677 | 182,035.00
Hawkeye Area Community Action Program, Inc./HUD V Rapid Rehousing | 1515 Hawkeye Drive, P.O. Box 490 | Hiawatha | IA | 52233 | 186,378.00
Institute for Community Alliances/Siouxland Coordinated Entry 2017 | 1111 9th Street, Suite 245 | Des Moines | IA | 50314 | 186,608.00
Council on Sexual Assault & DomesticViolence/Rapid Rehousing | 1723 Grandview Blvd | Sioux City | IA | 51105 | 186,822.00
Youth and Shelter Services, Inc/Lighthouse Transitional Living Program | 420 Kellogg Ave., P.O. Box 1628 | Ames | IA | 50010 | 194,737.00
City of Des Moines/Primary Health Care Rapid Rehousing (1) 2017 | 602 Robert D. Ray Drive | Des Moines | IA | 50309 | 196,980.00
Cedar Valley Friends of the Family/Northeast Iowa Permanent Housing Program | P.O. Box 784, 123 21st St. Nw | Waverly | IA | 50677 | 206,692.00
City of Des Moines/AnawimPSH(1)H2H2017 | 602 Robert D. Ray Drive | Des Moines | IA | 50309 | 208,208.00
Humility of Mary Shelter, Inc./Rapid Rehousing | 1016 W. 5th | Davenport | IA | 52802 | 224,129.00
Iowa Finance Authority/IA-501 CoC Planning Application FY2017 | 2015 Grand Avenue | Des Moines | IA | 50312 | 224,470.00
Family Alliance for Veterans of America, Inc./Passport to Independence | 100 N. Clark Street | Forest City | IA | 50436 | 230,280.00
Shelter House Community Shelter and Transition Services/Shelter House FUSE-Housing First | 429 Sousthgate Avenue, P.O. Box 3146 | Iowa City | IA | 52244 | 233,489.00
Cedar Valley Friends of the Family/Turning Point Rural Housing Project | P.O. Box 784 123 21st ST NW | Waverly | IA | 50677 | 264,946.00
City of Des Moines/Anawim II 2017 | 602 Robert D. Ray Drive | Des Moines | IA | 50309 | 271,711.00
City of Des Moines/IHYC_TH&RRH_2017 | 602 Robert D. Ray Drive | Des Moines | IA | 50309 | 295,557.00
City of Des Moines/Anawim HOP(2) 2017 | 602 Robert D. Ray Drive | Des Moines | IA | 50309 | 320,090.00
Hawkeye Area Community Action Program, Inc./HACAP Housing First | 1515 Hawkeye Drive, P.O. Box 490 | Hiawatha | IA | 52233 | 343,264.00
Institute for Community Alliances/Iowa's Continuum Outcome and Universal Needs Toolkit (BOS HMIS) 2017 | 1111 9th Street, Suite 245 | Des Moines | IA | 50314 | 346,578.00
Hawkeye Area Community Action Program, Inc./Iowa Balance of State Coordinated Entry Project | 1515 Hawkeye Drive, P.O. Box 490 | Hiawatha | IA | 52233 | 400,000.00
City of Des Moines/AnawimPSH(1) HOP 2017 | 602 Robert D. Ray Drive | Des Moines | IA | 50309 | 444,065.00
Shelter House Community Shelter and Transition Services/Shelter House Rapid Rehousing Services | 429 Sousthgate Avenue, P.O. Box 3146 | Iowa City | IA | 52244 | 527,129.00
City of Des Moines/Anawim S+C 2017 | 602 Robert D. Ray Drive | Des Moines | IA | 50309 | 912,911.00
Charitable Assistance To Community's Homeless, Inc./Boise City/Ada County Coordinated Entry | 503 S Americana Blvd | Boise | ID | 83702 | 18,000.00
Boise City/ID-500 CoC Planning Application FY2017 | 150 N Capitol Blvd | Boise | ID | 83702 | 26,233.00
Idaho Housing and Finance Association/Healing House Permanent Housing | P.O. Box 7899, 565 W. Myrtle St | Boise | ID | 83707 | 26,612.00
Idaho Housing and Finance Association/Square One Rapid Rehousing | P.O. Box 7899, 565 W. Myrtle St | Boise | ID | 83707 | 33,155.00
Idaho Housing and Finance Association/Hand of Hope Rapid Rehousing | P.O. Box 7899, 565 W. Myrtle St | Boise | ID | 83707 | 64,956.00
Idaho Housing and Finance Association/Statewide HMIS | P.O. Box 7899, 565 W. Myrtle St | Boise | ID | 83707 | 70,431.00
Idaho Housing and Finance Association/SEICAA Manor Permanent Housing | P.O. Box 7899, 565 W. Myrtle St | Boise | ID | 83707 | 72,075.00
Idaho Housing and Finance Association/2017 Balance of State Planning Grant | P.O. Box 7899, 565 W. Myrtle St | Boise | ID | 83707 | 80,615.00
Idaho Housing and Finance Association/Idaho Falls Permanent Housing | P.O. Box 7899, 565 W. Myrtle St | Boise | ID | 83707 | 88,624.00
Idaho Housing and Finance Association/HMIS Expansion | P.O. Box 7899, 565 W. Myrtle St | Boise | ID | 83707 | 88,655.00
Idaho Housing and Finance Association/Building Bridges Permanent Housing | P.O. Box 7899, 565 W. Myrtle St | Boise | ID | 83707 | 88,684.00
Charitable Assistance To Community's Homeless, Inc./CATCH of Ada County Rapid Re-housing | 503 S Americana Blvd | Boise | ID | 83702 | 90,966.00
Idaho Housing and Finance Association/Woodruff House Permanent Housing | P.O. Box 7899, 565 W. Myrtle St | Boise | ID | 83707 | 94,539.00
Idaho Housing and Finance Association/Angel Arms Permanent Housing | P.O. Box 7899, 565 W. Myrtle St | Boise | ID | 83707 | 105,725.00
Idaho Housing and Finance Association/Pocatello Rapid Rehousing | P.O. Box 7899, 565 W. Myrtle St | Boise | ID | 83707 | 107,606.00
Idaho Housing and Finance Association/Nearly Home Rapid Rehousing | P.O. Box 7899, 565 W. Myrtle St | Boise | ID | 83707 | 111,777.00
Idaho Housing and Finance Association/Project Warmth Permanent Housing | P.O. Box 7899, 565 W. Myrtle St | Boise | ID | 83707 | 111,812.00
Idaho Housing and Finance Association/Healing Hearts Permanent Housing | P.O. Box 7899, 565 W. Myrtle St | Boise | ID | 83707 | 113,843.00
Idaho Housing and Finance Association/Angel Arms for Families Permanent Housing | P.O. Box 7899, 565 W. Myrtle St | Boise | ID | 83707 | 123,460.00
Idaho Housing and Finance Association/Magic Valley Rapid Rehousing | P.O. Box 7899, 565 W. Myrtle St | Boise | ID | 83707 | 132,142.00
Idaho Housing and Finance Association/First Step Permanent Housing | P.O. Box 7899, 565 W. Myrtle St | Boise | ID | 83707 | 138,648.00
Idaho Housing and Finance Association/Coordinated Entry Expansion | P.O. Box 7899, 565 W. Myrtle St | Boise | ID | 83707 | 145,112.00
Idaho Housing and Finance Association/Your Front Door Rapid Rehousing | P.O. Box 7899, 565 W. Myrtle St | Boise | ID | 83707 | 163,510.00
Idaho Housing and Finance Association/Eagle Pointe Permanent Housing | P.O. Box 7899, 565 W. Myrtle St | Boise | ID | 83707 | 167,517.00
Idaho Housing and Finance Association/Balance of State Coordinated Entry | P.O. Box 7899, 565 W. Myrtle St | Boise | ID | 83707 | 175,500.00
Ada County Housing Authority/Shelter Plus Care Region IV | 1276 W. River St., Suite #300 | Boise | ID | 83702 | 198,778.00
Idaho Housing and Finance Association/Statewide Shelter + Care | P.O. Box 7899 565 W. Myrtle St | Boise | ID | 83707 | 496,258.00
Ada County Housing Authority/Coordinated Housing Options and Individualized Services (CHOIS) | 1276 W. River St., Suite #300 | Boise | ID | 83702 | 582,143.00
Turning Point, Inc./Rapid Rehousing for DV Survivors | 11019 US Route 14 | Woodstock | IL | 60098 | 1,462.00
South Side Office of Concern/Monroe Manor | 202 NE Madison Avenue | Peoria | IL | 61602 | 11,777.00
I-PLUS/CTI-RP Representative Payee | 3001 Green Bay Road, Building 9, Room 100 | North Chicago | IL | 60064 | 12,697.00
Carver Community Action Agency/Carver Transitional Housing | 311 East Main St, 7th Floor | Galesburg | IL | 61401 | 16,446.00
South Side Office of Concern/HHH | 202 NE Madison Avenue | Peoria | IL | 61602 | 16,626.00
Catholic Charities of the Archdiocese of Chicago/Rapid Rehousing | 721 N. LaSalle St., 5th Floor | Chicago | IL | 60654 | 17,346.00
Decatur Housing Authority/CH Leasing 07 | 1808 East Locust St | Decatur | IL | 62521 | 18,198.00
M.E.R.C.Y. Communities Inc/M.E.R.C.Y. Communities Permanent Supportive Housing for Families 2 | 1344 N. 5th Street | Springfield | IL | 62702 | 18,803.00
YWCA of Quincy of Ill/CoC Planning | 639 York St., Ste. 202 | Quincy | IL | 62301 | 18,953.00
Dove, Inc./HL Leasing 10 | 302 S. Union St | Decatur | IL | 62522 | 19,181.00
Champaign County Regional Planning Commission/Centralized Intake—2017 | 1776 East Washington Street | Urbana | IL | 61802 | 19,342.00
B.C.M.W. Community Services Inc/Stepping Stones Transitional Housing | 909 East Rexford | Centralia | IL | 62801 | 19,970.00
Champaign County Regional Planning Commission/IL503 Planning—2017 | 1776 East Washington Street | Urbana | IL | 61802 | 20,654.00
The Women's Center/Transitional Housing for Survivors | 610 S. Thompson | Carbondale | IL | 62901 | 21,436.00
South Side Office of Concern/NewHope IV | 202 NE Madison Avenue | Peoria | IL | 61602 | 21,532.00
MCS Community Services/MCS Permanent Supportive Housing Program | 345 West State Street | Jacksonville | IL | 62650 | 21,659.00
Youth Service Bureau/Permanent Supportive Housing For Chronic Homeless Older Adolescents | 2901 Normandy Road | Springfield | IL | 62703 | 22,493.00
Dove, Inc./Macon County Planning Project FY2017 | 302 S. Union St | Decatur | IL | 62522 | 23,033.00
City of Bloomington/Mayors Manor S+C | P.O. Box 3157, 109 E. Olive | Bloomington | IL | 61702 | 23,853.00
Thresholds Inc/McHenry Rebecca Susan Apartments | 4101 N. Ravenswood | Chicago | IL | 60613 | 25,523.00
Thresholds Inc/Low-Income Housing Trust Fund Chronic Homeless (Thresholds) 2 | 4101 N. Ravenswood | Chicago | IL | 60613 | 25,561.00
DuPage P.A.D.S., Inc./Carol's Place Expansion | 601 W Liberty Dr | Wheaton | IL | 60187 | 26,241.00
Fifth Street Renaissance/FSR PSH Vets | 1315 North Fifth Street, P.O. Box 5181 | Springfield | IL | 62705 | 26,774.00
YWCA of Quincy of Ill/Permanent Supportive Housing D | 639 York St., Ste. 202 | Quincy | IL | 62301 | 27,506.00
McHenry County/FY 2017 McHenry County CoC Planning Project | 2200 Seminary Avenue | Woodstock | IL | 60098 | 28,464.00
Rosecrance Inc/FY2017 Rosecrance Chronic PH Reallocated Renewal | 1021 N. Mulford Rd | Rockford | IL | 61107 | 29,534.00
Rosecrance Inc/FY2017 Shelter Plus Care 2007 Renewal | 1021 N. Mulford Rd | Rockford | IL | 61107 | 29,535.00
Rosecrance Inc/FY2017 Shelter Plus Care 2011 Renewal | 1021 N. Mulford Rd | Rockford | IL | 61107 | 29,595.00
Hope Haven of DeKalb County, Inc./Housing First | 1145 Rushmoore Drive | DeKalb | IL | 60115 | 29,704.00
YWCA of Quincy of Ill/Permanent Supportive Housing C | 639 York St., Ste. 202 | Quincy | IL | 62301 | 29,877.00
Embarras River Basin Agency, Inc./CoC Planning Project 2017 | 400 W. Pleasant, P.O. Box 307 | Greenup | IL | 62428 | 30,628.00
Cornerstone Services, Inc./PSH A Renewal 2017 | 777 Joyce Road | Joliet | IL | 60436 | 31,661.00
Carpenter's Place/FY2017 Carpenters Place PSH Chronic Reallocated Renewal | 1149 Railroad Ave | Rockford | IL | 61104 | 31,972.00
Champaign County Regional Planning Commission/HMIS—2017 | 1776 East Washington Street | Urbana | IL | 61802 | 32,157.00
Shelter Care Ministries/FY2017 SCM Chronic Reallocated PSH Renewal | 412 N. Church St | Rockford | IL | 61103 | 33,690.00
City of Bloomington/CoC Coordinated Entry | P.O. Box 3157, 109 E. Olive | Bloomington | IL | 61702 | 33,792.00
Public Action to Deliver Shelter, Inc./LIGHT—House 5 Expansion | 659 South River Street | Aurora | IL | 60506 | 33,864.00
Fifth Street Renaissance/Fifth Street Renaissance PSH6 | 1315 North Fifth Street, P.O. Box 5181 | Springfield | IL | 62705 | 37,279.00
Champaign County Regional Planning Commission/Centralized Intake P/T—2017 | 1776 East Washington Street | Urbana | IL | 61802 | 37,348.00
Stopping Woman Abuse Now/Transitional Housing Project | P.O. Box 176, 1114 South West Street | Olney | IL | 62450 | 37,364.00
M.E.R.C.Y. Communities Inc/M.E.R.C.Y. Communities Chronically Homeless Families | 1344 N. 5th Street | Springfield | IL | 62702 | 37,432.00
Lake County/Lake County Haven | 500 W. Winchester Road, Unit 101 | Libertyville | IL | 60048 | 37,758.00
McHenry County/McHenry County Homeless Management Information System | 2200 Seminary Avenue | Woodstock | IL | 60098 | 38,000.00
PADS Lake County, Inc./PADS Coordinated Entry System | 1800 Grand Avenue | Waukegan | IL | 60085 | 39,000.00
Lazarus House/PH5 | 214 Walnut St | St. Charles | IL | 60174 | 40,209.00
Champaign County Regional Planning Commission/Shelter Plus Care-III—2017 | 1776 East Washington Street | Urbana | IL | 61802 | 41,415.00
Shelter Care Ministries/FY2017 SCM Rapid Rehousing One Renewal | 412 N. Church St | Rockford | IL | 61103 | 41,752.00
City of Bloomington/CoC Planning | P.O. Box 3157, 109 E. Olive | Bloomington | IL | 61702 | 43,217.00
St. Clair County/Reach for Recovery | 19 Public Square, Suite 200 | Belleville | IL | 62220 | 43,982.00
St. Clair County/Home at Last | 19 Public Square, Suite 200 | Belleville | IL | 62220 | 43,996.00
ReVive Center for Housing and Healing/Supportive Service GAP Program | 1668 W. Ogden Ave. | Chicago | IL | 60612 | 45,468.00
DuPage County Health Department/Homecomings | 111 N. County Farm Rd., N/A | Wheaton | IL | 60187 | 45,685.00
Dove, Inc./CH Leasing 13 | 302 S. Union St | Decatur | IL | 62522 | 46,034.00
Turning Point, Inc./Rapid Rehousing for DV Survivors (Bonus renewal) | 11019 US Route 14 | Woodstock | IL | 60098 | 47,126.00
Kane County, Illinois/CoC Planning Project FY2017 | 719 Batavia Avenue | Geneva | IL | 60134 | 47,267.00
Decatur Housing Authority/Decatur CoC Rental Project | 1808 East Locust St | Decatur | IL | 62521 | 47,365.00
Champaign County Regional Planning Commission/PSH-PD—2017 | 1776 East Washington Street | Urbana | IL | 61802 | 47,981.00
Inspiration Corporation/Low Income Housing Trust Fund Chronic Homeless (IC) | 4554 North Broadway Street, Suite 207 | Chicago | IL | 60640 | 48,020.00
Hope Haven of DeKalb County, Inc./Rapid Re-housing | 1145 Rushmoore Drive | DeKalb | IL | 60115 | 48,422.00
St. Clair County/Road Home | 19 Public Square, Suite 200 | Belleville | IL | 62220 | 48,772.00
Bethany Place/Bethany Place Transitional Housing | 821 West A St | Belleville | IL | 62220 | 49,568.00
C.E.F.S. Economic Opportunity Corporation/Permanent Supportive Housing 18-19 | 1805 South Banker Street | Effingham | IL | 62401 | 49,818.00
AFC-Community Development Corporation/Low Income Housing Trust Fund 2 (Ambassadors For Christ) | 7859 S. Ashland Avenue | Chicago | IL | 60620 | 49,826.00
Shelter Care Ministries/FY 2017 SCM PSH Disability Renewal | 412 N. Church St | Rockford | IL | 61103 | 50,608.00
St. Clair County/St. Clair County HMIS | 19 Public Square, Suite 200 | Belleville | IL | 62220 | 50,952.00
Southern Illinois Coalition for the Homeless/Transitional Housing 2 | 801 N. Market St., P.O. Box 955 | Marion | IL | 62959 | 51,852.00
Heart of Illinois United Way/CoC Planning Project FY2017 | 509 W. High Steet | Peoria | IL | 61606 | 52,280.00
Chicago House and Social Service Agency/First Step Program (The Supportive Living Program) | 1925 N. Clybourn Ave. Suite 401 | Chicago | IL | 60614 | 52,503.00
VOICES of Stephenson County/VOICES Victim Housing Assistance | 1401 Crestwood Drive | Freeport | IL | 61032 | 52,503.00
Iroquois-Kankakee Regional Office of Education #32/Assistance to Homeless Families with Children | 1 Stuart Drive | Kankakee | IL | 60901 | 52,605.00
Youth Services Network/Rockford MELD | 107 N. 3rd. St | Rockford | IL | 61107 | 52,812.00
South Side Office of Concern/OASIS | 202 NE Madison Avenue | Peoria | IL | 61602 | 53,249.00
A Safe Haven Foundation/600 South | 2750 W Roosevelt Road | Chicago | IL | 60608 | 53,446.00
Stopping Woman Abuse Now/Continuum HMIS Project | P.O. Box 176, 1114 South West Street | Olney | IL | 62450 | 54,813.00
South Side Office of Concern/Glendale Commons II | 202 NE Madison Avenue | Peoria | IL | 61602 | 54,977.00
Madison, County of/MadCo Planning Grant 2017 | 130 Hillsboro Ave | Edwardsville | IL | 62025 | 55,159.00
Lazarus House/CTL | 214 Walnut St | St. Charles | IL | 60174 | 55,366.00
Thresholds Inc/Thresholds McHenry Rental Assistance Project | 4101 N. Ravenswood | Chicago | IL | 60613 | 55,445.00
City of Rockford/FY2017 Planning Project Application | 612 North Church St | Rockford | IL | 61103 | 56,706.00
Shelter Care Ministries/FY2017 SCM Rapid Rehousing Two Renewal | 412 N. Church St | Rockford | IL | 61103 | 56,786.00
Dove, Inc./Permanent Housing Leasing | 302 S. Union St | Decatur | IL | 62522 | 57,202.00
Catholic Charities, Diocese of Joliet/Turning Point | 1655 Weber Road | Crest Hill | IL | 60403 | 57,205.00
Chicago House and Social Service Agency/Chicago House and Social Service Agency—Shelter Plus Care | 1925 N. Clybourn Ave., Suite 401 | Chicago | IL | 60614 | 57,468.00
DuPage P.A.D.S., Inc./New Horizons | 601 W Liberty Dr | Wheaton | IL | 60187 | 58,235.00
Inspiration Corporation/Inspiration Corporation | 4554 North Broadway Street, Suite 207 | Chicago | IL | 60640 | 58,699.00
Housing Authority of the City of Rock Island/Steven's Place | 227 21st Street | Rock Island | IL | 61201 | 58,989.00
Transitional Living Services/TLS Veterans Scattered Site PSH | 5330 W. Elm Street | McHenry | IL | 60050 | 59,057.00
Facing Forward to End Homelessness/Vital Veterans | 642 N. Kedzie | Chicago | IL | 60612 | 59,326.00
Alliance to End Homelessness in Suburban Cook County/HMIS Expansion | 4415 Harrison Street, Suite 228 | Hillside | IL | 60162 | 60,000.00
Shelter Care Ministries/FY2017 SCM Veterans PSH Renewal | 412 N. Church St | Rockford | IL | 61103 | 60,312.00
Holsten Human Capital Development/Life Development Center Gap | Lawson House, 30 West Chicago Avenue | Chicago | IL | 60654 | 60,781.00
Lake County/Shelter Plus Care 2005 | 500 W. Winchester Road, Unit 101 | Libertyville | IL | 60048 | 61,061.00
Lake County/Independence Center Permanent Housing | 500 W. Winchester Road, Unit 101 | Libertyville | IL | 60048 | 61,091.00
Cornerstone Services, Inc./PSH B Renewal 2017 | 777 Joyce Road | Joliet | IL | 60436 | 61,180.00
Bethany for Children & Families/Housing Teens in Need | 1830 6th Ave | Moline | IL | 61265 | 61,649.00
Southern Illinois Coalition for the Homeless/Transhouse | 801 N. Market St., P.O. Box 955 | Marion | IL | 62959 | 61,665.00
New Life Transitoins/McHenry County Coordinated Entry New Expansion Project | 902 S Randall Rd., Suite C290 | St. Charles | IL | 60174 | 62,000.00
Lake County/Il-502 CoC Planning Application FY2017 | 500 W. Winchester Road, Unit 101 | Libertyville | IL | 60048 | 62,339.00
Bethany for Children & Families/Housing Teens Now | 1830 6th Ave | Moline | IL | 61265 | 62,945.00
Home of the Sparrow, Inc./HOS RRH Renewal | 4209 W. Shamrock Lane, Unit B | McHenry | IL | 60050 | 63,596.00
Mercy Housing Lakefront/Near North | 120 S. LaSalle, Suite 1850 | Chicago | IL | 60603 | 63,839.00
Freeport Area Church Cooperative/Hero House | 514 S. Chicago Ave | Freeport | IL | 61032 | 64,616.00
Housing Authority of Henry County/Parkside Apartments S&C FY17 Renewal | 125 N. Chestnut St | Kewanee | IL | 61443 | 66,106.00
Dove, Inc./Macon County HMIS-C | 302 S. Union St | Decatur | IL | 62522 | 66,564.00
Midwest Shelter for Homeless Veterans/Freedom Harbour | 433 S. Carlton Ave. | Wheaton | IL | 60187 | 67,016.00
DuPage County Health Department/SAIL | 111 N. County Farm Rd., N/A | Wheaton | IL | 60187 | 67,928.00
Chestnut Health Systems, Inc./Chestnut Samaritan Housing | 1003 Martin Luther King Drive | Bloomington | IL | 61701 | 72,284.00
Chestnut Health Systems, Inc./Chestnut Project Hope | 1003 Martin Luther King Drive | Bloomington | IL | 61701 | 72,783.00
Crosspoint Human Services/Rapid Re-Housing for Families | 210 Avenue C | Danville | IL | 61832 | 73,245.00
MCS Community Services/MCS-2 Permanent Supportive Housing Program | 345 West State Street | Jacksonville | IL | 62650 | 73,696.00
Heart of Illinois United Way/HOI HMIS FY2017 | 509 W. High Steet | Peoria | IL | 61606 | 74,024.00
Sarah's Circle/Case Management and Rental of Space | 4838 N. Sheridan Road | Chicago | IL | 60640 | 74,532.00
Good Samaritan Ministries—A Project of the Carbondale Interf/Transitional Housing | 701 S Marion St | Carbondale | IL | 62901 | 75,644.00
The Night Ministry/Interim Program at Open Door Shelter—West Town | 4711 N. Ravenswood Ave | Chicago | IL | 60640 | 75,674.00
Transitional Living Services/Transition to Home | 5330 W. Elm Street | McHenry | IL | 60050 | 77,060.00
Freeport Area Church Cooperative/Hope House | 514 S. Chicago Ave | Freeport | IL | 61032 | 77,211.00
The Inner Voice, Inc./Pioneer House Transitional Housing Program | 212 W Van Buren Street, Suite 300 | Chicago | IL | 60607 | 77,442.00
The Interfaith Housing Development Corporation of Chicago/Independence House | 219 W. Chicago Ave., 4th Floor | Chicago | IL | 60654 | 78,251.00
Illinois Valley Economic Development Corporation/IVEDC PH Rapid Rehousing 2017-2018 | 223 South Macoupin Street | Gillespie | IL | 62033 | 78,455.00
Affordable Housing Preservation Foundation 51st Street Y/Affordable Housing Preservation Foundation 51st Street Y | 2850 S Michigan | Chicago | IL | 60616 | 78,604.00
Thresholds Inc/McHenry AMI House | 4101 N. Ravenswood | Chicago | IL | 60613 | 78,845.00
Tri-County Opportunities Council/Permanent Supportive Housing | 405 Emmons Avenue | Rock Falls | IL | 61071 | 78,937.00
Stopping Woman Abuse Now/Permanent Housing—3 | P.O. Box 176 1114 South West Street | Olney | IL | 62450 | 79,500.00
Thresholds Inc/McHenry Castle Road | 4101 N. Ravenswood | Chicago | IL | 60613 | 81,159.00
Public Action to Deliver Shelter, Inc./LIGHT—House 6 | 659 South River Street | Aurora | IL | 60506 | 81,784.00
Public Action to Deliver Shelter, Inc./LIGHT—House 5 | 659 South River Street | Aurora | IL | 60506 | 82,974.00
Institute for Community Alliances/Rockford Winnebago Boone HMIS | 1111 9th Street, Suite 245 | Des Moines | IL | 50314 | 83,670.00
Dove, Inc./Transitional Housing Leasing | 302 S. Union St | Decatur | IL | 62522 | 84,773.00
Youth Service Bureau/Transitional Housing Program for Homeless Youth | 2901 Normandy Road | Springfield | IL | 62703 | 85,558.00
M.E.R.C.Y. Communities Inc/M.E.R.C.Y. Communities. Permanent Supportive Housing for Families | 1344 N. 5th Street | Springfield | IL | 62702 | 88,298.00
Youth Services Network/FY2017 YSN MELD Rapid Rehousing One Renewal | 107 N. 3rd. St | Rockford | IL | 61107 | 91,080.00
La Casa Norte/Solid Ground Supportive Housing | 3533 W North Avenue | Chicago | IL | 60647 | 92,715.00
St. Clair County/St. Clair County Planning Project FY2017 | 19 Public Square, Suite 200 | Belleville | IL | 62220 | 92,906.00
Dove, Inc./Decatur RRH-C | 302 S. Union St | Decatur | IL | 62522 | 93,126.00
Catholic Charities of the Archdiocese of Chicago/St Leo Residence | 721 N. LaSalle St., 5th Floor | Chicago | IL | 60654 | 94,566.00
Housing Options d.b.a. Impact Behavioral Health Partners/Claire Ganey (IL0050L5T111710) | 2100 Ridge Avenue, G320 | Evanston | IL | 60201 | 95,152.00
Southern Illinois Coalition for the Homeless/Permanent Supportive Housing | 801 N. Market St., P.O. Box 955 | Marion | IL | 62959 | 95,433.00
Lake County/HMIS | 500 W. Winchester Road, Unit 101 | Libertyville | IL | 60048 | 97,561.00
Helping Hands of Springfield, Inc./Helping Hands Permanent Supported Housing Program 2017 | 1023 E Washington St | Springfield | IL | 62703 | 97,761.00
Midwest Shelter for Homeless Veterans/Enduring Hope | 433 S. Carlton Ave | Wheaton | IL | 60187 | 98,138.00
North Side Housing and Supportive Services, Inc./Supportive Housing Program II | 4410 N. Ravenswood Ave., Suite 101 | Chicago | IL | 60640 | 98,513.00
City of Bloomington/Families and Individuals with Disabilities | P.O. Box 3157, 109 E. Olive | Bloomington | IL | 61702 | 98,544.00
Near West Side Community Development Corporation/Near West Side SHP | 216 South Hoyne | Chicago | IL | 60612 | 98,583.00
Hope Haven of DeKalb County, Inc./Dresser Court Permanent Housing Project | 1145 Rushmoore Drive | DeKalb | IL | 60115 | 98,690.00
Thresholds Inc/Thresholds Suburban Scattered Site PSH Leasing Project | 4101 N. Ravenswood | Chicago | IL | 60613 | 100,663.00
CDBG Operations Corporation/New Beginnings | 510 North 25th St. | East St. Louis | IL | 62205 | 100,882.00
South Side Office of Concern/Glendale Commons I | 202 NE Madison Avenue | Peoria | IL | 61602 | 101,730.00
Catholic Charities of the Archdiocese of Chicago/Rapid Rehousing | 721 N. LaSalle St., 5th Floor | Chicago | IL | 60654 | 103,698.00
Catholic Charities of the Archdiocese of Chicago/Rapid Rehousing | 721 N. LaSalle St., 5th Floor | Chicago | IL | 60654 | 104,001.00
Bethany Place/Bethany Place Permanent Housing | 821 West A St. | Belleville | IL | 62220 | 105,265.00
Thresholds Inc/Thresholds Lake County Leasing Project | 4101 N. Ravenswood | Chicago | IL | 60613 | 105,713.00
Chestnut Health Systems, Inc./Chestnut Connections—St. Clair | 50 Northgate Industrial Drive | Granite City | IL | 62040 | 105,880.00
WINGS Program, Inc./Permanent Housing Project | 5104 Tollview Drive | Rolling Meadows | IL | 60008 | 107,579.00
South Side Office of Concern/HOI Scattered Site Supportive Housing | 202 NE Madison Avenue | Peoria | IL | 61602 | 108,075.00
Carpenter's Place/FY2017 Carpenters Place PSH One Renewal | 1149 Railroad Ave | Rockford | IL | 61104 | 108,705.00
Will County Center for Community Concerns/CoC Planning Project FY2017 | 2455 Glenwood Avenue | Joliet | IL | 60435 | 109,494.00
Connections for the Homeless Inc./Permanent Supportive Housing 17 (EP Reallocation, Exp. 3) | 2121 Dewey Ave | Evanston | IL | 60201 | 109,739.00
Inspiration Corporation/Low Income Housing Trust Fund 2 (IC) | 4554 North Broadway Street, Suite 207 | Chicago | IL | 60640 | 111,285.00
CDBG Operations Corporation/Beacon Place | 510 North 25th St. | East St. Louis | IL | 62205 | 111,476.00
Kane County, Illinois/2017 HMIS Implementation (Project Start 07-01-2018) | 719 Batavia Avenue | Geneva | IL | 60134 | 111,945.00
North Side Housing and Supportive Services, Inc./Supportive Housing Program III | 4410 N. Ravenswood Ave., Suite 101 | Chicago | IL | 60640 | 113,498.00
Bethany for Children & Families/Housing Families NOW | 1830 6th Ave | Moline | IL | 61265 | 114,602.00
Catholic Charities, Diocese of Joliet/First Light | 1655 Weber Road | Crest Hill | IL | 60403 | 115,194.00
Catholic Charities of the Archdiocese of Chicago/N-NW CC ACMH Partner Reallocate | 721 N. LaSalle St., 5th Floor | Chicago | IL | 60654 | 115,395.00
Thresholds Inc/Salubrity House | 4101 N. Ravenswood | Chicago | IL | 60613 | 117,908.00
Chestnut Health Systems, Inc./Chestnut Family Connections | 50 Northgate Industrial Drive | Granite City | IL | 62040 | 118,750.00
Catholic Charities, Diocese of Joliet/Kendall Grundy Homeless Project | 1655 Weber Road | Crest Hill | IL | 60403 | 118,827.00
Project NOW, Inc/Permanent Supportive Housing | 418 19th Street | Rock Island | IL | 61201 | 118,838.00
Catholic Charities, Diocese of Joliet/Horizons | 1655 Weber Road | Crest Hill | IL | 60403 | 120,517.00
Christian Community Health Center/Christian Community Health Center-The Genesis Project | 9718 S. Halsted | Chicago | IL | 60628 | 121,770.00
Heartland Health Outreach, Inc./Low Income Housing Trust Fund Chronic Homeless Initiative | 4750 North Sheridan Road, Suite 500 | Chicago | IL | 60640 | 125,782.00
Southern Illinois Coalition for the Homeless/Permanent Supportive Housing 2 | 801 N. Market St., P.O. Box 955 | Marion | IL | 62959 | 126,712.00
Sarah's Circle/Low-Income Housing Trust Fund Chronic Homeless (Sarah's Circle) | 4838 N. Sheridan Road | Chicago | IL | 60640 | 126,967.00
North Side Housing and Supportive Services, Inc./Supportive Housing Program I | 4410 N. Ravenswood Ave. Suite 101 | Chicago | IL | 60640 | 127,247.00
Du Page, County Of/CoC Planning FY2017 | 421 N. County Farm Road | Wheaton | IL | 60187 | 128,502.00
Teen Living Programs, Inc./TLP Project—Belfort House | 162 W. Hubbard, Suite 400 | Chicago | IL | 60654 | 128,875.00
Project NOW, Inc/Transitional Housing Youth/Family | 418 19th Street | Rock Island | IL | 61201 | 130,000.00
Guardian Angel Community Services/Suzy's Caring Place | 168 N Ottawa St. | Joliet | IL | 60432 | 130,145.00
South Side Office of Concern/New Hope/Phoenix | 202 NE Madison Avenue | Peoria | IL | 61602 | 131,055.00
Connections for the Homeless Inc./Permanent Supportive Housing 17 (HP Reallocation, Exp 4) | 2121 Dewey Ave | Evanston | IL | 60201 | 131,423.00
Mercy Housing Lakefront/Holland Families | 120 S. LaSalle Suite 1850 | Chicago | IL | 60603 | 132,727.00
Rosecrance Inc/FY2017 Shelter Plus Care 2003 Renewal | 1021 N. Mulford Rd | Rockford | IL | 61107 | 132,907.00
Sarah's Circle/Sarah's Circle Permanent Supportive Housing | 4838 N. Sheridan Road | Chicago | IL | 60640 | 133,475.00
Together We Cope/Families First Permanent | 17010 S Oak Park Avenue | Tinley Park | IL | 60477 | 134,967.00
C.E.F.S. Economic Opportunity Corporation/RRH1: PH 18-19 (formerly TH) | 1805 South Banker Street | Effingham | IL | 62401 | 135,053.00
Cornerstone Services, Inc./Chronic 7 Renewal 2017 | 777 Joyce Road | Joliet | IL | 60436 | 135,123.00
DuPage P.A.D.S., Inc./Pathways | 601 W Liberty Dr | Wheaton | IL | 60187 | 135,348.00
City of Bloomington/McLean County Core Services | P.O. Box 3157, 109 E. Olive | Bloomington | IL | 61702 | 136,706.00
Chestnut Health Systems, Inc./Chestnut Supportive Housing | 1003 Martin Luther King Drive | Bloomington | IL | 61701 | 139,330.00
DuPage P.A.D.S., Inc./Stepping Stones | 601 W Liberty Dr | Wheaton | IL | 60187 | 139,503.00
FEATHERFIST/LOW INCOME HOUSING TRUST FUND 1 | 2255 EAST 75th STREET | CHICAGO | IL | 60649 | 140,480.00
Your Family Resource Connection/Permanent Housing for the Homeless 2017 | 201 N. Hazel Street | Danville | IL | 61832 | 141,790.00
Cornerstone Services, Inc./PSH 12 Renewal 2017 | 777 Joyce Road | Joliet | IL | 60436 | 142,031.00
YWCA of Quincy of Ill/Permanent Supportive Housing A | 639 York St., Ste. 202 | Quincy | IL | 62301 | 143,957.00
FEATHERFIST/FEATHERFIST APARTMENTS | 2255 EAST 75th STREET | CHICAGO | IL | 60649 | 144,088.00
The Night Ministry/Transitional Living Program at Open Door Shelter—West Town | 4711 N. Ravenswood Ave | Chicago | IL | 60640 | 145,681.00
Heartland Health Outreach, Inc./Assisted Permanent Housing | 4750 North Sheridan Road, Suite 500 | Chicago | IL | 60640 | 147,101.00
NORTHWEST COMPASS, INC./Community Family Homes Initiative I | 1300 WEST NORTHWEST HIGHWAY | MOUNT PROSPECT | IL | 60056 | 147,634.00
Catholic Charities of the Archdiocese of Chicago/CTI-RP Program: Case Management Component | 721 N. LaSalle St., 5th Floor | Chicago | IL | 60654 | 149,702.00
Unity Parenting & Counseling Inc./Low Income Housing Trust Fund Chronic Homelessness | 600 W. Cermak, Suite #300A | Chicago | IL | 60616 | 153,819.00
Embarras River Basin Agency, Inc./Rapid Rehousing February 1, 2018 | 400 W. Pleasant, P.O. Box 307 | Greenup | IL | 62428 | 154,530.00
Du Page, County Of/HMIS | 421 N. County Farm Road | Wheaton | IL | 60187 | 154,556.00
Home of the Sparrow, Inc./HOS Homelessness to Housing | 4209 W. Shamrock Lane, Unit B | McHenry | IL | 60050 | 156,457.00
The Center of Concern/Center of Concern Permanent Rapid Re-Housing Program | 1665 Elk Blvd | Des Plaines | IL | 60016 | 156,901.00
Renaissance Social Services, Inc./Housing Stability Program | 333 N. Oakley Blvd., Suite #101 | Chicago | IL | 60612 | 157,044.00
Housing Opportunities for Women, Inc./HOW, Inc.—Shelter Plus Care V | 1607 W. Howard Street, 3rd Floor | Chicago | IL | 60626 | 157,483.00
Catholic Charities of the Archdiocese of Chicago/Central Referral System | 721 N. LaSalle St., 5th Floor | Chicago | IL | 60654 | 162,111.00
Lazarus House/PH3 | 214 Walnut St | St. Charles | IL | 60174 | 162,378.00
Deborah's Place/Patty Crowley Apartments | 2822 W. Jackson Blvd | Chicago | IL | 60612 | 164,484.00
Public Action to Deliver Shelter, Inc./LIGHT—House | 659 South River Street | Aurora | IL | 60506 | 164,563.00
NORTHWEST COMPASS, INC./Community Family Homes Initiative IV | 1300 WEST NORTHWEST HIGHWAY | MOUNT PROSPECT | IL | 60056 | 164,780.00
Thresholds Inc/Lawson Safe Haven | 4101 N. Ravenswood | Chicago | IL | 60613 | 165,802.00
Heart of Illinois United Way/CoC Coordinated Entry FY2017 | 509 W. High Steet | Peoria | IL | 61606 | 168,031.00
Interdependent Living Solutions Center/Genesis Place | 1820 Ridge Road, Suite 302 | Homewood | IL | 60430 | 168,986.00
Call for Help, Inc./Step Up to Independence II | 9400 Lebanon Road | East St. Louis | IL | 62203 | 170,207.00
Goodwill Industries of Central Illinois/Goodwill Home for Veterans 2017 | 2319 E. War Memorial Drive | Peoria | IL | 61614 | 171,721.00
St. Clair County/Housing Resource Center | 19 Public Square, Suite 200 | Belleville | IL | 62220 | 172,667.00
Trinity Services, Inc./Trinity Services Permanent Supportive Housing | 301 Veterans Parkway | New Lenox | IL | 60451 | 173,200.00
All Chicago Making Homelessness History/HMIS Expansion | 651 W Washington, Suite #504 | Chicago | IL | 60661 | 173,283.00
Center for Prevention of Abuse/Next Step Housing Program 2017 | 720 W Joan Court | Peoria | IL | 61614 | 175,320.00
Cornerstone Services, Inc./Chronic 10 Renewal 2017 | 777 Joyce Road | Joliet | IL | 60436 | 177,342.00
Heartland Health Outreach, Inc./Bridges to Home | 4750 North Sheridan Road, Suite 500 | Chicago | IL | 60640 | 178,495.00
Ecker Center for Mental Health/Abbott | 1845 Grandstand Place | Elgin | IL | 60123 | 180,584.00
St. Clair County/Next Step Up | 19 Public Square, Suite 200 | Belleville | IL | 62220 | 181,621.00
Pioneer Center for Human Services/Jackson Lawndale GH | 4031 Dayton Street | McHenry | IL | 60050 | 182,120.00
Alexian Brothers Bonaventure House/The Harbor-PSH Expansion | 825 West Wellington Avenue | Chicago | IL | 60657 | 185,676.00
Trinity Services, Inc./Trinity Rapid Re-Housing | 301 Veterans Parkway | New Lenox | IL | 60451 | 186,008.00
La Casa Norte/IL 510 NEW Scattered Site Youth Housing | 3533 W North Avenue | Chicago | IL | 60647 | 186,847.00
Light The Way, Inc./Open Doors | 306 W. 8th St | Metropolis | IL | 62960 | 189,552.00
BREAKTHROUGH URBAN MINISTRIES, INC./Breakthrough Chronic Homeless | 402 N ST LOUIS AVE | CHICAGO | IL | 60624 | 190,782.00
Thresholds Inc/Low-Income Housing Trust Fund Chronic Homeless (Thresholds) | 4101 N. Ravenswood | Chicago | IL | 60613 | 190,860.00
Catholic Charities of the Archdiocese of Chicago/Catholic Charities—Long Term Rental Assistance | 721 N. LaSalle St., 5th Floor | Chicago | IL | 60654 | 190,961.00
Teen Living Programs, Inc./CaSSA Clustered and Scattered Site Apartments | 162 W. Hubbard, Suite 400 | Chicago | IL | 60654 | 192,855.00
Dream Center Peoria/Village Permanent Supportive Housing Program | 714 Hamilton Blvd | Peoria | IL | 61603 | 194,274.00
Thresholds Inc/Western Apartments | 4101 N. Ravenswood | Chicago | IL | 60613 | 194,508.00
Mercy Housing Lakefront/Recovery Belray Holland Singles | 120 S. LaSalle, Suite 1850 | Chicago | IL | 60603 | 195,663.00
Deborah's Place/Rebecca Johnson Apartments | 2822 W. Jackson Blvd | Chicago | IL | 60612 | 196,170.00
The Inner Voice, Inc./Eddie Beard Homeless Veterans' Transitional Housing Program | 212 W Van Buren Street, Suite 300 | Chicago | IL | 60607 | 198,608.00
Aunt Martha's Health and Wellness/Independence Place | 19990 Governors Highway | Olympia Fields | IL | 60461 | 199,988.00
La Casa Norte/Chronically Homeless Youth and Families PSH | 3533 W North Avenue | Chicago | IL | 60647 | 200,284.00
Ecker Center for Mental Health/Leasing | 1845 Grandstand Place | Elgin | IL | 60123 | 200,458.00
Healthcare Alternative Systems, Inc./Transitional Housing Program | 2755 W. Armitage Ave | Chicago | IL | 60647 | 201,477.00
C.E.F.S. Economic Opportunity Corporation/RRH2: PH 18-19 (formerly SSO) | 1805 South Banker Street | Effingham | IL | 62401 | 202,075.00
Inspiration Corporation/IC Short Term Support Housing | 4554 North Broadway Street, Suite 207 | Chicago | IL | 60640 | 203,158.00
South Side Office of Concern/Heart of Illinois Rapid Re-Housing Program | 202 NE Madison Avenue | Peoria | IL | 61602 | 203,949.00
Near West Side Community Development Corporation/Near West Side Development Corp.—Shelter Plus Care | 216 South Hoyne | Chicago | IL | 60612 | 204,765.00
Housing Options d.b.a. Impact Behavioral Health Partners/Pathways Expansion 2017 | 2100 Ridge Avenue, G320 | Evanston | IL | 60201 | 205,519.00
360 YOUTH SERVICES/Youth In Transition | 1305 W. Oswego Road | Naperville | IL | 60540 | 206,183.00
Rosecrance, Inc./PHACT Federal Year 2017 | 1021 N. Mulford Rd | Rockford | IL | 61107 | 206,453.00
Aunt Martha's Health and Wellness/Responding with Care | 19990 Governors Highway | Olympia Fields | IL | 60461 | 206,645.00
Housing Authority of the County of Cook/Shelter Plus Care Vital Bridges/Heartland Health Outreach | 175 West Jackson Blvd., Suite 350 | Chicago | IL | 60604 | 206,910.00
Thresholds Inc/Thresholds MAU Permanent Supportive Housing Project | 4101 N. Ravenswood | Chicago | IL | 60613 | 208,294.00
Bethany Place/New Horizon | 821 West A St | Belleville | IL | 62220 | 208,384.00
Sarah's Circle/Sarah's Circle-Sarah's Circle Apartments | 4838 N. Sheridan Road | Chicago | IL | 60640 | 209,995.00
Housing Opportunities for Women, Inc./HOW, Inc.—Shelter Plus Care I | 1607 W. Howard Street, 3rd Floor | Chicago | IL | 60626 | 212,943.00
DuPage County Health Department/Housing Intensive Services | 111 N. County Farm Rd, N/A | Wheaton | IL | 60187 | 215,394.00
A Safe Haven Foundation/Westside Housing and Independent Living | 2750 W Roosevetl Road | Chicago | IL | 60608 | 216,425.00
Community and Economic Development Association of Cook County, Inc. (CEDA)/CEDA South Suburban Supportive Housing Initiative Program | 567 West Lake Street, Suite 1200 | Chicago | IL | 60661 | 218,806.00
Catholic Charities, Diocese of Joliet/DuPage Daybreak | 1655 Weber Road | Crest Hill | IL | 60403 | 220,349.00
Christian Community Health Center/Low Income Housing Trust Fund Chronic Homeless | 9718 S. Halsted | Chicago | IL | 60628 | 220,873.00
Catholic Charities of the Archdiocese of Chicago/NHA-Family PSH | 721 N. LaSalle St., 5 Floor | Chicago | IL | 60654 | 221,021.00
Connections for the Homeless Inc./Permanent Supportive Housing 17 | 2121 Dewey Ave | Evanston | IL | 60201 | 222,269.00
North Side Housing and Supportive Services, Inc./North Side Housing & Supportive Services—Shelter Plus Care V | 4410 N. Ravenswood Ave., Suite 101 | Chicago | IL | 60640 | 223,802.00
Grundy Area PADS Inc./Phoenix Rising | 530 Bedford Road | Morris | IL | 60450 | 224,603.00
BREAKTHROUGH URBAN MINISTRIES, INC./Breakthrough Supportive Housing | 402 N ST LOUIS AVE | CHICAGO | IL | 60624 | 224,885.00
Unity Parenting & Counseling Inc./Low Income Housing Trust Fund 2 | 600 W. Cermak, Suite #300A | Chicago | IL | 60616 | 228,047.00
Catholic Charities of the Archdiocese of Chicago/Northwest PSH Partnership-Chronic | 721 N. LaSalle St., 5 Floor | Chicago | IL | 60654 | 233,825.00
Holsten Human Capital Development/LIfe Development Center | Lawson House 30 West Chicago Avenue | Chicago | IL | 60654 | 233,885.00
Madison, County of/Chestnut Madison Recovery renewal 2017 | 157 N. Main St., Ste 382 | Edwardsville | IL | 62025 | 234,564.00
Public Action to Deliver Shelter, Inc./The Harbor | 659 South River Street | Aurora | IL | 60506 | 241,315.00
The Interfaith Housing Development Corporation of Chicago/Branch of Hope Apartments | 219 W. Chicago Ave., 4th Floor | Chicago | IL | 60654 | 243,757.00
North Side Housing and Supportive Services, Inc./Veterans Housing Initiative | 4410 N. Ravenswood Ave., Suite 101 | Chicago | IL | 60640 | 244,246.00
Shields Township/CTI-RP Expansion: Housing Component | 906 Muir Ave | Lake Bluff | IL | 60044 | 247,036.00
New Moms, Inc./Transformation Center Housing | 5317 W. Chicago Avenue | Chicago | IL | 60651 | 248,061.00
Thresholds Inc/Austin Safe Haven | 4101 N. Ravenswood | Chicago | IL | 60613 | 248,536.00
Peoria Opportunities Foundation/New Hope Apartments | 512 E. Kansas | Peoria | IL | 61603 | 251,887.00
Corporation for Supportive Housing/Chicago Coordinated Entry System 2.0 | 61 Broadway, Suite 2300 | New York | IL | 10006 | 254,651.00
Community Supportive Living Systems, Inc./Emerald | 12231 South Emerald Ave | Chicago | IL | 60628 | 254,822.00
Heartland Health Outreach, Inc./Heartland Health Outreach—Shelter Plus Care II | 4750 North Sheridan Road, Suite 500 | Chicago | IL | 60640 | 256,918.00
Heartland Human Care Services, Inc./Neon Street Dorm | 208 South La Salle Street, Suite 1300 | Chicago | IL | 60604 | 258,081.00
Matthew House Inc/Derrick David Stinson Supportive Housing | 3728 So Indiana | Chicago | IL | 60653 | 258,321.00
Independent Community Living, LLC/Independent Community Living | 600 W Fullerton Pkwy, NA | Chicago | IL | 60614 | 258,547.00
The Interfaith Housing Development Corporation of Chicago/New West Englewood Homes | 219 W. Chicago Ave., 4th Floor | Chicago | IL | 60654 | 258,864.00
Embarras River Basin Agency, Inc./Permanent Housing July 1, 2018 | 400 W. Pleasant, P.O. Box 307 | Greenup | IL | 62428 | 262,178.00
FEATHERFIST/LOW-INCOME HOUSING TRUST FUND CHRONIC HOMELESS | 2255 EAST 75th STREET | CHICAGO | IL | 60649 | 263,986.00
Alliance to End Homelessness in Suburban Cook County/Suburban Cook County HMIS | 4415 Harrison Street, Suite 228 | Hillside | IL | 60162 | 264,041.00
Mercy Housing Lakefront/Carlton, Miriam, Delmar | 120 S. LaSalle, Suite 1850 | Chicago | IL | 60603 | 264,058.00
Inspiration Corporation/Rapid Re-Housing | 4554 North Broadway Street, Suite 207 | Chicago | IL | 60640 | 264,746.00
Ecker Center for Mental Health/Hunters Ridge | 1845 Grandstand Place | Elgin | IL | 60123 | 264,816.00
East St. Louis Housing Authority/Lighthouse Rental Project | 700 N. 20th St | East St. Louis | IL | 62205 | 266,768.00
PADS Lake County, Inc./PADS Safe Haven | 1800 Grand Avenue | Waukegan | IL | 60085 | 266,855.00
DuPage P.A.D.S., Inc./Liberty Place | 601 W Liberty Dr | Wheaton | IL | 60187 | 270,084.00
Chicago House and Social Service Agency/CHASSA Supportive Housing Project | 1925 N. Clybourn Ave., Suite 401 | Chicago | IL | 60614 | 270,283.00
South Suburban PADS/Project WISH | 414 W. Lincoln Highway | Chicago Heights | IL | 60411 | 271,632.00
Madison, County of/Madison County Housing First | 157 N. Main St., Ste 382 | Edwardsville | IL | 62025 | 277,271.00
South Suburban Family Shelter Inc./The Sanctuary | P.O. Box 937 | Homewood | IL | 60430 | 278,708.00
Chicago House and Social Service Agency/Chicago House Bonus Project | 1925 N. Clybourn Ave., Suite 401 | Chicago | IL | 60614 | 280,138.00
Matthew House Inc/Low Income Housing Trust Fund Chronic Homeless | 3728 So Indiana | Chicago | IL | 60653 | 280,725.00
Heartland Human Care Services, Inc./Heartland Human Care Services—LTRA | 208 South La Salle Street, Suite 1300 | Chicago | IL | 60604 | 280,827.00
Mercy Housing Lakefront/Mercy Housing Lakefront-Wentworth | 120 S. LaSalle, Suite 1850 | Chicago | IL | 60603 | 281,991.00
Housing Options d.b.a. Impact Behavioral Health Partners/Pathways (IL0056L5T111710) | 2100 Ridge Avenue, G320 | Evanston | IL | 60201 | 283,449.00
Centerstone of Illinois/Renewal Project Application FY2017 | 2615 Edwards Street | Alton | IL | 62002 | 285,637.00
Chestnut Health Systems, Inc./Families in Safe Recovery | 50 Northgate Industrial Drive | Granite City | IL | 62040 | 287,491.00
Facing Forward to End Homelessness/Shelter Graduates II | 642 N. Kedzie | Chicago | IL | 60612 | 291,442.00
Trilogy/Trilogy Housing First | 1400 W Greenleaf | Chicago | IL | 60626 | 291,804.00
Chestnut Health Systems, Inc./Fairview Heights | 50 Northgate Industrial Drive | Granite City | IL | 62040 | 292,894.00
Housing Authority of the County of Cook/Shelter Plus Care Grand Prairie Services | 175 West Jackson Blvd., Suite 350 | Chicago | IL | 60604 | 298,003.00
Corporation for Supportive Housing/Chicago Coordinated Entry System | 61 Broadway, Suite 2300 | New York | IL | 10006 | 302,294.00
St. Clair County/Journey Home | 19 Public Square, Suite 200 | Belleville | IL | 62220 | 305,458.00
Facing Forward to End Homelessness/Sanctuary Place | 642 N. Kedzie | Chicago | IL | 60612 | 305,808.00
FEATHERFIST/FEATHERFIST OUTREACH, RETENTION AND TREATMENT (FORT) | 2255 EAST 75th STREET | CHICAGO | IL | 60649 | 306,573.00
Champaign County Regional Planning Commission/Shelter Plus Care I—2017 | 1776 East Washington Street | Urbana | IL | 61802 | 308,147.00
Primo Center/Family Leadership Institute | 4321 w. Division | Chicago | IL | 60651 | 311,822.00
La Casa Norte/FY'14 Homeless Youth and Families PSH | 3533 W North Avenue | Chicago | IL | 60647 | 312,153.00
Heartland Health Outreach, Inc./Pathways Home Outpatient | 4750 North Sheridan Road, Suite 500 | Chicago | IL | 60640 | 312,873.00
Heartland Health Outreach, Inc./Supportive Permanent Housing | 4750 North Sheridan Road, Suite 500 | Chicago | IL | 60640 | 315,545.00
Lake County/Shelter Plus Care | 500 W. Winchester Road, Unit 101 | Libertyville | IL | 60048 | 318,410.00
Housing Opportunities for Women, Inc./Low-Income Housing Trust Fund 2 | 1607 W. Howard Street, 3rd Floor | Chicago | IL | 60626 | 321,412.00
Thresholds Inc/Esperanza | 4101 N. Ravenswood | Chicago | IL | 60613 | 322,342.00
All Chicago Making Homelessness History/Homeless Management Information System | 651 W Washington, Suite #504 | Chicago | IL | 60661 | 324,565.00
Deborah's Place/Dolores' Safe Haven | 2822 W. Jackson Blvd | Chicago | IL | 60612 | 329,726.00
ReVive Center for Housing and Healing/ReVive Center for Housing and Healing | 1668 W. Ogden Ave | Chicago | IL | 60612 | 332,436.00
Housing Opportunities for Women, Inc./HOW, Inc.—Shelter Plus Care II | 1607 W. Howard Street, 3rd Floor | Chicago | IL | 60626 | 334,682.00
Dove, Inc./Homeward Bound | 302 S. Union St | Decatur | IL | 62522 | 335,315.00
The Inner Voice, Inc./Chronic Homeless Initiative (Inner Voice) | 212 W Van Buren Street, Suite 300 | Chicago | IL | 60607 | 338,102.00
Housing Opportunities for Women, Inc./HOW, Inc.—Shelter Plus Care III | 1607 W. Howard Street, 3rd Floor | Chicago | IL | 60626 | 339,822.00
Heartland Human Care Services, Inc./NPAC SHP Permanent Housing | 208 South La Salle Street, Suite 1300 | Chicago | IL | 60604 | 340,875.00
Heartland Health Outreach, Inc./Heartland Health Outreach—North Side | 4750 North Sheridan Road, Suite 500 | Chicago | IL | 60640 | 342,428.00
YWCA of Quincy of Ill/Permanent Supportive Housing B | 639 York St., Ste. 202 | Quincy | IL | 62301 | 344,863.00
Thresholds Inc/Thresholds, Inc.—Shelter Plus Care I | 4101 N. Ravenswood | Chicago | IL | 60613 | 346,388.00
Thresholds Inc/Thresholds, Inc.—Shelter Plus Care II | 4101 N. Ravenswood | Chicago | IL | 60613 | 346,388.00
Alliance to End Homelessness in Suburban Cook County/IL-511 CoC Planning Application FY2017 | 4415 Harrison Street, Suite 228 | Hillside | IL | 60162 | 349,081.00
A Safe Haven Foundation/Family Wellness Center | 2750 W Roosevetl Road | Chicago | IL | 60608 | 350,676.00
CDBG Operations Corporation/Family Living Center | 510 North 25th St | East St. Louis | IL | 62205 | 351,477.00
The Interfaith Housing Development Corporation of Chicago/Interfaith Housing Development Corp.—Vision House | 219 W. Chicago Ave., 4th Floor | Chicago | IL | 60654 | 352,560.00
La Casa Norte/Palante Phase 5 | 3533 W North Avenue | Chicago | IL | 60647 | 358,110.00
Heartland Health Outreach, Inc./Antonia Safe Haven | 4750 North Sheridan Road, Suite 500 | Chicago | IL | 60640 | 361,559.00
WINGS Program, Inc./WINGS Transitional Housing | 5104 Tollview Drive | Rolling Meadows | IL | 60008 | 363,347.00
La Casa Norte/Permanent Housing Bonus Project | 3533 W North Avenue | Chicago | IL | 60647 | 369,076.00
The Boulevard Of Chicago/Respite Assessment | 3456 W. Franklin Blvd | Chicago | IL | 60624 | 369,201.00
A Safe Haven Foundation/The Studios | 2750 W Roosevetl Road | Chicago | IL | 60608 | 374,336.00
Inspiration Corporation/Permanent Supportive Housing for Chronically Homeless Individuals | 4554 North Broadway Street, Suite 207 | Chicago | IL | 60640 | 380,108.00
ChildServ/Emerge | 8765 W. Higgins Rd., Suite 450 | Chicago | IL | 60631 | 383,175.00
Housing Opportunities for Women, Inc./HOW, Inc.—Shelter Plus Care IV | 1607 W. Howard Street, 3rd Floor | Chicago | IL | 60626 | 383,903.00
FEATHERFIST/FOUNDATIONS | 2255 EAST 75th STREET | CHICAGO | IL | 60649 | 385,951.00
Thresholds Inc/West Suburban Safe Haven | 4101 N. Ravenswood | Chicago | IL | 60613 | 386,620.00
FEATHERFIST/LOW INCOME HOUSING TRUST FUND 2 | 2255 EAST 75th STREET | CHICAGO | IL | 60649 | 387,893.00
Matthew House Inc/Marzett Johnson Housing Project | 3728 So Indiana | Chicago | IL | 60653 | 388,419.00
Mercy Housing Lakefront/South Loop and Wentworth Combined | 120 S. LaSalle Suite, 1850 | Chicago | IL | 60603 | 391,411.00
Thresholds Inc/Thresholds, Inc.—Shelter Plus Care III | 4101 N. Ravenswood | Chicago | IL | 60613 | 404,120.00
The Housing Authority of the County of DeKalb/Shelter Plus Care Renewal 2017 | 310 N. 6th Street | DeKalb | IL | 60115 | 404,157.00
Thresholds Inc/Rowan Trees Apartments | 4101 N. Ravenswood | Chicago | IL | 60613 | 405,264.00
South Suburban PADS/Country Club Hills Wellness Center | 414 W. Lincoln Highway | Chicago Heights | IL | 60411 | 406,439.00
Renaissance Social Services, Inc./Union House | 333 N. Oakley Blvd., Suite #101 | Chicago | IL | 60612 | 430,025.00
Housing Opportunities for Women, Inc./HOW, Inc.—PSH for Individuals | 1607 W. Howard Street, 3rd Floor | Chicago | IL | 60626 | 434,116.00
Casa Central/Casa Central La Posada Interim Housing | 1343 N. California Ave | Chicago | IL | 60622 | 437,306.00
Housing Opportunities for Women, Inc./HOW, Inc.—Shelter Plus Care VI | 1607 W. Howard Street, 3rd Floor | Chicago | IL | 60626 | 441,304.00
Single Room Housing Assistance Corp./IL-510—REN—SHP-PH Expansion (IL01B710038) | 501 North Central Avenue | Chicago | IL | 60644 | 454,170.00
Human Resources Development Institute, Inc. (HRDI)/Human Resources Development Institute LTRA I | 222 S. Jefferson Street | Chicago | IL | 60661 | 467,061.00
Thresholds Inc/Wayne Street Grais Apartments | 4101 N. Ravenswood | Chicago | IL | 60613 | 467,778.00
Housing Opportunities for Women, Inc./Singles Two | 1607 W. Howard Street, 3rd Floor | Chicago | IL | 60626 | 469,566.00
Connections for the Homeless Inc./Family Supportive Housing 17 | 2121 Dewey Ave | Evanston | IL | 60201 | 475,634.00
Thresholds Inc/Thresholds, Inc.—Shelter Plus Care V | 4101 N. Ravenswood | Chicago | IL | 60613 | 475,894.00
Housing Forward/WIN Supportive Housing | 1851 S. 9th Ave | Maywood | IL | 60153 | 481,584.00
The Interfaith Housing Development Corporation of Chicago/Interfaith Housing Development Corp.—Independence House | 219 W. Chicago Ave., 4th Floor | Chicago | IL | 60654 | 483,177.00
Catholic Charities, Diocese of Joliet/Partners In Housing | 1655 Weber Road | Crest Hill | IL | 60403 | 483,301.00
Mercy Housing Lakefront/Mercy Housing Lakefront—Near North | 120 S. LaSalle, Suite 1850 | Chicago | IL | 60603 | 483,529.00
Unity Parenting & Counseling Inc./Focus Hope II | 600 W. Cermak, Suite #300A | Chicago | IL | 60616 | 487,762.00
Thresholds Inc/Thresholds, Inc.—Shelter Plus Care IV | 4101 N. Ravenswood | Chicago | IL | 60613 | 505,008.00
Unity Parenting & Counseling Inc./Harmony Village | 600 W. Cermak, Suite #300A | Chicago | IL | 60616 | 507,080.00
Deborah's Place/Marah's Permanent Housing | 2822 W. Jackson Blvd | Chicago | IL | 60612 | 513,501.00
Single Room Housing Assistance Corp./IL-510—REN—Supportive Housing Program (SHP)(IL01B710038) | 501 North Central Avenue | Chicago | IL | 60644 | 518,404.00
Facing Forward to End Homelessness/Safe at Home III | 642 N. Kedzie | Chicago | IL | 60612 | 518,476.00
Housing Opportunities for Women, Inc./Families First | 1607 W. Howard Street, 3rd Floor | Chicago | IL | 60626 | 522,916.00
Housing Opportunities for Women, Inc./IL-510-REN-REST SHP1 | 1607 W. Howard Street, 3rd Floor | Chicago | IL | 60626 | 528,290.00
Heartland Human Care Services, Inc./NPAC SHP w/Short Term Support | 208 South La Salle Street, Suite 1300 | Chicago | IL | 60604 | 530,422.00
Facing Forward to End Homelessness/Safe at Home I | 642 N. Kedzie | Chicago | IL | 60612 | 530,935.00
Call for Help, Inc./Jobe Center | 9400 Lebanon Road | East St. Louis | IL | 62203 | 537,427.00
Housing Forward/Project WCHANCE (West Cook Housing Action Network Choice Endeavors) | 1851 S. 9th Ave | Maywood | IL | 60153 | 541,796.00
Heartland Health Outreach, Inc./Pathways Home Permanent Housing | 4750 North Sheridan Road, Suite 500 | Chicago | IL | 60640 | 552,200.00
Facing Forward to End Homelessness/Shelter Graduates | 642 N. Kedzie | Chicago | IL | 60612 | 556,856.00
A Safe Haven Foundation/A Safe Haven—Shelter Plus Care | 2750 W Roosevelt Road | Chicago | IL | 60608 | 577,314.00
FEATHERFIST/Featherfist—Long Term Rental Assistance | 2255 EAST 75th STREET | CHICAGO | IL | 60649 | 577,314.00
Housing Forward/WIN Supportive Housing II | 1851 S. 9th Ave | Maywood | IL | 60153 | 577,903.00
Family Rescue/Ridgeland Apartments & Day Care Center | 9204 South Commercial Ave., Suite 401 | Chicago | IL | 60617 | 578,757.00
Thresholds Inc/Thresholds, Inc.—Shelter Plus Care ARCH | 4101 N. Ravenswood | Chicago | IL | 60613 | 593,331.00
DuPage County Health Department/MISA CAP | 111 N. County Farm Rd, N/A | Wheaton | IL | 60187 | 608,667.00
Chestnut Health Systems, Inc./Mainstay Center | 50 Northgate Industrial Drive | Granite City | IL | 62040 | 611,139.00
Single Room Housing Assistance Corp./IL-510—REN—Supportive Housing Program (SHP)(IL01B70042) | 501 North Central Avenue | Chicago | IL | 60644 | 612,483.00
Rosecrance Inc/FY2017 Shelter Plus Care 1998 Renewal | 1021 N. Mulford Rd | Rockford | IL | 61107 | 620,232.00
Unity Parenting & Counseling Inc./Ujima STARS | 600 W. Cermak, Suite #300A | Chicago | IL | 60616 | 635,752.00
Housing Forward/Project WCHIP (West Cook Housing Initiative Partnership) | 1851 S. 9th Ave | Maywood | IL | 60153 | 667,231.00
Alliance to End Homelessness in Suburban Cook County/Sub Cook Coordinated Entry | 4415 Harrison Street, Suite 228 | Hillside | IL | 60162 | 682,219.00
Catholic Charities, Diocese of Joliet/Daybreak Center | 1655 Weber Road | Crest Hill | IL | 60403 | 689,897.00
Human Resources Development Institute, Inc. (HRDI)/Human Resources Development Institute LTRA II | 222 S. Jefferson Street | Chicago | IL | 60661 | 697,509.00
Housing Opportunities for Women, Inc./HOW, Inc.—Shelter Plus Care VII | 1607 W. Howard Street, 3rd Floor | Chicago | IL | 60626 | 729,606.00
DuPage P.A.D.S., Inc./Carol's Place | 601 W Liberty Dr | Wheaton | IL | 60187 | 792,138.00
Heartland Human Care Services, Inc./Heartland Human Care Services—Rafael Center | 208 South La Salle Street, Suite 1300 | Chicago | IL | 60604 | 833,242.00
The Interfaith Housing Development Corporation of Chicago/Interfaith Housing Development Corp.—Sanctuary Place | 219 W. Chicago Ave., 4th Floor | Chicago | IL | 60654 | 838,740.00
Catholic Charities, Diocese of Joliet/SHIFT—New Hope | 1655 Weber Road | Crest Hill | IL | 60403 | 920,550.00
Housing Forward/Open Door Housing | 1851 S. 9th Ave | Maywood | IL | 60153 | 933,090.00
The Interfaith Housing Development Corporation of Chicago/Interfaith Housing Development Corp.—HOPE II | 219 W. Chicago Ave., 4th Floor | Chicago | IL | 60654 | 951,378.00
Mercy Housing Lakefront/Mercy Housing Lakefront—Englewood | 120 S. LaSalle, Suite 1850 | Chicago | IL | 60603 | 1,010,385.00
Heartland Health Outreach, Inc./Pathways Home Safe Haven | 4750 North Sheridan Road, Suite 500 | Chicago | IL | 60640 | 1,076,572.00
Thresholds Inc/Thresholds Chicago Scattered Site PSH Leasing Project | 4101 N. Ravenswood | Chicago | IL | 60613 | 1,105,783.00
Catholic Charities of the Archdiocese of Chicago/New Hope Apartments RRH Suburban Cook County | 721 N. LaSalle St., 5 Floor | Chicago | IL | 60654 | 1,171,169.00
Heartland Human Care Services, Inc./Families Building Community | 208 South La Salle Street, Suite 1300 | Chicago | IL | 60604 | 1,218,368.00
All Chicago Making Homelessness History/CoC Planning Project Application FY2017 | 651 W Washington, Suite #504 | Chicago | IL | 60661 | 1,250,000.00
Renaissance Social Services, Inc./RSSI SHOT CLIHTF SHP | 333 N. Oakley Blvd., Suite #101 | Chicago | IL | 60612 | 1,328,127.00
Renaissance Social Services, Inc./Family Support Project | 333 N. Oakley Blvd., Suite #101 | Chicago | IL | 60612 | 1,488,404.00
Facing Forward to End Homelessness/Safe at Home V | 642 N. Kedzie | Chicago | IL | 60612 | 1,491,380.00
Heartland Human Care Services, Inc./Stable Futures | 208 South La Salle Street, Suite 1300 | Chicago | IL | 60604 | 1,616,509.00
Catholic Charities of the Archdiocese of Chicago/New Hope Apartments | 721 N. LaSalle St., 5 Floor | Chicago | IL | 60654 | 1,756,160.00
Cornerstone Services, Inc./Combo Renewal 2017 | 777 Joyce Road | Joliet | IL | 60436 | 1,838,908.00
AIDS Foundation of Chicago/Safe Start I | 200 W. Jackson Blvd., Suite 2100 | Chicago | IL | 60606 | 1,950,490.00
Center for Housing and Health/Housing for Health | 200 W. Jackson Blvd., Suite 2100 | Chicago | IL | 60606 | 2,398,551.00
Christian Community Health Center/CCHC EnHarmony Bonus Project | 9718 S. Halsted | Chicago | IL | 60628 | 2,638,598.00
AIDS Foundation of Chicago/Chronic Homeless Samaritan Supportive Housing Program | 200 W. Jackson Blvd., Suite 2100 | Chicago | IL | 60606 | 2,882,160.00
Centerstone Indiana Inc., formerly SCCMHC/Martinsville Plaza Apartments | 645 S. Rogers Street | Bloomington | IN | 47403 | 41,125.00
Centerstone Indiana Inc., formerly SCCMHC/Caldwell House PH | 645 S. Rogers Street | Bloomington | IN | 47403 | 44,172.00
City of Indianapolis/2018 Coburn Place Rapid Re-Housing 2 Expansion Project | 200 East Washington Street, Suite 2042 | Indianapolis | IN | 46204 | 49,689.00
The Center for the Homeless/2017 Family RRH | 813 South Michigan Street | South Bend | IN | 46601 | 49,747.00
YWCA North Central Indiana/TH-RRH/PH for Victims of Domestic Violence—Elkhart | 1102 S. Fellows Street | South Bend | IN | 46601 | 52,088.00
City of Indianapolis/2018 Midtown Wellness Expansion Project | 200 East Washington Street, Suite 2042 | Indianapolis | IN | 46204 | 54,238.00
Blue River Services, Inc./Blue River Stepping Stone Apartments | 1365 Old Hwy. 135 NW Mailing Address: P.O. Box 547 | Corydon | IN | 47112 | 54,888.00
Indiana Housing and Community Development Authority/Mental Health Association in Vigo County | 30 South Meridian Street, Suite 1000 | Indianapolis | IN | 46204 | 55,298.00
Community Mental Health Center/Vevay II PSH | 285 Bielby Road | Lawrenceburg | IN | 47025 | 61,795.00
Indiana Housing and Community Development Authority/McCord Rapid Rehousing | 30 South Meridian Street, Suite 1000 | Indianapolis | IN | 46204 | 62,877.00
City of Indianapolis/2018 CHIP HMIS 2 | 200 East Washington Street, Suite 2042 | Indianapolis | IN | 46204 | 73,265.00
YWCA North Central Indiana/TH-RRH/PH for Victims of Domestic Violence -SJC | 1102 S. Fellows Street | South Bend | IN | 46601 | 73,758.00
Mental Health Association in Vigo County/Community Younity Center | 1460 Spruce Street | Terre Haute | IN | 47807 | 74,566.00
YWCA North Central Indiana/TH-RRH/PH for Victims of Domestic Violence(2)—SJC | 1102 S. Fellows Street | South Bend | IN | 46601 | 75,854.00
City of Indianapolis/2018 Adult and Child SPC | 200 East Washington Street, Suite 2042 | Indianapolis | IN | 46204 | 76,563.00
Indiana Housing and Community Development Authority/Kosciusko County RRH Expansion | 30 South Meridian Street, Suite 1000 | Indianapolis | IN | 46204 | 80,196.00
Centerstone Indiana Inc., formerly SCCMHC/Stepping Stones, Inc. | 645 S. Rogers Street | Bloomington | IN | 47403 | 80,273.00
Centerstone Indiana Inc., formerly SCCMHC/SCCMHC S+C | 645 S. Rogers Street | Bloomington | IN | 47403 | 82,126.00
Indiana Housing and Community Development Authority/Kosciusko County Rapid Rehousing | 30 South Meridian Street, Suite 1000 | Indianapolis | IN | 46204 | 82,775.00
Indiana University Health Bloomington, Inc./Housing Links | 333 East Miller Drive | Bloomington | IN | 47401 | 83,139.00
The Center for the Homeless/2017 Scattered Site PSH | 813 South Michigan Street | South Bend | IN | 46601 | 85,826.00
Community Mental Health Center/Lawrenceburg PSH | 285 Bielby Road | Lawrenceburg | IN | 47025 | 89,305.00
Mental Health America in Allen County, Inc./Cedars Hope I | 1025 W Rudisill Blvd, Box 8 | Fort Wayne | IN | 46807 | 89,384.00
City of Indianapolis/2018 Coburn Place Rapid Re-Housing and Advocacy | 200 East Washington Street, Suite 2042 | Indianapolis | IN | 46204 | 92,928.00
City of Indianapolis/2018 Englewood | 200 East Washington Street, Suite 2042 | Indianapolis | IN | 46204 | 93,996.00
The Center for the Homeless/2017 Permanent Housing | 813 South Michigan Street | South Bend | IN | 46601 | 97,817.00
Indiana Housing and Community Development Authority/Lincoln West Apartments | 30 South Meridian Street, Suite 1000 | Indianapolis | IN | 46204 | 98,575.00
ECHO Housing Corporation/Lucas Place Permanent Supportive Housing | 414 Baker Avenue | Evansville | IN | 47710 | 104,048.00
Community Mental Health Center/Batesville PSH | 285 Bielby Road | Lawrenceburg | IN | 47025 | 113,540.00
Indiana Housing and Community Development Authority/Coordinated Access SSO 2017 | 30 South Meridian Street, Suite 1000 | Indianapolis | IN | 46204 | 114,000.00
Indiana Housing and Community Development Authority/Centerstone Dunn Supportive Housing SPC | 30 South Meridian Street, Suite 1000 | Indianapolis | IN | 46204 | 115,912.00
Centerstone Indiana Inc., formerly SCCMHC/Limestone PSH | 645 S. Rogers Street | Bloomington | IN | 47403 | 116,530.00
Oaklawn Psychiatric Center/Supportive Housing Turnock Group Home | 330 Lakeview Drive | Goshen | IN | 46527 | 117,052.00
Family Service Association of Howard County, Inc./Rapid ReHousing | 618 S. Main Street | Kokomo | IN | 46901 | 118,058.00
City of Indianapolis/2018 CHIP HMIS | 200 East Washington Street, Suite 2042 | Indianapolis | IN | 46204 | 122,160.00
Indiana Housing and Community Development Authority/Regional Mental Health Center Shelter Plus Care | 30 South Meridian Street, Suite 1000 | Indianapolis | IN | 46204 | 123,318.00
Indiana Housing and Community Development Authority/Renaissance 16 | 30 South Meridian Street, Suite 1000 | Indianapolis | IN | 46204 | 123,969.00
Community Mental Health Center/Vevay I PSH | 285 Bielby Road | Lawrenceburg | IN | 47025 | 124,164.00
Community Mental Health Center/Ludlow Permanent Housing | 285 Bielby Road | Lawrenceburg | IN | 47025 | 124,309.00
AIDS Ministries/AIDS Assist of North Indiana, Inc./PSH AMAA | 201 South William Street | South Bend | IN | 46601 | 125,568.00
The Center for the Homeless/2017 Scattered Site PSH II | 813 South Michigan Street | South Bend | IN | 46601 | 126,178.00
City of Indianapolis/2018 Coburn Place Rapid Re-Housing 2 | 200 East Washington Street, Suite 2042 | Indianapolis | IN | 46204 | 129,482.00
Edgewater Systems for Balanced Living, Inc./Phoenix 2018-2019 | 1100 W. 6th Avenue | Gary | IN | 46402 | 129,877.00
Indiana Housing and Community Development Authority/Chapman West Plains | 30 South Meridian Street, Suite 1000 | Indianapolis | IN | 46204 | 130,087.00
City of Indianapolis/2018 Healthnet/HIP Dowe Legacy | 200 East Washington Street, Suite 2042 | Indianapolis | IN | 46204 | 132,288.00
A Better Way Services, Inc./ABW Rapid Rehousing 2017 | 307 W Charles St | Muncie | IN | 47305 | 133,136.00
City of Indianapolis/2018 CHIP Coordinated Entry | 200 East Washington Street, Suite 2042 | Indianapolis | IN | 46204 | 136,878.00
Indiana Housing and Community Development Authority/Aurora Evansville Shelter Plus Care Program | 30 South Meridian Street, Suite 1000 | Indianapolis | IN | 46204 | 143,568.00
City of Indianapolis/2018 Salvation Army Barton Center | 200 East Washington Street, Suite 2042 | Indianapolis | IN | 46204 | 145,512.00
Indiana University Health Bloomington, Inc./Bridges Supportive Housing | 333 East Miller Drive | Bloomington | IN | 47401 | 148,786.00
City of Indianapolis/2018 Partners in Housing—Transitioning to RRH | 200 East Washington Street, Suite 2042 | Indianapolis | IN | 46204 | 155,340.00
Indiana Housing and Community Development Authority/Mainstream II | 30 South Meridian Street, Suite 1000 | Indianapolis | IN | 46204 | 166,314.00
Life Treatment Centers/Rental Assistance II | 1402 S Michigan st | South Bend | IN | 46613 | 167,734.00
Indiana Housing and Community Development Authority/Jackson Street Commons | 30 South Meridian Street, Suite 1000 | Indianapolis | IN | 46204 | 175,533.00
City of Indianapolis/2018 Adult and Child New Beginnings RRH | 200 East Washington Street, Suite 2042 | Indianapolis | IN | 46204 | 175,611.00
Housing Opportunities Inc./Creekview | 2001 North Calumet Avenue | Valparaiso | IN | 46383 | 182,332.00
Housing Opportunities Inc./Perm 4 | 2001 North Calumet Avenue | Valparaiso | IN | 46383 | 183,703.00
City of Indianapolis/2018 CHIP Planning Grant | 200 East Washington Street, Suite 2042 | Indianapolis | IN | 46204 | 190,811.00
City of Indianapolis/2018 Julian Center 34 North | 200 East Washington Street, Suite 2042 | Indianapolis | IN | 46204 | 195,614.00
Indiana Housing and Community Development Authority/Edgewater Scattered Site | 30 South Meridian Street, Suite 1000 | Indianapolis | IN | 46204 | 204,833.00
Indiana Housing and Community Development Authority/Lucas Place II | 30 South Meridian Street, Suite 1000 | Indianapolis | IN | 46204 | 208,675.00
Bridges Community Services, Inc/JUMPSTART RRH | 318 W 8th Street | Muncie | IN | 47302 | 212,589.00
Indiana Housing and Community Development Authority/Lawrenceburg Shelter Plus Care | 30 South Meridian Street, Suite 1000 | Indianapolis | IN | 46204 | 226,798.00
Indiana Housing and Community Development Authority/YOUnity Village | 30 South Meridian Street, Suite 1000 | Indianapolis | IN | 46204 | 226,969.00
City of Indianapolis/2018 Midtown Wellness Project | 200 East Washington Street, Suite 2042 | Indianapolis | IN | 46204 | 228,381.00
Lafayette Transitional Housing Center, Inc./LTHC Rapid Re-Housing | 615 North 18th Street, Suite 102 | Lafayette | IN | 47904 | 233,104.00
Indiana Housing and Community Development Authority/Porter Starke Supportive Housing | 30 South Meridian Street, Suite 1000 | Indianapolis | IN | 46204 | 234,036.00
LifeSpring Inc./PSH Renewal 2017 | 460 Spring Street, n/a | Jeffersonville | IN | 47130 | 236,696.00
Housing Opportunities Inc./Perm 5 | 2001 North Calumet Avenue | Valparaiso | IN | 46383 | 243,674.00
Indiana Housing and Community Development Authority/Aliveness Project of NWI, Inc. | 30 South Meridian Street, Suite 1000 | Indianapolis | IN | 46204 | 246,983.00
City of Indianapolis/2018 Adult and Child PH I | 200 East Washington Street, Suite 2042 | Indianapolis | IN | 46204 | 250,549.00
City of Indianapolis/2018 HIP Rapid Re-Housing Expansion Project | 200 East Washington Street, Suite 2042 | Indianapolis | IN | 46204 | 252,658.00
Continuum of Care Network of NWI/Continuum of Care Network of NWI RRH | 839 Broadway, Suite 301N | Gary | IN | 46402 | 256,214.00
ECHO Housing Corporation/New Start Scattered Site Housing | 414 Baker Avenue | Evansville | IN | 47710 | 256,371.00
City of Indianapolis/2018 HIP Rapid Re-Housing | 200 East Washington Street, Suite 2042 | Indianapolis | IN | 46204 | 272,580.00
Indiana Housing and Community Development Authority/Park Center Permanent Supportive Housing | 30 South Meridian Street, Suite 1000 | Indianapolis | IN | 46204 | 278,962.00
ECHO Housing Corporation/ECHO Village | 414 Baker Avenue | Evansville | IN | 47710 | 309,921.00
Community Mental Health Center/Batesville II PSH | 285 Bielby Road | Lawrenceburg | IN | 47025 | 320,125.00
Indiana Housing and Community Development Authority/South Shore Commons | 30 South Meridian Street, Suite 1000 | Indianapolis | IN | 46204 | 335,317.00
Indiana Housing and Community Development Authority/Indiana Shelter Plus Care Brightpoint | 30 South Meridian Street, Suite 1000 | Indianapolis | IN | 46204 | 338,617.00
Oaklawn Psychiatric Center/Supportive Housing Rental Assistance | 330 Lakeview Drive | Goshen | IN | 46527 | 385,100.00
Lafayette Transitional Housing Center, Inc./LTHC Union Place PSH Apartments | 615 North 18th Street, Suite 102 | Lafayette | IN | 47904 | 390,360.00
City of Indianapolis/2018 Damien Center | 200 East Washington Street, Suite 2042 | Indianapolis | IN | 46204 | 404,376.00
Indiana Housing and Community Development Authority/Integrated Permanent Supportive Housing I | 30 South Meridian Street, Suite 1000 | Indianapolis | IN | 46204 | 405,511.00
Aurora Inc/Vision 1505 | 1001 Mary Street | Evansville | IN | 47710 | 411,871.00
City of Indianapolis/2018 Midtown Sherman Forest | 200 East Washington Street, Suite 2042 | Indianapolis | IN | 46204 | 413,282.00
Shalom Community Center, Inc./Crawford Homes | 620 S. Walnut St | Bloomington | IN | 47401 | 418,109.00
Shalom Community Center, Inc./Johnson Homes | 620 S. Walnut St | Bloomington | IN | 47401 | 425,532.00
Indiana Housing and Community Development Authority/IHCDA S+C III | 30 South Meridian Street, Suite 1000 | Indianapolis | IN | 46204 | 432,410.00
City of Indianapolis/2018 Midtown Community Health Adult SPC | 200 East Washington Street, Suite 2042 | Indianapolis | IN | 46204 | 439,230.00
Indiana Housing and Community Development Authority/Catholic Charities | 30 South Meridian Street, Suite 1000 | Indianapolis | IN | 46204 | 472,502.00
Indiana Housing and Community Development Authority/2017 IN 502 Planning Grant | 30 South Meridian Street, Suite 1000 | Indianapolis | IN | 46204 | 500,000.00
Indiana Housing and Community Development Authority/HMIS BOS 2017 | 30 South Meridian Street, Suite 1000 | Indianapolis | IN | 46204 | 579,912.00
Indiana Housing and Community Development Authority/IHCDA S+C II | 30 South Meridian Street, Suite 1000 | Indianapolis | IN | 46204 | 630,638.00
City of Indianapolis/2018 Partners In Housing Threshold | 200 East Washington Street, Suite 2042 | Indianapolis | IN | 46204 | 1,170,227.00
United Community Services of Johnson County/FY2017 KS-505 CoC Planning Project Application | 12351 W 96th Terr, Suite 200 | Lenexa | KS | 66215 | 19,730.00
Johnson County Mental Health Center/Homeless Supported Housing Voucher Project | 6440 Nieman Rd | Shawnee | KS | 66203 | 29,385.00
Catholic Charities of Southwest Kansas/Southwest Kansas Coordinated Entry Initiative | 906 Central Ave | Dodge City | KS | 67801 | 29,805.00
Sedgwick County/Shelter Plus Care Bonus #2 | 934 N Water | Wichita | KS | 67203 | 35,527.00
Sedgwick County/Shelter Plus Care Bonus #1 | 934 N Water | Wichita | KS | 67203 | 36,554.00
County of Johnson/Rental Assistance | 12425 W. 87th Street Parkway, Suite 200 | Lenexa | KS | 66215 | 41,394.00
Inter-Faith Ministries Wichita, Inc./Villa Central | 829 N. Market St | Wichita | KS | 67214 | 43,050.00
City of Topeka, Kansas/CoC Planning Grant | 620 SE Madison, 1st Floor, Unit 8 | Topeka | KS | 66607 | 51,794.00
SAFEHOME, Inc./SAFEHOME DV TL | P.O. Box 4563 | Overland Park | KS | 66204 | 57,568.00
Wichita Children's Home/Permament Housing 2017 | 7271 E. 37th St. N | Wichita | KS | 67226 | 57,662.00
County of Sedgwick/Samaritan Housing Initiative | 934 N Water | Wichita | KS | 67203 | 59,595.00
Inter-Faith Ministries Wichita, Inc./Villa North | 829 N. Market St | Wichita | KS | 67214 | 61,552.00
Catholic Charities of Northeast Kansas, Inc./RRH Housing for Homeless Renewal FY2017 | 9720 W. 87th Street | Overland Park | KS | 66212 | 61,864.00
Mid-America Regional Council/HMIS Lead Agency of Johnson County 2017 | 600 Broadway, Suite 200 | Kansas City | KS | 64105 | 62,632.00
United Way of the Plains/CoC Planning Project | 245 N. Water | Wichita | KS | 67202 | 74,390.00
United Way of the Plains/SSO-CE | 245 N. Water | Wichita | KS | 67202 | 80,930.00
Plumb Place Inc./Transitional Housing with Supportive Services | 224 E 6th | Emporia | KS | 66801 | 81,531.00
United Way of the Plains/HMIS Renewal | 245 N. Water | Wichita | KS | 67202 | 82,537.00
SAFEHOME, Inc./SAFEHOME DV RRH | P.O. Box 4563 | Overland Park | KS | 66204 | 91,536.00
County of Sedgwick/Safety Net | 934 N Water | Wichita | KS | 67203 | 94,403.00
Lawrence-Douglas County Housing Authority/HOPE Building 2017 | 1600 Haskell Avenue | Lawrence | KS | 66044 | 100,662.00
Catholic Charities of Northeast Kansas, Inc./HHI—Homeless to House Renewal FY2017 | 9720 W. 87th Street | Overland Park | KS | 66212 | 106,237.00
Salina Housing Authority/Shelter Plus Care | 469 S. 5th Street | Salina | KS | 67401 | 108,585.00
Mental Health Association of the Heartland/Marion Apartments | 739 Minnesota Ave | Kansas City | KS | 66101 | 110,475.00
Prairie View Inc/Meadowlark Leasing | 1901 E. 1st St | Newton | KS | 67114 | 113,195.00
Inter-Faith Ministries Wichita, Inc./Villa Court | 829 N. Market St | Wichita | KS | 67214 | 116,357.00
Catholic Charities of Northeast Kansas, Inc./HHI-2 Homeless to Housed Renewal FY2017 | 9720 W. 87th Street | Overland Park | KS | 66212 | 116,439.00
Kansas Statewide Homeless Coalition, Inc./Kansas Statewide Homeless Coalition Planning | 2001 Haskell Ave., STE. 207 | Lawrence | KS | 66046 | 117,165.00
Johnson County Mental Health Center/Homeless Supported Housing Project | 6440 Nieman Rd | Shawnee | KS | 66203 | 117,538.00
Catholic Charities,Inc./Catholic Charities RRH FY2015 | 437 N. Topeka Street | Wichita | KS | 67202 | 120,729.00
Mental Health Association Residential Care, Inc/MHA-RR | 555 N. Woodlawn, Ste. 3105 | Wichita | KS | 67208 | 123,218.00
Mental Health Association of the Heartland/Blaylock Residences | 739 Minnesota Ave | Kansas City | KS | 66101 | 128,510.00
Kansas Housing Resources Corporation/Supportive Housing Program—HMIS | 611 S. Kansas Ave., Suite 300 | Topeka | KS | 66603 | 135,533.00
United Way of the Plains/HMIS-CE | 245 N. Water | Wichita | KS | 67202 | 138,198.00
United Methodist Open Door, Inc./Family Rapid Rehousing | 402 E Second | Wichita | KS | 67202 | 148,175.00
The Salvation Army/The Salvation Army Wichita TH-RRH Program | 101 W. Linwood | Kansas City | KS | 64111 | 150,652.00
Manhattan Emergency Shelter, Inc./Opportunities Program | 416 S. 4th Street | Manhattan | KS | 66502 | 163,758.00
CLASS LTD/Permanent Housing for Homeless Persons with Developmental Disabilities | P.O. Box 266 1200 Merle Evans Drive | Columbus | KS | 66725 | 182,464.00
Community Action, Inc./Tanglewood Supportive Housing Project | 455 SE Golf Park Blvd | Topeka | KS | 66605 | 191,225.00
Catholic Charities of Southwest Kansas/Southwest Kansas Housing Program | 906 Central Ave | Dodge City | KS | 67801 | 197,957.00
NEK-CAP, Inc./Housing With Opportunities | 1260 220th Street, P.O. Box 380 | Hiawatha | KS | 66434 | 198,168.00
Manhattan Emergency Shelter, Inc./MESI Transition in Place Program | 416 S. 4th Street | Manhattan | KS | 66502 | 206,415.00
My Father's House Community Services, Inc./My Father's House Community Services | 1004 N. Pearl Street | Paola | KS | 66071 | 219,778.00
The Salvation Army/Project Able Permanent Supportive Housing Program | 101 W. Linwood | Kansas City | KS | 64111 | 235,101.00
United Way of the Plains/Dual Diagnosis PSH | 245 N. Water | Wichita | KS | 67202 | 251,662.00
Mid Kansas CAP Inc/Housing and Beyond | 730 Cliff Drive | Augusta | KS | 67010 | 290,898.00
Sedgwick County/Shelter Plus Care | 934 N Water | Wichita | KS | 67203 | 900,470.00
City of Topeka, Kansas/Shelter Plus Care | 620 SE Madison, 1st Floor, Unit 8 | Topeka | KS | 66607 | 1,692,717.00
Coalition for the Homeless, Inc./Louisville HMIS 2 | 1300 South 4th Street, Suite 250 | Louisville | KY | 40208 | 5,434.00
Kentucky Housing Corporation/KYHMIS Expansion | 1231 Louisville Rd | Frankfort | KY | 40601 | 9,520.00
Transitions, Inc./Hermes Avenue Project | 1650 Russell Street | Covington | KY | 41011 | 10,519.00
Kentucky Housing Corporation/Estill County Rental Project | 1231 Louisville Rd | Frankfort | KY | 40601 | 15,050.00
Mountain Comprehensive Care Center/Layne House Apartments | 104 South Front Aveune | Prestonsburg | KY | 41653 | 17,057.00
Wellspring, Inc. (dba Schizophrenia Foundation, KY, Inc.)/Sober Living II—Baxter | P.O. Box 1927 | Louisville | KY | 40201 | 23,638.00
Lexington Rescue Mission/Rapid Rehousing for Homeless Ex-Offenders Expansion | 444 Glen Arvin Ave | Lexington | KY | 40508 | 24,772.00
Kentucky Housing Corporation/MCC Shelby Valley Independent Living Program | 1231 Louisville Rd | Frankfort | KY | 40601 | 28,430.00
Kentucky Housing Corporation/KY HMIS 2011 Program | 1231 Louisville Rd | Frankfort | KY | 40601 | 30,744.00
Wayside Christian Mission/Women's permanent supportive housing | 120 West Broadway | Louisville | KY | 40202 | 31,496.00
Kentucky Housing Corporation/Kentucky River Community Care PH—PRA | 1231 Louisville Rd | Frankfort | KY | 40601 | 32,226.00
Louisville-Jefferson County Metro Government/SPC Kersey Condos | 527 West Jefferson Street, Suite 400 ATTN: Office of Resilience and Community Services | Louisville | KY | 40202 | 32,961.00
Wellspring, Inc. (dba Schizophrenia Foundation, KY, Inc.)/Sober Living I—Murray-McKinney | P.O. Box 1927 | Louisville | KY | 40201 | 33,032.00
Kentucky Housing Corporation/King's Crossing | 1231 Louisville Rd | Frankfort | KY | 40601 | 35,371.00
Mountain Comprehensive Care Center/Mountain Housing SRA | 104 South Front Aveune | Prestonsburg | KY | 41653 | 37,777.00
Homeless & Housing Coalition of Kentucky/Region 6 Coordinated Entry | 306 W. Main St., Ste. 207 | Frankfort | KY | 40601 | 41,025.00
Kentucky River Community Care, Inc./Kentucky River Community Care—CoC Coordinated Entry | 115 Rockwood Lane | Hazard | KY | 41701 | 41,025.00
Welcome House of Northern Kentucky, Inc./Northern Kentucky Coordinated Entry | 205 West Pike Street | Covington | KY | 41011 | 41,025.00
Kentucky Housing Corporation/Heartland CARES Shelter Plus Care Program | 1231 Louisville Rd | Frankfort | KY | 40601 | 41,807.00
Louisville-Jefferson County Metro Government/SPC Simon Hall | 527 West Jefferson Street, Suite 400 ATTN: Office of Resilience and Community Services | Louisville | KY | 40202 | 42,382.00
Kentucky Housing Corporation/KRCC—CoC Leasing Grant | 1231 Louisville Rd | Frankfort | KY | 40601 | 44,393.00
Kentucky Housing Corporation/Hope Self-Help Housing | 1231 Louisville Rd | Frankfort | KY | 40601 | 46,273.00
Kentucky Housing Corporation/Hope Self-Help Housing Expansion | 1231 Louisville Rd | Frankfort | KY | 40601 | 46,273.00
Kentucky Housing Corporation/Gateway House Rapid Rehousing Program Expansion | 1231 Louisville Rd | Frankfort | KY | 40601 | 46,552.00
Lexington-Fayette Urban County Government/KY-502 CoC Planning Application FY2017 | 200 East Main Street | Lexington | KY | 40507 | 46,864.00
Louisville-Jefferson County Metro Government/Rapid Rehousing for Domestic Violence Victims | 527 West Jefferson Street, Suite 400 ATTN: Office of Resilience and Community Services | Louisville | KY | 40202 | 54,319.00
Kentucky Housing Corporation/Harlan Permanent Housing Program | 1231 Louisville Rd | Frankfort | KY | 40601 | 57,382.00
Kentucky Housing Corporation/Good News Homes Rapid Rehousing Project | 1231 Louisville Rd | Frankfort | KY | 40601 | 61,644.00
Kentucky Housing Corporation/Mountain Comprehensive Care Shelter Plus Care Program | 1231 Louisville Rd | Frankfort | KY | 40601 | 72,929.00
Hope Center, Inc./Housing First Renewal 2017 | 360 W. Loudon Ave | Lexington | KY | 40508 | 76,749.00
Kentucky Housing Corporation/Kentucky River Community Care Sponsor-Based Shelter Plus Care Program | 1231 Louisville Rd | Frankfort | KY | 40601 | 77,799.00
Choices, Inc./PSH2017 | 419 S. Shelby Street | Louisville | KY | 40202 | 78,300.00
Coalition for the Homeless, Inc./Louisville HMIS 3—Single Point of Entry | 1300 South 4th Street, Suite 250 | Louisville | KY | 40208 | 79,502.00
Kentucky Housing Corporation/BDHC's Rapid Rehousing | 1231 Louisville Rd | Frankfort | KY | 40601 | 81,427.00
Kentucky Housing Corporation/Kentucky HMIS II | 1231 Louisville Rd | Frankfort | KY | 40601 | 84,951.00
Transitions, Inc./Permanent Housing Initiative | 1650 Russell Street | Covington | KY | 41011 | 90,147.00
Wayside Christian Mission/Women's permanent supportive housing 2 | 120 West Broadway | Louisville | KY | 40202 | 93,614.00
Centerstone of Kentucky/Homeless Outreach Team | 10101 Linn Station Road, Suite 600 | Louisville | KY | 40223 | 94,825.00
Transitions, Inc./Affordable Housing Project | 1650 Russell Street | Covington | KY | 41011 | 96,075.00
Lexington Rescue Mission/Rapid Rehousing for Homeless Ex-Offenders | 444 Glen Arvin Ave | Lexington | KY | 40508 | 98,224.00
Kentucky Housing Corporation/Jarnigan Place RRH | 1231 Louisville Rd | Frankfort | KY | 40601 | 102,304.00
Louisville-Jefferson County Metro Government/SPC DePaul Apartments | 527 West Jefferson Street, Suite 400 ATTN: Office of Resilience and Community Services | Louisville | KY | 40202 | 103,396.00
Kentucky Housing Corporation/Pennyroyal Permanent Housing | 1231 Louisville Rd | Frankfort | KY | 40601 | 104,530.00
Kentucky Housing Corporation/Northern Kentucky Permanent Housing Program | 1231 Louisville Rd | Frankfort | KY | 40601 | 107,539.00
Kentucky Housing Corporation/Gateway House Rapid Rehousing Program | 1231 Louisville Rd | Frankfort | KY | 40601 | 111,029.00
Family Health Centers, Inc./SSO Common Assessment II | 2215 Portland Avenue | Louisville | KY | 40212 | 111,488.00
Kentucky Housing Corporation/Community Action Council Samaritan Program | 1231 Louisville Rd | Frankfort | KY | 40601 | 111,810.00
Kentucky Housing Corporation/Rural Rapid Rehousing for Domestic Violence Victims | 1231 Louisville Rd | Frankfort | KY | 40601 | 113,736.00
Volunteers of America Mid-States, Inc./CoC Rapid Rehousing for Families | 570 South Fourth Street, Suite 100 | Louisville | KY | 40202 | 114,442.00
Louisville-Jefferson County Metro Government/PSH III CH | 527 West Jefferson Street, Suite 400 ATTN: Office of Resilience and Community Services | Louisville | KY | 40202 | 120,197.00
Wayside Christian Mission/Men's permanent supportive housing | 120 West Broadway | Louisville | KY | 40202 | 122,498.00
Coalition for the Homeless, Inc./Louisville HMIS 1 | 1300 South 4th Street, Suite 250 | Louisville | KY | 40208 | 124,641.00
Kentucky Housing Corporation/Merryman House Permanent Housing | 1231 Louisville Rd | Frankfort | KY | 40601 | 124,687.00
Transitions, Inc./Willow Run Project | 1650 Russell Street | Covington | KY | 41011 | 124,850.00
Society of St. Vincent de Paul, Council of Louisville, Inc./Homes With Hope | 1015-C South Preston Street | Louisville | KY | 40203 | 131,787.00
Kentucky Housing Corporation/Northern Kentucky Permanent Supportive Housing Program | 1231 Louisville Rd | Frankfort | KY | 40601 | 144,677.00
Community Action Council for Lexington-Fayette, Bourbon, Har/Crisis and Housing Support | P.O. Box 11610 | Lexington | KY | 40576 | 148,968.00
Kentucky River Foothills Development Council, Inc./Estill & Powell Counties Joint TH/RRH | 309 Spangler Drive | Richmond | KY | 40475 | 149,400.00
Welcome House of Northern Kentucky, Inc./Welcome House Rapid ReHousing 2 | 205 West Pike Street | Covington | KY | 41011 | 151,537.00
House of Ruth, Inc/Homes with Heart | 607 E. Saint Catherine Street | Louisville | KY | 40203 | 156,178.00
Louisville-Jefferson County Metro Government/PSH Non Chronic I | 527 West Jefferson Street, Suite 400 ATTN: Office of Resilience and Community Services | Louisville | KY | 40202 | 159,882.00
Kentucky Housing Corporation/Kentucky Homeless Management Information System | 1231 Louisville Rd | Frankfort | KY | 40601 | 170,000.00
Welcome House of Northern Kentucky, Inc./Welcome House CoC Rapid ReHousing Program | 205 West Pike Street | Covington | KY | 41011 | 171,980.00
New Beginnings, Bluegrass, Inc./New Beginnings Housing First Program | 225 Walton Avenue, Suite 120 | Lexington | KY | 40502 | 172,532.00
Bluegrass.org, Inc./Continuum of Care Program | 1351 Newtown Pike, Building 1 | Lexington | KY | 40511 | 173,811.00
Community Action Council for Lexington-Fayette, Bourbon, Har/Crisis and Housing Support for Youth | P.O. Box 11610 | Lexington | KY | 40576 | 182,390.00
Lexington-Fayette Urban County Housing Authority/LexCOC | 300 W. New Circle Road | Lexington | KY | 40505 | 188,099.00
Family Health Centers, Inc./SSO Common Assessment | 2215 Portland Avenue | Louisville | KY | 40212 | 188,168.00
Kentucky Housing Corporation/Community Action Continuum of Care Program | 1231 Louisville Rd | Frankfort | KY | 40601 | 192,158.00
Transitions, Inc./Homeless Services Project | 1650 Russell Street | Covington | KY | 41011 | 198,481.00
Louisville-Jefferson County Metro Government/PSH Non-Chronic II | 527 West Jefferson Street, Suite 400 ATTN: Office of Resilience and Community Services | Louisville | KY | 40202 | 199,474.00
Coalition for the Homeless, Inc./Permanent Supportive Housing for Youth and Adults | 1300 South 4th Street, Suite 250 | Louisville | KY | 40208 | 200,036.00
Kentucky Housing Corporation/Passages PSH | 1231 Louisville Rd | Frankfort | KY | 40601 | 200,610.00
Independent Living Options, Inc./Housing for Persons with Disabilities | 2031 Auburn Avenue | Cincinnati | KY | 45219 | 200,712.00
Kentucky Housing Corporation/CILO Supportive Housing Program | 1231 Louisville Rd | Frankfort | KY | 40601 | 200,763.00
Kentucky Housing Corporation/Kentucky River Community Care PH—TRA | 1231 Louisville Rd | Frankfort | KY | 40601 | 201,721.00
Hope Center, Inc./SMI Permanent Housing Renewal 2017 | 360 W. Loudon Ave | Lexington | KY | 40508 | 201,952.00
Kentucky Housing Corporation/Southeast Kentucky Homeless and Housing Alliance | 1231 Louisville Rd | Frankfort | KY | 40601 | 203,920.00
Kentucky Housing Corporation/KRCC RRH | 1231 Louisville Rd | Frankfort | KY | 40601 | 205,803.00
Coalition for the Homeless, Inc./Transitional Housing for Young Adults | 1300 South 4th Street, Suite 250 | Louisville | KY | 40208 | 230,605.00
Kentucky Housing Corporation/KY500 CoC Planning Application FY2017 | 1231 Louisville Rd | Frankfort | KY | 40601 | 239,905.00
Wellspring, Inc. (dba Schizophrenia Foundation, KY, Inc.)/Journey Permanent Supportive Housing | P.O. Box 1927 | Louisville | KY | 40201 | 240,718.00
Kentucky Housing Corporation/PEACE Housing Program | 1231 Louisville Rd | Frankfort | KY | 40601 | 255,806.00
Kentucky Housing Corporation/KCADV Rapid Rehousing Project | 1231 Louisville Rd | Frankfort | KY | 40601 | 256,770.00
Coalition for the Homeless, Inc./2017 Louisville Planning Grant Application | 1300 South 4th Street, Suite 250 | Louisville | KY | 40208 | 275,406.00
Kentucky Housing Corporation/Northern Kentucky Rapid Rehousing Program | 1231 Louisville Rd | Frankfort | KY | 40601 | 282,399.00
Kentucky Housing Corporation/Safe Harbor Transitional Housing | 1231 Louisville Rd | Frankfort | KY | 40601 | 282,902.00
Kentucky Housing Corporation/Housing First Balance of State Region 6 | 1231 Louisville Rd | Frankfort | KY | 40601 | 286,698.00
Kentucky Housing Corporation/CCCS RRH Program | 1231 Louisville Rd | Frankfort | KY | 40601 | 295,227.00
Kentucky Housing Corporation/LifeSkills PH TBRA | 1231 Louisville Rd | Frankfort | KY | 40601 | 309,506.00
Kentucky Housing Corporation/Housing Now | 1231 Louisville Rd | Frankfort | KY | 40601 | 319,156.00
Welcome House of Northern Kentucky, Inc./Gaining Access through Programs and Services | 205 West Pike Street | Covington | KY | 41011 | 325,851.00
Community Action Council for Lexington-Fayette, Bourbon, Har/Project Independence Rapid Re-housing | P.O. Box 11610 | Lexington | KY | 40576 | 327,895.00
Coalition for the Homeless, Inc./Supportive Housing for Chronically Homeless | 1300 South 4th Street, Suite 250 | Louisville | KY | 40208 | 329,464.00
Kentucky Housing Corporation/Region 6 Permanent Housing Project | 1231 Louisville Rd | Frankfort | KY | 40601 | 357,375.00
Society of St. Vincent de Paul, Council of Louisville, Inc./SVDP On Campus PSH | 1015-C South Preston Street | Louisville | KY | 40203 | 362,221.00
Home of the Innocents/Rapid Re-Housing | 1100 E. Market Street | Louisville | KY | 40206 | 438,290.00
Coalition for the Homeless, Inc./Family Health Centers Rx: Housing | 1300 South 4th Street, Suite 250 | Louisville | KY | 40208 | 447,059.00
Kentucky Housing Corporation/Safe Place I Samaritan | 1231 Louisville Rd | Frankfort | KY | 40601 | 504,003.00
Society of St. Vincent de Paul, Council of Louisville, Inc./Collaborative Housing Initiative | 1015-C South Preston Street | Louisville | KY | 40203 | 505,258.00
Coalition for the Homeless, Inc./Permanent Supportive Housing for the Chronically Homeless | 1300 South 4th Street, Suite 250 | Louisville | KY | 40208 | 507,229.00
Volunteers of America Mid-States, Inc./Volunteers of America-Joint Component Project-Transitional Housing/Rapid Rehousing | 570 South Fourth Street, Suite 100 | Louisville | KY | 40202 | 547,223.00
Coalition for the Homeless, Inc./Louisville Alliance for Supportive Housing | 1300 South 4th Street, Suite 250 | Louisville | KY | 40208 | 633,487.00
Coalition for the Homeless, Inc./Collaborative Housing for Chronically Homeless | 1300 South 4th Street, Suite 250 | Louisville | KY | 40208 | 695,609.00
Louisville-Jefferson County Metro Government/SPC Louisville TBRA | 527 West Jefferson Street, Suite 400 ATTN: Office of Resilience and Community Services | Louisville | KY | 40202 | 2,037,501.00
HOPE Connections/NWLA HMIS Project Expansion | 2350 Levy Street | Shreveport | LA | 71103 | 4,899.00
Central Louisiana Coalition to Prevent Homelessness, Inc./LA-507 CoC Planning Application FY2017 | P.O. BOX 1303 | Alexandria | LA | 71309 | 20,776.00
O'Brien House/OBH Permanent Housing | 446 North 12th Street | Baton Rouge | LA | 70802 | 23,905.00
Volunteers Of America of North Louisiana/7140 Renewal 2017 | 360 Jordan Street | Shreveport | LA | 71101 | 26,199.00
Louisiana Coastal Homeless Coalition, Inc./LCHC CoC Planning Project FY2017 | 320 Progressive Blvd | Houma | LA | 70360 | 31,585.00
Acadiana Outreach Center, Inc./AOC RR Expansion | 625 N. University Ave | Lafayette | LA | 70506 | 34,386.00
Central Louisiana Coalition to Prevent Homelessness, Inc./Coordinated Entry | P.O. BOX 1303 | Alexandria | LA | 71309 | 35,000.00
Volunteers of America North Louisiana/Rapid Rehousing 2017 | 360 Jordan Street | Shreveport | LA | 71101 | 36,194.00
Volunteers of America of Greater New Orleans/Project PHVA | 4152 Canal Street | New Orleans | LA | 70119 | 43,507.00
Louisiana Housing Corporation/OLOL St.Anthony's House | 2415 Quail Dr | Baton Rouge | LA | 70808 | 43,928.00
Volunteers of America of Greater New Orleans/Project ROK | 4152 Canal Street | New Orleans | LA | 70119 | 45,188.00
UNITY of Greater New Orleans/Case Management for PH | 2475 Canal Street, Suite 300 | New Orleans | LA | 70119 | 46,316.00
NELA Housing and Supportive Services Corporation/LA-505 CoC Planning Application FY2017 | 1515 Jackson Street | Monroe | LA | 71202 | 47,180.00
Catholic Services of Acadiana, Inc./The Oasis (dba—Stella Maris Center) | 405 St. John Street | Lafayette | LA | 70501 | 50,229.00
Northlake Homeless Coalition/NHC CAAS Project | 23515 US 190 | Mandeville | LA | 70448 | 50,952.00
Rays of Sonshine/Sonshine Yellow House | 200 Breard Street | Monroe | LA | 71201 | 52,692.00
The Wellspring Alliance for Families, Inc./Wellspring PHP | 1515 Jackson Street | Monroe | LA | 71202 | 53,899.00
Easter Seals Louisiana/Intensive Community Engagement Expansion | 3007 Knight St., Suite 200 | Shreveport | LA | 71105 | 54,144.00
Our House, Inc./Supportive Housing Program | 205 Smith | Monroe | LA | 71203 | 58,542.00
Central Louisiana Coalition to Prevent Homelessness, Inc./HMIS | P.O. BOX 1303 | Alexandria | LA | 71309 | 59,353.00
PARTICULAR COUNCIL OF ST. VINCENT DE PAUL OF BATON ROUGE, LOUISIANA/2017 SVDP Coordinated Assessment Expansion Project | 220 St. Vincent De Paul Place | Baton Rouge | LA | 70802 | 62,254.00
Volunteers of America—Greater Baton Rouge/2017 VOA Outreach | 3949 North Boulevard | Baton Rouge | LA | 70806 | 64,626.00
Faith House, Inc./Transitional Housing—Domestic Violence | 1300 E. Pinhook | Lafayette | LA | 70501 | 64,760.00
Louisiana Housing Corporation/Youth Oasis | 2415 Quail Dr | Baton Rouge | LA | 70808 | 64,874.00
Northlake Homeless Coalition/NHC Planning Project | 23515 US 190 | Mandeville | LA | 70448 | 64,975.00
HOPE Connections/NWLA HMIS Project | 2350 Levy Street | Shreveport | LA | 71103 | 65,600.00
Community Support Programs, Inc./Center for Women's Issues Expansion | 2924 Knight Street, Ste 326 | Shreveport | LA | 71105 | 68,602.00
Acadiana Regional Coalition on Homelessness and Housing, Inc./CoC Planning Project FY2017 | P.O. 3936 | Lafayette | LA | 70502 | 72,176.00
The Wellspring Alliance for Families, Inc./Northeast Louisiana HMIS | 1515 Jackson Street | Monroe | LA | 71202 | 74,246.00
START Corporation/START BOS PSH 2 | P.O. Box 165 | Houma | LA | 70361 | 74,390.00
PARTICULAR COUNCIL OF ST. VINCENT DE PAUL OF BATON ROUGE, LOUISIANA/2017 SVDP Coordinated Assessment Project | 220 St. Vincent De Paul Place | Baton Rouge | LA | 70802 | 75,400.00
Acadiana C.A.R.E.S., Inc/Permanent Supportive Housing for Homeless Persons w/Disabilities—ACEX | 809 Martin Luther King, Jr. Drive | Lafayette | LA | 70501 | 78,399.00
NAMI St. Tammany/Supportive Housing—Permanent Housing | 23515 Hwy 190 | Mandeville | LA | 70448 | 79,149.00
Acadiana C.A.R.E.S., Inc/AcadianaCares Coordinated Entry Program | 809 Martin Luther King, Jr. Drive | Lafayette | LA | 70501 | 80,718.00
Gulf Coast Teaching Family Services, Inc./The Network FY2017 | 320 Progressive Blvd | Houma | LA | 70360 | 81,506.00
Covenant House New Orleans/Rights of Passage Apartment Living | 611 North Rampart | New Orleans | LA | 70112 | 82,153.00
PARTICULAR COUNCIL OF ST. VINCENT DE PAUL OF BATON ROUGE, LOUISIANA/2017 SVDP PH Project | 220 St. Vincent De Paul Place | Baton Rouge | LA | 70802 | 83,665.00
Volunteers of America of Greater New Orleans/Project CH TWSH | 4152 Canal Street | New Orleans | LA | 70119 | 89,427.00
The Wellspring Alliance for Families, Inc./Help and Home | 1515 Jackson Street | Monroe | LA | 71202 | 90,189.00
232-HELP, INC/Project Application_232-HELP_Region IV CoC Supportive Service Only—Coordinated Entry (SSO-CE) | 1005 Jefferson Street | Lafayette | LA | 70501 | 94,503.00
HIV/AIDS Alliance for Region Two, Inc./2017 Homes from the HAART | 4550 North Blvd., Ste. 250 | Baton Rouge | LA | 70806 | 96,202.00
Central Louisiana Coalition to Prevent Homelessness, Inc./Rapid Rehousing | P.O. BOX 1303 | Alexandria | LA | 71309 | 96,394.00
Our House, Inc./Youth Transitions | 205 Smith | Monroe | LA | 71203 | 96,448.00
Acadiana Outreach Center, Inc./AOC TH/RR | 625 N. University Ave | Lafayette | LA | 70506 | 96,684.00
Capital Area Alliance for the Homeless/2017 VOA Home at Last | 153 N. 17th Street | Baton Rouge | LA | 70802 | 100,013.00
UNITY of Greater New Orleans/Covenant House Permanent Housing for Youth | 2475 Canal Street, Suite 300 | New Orleans | LA | 70119 | 106,712.00
PARTICULAR COUNCIL OF ST. VINCENT DE PAUL OF BATON ROUGE, LOUISIANA/2017 SVDP Myriam's House | 220 St. Vincent De Paul Place | Baton Rouge | LA | 70802 | 108,499.00
The Wellspring Alliance for Families, Inc./Wellspring PSH II | 1515 Jackson Street | Monroe | LA | 71202 | 109,752.00
START Corporation/Safe Start FY2017 | P.O. Box 165 | Houma | LA | 70361 | 111,233.00
The Wellspring Alliance for Families, Inc./Hope in Action | 1515 Jackson Street | Monroe | LA | 71202 | 111,312.00
Volunteers of America of Greater New Orleans/Project CH PSH North Shore | 4152 Canal Street | New Orleans | LA | 70119 | 112,023.00
HOPE Connections/CoC 2017 Planning Project | 2350 Levy Street | Shreveport | LA | 71103 | 113,135.00
Volunteers of America of Greater New Orleans/Permanent Supportive Housing for Homeless Persons with Disabilities | 4152 Canal Street | New Orleans | LA | 70119 | 117,286.00
UNITY of Greater New Orleans/VOA Case Management | 2475 Canal Street, Suite 300 | New Orleans | LA | 70119 | 118,007.00
Acadiana Outreach Center, Inc./AOC Rapid Rehousing | 625 N. University Ave | Lafayette | LA | 70506 | 118,598.00
St. Tammany Parish Government/Supportive Housing Program | P.O. Box 628 21454 Koop Dr | Covington | LA | 70434 | 122,076.00
UNITY of Greater New Orleans/Rapid Rehousing for Youth | 2475 Canal Street, Suite 300 | New Orleans | LA | 70119 | 123,770.00
Catholic Charities Archdioces of New Orleans/Ciara Permanent Housing | 1000 Howard Avenue, Suite 200 | New Orleans | LA | 70113 | 127,354.00
HOPE Connections/Coordinated Access Point | 2350 Levy Street | Shreveport | LA | 71103 | 127,585.00
Faith House, Inc./Permanent Housing—Domestic Violence | 1300 E. Pinhook | Lafayette | LA | 70501 | 129,765.00
UNITY of Greater New Orleans/Coordinated Entry Project | 2475 Canal Street, Suite 300 | New Orleans | LA | 70119 | 130,559.00
Hope House of Central Louisiana, Inc/Hope House of Central Louisiana SHP-TH Renewal 2017 | 5115 South MacArthur Drive | Alexandria | LA | 71302 | 131,666.00
Options for Independence, Inc./Visions I FY2017 | 147 New Orleans Blvd | Houma | LA | 70364 | 131,773.00
UNITY of Greater New Orleans/Covenant House Rapid Rehousing for Young Families | 2475 Canal Street, Suite 300 | New Orleans | LA | 70119 | 134,020.00
Volunteers of America—Greater Baton Rouge/2017 VOA Rural Supportive Housing | 3949 North Boulevard | Baton Rouge | LA | 70806 | 134,564.00
Northlake Homeless Coalition/NHC RRH | 23515 US 190 | Mandeville | LA | 70448 | 135,144.00
Catholic Services of Acadiana, Inc./HMIS Dedicated Project | 405 St. John Street | Lafayette | LA | 70501 | 139,549.00
UNITY of Greater New Orleans/The Finally Home Project | 2475 Canal Street, Suite 300 | New Orleans | LA | 70119 | 140,011.00
Acadiana Outreach Center, Inc./AOC RR Bonus: Iberia/St Martin/Vermilion | 625 N. University Ave | Lafayette | LA | 70506 | 144,327.00
UNITY of Greater New Orleans/Coming Home PSH | 2475 Canal Street, Suite 300 | New Orleans | LA | 70119 | 144,772.00
The Wellspring Alliance for Families, Inc./Wellspring Regional Rapid Rehousing Project | 1515 Jackson Street | Monroe | LA | 71202 | 147,632.00
Louisiana Housing Corporation/Maison des Ami | 2415 Quail Dr | Baton Rouge | LA | 70808 | 147,687.00
Southeastern Louisiana University/Northlake HMIS Data Project | SLU Box 10509 Mims Hall, Room 129 | Hammond | LA | 70402 | 149,877.00
First Evangelist Housing Community Development Corporation/First Evangelist Housing and Community Development Corporation | 2826 Martin Luther King Boulevard | New Orleans | LA | 70113 | 152,834.00
UNITY of Greater New Orleans/Youth Outreach and Coordinated Entry | 2475 Canal Street, Suite 300 | New Orleans | LA | 70119 | 153,338.00
UNITY of Greater New Orleans/Home for Good | 2475 Canal Street, Suite 300 | New Orleans | LA | 70119 | 155,608.00
UNITY of Greater New Orleans/Salvation Army Family Transitional Housing | 2475 Canal Street, Suite 300 | New Orleans | LA | 70119 | 158,768.00
START Corporation/Starting Over FY2017 | P.O. Box 165 | Houma | LA | 70361 | 160,785.00
Volunteers of America North Louisiana/VoA Cenla Rapides 2017 | 360 Jordan Street | Shreveport | LA | 71101 | 162,631.00
The Wellspring Alliance for Families, Inc./Raise the Roof | 1515 Jackson Street | Monroe | LA | 71202 | 163,083.00
Rays of Sonshine/Sonshine Heights Safe Haven | 200 Breard Street | Monroe | LA | 71201 | 165,508.00
Volunteers of America of Greater New Orleans/Permanent Housing for the Homeless with Disabilities | 4152 Canal Street | New Orleans | LA | 70119 | 168,185.00
START Corporation/Starting Point FY2017 | P.O. Box 165 | Houma | LA | 70361 | 168,323.00
Central Louisiana Coalition to Prevent Homelessness, Inc./PSH-LITS | P.O. BOX 1303 | Alexandria | LA | 71309 | 169,258.00
UNITY of Greater New Orleans/New Orleans Women's Shelter TH | 2475 Canal Street, Suite 300 | New Orleans | LA | 70119 | 171,948.00
Catholic Charities Archdioces of New Orleans/Bridges to Self Sufficiency | 1000 Howard Avenue, Suite 200 | New Orleans | LA | 70113 | 180,696.00
Philadelphia Center/Mercy Center | 2020 Centenary | Shreveport | LA | 71104 | 181,005.00
UNITY of Greater New Orleans/Home At Last | 2475 Canal Street, Suite 300 | New Orleans | LA | 70119 | 181,293.00
Calcasieu Parish Police Jury/Regional Coordinated Entry Renewal 2017 (1) | 2001 Moeling Street | Lake Charles | LA | 70601 | 182,144.00
START Corporation/Visions II FY2017 | P.O. Box 165 | Houma | LA | 70361 | 182,361.00
UNITY of Greater New Orleans/Welcome Home Outreach | 2475 Canal Street, Suite 300 | New Orleans | LA | 70119 | 184,628.00
NAMI New Orleans/Permanent Housing and Independent Living Program | 1538 Louisiana Avenue | New Orleans | LA | 70115 | 188,793.00
Louisiana Housing Corporation/Options Villa | 2415 Quail Dr | Baton Rouge | LA | 70808 | 194,379.00
UNITY of Greater New Orleans/Rapid Rehousing for Chronically Homeless Persons Project | 2475 Canal Street, Suite 300 | New Orleans | LA | 70119 | 194,915.00
Volunteers of America—Greater Baton Rouge/2017 VOA Housing First | 3949 North Boulevard | Baton Rouge | LA | 70806 | 198,822.00
Volunteers of America of Greater New Orleans/Gimme Shelta—Scattered Permanent Housing | 4152 Canal Street | New Orleans | LA | 70119 | 200,114.00
Volunteers of America, Greater Baton Rouge, Inc./Permanent Supportive Housing for People with Disabilities | 3949 North Blvd | Baton Rouge | LA | 70806 | 203,766.00
UNITY of Greater New Orleans/Project Home | 2475 Canal Street, Suite 300 | New Orleans | LA | 70119 | 211,444.00
HIV/AIDS Alliance for Region Two, Inc./2017 HAART Hope & Healing | 4550 North Blvd., Ste. 250 | Baton Rouge | LA | 70806 | 211,995.00
UNITY of Greater New Orleans/Goodwill Rapid Rehousing | 2475 Canal Street, Suite 300 | New Orleans | LA | 70119 | 215,130.00
Responsibility House, Inc./Permanent Supportive Housing | 1799 Stump Blvd., Building 7, Suite 2 | Gretna | LA | 70056 | 215,236.00
UNITY of Greater New Orleans/Day Center Coordinated Entry | 2475 Canal Street, Suite 300 | New Orleans | LA | 70119 | 217,134.00
Elisha Ministries DBA Supportive Housing of Northeast LA/Elijah Rural Supportive Housing 2017 | 608 South Trenton St., P.O. Box 1886 | Ruston, LA | LA | 71270 | 220,305.00
Healing Place Serve/HP Serve Rapid Re-housing Program | 19202 Highland Rd | Baton Rouge | LA | 70809 | 222,613.00
START Corporation/Fresh Start FY2017 | P.O. Box 165 | Houma | LA | 70361 | 228,283.00
Easter Seals Louisiana/Pathways to Independence | 3007 Knight St., Suite 200 | Shreveport | LA | 71105 | 235,774.00
UNITY of Greater New Orleans/The Transformation Supportive Housing Project | 2475 Canal Street, Suite 300 | New Orleans | LA | 70119 | 236,342.00
Louisiana Housing Corporation/HMIS | 2415 Quail Dr | Baton Rouge | LA | 70808 | 239,592.00
Southeast Spouse Abuse Program/dba Southeast Advocates for Family Empowerment (SAFE)/SAFE RRH | 46497 N. Morrison Blvd | Hammond | LA | 70401 | 239,899.00
Volunteers of America of Greater New Orleans/Project CH VOAGNO | 4152 Canal Street | New Orleans | LA | 70119 | 241,465.00
Easter Seals Louisiana/Intensive Community Engagement | 3007 Knight St, Suite 200 | Shreveport | LA | 71105 | 245,070.00
UNITY of Greater New Orleans/GNO Rapid Rehousing | 2475 Canal Street, Suite 300 | New Orleans | LA | 70119 | 250,624.00
UNITY of Greater New Orleans/Jefferson Parish Human Services Authority Permanent Housing Program | 2475 Canal Street, Suite 300 | New Orleans | LA | 70119 | 258,072.00
The Wellspring Alliance for Families, Inc./Reach Out: Rural Initiative | 1515 Jackson Street | Monroe | LA | 71202 | 265,653.00
Jefferson Parish Department of Community Development/LA503-REN-Shelter Plus Care Program | 1221 Elmwood Park Blvd., Suite 605 | Jefferson | LA | 70123 | 275,504.00
Catholic Services of Acadiana, Inc./Catholic Services of Acadiana PSH Program | 405 St. John Street | Lafayette | LA | 70501 | 283,652.00
UNITY of Greater New Orleans/Home at Last—Esplanade (Goodwill) | 2475 Canal Street, Suite 300 | New Orleans | LA | 70119 | 283,925.00
Jefferson Parish Human Services Authority/JPHSA Supportive Housing for Persons with Disabilities | 3616 S. I-10 Service Rd. W | Metairie | LA | 70001 | 284,713.00
Acadiana C.A.R.E.S., Inc/Permanent Supportive Housing for Homeless Persons w/Disabilities—HIV | 809 Martin Luther King, Jr. Drive | Lafayette | LA | 70501 | 293,884.00
UNITY of Greater New Orleans/Street Outreach for Coordinated Entry | 2475 Canal Street, Suite 300 | New Orleans | LA | 70119 | 298,472.00
Community Support Programs, Inc./Center For Women's Issues | 2924 Knight Street, Ste 326 | Shreveport | LA | 71105 | 299,127.00
UNITY of Greater New Orleans/Home is Where the Heart is | 2475 Canal Street, Suite 300 | New Orleans | LA | 70119 | 310,341.00
Catholic Services of Acadiana, Inc./CSA Rapid Rehousing Project | 405 St. John Street | Lafayette | LA | 70501 | 333,474.00
UNITY of Greater New Orleans/Pathways PSH | 2475 Canal Street, Suite 300 | New Orleans | LA | 70119 | 334,821.00
Volunteers of America of Greater New Orleans/Northshore Permanent Housing for Disabled Individuals | 4152 Canal Street | New Orleans | LA | 70119 | 338,559.00
Community Support Programs, Inc./Crossroads II | 2924 Knight Street, Ste 326 | Shreveport | LA | 71105 | 340,193.00
UNITY of Greater New Orleans/Start Rapid Rehousing | 2475 Canal Street, Suite 300 | New Orleans | LA | 70119 | 370,324.00
Volunteers Of America Of North LA/GAPS | 360 Jordan Street | Shreveport | LA | 71101 | 389,708.00
Acadiana C.A.R.E.S., Inc/Permanent Supportive Housing for Homeless Persons w/Disabilities—AC | 809 Martin Luther King, Jr. Drive | Lafayette | LA | 70501 | 393,682.00
UNITY of Greater New Orleans/NO AIDS Task Force Permanent Housing | 2475 Canal Street, Suite 300 | New Orleans | LA | 70119 | 442,853.00
UNITY of Greater New Orleans/VIA LINK HMIS | 2475 Canal Street, Suite 300 | New Orleans | LA | 70119 | 444,018.00
UNITY of Greater New Orleans/The Journey Home | 2475 Canal Street, Suite 300 | New Orleans | LA | 70119 | 446,552.00
UNITY of Greater New Orleans/New Start Housing | 2475 Canal Street, Suite 300 | New Orleans | LA | 70119 | 450,428.00
UNITY of Greater New Orleans/Catholic Charities Voyage House | 2475 Canal Street, Suite 300 | New Orleans | LA | 70119 | 463,646.00
Community Support Programs, Inc./REACH II | 2924 Knight Street, Ste 326 | Shreveport | LA | 71105 | 531,439.00
UNITY of Greater New Orleans/CoC Planning Project | 2475 Canal Street, Suite 300 | New Orleans | LA | 70119 | 551,651.00
UNITY of Greater New Orleans/Dedicated Plus New Start Housing | 2475 Canal Street, Suite 300 | New Orleans | LA | 70119 | 563,599.00
UNITY of Greater New Orleans/Travelers Aid Society Housing First Permanent Housing Project | 2475 Canal Street, Suite 300 | New Orleans | LA | 70119 | 566,741.00
City of New Orleans Office of Community Development/City of New Orleans Shelter Plus Care | 1340 Poydras Street, Suite 1000 | New Orleans | LA | 70112 | 593,220.00
UNITY of Greater New Orleans/New Orleans Womanspace | 2475 Canal Street, Suite 300 | New Orleans | LA | 70119 | 602,987.00
Louisiana Housing Corporation/Louisiana Housing Corporation-RRH | 2415 Quail Dr | Baton Rouge | LA | 70808 | 605,360.00
START Corporation/START BOS PSH 1 | P.O. Box 165 | Houma | LA | 70361 | 642,982.00
Volunteers Of America Of North LA/SHOC | 360 Jordan Street | Shreveport | LA | 71101 | 648,828.00
UNITY of Greater New Orleans/Rapid Rehousing for Families | 2475 Canal Street, Suite 300 | New Orleans | LA | 70119 | 683,757.00
Housing Authority of the City of Bossier City, Louisiana/Harbor I Consolidated Renewal FY2017 | 805 First Street East | Bossier City | LA | 71111 | 733,928.00
UNITY of Greater New Orleans/Odyssey House Samaritan | 2475 Canal Street, Suite 300 | New Orleans | LA | 70119 | 750,245.00
Volunteers of America of Greater New Orleans/Permanent Housing for Homeless Persons with Disabilities | 4152 Canal Street | New Orleans | LA | 70119 | 1,050,787.00
UNITY of Greater New Orleans/The Keys Project | 2475 Canal Street, Suite 300 | New Orleans | LA | 70119 | 1,170,241.00
Metropolitan Human Services District/Sponsor Based Rental Assistance Shelter Plus Care | 3100 General DeGaulle Avenue | New Orleans | LA | 70114 | 1,263,119.00
UNITY of Greater New Orleans/Partners in Health and Housing | 2475 Canal Street, Suite 300 | New Orleans | LA | 70119 | 2,393,632.00
Louisiana Housing Corporation/Louisiana State Permanent Supportive Housing Initiative | 2415 Quail Dr | Baton Rouge | LA | 70808 | 11,630,421.00
Lynn Housing Authority & Neighborhood Development/Housing Works Inc. HMIS | 10 Church Street | Lynn | MA | 01902 | 12,352.00
City of Cambridge, Massachusetts/Cambridge Coordinated Intake | 51 Inman St | Cambridge | MA | 02139 | 12,624.00
City of Peabody/HMIS Renewal Application 2017 | 24 Lowell Street | Peabody | MA | 01960 | 14,000.00
City of Cambridge, Massachusetts/Cambridge Dedicated HMIS Expansion | 51 Inman St | Cambridge | MA | 02139 | 14,770.00
City of Cambridge, Massachusetts/Cambridge Dedicated HMIS | 51 Inman St | Cambridge | MA | 02139 | 20,230.00
Community Counseling of Bristol County, Inc./GBCATCH HMIS Project | One Washington Street | Taunton | MA | 02780 | 20,273.00
Hilltown CDC/Project Reach | 387 Main Road, P.O. Box 17 | Chesterfield | MA | 01012 | 22,156.00
City of Springfield/CSO-FOH Worthington House Campus | 1600 E. Columbus Ave | Springfield | MA | 01103 | 22,679.00
YWCA Northeastern Massachusetts/YWCA Fina House | 38 Lawrence St | Lawrence | MA | 01840 | 23,251.00
Duffy Health Center, Inc./Welcome Home 2 | 94 Main St | Hyannis | MA | 02601 | 23,317.00
Community Counseling of Bristol County, Inc./CoC Planning Project Application FY2017 | One Washington Street | Taunton | MA | 02780 | 24,306.00
Hilltown CDC/Paradise Pond Apartments | 387 Main Road, P.O. Box 17 | Chesterfield | MA | 01012 | 24,484.00
City of Springfield/CSO-FOH PSH 2 | 1600 E. Columbus Ave | Springfield | MA | 01103 | 25,012.00
Catholic Social Services of Fall River, Inc/Keystone | 1600 Bay Street | Fall River | MA | 02724 | 25,810.00
Catholic Social Services of Fall River, Inc/The CALL Attleboro/Taunton and Greater Bristol County | 1600 Bay Street | Fall River | MA | 02724 | 27,357.00
Pine Street Inn, Inc./1043-45 Beacon Street Project | 444 Harrison Avenue | Boston | MA | 02118 | 28,002.00
City of New Bedford/City of New Bedford HMIS Project | 608 Pleasant Street | New Bedford | MA | 02740 | 29,524.00
Barnstable County/Coordinated Entry System FY2017 | 3165 Main St, P.O. 427 | Barnstable | MA | 02630 | 29,698.00
City of Fall River/Homeless Management Information System | One Government Center, room 414 | Fall River | MA | 02722 | 32,662.00
Vinfen Corporation/Brookline SHP Leasing | 950 Cambridge Street | Cambridge | MA | 02141 | 34,858.00
City of New Bedford/CoC Planning Project Application FY 2017 | 608 Pleasant Street | New Bedford | MA | 02740 | 37,750.00
Commonwealth of Massachusetts/Oxford House | 100 Cambridge Street | Boston | MA | 02114 | 38,915.00
Commonwealth of Massachusetts/Tri-City Housing Now Expansion | 100 Cambridge Street | Boston | MA | 02114 | 39,413.00
Lynn Housing Authority & Neighborhood Development/LEO Centralized Assessment | 10 Church Street | Lynn | MA | 01902 | 40,614.00
Duffy Health Center, Inc./Welcome Home 4 | 94 Main St | Hyannis | MA | 02601 | 42,328.00
City of Lowell, Massachusetts/City of Lowell HMIS/Coordinated Entry System II | Department of Planning and Development 50 Arcand Drive | Lowell | MA | 01852 | 42,802.00
Hilltown CDC/Adult Independent Living Program | 387 Main Road, P.O. Box 17 | Chesterfield | MA | 01012 | 43,412.00
City of New Bedford/City of New Bedford HMIS Project 2.0 | 608 Pleasant Street | New Bedford | MA | 02740 | 45,000.00
City of Cambridge, Massachusetts/Bridge PSH | 51 Inman St | Cambridge | MA | 02139 | 45,005.00
City of Quincy, MA/Ray's Project | 34 Coddington Street | Quincy | MA | 02169 | 45,208.00
City of Boston Acting by and through its PFC by DND/Metropolitan Boston Housing Partnership, Inc.—2005 Project Based Rental Assistance | 26 Court Street, 8th Floor | Boston | MA | 02108 | 45,615.00
City of New Bedford/The Call | 608 Pleasant Street | New Bedford | MA | 02740 | 46,757.00
City of Cambridge, Massachusetts/AAC: Youth Supportive Housing Program | 51 Inman St | Cambridge | MA | 02139 | 47,562.00
Lynn Housing Authority & Neighborhood Development/Lynn Shelter PSH | 10 Church Street | Lynn | MA | 01902 | 47,834.00
Hilltown Community Development Corporation/3 County CoC Planning Initiative | 387 Main Road, P.O. Box 17 | Chesterfield | MA | 01012 | 49,128.00
Community Counseling of Bristol County, Inc./Welcome Home II | One Washington Street | Taunton | MA | 02780 | 49,206.00
Brookline Housing Authority/Brookline Rental Assistance for the Chronically Homeless | 90 Longwood Avenue | Brookline | MA | 02446 | 49,408.00
City of Springfield/Catholic Charities—RRH 2 | 1600 E. Columbus Ave | Springfield | MA | 01103 | 50,104.00
Commonwealth of Massachusetts/Project Home S+C | 100 Cambridge Street | Boston | MA | 02114 | 50,313.00
Lynn Housing Authority & Neighborhood Development/LEO AHL PH | 10 Church Street | Lynn | MA | 01902 | 50,598.00
City of Springfield/Catholic Charities—RRH | 1600 E. Columbus Ave | Springfield | MA | 01103 | 51,180.00
Barnstable County/MA 503 CoC Planning FY2017 | 3165 Main St, P.O. 427 | Barnstable | MA | 02630 | 51,248.00
City of Springfield/RVCC—HIV/AIDS S+C TRA 5 | 1600 E. Columbus Ave | Springfield | MA | 01103 | 52,033.00
City of Cambridge, Massachusetts/Vinfen: Cambridge CBFS PSH | 51 Inman St | Cambridge | MA | 02139 | 52,330.00
Lynn Housing Authority & Neighborhood Development/MA-502 CoC Planning Application FY2017 | 10 Church Street | Lynn | MA | 01902 | 52,360.00
Central Massachusetts Housing Alliance, Inc./Central Massachusetts Housing Options | 6 Institute Road, P.O. Box 3 | Worcester | MA | 01609 | 54,402.00
Barnstable County/Coordinated Entry System Expansion FY2017 | 3165 Main St, P.O. 427 | Barnstable | MA | 02630 | 55,594.00
City of Quincy, MA/Ackerman's Project | 34 Coddington Street | Quincy | MA | 02169 | 56,455.00
Community Counseling of Bristol County, Inc./Moving Forward | One Washington Street | Taunton | MA | 02780 | 57,606.00
City of Boston Acting by and through its PFC by DND/Metropolitan Boston Housing Partnership, Inc.—2000 Project Based Rental Assistance | 26 Court Street, 8th Floor | Boston | MA | 02108 | 57,610.00
City of Cambridge, Massachusetts/Bridge PSH Expansion | 51 Inman St | Cambridge | MA | 02139 | 58,512.00
City of Peabody/MA-510 CoC Planning Application FY2017 | 24 Lowell Street | Peabody | MA | 01960 | 59,136.00
Duffy Health Center, Inc./Welcome Home 3 | 94 Main St | Hyannis | MA | 02601 | 59,138.00
City of Boston Acting by and through its PFC by DND/Bay Cove Human Services, Inc.—Winston Road Residence | 26 Court Street, 8th Floor | Boston | MA | 02108 | 59,449.00
City of Somerville/MA-517 CoC Planning Application FY2017 | 93 Highland Avenue | Somerville | MA | 02143 | 59,746.00
City of Cambridge, Massachusetts/Transition House: PSH Expansion | 51 Inman St | Cambridge | MA | 02139 | 60,759.00
Hilltown Community Development Corporation/Village Center SHP | 387 Main Road, P.O. Box 17 | Chesterfield | MA | 01012 | 60,786.00
City of Boston Acting by and through its PFC by DND/Metropolitan Boston Housing Partnership, Inc.—2006 Sponsor Based Rental Assistance | 26 Court Street, 8th Floor | Boston | MA | 02108 | 60,790.00
Central Massachusetts Housing Alliance, Inc./Young Adult Rapid Rehousing | 6 Institute Road, P.O. Box 3 | Worcester | MA | 01609 | 60,960.00
Heading Home Inc/Somerville Stepping Stones | The Schraffts Center, 529 Main Street, Suite 100 | Charlestown | MA | 02129 | 61,452.00
City of Springfield/HMIS | 1600 E. Columbus Ave | Springfield | MA | 01103 | 61,992.00
City of Springfield/Way Finders—Turning Point | 1600 E. Columbus Ave | Springfield | MA | 01103 | 62,589.00
City of Springfield/SMOC—Bowdoin/Tranquility Home | 1600 E. Columbus Ave | Springfield | MA | 01103 | 63,926.00
City of Springfield/RVCC—HIV/AIDS S+C TRA 7 | 1600 E. Columbus Ave | Springfield | MA | 01103 | 64,703.00
City of Lowell, Massachusetts/City of Lowell HMIS/Coordinated Entry Project Manager | Department of Planning and Development 50 Arcand Drive | Lowell | MA | 01852 | 66,224.00
Housing Assistance Corporation/HMIS | 460 West Main Street | Hyannis | MA | 02601 | 67,356.00
Catholic Social Services of Fall River, Inc/Beacon of Hope | 1600 Bay Street | Fall River | MA | 02724 | 68,191.00
Catholic Social Services of Fall River, Inc./Mainstay | 1600 Bay Street | Fall River | MA | 02724 | 68,798.00
Somerville Homeless Coalition, Inc./HMIS Dedicated | One Davis Square | Somerville | MA | 02144 | 69,300.00
Housing Assistance Corporation/HMIS Expansion | 460 West Main Street | Hyannis | MA | 02601 | 70,140.00
Veterans Northeast Outreach Center, Inc./Priority Apartments | 65 Cedar Street | Haverhill | MA | 01830 | 70,504.00
Commonwealth of Massachusetts/Bedford Veterans Quarters | 100 Cambridge Street | Boston | MA | 02114 | 71,564.00
City of Fall River/Opening Doors II | One Government Center, room 414 | Fall River | MA | 02722 | 72,163.00
City of Springfield/UFA Costs Project FY2017 | 1600 E. Columbus Ave | Springfield | MA | 01103 | 75,018.00
Hilltown Community Development Corporation/3 County HMIS Project | 387 Main Road, P.O. Box 17 | Chesterfield | MA | 01012 | 80,079.00
Housing Assistance Corporation/MV House | 460 West Main Street | Hyannis | MA | 02601 | 80,638.00
Merrimack Valley Young Men's Christian Association/Supportive Occupant Services | 101 Amesbury Street, 4th Floor | Lawrence | MA | 01840 | 80,862.00
City of Boston Acting by and through its PFC by DND/Kit Clark Senior Services, Inc.—Walnut Community House | 26 Court Street, 8th Floor | Boston | MA | 02108 | 81,390.00
City of Lowell, Massachusetts/Pathfinder Apartments | Department of Planning and Development 50 Arcand Drive | Lowell | MA | 01852 | 83,041.00
City of Fall River/Second Chances | One Government Center, room 414 | Fall River | MA | 02722 | 83,065.00
City of Fall River/Home First | One Government Center, room 414 | Fall River | MA | 02722 | 83,288.00
City of Lowell, Massachusetts/Community Teamwork, Inc. Youth RRH | Department of Planning and Development 50 Arcand Drive | Lowell | MA | 01852 | 85,604.00
Catholic Social Services of Fall River, Inc/Path to Independence | 1600 Bay Street | Fall River | MA | 02724 | 88,719.00
City of Boston Acting by and through its PFC by DND/Metropolitan Boston Housing Partnership, Inc.—1999 Tier 1 Project Based Rental Assistance | 26 Court Street, 8th Floor | Boston | MA | 02108 | 89,037.00
City of Lowell, Massachusetts/House of Hope, Inc. | Department of Planning and Development 50 Arcand Drive | Lowell | MA | 01852 | 90,038.00
Commonwealth of Massachusetts/LINCOLN ST | 100 Cambridge Street | Boston | MA | 02114 | 90,124.00
Advocates, Inc./Waltham Supportive Housing | 1881 Worcester Road | Framingham | MA | 01701 | 91,406.00
Advocates, Inc./Watertown SH | 1881 Worcester Road | Framingham | MA | 01701 | 91,406.00
Somerville Homeless Coalition, Inc./Better Homes 4 | One Davis Square | Somerville | MA | 02144 | 94,764.00
City of Fall River/Home First 2 | One Government Center, room 414 | Fall River | MA | 02722 | 96,017.00
Commonwealth of Massachusetts/Washington St. Residence | 100 Cambridge Street | Boston | MA | 02114 | 97,311.00
Commonwealth of Massachusetts/Julie House | 100 Cambridge Street | Boston | MA | 02114 | 97,370.00
City of Cambridge, Massachusetts/Heading Home: Solid Ground PSH | 51 Inman St | Cambridge | MA | 02139 | 97,747.00
City of Fall River/Francis House | One Government Center, room 414 | Fall River | MA | 02722 | 98,845.00
Lynn Housing Authority & Neighborhood Development/Bridgewell-Project COPE, Inc. PH | 10 Church Street | Lynn | MA | 01902 | 99,683.00
City of Fall River/The CALL—Fall River | One Government Center, room 414 | Fall River | MA | 02722 | 100,088.00
Somerville Homeless Coalition, Inc./Coordinated Entry | One Davis Square | Somerville | MA | 02144 | 100,605.00
Catholic Social Services of Fall River, Inc./Journey Home | 1600 Bay Street | Fall River | MA | 02724 | 102,496.00
Central Massachusetts Housing Alliance, Inc./Supportive Housing for the Disabled | 6 Institute Road, P.O. Box 3 | Worcester | MA | 01609 | 102,674.00
The Second Step, Inc./TSS2 Foster | P.O. Box 600213 | Newtonville | MA | 02460 | 103,466.00
NewVue Affordable Housing Corporation/Leighton Street | 470 Main Street | Fitchburg | MA | 01420 | 103,887.00
Lynn Housing Authority & Neighborhood Development/Bridgewell, LSA, PC Reall | 10 Church Street | Lynn | MA | 01902 | 105,333.00
City of Springfield/Viability—Next Step 2 | 1600 E. Columbus Ave | Springfield | MA | 01103 | 106,609.00
Central Massachusetts Housing Alliance, Inc./Homeless Management Information System | 6 Institute Road, P.O. Box 3 | Worcester | MA | 01609 | 106,999.00
City of New Bedford/Prism | 608 Pleasant Street | New Bedford | MA | 02740 | 109,030.00
City of Springfield/Viability Next Step Holyoke | 1600 E. Columbus Ave | Springfield | MA | 01103 | 109,488.00
Commonwealth of Massachusetts/JRI Supportive Housing-Hope for Families Program | 100 Cambridge Street | Boston | MA | 02114 | 111,227.00
Hilltown CDC/3 County CoC Coordinated Assessment | 387 Main Road, P.O. Box 17 | Chesterfield | MA | 01012 | 111,543.00
City of Springfield/CoC Planning Project FY2017 | 1600 E. Columbus Ave | Springfield | MA | 01103 | 112,528.00
City of Quincy, MA/HMIS Brockton | 34 Coddington Street | Quincy | MA | 02169 | 113,007.00
Central Massachusetts Housing Alliance, Inc./North County Supportive Housing | 6 Institute Road, P.O. Box 3 | Worcester | MA | 01609 | 115,201.00
City of Cambridge, Massachusetts/AAC: Supportive Housing Ending Homelessness | 51 Inman St | Cambridge | MA | 02139 | 116,034.00
City of Springfield/MHA S+C SRA 13 | 1600 E. Columbus Ave | Springfield | MA | 01103 | 116,291.00
Haverhill Housing Authority/Evergreen Place I | 25 Washington Square, P.O. Box 751 | Haverhill | MA | 01831 | 116,959.00
Hilltown CDC/A Positive Place | 387 Main Road, P.O. Box 17 | Chesterfield | MA | 01012 | 118,371.00
Father Bills & MainSpring, Inc./Work Express Housing | 430 Belmont Street | Brockton | MA | 02301 | 118,447.00
City of Cambridge, Massachusetts/MA-509 CoC Planning Application FY2017 | 51 Inman St | Cambridge | MA | 02139 | 120,602.00
City of Cambridge, Massachusetts/TRA for Families | 51 Inman St | Cambridge | MA | 02139 | 121,125.00
City of Cambridge, Massachusetts/TRA for Individuals | 51 Inman St | Cambridge | MA | 02139 | 122,280.00
Commonwealth of Massachusetts/METROWEST LEASED HOUSING | 100 Cambridge Street | Boston | MA | 02114 | 122,399.00
Brookline Community Mental Health Center/Youth Transition to Independent Living Program | 41 Garrison Road | Brookline | MA | 02445 | 123,071.00
Hilltown CDC/Northern Berkshire PH | 387 Main Road, P.O. Box 17 | Chesterfield | MA | 01012 | 125,532.00
City of Springfield/VOC—Scattered Site Family Supportive Housing | 1600 E. Columbus Ave | Springfield | MA | 01103 | 125,559.00
Central Massachusetts Housing Alliance, Inc./Green House | 6 Institute Road, P.O. Box 3 | Worcester | MA | 01609 | 125,845.00
Commonwealth of Massachusetts/NEW BEGINNINGS | 100 Cambridge Street | Boston | MA | 02114 | 127,175.00
Commonwealth of Massachusetts/Community Housing Initiative | 100 Cambridge Street | Boston | MA | 02114 | 128,400.00
Emmaus Inc./North Shore CofC—Coordinated Entry | 127 How Street | Haverhill | MA | 01830 | 128,890.00
Commonwealth of Massachusetts/Metrowest SH | 100 Cambridge Street | Boston | MA | 02114 | 130,972.00
Lynn Housing Authority & Neighborhood Development/Bridgewell, LSA, PC PHB | 10 Church Street | Lynn | MA | 01902 | 134,390.00
Barnstable Housing Authority/Housing First | 146 South Street | Hyannis | MA | 02601 | 135,074.00
Veterans Northeast Outreach Center, Inc./Veteran's Campus | 65 Cedar Street | Haverhill | MA | 01830 | 138,055.00
Hilltown CDC/Louison House | 387 Main Road, P.O. Box 17 | Chesterfield | MA | 01012 | 139,091.00
Commonwealth of Massachusetts/Tri-City Rental Assistance Project | 100 Cambridge Street | Boston | MA | 02114 | 140,996.00
City of Quincy, MA/BCIJ Expansion Project | 34 Coddington Street | Quincy | MA | 02169 | 143,600.00
City of Fall River/A New Home | One Government Center, room 414 | Fall River | MA | 02722 | 145,493.00
Central Massachusetts Housing Alliance, Inc./Genesis Supportive Housing | 6 Institute Road, P.O. Box 3 | Worcester | MA | 01609 | 147,908.00
City of Springfield/MHA S+C Recovery | 1600 E. Columbus Ave | Springfield | MA | 01103 | 152,014.00
City of New Bedford/Transition to Stabality | 608 Pleasant Street | New Bedford | MA | 02740 | 153,709.00
City of Springfield/Way Finders—RRH | 1600 E. Columbus Ave | Springfield | MA | 01103 | 154,321.00
Central Massachusetts Housing Alliance, Inc./South County Homeless Project | 6 Institute Road, P.O. Box 3 | Worcester | MA | 01609 | 155,901.00
City of Springfield/CHD Project Permanence | 1600 E. Columbus Ave | Springfield | MA | 01103 | 157,268.00
The Second Step, Inc./TSS1 Garfield | P.O. Box 600213 | Newtonville | MA | 02460 | 157,389.00
Commonwealth of Massachusetts/HMIS Continuous Quality Improvement | 100 Cambridge Street | Boston | MA | 02114 | 157,873.00
Somerville Homeless Coalition, Inc./Sobriety and Stability | One Davis Square | Somerville | MA | 02144 | 158,142.00
Heading Home Inc/Somerville Better Homes 3 | The Schraffts Center, 529 Main Street, Suite 100 | Charlestown | MA | 02129 | 160,433.00
City of Quincy, MA/MA-511 Planning Project Application FY2017 | 34 Coddington Street | Quincy | MA | 02169 | 161,092.00
Somerville Housing Authority/Shelter Plus Care | 30 Memorial Road | Somerville | MA | 02145 | 163,315.00
Commonwealth of Massachusetts/North East Scattered Site Tenancy S+C | 100 Cambridge Street | Boston | MA | 02114 | 165,082.00
City of Quincy, MA/South Shore Coordinated Entry Project | 34 Coddington Street | Quincy | MA | 02169 | 165,309.00
Lynn Housing Authority & Neighborhood Development/Bridgewell DedicatedPLUS | 10 Church Street | Lynn | MA | 01902 | 167,652.00
Hilltown CDC/Summer Street PH 1 | 387 Main Road, P.O. Box 17 | Chesterfield | MA | 01012 | 168,918.00
City of Lowell, Massachusetts/Alternative House | Department of Planning and Development 50 Arcand Drive | Lowell | MA | 01852 | 169,754.00
City of New Bedford/Welcome HOME | 608 Pleasant Street | New Bedford | MA | 02740 | 170,590.00
City of Quincy, MA/Louis Project | 34 Coddington Street | Quincy | MA | 02169 | 170,689.00
City of Springfield/Gandara—SHINE RRH | 1600 E. Columbus Ave | Springfield | MA | 01103 | 173,255.00
Advocates, Inc./Newton II SH | 1881 Worcester Road | Framingham | MA | 01701 | 175,022.00
Advocates, Inc./Newton I SH | 1881 Worcester Road | Framingham | MA | 01701 | 176,400.00
City of Boston Acting by and through its PFC by DND/Victory Programs, Inc.—Home Soon Rapid Re-housing Program | 26 Court Street, 8th Floor | Boston | MA | 02108 | 178,418.00
Commonwealth of Massachusetts/Kaszanek House PSH | 100 Cambridge Street | Boston | MA | 02114 | 180,129.00
City of Fall River/A Loving Home | One Government Center, room 414 | Fall River | MA | 02722 | 181,558.00
Central Massachusetts Housing Alliance, Inc./SMOC Greater Worcester Housing Connection SHP | 6 Institute Road, P.O. Box 3 | Worcester | MA | 01609 | 182,306.00
Community Counseling of Bristol County, Inc./Homes With Heart | One Washington Street | Taunton | MA | 02780 | 182,682.00
City of Boston Acting by and through its PFC by DND/Heading Home, Inc.—Boston Homeless to Housing | 26 Court Street, 8th Floor | Boston | MA | 02108 | 182,798.00
Emmaus Inc./Home Again/Fresh Start | 127 How Street | Haverhill | MA | 01830 | 184,386.00
Central Massachusetts Housing Alliance, Inc./CoC Planning Project Application FY2017 | 6 Institute Road, P.O. Box 3 | Worcester | MA | 01609 | 184,958.00
City of Springfield/RVCC—HIV/AIDS Residential Support | 1600 E. Columbus Ave | Springfield | MA | 01103 | 186,749.00
Father Bills & MainSpring, Inc./My Home I and II | 430 Belmont Street | Brockton | MA | 02301 | 187,404.00
Hilltown CDC/Shelter Plus Care North | 387 Main Road, P.O. Box 17 | Chesterfield | MA | 01012 | 189,615.00
City of Springfield/CSO-FOH PSH | 1600 E. Columbus Ave | Springfield | MA | 01103 | 189,922.00
City of Springfield/CHD Family-Centered PSH | 1600 E. Columbus Ave | Springfield | MA | 01103 | 190,493.00
Commonwealth of Massachusetts/Housing Pronto | 100 Cambridge Street | Boston | MA | 02114 | 191,319.00
Somerville Homeless Coalition, Inc./Better Homes | One Davis Square | Somerville | MA | 02144 | 194,904.00
Veterans Northeast Outreach Center, Inc./Campus Apartments | 65 Cedar Street | Haverhill | MA | 01830 | 194,994.00
City of Boston Acting by and through its PFC by DND/HomeStart, Inc.—Chronic Housing Search Program | 26 Court Street, 8th Floor | Boston | MA | 02108 | 198,945.00
Commonwealth of Massachusetts/Greater Boston Mobile Stabilization Team | 100 Cambridge Street | Boston | MA | 02114 | 198,955.00
City of Boston Acting by and through its PFC by DND/MA-500 Coordinated Access Project | 26 Court Street, 8th Floor | Boston | MA | 02108 | 200,000.00
Somerville Homeless Coalition, Inc./Sobriety and Stability II | One Davis Square | Somerville | MA | 02144 | 206,251.00
Commonwealth of Massachusetts/HomeRISE | 100 Cambridge Street | Boston | MA | 02114 | 206,728.00
City of Boston Acting by and through its PFC by DND/Boston CoC Homeless Management Information System II | 26 Court Street, 8th Floor | Boston | MA | 02108 | 211,190.00
Commonwealth of Massachusetts/Scattered Site Transitional Apartment Project | 100 Cambridge Street | Boston | MA | 02114 | 211,891.00
City of Cambridge, Massachusetts/Transition House: T-House PSH | 51 Inman St | Cambridge | MA | 02139 | 213,305.00
City of Boston Acting by and through its PFC by DND/HomeStart, Inc.—Chronic Stabilization Program | 26 Court Street, 8th Floor | Boston | MA | 02108 | 221,371.00
Old Colony Y/Supportive Housing for Families II | 320 Main Street | Brockton | MA | 02301 | 223,126.00
Mass. Department of Mental Health/Cape Cod Supported Housing | 181 North Street N/A | Hyannis | MA | 02601 | 224,937.00
Falmouth Housing Authority/Cape Regional Housing Initiative | 115 Scranton Ave | Falmouth | MA | 02540 | 228,901.00
City of Boston Acting by and through its PFC by DND/Massachusetts Housing & Shelter Alliance, Inc.—Home Front | 26 Court Street, 8th Floor | Boston | MA | 02108 | 229,807.00
Commonwealth of Massachusetts/Proyecto Opciones | 100 Cambridge Street | Boston | MA | 02114 | 229,979.00
City of Springfield/Gandara SHINE RRH Expansion | 1600 E. Columbus Ave | Springfield | MA | 01103 | 231,945.00
Wayside Youth & Family Support Network/ShortStop Transitional Housing Program | 1 Frederick Abbott Way | Framingham | MA | 01701 | 240,315.00
Commonwealth of Massachusetts/Brookside Terrace S+C | 100 Cambridge Street | Boston | MA | 02114 | 242,523.00
Veterans Northeast Outreach Center, Inc./Campus Apartments II | 65 Cedar Street | Haverhill | MA | 01830 | 243,436.00
Central Massachusetts Housing Alliance, Inc./Coordinated Assessment Program | 6 Institute Road, P.O. Box 3 | Worcester | MA | 01609 | 246,602.00
Commonwealth of Massachusetts/Tri-City Stepping Stones | 100 Cambridge Street | Boston | MA | 02114 | 248,751.00
City of Springfield/CSO-FOH Coordinated Assessment | 1600 E. Columbus Ave | Springfield | MA | 01103 | 250,000.00
Community Healthlink, Inc./Oasis House | 72 Jaques Avenue | Worcester | MA | 01610 | 251,683.00
City of New Bedford/Family Preservation Program | 608 Pleasant Street | New Bedford | MA | 02740 | 260,920.00
Commonwealth of Massachusetts/Vietnam Veterans Workshop S+C | 100 Cambridge Street | Boston | MA | 02114 | 261,526.00
City of Boston Acting by and through its PFC by DND/Casa Myrna Vazquez, Inc.—Survivors Transitioning to Empowerment Program (STEP) | 26 Court Street, 8th Floor | Boston | MA | 02108 | 263,860.00
Community Counseling of Bristol County, Inc./New Horizons | One Washington Street | Taunton | MA | 02780 | 265,168.00
Lynn Housing Authority & Neighborhood Development/Lynn Shelter Plus Care II | 10 Church Street | Lynn | MA | 01902 | 266,750.00
Haverhill Housing Authority/Emerson Street Shelter Plus Care | 25 Washington Square, P.O. Box 751 | Haverhill | MA | 01831 | 266,897.00
City of Boston Acting by and through its PFC by DND/Massachusetts Housing & Shelter Alliance, Inc.—Rapid Re-Housing for Families (R2F2) | 26 Court Street, 8th Floor | Boston | MA | 02108 | 267,580.00
Emmaus Inc./Jericho House Safe Haven | 127 How Street | Haverhill | MA | 01830 | 267,906.00
City of Boston Acting by and through its PFC by DND/Metropolitan Boston Housing Partnership, Inc.—1999 Tier 2 Project Based Rental Assistance | 26 Court Street, 8th Floor | Boston | MA | 02108 | 273,692.00
City of Boston Acting by and through its PFC by DND/Little Sisters of the Assumption d/b/a Project Hope—RRH for Students and Families | 26 Court Street, 8th Floor | Boston | MA | 02108 | 276,139.00
City of New Bedford/Step Up | 608 Pleasant Street | New Bedford | MA | 02740 | 277,130.00
Central Massachusetts Housing Alliance, Inc./Family Housing for the Disabled | 6 Institute Road, P.O. Box 3 | Worcester | MA | 01609 | 278,947.00
City of Boston Acting by and through its PFC by DND/Pine Street Inn, Inc.—Rapid Home Program | 26 Court Street, 8th Floor | Boston | MA | 02108 | 288,415.00
City of Cambridge, Massachusetts/Just-A-Start: Rapid Rehousing Project | 51 Inman St | Cambridge | MA | 02139 | 294,160.00
City of Cambridge, Massachusetts/PRA: YMCA SRO Project | 51 Inman St | Cambridge | MA | 02139 | 297,089.00
City of Springfield/Viability—Next Step | 1600 E. Columbus Ave | Springfield | MA | 01103 | 301,056.00
City of Boston Acting by and through its PFC by DND/Saint Francis House, Inc.—Access to Employment | 26 Court Street, 8th Floor | Boston | MA | 02108 | 301,276.00
Commonwealth of Massachusetts/SMOC MetroWest Permanent Supportive Housing Program | 100 Cambridge Street | Boston | MA | 02114 | 303,771.00
Commonwealth of Massachusetts/Disabled Family Leasing | 100 Cambridge Street | Boston | MA | 02114 | 304,505.00
City of Lowell, Massachusetts/Pathfinder PSH | Department of Planning and Development 50 Arcand Drive | Lowell | MA | 01852 | 309,445.00
City of Boston Acting by and through its PFC by DND/Boston CoC Homeless Management Information System | 26 Court Street, 8th Floor | Boston | MA | 02108 | 313,290.00
Action Inc/Welcome Home 1 | 180 Main Street | Gloucester | MA | 01930 | 316,456.00
City of Cambridge, Massachusetts/Heading Home: Cambridge Homeless to Housing PSH | 51 Inman St | Cambridge | MA | 02139 | 319,317.00
Commonwealth of Massachusetts/Journey to Success | 100 Cambridge Street | Boston | MA | 02114 | 320,132.00
Commonwealth of Massachusetts/Corley's Project | 100 Cambridge Street | Boston | MA | 02114 | 324,745.00
Pine Street Inn, Inc./Watertown Waltham Rental Assistance for the Chronically Homeless | 444 Harrison Avenue | Boston | MA | 02118 | 329,733.00
City of Boston Acting by and through its PFC by DND/New England Center And Home For Veterans—Veterans Welcome Home | 26 Court Street, 8th Floor | Boston | MA | 02108 | 339,949.00
City of Springfield/Catholic Charities—RRH 3 | 1600 E. Columbus Ave | Springfield | MA | 01103 | 346,692.00
Commonwealth of Massachusetts/MA-516 CoC Planning Project Application FY2017 | 100 Cambridge Street | Boston | MA | 02114 | 346,767.00
Central Massachusetts Housing Alliance, Inc./GWHC Welcome Home Countywide Supportive Housing Program | 6 Institute Road, P.O. Box 3 | Worcester | MA | 01609 | 352,585.00
Commonwealth of Massachusetts/HOAP S+C | 100 Cambridge Street | Boston | MA | 02114 | 358,479.00
Central Massachusetts Housing Alliance, Inc./Foundations Transitional Housing | 6 Institute Road, P.O. Box 3 | Worcester | MA | 01609 | 360,106.00
City of Boston Acting by and through its PFC by DND/MBHP SRO Program | 26 Court Street, 8th Floor | Boston | MA | 02108 | 361,154.00
Community Healthlink, Inc./Safe Haven | 72 Jaques Avenue | Worcester | MA | 01610 | 370,862.00
City of Springfield/MHA S+C SRA 48 | 1600 E. Columbus Ave | Springfield | MA | 01103 | 377,535.00
City of Boston Acting by and through its PFC by DND/Pine Street Inn, Inc.—Chronically Homeless Housing | 26 Court Street, 8th Floor | Boston | MA | 02108 | 377,889.00
City of Fall River/Stone Residence | One Government Center, room 414 | Fall River | MA | 02722 | 391,626.00
City of Quincy, MA/Nicole's Project | 34 Coddington Street | Quincy | MA | 02169 | 394,293.00
Housing Assistance Corporation/Cape Homes V | 460 West Main Street | Hyannis | MA | 02601 | 409,693.00
Somerville Homeless Coalition, Inc./Better Homes 2 | One Davis Square | Somerville | MA | 02144 | 411,798.00
City of Boston Acting by and through its PFC by DND/Massachusetts Housing & Shelter Alliance, Inc.—Home and Healthy for Good | 26 Court Street, 8th Floor | Boston | MA | 02108 | 421,923.00
City of Fall River/Next Step Home Program | One Government Center, room 414 | Fall River | MA | 02722 | 458,938.00
City of Cambridge, Massachusetts/Cambridge Coordinated Intake Expansion | 51 Inman St | Cambridge | MA | 02139 | 464,951.00
City of Cambridge, Massachusetts/Heading Home: Cambridge Stepping Stone PSH | 51 Inman St | Cambridge | MA | 02139 | 473,921.00
Central Massachusetts Housing Alliance, Inc./Worcester Transitional Housing Consortium | 6 Institute Road, P.O. Box 3 | Worcester | MA | 01609 | 477,145.00
Central Massachusetts Housing Alliance, Inc./HIV Supportive Housing | 6 Institute Road, P.O. Box 3 | Worcester | MA | 01609 | 504,195.00
City of Boston Acting by and through its PFC by DND/Pine Street Inn—First Home Consolidated | 26 Court Street, 8th Floor | Boston | MA | 02108 | 504,829.00
Central Massachusetts Housing Alliance, Inc./Worcester Area Rental Assistance Project | 6 Institute Road, P.O. Box 3 | Worcester | MA | 01609 | 512,862.00
Commonwealth of Massachusetts/North Star Housing | 100 Cambridge Street | Boston | MA | 02114 | 539,587.00
Commonwealth of Massachusetts/Post-Acute Treatment Services/Pre-Recovery Services (PDPR) | 100 Cambridge Street | Boston | MA | 02114 | 544,217.00
Father Bills & MainSpring, Inc./Secure Homes Consolidated Program | 430 Belmont Street | Brockton | MA | 02301 | 563,525.00
City of Boston Acting by and through its PFC by DND/Bridge Over Troubled Waters, Inc.—Youth Housing Pathways Program | 26 Court Street, 8th Floor | Boston | MA | 02108 | 566,326.00
City of Boston Acting by and through its PFC by DND/Bay Cove Human Services, Inc.—Home At Last | 26 Court Street, 8th Floor | Boston | MA | 02108 | 568,740.00
Commonwealth of Massachusetts/Chelsea-Revere Homeless to Housing | 100 Cambridge Street | Boston | MA | 02114 | 570,109.00
Hilltown CDC/Three County PSH | 387 Main Road, P.O. Box 17 | Chesterfield | MA | 01012 | 576,116.00
City of Cambridge, Massachusetts/HomeStart: Going Home PSH | 51 Inman St | Cambridge | MA | 02139 | 588,898.00
City of New Bedford/Portico | 608 Pleasant Street | New Bedford | MA | 02740 | 591,092.00
City of Boston Acting by and through its PFC by DND/HomeStart, Inc.—The Welcome Home Project | 26 Court Street, 8th Floor | Boston | MA | 02108 | 605,261.00
Commonwealth of Massachusetts/Tri-City Homeless to Housing | 100 Cambridge Street | Boston | MA | 02114 | 612,439.00
City of Boston Acting by and through its PFC by DND/Pine Street Inn, Inc.—Place Me Home Chronic Housing | 26 Court Street, 8th Floor | Boston | MA | 02108 | 664,609.00
City of Boston Acting by and through its PFC by DND/FamilyAid Boston—Home Advantage Collaborative | 26 Court Street, 8th Floor | Boston | MA | 02108 | 698,849.00
Commonwealth of Massachusetts/Community Housing S+C | 100 Cambridge Street | Boston | MA | 02114 | 705,463.00
City of Boston Acting by and through its PFC by DND/MA-500 CoC Planning Application FY17 | 26 Court Street, 8th Floor | Boston | MA | 02108 | 722,496.00
Commonwealth of Massachusetts/Aggressive Treatment and Relapse Prevention Program (ATARP) | 100 Cambridge Street | Boston | MA | 02114 | 748,744.00
Central Massachusetts Housing Alliance, Inc./Worcester Housing Plus Support | 6 Institute Road, P.O. Box 3 | Worcester | MA | 01609 | 776,583.00
City of Quincy, MA/DEFGH Program | 34 Coddington Street | Quincy | MA | 02169 | 782,978.00
Commonwealth of Massachusetts/Greater Boston Sponsor Based S+C | 100 Cambridge Street | Boston | MA | 02114 | 850,493.00
Lynn Housing Authority & Neighborhood Development/Lynn Shelter Plus Care | 10 Church Street | Lynn | MA | 01902 | 868,408.00
City of Cambridge, Massachusetts/HomeStart: Key PSH | 51 Inman St | Cambridge | MA | 02139 | 902,019.00
Central Massachusetts Housing Alliance, Inc./Worcester County Leased Housing | 6 Institute Road, P.O. Box 3 | Worcester | MA | 01609 | 907,626.00
Commonwealth of Massachusetts/Greater Boston Tenant Based S+C | 100 Cambridge Street | Boston | MA | 02114 | 1,057,970.00
City of Quincy, MA/BCIJ Program | 34 Coddington Street | Quincy | MA | 02169 | 1,066,135.00
City of Boston Acting by and through its PFC by DND/Pine Street Inn, Inc.—Long Term Stayers Consolidated | 26 Court Street, 8th Floor | Boston | MA | 02108 | 1,331,727.00
City of Boston Acting by and through its PFC by DND/Pine Street Inn, Inc.—REACH Consolidated | 26 Court Street, 8th Floor | Boston | MA | 02108 | 1,462,802.00
City of Quincy, MA/Fr. McCarthy's Family Project Consolidated | 34 Coddington Street | Quincy | MA | 02169 | 1,517,142.00
City of Boston Acting by and through its PFC by DND/Pine Street Inn, Inc.—Housing Works Partnership | 26 Court Street, 8th Floor | Boston | MA | 02108 | 1,569,605.00
City of Boston Acting by and through its PFC by DND/HomeStart, Inc.—Chronic Consolidated Leasing | 26 Court Street, 8th Floor | Boston | MA | 02108 | 1,608,630.00
City of Boston Acting by and through its PFC by DND/HomeStart, Inc.—The Apartment Connection | 26 Court Street, 8th Floor | Boston | MA | 02108 | 1,658,935.00
City of Boston Acting by and through its PFC by DND/Metropolitan Boston Housing Partnership, Inc.—Consolidated Sponsor Based Rental Assistance | 26 Court Street, 8th Floor | Boston | MA | 02108 | 2,518,760.00
City of Boston Acting by and through its PFC by DND/Metropolitan Boston Housing Partnership, Inc.—Consolidated Tenant Based Rental Assistance | 26 Court Street, 8th Floor | Boston | MA | 02108 | 6,585,242.00
Garrett County Community Action Committee, Inc./CoC Planning Project 2017 MD 510 | 104 E Center Street | Oakland | MD | 21550 | 6,896.00
Cecil County Health Department/MD-507 CoC Planning Application FY2017 | 401 Bow St. | Elkton | MD | 21921 | 7,334.00
Board of Carroll County Commissioners/MD-506 CoC Planning Application FY2017 | 225 North Center Street | Westminster | MD | 21157 | 11,372.00
Allegany County Human Resources Development Commission, Inc./HRDC Leasing Supportive Housing Project | 125 Virginia Avenue | Cumberland | MD | 21502 | 14,488.00
Washington County Community Action Council, Inc./MD 512 Planning Project | 117 Summit Avenue | Hagerstown | MD | 21740 | 14,621.00
Housing Authority of St. Mary's County, MD/Gelrud—Permanent Housing Project #5—2017 Renewal | 21155 Lexwood Drive, Suite C | Lexington Park | MD | 20653 | 15,494.00
Housing Authority of St. Mary's County, MD/Harding—Permanent Housing Project #4—2017 Renewal | 21155 Lexwood Drive, Suite C | Lexington Park | MD | 20653 | 16,367.00
City of Frederick/Planning Project Application 2017 | 100 South Market Street | Frederick | MD | 21701 | 16,551.00
Somerset County Health Department/Wicomico Chronic 2 | Somerset County Health Department 7920 Crisfield Highway | Westover | MD | 21871 | 18,093.00
Somerset County Health Department/Wicomico Chronic 1 | Somerset County Health Department 7920 Crisfield Highway | Westover | MD | 21871 | 18,154.00
Somerset County Health Department/Somerset Chronic | Somerset County Health Department 7920 Crisfield Highway | Westover | MD | 21871 | 19,079.00
Mid Shore Behavioral Health Inc./CoC Planning Project FY2017 | 28578 Mary's Court, Suite 1 | Easton | MD | 21601 | 19,984.00
Friends for Neighborhood Progress, Inc./Housing First Renewal II 2017 | 100 South Market Street | Frederick | MD | 21701 | 20,859.00
City of Baltimore—Mayor's Office/At Jacobs Well PHP | 7 E. Redwood Street, 5th Floor | Baltimore | MD | 21202 | 23,968.00
Advocates for Homeless Families, Inc./Ice and Patrick Streets Transitional Housing | 216 Abrecht Place | Frederick | MD | 21701 | 24,488.00
Catholic Charities of The Archdiocese of Washington, Inc/St. Sebastian Townhomes | 924 G Street, NW | Washington | MD | 20001 | 24,707.00
Harford County, Maryland/2017 CoC Planning Grant | 15 S. Main Street | Bel Air | MD | 21014 | 26,811.00
Washington County Community Action Council, Inc./MD 512 HMIS | 117 Summit Avenue | Hagerstown | MD | 21740 | 27,000.00
Housing Authority of St. Mary's County, MD/McCauley—Permanent Housing Project #6—2017 Renewal | 21155 Lexwood Drive, Suite C | Lexington Park | MD | 20653 | 29,301.00
Harford County, Maryland/HCAA Centralized Intake Support Services | 15 S. Main Street | Bel Air | MD | 21014 | 30,000.00
City of Baltimore—Mayor's Office/Marian House—Serenity Place PHP | 7 E. Redwood Street, 5th Floor | Baltimore | MD | 21202 | 31,730.00
Human Services Programs of Carroll County, Inc./SSO Coordinated Intake FFY 17 | 10 Distillery Dr., Suite G1 | Westminster | MD | 21157 | 32,098.00
Potomac Case Management Services, INC/WC-PSH-Families | 324 East Antietam Street, Suite 301 | Hagerstown | MD | 21740 | 32,825.00
Harford County, Maryland/United Way PSH II Chronic Expansion | 15 S. Main Street | Bel Air | MD | 21014 | 34,044.00
Somerset County Health Department/2017 HALS CoC Planning | Somerset County Health Department 7920 Crisfield Highway | Westover | MD | 21871 | 35,903.00
Howard County Government/Project Revive—FFY17 (MD0366L3B041701) | 6751 Columbia Gateway Drive, Suite 300 | Columbia | MD | 21046 | 41,880.00
Human Services Programs of Carroll County, Inc./PHPWD VIII FFY 17 | 10 Distillery Dr., Suite G1 | Westminster | MD | 21157 | 42,527.00
Howard County Government/Gateway Home—FFY17 | 6751 Columbia Gateway Drive, Suite 300 | Columbia | MD | 21046 | 42,876.00
Howard County Government/Project Stability | 6751 Columbia Gateway Drive, Suite 300 | Columbia | MD | 21046 | 42,876.00
Human Services Programs of Carroll County, Inc./PHPWD II FFY17 | 10 Distillery Dr., Suite G1 | Westminster | MD | 21157 | 44,699.00
Housing Authority of St. Mary's County, MD/Russell Rapid Re-Housing for Families with Children—2017 Renewal | 21155 Lexwood Drive, Suite C | Lexington Park | MD | 20653 | 46,178.00
Three Oaks Homeless Shelter, Inc/Waring—Rapid Re-Housing Project—2017 Renewal | 46905 Lei Drive, P.O. Box 776 | Lexington Park | MD | 20653 | 48,577.00
Laurel Advocacy and Referral Services, Inc/PSH-CH II | 311 Laurel Avenue | Laurel | MD | 20707 | 49,850.00
Garrett County Community Action Committee, Inc./RRH for Individuals and Families 2017 | 104 E Center Street | Oakland | MD | 21550 | 52,473.00
Harford County, Maryland/United Way PSH I Chronic Expansion | 15 S. Main Street | Bel Air | MD | 21014 | 54,589.00
Harford County, Maryland/United Way PSH II Chronic | 15 S. Main Street | Bel Air | MD | 21014 | 55,418.00
Baltimore County Department of Planning/AIRS S+C 2017 | 105 West Chesapeake Ave, Suite 201 | Towson | MD | 21204 | 55,490.00
Friends for Neighborhood Progress, Inc./Housing First Renewal 2017 | 100 South Market Street | Frederick | MD | 21701 | 55,687.00
City of Baltimore—Mayor's Office/Marian House S+C Expansion | 7 E. Redwood Street, 5th Floor | Baltimore | MD | 21202 | 55,965.00
Somerset County Health Department/Bonus Project FY 2016 | Somerset County Health Department 7920 Crisfield Highway | Westover | MD | 21871 | 59,911.00
Mid Shore Behavioral Health Inc./MSBH Homeless Management Information Systems Renewal 2017 | 28578 Mary's Court, Suite 1 | Easton | MD | 21601 | 60,487.00
Anne Arundel County, MD/AHOH—Safe Haven I | 2666 Riva Road | Annapolis | MD | 21401 | 60,566.00
Harford County, Maryland/AH PH I | 15 S. Main Street | Bel Air | MD | 21014 | 61,507.00
Anne Arundel County, MD/AHOH—Community Housing Program | 2666 Riva Road | Annapolis | MD | 21401 | 63,360.00
Anne Arundel County, MD/AHOH—WISH Program | 2666 Riva Road | Annapolis | MD | 21401 | 63,464.00
Anne Arundel County, MD/AHOH—Safe Haven II | 2666 Riva Road | Annapolis | MD | 21401 | 63,668.00
Maryland Department of Health/BHA S+C Lower Shore (Worcester) 6 units NOFA 2017 | 55 Wade Ave, Dix Building Office of Evidence-Based Practices, Housing, and Recovery Supports | Catonsville | MD | 21228 | 65,027.00
Human Services Developmenta Corporation, Inc./DV Rapid Re-Housing 2017 | Elkton District Court MultiService Building, 170 East Main Street | Elkton | MD | 21921 | 65,172.00
Three Oaks Homeless Shelter, Inc/Marsh—Rapid Re-Housing Project—2017 Renewal | 46905 Lei Drive, P.O. Box 776 | Lexington Park | MD | 20653 | 65,884.00
Housing Authority of St. Mary's County, MD/Aldridge—Permanent Housing Project #16—2017 Renewal | 21155 Lexwood Drive, Suite C | Lexington Park | MD | 20653 | 65,903.00
Housing Authority of St. Mary's County, MD/Marek—Permanent Housing Project #9—2017 Renewal | 21155 Lexwood Drive, Suite C | Lexington Park | MD | 20653 | 66,453.00
Anne Arundel County, MD/MD503—CoC Planning Project Application FY2017 | 2666 Riva Road | Annapolis | MD | 21401 | 67,000.00
Allegany County Human Resources Development Commission, Inc./Transitional Housing Services | 125 Virginia Avenue | Cumberland | MD | 21502 | 67,365.00
City of Frederick/Housing First Apartments Reallocation New Project 2017 | 100 South Market Street | Frederick | MD | 21701 | 68,046.00
Human Services Programs of Carroll County, Inc./PHPWD I FFY 17 | 10 Distillery Dr., Suite G1 | Westminster | MD | 21157 | 69,478.00
YMCA of Cumberland/Y Transitional Housing | 205 Baltimore Avenue | Cumberland | MD | 21502 | 70,350.00
City of Baltimore—Mayor's Office/Project PLASE—Medically Fragile SRO | 7 E. Redwood Street, 5th Floor | Baltimore | MD | 21202 | 70,478.00
City of Baltimore—Mayor's Office/Marian House PH | 7 E. Redwood Street, 5th Floor | Baltimore | MD | 21202 | 70,577.00
Anne Arundel County, MD/PEP—Housing First I Program | 2666 Riva Road | Annapolis | MD | 21401 | 70,740.00
Anne Arundel County, MD/AACMHA—Samaritan Housing Program | 2666 Riva Road | Annapolis | MD | 21401 | 71,105.00
Human Services Programs of Carroll County, Inc./Safe Haven FFY 17 | 10 Distillery Dr., Suite G1 | Westminster | MD | 21157 | 74,314.00
Maryland Department of Health/BHA S+C Cecil County 5 Unit NOFA 2017 | 55 Wade Ave, Dix Building Office of Evidence-Based Practices, Housing, and Recovery Supports | Catonsville | MD | 21228 | 75,737.00
Three Oaks Homeless Shelter, Inc./MD-508 Planning Project Application FY 2017 | 46905 Lei Drive | Lexington Park | MD | 20653 | 77,250.00
Housing Authority of St. Mary's County, MD/Capper—Permanent Housing Project #1—2017 Renewal | 21155 Lexwood Drive, Suite C | Lexington Park | MD | 20653 | 79,708.00
Associated Catholic Charities, Inc./Project Promise 2017 | 320 Cathedral Street, Suite 300 | Baltimore | MD | 21201 | 80,432.00
Harford County, Maryland/United Way PSH I Chronic | 15 S. Main Street | Bel Air | MD | 21014 | 80,515.00
HOUSING OPPORTUNITIES COMMISSION/Supportive Housing Program 3 | 10400 Detrick Ave | Kensington | MD | 20895 | 81,048.00
Baltimore County Department of Planning/Baltimore County Planning Application 2017 | 105 West Chesapeake Ave, Suite 201 | Towson | MD | 21204 | 81,462.00
Housing Authority of St. Mary's County, MD/Haina—Permanent Housing Project #13—2017 Renewal | 21155 Lexwood Drive, Suite C | Lexington Park | MD | 20653 | 82,315.00
Prince George's County, Maryland/HMIS 2017 | 14741 Governor Oden Bowie Drive | Upper Marlboro | MD | 20772 | 85,000.00
Baltimore County Department of Planning/Arbutus PSH 2017 | 105 West Chesapeake Ave, Suite 201 | Towson | MD | 21204 | 90,703.00
Harford County, Maryland/HFH PSH I | 15 S. Main Street | Bel Air | MD | 21014 | 91,073.00
Harford County, Maryland/AH PH II | 15 S. Main Street | Bel Air | MD | 21014 | 91,244.00
City of Frederick/Frederick Transitional Shelter | 100 South Market Street | Frederick | MD | 21701 | 92,525.00
Prince George's County, Maryland/PGH TH-RRH II 2017 | 14741 Governor Oden Bowie Drive | Upper Marlboro | MD | 20772 | 92,968.00
City of Baltimore—Mayor's Office/Marian House—TAMAR 2 PHP | 7 E. Redwood Street, 5th Floor | Baltimore | MD | 21202 | 94,319.00
Maryland Department of Health/BHA S+C Allegany County 18 units NOFA 2017 | 55 Wade Ave, Dix Building Office of Evidence-Based Practices, Housing, and Recovery Supports | Catonsville | MD | 21228 | 102,640.00
Maryland Department of Health/BHA S+C Cecil County 7 Unit NOFA 2017 | 55 Wade Ave, Dix Building Office of Evidence-Based Practices, Housing, and Recovery Supports | Catonsville | MD | 21228 | 103,963.00
City of Baltimore—Mayor's Office/GEDCO—Supportive Housing Harford House and Micah House | 7 E. Redwood Street, 5th Floor | Baltimore | MD | 21202 | 104,006.00
Baltimore County Department of Planning/Prologue SPSS 2017 | 105 West Chesapeake Ave, Suite 201 | Towson | MD | 21204 | 105,000.00
Community Crisis Services, Inc./CCSI RRH 2017 | 4316 Farragut Street | Hyattsville | MD | 20781 | 105,446.00
City of Baltimore—Mayor's Office/Associated Catholic Charities—Project FRESH Start | 7 E. Redwood Street, 5th Floor | Baltimore | MD | 21202 | 105,753.00
Housing Authority of St. Mary's County, MD/Joyner—Permanent Housing Project #10—2017 Renewal | 21155 Lexwood Drive, Suite C | Lexington Park | MD | 20653 | 109,174.00
Anne Arundel County, MD/AACMHA-CHES Housing Program | 2666 Riva Road | Annapolis | MD | 21401 | 111,868.00
Montgomery County Maryland/MD-601 FY17 Planning Grant | 401 Hungerford Drive | Rockville | MD | 20850 | 116,648.00
City of Baltimore—Mayor's Office/Project BELIEVE PHP | 7 E. Redwood Street, 5th Floor | Baltimore | MD | 21202 | 117,546.00
Baltimore County Department of Planning/Hosanna House 2017 | 105 West Chesapeake Ave, Suite 201 | Towson | MD | 21204 | 118,628.00
Prince George's County, Maryland/PGH TH-RRH 2017 | 14741 Governor Oden Bowie Drive | Upper Marlboro | MD | 20772 | 123,529.00
City of Baltimore—Mayor's Office/SVdP Home Connections III | 7 E. Redwood Street, 5th Floor | Baltimore | MD | 21202 | 125,436.00
Harford County, Maryland/AH PSH IV/UB PSH I Chronic | 15 S. Main Street | Bel Air | MD | 21014 | 127,316.00
Anne Arundel County, MD/PEP—Housing First II Program | 2666 Riva Road | Annapolis | MD | 21401 | 129,304.00
City of Baltimore—Mayor's Office/MOHS—HMIS Project Expansion | 7 E. Redwood Street, 5th Floor | Baltimore | MD | 21202 | 130,200.00
Maryland Department of Health/BHA S+C Carroll County 9 units NOFA 2017 | 55 Wade Ave, Dix Building Office of Evidence-Based Practices, Housing, and Recovery Supports | Catonsville | MD | 21228 | 131,837.00
Howard County Mental Health Authority/Permanent Housing for Persons with Mental Illness | 8930 Stanford Boulevard | Columbia | MD | 21045 | 140,826.00
Prince George's County, Maryland/Planner 2017 | 14741 Governor Oden Bowie Drive | Upper Marlboro | MD | 20772 | 142,799.00
Housing Authority of St. Mary's County, MD/Owens Rapid Re-Housing Project—2017 Renewal | 21155 Lexwood Drive, Suite C | Lexington Park | MD | 20653 | 144,316.00
Montgomery County Coalition for the Homeless, Inc/Cordell | 600 B East Gude Drive | Rockville | MD | 20850 | 144,383.00
Housing Initiative Partnership, Inc./SUCCESS II 2017 | 6525 Belcrest Road, Suite 555 | Hyattsville | MD | 20782 | 148,580.00
Anne Arundel County, MD/Catholic Charities—Rapid Re-Housing for Families Program | 2666 Riva Road | Annapolis | MD | 21401 | 150,401.00
VESTA, Inc/PSH—8 | 9301 Annapolis Road, Ste. 300 | Lanham | MD | 20706 | 155,600.00
AIDS Interfaith Residential Services, Inc./CoC Baltimore County SHP—Samaritan Program FY17 | 1800 N. Charles Street, Suite 700 | Baltimore | MD | 21201 | 155,917.00
AIDS Interfaith Residential Services, Inc./CoC YIP Youth SHP Program FY17 | 1800 N. Charles Street, Suite 700 | Baltimore | MD | 21201 | 157,874.00
Catholic Charities of The Archdiocese of Washington, Inc/Fortitude | 924 G Street NW | Washington | MD | 20001 | 158,392.00
Potomac Case Management Services, INC/WC PSH—Individuals | 324 East Antietam Street, Suite 301 | Hagerstown | MD | 21740 | 159,808.00
Housing Authority of St. Mary's County, MD/Horne—Permanent Housing Project #11—2017 Renewal | 21155 Lexwood Drive, Suite C | Lexington Park | MD | 20653 | 164,149.00
Montgomery County Coalition for the Homeless, Inc/Home First I | 600 B East Gude Drive | Rockville | MD | 20850 | 164,200.00
Baltimore County Department of Planning/HMIS 2017 | 105 West Chesapeake Ave, Suite 201 | Towson | MD | 21204 | 168,914.00
Maryland Department of Health/BHA S+C Mid-Shore 16 units NOFA 2017 | 55 Wade Ave, Dix Building Office of Evidence-Based Practices, Housing, and Recovery Supports | Catonsville | MD | 21228 | 183,917.00
Community Assistance Network, Inc./Samaritan Housing Renewal FY2017 | 7900 E. Baltimore Street | Baltimore | MD | 21224 | 188,354.00
AIDS Interfaith Residential Services, Inc./CoC SHP—Adult Case Management FY17 | 1800 N. Charles Street, Suite 700 | Baltimore | MD | 21201 | 188,563.00
People Encouraging People, Inc./The PEP Prince George's County Housing First Program 2010 FY 2017 | 4201 Primrose Avenue | Baltimore | MD | 21215 | 189,421.00
United Communities Against Poverty, Inc. (UCAP)/PATH II | 1400 Doewood Lane | Capitol Heights | MD | 20743 | 189,641.00
People Encouraging People, Inc./The PEP Prince George's County Housing First Program 2008 FY17 | 4201 Primrose Avenue | Baltimore | MD | 21215 | 190,078.00
Garrett County Community Action Committee, Inc./SHP DIS 2017 | 104 E Center Street | Oakland | MD | 21550 | 190,226.00
People Encouraging People, Inc./The PEP Prince George's County Housing First Program 2009 FY 17 | 4201 Primrose Avenue | Baltimore | MD | 21215 | 190,810.00
United Communities Against Poverty, Inc. (UCAP)/PATH III | 1400 Doewood Lane | Capitol Heights | MD | 20743 | 193,634.00
Volunteers of America Chesapeake, Inc./VOAC PG Supportive Housing | 7901 Annapolis Road | Lanham | MD | 20706 | 195,712.00
Maryland Department of Health/BHA S+C Baltimore County 13 units NOFA 2017 | 55 Wade Ave, Dix Building Office of Evidence-Based Practices, Housing, and Recovery Supports | Catonsville | MD | 21228 | 197,564.00
The National Center for Children and Families/Rapid Re-housing I (formerly Dem) 2017 | 6301 Greentree Road | Bethesda | MD | 20817 | 208,990.00
Anne Arundel County, MD/AACMHA—SHOP Program | 2666 Riva Road | Annapolis | MD | 21401 | 211,444.00
AIDS Interfaith Residential Services, Inc./CoC SHP GYFLC FY17 | 1800 N. Charles Street, Suite 700 | Baltimore | MD | 21201 | 213,296.00
Baltimore County Department of Planning/Prologue Housing 1 & 2 2017 | 105 West Chesapeake Ave, Suite 201 | Towson | MD | 21204 | 219,376.00
Baltimore County Department of Planning/Prologue Outreach 2017 | 105 West Chesapeake Ave, Suite 201 | Towson | MD | 21204 | 221,132.00
Mid Shore Behavioral Health Inc./MSBH Continuum of Care Housing Renewal 2017 | 28578 Mary's Court, Suite 1 | Easton | MD | 21601 | 224,929.00
Baltimore County Department of Planning/DSS RRH 1 & 2 2017 | 105 West Chesapeake Ave, Suite 201 | Towson | MD | 21204 | 227,006.00
United Communities Against Poverty, Inc. (UCAP)/PATH I | 1400 Doewood Lane | Capitol Heights | MD | 20743 | 227,901.00
Howard County Government/McKinney—III—FFY17 (MD0118L3B041710) | 6751 Columbia Gateway Drive, Suite 300 | Columbia | MD | 21046 | 229,179.00
Housing Initiative Partnership, Inc./SUCCESS I 2017 | 6525 Belcrest Road, Suite 555 | Hyattsville | MD | 20782 | 237,817.00
Maryland Department of Health/BHA S+C Lower Shore (Somerset & Wicomico) 23 units NOFA 2017 | 55 Wade Ave, Dix Building Office of Evidence-Based Practices, Housing, and Recovery Supports | Catonsville | MD | 21228 | 239,075.00
City of Baltimore—Mayor's Office/Project PLASE—Scattered Site PHP | 7 E. Redwood Street, 5th Floor | Baltimore | MD | 21202 | 241,106.00
JHP, Inc/JHP PSH | 1526 Pennsylvania Ave, SE | Washington | MD | 20003 | 257,262.00
Housing Authority of St. Mary's County, MD/Nicholson—Permanent Housing Project #8—2017 Renewal | 21155 Lexwood Drive, Suite C | Lexington Park | MD | 20653 | 257,420.00
Maryland Department of Health/BHA S+C Washington County 25 units NOFA 2017 | 55 Wade Ave, Dix Building Office of Evidence-Based Practices, Housing, and Recovery Supports | Catonsville | MD | 21228 | 260,418.00
Baltimore County Department of Planning/SVDP Scattered Site PSH 2017 | 105 West Chesapeake Ave, Suite 201 | Towson | MD | 21204 | 263,369.00
Howard County Government/McKinney—I—FFY17 (MD0116L3B041710) | 6751 Columbia Gateway Drive, Suite 300 | Columbia | MD | 21046 | 270,997.00
Mid Shore Behavioral Health Inc./MSBH Independent Housing Opportunity Program Renewal 2017 | 28578 Mary's Court, Suite 1 | Easton | MD | 21601 | 273,614.00
Prince George's County, Maryland/Coordinated Entry 2017 | 14741 Governor Oden Bowie Drive | Upper Marlboro | MD | 20772 | 280,000.00
Somerset County Health Department/Project 1 | Somerset County Health Department 7920 Crisfield Highway | Westover | MD | 21871 | 283,143.00
Maryland Department of Health/BHA S+C Harford County 18 units NOFA 2017 | 55 Wade Ave, Dix Building Office of Evidence-Based Practices, Housing, and Recovery Supports | Catonsville | MD | 21228 | 292,252.00
City of Baltimore—Mayor's Office/Dayspring Programs PHP | 7 E. Redwood Street, 5th Floor | Baltimore | MD | 21202 | 296,792.00
City of Baltimore—Mayor's Office/Youth Empowered Society Rapid Re-Housing | 7 E. Redwood Street, 5th Floor | Baltimore | MD | 21202 | 314,634.00
Maryland Department of Health/BHA S+C Frederick County 16 units NOFA 2017 | 55 Wade Ave, Dix Building Office of Evidence-Based Practices, Housing, and Recovery Supports | Catonsville | MD | 21228 | 320,014.00
Montgomery County Coalition for the Homeless, Inc/Home First II | 600 B East Gude Drive | Rockville | MD | 20850 | 326,308.00
Interfaith Works Inc./Interfaith Homes | 114 W. Montgomery Avenue | Rockville | MD | 20850 | 337,584.00
City of Baltimore—Mayor's Office/Coordinated Access SSO | 7 E. Redwood Street, 5th Floor | Baltimore | MD | 21202 | 341,470.00
Maryland Department of Health/BHA S+C Prince George's County 14 unit NOFA 2017 | 55 Wade Ave, Dix Building Office of Evidence-Based Practices, Housing, and Recovery Supports | Catonsville | MD | 21228 | 345,181.00
Maryland Department of Health/BHA S+C Prince George's County 16 unit NOFA 2017 | 55 Wade Ave, Dix Building Office of Evidence-Based Practices, Housing, and Recovery Supports | Catonsville | MD | 21228 | 347,905.00
City of Baltimore—Mayor's Office/MOHS—HMIS Project | 7 E. Redwood Street, 5th Floor | Baltimore | MD | 21202 | 362,812.00
Behavioral Health System Baltimore/PEP Outreach | 100 S Charles St, Tower II 8th Floor | Baltimore | MD | 21201 | 364,687.00
The National Center for Children and Families/Rapid Re-housing II 2017 renewal | 6301 Greentree Road | Bethesda | MD | 20817 | 385,518.00
Montgomery County Coalition for the Homeless, Inc/Personal Living Quarters Seneca Heights Apartments | 600 B East Gude Drive | Rockville | MD | 20850 | 390,767.00
Behavioral Health System Baltimore/HOPE Safe Haven | 100 S Charles St, Tower II 8th Floor | Baltimore | MD | 21201 | 399,670.00
YMCA of Cumberland/Y Permanent Housing | 205 Baltimore Avenue | Cumberland | MD | 21502 | 406,809.00
Laurel Advocacy and Referral Services, Inc/005-SHP Renewal | 311 Laurel Avenue | Laurel | MD | 20707 | 409,550.00
Anne Arundel County, MD/HCAAC—Homeless Permanent Supportive Housing Program (SHP I) | 2666 Riva Road | Annapolis | MD | 21401 | 421,135.00
City of Baltimore—Mayor's Office/Dayspring Programs Tenant Based S+C | 7 E. Redwood Street, 5th Floor | Baltimore | MD | 21202 | 434,372.00
Maryland Department of Health/BHA S+C Anne Arundel County 26 units NOFA 2017 | 55 Wade Ave, Dix Building Office of Evidence-Based Practices, Housing, and Recovery Supports | Catonsville | MD | 21228 | 436,855.00
City of Baltimore—Mayor's Office/St. Ambrose Housing Aid Center PHP | 7 E. Redwood Street, 5th Floor | Baltimore | MD | 21202 | 441,589.00
City of Baltimore—Mayor's Office/SVdP Home Connections PHP | 7 E. Redwood Street, 5th Floor | Baltimore | MD | 21202 | 485,338.00
Anne Arundel County, MD/ACDS—Anne Arundel Partnership for Permanent Housing | 2666 Riva Road | Annapolis | MD | 21401 | 499,525.00
Montgomery County Coalition for the Homeless, Inc/Safe Havens | 600 B East Gude Drive | Rockville | MD | 20850 | 505,321.00
Somerset County Health Department/Project 23 | Somerset County Health Department 7920 Crisfield Highway | Westover | MD | 21871 | 511,212.00
City of Baltimore—Mayor's Office/SVdP Home Connections II—Samaritan Project | 7 E. Redwood Street, 5th Floor | Baltimore | MD | 21202 | 525,562.00
Catholic Charities of The Archdiocese of Washington, Inc/Montgomery County Rapid Re-Housing | 924 G Street, NW | Washington | MD | 20001 | 534,500.00
Prince George's County, Maryland/HELP 2017 | 14741 Governor Oden Bowie Drive | Upper Marlboro | MD | 20772 | 580,867.00
Montgomery County Coalition for the Homeless, Inc/Hope Housing | 600 B East Gude Drive | Rockville | MD | 20850 | 588,017.00
City of Baltimore—Mayor's Office/PEP Samaritan Project | 7 E. Redwood Street, 5th Floor | Baltimore | MD | 21202 | 595,572.00
City of Baltimore—Mayor's Office/MD-501 CoC Planning Application 2017 | 7 E. Redwood Street, 5th Floor | Baltimore | MD | 21202 | 615,157.00
City of Baltimore—Mayor's Office/HCAM Rapid Re-Housing | 7 E. Redwood Street, 5th Floor | Baltimore | MD | 21202 | 635,600.00
Prince George's County, Maryland/THP 2017 | 14741 Governor Oden Bowie Drive | Upper Marlboro | MD | 20772 | 643,159.00
City of Baltimore—Mayor's Office/Marian House TAMAR S+C | 7 E. Redwood Street, 5th Floor | Baltimore | MD | 21202 | 647,559.00
HOUSING OPPORTUNITIES COMMISSION/Permanent Supportive Housing 12 | 10400 Detrick Ave | Kensington | MD | 20895 | 670,277.00
Maryland Department of Health/BHA S+C Baltimore County 38 units NOFA 2017 | 55 Wade Ave, Dix Building Office of Evidence-Based Practices, Housing, and Recovery Supports | Catonsville | MD | 21228 | 702,222.00
City of Baltimore—Mayor's Office/Associated Catholic Charities—REACH Combined | 7 E. Redwood Street, 5th Floor | Baltimore | MD | 21202 | 765,223.00
City of Baltimore—Mayor's Office/MOHS—Homewood Bound PHP | 7 E. Redwood Street, 5th Floor | Baltimore | MD | 21202 | 847,688.00
City of Baltimore—Mayor's Office/WHC Scattered Site Housing S+C | 7 E. Redwood Street, 5th Floor | Baltimore | MD | 21202 | 926,423.00
Montgomery County Coalition for the Homeless, Inc/Keys First | 600 B East Gude Drive | Rockville | MD | 20850 | 933,687.00
City of Baltimore—Mayor's Office/SVDP Front Door Rapid Re-Housing | 7 E. Redwood Street, 5th Floor | Baltimore | MD | 21202 | 1,081,752.00
City of Baltimore—Mayor's Office/Health Care for the Homeless—Homewood Bound Bonus | 7 E. Redwood Street, 5th Floor | Baltimore | MD | 21202 | 1,127,045.00
City of Baltimore—Mayor's Office/Project PLASE Veteran PSH Project | 7 E. Redwood Street, 5th Floor | Baltimore | MD | 21202 | 1,267,062.00
Maryland Department of Health/BHA S+C Southern MD 60 units NOFA 2017 | 55 Wade Ave, Dix Building Office of Evidence-Based Practices, Housing, and Recovery Supports | Catonsville | MD | 21228 | 1,376,065.00
City of Baltimore—Mayor's Office/AIRS Shelter Plus Care | 7 E. Redwood Street, 5th Floor | Baltimore | MD | 21202 | 1,511,442.00
City of Baltimore—Mayor's Office/Project PLASE Rental Assistance Program | 7 E. Redwood Street, 5th Floor | Baltimore | MD | 21202 | 1,725,140.00
HOUSING OPPORTUNITIES COMMISSION/Permanent Supportive Housing 10 | 10400 Detrick Ave | Kensington | MD | 20895 | 3,492,340.00
City of Baltimore—Mayor's Office/BHSB SRA Multi-Grant S+C | 7 E. Redwood Street, 5th Floor | Baltimore | MD | 21202 | 4,003,640.00
City of Bangor/TRA 1 | 73 Harlow Street | Bangor | ME | 04401 | 8,729.00
City of Bangor/TRA 2 | 73 Harlow Street | Bangor | ME | 04401 | 8,729.00
Penobscot Community Health Center, Inc./Hope House 24/PCHC | 352 Texas Avenue | Bangor | ME | 04401 | 9,819.00
Tedford Housing/Everett Street Supported Housing 2017 | 14 Middle St | Brunswick | ME | 04011 | 16,283.00
Community Housing of Maine, Inc/Permanent Housing for Homeless Veterans with Disabilities | One City Center | Portland | ME | 04101 | 22,888.00
State of Maine/Portland 12-17 | 11 State House Station | Augusta | ME | 04333 | 23,039.00
State of Maine/Portland 8-17 | 11 State House Station | Augusta | ME | 04333 | 23,559.00
State of Maine/Portland 7-17 | 11 State House Station | Augusta | ME | 04333 | 26,048.00
State of Maine/Maine 3-17 | 11 State House Station | Augusta | ME | 04333 | 27,128.00
OHI/Chalila Apartments | 25 Freedom Parkway | Hermon | ME | 04401 | 32,614.00
Maine State Housing Authority/Maine Coordinated Entry System | 353 Water Street | Augusta | ME | 04330 | 36,723.00
Kennebec Behavioral Health/Mid Maine Supported Housing 17 | 67 Eustis Parkway | Waterville | ME | 04901 | 38,174.00
State of Maine/SB MHBR-17 | 11 State House Station | Augusta | ME | 04333 | 44,743.00
The Opportunity Alliance (formerly Youth Alternatives Ingraham, Inc.)/22 Park Avenue Rapid Re-Housing Program | 50 Lydia Lane | South Portland | ME | 04106 | 49,376.00
State of Maine/Maine 22-17 | 11 State House Station | Augusta | ME | 04333 | 50,773.00
State of Maine/YCSP SB II-17 | 11 State House Station | Augusta | ME | 04333 | 51,708.00
State of Maine/Portland 5-17 | 11 State House Station | Augusta | ME | 04333 | 54,553.00
State of Maine/Maine 6-17 | 11 State House Station | Augusta | ME | 04333 | 64,504.00
State of Maine/Maine-19 chronic 17 | 11 State House Station | Augusta | ME | 04333 | 73,981.00
State of Maine/Maine 23-17 | 11 State House Station | Augusta | ME | 04333 | 91,938.00
State of Maine/SB YCS-17 | 11 State House Station | Augusta | ME | 04333 | 96,799.00
City of Bangor/TRA 8716 | 73 Harlow Street | Bangor | ME | 04401 | 124,831.00
The Opportunity Alliance (formerly Youth Alternatives Ingraham, Inc.)/Rapid Re-Housing Program | 50 Lydia Lane | South Portland | ME | 04106 | 146,812.00
New Beginnings Inc./New Beginnings Transitional Living Program for Homeless Youth 2017 | 134 College St | Lewiston | ME | 04240 | 164,339.00
State of Maine/Maine-20 17 | 11 State House Station | Augusta | ME | 04333 | 178,505.00
The Opportunity Alliance (formerly Youth Alternatives Ingraham, Inc.)/Rapid Re-Housing Program 2 | 50 Lydia Lane | South Portland | ME | 04106 | 180,757.00
State of Maine/Maine 10-17 | 11 State House Station | Augusta | ME | 04333 | 200,659.00
City of Bangor/TRA-8719 | 73 Harlow Street | Bangor | ME | 04401 | 292,512.00
Preble Street/Logan Place | 38 Preble Street | Portland | ME | 04101 | 310,118.00
City of Bangor/TRA Consolidated 8714 | 73 Harlow Street | Bangor | ME | 04401 | 342,707.00
Maine State Housing Authority/State of Maine HMIS | 353 Water Street | Augusta | ME | 04330 | 344,888.00
Maine State Housing Authority/MCOC ME-500 CoC Planning Application FY2017 | 353 Water Street | Augusta | ME | 04330 | 349,860.00
Maine State Housing Authority/Maine Rapid Re-Housing TBRA | 353 Water Street | Augusta | ME | 04330 | 401,676.00
City of Bangor/TRA Consolidated 8715 | 73 Harlow Street | Bangor | ME | 04401 | 410,926.00
State of Maine/Penobscot 1-17 | 11 State House Station | Augusta | ME | 04333 | 463,256.00
Preble Street/Huston Commons | 38 Preble Street | Portland | ME | 04101 | 472,851.00
State of Maine/Maine 2-17 | 11 State House Station | Augusta | ME | 04333 | 2,090,340.00
State of Maine/Portland 13-17 | 11 State House Station | Augusta | ME | 04333 | 2,463,320.00
State of Maine/Maine 1-17 | 11 State House Station | Augusta | ME | 04333 | 3,142,510.00
Oakland Livingston Human Service Agency/Livingston CoC Planning Project FY2017 | 2300 E. Grand River, Suite 107 | Howell | MI | 48843 | 6,424.00
Lenawee Emergency and Affordable Housing Corporation/2017-CoC Planning | 307 E. Church Street, P.O. Box 692 | Adrian | MI | 49221 | 6,903.00
Saginaw County Youth Protection Council/Innerlink Transitional Housing and Supportive Services Expansion | 1226 North Michigan Avenue | Saginaw | MI | 48602 | 8,999.00
Ann Arbor Housing Commission/2010 Bonus Avalon SPC | 2000 S Industrial | Ann Arbor | MI | 48104 | 10,210.00
Lenawee Emergency and Affordable Housing Corporation/2017-Legacy Housing | 307 E. Church Street, P.O. Box 692 | Adrian | MI | 49221 | 12,935.00
Restoration Community Outreach/RCO Rapid Re-Housing | 1205 Norman Street | Saginaw | MI | 48601 | 12,973.00
Every Woman's Place, Inc./PSH 2017 Allocation | 1221 W Laketon Ave | Muskegon | MI | 49441 | 13,125.00
Northwest Michigan Supportive Housing (formerly, the Foundation for Mental Health Grand Traverse-Leelanau)/Good Sam | 250 E. Front St., Suite 320 | Traverse City | MI | 49684 | 13,759.00
Summit Pointe/CoC Planning Project 2017 | 140 W. Michigan Ave | Battle Creek | MI | 49017 | 14,453.00
Oakland Livingston Human Service Agency/Livingston HMIS | 2300 E. Grand River, Suite 107 | Howell | MI | 48843 | 16,080.00
Muskegon Community Health Project/CoC Planning Grant 2017 | 565 W. Western Ave | Muskegon | MI | 49440 | 17,732.00
Community Housing Network, Inc./MLeasing Assistance Program 2 Renewal | 570 Kirts Boulevard, Suite 231 | Troy | MI | 48084 | 18,966.00
Northwest Michigan Community Action Agency, Inc./CoC Planning Project FY 2017 | 3963 Three Mile Rd | Traverse City | MI | 49686 | 19,675.00
HealthWest (formerly known as Community Mental Health Services of Muskegon County)/Supportive Housing II | 376 E Apple Avenue | Muskegon | MI | 49442 | 20,123.00
County of Ottawa/Permanent Housing Assistance for Chronically Homeless Individuals | 12265 James Street | Holland | MI | 49424 | 20,528.00
Oakland Livingston Human Service Agency/Livingston Rapid Rehousing Program | 2300 E. Grand River, Suite 107 | Howell | MI | 48843 | 22,078.00
United Way of Saginaw County/Mustard Seed Family Plus II—Pt. 1 | 100 S. Jefferson Avenue, 3rd Floor | Saginaw | MI | 48607 | 22,253.00
Macomb County Community Mental Health/Macomb RRH Renewal | 22550 Hall Road | Clinton Township | MI | 48036 | 22,804.00
Goodwill Industries of Northern Michigan, Inc./HMIS System Admin—2017 Renewal | 2279 South Airport Road West | Traverse City | MI | 49684 | 22,909.00
Goodwill Industries of Northern Michigan, Inc./Coordinated Entry—Street Outreach FY 2017 Renewal | 2279 South Airport Road West | Traverse City | MI | 49684 | 23,000.00
Community Action Agency/Jackson County CoC (MI-517) Planning Project | 1214 Greenwood Avenue | Jackson | MI | 49203 | 24,543.00
Bethany Housing Ministries dba Community enCompass/Veterans Supportive Housing Families | 1105 Terrace Street | Muskegon | MI | 49442 | 25,333.00
Macomb Homeless Coalition/MHC CoC HMIS 1 Project FY 2017 | 196 N Rose St, Rm 28 | Mount Clemens | MI | 48043 | 25,682.00
HealthWest (formerly known as Community Mental Health Services of Muskegon County)/Supportive Housing IV | 376 E Apple Avenue | Muskegon | MI | 49442 | 25,686.00
HealthWest (formerly known as Community Mental Health Services of Muskegon County)/Samaritian I | 376 E Apple Avenue | Muskegon | MI | 49442 | 25,707.00
Women Empowering Women, Inc./Paula's House 2017 | P.O. Box 2002 | Monroe | MI | 48161 | 26,066.00
Allegan County Community Mental Health Services/ACCMHS—MI 500 CoC FY 17 Renewal | 3283 122nd Avenue, P.O. Box 130 | Allegan | MI | 49010 | 26,188.00
Macomb Homeless Coalition/MHC CoC HMIS 2 Project FY 2017 | 196 N Rose St, Rm 28 | Mount Clemens | MI | 48043 | 26,787.00
Bethany Housing Ministries dba Community enCompass/Veterans Supportive Housing Singles | 1105 Terrace Street | Muskegon | MI | 49442 | 26,796.00
Housing Services Mid Michigan/Eaton CoC Planning Project 2017 | 319 S. Cochran | Charlotte | MI | 48813 | 27,092.00
Comprehensive Youth Services/FYITLP17 | 2 Crocker Blvd, Suite 205 | Mount Clemens | MI | 48043 | 27,212.00
Greater Ottawa County United Way/MI-519 CoC Planning Application FY2017 | 115 Clover | Holland | MI | 49423 | 29,634.00
Every Woman's Place, Inc./PSH Re-Allocated | 1221 W Laketon Ave | Muskegon | MI | 49441 | 32,853.00
Summit Pointe/HHAP Renewal 2017 | 140 W. Michigan Ave | Battle Creek | MI | 49017 | 33,020.00
Community Housing Network, Inc./OHMIS Expansion Renewal | 570 Kirts Boulevard, Suite 231 | Troy | MI | 48084 | 34,644.00
Northwest Michigan Supportive Housing (formerly, the Foundation for Mental Health Grand Traverse-Leelanau)/GTA Lofts | 250 E. Front St., Suite 320 | Traverse City | MI | 49684 | 34,924.00
Good Samaritan Ministries/Permanent Supportive Housing—GSM | 513 E. 8th Street, Suite 25 | Holland | MI | 49423 | 35,056.00
United Way of Saginaw County/Mustard Seed Plus V | 100 S. Jefferson Avenue, 3rd Floor | Saginaw | MI | 48607 | 35,640.00
Inner City Christian Federation/ICCF PSH 2017 | 920 Cherry SE | Grand Rapids | MI | 49506 | 36,425.00
United Way of Saginaw County/Mustard Seed Plus | 100 S. Jefferson Avenue, 3rd Floor | Saginaw | MI | 48607 | 37,803.00
United Way of Saginaw County/Mustard Seed Plus II | 100 S. Jefferson Avenue, 3rd Floor | Saginaw | MI | 48607 | 37,803.00
United Way of Saginaw County/Mustard Seed Plus III | 100 S. Jefferson Avenue, 3rd Floor | Saginaw | MI | 48607 | 37,803.00
United Way of Saginaw County/Mustard Seed Plus IV | 100 S. Jefferson Avenue, 3rd Floor | Saginaw | MI | 48607 | 37,874.00
Restoration Community Outreach/RCO Family First | 1205 Norman Street | Saginaw | MI | 48601 | 38,622.00
Oakland Livingston Human Service Agency/Livingston Permanent Housing | 2300 E. Grand River, Suite 107 | Howell | MI | 48843 | 38,906.00
United Way of Saginaw County/Mustard Seed Family Plus II—Samaritan Bonus | 100 S. Jefferson Avenue, 3rd Floor | Saginaw | MI | 48607 | 39,560.00
Summit Pointe/HMIS Renewal Project 2017 | 140 W. Michigan Ave | Battle Creek | MI | 49017 | 40,000.00
City of Lansing/HMIS 1 | 124 W. Michigan Avenue, 4th Floor | Lansing | MI | 48933 | 40,121.00
Michigan Ability Partners/MAP Willow Pond Renewal 2018 | 3810 Packard, Suite 260 | Ann Arbor | MI | 48108 | 42,103.00
Saginaw County Youth Protection Council/Rapid Re-Housing for Homeless Youth Expansion | 1226 North Michigan Avenue | Saginaw | MI | 48602 | 42,848.00
Kalamazoo Community Mental Health & Substance Abuse Services/Home Run Renewal Application FY2017 | 2030 Portage Road | Kalamazoo | MI | 49001 | 43,039.00
Housing Services Mid Michigan/HEART for Families 5 | 319 S. Cochran | Charlotte | MI | 48813 | 43,646.00
Kalamazoo Community Mental Health & Substance Abuse Services/Full Count Renewal Application FY2017 | 2030 Portage Road | Kalamazoo | MI | 49001 | 44,489.00
Detroit Wayne Mental Health Authority/S+C Southwest Solutions Matrix | 707 W. Milwaukee | Detroit | MI | 48202 | 44,861.00
Northwest Michigan Supportive Housing (formerly, the Foundation for Mental Health Grand Traverse-Leelanau)/GTAx | 250 E. Front St., Suite 320 | Traverse City | MI | 49684 | 45,518.00
Saginaw County Youth Protection Council/Rapid Re-Housing | 1226 North Michigan Avenue | Saginaw | MI | 48602 | 45,589.00
Perfecting Community Development Corporation/Project Home RRH 3 | 42960 Ryan Road | Sterling Heights | MI | 48314 | 46,845.00
Genesee County Community Action Resource Department/Samaritian S+C Renewal Project Application FY2017 | 601 N. Saginaw St., Suite 1B | Flint | MI | 48502 | 47,777.00
Ozone House, Inc./SHP for Young Families | 1705 Washtenaw Ave | Ann Arbor | MI | 48104 | 48,369.00
Metro Community Development, Inc./CoC Planning Project Application 2017 | 503 S. Saginaw Street, Suite 810 | Flint | MI | 48502 | 50,000.00
Goodwill Industries of Northern Michigan, Inc./Supplemental Assistance for Facilities to Assist the Homeless | 2279 South Airport Road West | Traverse City | MI | 49684 | 51,923.00
Michigan Ability Partners/MAP MVP Renewal 2018 | 3810 Packard, Suite 260 | Ann Arbor | MI | 48108 | 52,073.00
Community Housing Network, Inc./MLeasing Assistance Program 6 Renewal | 570 Kirts Boulevard, Suite 231 | Troy | MI | 48084 | 52,122.00
Alger Marquette Community Action Board/Orianna Ridge-SHP | 1125 Commerce Drive | Marquette | MI | 49855 | 52,587.00
Housing Services Mid Michigan/Housing Services' Permanent Supportive Housing Program | 319 S. Cochran | Charlotte | MI | 48813 | 53,715.00
Restoration Community Outreach/Transitional Housing | 1205 Norman Street | Saginaw | MI | 48601 | 54,512.00
United Way of Saginaw County/Mustard Seed Family Plus | 100 S. Jefferson Avenue, 3rd Floor | Saginaw | MI | 48607 | 54,588.00
Wayne Metropolitan Community Action Agency/RENEWAL OF VISGER RIVER ROUGE 2017 NOFA | 2121 Biddle, Suite 102 | Wyandotte | MI | 48192 | 54,793.00
Community Action Agency/Jackson HMIS | 1214 Greenwood Avenue | Jackson | MI | 49203 | 55,979.00
Northwest Michigan Supportive Housing (formerly, the Foundation for Mental Health Grand Traverse-Leelanau)/Woodmere | 250 E. Front St., Suite 320 | Traverse City | MI | 49684 | 58,009.00
Community Housing Network, Inc./OHMIS Renewal | 570 Kirts Boulevard, Suite 231 | Troy | MI | 48084 | 58,181.00
Saginaw County Youth Protection Council/Teen Parent Services Transitional Housing/St. Rita's | 1226 North Michigan Avenue | Saginaw | MI | 48602 | 59,373.00
United Way of Saginaw County/Shelter Plus Care for Victims of Domestic Violence | 100 S. Jefferson Avenue, 3rd Floor | Saginaw | MI | 48607 | 59,546.00
Training and Treatment Innovations, Inc./Jackson Housing Leasing Program ll MI0256 | 2301 E. Michigan Ave, Suite 219 | Jackson | MI | 49202 | 59,874.00
City of Lansing/Fresh Start RRH | 124 W. Michigan Avenue, 4th Floor | Lansing | MI | 48933 | 60,036.00
Wayne Metropolitan Community Action Agency/RENEWAL OF HMIS 2017 NOFA | 2121 Biddle, Suite 102 | Wyandotte | MI | 48192 | 60,239.00
EightCAP, Inc./Rapid Rehousing SH Ionia/Montcalm FY2017 | 904 Oak Drive | Greenville | MI | 48838 | 61,516.00
Every Woman's Place, Inc./HMIS (Homeless Management Information System) | 1221 W Laketon Ave | Muskegon | MI | 49441 | 62,000.00
Heartside Nonprofit Housing Corporation/Ferguson Apartments | 101 Sheldon Blvd. SE, Ste. 2 | Grand Rapids | MI | 49503 | 63,000.00
Ann Arbor Housing Commission/MAP SAWC SPC SRA 2018 | 2000 S Industrial | Ann Arbor | MI | 48104 | 64,819.00
Housing Resources, Inc. of Kalamazoo County/Dedicated HMIS | 420 East Alcott, Suite 200 | Kalamazoo | MI | 49001 | 65,030.00
Housing Resources, Inc. of Kalamazoo County/Homeward II | 420 East Alcott, Suite 200 | Kalamazoo | MI | 49001 | 65,199.00
Channel Housing Ministries, Inc./Stability and Beyond Program | 204 Washington St. | Hart | MI | 49420 | 65,448.00
Central Territory of the Salvation Army/Coordinated Entry | 1215 E. Fulton | Grand Rapids | MI | 49503 | 65,950.00
Northwest Michigan Supportive Housing (formerly, the Foundation for Mental Health Grand Traverse-Leelanau)/GTA Leasing | 250 E. Front St., Suite 320 | Traverse City | MI | 49684 | 66,123.00
Metro Community Development, Inc./SOF—Rosewood Manor | 503 S. Saginaw Street, Suite 810 | Flint | MI | 48502 | 66,359.00
Kalamazoo Community Mental Health & Substance Abuse Services/Second Base Renewal Application FY2017 | 2030 Portage Road | Kalamazoo | MI | 49001 | 66,478.00
Kalamazoo Community Mental Health & Substance Abuse Services/Grand Slam Renewal Application FY2017 | 2030 Portage Road | Kalamazoo | MI | 49001 | 66,498.00
Kalamazoo Community Mental Health & Substance Abuse Services/Third Base Renewal Application FY2017 | 2030 Portage Road | Kalamazoo | MI | 49001 | 66,635.00
Summit Pointe/SPPSH 2017 | 140 W. Michigan Ave | Battle Creek | MI | 49017 | 67,127.00
Macomb Homeless Coalition/CoC Planning Grant FY 2017 | 196 N Rose St, Rm 28 | Mount Clemens | MI | 48043 | 68,209.00
Community Housing Network, Inc./MChronically Homeless Leasing Assistance Program 5 Renewal | 570 Kirts Boulevard, Suite 231 | Troy | MI | 48084 | 68,496.00
Human Development Commission/Homeless Rehousing Program Bonus Renewal FY2017 | 429 Montague Avenue | Caro | MI | 48723 | 68,503.00
Haven of Rest Ministries Inc./WIN Family Program 2017 Renewal | 11 Green Street | Battle Creek | MI | 49014 | 68,654.00
City of Lansing/Permanent Housing for Families | 124 W. Michigan Avenue, 4th Floor | Lansing | MI | 48933 | 70,383.00
Lutheran Social Services of Wisconsin and Upper Michigan, In/Welcome Home | 1029 North Third Street | Marquette | MI | 49855 | 71,462.00
United Way of Saginaw County/Homeless Management Information System (HMIS) | 100 S. Jefferson Avenue, 3rd Floor | Saginaw | MI | 48607 | 71,852.00
Livingston County Community Mental Health Authority/Permanent Supportive Housing Scattered Site #3 2017 | 622 E. Grand River Avenue | Howell | MI | 48843 | 73,267.00
Restoration Community Outreach/Safe Haven | 1205 Norman Street | Saginaw | MI | 48601 | 73,949.00
Livingston County Community Mental Health Authority/Permanent Supportive Housing Scattered Site #2 2017 | 622 E. Grand River Avenue | Howell | MI | 48843 | 74,262.00
City of Lansing/MI-508 CoC Planning FY17 | 124 W. Michigan Avenue, 4th Floor | Lansing | MI | 48933 | 74,296.00
Goodwill Industries of Northern Michigan, Inc./Goodwill NMI-PSH reallocation 2017 Renewal | 2279 South Airport Road West | Traverse City | MI | 49684 | 75,579.00
First Step: Western Wayne County Project on Domestic Assault/First Step Aftercare/Transportation Renewal FY2017 | 44567 Pinetree Drive | Plymouth | MI | 48170 | 77,763.00
Metro Community Development, Inc./Flint Odyssey House PSH | 503 S. Saginaw Street, Suite 810 | Flint | MI | 48502 | 78,144.00
Wayne Metropolitan Community Action Agency/RENEWAL OF SAFE HAVEN 2017 NOFA | 2121 Biddle, Suite 102 | Wyandotte | MI | 48192 | 81,354.00
Community Housing Network, Inc./Oakland Rapid Re-Housing Renewal | 570 Kirts Boulevard, Suite 231 | Troy | MI | 48084 | 83,941.00
Ann Arbor Housing Commission/MAP SPC TRA 2018 | 2000 S Industrial | Ann Arbor | MI | 48104 | 85,470.00
Community Housing Network, Inc./ORapid Re-Housing Program 2 Renewal | 570 Kirts Boulevard, Suite 231 | Troy | MI | 48084 | 87,476.00
Haven of Rest Ministries Inc./Men's Life Recovery Renewal 2017 | 11 Green Street | Battle Creek | MI | 49014 | 88,330.00
Northwest Michigan Supportive Housing (formerly, the Foundation for Mental Health Grand Traverse-Leelanau)/WRC/NMSH | 250 E. Front St., Suite 320 | Traverse City | MI | 49684 | 89,317.00
Metro Community Development, Inc./HMIS | 503 S. Saginaw Street, Suite 810 | Flint | MI | 48502 | 89,577.00
Lenawee Emergency and Affordable Housing Corporation/2017-PH-RRH | 307 E. Church Street, P.O. Box 692 | Adrian | MI | 49221 | 90,076.00
Avalon Housing, Inc./Avalon/Pontiac Trail Supportive Housing | 1327 Jones Dr., Suite 102 | Ann Arbor | MI | 48105 | 90,578.00
Avalon Housing, Inc./Avalon/Ashley Supportive Housing | 1327 Jones Dr., Suite 102 | Ann Arbor | MI | 48105 | 93,676.00
Saginaw County Youth Protection Council/Rapid Re-Housing for Homeless Youth | 1226 North Michigan Avenue | Saginaw | MI | 48602 | 94,771.00
Metro Community Development, Inc./Chronic Homeless Families Lease Up | 503 S. Saginaw Street, Suite 810 | Flint | MI | 48502 | 95,467.00
Homeless Action Network of Detroit/Expansion Homeless Management Information System | 3701 Miracles Blvd, Suite 101 | Detroit | MI | 48201 | 96,155.00
Housing Services Mid Michigan/Housing Services Mid Michigan -Clinton PSH | 319 S. Cochran | Charlotte | MI | 48813 | 99,030.00
SIREN/Eaton Shelter, Inc./Eaton County Rapid Rehousing | 520 Robinson, P.O. Box 369 | Charlotte | MI | 48813 | 99,246.00
Community Action Agency/Jackson County SSO Project | 1214 Greenwood Avenue | Jackson | MI | 49203 | 99,417.00
Central Territory of the Salvation Army/HMIS Dedicated Project | 1215 E. Fulton | Grand Rapids | MI | 49503 | 100,000.00
Capital Area Community Services, Inc./Ending Family Homelessness through Rapid Rehousing—Clinton and Shiawassee Counties | 101 E. Willow | Lansing | MI | 48906 | 100,348.00
Allegan County Community Mental Health Services/ACCMHS—RRH FY 17 | 3283 122nd Avenue, P.O. Box 130 | Allegan | MI | 49010 | 100,762.00
Catholic Family Services/Directions: The Portage Project | 1819 Gull Road | Kalamazoo | MI | 49048 | 104,240.00
Community Housing Network, Inc./MLeasing Assistance Program 7 Renewal | 570 Kirts Boulevard, Suite 231 | Troy | MI | 48084 | 105,274.00
Monroe County Opportunity Program/MCOP Supportive Housing Program FY17 | 1140 S. Telegraph | Monroe | MI | 48161 | 105,382.00
Lutheran Social Services of Michigan/SUPPORTIVE SERVICES RENEWAL FY 2017 NOFA | 30600 Michigan Ave | Westland | MI | 48186 | 105,582.00
Neighborhood Service Organization/NSO/COTS 2017 | 882 Oakman Blvd | Detroit | MI | 48238 | 105,696.00
City of Lansing/Walnut Apartments | 124 W. Michigan Avenue, 4th Floor | Lansing | MI | 48933 | 105,870.00
Metro Community Development, Inc./Veterans Lease Up | 503 S. Saginaw Street, Suite 810 | Flint | MI | 48502 | 106,817.00
Metro Community Development, Inc./Homeless Outreach | 503 S. Saginaw Street, Suite 810 | Flint | MI | 48502 | 107,217.00
Community Housing Network, Inc./OChronically Homeless Leasing Assistance Program 5 Renewal | 570 Kirts Boulevard, Suite 231 | Troy | MI | 48084 | 109,887.00
Center for Women in Transition/Ottawa DV PH-RRH 1 | 411 Butternut Drive | Holland | MI | 49424 | 111,064.00
Metro Community Development, Inc./Community Lease Up | 503 S. Saginaw Street, Suite 810 | Flint | MI | 48502 | 113,351.00
Lighthouse of Oakland County, Inc./2017-2018 LH PSH | 46156 Woodward Ave. | Pontiac | MI | 48342 | 114,561.00
Underground Railroad Inc./DVTSH#1 | 5647 State Street, Suite A | Saginaw | MI | 48603 | 115,746.00
Metro Community Development, Inc./SOF—Lease Up | 503 S. Saginaw Street, Suite 810 | Flint | MI | 48502 | 117,557.00
Northwest Michigan Community Action Agency, Inc./MHAAB 2017 Dedicated Plus PSH Project | 3963 Three Mile Rd | Traverse City | MI | 49686 | 119,519.00
Eastern Upper Peninsual Veterans Foundation/West Bridge Apartments | 633 E Portage Avenue, P.O. Box 1186 | Sault Sainte Marie | MI | 49783 | 123,196.00
Ozone House, Inc./Supportive Housing for Youth | 1705 Washtenaw Ave | Ann Arbor | MI | 48104 | 124,120.00
HealthWest (formerly known as Community Mental Health Services of Muskegon County)/Supportive Housing I | 376 E Apple Avenue | Muskegon | MI | 49442 | 125,023.00
Metro Community Development, Inc./GCYC—Transitional Living Program | 503 S. Saginaw Street, Suite 810 | Flint | MI | 48502 | 126,654.00
Underground Railroad Inc./DV RRH | 5647 State Street, Suite A | Saginaw | MI | 48603 | 127,058.00
Heartside Nonprofit Housing Corporation/Verne Barry Place | 101 Sheldon Blvd. SE, Ste. 2 | Grand Rapids | MI | 49503 | 129,850.00
Community Rebuilders/LOFT | 1120 Monroe NW, Suite 220 | Grand Rapids | MI | 49503 | 129,952.00
Housing Resources, Inc. of Kalamazoo County/Homeward III | 420 East Alcott, Suite 200 | Kalamazoo | MI | 49001 | 132,047.00
Peckham, Inc./I-EARN (Immediate Employment Assistance Resource Network) | 3510 Capital City Blvd. | Lansing | MI | 48906 | 132,724.00
Community Action Agency/Hillsdale County Permanent Supportive Housing (PSH) Scattered Sites | 1214 Greenwood Avenue | Jackson | MI | 49203 | 133,172.00
Community Rebuilders/HEROES | 1120 Monroe NW, Suite 220 | Grand Rapids | MI | 49503 | 136,672.00
City of Lansing/Ingham County—PSH 1 | 124 W. Michigan Avenue, 4th Floor | Lansing | MI | 48933 | 136,734.00
Michigan State Housing Development Authority/HMIS Ren 17 | 735 E. Michigan Avenue | Lansing | MI | 48909 | 136,764.00
Lighthouse of Oakland County, Inc./2017—2018 LH RRH | 46156 Woodward Ave | Pontiac | MI | 48342 | 137,133.00
Washtenaw County/HMIS 2017 | 415 W. Michigan Ave., Suite 2200 | Ypsilanti | MI | 48197 | 137,334.00
City of Lansing/Ingham County—PSH 2 | 124 W. Michigan Avenue, 4th Floor | Lansing | MI | 48933 | 137,929.00
Allegan County Community Mental Health Services/ACCMHS—PSH/Dedicated Plus FY 17 | 3283 122nd Avenue, P.O. Box 130 | Allegan | MI | 49010 | 138,015.00
City of Lansing/Hope Housing | 124 W. Michigan Avenue, 4th Floor | Lansing | MI | 48933 | 139,708.00
Southwest Housing Solutions/Wilshire FY 2017 | 1920 25th Street, Not applicable | Detroit | MI | 48216 | 140,505.00
Housing Services Mid Michigan/HEART for Families | 319 S. Cochran | Charlotte | MI | 48813 | 140,910.00
Lighthouse of Oakland County, Inc./2017—2018 LH Teen Program | 46156 Woodward Ave | Pontiac | MI | 48342 | 144,243.00
Coalition on Temporary Shelter/Buersmeyer Manor 2017 | 26 Peterboro, Not applicable | Detroit | MI | 48201 | 144,667.00
City of Lansing/Sober Center TH Program | 124 W. Michigan Avenue, 4th Floor | Lansing | MI | 48933 | 144,944.00
Community Housing Network, Inc./OLeasing Assistance Program CG Renewal | 570 Kirts Boulevard, Suite 231 | Troy | MI | 48084 | 145,751.00
Community Action Agency/Jackson RRH Program | 1214 Greenwood Avenue | Jackson | MI | 49203 | 148,120.00
Wayne, Charter County of/Samaritas Home and Community Campus | 500 Griswold, Floor 20 | Detroit | MI | 48226 | 152,625.00
Underground Railroad Inc./DVTSH#2 | 5647 State Street, Suite A | Saginaw | MI | 48603 | 152,786.00
Restoration Community Outreach/Chronic Homeless Assistance | 1205 Norman Street | Saginaw | MI | 48601 | 153,531.00
Community Housing Network, Inc./M Chronically Homeless Leasing Assistance Program 8 Renewal | 570 Kirts Boulevard, Suite 231 | Troy | MI | 48084 | 153,666.00
Grand Rapids Housing Commission/Hope Community | 1420 Fuller Avenue SE | Grand Rapids | MI | 49507 | 159,663.00
Heart of West Michigan United Way/MI-506 CoC Planning Application FY2017 | 118 Commerce Ave SW | Grand Rapids | MI | 49503 | 160,527.00
Community Housing Network, Inc./M Chronically Homeless Leasing Assistance Program 6 Renewal | 570 Kirts Boulevard, Suite 231 | Troy | MI | 48084 | 162,836.00
Training and Treatment Innovations, Inc./Jackson Housing Leasing Program MI0260 | 2301 E. Michigan Ave, Suite 219 | Jackson | MI | 49202 | 166,578.00
Washtenaw County/MI-509 CoC Planning Application FY2017 | 415 W. Michigan Ave., Suite 2200 | Ypsilanti | MI | 48197 | 167,007.00
Wayne Metropolitan Community Action Agency/RENEWAL OF WHNP 1 2017 NOFA | 2121 Biddle Suite 102 | Wyandotte | MI | 48192 | 167,864.00
Community Housing Network, Inc./OLeasing Assistance Program 6 Renewal | 570 Kirts Boulevard, Suite 231 | Troy | MI | 48084 | 168,301.00
City of Lansing/Rapid Rehousing for Youth | 124 W. Michigan Avenue, 4th Floor | Lansing | MI | 48933 | 169,057.00
Alliance for Housing Oakland County Continuum of Care/MI-504 Planning Grant Application FY2017 | 570 Kirts Blvd, Suite 231 | Troy | MI | 48084 | 169,154.00
Community Housing Network, Inc./OLeasing Assistance Program 7 Renewal | 570 Kirts Boulevard, Suite 231 | Troy | MI | 48084 | 170,708.00
City of Lansing/Permanent Supportive Housing Bonus Program | 124 W. Michigan Avenue, 4th Floor | Lansing | MI | 48933 | 171,855.00
Housing Services Mid Michigan/Coordinated Homeless Assistance Program | 319 S. Cochran | Charlotte | MI | 48813 | 179,419.00
South Oakland Shelter/Chronic Homeless Leasing Assistance Program 2 | 18505 W 12 Mile Rd | Lathrup Village | MI | 48076 | 180,892.00
Wayne County Neighborhood Legal Services DBA Neighborhood Legal Services Michigan/Project Permanency Three | 7310 Woodward Avenue, Suite 301 | Detroit | MI | 48202 | 184,440.00
Wayne Metropolitan Community Action Agency/CoC PLANNING 2017 NOFA | 2121 Biddle, Suite 102 | Wyandotte | MI | 48192 | 188,731.00
Michigan Ability Partners/MAP PSH PBV Rental Assistance 2018 | 3810 Packard, Suite 260 | Ann Arbor | MI | 48108 | 190,158.00
Michigan Department of Health and Human Services/Northwest Supportive Housing Renewal 17 | Centralized Grants Management, P.O. Box 30195 | Lansing | MI | 48909 | 191,264.00
Homeless Action Network of Detroit/Homeless Management Information System | 3701 Miracles Blvd, Suite 101 | Detroit | MI | 48201 | 194,078.00
Every Woman's Place, Inc./PSH Renewal FY 2018 | 1221 W Laketon Ave | Muskegon | MI | 49441 | 198,332.00
Michigan Department of Health and Human Services/PSH Genesee County Renewal 17 | Centralized Grants Management, P.O. Box 30195 | Lansing | MI | 48909 | 198,630.00
Southwest Counseling Solutions, Inc./CAM SSO | 5716 Michigan Avenue | Detroit | MI | 48210 | 200,000.00
Southwest Counseling Solutions, Inc./Coordinated Assessment Project Renewal FY2017 | 5716 Michigan Avenue | Detroit | MI | 48210 | 200,000.00
Wayne County Neighborhood Legal Services DBA Neighborhood Legal Services Michigan/Project Permanency One Expansion | 7310 Woodward Avenue, Suite 301 | Detroit | MI | 48202 | 202,655.00
Wayne Metropolitan Community Action Agency/RENEWAL OF SSO FOR CENTRAL INTAKE 2017 NOFA | 2121 Biddle, Suite 102 | Wyandotte | MI | 48192 | 205,761.00
Cass Community Social Services, Inc./Scott Permanent Supportive Housing | 11745 Rosa Parks Blvd | Detroit | MI | 48206 | 205,833.00
Southwest Counseling Solutions, Inc./SW Springwells Renewal FY2017 | 5716 Michigan Avenue | Detroit | MI | 48210 | 209,429.00
Community Housing Network, Inc./MLeasing Assistance Program 1 Renewal | 570 Kirts Boulevard, Suite 231 | Troy | MI | 48084 | 209,505.00
Central Territory of the Salvation Army/Coordinated Entry | 1215 E. Fulton | Grand Rapids | MI | 49503 | 210,139.00
Cass Community Social Services, Inc./Webb Street Permanent Supportive Housing | 11745 Rosa Parks Blvd | Detroit | MI | 48206 | 215,412.00
Alger Marquette Community Action Board/Alger-Marquette CAA—Central UP RRH | 1125 Commerce Drive | Marquette | MI | 49855 | 217,103.00
Ann Arbor Housing Commission/AAHC Avalon PSH Families 2013 | 2000 S Industrial | Ann Arbor | MI | 48104 | 220,551.00
Heartside Nonprofit Housing Corporation/Commerce Apartments | 101 Sheldon Blvd. SE, Ste. 2 | Grand Rapids | MI | 49503 | 224,028.00
Neighborhood Service Organization/FUSE 2017 | 882 Oakman Blvd | Detroit | MI | 48238 | 224,118.00
Central Territory of the Salvation Army/Homeless Assistance Program | 1215 E. Fulton | Grand Rapids | MI | 49503 | 228,488.00
Wayne County Neighborhood Legal Services DBA Neighborhood Legal Services Michigan/Focus on Families | 7310 Woodward Avenue, Suite 301 | Detroit | MI | 48202 | 233,523.00
Southwest Counseling Solutions, Inc./CE Collaborative SSO FY 2017 | 5716 Michigan Avenue | Detroit | MI | 48210 | 237,686.00
Lighthouse of Oakland County, Inc./2017-2018 Lighthouse Apt & Houses | 46156 Woodward Ave | Pontiac | MI | 48342 | 238,428.00
Metro Community Development, Inc./SOF-Rapid Re-Housing | 503 S. Saginaw Street, Suite 810 | Flint | MI | 48502 | 242,723.00
Common Ground/Graduated Apartment Program II | 1410 S Telegraph | Bloomfield Hills | MI | 48302 | 242,752.00
Detroit Rescue Mission Ministries/My Own Place | 150 Stimson Street | Detroit | MI | 48201 | 244,661.00
Human Development Commission/Homeless Rehousing Program Renewal FY2017 | 429 Montague Avenue | Caro | MI | 48723 | 248,797.00
Mariners Inn/Mariners Inn Permanent Housing | 445 Ledyard | Detroit | MI | 48201 | 248,938.00
Detroit Wayne Mental Health Authority/Shelter Plus Care—Southwest—0110 | 707 W. Milwaukee | Detroit | MI | 48202 | 249,196.00
SIREN/Eaton Shelter, Inc./Eaton Transitional Housing Project FY17 | 520 Robinson, P.O. Box 369 | Charlotte | MI | 48813 | 250,390.00
City of Lansing/Ending Family Homelessness through Rapid Rehousing | 124 W. Michigan Avenue, 4th Floor | Lansing | MI | 48933 | 251,813.00
Wayne County Neighborhood Legal Services DBA Neighborhood Legal Services Michigan/Aim High | 7310 Woodward Avenue, Suite 301 | Detroit | MI | 48202 | 255,703.00
Michigan State Housing Development Authority/CoC Planning Project Application FY 2017 | 735 E. Michigan Avenue | Lansing | MI | 48909 | 258,491.00
Community Housing Network, Inc./MChronically Homeless Leasing Assistance Program 1 Renewal | 570 Kirts Boulevard, Suite 231 | Troy | MI | 48084 | 260,279.00
Homeless Action Network of Detroit/CoC Planning Project Application FY2017 | 3701 Miracles Blvd, Suite 101 | Detroit | MI | 48201 | 265,000.00
Metro Community Development, Inc./COC Lease UP | 503 S. Saginaw Street, Suite 810 | Flint | MI | 48502 | 267,834.00
Alternatives For Girls/Detroit Youth Collaborative RRH Initiative | 903 W. Grand Blvd | Detroit | MI | 48208 | 272,137.00
Ann Arbor Housing Commission/MAP SAWC SPC TRA 2018 | 2000 S Industrial | Ann Arbor | MI | 48104 | 274,279.00
Avalon Housing, Inc./SPC Avalon SRA | 1327 Jones Dr., Suite 102 | Ann Arbor | MI | 48105 | 274,574.00
Wayne Metropolitan Community Action Agency/RENEWAL OF RAPID REALLOCATION FOR SINGLES 2017 NOFA | 2121 Biddle, Suite 102 | Wyandotte | MI | 48192 | 284,190.00
Community Housing Network, Inc./OChronically Homeless Leasing Assistance Program 1 Renewal | 570 Kirts Boulevard, Suite 231 | Troy | MI | 48084 | 287,526.00
Kalamazoo Community Mental Health & Substance Abuse Services/Home Base II Renewal Application FY2017 | 2030 Portage Road | Kalamazoo | MI | 49001 | 295,081.00
Community Action Agency/Mechanic Partnership Park Permanent Housing | 1214 Greenwood Avenue | Jackson | MI | 49203 | 295,155.00
Neighborhood Service Organization/NSO RRH | 882 Oakman Blvd | Detroit | MI | 48238 | 295,954.00
Community Housing Network, Inc./OChronically Homeless Leasing Assistance Program 2 Renewal | 570 Kirts Boulevard, Suite 231 | Troy | MI | 48084 | 296,577.00
City of Lansing/Shelter Plus Care | 124 W. Michigan Avenue, 4th Floor | Lansing | MI | 48933 | 302,772.00
Community Housing Network, Inc./WChronically Homeless Leasing Assistance Program 1 Renewal | 570 Kirts Boulevard, Suite 231 | Troy | MI | 48084 | 313,663.00
Detroit Wayne Mental Health Authority/Wayne Metro Shelter Plus Care | 707 W. Milwaukee | Detroit | MI | 48202 | 313,732.00
Southwest Counseling Solutions, Inc./CE SSO | 5716 Michigan Avenue | Detroit | MI | 48210 | 321,655.00
Wayne County Neighborhood Legal Services DBA Neighborhood Legal Services Michigan/Project Permanency Plus | 7310 Woodward Avenue, Suite 301 | Detroit | MI | 48202 | 333,869.00
Detroit Wayne Mental Health Authority/Shelter Plus Care—Detroit Central City | 707 W. Milwaukee | Detroit | MI | 48202 | 335,611.00
Good Samaritan Ministries/Community Housing Partnership RRH | 513 E. 8th Street, Suite 25 | Holland | MI | 49423 | 336,804.00
Community Housing Network, Inc./OLeasing Assistance Program 1 Renewal | 570 Kirts Boulevard, Suite 231 | Troy | MI | 48084 | 340,302.00
Michigan State Housing Development Authority/MSHDA FY 17 Coordinated Enry | 735 E. Michigan Avenue | Lansing | MI | 48909 | 341,000.00
Kalamazoo Community Mental Health & Substance Abuse Services/Home Base I Renewal Application FY2017 | 2030 Portage Road | Kalamazoo | MI | 49001 | 343,672.00
Cass Community Social Services, Inc./Cass Apartments Permanent Supportive Housing | 11745 Rosa Parks Blvd | Detroit | MI | 48206 | 344,592.00
Ann Arbor Housing Commission/MAP SPC SRA 2018 | 2000 S Industrial | Ann Arbor | MI | 48104 | 345,700.00
Wayne Metropolitan Community Action Agency/PSH COC 2017 NOFA RENEWAL | 2121 Biddle, Suite 102 | Wyandotte | MI | 48192 | 346,322.00
Metro Community Development, Inc./GHS Lease Up | 503 S. Saginaw Street, Suite 810 | Flint | MI | 48502 | 349,972.00
Detroit Rescue Mission Ministries/Compassion Village | 150 Stimson Street | Detroit | MI | 48201 | 350,652.00
Housing Resources, Inc. of Kalamazoo County/Homeward Permanent Supportive Housing | 420 East Alcott, Suite 200 | Kalamazoo | MI | 49001 | 352,516.00
Michigan Ability Partners/PSH Bonus MAP 2018 Renewal | 3810 Packard, Suite 260 | Ann Arbor | MI | 48108 | 352,851.00
Neighborhood Service Organization/Supportive Housing Program | 882 Oakman Blvd | Detroit | MI | 48238 | 355,352.00
Community Social Services of Wayne County/Teen Infant Parenting Services Program | 9851 Hamilton Avenue | Detroit | MI | 48202 | 362,392.00
South Oakland Shelter/Chronic Homeless Leasing Assistance Program | 18505 W 12 Mile Rd | Lathrup Village | MI | 48076 | 366,212.00
Southwest Counseling Solutions, Inc./CAM Rapid ReHousing Project | 5716 Michigan Avenue | Detroit | MI | 48210 | 378,855.00
Cass Community Social Services, Inc./fxsp0;Travis Permanent Supportive Housing | 11745 Rosa Parks Blvd | Detroit | MI | 48206 | 382,887.00
Southwest Counseling Solutions, Inc./Intensive Case Management Chronic Homeless Coordinated Assessment Model | 5716 Michigan Avenue | Detroit | MI | 48210 | 384,016.00
Freedom House Detroit/New Beginnings/New American Homeless | 2630 W. Lafayette Blvd | Detroit | MI | 48216 | 390,841.00
YWCA West Central Michigan/Project HEAL 2017 | 25 Sheldon Blvd., SE | Grand Rapids | MI | 49503 | 399,368.00
Community Housing Network, Inc./Rapid Re-Housing Program 3 Renewal | 570 Kirts Boulevard, Suite 231 | Troy | MI | 48084 | 410,775.00
Michigan Department of Health and Human Services/PSH 2004 Statewide Leasing Renewal 17 | Centralized Grants Management, P.O. Box 30195 | Lansing | MI | 48909 | 411,519.00
Detroit Rescue Mission Ministries/Genesis House I/Teen Moms | 150 Stimson Street | Detroit | MI | 48201 | 414,457.00
Southwest Counseling Solutions, Inc./SW Samaritan Renewal FY2017 | 5716 Michigan Avenue | Detroit | MI | 48210 | 420,197.00
Detroit Wayne Mental Health Authority/SHP Detroit Central City—Permanent Housing | 707 W. Milwaukee | Detroit | MI | 48202 | 440,124.00
Detroit Rescue Mission Ministries/Maranatha | 150 Stimson Street | Detroit | MI | 48201 | 444,353.00
County of Kent/Shelter Plus Care SRA—CR 2017 | 300 Monroe | Grand Rapids | MI | 49503 | 455,205.00
Saginaw County Community Mental Health Authority/Project Dwelling Place Consolidated | 500 Hancock St | Saginaw | MI | 48602 | 469,367.00
Detroit Rescue Mission Ministries/Cornerstone | 150 Stimson Street | Detroit | MI | 48201 | 484,444.00
Detroit Wayne Mental Health Authority/Supportive Housing Program—DCI/COTS Omega | 707 W. Milwaukee | Detroit | MI | 48202 | 496,932.00
County of Ottawa/Permanent Housing Assistance for Homeless Persons with Disabilities | 12265 James Street | Holland | MI | 49424 | 513,799.00
Southwest Counseling Solutions, Inc./SW Chronic Renewal FY2017 | 5716 Michigan Avenue | Detroit | MI | 48210 | 520,392.00
Southwest Counseling Solutions, Inc./Housing Recovery Project | 5716 Michigan Avenue | Detroit | MI | 48210 | 520,812.00
Community & Home Supports/Permanent Community Home Support (PCHS) | 2111 Woodward Ave., Suite 608 | Detroit | MI | 48201 | 522,980.00
Wayne Metropolitan Community Action Agency/RENEWAL OF RR REALLO FAMILIES 2017 NOFA | 2121 Biddle, Suite 102 | Wyandotte | MI | 48192 | 530,990.00
Neighborhood Service Organization/Bell Supportive Housing Project | 882 Oakman Blvd | Detroit | MI | 48238 | 542,414.00
Community Rebuilders/Housing Solutions | 1120 Monroe NW, Suite 220 | Grand Rapids | MI | 49503 | 543,864.00
Wayne County Neighborhood Legal Services DBA Neighborhood Legal Services Michigan/Project Hope | 7310 Woodward Avenue, Suite 301 | Detroit | MI | 48202 | 545,535.00
Training and Treatment Innovations, Inc/Housing Leasing Assistance # 1 | 1450 South Lapeer Rd | Oxford | MI | 48371 | 551,696.00
Community & Home Supports/Permanent Community Home Support II (PCHS II) | 2111 Woodward Ave., Suite 608 | Detroit | MI | 48201 | 577,495.00
Detroit Rescue Mission Ministries/Douglass | 150 Stimson Street | Detroit | MI | 48201 | 584,119.00
Detroit Central City Community Mental Health/Leasing Project FY 17 | 10 Peterboro | Detroit | MI | 48201 | 629,043.00
Michigan State Housing Development Authority/Michigan Statewide HMIS (MSHMIS) | 735 E. Michigan Avenue | Lansing | MI | 48909 | 652,700.00
Ann Arbor Housing Commission/AAHC PSH Bonus 2014 | 2000 S Industrial | Ann Arbor | MI | 48104 | 672,905.00
Michigan Department of Health and Human Services/PSH Oakland County Renewal 17 | Centralized Grants Management, P.O. Box 30195 | Lansing | MI | 48909 | 692,547.00
Community & Home Supports/Coordinated Assessment & Navigation Project | 2111 Woodward Ave., Suite 608 | Detroit | MI | 48201 | 693,486.00
City of Lansing/Permanent Supportive Housing 2 | 124 W. Michigan Avenue, 4th Floor | Lansing | MI | 48933 | 696,359.00
Wayne County Neighborhood Legal Services DBA Neighborhood Legal Services Michigan/Project Hope II—PSH | 7310 Woodward Avenue, Suite 301 | Detroit | MI | 48202 | 744,807.00
Coalition on Temporary Shelter/PSH for Chronically Homeless Families (Pathways to Housing) 2017 | 26 Peterboro, Not applicable | Detroit | MI | 48201 | 761,627.00
Ann Arbor Housing Commission/AAHC Avalon PSH Singles 2013 | 2000 S Industrial | Ann Arbor | MI | 48104 | 799,731.00
Community Rebuilders/First Step Housing | 1120 Monroe NW, Suite 220 | Grand Rapids | MI | 49503 | 824,451.00
Community Rebuilders/Keys First | 1120 Monroe NW, Suite 220 | Grand Rapids | MI | 49503 | 863,322.00
Wayne County Neighborhood Legal Services DBA Neighborhood Legal Services Michigan/NLSM CARES | 7310 Woodward Avenue, Suite 301 | Detroit | MI | 48202 | 872,022.00
Wayne County Neighborhood Legal Services DBA Neighborhood Legal Services Michigan/Project Permanency One | 7310 Woodward Avenue, Suite 301 | Detroit | MI | 48202 | 924,499.00
County of Kent/Shelter Plus Care TRA—CR 2017 | 300 Monroe | Grand Rapids | MI | 49503 | 947,211.00
Travelers Aid Society of Metropolitan Detroit/BEIT | 65 Cadillac Square, Suite 3000 | Detroit | MI | 48226 | 957,519.00
Community Housing Network, Inc./OLeasing Assistance Program 2 Renewal | 570 Kirts Boulevard, Suite 231 | Troy | MI | 48084 | 1,006,258.00
Travelers Aid Society of Metropolitan Detroit/INFINITY | 65 Cadillac Square, Suite 3000 | Detroit | MI | 48226 | 1,035,876.00
Detroit Rescue Mission Ministries/Genesis House II | 150 Stimson Street | Detroit | MI | 48201 | 1,077,868.00
Detroit Central City Community Mental Health/FY 2017 CoC PSH Program | 10 Peterboro | Detroit | MI | 48201 | 1,113,104.00
Michigan Department of Health and Human Services/Rapid Re-Housing Program Renewal 17 | Centralized Grants Management, P.O. Box 30195 | Lansing | MI | 48909 | 1,251,548.00
SOS Community Services/SOS RRH for Families 2017 | 101 South Huron Street | Ypsilanti | MI | 48197 | 1,709,162.00
Michigan Department of Health and Human Services/2017 MDHHS MHAAB RRH | Centralized Grants Management, P.O. Box 30195 | Lansing | MI | 48909 | 2,189,464.00
Michigan Department of Health and Human Services/2017 MDHHS MHAAB PSH Dedicated Plus | Centralized Grants Management, P.O. Box 30195 | Lansing | MI | 48909 | 2,347,938.00
Michigan Department of Health and Human Services/Development Centers and others Renewal | Centralized Grants Management, P.O. Box 30195 | Lansing | MI | 48909 | 2,533,788.00
Housing & Redevelopment Authority of Itasca County/Itasca County HRA SPC Expansion 2017 | 102 NE Third Street, Suite 160 | Grand Rapids | MN | 55744 | 6,684.00
Institute for Community Alliances/MN HMIS Northwest | 1111 9th Street, Suite 245 | Des Moines | MN | 50314 | 10,658.00
United Community Action Partnership, Inc./Cottonwood County RRH FY2017 | 1400 S Saratoga Street | Marshall | MN | 56258 | 11,276.00
United Community Action Partnership, Inc./Rapid Rehousing FY2017 UCAP | 1400 S Saratoga Street | Marshall | MN | 56258 | 11,276.00
Housing & Redevelopment Authority of Duluth, MN/Northshore Horizons Rental Assistance 2017 | 222 East Second Street, P.O. BOX 16900 | Duluth | MN | 55816 | 12,132.00
Arrowhead Economic Opportunity Agency/NE MN CoC 504 2017 Planning Project Application | 702 Third Avenue South | Virginia | MN | 55792 | 12,871.00
American Indian Community Housing Organization/Fond Du Lac Supportive Housing 2017 | 202 West 2nd Street | Duluth | MN | 55802 | 13,675.00
Ruths House of Hope Inc/Ruth's House of Hope-PSH-Chronic | 124 1st Avenue SW | Faribault | MN | 55021 | 18,378.00
Human Development Center/Outreach Center Apartments | 1401 E. 1st St | Duluth | MN | 55805 | 18,468.00
Inter-County Community Council/MN-506 Planning Project FY2017 | P.O. Box 189, 207 Main Street | Oklee | MN | 56742 | 19,588.00
Arrowhead Economic Opportunity Agency/LIFE Transitional Housing 2017 | 702 Third Avenue South | Virginia | MN | 55792 | 19,879.00
Institute for Community Alliances/MN HMIS Northeast | 1111 9th Street, Suite 245 | Des Moines | MN | 50314 | 19,999.00
Young Women's Christian Association of St. Paul MN/PSH Cleveland Saunders 2017 | 375 Selby Avenue | Saint Paul | MN | 55102 | 20,002.00
CommonBond Communities/Granada Renewal 2017 | 1080 Montreal Avenue | St. Paul | MN | 55116 | 20,085.00
The Salvation Army/Northeast Minnesota Rapid Re-Housing 2 | 2445 Prior Avenue | Roseville | MN | 55113 | 20,091.00
Red Wing Housing and Redevelopment Authority/Red Wing Shelter + Care, 2 Units 2017 | 428 West 5th Street | Red Wing | MN | 55066 | 20,322.00
Violence Intervention Project/VIP Transitional Housing 2017 | 1911 Greenwood Street East, P.O. Box 96 | Thief River Falls | MN | 56701 | 21,656.00
Twin Cities Housing Development Corporation/St. Philip's Gardens SHP 2017 Renewal | 400 Selby Avenue, Suite “C“ | St. Paul | MN | 55102 | 23,606.00
Housing & Redevelopment Authority of Clay County/MN-508 CoC Planning Project Application FY2017 | 116 Center Ave E, P.O. Box 99 | Dilworth | MN | 56529 | 23,965.00
Kandiyohi County Housing & Redevelopment Authority/Country View Place 2017 | 2200 23rd St NE, Suite 2090 | Willmar | MN | 56201 | 24,681.00
Young Women's Christian Association of St. Paul MN/PSH MLK Court 2017 | 375 Selby Avenue | Saint Paul | MN | 55102 | 25,000.00
Institute for Community Alliances/MN HMIS Southeast | 1111 9th Street, Suite 245 | Des Moines | MN | 50314 | 25,000.00
Arrowhead Economic Opportunity Agency/Transitional Housing Lake/Cook Counties | 702 Third Avenue South | Virginia | MN | 55792 | 26,271.00
Institute for Community Alliances/MN HMIS Southwest | 1111 9th Street, Suite 245 | Des Moines | MN | 50314 | 26,500.00
Institute for Community Alliances/MN HMIS Ramsey 2 | 1111 9th Street, Suite 245 | Des Moines | MN | 50314 | 26,603.00
Mankato EDA/Cherry Ridge NON Chronic FY 2017 | P.O. Box 3368 | Mankato | MN | 56001 | 26,703.00
American Indian Community Housing Organization/Fond Du Lac Veterans Housing 2017 | 202 West 2nd Street | Duluth | MN | 55802 | 26,856.00
The Link/SH Supportive Housing Program 2017 | 1210 Glenwood Ave | Minneapolis | MN | 55405 | 26,889.00
Scott-Carver-Dakota CAP Agency, Inc./Dakota Permanent Supportive Bryant & Aldrich Operations Renewal 2017 | 712 Canterbury Road | Shakopee | MN | 55379 | 27,751.00
Mankato EDA/Cherry Ridge Chronic FY 2017 | P.O. Box 3368 | Mankato | MN | 56001 | 28,004.00
Southwest Minnesota Housing Partnership/MN-511 CoC Registration and Application FY2017 | 2401 Broadway Ave, Suite 4 | Slayton | MN | 56172 | 28,682.00
Housing and Redevelopment Authority of St. Cloud, MN/Shelter Plus Care Seven Renewal 2017 | 1225 W. St. Germain, n/a | St. Cloud | MN | 56301 | 30,408.00
Southwestern Minnesota Adult Mental Health Consortium/Finding a Home 2017 | 2200 23rd Street NE, Suite 2030 | Willmar | MN | 56201 | 30,426.00
Olmsted County Community Services/PSH—ZV Bonus Funds | 2100 Campus Drive SE | Rochester | MN | 55904 | 30,864.00
Kootasca Community Action Inc./Itasca Transitional Housing 2017 MN0079L5K41709 | 201 NW 4th Street, Suite 130 | Grand Rapids | MN | 55744 | 30,867.00
Institute for Community Alliances/MN HMIS West Central | 1111 9th Street, Suite 245 | Des Moines | MN | 50314 | 33,359.00
Violence Intervention Project/VIP-RRH-2017 | 1911 Greenwood Street East, P.O. Box 96 | Thief River Falls | MN | 56701 | 34,790.00
Hubbard County Housing and Redevelopment Authority/Cornerstone 2017 | 310 Third St East | Park Rapids | MN | 56470 | 34,803.00
United Community Action Partnership, Inc./PSH Meeker/McLeod FY2017 (Housing Services of SWMN) | 1400 S Saratoga Street | Marshall | MN | 56258 | 35,344.00
Institute for Community Alliances/MN HMIS Ramsey 3 | 1111 9th Street, Suite 245 | Des Moines | MN | 50314 | 36,072.00
Steele County Transitional Housing, Inc./Progress Program | 560 Dunnell Dr., Suite 212 | Owatonna | MN | 55060 | 36,098.00
Amherst H. Wilder Foundation/MN Place Wilder FY19 | 451 Lexington Pkwy N | Saint Paul | MN | 55104 | 36,179.00
Tri-Valley Opportunity Council, Inc/Northwest Coordinated Entry 2017 | 102 North Broadway | Crookston | MN | 56716 | 36,217.00
Institute for Community Alliances/MN HMIS Southeast 2 | 1111 9th Street, Suite 245 | Des Moines | MN | 50314 | 37,480.00
Center City Housing Corp./Sheila's Place | 105 1/2 West 1st St | Duluth | MN | 55802 | 37,925.00
Range Mental Health Center, Inc./Ivy Manor Project (2018-2019) | 624 13th Street South | Virginia | MN | 55792 | 38,056.00
Southwestern Mental Health Center/SWMHC HUD SHP FY2017 B | P.O. Box 686, 117 Spring Street | Luverne | MN | 56156 | 38,314.00
Bi-County Community Action Programs, Inc./2017FY Conifer Transitional-Rapid Rehousing | 6603 Bemidji Ave North | Bemidji | MN | 56601 | 38,671.00
Range Mental Health Center, Inc./Homeless Youth Outreach (2018-2019) | 624 13th Street South | Virginia | MN | 55792 | 38,809.00
Institute for Community Alliances/MN HMIS St. Louis | 1111 9th Street, Suite 245 | Des Moines | MN | 50314 | 39,280.00
Bi-County Community Action Programs, Inc./2017FY Cass County Permanent Supportive Housing | 6603 Bemidji Ave North | Bemidji | MN | 56601 | 39,919.00
RS EDEN/Belle Haven Renewal 2017 | 1931 West Broadway | Minneapolis | MN | 55411 | 40,229.00
Aeon (formerly Central Community Housing Trust)/Alliance Apartments Renewal 2017 | 901 North 3rd Street, Suite 150 | Minneapolis | MN | 55401 | 40,240.00
Center City Housing Corp./River Crest | 105 1/2 West 1st St | Duluth | MN | 55802 | 40,356.00
Central MN Housing Partnership, Inc./MN-505 CoC Planning Application FY2017 | 37 28th Ave No, Suite 102 | St Cloud | MN | 56303 | 40,965.00
Institute for Community Alliances/MN HMIS Central | 1111 9th Street, Suite 245 | Des Moines | MN | 50314 | 41,099.00
Inter-County Community Council/ICCC 2017 Permanent Supportive Housing | P.O. Box 189, 207 Main Street | Oklee | MN | 56742 | 41,617.00
Center City Housing Corp./Memorial Park Apartments | 105 1/2 West 1st St | Duluth | MN | 55802 | 41,741.00
Canvas Health, Inc./Mosaic2017 | 7066 Stillwater Blvd., N | Oakdale | MN | 55128 | 41,874.00
Lutheran Social Service of Minnesota/Renaissance 2017 | 2485 Como Avenue | St. Paul | MN | 55108 | 42,466.00
West Central Minnesota Communities Action, Inc./WCMCA Rapid Rehousing | 411 Industrial Park Boulevard | Elbow Lake | MN | 56531 | 43,551.00
Scott-Carver-Dakota CAP Agency, Inc./Scott Carver Dakota Permanent Supportive Housing Project 2017 | 712 Canterbury Road | Shakopee | MN | 55379 | 45,450.00
Housing and Redevelopment Authority of Virginia, MN/Rental Assistance Virginia Youth Foyer FY 2017 | 442 Pine Mill Court | Virginia | MN | 55792 | 45,519.00
Arrowhead Economic Opportunity Agency/Bill's House | 702 Third Avenue South | Virginia | MN | 55792 | 46,029.00
RS EDEN/Seventh Landing Renewal 2017 | 1931 West Broadway | Minneapolis | MN | 55411 | 46,396.00
Minnesota Assistance Council for Veterans/MACV Duluth SIL 2017 Renewal | 2700 East Lake Street, Suite 3350 | Minneapolis | MN | 55406 | 46,797.00
St. Louis County/Bois Forte Shelter Plus Care 2017 | 227 West 1st Street, Suite 100 | Duluth | MN | 55802 | 46,946.00
Institute for Community Alliances/MN HMIS Hennepin | 1111 9th Street, Suite 245 | Des Moines | MN | 50314 | 49,994.00
Central MN Housing Partnership, Inc./Coordinated Entry Grant | 37 28th Ave No, Suite 102 | St Cloud | MN | 56303 | 50,000.00
Face to Face Health and Counseling Service, Inc./Homeless Youth Programs Transitional Living Program 2017 | 1165 Arcade Street | St. Paul | MN | 55106 | 51,739.00
Canvas Health, Inc./SHARE2017 | 7066 Stillwater Blvd., N | Oakdale | MN | 55128 | 52,701.00
Theresa Living Center/Theresa Living Center—Caroline Family Services FY2017 | 917 E. Jessamine Ave East | St. Paul | MN | 55106 | 54,852.00
The Link/Lincoln Place 2017 | 1210 Glenwood Ave | Minneapolis | MN | 55405 | 59,544.00
Bi-County Community Action Programs, Inc./2017FY AI Permanent Supportive Housing | 6603 Bemidji Ave North | Bemidji | MN | 56601 | 59,705.00
Three Rivers Community Action, Inc./CES Expansion FY2017 | 1414 North Star Dr | Zumbrota | MN | 55992 | 59,864.00
CommonBond Communities/Fort Snelling (Upper Post Veterans Community) Renewal 2017 | 1080 Montreal Avenue | St. Paul | MN | 55116 | 60,798.00
Housing & Redevelopment Authority of Itasca County/Itasca County HRA SPC Renewal 2017 | 102 NE Third Street, Suite 160 | Grand Rapids | MN | 55744 | 60,960.00
Olmsted County Housing & Redevelopment Authority/Castleview 1 | 2117 Campus Drive SE, Suite 300 | Rochester | MN | 55904 | 61,170.00
Three Rivers Community Action, Inc./CoC Planning FY2017 | 1414 North Star Dr | Zumbrota | MN | 55992 | 62,144.00
Arrowhead Economic Opportunity Agency/Youth Foyer Operations | 702 Third Avenue South | Virginia | MN | 55792 | 62,657.00
Center City Housing Corp./The New San Marco | 105 1/2 West 1st St | Duluth | MN | 55802 | 62,968.00
Lakes and Pines Community Action Council, Inc./Eastern Region Coordinated Entry Housing Navigator | 1700 Maple Avenue East | Mora | MN | 55051 | 64,197.00
Lutheran Social Service of Minnesota/Northern Coordinated Entry Navigator | 2485 Como Avenue | St. Paul | MN | 55108 | 64,197.00
Tri-County Action Program, Inc./Central Coordinated Entry Navigator | 1210 23rd Avenue South | Waite Park | MN | 56387 | 64,197.00
Minnesota Assistance Council for Veterans/Duluth Veterans Place PSH 2017 Renewal | 2700 East Lake Street, Suite 3350 | Minneapolis | MN | 55406 | 65,128.00
Housing & Redevelopment Authority of Duluth, MN/Rapid Rehousing TSA II 2017 | 222 East Second Street, P.O. BOX 16900 | Duluth | MN | 55816 | 65,784.00
Housing and Redevelopment Authority of St. Cloud, MN/Shelter Plus Care Five Renewal 2017 | 1225 W. St. Germain, n/a | St. Cloud | MN | 56301 | 68,676.00
Solid Ground/East Metro Place II Permanent Supportive Housing | 3521 Century Avenue North | White Bear Lake | MN | 55110 | 68,977.00
Human Development Center/Alicia's Place/New San Marco Permanent Supportive Housing | 1401 E. 1st St | Duluth | MN | 55805 | 69,745.00
Tri-County Action Program, Inc./Rapid Rehousing—Central Minnesota—Single Households | 1210 23rd Avenue South | Waite Park | MN | 56387 | 71,357.00
Three Rivers Community Action, Inc./Coordinated Entry System FY2017 | 1414 North Star Dr | Zumbrota | MN | 55992 | 74,183.00
Simpson Housing Services, Inc./Simpson Site-Based Supportive Housing Renewal FY2017 | 2100 Pillsbury Ave. So | Minneapolis | MN | 55404 | 74,929.00
The Salvation Army/Northeast Minnesota Rapid Re-Housing | 2445 Prior Avenue | Roseville | MN | 55113 | 79,750.00
Young Women's Christian Association of St. Paul MN/YWCA THP 2017 | 375 Selby Avenue | Saint Paul | MN | 55102 | 80,585.00
Bi-County Community Action Programs, Inc./2017FY Cass County Scattered Site Rapid Rehousing | 6603 Bemidji Ave North | Bemidji | MN | 56601 | 80,945.00
American Indian Community Development Corporation/Anishinabe Wakiagun Renewal 2017 | 1508 E Franklin Ave | Minneapolis | MN | 55404 | 81,111.00
Lutheran Social Service of Minnesota/Ramsey Coordinated Entry for Youth 2017 | 2485 Como Avenue | St. Paul | MN | 55108 | 81,191.00
Institute for Community Alliances/MN HMIS Ramsey 1 | 1111 9th Street, Suite 245 | Des Moines | MN | 50314 | 82,083.00
Scott-Carver-Dakota CAP Agency, Inc./Scott Carver Permanent Housing Combo Grant 2017 | 712 Canterbury Road | Shakopee | MN | 55379 | 82,237.00
Hearth Connection/Hearth SE 2017 | 2446 University Avenue West, Suite 150 | St. Paul | MN | 55114 | 82,922.00
The Salvation Army/Castleview Apartments | 2445 Prior Avenue | Roseville | MN | 55113 | 84,128.00
Carver County Community Development Agency (CDA)/Shelter + Care FY2017 | 705 North Walnut Street | Chaska | MN | 55318 | 84,180.00
Three Rivers Community Action, Inc./Prairiewood Townhomes PSH FY2017 | 1414 North Star Dr | Zumbrota | MN | 55992 | 84,548.00
Hennepin County Housing and Redevelopment Authority/Emanuel Housing Renewal 2017 | 701 Fourth Ave. S., Suite 400 | Minneapolis | MN | 55415 | 84,800.00
Center City Housing Corp./Rochester youth and family Gge East | 105 1/2 West 1st St | Duluth | MN | 55802 | 85,295.00
Housing & Redevelopment Authority of Duluth, MN/Coordinated Entry Project 2017 | 222 East Second Street, P.O. BOX 16900 | Duluth | MN | 55816 | 85,610.00
CommonBond Communities/Lexington Commons Renewal 2017 | 1080 Montreal Avenue | St. Paul | MN | 55116 | 86,825.00
Center City Housing Corp./Steve O'neil Apartments | 105 1/2 West 1st St | Duluth | MN | 55802 | 88,418.00
St. Louis County/MN 509 CoC Planning FY2017 | Government Services Center, 320 W. 2nd St | Duluth | MN | 55802 | 89,974.00
United Community Action Partnership, Inc./Westwind Townhomes FY2017 | 1400 S Saratoga Street | Marshall | MN | 56258 | 91,330.00
Three Rivers Community Action, Inc./Prairiewood PSH Expansion FY2017 | 1414 North Star Dr | Zumbrota | MN | 55992 | 93,363.00
Minneapolis Public Housing Authority/MPHA Project Connect Family Rental Assistance FY2017 | 1001 Washington Avenue North | Minneapolis | MN | 55401 | 94,464.00
Minnesota Assistance Council for Veterans/Veteran Outreach Program NECOC 2017 Renewal | 2700 East Lake Street, Suite 3350 | Minneapolis | MN | 55406 | 95,526.00
Tubman/Tubman Transitional Housing | 3111 First Avenue South | Minneapolis | MN | 55408 | 97,085.00
Bluff Country Family Resources, Inc./Rapid Rehousing 2017 | 114 Main Street | Hokah | MN | 55941 | 97,742.00
Lutheran Social Service of Minnesota/Permanent Supportive Housing for Youth 2017 | 2485 Como Avenue | St. Paul | MN | 55108 | 100,306.00
Project for Pride in Living, Inc./Fort Road Flats FY 2017 | 1035 E Franklin Ave | Minneapolis | MN | 55404 | 103,072.00
United Community Action Partnership, Inc./Safe at Home FY2017 | 1400 S Saratoga Street | Marshall | MN | 56258 | 103,192.00
Housing & Redevelopment Authority of Duluth, MN/Rapid Rehousing TSA I 2017 | 222 East Second Street, P.O. BOX 16900 | Duluth | MN | 55816 | 104,846.00
Lutheran Social Service of Minnesota/SMAC Coordinated Entry for Youth 2017 | 2485 Como Avenue | St. Paul | MN | 55108 | 106,144.00
Lutheran Social Service of Minnesota/Rezek House 2017 | 2485 Como Avenue | St. Paul | MN | 55108 | 107,518.00
Bi-County Community Action Programs, Inc./2017FY Beltrami Permanent Supportive Housing | 6603 Bemidji Ave North | Bemidji | MN | 56601 | 107,730.00
Volunteers of America of Minnesota/FY2017 Our Home | 7625 Metro Boulevard | Minneapolis | MN | 55439 | 109,267.00
Housing & Redevelopment Authority of Duluth, MN/Rapid Rehousing CHUM 2017 | 222 East Second Street, P.O. BOX 16900 | Duluth | MN | 55816 | 109,359.00
The Salvation Army/Catherine Booth Residence | 2445 Prior Avenue | Roseville | MN | 55113 | 109,635.00
Washington County Community Development Agency/MN-503 CoC Planning Application FY2017 | 7645 Currell Blvd | Woodbury | MN | 55125 | 109,953.00
Alliance Housing Inc./Minnehaha Commons 2017 | Alliance Housing Inc., 2309 Nicollet Ave | Minneapolis | MN | 55404 | 110,652.00
Catholic Charities of the Archdiocese of St. Paul and Minnea/Catholic Charities Hope Street 2017 | 1200 2nd Ave S | Minneapolis | MN | 55403 | 110,781.00
American Indian Community Housing Organization/Gimaajii Mino-Bimaadiziimin 2017 Application | 202 West 2nd Street | Duluth | MN | 55802 | 110,843.00
United Community Action Partnership, Inc./PSH Kandiyohi FY2017 (Housing Servcies Kandiyohi) | 1400 S Saratoga Street | Marshall | MN | 56258 | 110,937.00
Hearth Connection/Hearth SMAC 2017 | 2446 University Avenue West, Suite 150 | St. Paul | MN | 55114 | 113,888.00
Olmsted County Housing & Redevelopment Authority/The Francis | 2117 Campus Drive SE, Suite 300 | Rochester | MN | 55904 | 116,467.00
Lakes and Pines Community Action Council, Inc./Ex-Offender Rapid Re-Housing Program | 1700 Maple Avenue East | Mora | MN | 55051 | 116,769.00
Kandiyohi County Housing & Redevelopment Authority/Rental Assistance SPC3 2017 | 2200 23rd St NE, Suite 2090 | Willmar | MN | 56201 | 118,244.00
Center City Housing Corp./Silver Creek Corner | 105 1/2 West 1st St | Duluth | MN | 55802 | 118,671.00
Housing Authority of St. Louis Park/Camden Apartments Rental Assistance FY2017 | 5005 Minnetonka Blvd | St. Louis Park | MN | 55416 | 121,140.00
South Metro Human Services/Ramsey Co Coordinated Entry | 166 4th St E | Saint Paul | MN | 55101 | 122,042.00
Housing & Redevelopment Authority of Duluth, MN/S+C I HDC 2017 | 222 East Second Street, P.O. BOX 16900 | Duluth | MN | 55816 | 123,799.00
The Salvation Army/SMAC Singles and Families Coordinated Entry | 2445 Prior Avenue | Roseville | MN | 55113 | 125,053.00
Tri-Valley Opportunity Council, Inc/Tri-Valley PSH 2017 | 102 North Broadway | Crookston | MN | 56716 | 127,202.00
Project for Pride in Living, Inc./Collaborative Village FY 2017 | 1035 E Franklin Ave | Minneapolis | MN | 55404 | 128,625.00
Center City Housing Corp./Transitional Housing | 105 1/2 West 1st St | Duluth | MN | 55802 | 128,703.00
Beacon Interfaith Housing Collaborative/Prior Crossing 2017 | 2610 University Ave. W., Suite 100 | St. Paul | MN | 55114 | 130,160.00
Blue Earth County/BEC RA 2017 | 410 South Fifth Street | Mankato | MN | 56002 | 130,485.00
Breaking Free, Inc./Village Place #3—9 Unit Grant 2017 | 770 University Avenue | Saint Paul | MN | 55104 | 130,784.00
Arrowhead Economic Opportunity Agency/Rural St. Louis County Permanent Housing Project | 702 Third Avenue South | Virginia | MN | 55792 | 133,409.00
Catholic Charities of the Archdiocese of St. Paul and Minnea/Higher Ground Minneapolis PSH 2017 | 1200 2nd Ave S | Minneapolis | MN | 55403 | 138,537.00
Housing Authority of St. Louis Park/Perspectives Housing Rental Assistance FY2017 | 5005 Minnetonka Blvd | St. Louis Park | MN | 55416 | 140,664.00
Institute for Community Alliances/MN HMIS SMAC | 1111 9th Street, Suite 245 | Des Moines | MN | 50314 | 140,872.00
Emma Norton Services/Emma's Place 2017 | 670 North Robert Street | St. Paul | MN | 55101 | 143,217.00
Olmsted County Community Services/PSH Zumbro Valley 2017 | 2100 Campus Drive SE | Rochester | MN | 55904 | 156,188.00
Evergreen Youth & Family Services/Evergreen Youth PSH Consolidated Renewal2017 | 610 Patriot Drive NW, P.O. Box 662 | Bemidji | MN | 56619 | 159,543.00
Lutheran Social Service of Minnesota/Journey Homes | 2485 Como Avenue | St. Paul | MN | 55108 | 161,023.00
RS EDEN/Portland Village Renewal 2017 | 1931 West Broadway | Minneapolis | MN | 55411 | 161,368.00
The Salvation Army/Maxfield Place | 2445 Prior Avenue | Roseville | MN | 55113 | 163,216.00
Minnesota Assistance Council for Veterans/Radichel Veteran Townhomes 2017 Renewal | 2700 East Lake Street, Suite 3350 | Minneapolis | MN | 55406 | 163,328.00
Matrix Housing Services/Coordinated Entry Assessors | 2929 4th Ave S, Suite 210 | Minneapolis | MN | 55408 | 165,115.00
Ruths House of Hope Inc/Ruth's House of Hope-PSH | 124 1st Avenue SW | Faribault | MN | 55021 | 167,302.00
Lutheran Social Service of Minnesota/Central MN Rapid Re-housing | 2485 Como Avenue | St. Paul | MN | 55108 | 168,247.00
Perspectives, Inc./Perspectives Transitional Housing Program | 3381 Gorham Avenue | Saint Louis Park | MN | 55426 | 171,173.00
Three Rivers Community Action, Inc./SE MN RHASP FY2017 | 1414 North Star Dr | Zumbrota | MN | 55992 | 172,415.00
Scott-Carver-Dakota CAP Agency, Inc./Scott Carver HUD Rapid Re-housing 2017 | 712 Canterbury Road | Shakopee | MN | 55379 | 174,632.00
Lakes & Prairies Community Action Partnership, Inc./Permanent Supportive Housing Project | 715 11th Street N, Suite 402 | Moorhead | MN | 56560 | 178,004.00
Avenues for Homeless Youth/Avenues Rapid Rehousing for Young Families | 1708 Oak Park Avenue North | Minneapolis | MN | 55411 | 182,224.00
Simpson Housing Services, Inc./Simpson Young Parent Renewal FY2017 | 2100 Pillsbury Ave. So | Minneapolis | MN | 55404 | 183,597.00
Perspectives, Inc./Perspectives Permanent Housing Program | 3381 Gorham Avenue | Saint Louis Park | MN | 55426 | 184,784.00
South Metro Human Services/SMHS—Ramsey County CD Renewal 2015 | 166 4th St E | Saint Paul | MN | 55101 | 185,312.00
Ain Dah Yung Center/Ain Dah Yung Center Supportive Housing 2017 | 1089 Portland Ave | St Paul | MN | 55104 | 197,984.00
Catholic Charities of the Archdiocese of St. Paul and Minnea/Catholic Charities Coordinated Entry 2017 | 1200 2nd Ave S | Minneapolis | MN | 55403 | 203,000.00
Ramsey County/Ramsey Planning Grant FY2017 | 160 E. Kellogg Blvd | Saint Paul | MN | 55101 | 203,205.00
Hearth Connection/Metro/Hennepin ELTH Project IV (aka Hearth Connection CoC 2009) | 2446 University Avenue West, Suite 150 | St. Paul | MN | 55114 | 209,284.00
Mental Health Resources/Permanent Housing for Chronic Homeless | 762 Transfer Road, Suite 21 | St. Paul | MN | 55114 | 218,928.00
Simpson Housing Services, Inc./Simpson Family Housing Renewal FY2017 | 2100 Pillsbury Ave. So | Minneapolis | MN | 55404 | 220,654.00
South Metro Human Services/SMHS-Anoka Rental Assistance | 166 4th St E | Saint Paul | MN | 55101 | 220,680.00
Mental Health Resources/Avenues to Independence | 762 Transfer Road, Suite 21 | St. Paul | MN | 55114 | 223,551.00
Alliance Housing Inc./Central Apartments Renewal 2017 | 2309 Nicollet Avenue | Minneapolis | MN | 55404 | 228,087.00
Metropolitan Council, Minnesota/Anoka County COC 2017 | 390 Robert St N | St Paul | MN | 55101 | 228,984.00
Range Transitional Housing, Inc./Permanent Housing Chronic Homeless Project | 442 Pine Mill Court | Virginia | MN | 55792 | 231,181.00
Model Cities of St. Paul, Inc./Families First Supportive Housing Program | 1821 University Avenue West, STE. N461 | St. Paul | MN | 55104 | 231,846.00
Dakota County Community Development Agency/Dakota County CDA Shelter + Care 2017 | 1228 Town Centre Drive | Eagan | MN | 55123 | 232,320.00
Housing & Redevelopment Authority of Duluth, MN/S+C II CHUM 2017 | 222 East Second Street, P.O. BOX 16900 | Duluth | MN | 55816 | 234,868.00
Aeon (formerly Central Community Housing Trust)/Youth Housing Project 2017 | 901 North 3rd Street, Suite 150 | Minneapolis | MN | 55401 | 236,803.00
The Link/The Link LGBTQ Rapid Rehousing Program 2017 | 1210 Glenwood Ave | Minneapolis | MN | 55405 | 238,003.00
The Salvation Army/HOPE Harbor | 2445 Prior Avenue | Roseville | MN | 55113 | 241,784.00
Institute for Community Alliances/MN HMIS Hennepin 2 | 1111 9th Street, Suite 245 | Des Moines | MN | 50314 | 248,739.00
RESOURCE, Inc/RESOURCE, Inc 2017 Expansion | 1900 Chicago Avenue South | Minneapolis | MN | 55404 | 251,679.00
Scott-Carver-Dakota CAP Agency, Inc./2017 SMAC PSH Project | 712 Canterbury Road | Shakopee | MN | 55379 | 252,095.00
Washington County CDA/Washington County S Plus C 2017 | 7645 Currell Blvd | Woodbury | MN | 55125 | 254,388.00
Guild Incorporated/Guild Incorporated Hospital to Home | 130 Wabasha Street South, Suite 90 | St. Paul | MN | 55107 | 260,138.00
Guild Incorporated/Guild Incorporated Hospital to Home Expansion | 130 Wabasha Street South, Suite 90 | St. Paul | MN | 55107 | 260,138.00
Lutheran Social Service of Minnesota/Anoka Supportive Housing | 2485 Como Avenue | St. Paul | MN | 55108 | 264,294.00
United Community Action Partnership, Inc./Combined Rapid Rehousing FY2017 | 1400 S Saratoga Street | Marshall | MN | 56258 | 267,799.00
Project for Pride in Living, Inc./Cabrini Partnership FY 2017 | 1035 E Franklin Ave | Minneapolis | MN | 55404 | 277,983.00
Project for Pride in Living, Inc./Prosperity Village FY 2017 | 1035 E Franklin Ave | Minneapolis | MN | 55404 | 286,920.00
Beacon Interfaith Housing Collaborative/Lydia Apartments Renewal 2017 | 2610 University Ave. W., Suite 100 | St. Paul | MN | 55114 | 292,491.00
Project for Pride in Living, Inc./Crest View Community FY2017 | 1035 E Franklin Ave | Minneapolis | MN | 55404 | 292,896.00
Housing and Redevelopment Authority of St. Cloud, MN/Shelter Plus Care One Renewal 2017 | 1225 W. St. Germain, n/a | St. Cloud | MN | 56301 | 298,344.00
Breaking Free, Inc./Village Place Supportive Housing 25 Unit 2017 | 770 University Avenue | Saint Paul | MN | 55104 | 336,310.00
Hennepin County/MN-500 CoC Planning Application 2017 | 300 South Sixth Street Government Center, A2300 | Minneapolis | MN | 55487 | 347,217.00
Hennepin County/Hennepin County Project Connect 2017 | A-1600 Government Center (MC 165), 300 South Sixth Street | Minneapolis | MN | 55487 | 353,977.00
Range Transitional Housing, Inc./Permanent Housing Program | 442 Pine Mill Court | Virginia | MN | 55792 | 375,152.00
Housing and Redevelopment Authority of Virginia, MN/Rental Assistance Combined Grant 2017 | 442 Pine Mill Court | Virginia | MN | 55792 | 377,894.00
Mental Health Resources/Stevens Supportive Housing Program | 762 Transfer Road, Suite 21 | St. Paul | MN | 55114 | 408,162.00
Matrix Housing Services/Single Adult Rapid Rehousing | 2929 4th Ave S, Suite 210 | Minneapolis | MN | 55408 | 424,939.00
The Link/The Link SMAC Youth Rapid Rehousing Program 2017 | 1210 Glenwood Ave | Minneapolis | MN | 55405 | 430,525.00
Hennepin County/Hennepin County Family Rapid Rehousing Program 2017 | A-1600 Government Center (MC 165), 300 South Sixth Street | Minneapolis | MN | 55487 | 503,868.00
The Link/The Link Transitional Housing Program | 1210 Glenwood Ave | Minneapolis | MN | 55405 | 532,940.00
Catholic Charities of the Archdiocese of St. Paul and Minnea/Higher Ground St. Paul PSH 2017 | 1200 2nd Ave S | Minneapolis | MN | 55403 | 543,471.00
Housing & Redevelopment Authority of Clay County/HRA CARES | 116 Center Ave E, P.O. Box 99 | Dilworth | MN | 56529 | 546,669.00
RESOURCE, Inc/RESOURCE, Inc | 1900 Chicago Avenue South | Minneapolis | MN | 55404 | 578,470.00
Dakota County/Supportive Housing Program—Dakota | 1 Mendota Road West, Suite 300 | West St Paul | MN | 55118 | 616,074.00
Metropolitan Council, Minnesota/Ramsey County COC 2017 | 390 Robert St N | St Paul | MN | 55101 | 846,144.00
Amherst H. Wilder Foundation/ROOF Project Wilder Renewal FY19 | 451 Lexington Pkwy N | Saint Paul | MN | 55104 | 856,738.00
Hennepin County/Employment Enriched Family Rapid Rehousing Project 2017 | A-1600 Government Center (MC 165), 300 South Sixth Street | Minneapolis | MN | 55487 | 912,082.00
Hearth Connection/Ramsey RA 2017 | 2446 University Avenue West, Suite 150 | St. Paul | MN | 55114 | 1,046,352.00
Hearth Connection/Hennepin—Hearth Consolidated 2017 | 2446 University Avenue West, Suite 150 | St. Paul | MN | 55114 | 1,160,126.00
Metropolitan Council, Minnesota/Metro HRA Hennepin County COC 2017 | 390 Robert St N | St Paul | MN | 55101 | 1,924,368.00
Community Council of St. Charles County/CoC Planning Project Application (6) | P.O. Box 219 | Cottleville | MO | 63338 | 14,595.00
Economic Security Corporation of Southwest Area/Planning Project 2017 | 302 Joplin Avenue | Joplin | MO | 64801 | 16,018.00
Saint Louis County/Youth In Need Coordinated Entry Project | 9666 Olive Blvd., Suite 510 | St. Louis | MO | 63132 | 16,189.00
Catholic Charities of Southern Missouri, Inc./Catholic Charities RRH Jasper/Newton | 424 E Monastery Street | Springfield | MO | 65807 | 22,256.00
The Salvation Army—Midland Division/2017 The Salvation Army of Joplin, MO RRH Renewal | 1130 Hampton Avenue | St. Louis | MO | 63139 | 24,699.00
Economic Security Corporation of Southwest Area/Rapid Re-Housing 2017 | 302 Joplin Avenue | Joplin | MO | 64801 | 33,888.00
City of St. Joseph/St. Joseph Planning Project | 1100 Frederick Ave | St. Joseph | MO | 64501 | 36,651.00
City of St. Joseph/St. Joseph HMIS Project | 1100 Frederick Ave | St. Joseph | MO | 64501 | 42,254.00
The Kitchen, Inc./TKI PSH Veterans | 1630 N. Jefferson | Springfield | MO | 65803 | 45,197.00
Economic Security Corporation of Southwest Area/Chronic Homeless 2017 | 302 Joplin Avenue | Joplin | MO | 64801 | 45,758.00
The Kitchen, Inc./TKI PSH Support/Operations | 1630 N. Jefferson | Springfield | MO | 65803 | 47,452.00
Great Circle/Empowering Home | 330 North Gore Avenue | St. Louis | MO | 63119 | 56,712.00
Missouri Department of Mental Health/2017 SZK—Shelter Plus Care Nevada | 1706 E. Elm | Jefferson City | MO | 65102 | 60,625.00
The Kitchen, Inc./TKI RRH Youth | 1630 N. Jefferson | Springfield | MO | 65803 | 65,383.00
Compass Health, Inc/Revised Compass Health, Inc, dba Crider Health Center PH Renewal App (A) FY 2017 | 1800 Community Dr | Clinton | MO | 64735 | 66,023.00
Economic Security Corporation of Southwest Area/ESC Rapid Re-Housing 2017 | 302 Joplin Avenue | Joplin | MO | 64801 | 66,212.00
Catholic Charities of Southern Missouri, Inc./Catholic Charities Rapid Rehousing CoC MO-600 | 424 E Monastery Street | Springfield | MO | 65807 | 66,660.00
Mental Health Association of the Heartland/Campbell Apartments | 739 Minnesota Ave | Kansas City | MO | 66101 | 67,292.00
Missouri Department of Mental Health/2017 SZO—Shelter Plus Care West Central MO | 1706 E. Elm | Jefferson City | MO | 65102 | 67,525.00
Community Council of St. Charles County/SHP-HMIS-9 | P.O. Box 219 | Cottleville | MO | 63338 | 67,678.00
Saint Louis County/Youth In Need Rapid Rehousing | 9666 Olive Blvd., Suite 510 | St. Louis | MO | 63132 | 67,696.00
Young Women's Christian Association, St. Joseph, Missouri/Bliss Manor | 304 North 8th Street | St. Joseph | MO | 64501 | 70,998.00
Economic Security Corporation of Southwest Area/Shelter Plus Care 2017 | 302 Joplin Avenue | Joplin | MO | 64801 | 72,228.00
Missouri Department of Mental Health/2017 SZR—Kirksville Shelter Plus Care SRA | 1706 E. Elm | Jefferson City | MO | 65102 | 73,669.00
High Hope Employment Services, Inc./High Hope Supportive Housing-PSH | 611 W. Third Street, Suite 1 | Milan | MO | 63556 | 76,917.00
Economic Security Corporation of Southwest Area/Permanent Housing for Persons With A Disability 2017 | 302 Joplin Avenue | Joplin | MO | 64801 | 76,962.00
SEMO Christian Restoration Center/Foundations For Living | 1875 Speedway Drive | Poplar Bluff | MO | 63901 | 80,678.00
Missouri Department of Mental Health/2017 SZM—Shelter Plus Care Central MO | 1706 E. Elm | Jefferson City | MO | 65102 | 83,287.00
Missouri Department of Mental Health/2017 SZP—Shelter Plus Care Places at Page SRA | 1706 E. Elm | Jefferson City | MO | 65102 | 84,987.00
Phoenix Programs, Inc./MTC-PH (2018-2019) | 90 E. Leslie Lane | Columbia | MO | 65202 | 88,021.00
The Housing Authority of Springfield/HAS Permanent Housing—TKI | 421 W. Madison | Springfield | MO | 65806 | 88,597.00
Mid-America Regional Council/HMIS System Support—GKCCEH FY17 | 600 Broadway, Suite 200 | Kansas City | MO | 64105 | 93,110.00
Welcome Home Inc./Welcome Home Inc RRH | 2120 Business Loop 70 E | Columbia | MO | 65201 | 96,760.00
Missouri Department of Mental Health/2017 SZL—Shelter Plus Care STL County Families | 1706 E. Elm | Jefferson City | MO | 65102 | 97,399.00
Phoenix Programs, Inc./At Home (2018-2019) | 90 E. Leslie Lane | Columbia | MO | 65202 | 99,407.00
Community Missions Corporation/Juda House | 200 Cherokee Street | St. Joseph | MO | 64504 | 99,478.00
City of St. Louis/HMIS Lead Services ICA | 1520 Market, Suite 4065 | St. Louis | MO | 63103 | 100,000.00
Missouri Department of Mental Health/2017 SZN—Shelter Plus Care STL County Veterans | 1706 E. Elm | Jefferson City | MO | 65102 | 105,862.00
Delta Area Economic Opportunity Corporation/Bootheel House of Progress-PH | 99 Skyview Road | Portageville | MO | 63873 | 107,164.00
The Salvation Army—Midland Division/The Salvation Army of Jefferson City, MO Center of Hope PHP | 1130 Hampton Avenue | St. Louis | MO | 63139 | 108,071.00
City of St. Louis/Doorways Delmar | 1520 Market, Suite 4065 | St. Louis | MO | 63103 | 108,477.00
Community LINC/Project LINC | 4012 Troost | Kansas City | MO | 64110 | 112,259.00
Missouri Department of Mental Health/2017 SCA—Shelter Plus Care Kirksville Area | 1706 E. Elm | Jefferson City | MO | 65102 | 112,329.00
Saint Louis County/CoC Planning Grant 2017 | 9666 Olive Blvd., Suite 510 | St. Louis | MO | 63132 | 115,167.00
The Kansas City Metropolitan Lutheran Ministry/MLM New Project Wyandotte County | 3031 Holmes | Kansas City | MO | 64109 | 119,172.00
Preferred Family Healthcare, Inc./PFH Rapid Rehousing | 4355 Paris Gravel Road | Hannibal | MO | 63401 | 119,740.00
Missouri Department of Mental Health/2017 SZA—Shelter Plus Care STL County Chronic—14 | 1706 E. Elm | Jefferson City | MO | 65102 | 123,340.00
SEMO Christian Restoration Center/Restoring Families | 1875 Speedway Drive | Poplar Bluff | MO | 63901 | 124,326.00
Missouri Department of Mental Health/2017 SCW—Shelter Plus Care West Plains Area | 1706 E. Elm | Jefferson City | MO | 65102 | 128,196.00
The Kitchen, Inc./TKI Chronic PSH | 1630 N. Jefferson | Springfield | MO | 65803 | 131,039.00
Missouri Department of Mental Health/2017 SZF—Shelter Plus Care STL County Chronic—15 | 1706 E. Elm | Jefferson City | MO | 65102 | 132,176.00
Missouri Department of Mental Health/2017 SZI—Shelter Plus Care Outer KC Metro | 1706 E. Elm | Jefferson City | MO | 65102 | 133,057.00
Missouri Department of Mental Health/2017 SCB—Shelter Plus Care Bootheel Area | 1706 E. Elm | Jefferson City | MO | 65102 | 135,217.00
FCC Behavioral Health/SEMO SAFEHAVEN | 925 Highway V V, P.O. Box 71 | Kennett | MO | 63857 | 135,780.00
Pettis County Community Partnership Inc/PROP PSH 2017 | 1400 S. Limit, Suite 29 | Sedalia | MO | 65301 | 136,517.00
FCC Behavioral Health/Permanent Housing For Semo's Homeless and Disabled | 925 Highway V V, P.O. Box 71 | Kennett | MO | 63857 | 140,431.00
Mid-America Regional Council/HMIS Lead Agency of GKCCEH 2017 | 600 Broadway, Suite 200 | Kansas City | MO | 64105 | 145,181.00
Hillcrest Ministries of MidAmerica/BoS RRH Youth & Families Expansion | 2050 Plumber's Way, #180 | Liberty | MO | 64068 | 146,216.00
Hillcrest Ministries of MidAmerica/KC TH-RRH-Hillcrest | 2050 Plumber's Way, #180 | Liberty | MO | 64068 | 148,313.00
City of St. Louis/St. Patrick Center Coordinated Entry | 1520 Market, Suite 4065 | St. Louis | MO | 63103 | 150,000.00
Community Services League/Community Services League | 404 North Noland Rd | Independence | MO | 64050 | 150,679.00
Missouri Department of Mental Health/2017 SCG—Shelter Plus Care Springfield | 1706 E. Elm | Jefferson City | MO | 65102 | 152,837.00
FCC Behavioral Health/Cape Girardeau Women and Children SHP | 925 Highway V V, P.O. Box 71 | Kennett | MO | 63857 | 154,982.00
Missouri Department of Mental Health/2017 SCT—Shelter Plus Care Branson Area | 1706 E. Elm | Jefferson City | MO | 65102 | 155,266.00
Hillcrest Ministries of MidAmerica/Hillcrest Rapid Re-Housing for Youth & Families BoS | 2050 Plumber's Way, #180 | Liberty | MO | 64068 | 156,216.00
Missouri Department of Mental Health/2017 SCF—Shelter Plus Care Farmington Area | 1706 E. Elm | Jefferson City | MO | 65102 | 158,437.00
Missouri Housing Development Commission/MO-606 CoC Planning Application FY 2017 | 920 Main Street, Suite 1400 | Kansas City | MO | 64105 | 159,712.00
City of Kansas City, Missouri/City of Kansas City, Permanent Housing Program | 414 E 12th St, City Hall 4th Floor | Kansas City | MO | 64106 | 161,442.00
The Kansas City Metropolitan Lutheran Ministry/Grace Homes | 3031 Holmes | Kansas City | MO | 64109 | 163,284.00
Greater Kansas City Coalition to End Homelessness/GKCCEH Coordinated Entry | 3200 Wayne Ave, Suite 202 | Kansas City | MO | 64109 | 167,000.00
City of St. Louis/Employment Connections Project Homecoming | 1520 Market, Suite 4065 | St. Louis | MO | 63103 | 173,623.00
Missouri Department of Mental Health/2017 SZH—Shelter Plus Care Jefferson Franklin | 1706 E. Elm | Jefferson City | MO | 65102 | 173,641.00
Missouri Department of Mental Health/2017 SZG—Shelter Plus Care KC | 1706 E. Elm | Jefferson City | MO | 65102 | 174,453.00
Missouri Department of Mental Health/2017 SCP—Shelter Plus Care Poplar Bluff | 1706 E. Elm | Jefferson City | MO | 65102 | 175,976.00
Truman Medical Center, Inc./TruFutures | 2301 Holmes St | Kansas City | MO | 64108 | 176,159.00
Missouri Department of Mental Health/2017 SCH—Shelter Plus Care Hannibal Area | 1706 E. Elm | Jefferson City | MO | 65102 | 180,323.00
Catholic Charities of Southern Missouri, Inc./Catholic Charities of Southern Missouri's Rapid Re-housing Program | 424 E Monastery Street | Springfield | MO | 65807 | 180,352.00
reStart, Inc./Home Again | 918 E. 9th Street | Kansas City | MO | 64106 | 183,800.00
Kim Wilson Housing, Inc./Wyandot Rental Assistance Program | 730 Armstrong | Kansas City | MO | 66101 | 184,852.00
City of Kansas City, Missouri/Mohart Road to Housing | 414 E 12th St, City Hall 4th Floor | Kansas City | MO | 64106 | 187,586.00
City of St. Louis/Horizon Housing PSH | 1520 Market, Suite 4065 | St. Louis | MO | 63103 | 192,362.00
Missouri Department of Mental Health/2017 SZC—Shelter Plus Care STL City Families | 1706 E. Elm | Jefferson City | MO | 65102 | 197,086.00
Compass Health, Inc/Revised Compass Health, Inc, dba Crider Health Center PH Renewal App FY 2017 | 1800 Community Dr | Clinton | MO | 64735 | 200,623.00
Missouri Department of Mental Health/2017 SCX—Shelter Plus Care KC—Chronic 21 | 1706 E. Elm | Jefferson City | MO | 65102 | 203,882.00
City of St. Louis/Gateway 180 Rapid Rehousing | 1520 Market, Suite 4065 | St. Louis | MO | 63103 | 209,108.00
Catholic Charities of Kansas City-St. Joseph, Inc./North/East Metro Permanent Housing 2017 | 850 Main | Kansas City | MO | 64105 | 212,637.00
Catholic Charities of Kansas City-St. Joseph, Inc./St. Joseph (PH) 2017 | 850 Main | Kansas City | MO | 64105 | 213,069.00
City of St. Louis/Covenant House Transitional Housing Program | 1520 Market, Suite 4065 | St. Louis | MO | 63103 | 213,144.00
Community Caring Council/Cape Girardeau Supportive Housing Lease Assistance | 937 Broadway, Suite 306 | Cape Girardeau | MO | 63701 | 215,576.00
City of St. Louis/YWCA PSH | 1520 Market, Suite 4065 | St. Louis | MO | 63103 | 216,820.00
Missouri Department of Mental Health/2017 SCN—Shelter Plus Care Joplin | 1706 E. Elm | Jefferson City | MO | 65102 | 218,849.00
City of St. Louis/Places for People Housing for the Future of Families | 1520 Market, Suite 4065 | St. Louis | MO | 63103 | 223,493.00
Truman Medical Center, Inc./Haven of Hope Expansion | 2301 Holmes St | Kansas City | MO | 64108 | 224,597.00
Community Missions Corporation/St. Joseph's Haven | 200 Cherokee Street | St. Joseph | MO | 64504 | 229,685.00
City of Kansas City, Missouri/City of Kansas City, Missouri—reStart Housing Solutions Center | 414 E 12th St, City Hall 4th Floor | Kansas City | MO | 64106 | 234,539.00
Rose Brooks Center, Inc./Rose Brooks Center Housing Program FY17 | 3350 East 77th Street | Kansas City | MO | 64132 | 236,557.00
City of St. Louis/Depaul USA St. Lazare House | 1520 Market, Suite 4065 | St. Louis | MO | 63103 | 239,384.00
Institute for Community Alliances/MO BOS HMIS Project 2017 | 1111 9th Street, Suite 245 | Des Moines | MO | 50314 | 239,947.00
The Kansas City Metropolitan Lutheran Ministry/Project CARE | 3031 Holmes | Kansas City | MO | 64109 | 242,299.00
Saint Louis County/Epworth Transitional Housing | 9666 Olive Blvd., Suite 510 | St. Louis | MO | 63132 | 244,001.00
Missouri Department of Mental Health/2017 SZD—Consolidated KC Chronic—25 | 1706 E. Elm | Jefferson City | MO | 65102 | 244,096.00
Missouri Department of Mental Health/2017 SZE—Shelter Plus Care STL County Families—23 | 1706 E. Elm | Jefferson City | MO | 65102 | 247,938.00
Community Services League/My Way Home | 404 North Noland Rd | Independence | MO | 64050 | 249,916.00
City of St. Louis/Doorways Jumpstart | 1520 Market, Suite 4065 | St. Louis | MO | 63103 | 256,855.00
reStart, Inc./Family Rapid Rehousing | 918 E. 9th Street | Kansas City | MO | 64106 | 261,520.00
Missouri Department of Mental Health/2017 SCJ—Shelter Plus Care St Joseph | 1706 E. Elm | Jefferson City | MO | 65102 | 262,682.00
The Salvation Army/Linwood Center Permanent Supportive Housing Program | 101 W. Linwood | Kansas City | MO | 64111 | 268,583.00
Community Services League/Community Services League PSH Chronic Families and Individuals | 404 North Noland Rd | Independence | MO | 64050 | 269,567.00
Wyandot Center for Community Behavioral Healthcare/Beacon Homes | 757 Armstrong Avenue | Kansas City | MO | 66101 | 278,723.00
Journey To New Life, Inc/New Life RRH for Veterans | 3120 Troost Ave | Kansas City | MO | 64109 | 280,220.00
The Kitchen, Inc./TKI RRH Families | 1630 N. Jefferson | Springfield | MO | 65803 | 292,289.00
Saint Louis County/The Salvation Army Midland Division Homes of Hope PSH | 9666 Olive Blvd., Suite 510 | St. Louis | MO | 63132 | 293,255.00
Saint Louis County/Employment Connection Project Homecoming | 9666 Olive Blvd., Suite 510 | St. Louis | MO | 63132 | 298,986.00
Missouri Department of Mental Health/2017 SZQ—Shelter Plus Care STL County | 1706 E. Elm | Jefferson City | MO | 65102 | 301,467.00
Missouri Department of Mental Health/2017 SCI—Shelter Plus Care Independence | 1706 E. Elm | Jefferson City | MO | 65102 | 307,523.00
Catholic Charities of Kansas City-St. Joseph, Inc./Northwest Permanent Housing 2017 | 850 Main | Kansas City | MO | 64105 | 309,209.00
City of St. Louis/Depaul USA Project MORE | 1520 Market, Suite 4065 | St. Louis | MO | 63103 | 311,343.00
reStart, Inc./A Good Start | 918 E. 9th Street | Kansas City | MO | 64106 | 317,149.00
Catholic Charities of Kansas City-St. Joseph, Inc./Home Plus (PH) 2017 | 850 Main | Kansas City | MO | 64105 | 321,572.00
City of St. Louis/MO-501 CoC Planning Application FY2017 | 1520 Market, Suite 4065 | St. Louis | MO | 63103 | 324,065.00
Missouri Department of Mental Health/2017 SCZ—Shelter Plus Care KC—Chronic 35 | 1706 E. Elm | Jefferson City | MO | 65102 | 342,820.00
Missouri Department of Mental Health/2017 SZB—Shelter Plus Care STL City—Chronic 41 | 1706 E. Elm | Jefferson City | MO | 65102 | 359,001.00
SAVE, Inc./SAVE Inc Rental Assistance Program 2017 | P.O. Box 45301 | Kansas City | MO | 64171 | 377,028.00
Greater Kansas City Coalition to End Homelessness/CoC Planning Grant FY2017 | 3200 Wayne Ave, Suite 202 | Kansas City | MO | 64109 | 377,190.00
City of Kansas City, Missouri/MO-604-REN-2004 (KCHD Shelter+Care 2017) | 414 E 12th Street | Kansas City | MO | 64106 | 394,288.00
Columbia Housing Authority/Columbia Housing Authority COC 2017 Grant Renewal | 201 Switzler Street | Columbia | MO | 65203 | 412,501.00
Missouri Department of Mental Health/2017 SCY—Shelter Plus Care STL City SPC | 1706 E. Elm | Jefferson City | MO | 65102 | 428,366.00
City of St. Louis/Depaul USA Project PLUS | 1520 Market, Suite 4065 | St. Louis | MO | 63103 | 429,129.00
The Salvation Army/Harbor Light Village Veterans Permanent Supportive Housing Program | 101 W. Linwood | Kansas City | MO | 64111 | 466,056.00
City of St. Louis/St. Patrick Center Project Protect Housing | 1520 Market, Suite 4065 | St. Louis | MO | 63103 | 471,693.00
City of St. Louis/St. Patrick Center Rosati House | 1520 Market, Suite 4065 | St. Louis | MO | 63103 | 487,946.00
City of St. Louis/Queen of Peace PSH | 1520 Market, Suite 4065 | St. Louis | MO | 63103 | 495,388.00
reStart, Inc./Housing Counts | 918 E. 9th Street | Kansas City | MO | 64106 | 501,910.00
City of St. Louis/St. Patrick Permanent Supportive Housing | 1520 Market, Suite 4065 | St. Louis | MO | 63103 | 504,517.00
Missouri Department of Mental Health/2017 SZS—Shelter Plus Care STL City—The BEACH Project | 1706 E. Elm | Jefferson City | MO | 65102 | 520,967.00
Missouri Department of Mental Health/2017 SCQ—Shelter Plus Care STL City Chronic | 1706 E. Elm | Jefferson City | MO | 65102 | 577,676.00
City of St. Louis/Hope House PSH | 1520 Market, Suite 4065 | St. Louis | MO | 63103 | 588,503.00
City of St. Louis/Doorways Maryland | 1520 Market, Suite 4065 | St. Louis | MO | 63103 | 684,056.00
Missouri Department of Mental Health/2017 SCS—Shelter Plus Care STL City QoP SRA | 1706 E. Elm | Jefferson City | MO | 65102 | 766,646.00
City of St. Louis/St. Patrick Rapid Rehousing | 1520 Market, Suite 4065 | St. Louis | MO | 63103 | 806,181.00
Missouri Department of Mental Health/2017 SCV—Consolidated Shelter Plus Care KC and Independence | 1706 E. Elm | Jefferson City | MO | 65102 | 1,023,357.00
Truman Medical Center, Inc./Haven of Hope | 2301 Holmes St | Kansas City | MO | 64108 | 1,048,377.00
Missouri Department of Mental Health/2017 SCE—Shelter Plus Care KC—100 | 1706 E. Elm | Jefferson City | MO | 65102 | 1,186,513.00
Missouri Department of Mental Health/2017 SCL—Shelter Plus Care STL City—QoP TRA | 1706 E. Elm | Jefferson City | MO | 65102 | 1,690,967.00
Missouri Department of Mental Health/2017 SCK—Shelter Plus Care KC—162 | 1706 E. Elm | Jefferson City | MO | 65102 | 1,985,283.00
Open Doors Homeless Coalition/MS-503 CoC Planning FY 2017 | 11975 Seaway Road, Suite B-220 | Gulfport | MS | 39503 | 29,550.00
Open Doors Homeless Coalition/2017 HMIS | 11975 Seaway Road, Suite B-220 | Gulfport | MS | 39503 | 33,374.00
Gulf Coast Center for Nonviolence, Inc./Permanent Housing Project | 425 Rodenberg Avenue, n/a | Biloxi | MS | 39531 | 46,080.00
Hancock Resource Center/Housing Families and Youth in Crisis 2017 | 308 Highway 90, Suite D | Waveland | MS | 39576 | 49,380.00
Gulf Coast Center for Nonviolence, Inc./Rapid ReHousing Program | 425 Rodenberg Avenue, n/a | Biloxi | MS | 39531 | 49,388.00
AIDS Services Coalition/121 Haven House PSH | 121 College Street | Hattiesburg | MS | 39401 | 50,748.00
Community Care Network, Inc./CCN Helping Homeless Youth Project-2017 | 7400 Fountainbleau Rd | Ocean Springs | MS | 39564 | 50,898.00
Community Care Network, Inc./CCN 2017 Rapid Rehousing in Pasc./Moss Point | 7400 Fountainbleau Rd | Ocean Springs | MS | 39564 | 60,505.00
Golden Triangle Regional Homeless Coalition, Inc./New Lease On Life PSH | P.O. Box 303 | Columbus | MS | 39703 | 62,609.00
AIDS Services Coalition/ASC PH | 121 College Street | Hattiesburg | MS | 39401 | 66,899.00
Open Doors Homeless Coalition/2017 Coordinated Entry | 11975 Seaway Road, Suite B-220 | Gulfport | MS | 39503 | 90,589.00
Mississippi United to End Homelessness/HMIS II | 201 West Capitol Street, Suite 800 | Jackson | MS | 39202 | 100,043.00
Stewpot Community Services. Inc./Stewpot's Rapid Re-Housing Project | 1100 West Capitol Street | Jackson | MS | 39203 | 103,860.00
Recovery House, Inc./Recovery House Rapid Rehousing | 770 Golding Road | Columbus | MS | 39702 | 130,408.00
New Dimensions Development Foundation, Inc/Lizzie's House Permanent | 111 West Monument Street | Jackson | MS | 39202 | 147,119.00
Mississippi United to End Homelessness/MS 501 Planning Project 2018-2019 | 201 West Capitol Street, Suite 800 | Jackson | MS | 39202 | 153,570.00
Mississippi United to End Homelessness/HMIS I | 201 West Capitol Street, Suite 800 | Jackson | MS | 39202 | 162,037.00
Back Bay Mission, Inc./Home at Last 2017 | 1012 Division Street | Biloxi | MS | 39530 | 205,827.00
Mental Health Association of South MS/MHASM SHP CH w/MI PSH | 4803 Harrison Circle | Gulfport | MS | 39507 | 219,351.00
Mississippi Housing Partnership/Supportive Housing Program | 1217 North West Street | Jackson | MS | 39202 | 228,218.00
AIDS Services Coalition/Green Meadows 2017 | 121 College Street | Hattiesburg | MS | 39401 | 283,689.00
University of Southern Mississippi/Project Recovery II | 118 College Drive, #5157 | Hattiesburg | MS | 39406 | 299,864.00
Mississippi United to End Homelessness/CENTRAL MS REGIONAL COALITION PSH | 201 West Capitol Street, Suite 800 | Jackson | MS | 39202 | 315,925.00
Multi-County Community Service Agency/MCCSA Permanent Supportive Housing RRH | 2906 Saint Paul Street | Meridian | MS | 39301 | 338,914.00
Grace House, Inc./Grace House CoC Permanent Housing Projects | 236 Millsaps Ave | Jackson | MS | 39202 | 438,037.00
Mississippi United to End Homelessness/MUTEH Rapid Rehousing | 201 West Capitol Street, Suite 800 | Jackson | MS | 39202 | 603,935.00
Bolivar County Community Action Agency, Inc./Bolivar CountyCommunity Action Re-Housing | 810 East Sunflower Road, Suite 120 | Cleveland | MS | 38732 | 705,565.00
Human Resource Development Council of District IX, Inc./HRDC9 Family Housing RRH | 32 South Tracy Avenue | Bozeman | MT | 59715 | 26,013.00
Northwest Montana Human Resources, Inc./CAPNM RRH | 214 Main Street | Kalispell | MT | 59901 | 56,758.00
Helena Housing Authority/Helena Housing Authority Samaritan Bonus | 812 Abbey Street | Helena | MT | 59601 | 62,832.00
Montana Continuum of Care Coalition/MT-500 CoC Planning Application FY2017 | 321 E. Main St., Suite 316 | Bozeman | MT | 59715 | 65,920.00
Mountain Home Montana, Inc./Permanent Supportive Housing FY 2017 | 2606 South Avenue West | Missoula | MT | 59804 | 72,336.00
Human Resource Development Council of District IX, Inc./HRDC 9 Rapid Rehousing | 32 South Tracy Avenue | Bozeman | MT | 59715 | 78,424.00
Action Inc./HRC DISTRICT XII RAPID REHOUSING | 25 West Silver Street | Butte | MT | 59701 | 86,405.00
District 7 Human Resources Development Council/Coc Rapid Rehousing | 7 North 31st Street, P.O. Box 2016 | Billings | MT | 59103 | 89,411.00
Northwest Montana Human Resources, Inc./CAPNM Shelter Plus | 214 Main Street | Kalispell | MT | 59901 | 97,401.00
Public Housing Authority of Butte/PHA Butte Permanent Supportive Housing | 220 Curtis Street | Butte | MT | 59701 | 100,636.00
Housing Authority of Billings/HAB (S+C 15) Renewal | 2415 1st Ave North | Billings | MT | 59101 | 121,546.00
Missoula County/Ada's Place Rapid Re-housing 2 | 199 West Pine | Missoula | MT | 59802 | 126,257.00
Supporters of Abuse Free Environments (SAFE), Inc./SAFE Transitional Rapid Rehousing 2017 | P.O. Box 534 | Hamilton | MT | 59840 | 134,356.00
Montana Continuum of Care Coalition/MT HMIS 2017 | 321 E. Main St., Suite 316 | Bozeman | MT | 59715 | 157,332.00
Missoula County/Ada's Place Rapid Re-housing | 199 West Pine | Missoula | MT | 59802 | 167,989.00
Helena Housing Authority/Helena Housing PSH | 812 Abbey Street | Helena | MT | 59601 | 219,912.00
Missoula Housing Authority/MHA PSH Renewal 2017 | 1235 34th St | Missoula | MT | 59801 | 837,069.00
Sandhills Community Action Program, Inc./Project Homeward Bound Permanent Supportive Housing FY2017 | 340 Commerce Avenue, Suite 20 | Southern Pines | NC | 28387 | 3,909.00
Haven House Inc./RRH for Homeless Youth Under 24 | 600 West Cabarrus Street | Raleigh | NC | 27603 | 7,226.00
First Fruit Ministries/Wilmington Dream Center: Permanent Supportive Housing | 2750 Vance Street | Wilmington | NC | 28412 | 8,944.00
The Servant Center, Inc./Glenwood Housing II | 1312 Lexington Avenue | Greensboro | NC | 27403 | 11,429.00
City of Winston-Salem/ESR Shelter Plus Care PRA 2 (2011) | 100 East First Street, Suite 423 | Winston-Salem | NC | 27101 | 12,869.00
Family Promise of Gaston County/Housing First 2017 Expansion | 109 East Third Avenue | Gastonia | NC | 28052 | 12,940.00
Hospitality House of the Boone Area, Inc./Hospitality House Permanent Housing Leasing Expansion | 338 Brook Hollow Road | Boone | NC | 28607 | 13,408.00
Hospitality House of the Boone Area, Inc./SSO Coordinated Entry FY2017 | 338 Brook Hollow Road | Boone | NC | 28607 | 14,275.00
Hospitality House of the Boone Area, Inc./Northwest CoC Planning Project FY2017 | 338 Brook Hollow Road | Boone | NC | 28607 | 16,281.00
Family Promise of the Lower Cape Fear Inc. f/k/a Wilmington Interfaith Hospitality Network/Families Forward Rapid Re-Housing | 4938 Oleander Drive | Wilmington | NC | 28403 | 16,980.00
Hospitality House of the Boone Area, Inc./Hospitality House Permanent Housing for the Hard to Serve | 338 Brook Hollow Road | Boone | NC | 28607 | 17,953.00
Orange County, NC/FY2017 CoC Planning Grant | 200 S. Cameron Street | Hillsborough | NC | 27278 | 19,161.00
City of Winston-Salem/Veterans Shelter Plus Care (2010) | 100 East First Street, Suite 423 | Winston-Salem | NC | 27101 | 19,288.00
City of Winston-Salem/ESR Shelter Plus Care PRA (2009) | 100 East First Street, Suite 423 | Winston-Salem | NC | 27101 | 19,297.00
Mary's House, Inc./High Point Recovery Mothers | 520 Guilford Avenue | Greensboro | NC | 27401 | 20,609.00
Haven House Inc./RRH for Homeless Youth Under 24 | 600 West Cabarrus Street | Raleigh | NC | 27603 | 20,887.00
Cape Fear Council of Governments/NC-506 Tri-HIC CoC Planning Grant FY17 | 1480 Harbour Drive | Wilmington | NC | 28401 | 21,027.00
United Way of Gaston County, Inc/NC-509 CoC Planning Application FY2017 | 200 East Franklin Blvd | Gastonia | NC | 28052 | 23,936.00
Family Promise of Gaston County/Housing First 2 2017 Expansion | 109 East Third Avenue | Gastonia | NC | 28052 | 25,007.00
CASA (formerly Community Alternatives for Supportive Abodes)/Salisbury | 624 West Jones St | Raleigh | NC | 27603 | 25,639.00
Family Promise of Gaston County/Housing First 2 2017 | 109 East Third Avenue | Gastonia | NC | 28052 | 26,355.00
City of Winston-Salem/ROOF | 100 East First Street, Suite 423 | Winston-Salem | NC | 27101 | 26,517.00
Opposing Abuse with Service, Information and Shelter/OASIS Transitional Housing | P.O. Box 1591 | Boone | NC | 28607 | 27,813.00
Hospitality House of the Boone Area, Inc./Hospitality House Transitional Housing Program | 338 Brook Hollow Road | Boone | NC | 28607 | 29,584.00
Northwestern Housing Enterprises, Incorporated/Wintergreen Permanent Supportive Housing | 869 Highway 105 Extension, P.O. Box 1673 | Boone | NC | 28607 | 31,326.00
Inter-Faith Council for Social Service, Inc./IFC PSH 2017 Renewal | 110 West Main Street | Carrboro | NC | 27510 | 31,783.00
Hospitality House of the Boone Area, Inc./Rock Haven Permanent Housing Program | 338 Brook Hollow Road | Boone | NC | 28607 | 32,015.00
City of Asheville/NC-501 Planning | 70 Court Plaza | Asheville | NC | 28801 | 35,124.00
Hospitality House of the Boone Area, Inc./Hospitality House Permanent Housing Leasing | 338 Brook Hollow Road | Boone | NC | 28607 | 37,135.00
Inter-Faith Council for Social Service, Inc./IFC PSH 2017 Expan. Bonus | 110 West Main Street | Carrboro | NC | 27510 | 40,147.00
First Fruit Ministries/Wilmington Dream Center: Rapid Rehousing | 2750 Vance Street | Wilmington | NC | 28412 | 42,270.00
Housing for New Hope, Inc./UNC XDS Leasing Project 1 | 18 West Colony Place, Suite 250 | Durham | NC | 27705 | 42,556.00
City of Durham/2017 CoC Planning Grant | 101 City Hall Plaza | Durham | NC | 27701 | 42,955.00
Wake County Human Services/3-5-2018 to 3-4-2019 SPC 2011 Renewal (NC0244C4F07100) | WCOB- Housing Division, Room 448, 337 S. Salisbury Street | Raleigh | NC | 27601 | 47,641.00
City of Winston-Salem/Community Intake Center | 100 East First Street, Suite 423 | Winston-Salem | NC | 27101 | 48,115.00
Vaya Health/Vaya Health PSH Central Chronic | 200 Ridgefield Court, Suite 210 | Asheville | NC | 28806 | 49,498.00
Partners Ending Homelessness/HMIS—Greensboro | 201 Church Avenue | High Point | NC | 27262 | 49,721.00
City of Winston-Salem/Community Intake Center 2 | 100 East First Street, Suite 423 | Winston-Salem | NC | 27101 | 50,000.00
Eastpointe/Eastpointe Shelter Plus Care Beacon Renewal 2017 | 500 Nash Medical Arts Mall | Rocky Mount | NC | 27804 | 53,799.00
City of Winston-Salem/NC-500 CoC Planning Application FY2017 | 100 East First Street, Suite 423 | Winston-Salem | NC | 27101 | 55,244.00
Cumberland Interfaith Hospitality Network/Coordinated Assessment 2017 | 113 Stein St | Fayetteville | NC | 28303 | 55,468.00
North Carolina Coalition to End Homelessness/2017 HMIS Renewal-Durham | 310 N. Harrington St | Raleigh | NC | 27603 | 55,752.00
Haven House Inc./RRH for Pregnant & Parenting | 600 West Cabarrus Street | Raleigh | NC | 27603 | 55,760.00
Cumberland County, NC/Safe Homes for New Beginnings (FY2017) | 707 Executive Place | Fayetteville | NC | 28305 | 56,033.00
Charlotte Center for Urban Ministry, Inc/Homeless to Homes | 2435 Lucena Street | Charlotte | NC | 28206 | 56,913.00
Housing for New Hope, Inc./Rapid Rehousing I | 18 West Colony Place, Suite 250 | Durham | NC | 27705 | 57,304.00
Men's Shelter of Charlotte, Inc./Moving Forward, Moving Home FY 18 | 1210 North Tryon Street | Charlotte | NC | 28206 | 57,352.00
Housing for New Hope, Inc./Andover Apartments | 18 West Colony Place, Suite 250 | Durham | NC | 27705 | 57,713.00
Partners Ending Homelessness/NC-504 CoC Planning Application FY2017 | 201 Church Avenue | High Point | NC | 27262 | 58,520.00
Housing for New Hope, Inc./Williams Square Apartments | 18 West Colony Place, Suite 250 | Durham | NC | 27705 | 58,888.00
Burlington Development Corporation/STEPS RRH Renewal application FY 2017 | 133 N. Ireland St, P.O. Box 2380 | Burlington | NC | 27216 | 59,704.00
Partners Ending Homelessness/Coordinated Intake Grant | 201 Church Avenue | High Point | NC | 27262 | 60,000.00
Fayetteville Urban Ministry, Inc./FUM Rental Assistance and Support Services | 701 Whitfield Street | fayetteville | NC | 28306 | 60,222.00
Homeward Bound of Western North Carolina, Inc./Permanent Supportive Housing Extreme Needs 2 | 218 Patton Avenue | Asheville | NC | 28801 | 60,642.00
City of Winston-Salem/Shelter Plus Care 3 (2006) | 100 East First Street, Suite 423 | Winston-Salem | NC | 27101 | 61,896.00
Housing Authority of City of Greenville/Project Stable Solutions Renewal 2017 | 1103 Broad Street, P.O. Box 1426 | Greenville | NC | 27834 | 61,923.00
Mecklenburg County/2017 HMIS Mecklenburg | 700 N. Tryon Street | Charlotte | NC | 28202 | 63,000.00
Mecklenburg County/Mecklenburg Co. Coordinated Entry Renewal 2017 | 700 N. Tryon Street | Charlotte | NC | 28202 | 63,000.00
Wilmington Housing Finance and Development Inc./Driftwood Apartments | 3508 Frog Pond Place | Wilmington | NC | 28403 | 64,150.00
Homeward Bound of Western North Carolina, Inc./Pathways to Permanent Housing Henderson County 3 | 218 Patton Avenue | Asheville | NC | 28801 | 64,290.00
Family Promise of Gaston County/Housing First 2017 | 109 East Third Avenue | Gastonia | NC | 28052 | 64,805.00
Greensboro Urban Ministry/Beyond GUM | 305 W. Gate City Blvd | Greensboro | NC | 27406 | 66,543.00
Housing Authority of City of Greenville/Solid Ground Renewal 2017 | 1103 Broad Street, P.O. Box 1426 | Greenville | NC | 27834 | 66,756.00
Eastpointe/Eastpointe Shelter Plus Care Beacon II—Renewal 2017 | 500 Nash Medical Arts Mall | Rocky Mount | NC | 27804 | 67,414.00
City of Asheville/NC-501 HMIS Grant | 70 Court Plaza | Asheville | NC | 28801 | 67,500.00
Wake County Continuum of Care, Inc. DBA The Partnership to End and Prevent Homelessness/SSO—Coordinated Entry | Wake County Government—Wake County Housing & Community Revitalization Division, 336 Fayetteville Street, 4th Floor | Raleigh | NC | 27602 | 68,066.00
Opposing Abuse with Service, Information and Shelter/OASIS Edgecliff PSH | P.O. Box 1591 | Boone | NC | 28607 | 70,162.00
Family Promise of the Lower Cape Fear Inc. f/k/a Wilmington Interfaith Hospitality Network/Families Forward Willow Pond Transitional Housing | 4938 Oleander Drive | Wilmington | NC | 28403 | 70,485.00
City of Winston-Salem/Shelter Plus Care—Fifth Street | 100 East First Street, Suite 423 | Winston-Salem | NC | 27101 | 70,759.00
Mary's House, Inc./Mary's Homes—High Point | 520 Guilford Avenue | Greensboro | NC | 27401 | 71,556.00
Family Promise of Gaston County/Second Chance 2017 | 109 East Third Avenue | Gastonia | NC | 28052 | 71,594.00
North Carolina Coalition to End Homelessness/2017 HMIS Renewal-Wake | 310 N. Harrington St | Raleigh | NC | 27603 | 76,682.00
CASA (formerly Community Alternatives for Supportive Abodes)/Families at Home | 624 West Jones St | Raleigh | NC | 27603 | 77,523.00
City of Winston-Salem/Rapid Response Housing | 100 East First Street, Suite 423 | Winston-Salem | NC | 27101 | 78,528.00
Burlington Development Corporation/HOPE PSH FY 2017 Renewal App | 133 N. Ireland St, P.O. Box 2380 | Burlington | NC | 27216 | 79,127.00
Homeward Bound of Western North Carolina, Inc./Permanent Supportive Housing Extreme Needs 3 | 218 Patton Avenue | Asheville | NC | 28801 | 79,447.00
United Way of Gaston County, Inc/HMIS FY17 | 200 East Franklin Blvd | Gastonia | NC | 28052 | 82,149.00
Charlotte Center for Urban Ministry, Inc/Moore Place Expansion | 2435 Lucena Street | Charlotte | NC | 28206 | 84,915.00
Cumberland County, NC/Robin's Meadow Transitional Housing Program (FY2017) | 707 Executive Place | Fayetteville | NC | 28305 | 85,817.00
Coastal Horizons Center, Inc./Horizons Housing | 615 Shipyard Boulevard | Wilmington | NC | 28412 | 85,980.00
Open Door Ministries of High Point, Inc./Shelter Plus Care | 400 N. Centennial St | High Point | NC | 27262 | 86,460.00
Housing for New Hope, Inc./Orange Co Housing Support Program | 18 West Colony Place, Suite 250 | Durham | NC | 27705 | 88,700.00
Family Service of the Piedmont, Inc./Family Service of the Piedmont Victim Rapid Re-Housing | 902 Bonner Drive | Jamestown | NC | 27282 | 92,889.00
Trillium Health Resources/Trillium PSH #3 | 201 West 1st Street | Greenville | NC | 27858 | 94,676.00
City of Winston-Salem/BC-PSH | 100 East First Street, Suite 423 | Winston-Salem | NC | 27101 | 96,903.00
Family Endeavors, Inc./Family Endeavors Bonanza Renewal FY2017 | 535 Bandera Road | San Antonio | NC | 78228 | 97,272.00
City of Winston-Salem/FAST (Families Accessing Support Team) Housing | 100 East First Street, Suite 423 | Winston-Salem | NC | 27101 | 99,640.00
Mecklenburg County/SPC Permanent Housing Bonus D-17 | 700 N. Tryon St | Charlotte | NC | 28202 | 99,968.00
City of Winston-Salem/Homeless Management Information System 2 | 100 East First Street, Suite 423 | Winston-Salem | NC | 27101 | 101,842.00
Inter-Faith Council for Social Service, Inc./IFC PSH 2017 Expan. Reallocation | 110 West Main Street | Carrboro | NC | 27510 | 102,945.00
Wake County Continuum of Care, Inc. DBA The Partnership to End and Prevent Homelessness/2017 Wake NC 507 Planning Grant | Wake County Government—Wake County Housing & Community Revitalization Division, 336 Fayetteville Street, 4th Floor | Raleigh | NC | 27602 | 104,555.00
Cape Fear Housing for Independent Living, Inc./Kathryn Leigh | 1606 Wellington Ave., Unit C | Wilmington | NC | 28401 | 105,769.00
Mecklenburg County/SPC Samaritan Bonus Renewal C-17 | 700 N. Tryon St | Charlotte | NC | 28202 | 109,670.00
First Fruit Ministries/Wilmington Dream Center: Transitional Housing | 2750 Vance Street | Wilmington | NC | 28412 | 112,116.00
Surry Homeless and Affordable Housing Coalition/SHAHC PH Renewal 2017 | 1325 West Pine St., Suite 205 | Mt. Airy | NC | 27030 | 112,845.00
Trillium Health Resources/Trillium PSH #2 | 201 West 1st Street | Greenville | NC | 27858 | 114,299.00
The Housing Authority of The City of Durham/HOME AGAIN | 330 East Main Street, P.O. Box 1726 | Durham | NC | 27701 | 115,689.00
PLM Families Together/Families Together Housing First | 908 Plainview Drive, Suite 101 | Raleigh | NC | 27610 | 117,164.00
Open Door Ministries of High Point, Inc./Permanent Supportive Housing | 400 N. Centennial St | High Point | NC | 27262 | 118,921.00
Youth Focus Inc./HEARTH: Hope, Empowerment and Resilience Through Housing | 405 Parkway, Suite A | Greensboro | NC | 27401 | 119,200.00
Cardinal Innovations Healthcare/Chatham Person 1 Renewal 2016 | 550 Caldwell Street | Charlotte | NC | 28202 | 124,521.00
City of Charlotte/NC505 Planning Project FY2017 | 600 E. Trade Street | Charlotte | NC | 28202 | 127,124.00
Mecklenburg County/SPC Samaritan Renewal B-17 | 700 N. Tryon St | Charlotte | NC | 28202 | 131,712.00
Cumberland Interfaith Hospitality Network/LC Renewal 2017 | 113 Stein St | Fayetteville | NC | 28303 | 136,428.00
City of Winston-Salem/CPHS SPC | 100 East First Street, Suite 423 | Winston-Salem | NC | 27101 | 136,765.00
Eastpointe/Eastpointe Shelter Plus Care Southeast—Renewal 2017 | 500 Nash Medical Arts Mall | Rocky Mount | NC | 27804 | 143,854.00
Wake County Human Services/9-20-18 to 9-1919 Rental Assistance 2010 Renewal (NC0209C4F071000) | WCOB—Housing Division, Room 448, 337 S. Salisbury Street | Raleigh | NC | 27601 | 144,072.00
Supportive Housing Communities/Scattered Site I | 2120 N Davidson St | Charlotte | NC | 28205 | 145,548.00
Charlotte Center for Urban Ministry, Inc/Homeless to Homes Expansion | 2435 Lucena Street | Charlotte | NC | 28206 | 147,724.00
Housing for New Hope, Inc./Streets to Home II | 18 West Colony Place, Suite 250 | Durham | NC | 27705 | 149,661.00
Housing Authority of the City of Wilmington/Hopewood Apartments | 1524 S. 16th Street | Wilmington | NC | 28401 | 149,989.00
Wake County Human Services/SWSC Rental Assistance 2016 Renewal for 2017 (NC0369L4F071600) | WCOB—Housing Division, Room 448, 337 S. Salisbury Street | Raleigh | NC | 27601 | 150,032.00
Supportive Housing Communities/Scattered Site III | 2120 N Davidson St | Charlotte | NC | 28205 | 150,738.00
North Carolina Coalition to End Homelessness/2017 BoS Coordinated Assessment SSO | 310 N. Harrington St | Raleigh | NC | 27603 | 159,767.00
Homeward Bound of Western North Carolina, Inc./Permanent Supportive Housing Extreme Needs 5 | 218 Patton Avenue | Asheville | NC | 28801 | 161,269.00
Eastpointe/Eastpointe Shelter Plus Care -Combined -Renewal 2017 | 500 Nash Medical Arts Mall | Rocky Mount | NC | 27804 | 162,203.00
Alliance Behavioral Healthcare/Dash | 4600 Emperor Blvd | Durham | NC | 27703 | 164,632.00
Housing for New Hope, Inc./Rapid Rehousing III | 18 West Colony Place, Suite 250 | Durham | NC | 27705 | 168,244.00
Cardinal Innovations Healthcare/PBH 2011 Shelter Plus Care Program | 550 South Caldwell Street, Suite 1500 | Charlotte | NC | 28202 | 178,579.00
CASA (formerly Community Alternatives for Supportive Abodes)/Mckinney Team | 624 West Jones St | Raleigh | NC | 27603 | 189,343.00
Homeward Bound of Western North Carolina, Inc./Pathways to Permanent Housing Henderson County | 218 Patton Avenue | Asheville | NC | 28801 | 192,259.00
Rockingham County Help for Homeless, Inc./RCHH Rapid Re-Housing Renewal Grant 2017 | 108 N Franklin Street, P.O. Box 406 | Madison | NC | 27025 | 193,334.00
Urban Ministries of Durham/UMD Fresh Start Durham CoC Renewal Project Application FY2017 | 410 Liberty Street | Durham | NC | 27701 | 201,791.00
Cumberland Interfaith Hospitality Network/ASHTON WOODS 2017 | 113 Stein St | Fayetteville | NC | 28303 | 212,268.00
Passage Home, INC/Ruth House II FY2017 | P.O. Box 28165 | Raleigh | NC | 27611 | 217,659.00
Housing for New Hope, Inc./Streets to Home I | 18 West Colony Place, Suite 250 | Durham | NC | 27705 | 217,736.00
Passage Home, INC/Essential Services Rapid Rehousing -2017 | P.O. Box 28165 | Raleigh | NC | 27611 | 226,558.00
Homeward Bound of Western North Carolina, Inc./Permanent Supportive Housing Extreme Needs | 218 Patton Avenue | Asheville | NC | 28801 | 232,027.00
Eastpointe/Eastpointe Shelter Plus Care 3—Renewal 2017 | 500 Nash Medical Arts Mall | Rocky Mount | NC | 27804 | 236,187.00
Rockingham County Help for Homeless, Inc./RCHH Permanent Supportive Housing Renewal Grant 2017 | 108 N Franklin Street, P.O. Box 406 | Madison | NC | 27025 | 243,202.00
Partners Behavioral Health Management/Partners Consolidated Renewal 2017 | 901 South New Hope Rd | Gastonia | NC | 28054 | 245,315.00
Community Link, Programs of Travelers Aid/Community Link-PRC—Permanent Supportive Housing-Renewal-2017 | 601 E. 5th Street, Suite 220 | Charlotte | NC | 28202 | 250,109.00
The New Reidsville Housing Authority/2017 Reidsville HA Renewal for 2018-2019 | 924 Third Avenue | Reidsville | NC | 27320 | 257,759.00
The Salvation Army/TSA Family Rapid Rehousing | 4335 Stuart Andrew Blvd | Charlotte | NC | 28217 | 263,972.00
Cardinal Innovations Healthcare/AC 1 Renewal 2016 | 550 Caldwell Street | Charlotte | NC | 28202 | 288,094.00
The Salvation Army/SAGSO HOME | 1311 South Eugene St | Greensboro | NC | 27406 | 288,317.00
Housing Authority of City of Greenville/Seeds of Change Renewal 2017 | 1103 Broad Street, P.O. Box 1426 | Greenville | NC | 27834 | 307,464.00
Homeward Bound of Western North Carolina, Inc./Bridge to Recovery | 218 Patton Avenue | Asheville | NC | 28801 | 311,103.00
Community Link, Programs of Travelers Aid/Community Link -PRC—Rapid Rehousing-Renewal-2017 | 601 E. 5th Street, Suite 220 | Charlotte | NC | 28202 | 325,345.00
North Carolina Coalition to End Homelessness/NC-503 CoC Planning Application 2017 | 310 N. Harrington St | Raleigh | NC | 27603 | 327,384.00
Homeward Bound of Western North Carolina, Inc./Shelter Plus Care Asheville/Buncombe | 218 Patton Avenue | Asheville | NC | 28801 | 342,286.00
Cardinal Innovations Healthcare/PSH Concern of Durham Renewal 2017 | 550 Caldwell Street | Charlotte | NC | 28202 | 354,747.00
Vaya Health/Vaya Health PSH Western Combo | 200 Ridgefield Court, Suite 210 | Asheville | NC | 28806 | 375,842.00
City of Winston-Salem/Shelter Plus Care 1 (2001) | 100 East First Street, Suite 423 | Winston-Salem | NC | 27101 | 391,684.00
Vaya Health/Vaya Health PSH Central Combo | 200 Ridgefield Court, Suite 210 | Asheville | NC | 28806 | 410,140.00
Community Link, Programs of Travelers Aid/Community Link- Meck—Rapid Rehousing-Renewal-2017 | 601 E. 5th Street, Suite 220 | Charlotte | NC | 28202 | 422,331.00
Housing Authority of City of Greenville/Project Hope Renewal 2017 | 1103 Broad Street, P.O. Box 1426 | Greenville | NC | 27834 | 445,952.00
Greensboro Housing Authority/Sheltering the Homeless | 450 N. Church Street | Greensboro | NC | 27401 | 486,348.00
Partners Behavioral Health Management LME/FY 2017 CoCRA | 901 South New Hope Road | Gastonia | NC | 28054 | 496,317.00
Greensboro Housing Authority/Housing Opportunities | 450 N. Church Street | Greensboro | NC | 27401 | 519,113.00
North Carolina Coalition to End Homelessness/2017 HMIS Renewal-Balance of State | 310 N. Harrington St | Raleigh | NC | 27603 | 519,299.00
Cardinal Innovations Healthcare/PBH 2012 Renewal PSH FY 2016 | 550 South Caldwell Street, Suite 1500 | Charlotte | NC | 28202 | 679,976.00
City of Winston-Salem/ESR-PH Case Management | 100 East First Street, Suite 423 | Winston-Salem | NC | 27101 | 742,188.00
Trillium Health Resources/Trillium PSH #1 | 201 West 1st Street | Greenville | NC | 27858 | 783,067.00
Cardinal Innovations Healthcare/Kerr Tar Renewal 2016 | 550 Caldwell Street | Charlotte | NC | 28202 | 935,916.00
Wake County Human Services/2-1-2018 to 1-31-2019 Rental Assistance Merged Renewal (NC0090L4071609) | WCOB—Housing Division, Room 448, 337 S. Salisbury Street | Raleigh | NC | 27601 | 1,823,200.00
Mecklenburg County/SPC Renewal A-17 | 700 N. Tryon St | Charlotte | NC | 28202 | 1,888,611.00
Abused Adult Resource Center/Permanent Supportive Housing Renewal FY2017 | P.O. Box 5003 | Bismarck | ND | 58502 | 4,845.00
St. Joseph's Social Care and Thrift Store/Comeau Transtional Housing | 620 8th Ave. South | Grand Forks | ND | 58201 | 14,000.00
Women's Alliance, Inc. DBA: Domestic Violence and Rape Crisi/SW ND Supportive Housing Project | 10 8th Street West | Dickinson | ND | 58601 | 36,500.00
YWCA Cass Clay/YWCA Cass Clay SHP (Two) | 3100 12th Ave N | Fargo | ND | 58102 | 38,882.00
North Dakota Coalition for Homeless People, Inc./Planning Project 2017 | 1684 Capitol Way | Bismarck | ND | 58501 | 55,044.00
Fargo Housing and Redevelopment Authority/Cooper House SHP 2017 | 325 Broadway, P.O. Box 430 | Fargo | ND | 58102 | 57,700.00
North Dakota Coalition for Homeless People, Inc./HMIS 2017 | 1684 Capitol Way | Bismarck | ND | 58501 | 74,072.00
Abused Adult Resource Center/SHP Transitional Housing Renewal FY2017 | P.O. Box 5003 | Bismarck | ND | 58502 | 77,500.00
Fargo Housing and Redevelopment Authority/FHRA SRO SHP 2017 | 325 Broadway, P.O. Box 430 | Fargo | ND | 58102 | 85,238.00
Prairie Harvest Mental Health/Prairie Harvest Mental Health Supportive Housing Program | 930 3rd Street North | Grand Forks | ND | 58203 | 89,727.00
YWCA Cass Clay/YWCA Cass Clay SHP (One) | 3100 12th Ave N | Fargo | ND | 58102 | 92,324.00
Community Violence Intervention Center Inc./CVIC Hope Transitional Housing | 211 S. 4th St | Grand Forks | ND | 58201 | 92,500.00
Mountain Plains Youth Services Coalition, Inc./Youthworks Joint PH-RRH and TH | 217 West Rosser Avenue | Bismarck | ND | 58501 | 96,228.00
Fraser, Ltd./Fraser, Ltd. Permanent Supportive Housing | 2902 University Dr S | Fargo | ND | 58103 | 123,615.00
North Dakota Department of Commerce/Renewal Project Application FY2017 | 1600 East Century Avenue, Ste. 2, P.O. Box 2057 | Bismarck | ND | 58502 | 189,912.00
YWCA Cass Clay/YWCA Cass Clay TH | 3100 12th Ave N | Fargo | ND | 58102 | 215,500.00
Burleigh County Housing Authority/BCHA Shelter Plus Care Vouchers 2017 | 410 S. 2nd St | Bismarck | ND | 58504 | 219,104.00
Fargo Housing and Redevelopment Authority/FHRA Rental Assistance SHP 2017 | 325 Broadway, P.O. Box 430 | Fargo | ND | 58102 | 240,276.00
Community Action Partnership of Western Nebraska/Supportive Housing Program FY2017 Renewal | 3350 10th Street | Gering | NE | 69341 | 32,488.00
Board of Regents, University of Nebraska-Lincoln/FY2017 Lincoln Coordinated Entry | 151 Whittier Research Center, 2200 Vine Street | Lincoln | NE | 68583 | 34,793.00
City of Lincoln/S+C for Chronically Homeless FY2017 | 555 So 10th St | Lincoln | NE | 68506 | 37,617.00
Blue Valley Community Action, Inc./Project FIRST RRH 2017 | 620 5th Street, P.O. Box 273 | Fairbury | NE | 68352 | 42,794.00
Cirrus House, Inc/TAP CoC FY 2017 | 1509 1st Ave | Scottsbluff | NE | 69361 | 46,433.00
Community Action Partnership of Western Nebraska/STEP SHP FY2017 | 3350 10th Street | Gering | NE | 69341 | 47,646.00
Heartland Family Service/Safe Haven | 2101 S 42nd St | Omaha | NE | 68105 | 58,975.00
CenterPointe, Inc/Veteran's Permanent Housing Project | 2633 P Street | Lincoln | NE | 68503 | 59,258.00
Siena/Francis House/The Siena Apartments | 1702 Nicholas Street | Omaha | NE | 68102 | 63,317.00
City of Lincoln/NE-502 Planning Application FY 2017 | 555 So 10th St | Lincoln | NE | 68506 | 65,759.00
Board of Regents, University of Nebraska-Lincoln/FY2017 NE BOS Coordinated Entry | 151 Whittier Research Center, 2200 Vine Street | Lincoln | NE | 68583 | 71,632.00
Board of Regents, University of Nebraska-Lincoln/FY2017 NE BOS Planning | 151 Whittier Research Center, 2200 Vine Street | Lincoln | NE | 68583 | 72,487.00
City of Lincoln/Outreach Housing Project FY2017 | 555 So 10th St | Lincoln | NE | 68506 | 78,367.00
Together Inc of Metropolitan Omaha/Horizons Program—Rehousing Expansion | 812 S 24th Street | Omaha | NE | 68108 | 79,917.00
New Visions Homeless Services/David House | 1435 N 15th Street | Council Bluffs | NE | 51501 | 81,897.00
Community Action Partnership of Mid-Nebraska/Residential Assistance to Families in Transition, Inc. | 16 West 11th Street, P.O. Box 2288 | Kearney | NE | 68848 | 90,717.00
Board of Regents, University of Nebraska-Lincoln/FY2017 Lincoln HMIS | 151 Whittier Research Center, 2200 Vine Street | Lincoln | NE | 68583 | 93,039.00
CenterPointe, Inc/Transitions | 2633 P Street | Lincoln | NE | 68503 | 93,560.00
Care Corps, Inc./PSH Renewal Application FY 2017 | 723 N. Broad St | Fremont | NE | 68025 | 103,538.00
New Visions Homeless Services/Timothy House | 1435 N 15th Street | Council Bluffs | NE | 51501 | 103,890.00
CenterPointe, Inc/Transitions Two | 2633 P Street | Lincoln | NE | 68503 | 107,188.00
CEDARS Youth Services/New Futures Supportive Housing Program | 6601 Pioneers Boulevard, Suite 1 | Lincoln | NE | 68506 | 110,609.00
Friendship Home of Lincoln, Inc./Safe at Home | P.O. Box 85358 | Lincoln | NE | 68501 | 111,922.00
Community Action Partnership of Western Nebraska/Panhandle Permanent Supportive Housing Program FY2017 | 3350 10th Street | Gering | NE | 69341 | 115,903.00
Together Inc of Metropolitan Omaha/Horizons Program (Formerly First Stop Program) | 812 S 24th Street | Omaha | NE | 68108 | 117,496.00
Care Corps, Inc./Care Corps TH Renewal 2017 | 723 N. Broad St | Fremont | NE | 68025 | 122,067.00
Metro Area Contiuum of Care for the Homeless/MACCH CoC Planning Project FY2017 | University of Nebraska-Omaha, 6001 Dodge Street/Community Engagement Center, Suite 117 | Omaha | NE | 68182 | 123,283.00
The Salvation Army/HOME Program | 10755 Burt St., N/A | Omaha | NE | 68114 | 155,648.00
Blue Valley Community Action, Inc./Project FIRST 2017 | 620 5th Street, P.O. Box 273 | Fairbury | NE | 68352 | 162,972.00
Central Nebraska Community Action Partnership/Vets RRH 2017 | 626 N Street | Loup City | NE | 68853 | 163,220.00
Board of Regents, University of Nebraska-Lincoln/FY2017 NE BOS HMIS | 151 Whittier Research Center, 2200 Vine Street | Lincoln | NE | 68583 | 173,806.00
Heartland Family Service/Heartland Housing Passages | 2101 S 42nd St | Omaha | NE | 68105 | 179,002.00
Institute for Community Alliances/Omaha Metro Area Continuum HMIS 2017 | 1111 9th Street, Suite 245 | Des Moines | NE | 50314 | 179,660.00
City of Omaha/CoC Rental Assistance | 1819 Farnam | Omaha | NE | 68183 | 199,885.00
Matt Talbot Kitchen & Outreach Inc./First HOPE (Housing Opportunities & Prevention Efforts) | 2121 North 27th Street, P.O. Box 80935 | Lincoln | NE | 68501 | 207,080.00
CenterPointe, Inc/Permanent Housing Project | 2633 P Street | Lincoln | NE | 68503 | 229,450.00
CenterPointe, Inc/Glide PATH | 2633 P Street | Lincoln | NE | 68503 | 245,247.00
The Salvation Army/You're HOME | 10755 Burt St., N/A | Omaha | NE | 68114 | 250,139.00
Heartland Family Service/Samaritan Housing Program Expansion | 2101 S 42nd St | Omaha | NE | 68105 | 257,513.00
Heartland Family Service/Heartland Housing Beginnings | 2101 S 42nd St | Omaha | NE | 68105 | 266,195.00
Heartland Family Service/Heartland Homes | 2101 S 42nd St | Omaha | NE | 68105 | 280,734.00
Region V Systems/Rural Permanent Housing Program | 1645 N Street | Lincoln | NE | 68508 | 321,112.00
CenterPointe, Inc/Adult Residential | 2633 P Street | Lincoln | NE | 68503 | 369,402.00
The Salvation Army/HOME 2 Stay | 10755 Burt St., N/A | Omaha | NE | 68114 | 370,177.00
Heartland Family Service/Pottawattamie County Homeless Link | 2101 S 42nd St | Omaha | NE | 68105 | 371,300.00
Heartland Family Service/Samaritan Housing Program | 2101 S 42nd St | Omaha | NE | 68105 | 418,498.00
Heartland Family Service/Heartland Housing Solutions | 2101 S 42nd St | Omaha | NE | 68105 | 453,961.00
Community Action Partnership of Lancaster & Saunders Countie/Supportive Housing Program | 210 O Street | Lincoln | NE | 68508 | 478,609.00
Central Nebraska Community Action Partnership/THRIVES 2017 | 626 N Street | Loup City | NE | 68853 | 495,406.00
Heartland Family Service/Heartland Housing Opportunities | 2101 S 42nd St | Omaha | NE | 68105 | 655,297.00
State of New Hampshire/HMIS—Nashua | 129 Pleasant St | Concord | NH | 03301 | 12,778.00
Harbor Homes, Inc./Permanent Housing 11 | 77 Northeastern Blvd | Nashua | NH | 03062 | 13,934.00
Harbor Homes, Inc./Permanent Housing 9 | 77 Northeastern Blvd | Nashua | NH | 03062 | 14,792.00
Harbor Homes, Inc./Permanent Housing 8 | 77 Northeastern Blvd | Nashua | NH | 03062 | 14,796.00
Harbor Homes, Inc./Permanent Housing 10 | 77 Northeastern Blvd | Nashua | NH | 03062 | 14,929.00
State of New Hampshire/Springbrook Condominium Project | 129 Pleasant Street | Concord | NH | 03301 | 15,523.00
Families in Transition/Permanent Housing Program VIII | 122 Market Street | Manchester | NH | 03101 | 24,161.00
Community Council of Nashua, NH/A Place to Live | 7 Prospect Street | Nashua | NH | 03060 | 30,665.00
Harbor Homes, Inc./Permanent Housing 12 | 77 Northeastern Blvd | Nashua | NH | 03062 | 36,761.00
Harbor Homes, Inc./Permanent Housing 13 | 77 Northeastern Blvd | Nashua | NH | 03062 | 37,263.00
The Way Home, Inc/Your Way Home II | 214 Spruce Street | Manchester | NH | 03103 | 38,734.00
State of New Hampshire/Genesis Behavioral Health-Summer Street Project | 129 Pleasant Street | Concord | NH | 03301 | 42,013.00
State of New Hampshire/Tideview Condos: Permanent Housing for Persons with Disabilities | 129 Pleasant Street | Concord | NH | 03301 | 42,050.00
Families in Transition/Millyard Transitional Housing Program Phase II | 122 Market Street | Manchester | NH | 03101 | 44,621.00
Families in Transition/NH-501 CoC Planning Application FY2017 | 122 Market Street | Manchester | NH | 03101 | 44,995.00
Harbor Homes, Inc./Permanent Housing 18 | 77 Northeastern Blvd | Nashua | NH | 03062 | 46,586.00
The Way Home, Inc/Your Way Home III | 214 Spruce Street | Manchester | NH | 03103 | 51,018.00
Families in Transition/Amherst Street Transitional Housing Program | 122 Market Street | Manchester | NH | 03101 | 51,052.00
The Way Home, Inc/Your Way Home V | 214 Spruce Street | Manchester | NH | 03103 | 52,427.00
Families in Transition/Manchester Permanent Housing Program IV | 122 Market Street | Manchester | NH | 03101 | 53,417.00
State of New Hampshire/Homeless Management Information System—Manchester | 129 Pleasant Street | Concord | NH | 03301 | 53,583.00
Families in Transition/Permanent Housing Program V | 122 Market Street | Manchester | NH | 03101 | 54,115.00
The Way Home, Inc/Your Way Home I | 214 Spruce Street | Manchester | NH | 03103 | 54,229.00
Harbor Homes, Inc./GNCOC Planning Project FY2017 | 77 Northeastern Blvd | Nashua | NH | 03062 | 54,438.00
Harbor Homes, Inc./Permanent Housing 14 | 77 Northeastern Blvd | Nashua | NH | 03062 | 58,875.00
Harbor Homes, Inc./Permanent Housing 6 | 77 Northeastern Blvd | Nashua | NH | 03062 | 63,246.00
The Way Home, Inc/TWH-RRH | 214 Spruce Street | Manchester | NH | 03103 | 64,404.00
State of New Hampshire/Families in Transition Permanent Housing Program—Concord | 129 Pleasant Street | Concord | NH | 03301 | 70,343.00
State of New Hampshire/Central Street PHP | 129 Pleasant Street | Concord | NH | 03301 | 70,948.00
State of New Hampshire/Permanent Housing Program VI (FIT) | 129 Pleasant Street | Concord | NH | 03301 | 73,614.00
Harbor Homes, Inc./Permanent Housing 17 | 77 Northeastern Blvd | Nashua | NH | 03062 | 74,654.00
Harbor Homes, Inc./Somerville Street Permanent Housing | 77 Northeastern Blvd | Nashua | NH | 03062 | 77,301.00
State of New Hampshire/CLM Shelter Plus Care II | 129 Pleasant Street | Concord | NH | 03301 | 77,425.00
State of New Hampshire/Homeless Management Information System—Balance of State | 129 Pleasant Street | Concord | NH | 03301 | 77,996.00
State of New Hampshire/SCS Permanent Housing Project | 129 Pleasant Street | Concord | NH | 03301 | 84,752.00
State of New Hampshire/Next Steps Permanent Housing Program | 129 Pleasant Street | Concord | NH | 03301 | 88,819.00
State of New Hampshire/CRH/CCEH Permanent Supportive Housing Expansion | 129 Pleasant Street | Concord | NH | 03301 | 91,370.00
State of New Hampshire/FIT Concord Community Leasing II | 129 Pleasant Street | Concord | NH | 03301 | 99,002.00
State of New Hampshire/McGrath Street Permanent Housing | 129 Pleasant Street | Concord | NH | 03301 | 99,862.00
Child and Family Services/Pine Street Transitional Living Program | P.O. Box 448 | Manchester | NH | 03105 | 102,605.00
State of New Hampshire/FIT: Dover Permanent Housing | 129 Pleasant Street | Concord | NH | 03301 | 104,856.00
State of New Hampshire/Families in Transition Concord Community Permanent Housing Program | 129 Pleasant Street | Concord | NH | 03301 | 105,244.00
State of New Hampshire/BoSCoC Planning Project | 129 Pleasant Street | Concord | NH | 03301 | 108,754.00
Families in Transition/Millyard Transitional Housing Program | 122 Market Street | Manchester | NH | 03101 | 112,869.00
State of New Hampshire/SCS Rapid Re-Housing Program | 129 Pleasant Street | Concord | NH | 03301 | 114,054.00
The Way Home, Inc/Your Way Home VII | 214 Spruce Street | Manchester | NH | 03103 | 115,829.00
Harbor Homes, Inc./Permanent Housing 4 | 77 Northeastern Blvd | Nashua | NH | 03062 | 116,153.00
State of New Hampshire/Sullivan County Fresh Steps PH Program | 129 Pleasant Street | Concord | NH | 03301 | 117,520.00
Northern Human Services/Gilpin House | 29 Maple Street, P.O. Box 599 | Littleton | NH | 03561 | 129,535.00
State of New Hampshire/Home at Last | 129 Pleasant Street | Concord | NH | 03301 | 171,729.00
State of New Hampshire/BMCAP RRH Program | 129 Pleasant Street | Concord | NH | 03301 | 172,972.00
State of New Hampshire/HHI: BOS PSH I | 129 Pleasant Street | Concord | NH | 03301 | 176,725.00
Harbor Homes, Inc./Permanent Housing 5 | 77 Northeastern Blvd | Nashua | NH | 03062 | 188,688.00
Families in Transition/Permanent Housing Program IX | 122 Market Street | Manchester | NH | 03101 | 202,620.00
Families in Transition/Family Mill Permanent Housing Program | 122 Market Street | Manchester | NH | 03101 | 206,448.00
State of New Hampshire/Permanent Housing 2 | 129 Pleasant St | Concord | NH | 03301 | 213,326.00
State of New Hampshire/CLM FAMILY HOUSING I | 129 Pleasant Street | Concord | NH | 03301 | 267,865.00
State of New Hampshire/SCS Shelter Plus Care | 129 Pleasant Street | Concord | NH | 03301 | 274,024.00
State of New Hampshire/CRH/CCEH Permanent Supportive Housing | 129 Pleasant Street | Concord | NH | 03301 | 290,499.00
State of New Hampshire/CLM PH I | 129 Pleasant Street | Concord | NH | 03301 | 302,427.00
State of New Hampshire/CLM Shelter Plus Care | 129 Pleasant Street | Concord | NH | 03301 | 312,540.00
State of New Hampshire/NH Coordinated Entry | 129 Pleasant Street | Concord | NH | 03301 | 351,403.00
Harbor Homes, Inc./Permanent Housing 3 | 77 Northeastern Blvd | Nashua | NH | 03062 | 923,728.00
Salem County Inter Agency Council of Human Services/CoC Planning FY2017 | 98 Market Street, 2nd Floor | Salem | NJ | 08079 | 5,549.00
New Jersey Housing and Mortgage Finance Agency/Tri County HMIS FY 2017 | 637 South Clinton Avenue | Trenton | NJ | 08650 | 7,457.00
EASTER SEALS NEW JERSEY/ESNJ Warren HUD 2017 | 25 Kennedy Blvd., Suite 600 | East Brunswick | NJ | 08816 | 8,456.00
Community Planning and Advocacy Council/HNPC Housing Outreach | 2500 McClellan Avenue, Suite 110 | Pennsauken | NJ | 08109 | 8,879.00
Somerset County, NJ/2017 Somerset CoC Planning Grant | 20 Grove Street | Somerville | NJ | 08876 | 12,140.00
City of Trenton/Housing First-Trenton/Mercer 10 | 319 East State Street | Trenton | NJ | 08608 | 14,077.00
Collaborative Support Programs of New Jersey/Ocean Leasing 2009 CSPNJ | 11 Spring Street | Freehold | NJ | 07728 | 14,634.00
Northwest NJ Community Action Program/Warren County Leasing 2010 | 350 Marshall Street | Phillipsburg | NJ | 08865 | 14,792.00
Center For Hope And Safety (formerly Shelter Our Sisters)/E1 Renewal 2017 for FY2019 | 12 Overlook Avenue | Rochelle Park | NJ | 07662 | 15,801.00
New Jersey Housing and Mortgage Finance Agency/Atlantic County HMIS FY 2017 | 637 South Clinton Avenue | Trenton | NJ | 08650 | 17,000.00
Atlantic County Government/FY2017 CoC Planning Grant | 1333 Atlantic Ave | Atlantic City | NJ | 08401 | 18,070.00
Alternatives, Inc./Permanent Supportive Housing IV | 600 First Avenue | Raritan | NJ | 08869 | 19,020.00
Alternatives, Inc./Somerset County Rapid Rehousing | 600 First Avenue | Raritan | NJ | 08869 | 19,773.00
New Jersey Housing and Mortgage Finance Agency/Mercer HMIS FY 2017 | 637 South Clinton Avenue | Trenton | NJ | 08650 | 19,970.00
Covenant House New Jersey, Inc/AC Mothers and Babies | 330 Washington Street | Newark | NJ | 07102 | 22,217.00
Center For Hope And Safety (formerly Shelter Our Sisters)/B2T Renewal 2017 for FY2019 | 12 Overlook Avenue | Rochelle Park | NJ | 07662 | 23,020.00
Collaborative Support Programs of New Jersey/Ocean County Jay St. S+C | 11 Spring Street | Freehold | NJ | 07728 | 23,162.00
HABcore, Inc./HABcore Capstan II Expansion FY17 | P.O. Box 2361 | Red Bank | NJ | 07701 | 24,512.00
Covenant House New Jersey, Inc/Atlantic City Youth Housing Project | 330 Washington Street | Newark | NJ | 07102 | 25,824.00
Elizabeth/Union County CoC/Community Access Institute Colonial/Morse 2017 | 10 Elizabethtown Plaza, Administration Building | Elizabeth | NJ | 07207 | 26,906.00
Housing Authority of the Township of Edison/Moving beyond abuse II | 14 Rev. Samuel Carpenter Boulevard | Edison | NJ | 08820 | 27,009.00
Housing Authority of the Township of Edison/Women Aware S+C 2010 | 14 Rev. Samuel Carpenter Boulevard | Edison | NJ | 08820 | 27,009.00
Elizabeth/Union County CoC/Bridgeway Supportive Housing 2017 | 10 Elizabethtown Plaza, Administration Building | Elizabeth | NJ | 07207 | 27,235.00
HABcore, Inc./HABcore Ocean Leasing AP14 OC—FY17 | P.O. Box 2361 | Red Bank | NJ | 07701 | 27,950.00
Center For Family Services,Inc./CFS Victims of Domestic Violence | 584 Benson Street | Camden | NJ | 08103 | 28,704.00
City of Trenton/Permanent Supportive Housing for Chronically Homeless Women | 319 East State Street | Trenton | NJ | 08608 | 29,888.00
Housing Authority of the Township of Edison/Triple C Housing First phase 2 | 14 Rev. Samuel Carpenter Boulevard | Edison | NJ | 08820 | 30,019.00
Center For Family Services, Inc./CFS Victims of DV Cumberland SHP | 584 Benson Street | Camden | NJ | 08103 | 33,785.00
United Way of Hudson County/Live United | 857 Bergen Avenue | Jersey City | NJ | 07306 | 34,921.00
Housing Authority of the Township of Edison/Triple C Housing First Leasing 2010 | 14 Rev. Samuel Carpenter Boulevard | Edison | NJ | 08820 | 34,974.00
NJ DEPARTMENT OF COMMUNITY AFFAIRS/3AQ CoC Renewal 2017 | 101 S. BROAD STREET, 5th Floor | TRENTON | NJ | 08625 | 35,493.00
County of Warren/FY 2017 CoC Planning Project | 1 Shotwell Drive | Belvidere | NJ | 07823 | 35,673.00
Ending Homelessness Group/Ocean HPAC Coordinated Exit Expansion | 29 Alden Street, Suite 1B | Cranford | NJ | 07016 | 35,682.00
HABcore, Inc./HABcore Capstan II FY17 | P.O. Box 2361 | Red Bank | NJ | 07701 | 36,141.00
Coming Home of Middlesex County, Inc./Coordinated Assessment II | MC Admin Building, 75 Bayard St, 2nd floor | New Brunswick | NJ | 08901 | 37,070.00
County of Monmouth/Ray of Light 1 | 3000 Kozloski Road, P.O. Box 3000 | Freehold | NJ | 07728 | 38,137.00
Ending Homelessness Group/2017 CoC Planning Grant | 29 Alden Street, Suite 1B | Cranford | NJ | 07016 | 38,276.00
Advance Housing, Inc./Demarest Farms Service and Operating Program | 100 Hollister Road, Suite 7 | Teterboro | NJ | 07608 | 38,601.00
Coming Home of Middlesex County, Inc./Middlesex County Coordinated Assessment | MC Admin Building, 75 Bayard St, 2nd floor | New Brunswick | NJ | 08901 | 40,000.00
Collaborative Support Programs of New Jersey/Essex County St Clare's | 11 Spring Street | Freehold | NJ | 07728 | 40,804.00
NJ DEPARTMENT OF COMMUNITY AFFAIRS/3AR CoC Renewal 2017 | 101 S. BROAD STREET, 5th Floor | TRENTON | NJ | 08625 | 40,806.00
HABcore, Inc./HABcore Monmouth Leasing AP17a—FY17 | P.O. Box 2361 | Red Bank | NJ | 07701 | 41,120.00
Career Opportunity Development/Permanent Supportive Housing | 901 Atlantic Avenue | Egg Harbor | NJ | 08215 | 43,366.00
Isaiah House, Inc./SHP for Disabled Single Women | 238 North Munn Ave | East Orange | NJ | 07017 | 45,295.00
City of Trenton/Housing First—Samaritan Trenton/Mercer 10 | 319 East State Street | Trenton | NJ | 08608 | 45,819.00
Vantage Health System, Inc./Links 2017 | 2 Park Avenue | Dumont | NJ | 07628 | 47,077.00
EASTER SEALS NEW JERSEY/ESNJ Essex HUD 1 2017 | 25 Kennedy Blvd., Suite 600 | East Brunswick | NJ | 08816 | 47,339.00
New Jersey Housing and Mortgage Finance Agency/Passaic HMIS FY 2017 | 637 South Clinton Avenue | Trenton | NJ | 08650 | 47,667.00
County of Monmouth/Ray of Light 2 | 3000 Kozloski Road, P.O. Box 3000 | Freehold | NJ | 07728 | 48,697.00
Mental Health Association of Essex and Morris, Inc./Step Off The Street Outreach | 100 Route 46 East, Building C | Mountain Lakes | NJ | 07046 | 48,842.00
Volunteers Of America Delaware Valley Inc/Moving Forward—Somerset County | 235 White Horse Pike | Collingswood | NJ | 08107 | 48,971.00
Family Promise of Morris County/Morris Leasing 2017 Renewal | 3 Executive Dr | Moris Plains | NJ | 07950 | 49,432.00
New Jersey Housing and Mortgage Finance Agency/Southern New Jersey HMIS FY 2017 | 637 South Clinton Avenue | Trenton | NJ | 08650 | 50,192.00
First Call for Help dba NJ 211 Partnership/Single Point of Entry | 114 Algonquin Parkway | Whippany | NJ | 07936 | 50,411.00
Collaborative Support Programs of New Jersey/Cumberland County Shelter Plus Care | 11 Spring Street | Freehold | NJ | 07728 | 50,661.00
First Call for Help dba NJ 211 Partnership/No Wrong Door | 114 Algonquin Parkway | Whippany | NJ | 07936 | 51,020.00
County of Morris/2017 Morris CoC Planning Grant | 30 Schuyler Place | Morristown | NJ | 07963 | 51,882.00
Center For Family Services,Inc./Tanyard Oaks 1 & 2 | 584 Benson Street | Camden | NJ | 08103 | 52,308.00
Cape May County/2008 Shelter + Care Project | 4 Moore Road | Cape May Court House | NJ | 08210 | 52,580.00
HABcore, Inc./HABcore Monmouth Leasing Expansion—FY17 | P.O. Box 2361 | Red Bank | NJ | 07701 | 52,822.00
Jewish Family Service of Atlantic County/Coordinated Entry & Assessment | 607 N. Jerome Ave | Margate City | NJ | 08402 | 54,388.00
Covenant House New Jersey, Inc/Youth Housing Project | 330 Washington Street | Newark | NJ | 07102 | 54,873.00
180 Turning Lives Around, Inc./Families in Transition Original | One Bethany Rd, Bldg 3, Suite 42 | Hazlet | NJ | 07730 | 55,516.00
Triple C Housing Inc./H2O Yr 11 ending 6/30/19 | 1 Distribution Way | Monmouth Junction | NJ | 08852 | 58,206.00
Ending Homelessness Group/Ocean HPAC Coordinated Exit | 29 Alden Street, Suite 1B | Cranford | NJ | 07016 | 59,105.00
First Call for Help dba NJ 211 Partnership/No Wrong Door 2 | 114 Algonquin Parkway | Whippany | NJ | 07936 | 59,616.00
Collaborative Support Programs of New Jersey/Atlantic CTY Jewish Family Services (CSPNJ) | 11 Spring Street | Freehold | NJ | 07728 | 60,057.00
CATHOLIC CHARITIES DIOCESE OF METUCHEN/CoC Rapid Re-housing III for Families | 319 MAPLE ST | PERTH AMBOY | NJ | 08861 | 64,158.00
Alternatives, Inc./Warren County Lease Based FY2017 | 600 First Avenue | Raritan | NJ | 08869 | 64,900.00
HABcore, Inc./HABcore Ocean Leasing AP17 OC—FY17 | P.O. Box 2361 | Red Bank | NJ | 07701 | 65,436.00
Housing Authority of Bergen County/Links 2 2017-18 Renewal | One Bergen County Plaza—2nd Fl | Hackensack | NJ | 07601 | 67,716.00
Northwest NJ Community Action Program/Tri County Leasing 2011 PH | 350 Marshall Street | Phillipsburg | NJ | 08865 | 67,865.00
New Jersey Housing and Mortgage Finance Agency/Hudson HMIS FY 2017 | 637 South Clinton Avenue | Trenton | NJ | 08650 | 69,000.00
Catholic Charities of the Archdiocese of Newark/St. Jude's Oasis Renewal Application 2017 | 590 North 7th Street | Newark | NJ | 07107 | 75,093.00
Ocean Community Economic Action Now, Inc./2017 O.C.E.A.N., Inc. Stonehurst Rental Assistance S+C | 40 Washington Street, P.O. Box 1029 | Toms River | NJ | 08754 | 76,104.00
CUMAC/ECHO, Inc./Place of Promise | 223 Ellison St | Paterson | NJ | 07505 | 76,107.00
Collaborative Support Programs of New Jersey/Ryan White S+C Program Middlesex | 11 Spring Street | Freehold | NJ | 07728 | 79,220.00
HABcore, Inc./HABcore Ocean Leasing Expansion FY17 | P.O. Box 2361 | Red Bank | NJ | 07701 | 79,953.00
NJ DEPARTMENT OF COMMUNITY AFFAIRS/3AC CoC Renewal 2017 | 101 S. BROAD STREET, 5th Floor | TRENTON | NJ | 08625 | 80,203.00
NJ DEPARTMENT OF COMMUNITY AFFAIRS/3AD & 3AJ CoC Renewal 2017 | 101 S. BROAD STREET, 5th Floor | TRENTON | NJ | 08625 | 81,708.00
New Jersey Housing and Mortgage Finance Agency/Monmouth HMIS FY 2017 | 637 South Clinton Avenue | Trenton | NJ | 08650 | 81,727.00
NJ DEPARTMENT OF COMMUNITY AFFAIRS/3AS & 3AW CoC Renewal 2017 | 101 S. BROAD STREET, 5th Floor | TRENTON | NJ | 08625 | 82,740.00
County of Bergen/Bergen County Homeless Management Information System (HMIS) | One Bergen County Plaza, 2nd Floor | Hackensack | NJ | 07601 | 82,893.00
Middlesex County/Middlesex County Leasing 3 | 75 Bayard Street | New Brunswick | NJ | 08901 | 82,981.00
New Jersey AIDS Services/NJAS SPH—2 renewal 2017 | 44 South Street | Morristown | NJ | 07960 | 83,463.00
Covenant House New Jersey, Inc/RAP | 330 Washington Street | Newark | NJ | 07102 | 83,490.00
NJ DEPARTMENT OF COMMUNITY AFFAIRS/3AY CoC Renewal 2017 | 101 S. BROAD STREET, 5th Floor | TRENTON | NJ | 08625 | 83,718.00
HABcore, Inc./HABcore Ocean RRH FY17 | P.O. Box 2361 | Red Bank | NJ | 07701 | 83,860.00
Elizabeth/Union County CoC/Homefirst 5U 2017 | 10 Elizabethtown Plaza, Administration Building | Elizabeth | NJ | 07207 | 84,382.00
Integrity Inc/Mary's House II Rental Assistance | 103 Lincoln Park | Newark | NJ | 07101 | 84,588.00
Passaic County Department of Human Services/Passaic County Housing First Leasing | 401 Grand Street | Paterson | NJ | 07505 | 84,633.00
Advance Housing, Inc./Sussex Supportive Living Program | 100 Hollister Road, Suite 7 | Teterboro | NJ | 07608 | 84,983.00
City of Trenton/Rapid Re-Housing for Homeless Youth | 319 East State Street | Trenton | NJ | 08608 | 85,285.00
New Jersey AIDS Services/NJAS PSH—1 2017 renewal | 44 South Street | Morristown | NJ | 07960 | 86,388.00
Middlesex County/Middlesex 2017 CoC Planning Grant | 75 Bayard Street | New Brunswick | NJ | 08901 | 86,756.00
CATHOLIC CHARITIES DIOCESE OF METUCHEN/Scattered Site Permanent Housing for Singles | 319 MAPLE ST | PERTH AMBOY | NJ | 08861 | 87,251.00
Volunteers Of America Delaware Valley Inc/Camden County Supportive Housing | 235 White Horse Pike | Collingswood | NJ | 08107 | 88,069.00
Greater Bergen Community Action, Inc./Ladder | 392 Main Street | Hackensack | NJ | 07601 | 88,110.00
County of Bergen/Alfred J Thomas Home For Veterans | One Bergen County Plaza, 2nd Floor | Hackensack | NJ | 07601 | 88,415.00
City of East Orange/TRA for Disabled Single Adults | 44 City Hall Plaza | East Orange | NJ | 07019 | 89,171.00
Elizabeth/Union County CoC/Gateway YMCA Madison 2017 | 10 Elizabethtown Plaza, Administration Building | Elizabeth | NJ | 07207 | 90,397.00
Oaks Integrated Care/Oaks Integrated Care Housing for Chronically Homeless Individuals and Veterans | 770 Woodlane Road | Mount Holly | NJ | 08060 | 92,098.00
Housing Authority of The City of Paterson/New Destiny Family Success Center | 60 Van Houten Street, P.O. Box H | Paterson | NJ | 07509 | 93,207.00
Center For Family Services,Inc./Mother Child Permanent Housing | 584 Benson Street | Camden | NJ | 08103 | 93,585.00
Housing Authority of the Township of Edison/Triple C Housing First | 14 Rev. Samuel Carpenter Boulevard | Edison | NJ | 08820 | 94,121.00
Collaborative Support Programs of New Jersey/Monmouth County Tenant Based Rental Assistance | 11 Spring Street | Freehold | NJ | 07728 | 94,406.00
Middlesex County/Middlesex County HMIS | 75 Bayard Street | New Brunswick | NJ | 08901 | 94,681.00
Collaborative Support Programs of New Jersey/Project Live Newark Phase 2 | 11 Spring Street | Freehold | NJ | 07728 | 95,685.00
County of Monmouth/CoC Planning Grant 2017 | 3000 Kozloski Road, P.O. Box 3000 | Freehold | NJ | 07728 | 97,466.00
180 Turning Lives Around, Inc./Families in Transition Expansion | One Bethany Rd, Bldg 3, Suite 42 | Hazlet | NJ | 07730 | 99,296.00
Elizabeth/Union County CoC/Covenant House New Jersey—UC 2017 | 10 Elizabethtown Plaza, Administration Building | Elizabeth | NJ | 07207 | 99,409.00
First Call for Help dba NJ 211 Partnership/A Place to Call Home | 114 Algonquin Parkway | Whippany | NJ | 07936 | 100,000.00
City of Trenton/Coordinated Assessment for Youth (Anchor House) | 319 East State Street | Trenton | NJ | 08608 | 100,000.00
Alternatives, Inc./Permanent Supportive Housing II | 600 First Avenue | Raritan | NJ | 08869 | 101,292.00
Alternatives, Inc./Permanent Supportive Housing I | 600 First Avenue | Raritan | NJ | 08869 | 101,867.00
Covenant House New Jersey, Inc/Supportive Apartment Living Program | 330 Washington Street | Newark | NJ | 07102 | 102,780.00
Transitional Housing Services, Inc./Alden Ave./Federal St. Permanent Supportive Housing | 1841 Burlington-Mt. Holly Rd | Westampton | NJ | 08060 | 102,958.00
Housing Authority of the Township of Edison/Catholic Charities State Street Project | 14 Rev. Samuel Carpenter Boulevard | Edison | NJ | 08820 | 103,484.00
Elizabeth/Union County CoC/Community Access Unlimited 96 &116 West Grand 2017 | 10 Elizabethtown Plaza, Administration Building | Elizabeth | NJ | 07207 | 106,246.00
Housing Authority of Bergen County/Family Guidance 2017-18 Renewal | One Bergen County Plaza, 2nd Fl | Hackensack | NJ | 07601 | 111,374.00
City of Trenton/2017 CoC Planning Project | 319 East State Street | Trenton | NJ | 08608 | 111,938.00
180 Turning Lives Around, Inc./180 Transitional Housing-Rapid ReHousing | One Bethany Rd, Bldg 3, Suite 42 | Hazlet | NJ | 07730 | 116,278.00
Housing Authority of Bergen County/Vantage Van Sciver 2017-18 Renewal | One Bergen County Plaza, 2nd Fl | Hackensack | NJ | 07601 | 116,349.00
City of Trenton/Mercer RRH 2—CoC GA | 319 East State Street | Trenton | NJ | 08608 | 116,702.00
NJ DEPARTMENT OF COMMUNITY AFFAIRS/3AA CoC Renewal 2017 | 101 S. BROAD STREET, 5th Floor | TRENTON | NJ | 08625 | 119,108.00
Passaic County Department of Human Services/Passaic CoC Planning Grant 2017 | 401 Grand Street | Paterson | NJ | 07505 | 119,137.00
Camden County Council On Economic Opportunity, Inc./OMAR | 538 Broadway | Camden | NJ | 08103 | 120,450.00
Elizabeth/Union County CoC/Housing Authority of the City of Elizabeth 2017 | 10 Elizabethtown Plaza, Administration Building | Elizabeth | NJ | 07207 | 120,553.00
Volunteers Of America Delaware Valley Inc/Chance II Supportive Housing | 235 White Horse Pike | Collingswood | NJ | 08107 | 121,907.00
Family Promise of Morris County/Community Supportive Housing Program, Phase 1 Renewal | 3 Executive Dr | Moris Plains | NJ | 07950 | 122,809.00
Collaborative Support Programs of New Jersey/Ocean County OMHS S+C 2009 CSPNJ | 11 Spring Street | Freehold | NJ | 07728 | 123,924.00
City of Trenton/Housing First—Samaritan Trenton/Mercer 09 | 319 East State Street | Trenton | NJ | 08608 | 127,536.00
Cape Counseling Services/Cape Leasing Samaritan 2010 | 1129 Route 9 South, Suite 1 | Cape May Court House | NJ | 08210 | 128,610.00
HABcore, Inc./HABcore Monmouth Leasing AP17b—FY17 | P.O. Box 2361 | Red Bank | NJ | 07701 | 129,324.00
Jewish Family Service of Atlantic County/JFS Housing First A | 607 N. Jerome Ave | Margate City | NJ | 08402 | 129,557.00
Cape Counseling Services/Cape Rental Assistance | 1129 Route 9 South, Suite 1 | Cape May Court House | NJ | 08210 | 132,990.00
NJ DEPARTMENT OF COMMUNITY AFFAIRS/3AL CoC Renewal 2017 | 101 S. BROAD STREET, 5th Floor | TRENTON | NJ | 08625 | 134,808.00
Community Planning and Advocacy Council/CoC Planning Project Application FY2017 | 2500 McClellan Avenue, Suite 110 | Pennsauken | NJ | 08109 | 135,400.00
Housing Authority of Bergen County/Housing Works 2 2017-18 Renewal | One Bergen County Plaza, 2nd Fl | Hackensack | NJ | 07601 | 135,431.00
Salem County Inter Agency Council of Human Services/Leased Apartments Program | 98 Market Street, 2nd Floor | Salem | NJ | 08079 | 135,510.00
Collaborative Support Programs of New Jersey/MHA of Essex Phase 2 | 11 Spring Street | Freehold | NJ | 07728 | 136,792.00
Covenant House New Jersey, Inc/Essex Youth Housing Project | 330 Washington Street | Newark | NJ | 07102 | 138,860.00
Elizabeth/Union County CoC/Union County Planning Project 2017 | 10 Elizabethtown Plaza, Administration Building | Elizabeth | NJ | 07207 | 141,483.00
Mental Health Association of Monmouth County Inc./Coordinated Entry | 119 Avenue at the Common, Suite 5 | Shrewsbury | NJ | 07702 | 142,595.00
Homeless Solutions, Inc./Transitional Housing Program | 6 Dumont Place, 3rd floor | Morristown | NJ | 07960 | 148,684.00
Elizabeth/Union County CoC/Bridgeway/Plainfield Housing Authority 11 U 2017 | 10 Elizabethtown Plaza, Administration Building | Elizabeth | NJ | 07207 | 149,233.00
Collaborative Support Programs of New Jersey/Essex COL Permanent Supportive Housing | 11 Spring Street | Freehold | NJ | 07728 | 150,101.00
Housing Authority of the City of Jersey City/Live United Housing Program 2017 | 400 US Highway #1, Marion Gardens | Jersey City | NJ | 07306 | 151,510.00
City of Trenton/PSH for Chronically Homeless Persons (Oaks) | 319 East State Street | Trenton | NJ | 08608 | 152,640.00
EASTER SEALS NEW JERSEY/ESNJ Essex HUD 2 2017 | 25 Kennedy Blvd., Suite 600 | East Brunswick | NJ | 08816 | 154,407.00
County of Monmouth/Safe and Sound | 3000 Kozloski Road, P.O. Box 3000 | Freehold | NJ | 07728 | 159,273.00
Housing Authority of the City of Jersey City/Home At Last | 400 US Highway #1, Marion Gardens | Jersey City | NJ | 07306 | 160,776.00
Collaborative Support Programs of New Jersey/Essex County Mental Health Association (CSPNJ) | 11 Spring Street | Freehold | NJ | 07728 | 163,746.00
Integrity Inc/Mary's House I Rental Assistance | 103 Lincoln Park | Newark | NJ | 07101 | 163,812.00
Collaborative Support Programs of New Jersey/Project Live Newark | 11 Spring Street | Freehold | NJ | 07728 | 164,150.00
NJ DEPARTMENT OF COMMUNITY AFFAIRS/3AX CoC Renewal 2017 | 101 S. BROAD STREET, 5th Floor | TRENTON | NJ | 08625 | 164,150.00
Camden County Council On Economic Opportunity, Inc./A. Wright/Liberty Place | 538 Broadway | Camden | NJ | 08103 | 164,579.00
Center For Family Services, Inc./CFS Permanent Rapid Re-Housing Domestic Violence and Aging Out Youth | 584 Benson Street | Camden | NJ | 08103 | 168,213.00
Family Promise of Morris County/Keys to Housing 2017 Renewal | 3 Executive Dr | Moris Plains | NJ | 07950 | 170,854.00
Elizabeth/Union County CoC/Community Access Unlimited Jacques 2017 | 10 Elizabethtown Plaza, Administration Building | Elizabeth | NJ | 07207 | 171,237.00
City of Trenton/501-507 Perry Street Shelter + Care | 319 East State Street | Trenton | NJ | 08608 | 171,583.00
Advance Housing, Inc./Fairview McKinney | 100 Hollister Road, Suite 7 | Teterboro | NJ | 07608 | 174,949.00
Jersey Battered Women's Service, Inc./Transitional Living Program | P.O. Box 1437 | Morristown | NJ | 07962 | 179,035.00
City of Trenton/Rapid Re-Housing for Families II | 319 East State Street | Trenton | NJ | 08608 | 180,535.00
Covenant House New Jersey, Inc/Newark HOME/Nancy's Place | 330 Washington Street | Newark | NJ | 07102 | 180,735.00
Volunteers Of America Delaware Valley Inc/Moving Forward—Southern NJ | 235 White Horse Pike | Collingswood | NJ | 08107 | 181,471.00
County of Bergen/Bergen CoC Planning Grant 2017 | One Bergen County Plaza | Hackensack | NJ | 07601 | 182,988.00
Collaborative Support Programs of New Jersey/Newark YMCA Permanent Housing 2014 | 11 Spring Street | Freehold | NJ | 07728 | 184,639.00
Heart of Hannah Women's Center Inc./Heart of Hannah Last Step Rapid ReHousing 2017 | 45 E 21st St | Paterson | NJ | 07504 | 185,084.00
Positive Health Care, Incorporated/PHCI Permanent Housing FY2017 | 333 Washington Street | Newark | NJ | 07102 | 187,956.00
Collaborative Support Programs of New Jersey/Essex County MHA Permanent Housing 2014 | 11 Spring Street | Freehold | NJ | 07728 | 192,988.00
Middlesex County/Middlesex County Leasing 1 2011 | 75 Bayard Street | New Brunswick | NJ | 08901 | 193,784.00
Center For Family Services,Inc./Coordinated Entry and Assessment | 584 Benson Street | Camden | NJ | 08103 | 197,300.00
CATHOLIC CHARITIES DIOCESE OF METUCHEN/Naomi's Way Permanent Housing Project for Families | 319 MAPLE ST | PERTH AMBOY | NJ | 08861 | 198,405.00
Elizabeth/Union County CoC/Bridgeway/Plainfield Housing Authority 15 U 2017 | 10 Elizabethtown Plaza, Administration Building | Elizabeth | NJ | 07207 | 206,892.00
Collaborative Support Programs of New Jersey/Newark YMCA Shelter Plus Care | 11 Spring Street | Freehold | NJ | 07728 | 207,371.00
Hudson County Division of Housing and Community Development/HCAEH Planning Grant 2017 | 830 Bergen Avenue, 5B | Jersey City | NJ | 07306 | 209,068.00
City of Trenton/GTBHC Housing First Phase II Bonus | 319 East State Street | Trenton | NJ | 08608 | 209,765.00
NJ DEPARTMENT OF COMMUNITY AFFAIRS/3APLI—CoC Renewal 2017 | 101 S. BROAD STREET, 5th Floor | TRENTON | NJ | 08625 | 211,767.00
Garden State Episcopal Community Development Corporation/GSECDC Finally Home | 118 Summit Avenue | Jersey City | NJ | 07304 | 213,699.00
Vantage Health System, Inc./Knickerbocker Residence 2017 | 2 Park Avenue | Dumont | NJ | 07628 | 223,628.00
Collaborative Support Programs of New Jersey/Essex County MHA RA 2013 | 11 Spring Street | Freehold | NJ | 07728 | 224,128.00
Garden State Episcopal Community Development Corporation/All Saints Supportive Housing | 118 Summit Avenue | Jersey City | NJ | 07304 | 232,915.00
New Jersey Housing and Mortgage Finance Agency/Essex HMIS FY 2017 | 637 South Clinton Avenue | Trenton | NJ | 08650 | 235,666.00
Elizabeth/Union County CoC/YWCA 2017 | 10 Elizabethtown Plaza, Administration Building | Elizabeth | NJ | 07207 | 236,133.00
The House of Faith, Inc./The House of Faith, Inc | 244 Ege Avenue | Jersey City | NJ | 07304 | 238,428.00
City of Trenton/Housing Now | 319 East State Street | Trenton | NJ | 08608 | 239,769.00
Isaiah House, Inc./Next Step | 238 North Munn Ave | East Orange | NJ | 07017 | 245,600.00
County of Monmouth/Center House | 3000 Kozloski Road, P.O. Box 3000 | Freehold | NJ | 07728 | 247,392.00
City of Trenton/Mercer PSH 1—CC On My Own | 319 East State Street | Trenton | NJ | 08608 | 247,965.00
Family Promise of Sussex County/Permanent Supportive Housing for the Chronically Homeless | P.O. Box 154, 19 Church Street | Newton | NJ | 07860 | 250,473.00
Northwest NJ Community Action Program/Tri County Leasing 2011 | 350 Marshall Street | Phillipsburg | NJ | 08865 | 250,657.00
AAH of Bergen County, Inc./AAH of Bergen County Supportive Housing | 267R Pascack Road | Township of Washington | NJ | 07676 | 258,122.00
Care Plus NJ, Inc./Rapid Rehousing for Individuals | 610 Valley Health Plaza | Paramus | NJ | 07652 | 259,998.00
NJ DEPARTMENT OF COMMUNITY AFFAIRS/3AG CoC Renewal 2017 | 101 S. BROAD STREET, 5th Floor | TRENTON | NJ | 08625 | 262,212.00
County of Essex/Almost Home III | 50 South Clinton Street, 3rd Floor Suite 3201, 3rd Floor, Suite 3201 | East Orange | NJ | 07018 | 271,678.00
NJ DEPARTMENT OF COMMUNITY AFFAIRS/3AT CoC Renewal 2017 | 101 S. BROAD STREET, 5th Floor | TRENTON | NJ | 08625 | 272,038.00
Elizabeth/Union County CoC/Bridgeway/Elizabeth Housing Authority 20U 2017 | 10 Elizabethtown Plaza, Administration Building | Elizabeth | NJ | 07207 | 272,038.00
County of Essex/NJ-504 CoC Planning Project FY2017 | 50 South Clinton Street | East Orange | NJ | 07018 | 274,924.00
Housing Authority of the City of Jersey City/Hoboken Shelter Program | 400 US Highway #1, Marion Gardens | Jersey City | NJ | 07306 | 275,728.00
Elizabeth/Union County CoC/Elizabeth Coalition to House the Homeless/Gateway YMCA Joint TH & PH-RRH | 10 Elizabethtown Plaza, Administration Building | Elizabeth | NJ | 07207 | 279,943.00
Project Live, Inc/Project Live Supportive Housing Program 2012-2015/Renewal | 465-475 Broadway | Newark | NJ | 07104 | 285,955.00
Passaic County Department of Human Services/Passaic County Project Based Housing First | 401 Grand Street | Paterson | NJ | 07505 | 287,084.00
Care Plus NJ, Inc./Rapid Rehousing for Families | 610 Valley Health Plaza | Paramus | NJ | 07652 | 287,113.00
NJ DEPARTMENT OF COMMUNITY AFFAIRS/3AF CoC Renewal 2017 | 101 S. BROAD STREET, 5th Floor | TRENTON | NJ | 08625 | 287,300.00
NJ DEPARTMENT OF COMMUNITY AFFAIRS/3AE CoC Renewal 2017 | 101 S. BROAD STREET, 5th Floor | TRENTON | NJ | 08625 | 290,652.00
West New York Housing Authority/Homes for Heroes | 6100 Adams Street | West New York | NJ | 07093 | 291,145.00
Collaborative Support Programs of New Jersey/Camden Housing First | 11 Spring Street | Freehold | NJ | 07728 | 292,159.00
New Jersey Housing and Mortgage Finance Agency/Camden Shelter Plus Care Program | 637 South Clinton Avenue, P.O. Box 18550 | Trenton | NJ | 08650 | 301,404.00
Elizabeth/Union County CoC/Gateway YMCA I-PH 2017 | 10 Elizabethtown Plaza, Administration Building | Elizabeth | NJ | 07207 | 301,569.00
County of Monmouth/Housing with Dignity | 3000 Kozloski Road, P.O. Box 3000 | Freehold | NJ | 07728 | 302,114.00
Family Promise of Sussex County/2012 HUD Continuum of Care Program | P.O. Box 154, 19 Church Street | Newton | NJ | 07860 | 303,716.00
CATHOLIC CHARITIES DIOCESE OF METUCHEN/CoC Rapid Re-housing II for Families | 319 MAPLE ST | PERTH AMBOY | NJ | 08861 | 314,932.00
City of Trenton/Mercer PSH 3—GTBHC & CC Greenwood Ave | 319 East State Street | Trenton | NJ | 08608 | 316,422.00
Homeless Solutions, Inc./Safe Haven | 6 Dumont Place, 3rd floor | Morristown | NJ | 07960 | 322,823.00
City of Trenton/Mercer PSH 4—GTBHC S+C | 319 East State Street | Trenton | NJ | 08608 | 323,126.00
Legacy Treatment Services/Permanent SH for Persons with SMI | 1289 Route 38, Suite 102 | Hainesport | NJ | 08036 | 328,347.00
Project Live, Inc/2010 PLI-Firebird—3 | 465-475 Broadway | Newark | NJ | 07104 | 330,060.00
City of Trenton/Housing First—Trenton/Mercer | 319 East State Street | Trenton | NJ | 08608 | 332,467.00
Elizabeth/Union County CoC/Bridgeway/Plainfield Housing Authority 25 U 2017 | 10 Elizabethtown Plaza, Administration Building | Elizabeth | NJ | 07207 | 360,895.00
City of Trenton/Mercer PSH 8—Housing First Phase 1—Housing First Demonstration Initiative | 319 East State Street | Trenton | NJ | 08608 | 370,485.00
Advance Housing, Inc./Advance Supportive Living Program (HoST) | 100 Hollister Road, Suite 7 | Teterboro | NJ | 07608 | 382,471.00
City of East Orange/My Own Place | 44 City Hall Plaza | East Orange | NJ | 07019 | 382,680.00
Housing Authority of the Township of Edison/S+C for the Chronically Homeless (2006 Housing First) | 14 Rev. Samuel Carpenter Boulevard | Edison | NJ | 08820 | 385,463.00
NJ DEPARTMENT OF COMMUNITY AFFAIRS/3AK, 3AN & 3AP CoC Renewal 2017 | 101 S. BROAD STREET, 5th Floor | TRENTON | NJ | 08625 | 398,647.00
Elizabeth/Union County CoC/Gateway YMCA 14U-CH Fam 2017 | 10 Elizabethtown Plaza, Administration Building | Elizabeth | NJ | 07207 | 405,380.00
York Street Project/York Street TH/RRH Component | 81 York Street | Jersey City | NJ | 07302 | 425,348.00
United Way of Hudson County/Collaborative Solutions | 857 Bergen Avenue | Jersey City | NJ | 07306 | 429,065.00
Middlesex County/Middlesex County Leasing 2 2011 | 75 Bayard Street | New Brunswick | NJ | 08901 | 443,231.00
Housing Authority of the Township of Edison/Triple C Housing First S+C 2010 | 14 Rev. Samuel Carpenter Boulevard | Edison | NJ | 08820 | 447,683.00
Elizabeth/Union County CoC/Homefirst/Plainfield Housing Authority 35U 2017 | 10 Elizabethtown Plaza, Administration Building | Elizabeth | NJ | 07207 | 502,641.00
WomenRising/Village of Families | 270 Fairmount Avenue | Jersey City | NJ | 07306 | 515,278.00
Collaborative Support Programs of New Jersey/Hudson SHC Permanent Housing Bonus 2014 | 11 Spring Street | Freehold | NJ | 07728 | 557,210.00
County of Monmouth/Homeward Bound | 3000 Kozloski Road, P.O. Box 3000 | Freehold | NJ | 07728 | 562,351.00
Straight & Narrow, Inc./Straight & Narrow SRO | 508 Straight Street | Paterson | NJ | 07509 | 564,882.00
North Hudson Community Action Corporation/NHCAC Rapid Rehousing | 800 31st St | Union City | NJ | 07087 | 583,324.00
York Street Project/York Street Rapid Rehousing FY 2017 | 81 York Street | Jersey City | NJ | 07302 | 649,464.00
Passaic County Department of Human Services/Passaic County Sponsor Based Housing First | 401 Grand Street | Paterson | NJ | 07505 | 660,742.00
Garden State Episcopal Community Development Corporation/Hudson CASA Coordinated Entry | 118 Summit Avenue | Jersey City | NJ | 07304 | 667,516.00
Elizabeth/Union County CoC/Bridgeway/Elizabeth Housing Authority 2017 45U | 10 Elizabethtown Plaza, Administration Building | Elizabeth | NJ | 07207 | 676,785.00
United Way of Hudson County/Life Starts | 857 Bergen Avenue | Jersey City | NJ | 07306 | 764,643.00
City of Trenton/Mercer PSH 17—Mercer County Leasing 2011 | 319 East State Street | Trenton | NJ | 08608 | 800,079.00
NJ DEPARTMENT OF COMMUNITY AFFAIRS/MNJ CoC Renewal 2017 | 101 S. BROAD STREET, 5th Floor | TRENTON | NJ | 08625 | 860,096.00
Community Planning and Advocacy Council/Camden Housing First 2011 | 2500 McClellan Avenue, Suite 110 | Pennsauken | NJ | 08109 | 1,012,579.00
HABcore, Inc./HABcore Monmouth Leasing AP16a—FY17 | P.O. Box 2361 | Red Bank | NJ | 07701 | 1,134,726.00
Passaic County Department of Human Services/Passaic County Tenant Based Housing First | 401 Grand Street | Paterson | NJ | 07505 | 1,177,615.00
Vantage Health System, Inc./Opening Doors 2017 | 2 Park Avenue | Dumont | NJ | 07628 | 1,203,912.00
Housing Authority of Bergen County/Housing Works 4 Grant Consolidation 2017-18 | One Bergen County Plaza, 2nd Fl | Hackensack | NJ | 07601 | 1,302,984.00
New Mexico Coalition to End Homelessness/Albuquerque Coordinated Assessment System 2017 | 440 Cerrillos Road, Suite 4, P.O. Box 865 | Santa Fe | NM | 87501 | 25,000.00
People Assisting the Homeless/PATH PSH 2017 | 520 Hydro Plant Rd | Farmington | NM | 87401 | 44,640.00
City of Santa Fe/Siringo Senior Permanent Housing Program 2017 | P.O. Box 909 | Santa Fe | NM | 87504 | 44,772.00
Bernalillo County/Renee's Project | 5901 Zuni SE | Albuquerque | NM | 87108 | 49,832.00
Mesilla Valley Community of Hope/Sue's House Permanent Housing for Chronically Homeless Women | 999 W. Amador Ave | Las Cruces | NM | 88005 | 51,765.00
Catholic Charities/Partners in Housing Services | 2010 Bridge SW | Albuquerque | NM | 87105 | 52,350.00
Abode Inc/Abode Permanent Housing Project | 999 W Amador Ave | Las Cruces | NM | 88005 | 53,915.00
New Mexico Coalition to End Homelessness/Balance of State Coordinated Assessment 2017 | 440 Cerrillos Road, Suite 4, P.O. Box 865 | Santa Fe | NM | 87501 | 55,786.00
El Refugio, Inc./Rapid Re-housing 2017 | 800 South Robert Street | Silver City | NM | 88061 | 56,852.00
Supportive Housing Coalition of New Mexico/Chuska Permanent Supportive Housing | 625 Silver SW, Suite 325 | Albuquerque | NM | 87102 | 64,062.00
Saint Elizabeth Shelter Corporation/Sonrisa Family Supportive Living Program 2017 | 804 Alarid St | Santa Fe | NM | 87505 | 64,403.00
El Refugio, Inc./Transitional Housing Project 2017 | 800 South Robert Street | Silver City | NM | 88061 | 65,725.00
Supportive Housing Coalition of New Mexico/Downtown @700 2nd | 625 Silver SW, Suite 325 | Albuquerque | NM | 87102 | 70,510.00
Albuquerque Health Care for the Homeless, Inc./AHCH Coordinated Assessment | 1217 1st Street NW | Albuquerque | NM | 87102 | 71,140.00
Barrett Foundation, Inc./Milagro Permanent Supportive Housing | 10300 Constitution Ave. NE | Albuquerque | NM | 87112 | 92,028.00
St. Martin's Hospitality Center/Dual Diagnosis Outreach | 1120 2nd St. NW, 1201 3rd St. NW | Albuquerque | NM | 87102 | 92,700.00
Mesilla Valley Community of Hope/Mesilla Valley Coordinated Assessment SSO | 999 W. Amador Ave | Las Cruces | NM | 88005 | 93,090.00
El Camino Real Housing Authority/Shelter Plus Care II (2017) | P.O. Box 00, 301 Otero Avenue | Socorro | NM | 87801 | 93,116.00
St. Martin's Hospitality Center/Welcome Home | 1120 2nd St. NW, 1201 3rd St. NW | Albuquerque | NM | 87102 | 93,880.00
County of Sandoval/Sandoval County Permanent Supportive Housing B 2017 | 1500 Idalia Rd., Bldg. D | Bernalillo | NM | 87004 | 100,389.00
Casa Milagro Inc./Supportive Housing Program | 49 Camino Bajo | Santa Fe | NM | 87508 | 101,810.00
Therapeutic Living Services, Inc./Mesa House | 5601 Domingo Road NE | Albuquerque | NM | 87108 | 109,233.00
DreamTree Project, Inc./Casitas Transitional Living | P.O. Box 1677 | Taos | NM | 87571 | 109,425.00
Mesilla Valley Community of Hope/Mesilla Valley Rapid Rehousing Program | 999 W. Amador Ave | Las Cruces | NM | 88005 | 111,701.00
Valencia Shelter Services for Victims of Domestic Violence/La Vida Nueva | 303 Luna Street | Los Lunas | NM | 87031 | 113,510.00
Mesilla Valley Community of Hope/Mesilla Valley Rapid Rehousing Program II | 999 W. Amador Ave | Las Cruces | NM | 88005 | 114,380.00
DreamTree Project, Inc./Taos Rehousing | P.O. Box 1677 | Taos | NM | 87571 | 115,856.00
San Juan County Partnership/SJPartnership PH | 3535 E 30th St., Suite 105 | Farmington | NM | 87402 | 121,859.00
San Juan County Partnership/SJCP-PSH | 3535 E 30th St., Suite 105 | Farmington | NM | 87402 | 122,389.00
Valencia Shelter Services for Victims of Domestic Violence/La Vida Nueva Expansion | 303 Luna Street | Los Lunas | NM | 87031 | 122,507.00
Samaritan House Inc/Samaritan House—Permanent Housing (2017) | 1000 Mills Ave | Las Vegas | NM | 87701 | 123,094.00
La Casa, Inc./La Casa Rapid Rehousing | 800 S. Walnut | Las Cruces | NM | 88001 | 125,273.00
Albuquerque Health Care for the Homeless, Inc./Supportive Housing | 1217 1st Street NW | Albuquerque | NM | 87102 | 127,641.00
City of Albuquerque/Transitional Housing—City of Albuquerque | 400 Marquette NW | Albuquerque | NM | 87102 | 138,982.00
Community Against Violence, Inc./Community Against Violence DV/SA Housing Project 2017-A | 945 Salazar Road | Taos | NM | 87571 | 139,702.00
Crossroads for Women (formerly Human Rights Advocacy)/Crossroads Chronic—FY2107 | 805 Tijeras Ave. NW | Albuquerque | NM | 87102 | 144,508.00
City of Santa Fe/Housing Trust Sites renewal FY2017 | P.O. Box 909, 500 Market Street, Suite 500 | Santa Fe | NM | 87504 | 144,592.00
New Mexico Coalition to End Homelessness/NM-501 BoS Planning Application FY2017 | 440 Cerrillos Road, Suite 4, P.O. Box 865 | Santa Fe | NM | 87501 | 148,219.00
Youth Shelters and Family Services/Rapid Rehousing for Homeless Youth in Santa Fe | 5686B Agua Fria St | Santa Fe | NM | 87507 | 148,829.00
Santa Fe Community Housing Trust/Coc Renewal FY2017 | 1111 Agua Fria | Santa Fe | NM | 87505 | 155,477.00
Therapeutic Living Services, Inc./Frank Gray House | 5601 Domingo Road NE | Albuquerque | NM | 87108 | 157,383.00
New Mexico Coalition to End Homelessness/NM HMIS (1) 2017 | 440 Cerrillos Road, Suite 4, P.O. Box 865 | Santa Fe | NM | 87501 | 163,714.00
Saint Elizabeth Shelter Corporation/Casa Cerrillos Permanent Housing for Disabled Homeless 2017 | 804 Alarid St | Santa Fe | NM | 87505 | 167,850.00
City of Albuquerque/Albuquerque CoC Planning Project | 400 Marquette NW | Albuquerque | NM | 87102 | 168,858.00
The Life Link/Life Link Eastern NM | 2325 Cerrillos Rd | Santa Fe | NM | 87505 | 179,902.00
El Camino Real Housing Authority/Shelter Plus Care I (2017) | P.O. Box 00, 301 Otero Avenue | Socorro | NM | 87801 | 181,096.00
County of Sandoval/Sandoval County Permanent Supportive Housing A 2017 | 1500 Idalia Rd., Bldg. D | Bernalillo | NM | 87004 | 191,151.00
Catholic Charities/Sandoval La Luz RRH | 2010 Bridge SW | Albuquerque | NM | 87105 | 207,223.00
City of Albuquerque/CLNkids Rapid ReHousing Project | 400 Marquette NW | Albuquerque | NM | 87102 | 217,983.00
Catholic Charities/Proyecto La Luz RRH | 2010 Bridge SW | Albuquerque | NM | 87105 | 228,401.00
The Life Link/Life Link La Luz PRA | 2325 Cerrillos Rd | Santa Fe | NM | 87505 | 231,815.00
Crossroads for Women (formerly Human Rights Advocacy)/Crossroads Non Chronic—FY2017 | 805 Tijeras Ave. NW | Albuquerque | NM | 87102 | 240,627.00
Catholic Charities/Partners in Housing | 2010 Bridge SW | Albuquerque | NM | 87105 | 284,170.00
Mesilla Valley Community of Hope/Community Housing Connection I | 999 W. Amador Ave | Las Cruces | NM | 88005 | 294,328.00
City of Albuquerque/Rental Assistance—TLS | 400 Marquette NW | Albuquerque | NM | 87102 | 428,285.00
Supportive Housing Coalition of New Mexico/Casita Bonita | 625 Silver SW, Suite 325 | Albuquerque | NM | 87102 | 513,027.00
The Life Link/Life Link S+C AB | 2325 Cerrillos Rd | Santa Fe | NM | 87505 | 702,571.00
City of Albuquerque/Rapid ReHousing—City of Albuquerque | 400 Marquette NW | Albuquerque | NM | 87102 | 867,485.00
City of Albuquerque/Rental Assistance—AHCH/SMHC | 400 Marquette NW | Albuquerque | NM | 87102 | 1,427,548.00
Carson City Health & Human Services/SPC 1 | 900 E. Long Street | Carson City | NV | 89706 | 15,358.00
Division of Public and Behavioral Health/NV-502 CoC Planning Application FY2017 | c/o Rural Clinics, 727 Fairview Drive, Suite A | Carson City | NV | 89706 | 18,834.00
Frontier Community Action Agency/NV-502-Humboldt County Permanent Housing Project | 657 Anderson Street | Winnemucca | NV | 89445 | 24,920.00
Carson City Health & Human Services/SPC II | 900 E. Long Street | Carson City | NV | 89706 | 28,050.00
City of Reno/SSO-CE | 1 East First Street, 12th Floor | Reno | NV | 89501 | 30,000.00
Ridge House, Inc./Ridge House RRH | 900 West First Street, Suite 200 | Reno | NV | 89503 | 30,336.00
Frontier Community Action Agency/NV-502-Humboldt County Rapid Rehousing Project | 657 Anderson Street | Winnemucca | NV | 89445 | 31,971.00
Nevada Rural Housing Authority/Supportive Services Only—Coordinated Entry (SSO-CE) | 3695 Desatoya Dr | Carson City | NV | 89701 | 39,629.00
Ridge House, Inc./Ridge House Rapid Re-House FY17 | 900 West First Street, Suite 200 | Reno | NV | 89503 | 50,720.00
City of Reno/CoC Planning Project 2017 | 1 East First Street, 12th Floor | Reno | NV | 89501 | 53,200.00
Churchill County/RRH 3—2019 | 485 West B Street, Suite #105 | Fallon | NV | 89406 | 74,070.00
Clark County/HMIS Rural Nevada 2017 | 1600 Pinto Lane | Las Vegas | NV | 89106 | 78,341.00
Washoe County/PSH Renewal 2017 | 1001 E. 9th Street | Reno | NV | 89512 | 81,324.00
Volunteers of America Northern California and Northern Nevada/Rapid Rehousing for Families | 3434 Marconi Ave | Sacramento | NV | 95821 | 83,939.00
VITALITY CENTER/HIGH DESERT HOUSING | 1250 LAMOILLE HIGHWAY, #208 | ELKO | NV | 89801 | 84,164.00
Washoe County/S+C Renewal 2017 | 1001 E. 9th Street | Reno | NV | 89512 | 112,128.00
United States Veterans Initiative/Permanent Housing for Veterans with Disabilities | 525 E Bonanza Rd | Las Vegas | NV | 89101 | 120,781.00
Clark County/HMIS Northern Nevada 2017 | 1600 Pinto Lane | Las Vegas | NV | 89106 | 122,822.00
United States Veterans Initiative/Veterans In Progress | 525 E Bonanza Rd | Las Vegas | NV | 89101 | 122,854.00
Division of Public and Behavioral Health, Rural Clinics/Rural Shelter Plus Care | Rural Clinics, 727 Fairview Drive, Suite A | Carson City | NV | 89701 | 164,976.00
United States Veterans Initiative/Chronically Homeless Aspiring for Maintenance (CH1) | 525 E Bonanza Rd | Las Vegas | NV | 89101 | 167,645.00
Southern Nevada Children First/Moving Forward | 3755 West Lake Mead Boulevard | North Las Vegas | NV | 89032 | 175,107.00
Southern Nevada Children First/A Place Called Home | 3755 West Lake Mead Boulevard | North Las Vegas | NV | 89032 | 191,936.00
HELP of Southern Nevada/SN CE-Coordinated Entry Matching | 1640 East Flamingo Road, Suite 100 | Las Vegas | NV | 89119 | 202,502.00
HELP of Southern Nevada/Shannon West Homeless Youth Center | 1640 East Flamingo Road, Suite 100 | Las Vegas | NV | 89119 | 210,282.00
United States Veterans Initiative/Chronically Homeless Aspiring for Maintenance 2 (CH2) | 525 E Bonanza Rd | Las Vegas | NV | 89101 | 218,487.00
Nevada Partnership for Homeless Youth/NPHY Independent Living Program | 4981 Shirley Street | Las Vegas | NV | 89119 | 226,210.00
Safe Nest: Temporary Assistance for Domestic Crisis, Inc./Operation Fresh Start | 2915 W Charleston Blvd, Suite 3A | Las Vegas | NV | 89102 | 267,780.00
The Salvation Army, A California Corporation/Housing the Homeless | 2900 Palomino Lane | Las Vegas | NV | 89107 | 268,410.00
Lutheran Social Services of Nevada/Welcome H.O.M.E. | 73 Spectrum Blvd | Las Vegas | NV | 89101 | 282,604.00
HELP of Southern Nevada/HELP THEM HOME Expansion | 1640 East Flamingo Road, Suite 100 | Las Vegas | NV | 89119 | 321,850.00
St. Jude's Ranch for Children/New Crossings | 200 Wilson Circle | Boulder City | NV | 89005 | 324,887.00
WestCare Nevada, Inc./Safe Haven | 1711 Whitney Mesa Dr | Henderson | NV | 89014 | 329,612.00
St. Jude's Ranch for Children/Crossings | 200 Wilson Circle | Boulder City | NV | 89005 | 344,610.00
Clark County/HMIS Expansion 2017.2 | 1600 Pinto Lane | Las Vegas | NV | 89106 | 355,254.00
HopeLink of Southern Nevada/HomeLink 2017 | 178 Westminster Way | Henderson | NV | 89015 | 358,810.00
Northern Nevada Adult Mental Health Services/Shelter Plus Care—Renewal | 480 Galletti Way | Sparks | NV | 89431 | 382,232.00
Clark County/CoC Planning Project 2017 | 1600 Pinto Lane | Las Vegas | NV | 89106 | 392,857.00
HELP of Southern Nevada/HELP THEM HOME | 1640 East Flamingo Road, Suite 100 | Las Vegas | NV | 89119 | 403,228.00
Clark County/HMIS Expansion 2017 | 1600 Pinto Lane | Las Vegas | NV | 89106 | 504,900.00
Clark County/STAR TH-RRH (Bonus) | 1600 Pinto Lane | Las Vegas | NV | 89106 | 512,535.00
Clark County/Healthy Living 2012 Bonus Project | 1600 Pinto Lane | Las Vegas | NV | 89106 | 560,908.00
HELP of Southern Nevada/A New Start | 1640 East Flamingo Road, Suite 100 | Las Vegas | NV | 89119 | 578,045.00
United States Veterans Initiative/Permanent Housing for Veterans with Disabilities 2 | 525 E Bonanza Rd | Las Vegas | NV | 89101 | 662,933.00
Volunteers of America Northern California and Northern Nevada/ANCHOR | 3434 Marconi Ave | Sacramento | NV | 95821 | 760,707.00
Clark County/STAR TH-RRH | 1600 Pinto Lane | Las Vegas | NV | 89106 | 1,051,725.00
Clark County/New Beginnings | 1600 Pinto Lane | Las Vegas | NV | 89106 | 1,361,248.00
Southern Nevada Adult Mental Health Services/Stepping Stones | 6161 W Charleston | Las Vegas | NV | 89146 | 1,489,944.00
Clark County/STAR PSH | 1600 Pinto Lane | Las Vegas | NV | 89106 | 1,589,181.00
Council on Addiction Recovery Services, Inc./FY 2017 CoC Planning Project | 201 South Union Street | Olean | NY | 14760 | 9,577.00
Corporation for AIDS Research, Education and Services, Inc./Franklin/Essex CoC Planning Project (2017) | 200 Henry Johnson Blvd., Suite 4 | Albany | NY | 12210 | 10,470.00
Human Services Coalition of Tompkins County Inc./NY-510 CoC Planning Application FY2017 | 171 East MLK Jr./State Street #133 | Ithaca | NY | 14850 | 11,672.00
Corporation for AIDS Research, Education and Services, Inc./Columbia Greene HMIS Con (2017) | 200 Henry Johnson Blvd., Suite 4 | Albany | NY | 12210 | 12,068.00
ETC Housing Corporation/North Country HMIS 2017 | 6 Tara Lane | Plattsburgh | NY | 12901 | 12,988.00
Corporation for AIDS Research, Education and Services, Inc./Columbia/Greene CoC Planning Project (2017) | 200 Henry Johnson Blvd., Suite 4 | Albany | NY | 12210 | 13,134.00
Geneva Housing Authority/S+C for the Chronically Homeless II | 41 Lewis Street, P.O. Box 153 | Geneva | NY | 14456 | 13,649.00
United Way of Central New York/Supportive Housing Program—HMIS (Cayuga) (2017) | 518 James Street | Syracuse | NY | 13203 | 15,769.00
Homeless and Travelers Aid Society of the Capital District, Inc./Coordinated Entry Expansion | 138 Central Ave | Albany | NY | 12206 | 15,897.00
Corporation for AIDS Research, Education and Services, Inc./Rensselaer County Portion of the Capital Region HMIS (2017) | 200 Henry Johnson Blvd., Suite 4 | Albany | NY | 12210 | 16,983.00
Tompkins Community Action, Inc./Magnolia House | 701 Spencer Road | Ithaca | NY | 14850 | 17,281.00
COLUMBIA OPPORTUNITIES INCORPORATED/COI Chronic Homeless Project FY2017 | 540 COLUMBIA STREET | HUDSON | NY | 12534 | 17,287.00
Community Action of Greene County, Inc./Supportive Housing for Chronically Homeless Individuals 2017 | 7856 Rt. 9W | Catskill | NY | 12414 | 17,726.00
United Way of Central New York/HMIS Expansion (2017) | 518 James Street | Syracuse | NY | 13203 | 20,000.00
Chautauqua Opportunities, Inc./Chautauqua HMIS | 17 West Courtney Street | Dunkirk | NY | 14048 | 20,976.00
Finger Lakes Addictions Counseling and Referral Agency/HMIS | 28 East Main Street | Clifton Springs | NY | 14432 | 21,185.00
Albany Housing Coalition, Inc./Operations at 280 Clinton Avenue (2017) | 278 Clinton Avenue | Albany | NY | 12210 | 21,400.00
Homeless and Travelers Aid Society of the Capital District, Inc./Coordinated Entry (2017) | 138 Central Ave | Albany | NY | 12206 | 22,285.00
Chautauqua Opportunities, Inc./NY-514 CofC Planning Application FY2017 | 17 West Courtney Street | Dunkirk | NY | 14048 | 22,461.00
Tompkins Community Action, Inc./Magnolia House Bed Expansion | 701 Spencer Road | Ithaca | NY | 14850 | 23,345.00
Finger Lakes Addictions Counseling and Referral Agency/2017 CoC Planning Project | 28 East Main Street | Clifton Springs | NY | 14432 | 23,660.00
Rochester Housing Authority/RHA/Frederick Douglass Apartments PSH-PBRA #24 | 675 West Main Street | Rochester | NY | 14611 | 24,581.00
Clinton County Social Services Department/ETC 2017 | 13 Durkee Street | Plattsburgh | NY | 12901 | 24,725.00
Joseph's House and Shelter, Inc./Coordinated Entry (2017) | 202 4th Street | Troy | NY | 12180 | 26,000.00
North Country Transitional Living Services, Inc./Permanent Housing for Chronically Homeless—II | 482 Black River Parkway | Watertown | NY | 13601 | 26,273.00
Corporation for AIDS Research, Education and Services, Inc./Points North Portion of the Capital Region HMIS (2017) | 200 Henry Johnson Blvd., Suite 4 | Albany | NY | 12210 | 26,750.00
Mental Health Association in Essex County Inc./2017 Franklin/Essex Housing Grant | 6096 Rt 9N | Westport | NY | 12993 | 27,305.00
Gateway Community Industries, Inc./DC VA FY2017 Renewal | One Amy Kay Parkway, P.O. Box 5002 | Kingston | NY | 12402 | 27,980.00
Hudson River Housing, Inc./HRH Noxon Street Housing | 313 Mill Street | Poughkeepsie | NY | 12601 | 28,165.00
YWCA of the Greater Capital Region, Inc./Family Apartment Program (2017) | 21 1st Street | Troy | NY | 12180 | 29,030.00
Institute for Community Living, Inc./Cathedral Condos | 125 Broad Street, 3rd Floor | New York | NY | 10004 | 29,778.00
Corporation for AIDS Research, Education and Services, Inc./Schenectady County Portion of the Capital Region HMIS (2017) | 200 Henry Johnson Blvd., Suite 4 | Albany | NY | 12210 | 30,571.00
Long Island Coalition for the Homeless/Coordinated Assessment/Entry 2017 | 600 Albany Avenue, Suite 2 | Amityville | NY | 11701 | 31,737.00
Snow Belt Housing Company, Inc./Rapid Rehousing 2017 | 7500 S. State Street | Lowville | NY | 13367 | 32,267.00
The Mental Health Association of Columbia-Greene Counties/P2S Permanent Supportive Housing Project for Chronically Homeless, Mentally Ill | MHACGC, 713 Union Street | Hudson | NY | 12534 | 32,381.00
Corporation for AIDS Research, Education and Services, Inc./Albany County Portion of the Capital Region HMIS (2017) | 200 Henry Johnson Blvd., Suite 4 | Albany | NY | 12210 | 33,968.00
Lakeview Health Services/Lakeview SRO Tompkins | 600 W. Washington Street | Geneva | NY | 14456 | 33,980.00
RUPCO/UCCOC Planning FY 2017 | 289 Fari Street | Kingston | NY | 12401 | 33,982.00
Chapel House Inc/Chapel House PSH Expansion | 36 Franklin St | Auburn | NY | 13021 | 34,836.00
Corporation for AIDS Research, Education and Services, Inc./Warren, Washington, Hamilton and Saratoga Counties Portion of the Capital Region HMIS (2017) | 200 Henry Johnson Blvd., Suite 4 | Albany | NY | 12210 | 35,328.00
County of Dutchess/HRH Moving On | 22 Market Street | Poughkeepsie | NY | 12601 | 36,139.00
Geneva Housing Authority/Finger Lakes Regional Shelter Plus Care | 41 Lewis Street, P.O. Box 153 | Geneva | NY | 14456 | 37,635.00
Corporation for AIDS Research, Education and Services, Inc./Points North CoC Planning Project (2017) | 200 Henry Johnson Blvd., Suite 4 | Albany | NY | 12210 | 37,829.00
County of Dutchess/NY-601 CoC Planning Application FY2017 | 22 Market Street | Poughkeepsie | NY | 12601 | 38,977.00
The Salvation Army, a New York Corporation/Permanent Housing Supportive Services | 440 West Nyack Road | West Nyack | NY | 10994 | 39,046.00
Allegany County Community Opportinities & Rural Development/FY2017 RRH Supportive Housing Project II | 84 Schuyler Street, P.O. Box 573 | Belmont | NY | 14813 | 40,144.00
Hudson River Housing, Inc./HRH River Haven Transitional Living | 313 Mill Street | Poughkeepsie | NY | 12601 | 41,079.00
Spiritus Christi Prison Outreach, Inc./Voter Block Community | 934 Culver Road | Rochester | NY | 14609 | 41,327.00
Rockland County/Rapid Rehousing DSS Program I (2017) | 50 Sanatorium Road, Building L | Pomona | NY | 10970 | 41,707.00
Tompkins Community Action, Inc./Chartwell House | 701 Spencer Road | Ithaca | NY | 14850 | 41,835.00
Federation of Organizations for the New York State Mentally/Bethpage SHP | One Farmingdale Road | West Babylon | NY | 11704 | 42,025.00
Community Action Program for Madison County, Inc./PSH Oneida | 3 East Main Street, P.O. Box 249 | Morrisville | NY | 13408 | 43,140.00
Federation of Organizations for the New York State Mentally/Patchogue SHP | One Farmingdale Road | West Babylon | NY | 11704 | 43,384.00
Catholic Charities of Chemung/Schuyler/SHP—Permanent Supported Housing | 607 N. Franklin Street | Watkins Glen | NY | 14891 | 43,923.00
Albany Housing Coalition, Inc./Veterans House Addition (2017) | 278 Clinton Avenue | Albany | NY | 12210 | 43,977.00
Corporation for AIDS Research, Education and Services, Inc./Elmira/501 CoC Planning Project (2017) | 200 Henry Johnson Blvd., Suite 4 | Albany | NY | 12210 | 44,486.00
Catholic Charities of Chemung/Schuyler/HSHE—Permanent Supported Housing | 215 East Church Street | Elmira | NY | 14901 | 44,512.00
Albany Housing Coalition, Inc./Walter Street Residence (2017) | 278 Clinton Avenue | Albany | NY | 12210 | 44,734.00
Adirondack Vets House, Inc/AVH Permanent Housing FY 2017 | 26 Pine Street | Glens Falls | NY | 12801 | 44,988.00
Corporation for AIDS Research, Education and Services, Inc./Dutchess County Portion of the Capital Region HMIS (2017) | 200 Henry Johnson Blvd., Suite 4 | Albany | NY | 12210 | 45,120.00
Gateway Community Industries, Inc./DC MICA FY2017 Renewal | One Amy Kay Parkway, P.O. Box 5002 | Kingston | NY | 12402 | 45,501.00
The Municipal Housing Authority for the City of Yonkers/Westhab RA SRO | 1511 Central Park Avenue, P.O. Box 35 | Yonkers | NY | 10701 | 45,734.00
Corporation for AIDS Research, Education and Services, Inc./Saratoga North County Planning Project (2017) | 200 Henry Johnson Blvd., Suite 4 | Albany | NY | 12210 | 46,049.00
Albany Housing Coalition, Inc./Permanent Supportive Housing for Homeless Veterans (2017) | 278 Clinton Avenue | Albany | NY | 12210 | 46,509.00
Corporation for AIDS Research, Education and Services, Inc./Rockland County CoC Planning Project (2017) | 200 Henry Johnson Blvd., Suite 4 | Albany | NY | 12210 | 46,581.00
Gateway Community Industries, Inc./WWC FY 2017-Renewal | One Amy Kay Parkway, P.O. Box 5002 | Kingston | NY | 12402 | 46,891.00
Wayne County Action Program, Inc./Success Center TH-RRH | 157 Montezuma Street | Lyons | NY | 14489 | 48,123.00
Veterans & Community Housing Coalition/VCHC Veterans Apartment House | 20 Prospect St, Building 2, Suite 313 | Ballston Spa | NY | 12020 | 48,164.00
Corporation for AIDS Research, Education and Services, Inc./Albany HMIS Expansion FY2017 | 200 Henry Johnson Blvd., Suite 4 | Albany | NY | 12210 | 48,463.00
Safe Inc., of Schenectady/Project Safe\Life Skills Program | 1344 Albany Street | Schenectady | NY | 12304 | 49,202.00
Westchester County Dept. of Social Services/Life Bridges | 112 East Post Road | White Plains | NY | 10601 | 49,499.00
Steuben Churchpeople Against Poverty, Inc/Livingston Supportive Housing (FY 2017) | 26 Bridge St | Corning | NY | 14830 | 50,479.00
Jericho Project/Loring Place Vocational Education | 245 West 29th Street, Suite 902 | New York | NY | 10001 | 50,618.00
Community Action of Greene County, Inc./Supportive Housing for Homeless Families 2017 | 7856 Rt. 9W | Catskill | NY | 12414 | 50,799.00
Allegany County Community Opportinities & Rural Development/FY2017 RRH Supportive Housing Project I | 84 Schuyler Street, P.O. Box 573 | Belmont | NY | 14813 | 50,810.00
Rockland County/Rapid Rehousing DSS Program 2 (2017) | 50 Sanatorium Road, Building L | Pomona | NY | 10970 | 51,764.00
Albany Housing Authority/Project-Based Rental Assistance for Homeless Persons Living with HIV/AIDS (Yr 2) (2017) | 200 South Pearl Street | Albany | NY | 12202 | 52,015.00
Hudson River Housing, Inc./HRH Garden Street Housing | 313 Mill Street | Poughkeepsie | NY | 12601 | 52,272.00
Franklin County Community Housing Council, Inc./FCCHC Homeless Program | 337 West Main Street | Malone | NY | 12953 | 52,956.00
Bethesda House of Schenectady, Inc./Coordinated Entry Schenectady Co 2017 | 834 State St | Schenectady | NY | 12307 | 53,419.00
City of Mount Vernon (NY)/CMV RA Vets | City Hall—Roosevelt Square | Mount Vernon | NY | 10550 | 53,692.00
Chapel House Inc/Chapel House Permanent Supportive Housing 2017 | 36 Franklin St | Auburn | NY | 13021 | 54,054.00
Catholic Charities of the Roman Catholic Diocese of Syracuse, NY/Permanent Housing for the Homeless 2 | 1654 West Onondaga Street | Syracuse | NY | 13204 | 54,936.00
Family Residences and Essential Enterprises, Inc./HUD-Coram 2017-18 | 191 Sweet Hollow Road | Old Bethpage | NY | 11804 | 55,412.00
Joseph's House and Shelter, Inc./Coordinated Entry Expansion (2017) | 202 4th Street | Troy | NY | 12180 | 56,548.00
Chances and Changes, Inc./SHP Permanent Housing Livingston FY2017 | 8 Genesee St | Mt. Morris | NY | 14510 | 59,433.00
Long Island Coalition for the Homeless/LI Centralized Assessment 2017 | 600 Albany Avenue, Suite 2 | Amityville | NY | 11701 | 59,653.00
Rochester Housing Authority/RHA/East House Phase II PSH-RA #19 | 675 West Main Street | Rochester | NY | 14611 | 59,815.00
Community Housing Innovations, Inc./HEDV2 | 190 East Post Road, Suite 401 | White Plains | NY | 10601 | 59,866.00
Interfaith Partnership for the Homeless/Interfaith's Hope Through Housing | 176 Sheridan Ave | Albany | NY | 12210 | 60,163.00
Homeless and Travelers Aid Society of the Capital District, Inc./The Next Step FY2017 | 138 Central Ave | Albany | NY | 12206 | 60,348.00
Cattaraugus Community Action, Inc./NY0061 Empowering the Homeless Toward Permanent Housing Solutions | 25 Jefferson Street | Salamanca | NY | 14779 | 61,703.00
Albany Housing Authority/Albany County Department of Mental Health Tenant-based Rental Assistance (2017) | 200 South Pearl Street | Albany | NY | 12202 | 62,418.00
Albany Housing Authority/Albany Damien Center Program (2017) | 200 South Pearl Street | Albany | NY | 12202 | 62,418.00
Community Housing Innovations, Inc./F1C2 | 190 East Post Road, Suite 401 | White Plains | NY | 10601 | 62,471.00
St Catherine's Center for Children/SCCC Indiv PSH 18-19 | 40 N Main Ave | Albany | NY | 12203 | 63,403.00
Albany Housing Coalition, Inc./Veterans House Main (2017) | 278 Clinton Avenue | Albany | NY | 12210 | 64,712.00
Interfaith Partnership for the Homeless/Sheridan Ave Housing Project II | 176 Sheridan Ave | Albany | NY | 12210 | 65,434.00
Projects to Empower and Organize the Psychiatrically Labeled/PEOPLe Home Again Project FY2017 | 126 Innis Avenue | Poughkeepsie | NY | 12601 | 65,598.00
The Albany Damien Center, Inc./Albany Damien Center PSH Program (2017) | 646 State Street | Albany | NY | 12203 | 65,644.00
Corporation for AIDS Research, Education and Services, Inc./Orange CoC HMIS (2017) | 200 Henry Johnson Blvd., Suite 4 | Albany | NY | 12210 | 65,809.00
Family of Woodstock, Inc./HUD SHP Families #2 FY2017 | 39 John Street | Kingston | NY | 12401 | 65,886.00
City of Schenectady/Shelter Plus Care 10 bed 2017 | 105 Jay Street City Hall, Department of Development Room 14 | Schenectady | NY | 12305 | 66,301.00
Catholic Charities of Chemung/Schuyler/Schuyler SHARE—RR Hsg | 215 East Church Street | Elmira | NY | 14901 | 66,353.00
Emergency Housing Group, Inc./Permanent Housing Bonus Money | 38 Seward Avenue | Middletown | NY | 10940 | 66,796.00
Transitional Services of New York for Long Island, Inc./Summit Renewal 2017 | 840 Suffolk Avenue | Brentwood | NY | 11717 | 67,098.00
Steuben Churchpeople Against Poverty, Inc/Transitional to Permanent Supportive Housing (FY 2017) | 26 Bridge St | Corning | NY | 14830 | 67,649.00
Teaching and Restoring Youth, Inc./TRY Program—TH | 228 BRINKMAN AVE | BUFFALO | NY | 14211 | 68,701.00
Community Housing Innovations, Inc./ENST2 | 190 East Post Road, Suite 401 | White Plains | NY | 10601 | 68,718.00
Corporation for AIDS Research, Education and Services, Inc./Rockland CoC HMIS (2017) | 200 Henry Johnson Blvd., Suite 4 | Albany | NY | 12210 | 69,543.00
Corporation for AIDS Research, Education and Services, Inc./Ulster CoC HMIS (2017) | 200 Henry Johnson Blvd., Suite 4 | Albany | NY | 12210 | 70,350.00
Unity House of Troy, Inc./Permanent Supported Housing (309) | 2431 Sixth Avenue | Troy | NY | 12180 | 71,437.00
The Municipal Housing Authority for the City of Yonkers/HIV RA | 1511 Central Park Avenue, P.O. Box 35 | Yonkers | NY | 10701 | 71,589.00
County of Orange/MHA NY0437 Enhanced MH/DD | 30 Harriman Drive | Goshen | NY | 10924 | 73,512.00
County of Orange/MHA NY0448 Individuals | 30 Harriman Drive | Goshen | NY | 10924 | 73,512.00
Catholic Charities Housing Office/SHP St. Peter's (2017) | 41 North Main Avenue | Albany | NY | 12203 | 74,028.00
Fairview Recovery Services, Inc/HMIS2 | 5 Merrick Street | Binghamton | NY | 13904 | 75,000.00
Volunteers of America of Western New York, Inc./VOAWNY Permanent Supportive Housing for Chronically Homeless at Cooper Union in Rochester | 214 Lake Avenue | Rochester | NY | 14608 | 75,729.00
Homeless Action Committee, Inc/HAC SRO | 393 N. Pearl Street | Albany | NY | 12207 | 75,854.00
Rochester Housing Authority/RHA/OMH PSH-RA #16 | 675 West Main Street | Rochester | NY | 14611 | 76,036.00
Mental Health Association in Jefferson County/Peer Run Housing First | 425 Washington St | Watertown | NY | 13601 | 76,047.00
Unity House of Troy, Inc./Rapid Rehousing (352) | 2431 Sixth Avenue | Troy | NY | 12180 | 76,309.00
North Country Transitional Living Services, Inc./Permanent Housing for Chronically Homeless | 482 Black River Parkway | Watertown | NY | 13601 | 76,458.00
Adirondack Vets House, Inc/FY 2017 TH | 26 Pine Street | Glens Falls | NY | 12801 | 76,855.00
Rehabilitation Support Services/SAIL (FY2017) | 314 Central Ave | Albany | NY | 12206 | 77,652.00
Rochester Housing Authority/RHA/Voter's Block PSH-PBRA #20 | 675 West Main Street | Rochester | NY | 14611 | 77,803.00
Geneva Housing Authority/Finger Lakes Regional Shelter Plus Care II | 41 Lewis Street, P.O. Box 153 | Geneva | NY | 14456 | 77,840.00
The Center for Youth Services, Inc./Transition Age Youth Rapid Rehousing Project | 905 Monroe Avenue | Rochester | NY | 14620 | 78,103.00
NYS Office of Mental Health/OMH/Central Nassau 2017 | 44 Holland Avenue | Albany | NY | 12229 | 78,502.00
Family of Woodstock, Inc./Rapid Re-Housing for Domestic Violence Survivors | 39 John Street | Kingston | NY | 12401 | 79,423.00
St. Paul's Center/St Paul's Center Permanent Supportive Housing (2017) | 947 Third St | Rensselaer | NY | 12144 | 79,634.00
St Catherine's Center for Children/SCCC Col-Greene PSH 18-19 | 40 N Main Ave | Albany | NY | 12203 | 79,848.00
Emergency Housing Group, Inc./CoC Planning Project Application FY2017 | 38 Seward Avenue | Middletown | NY | 10940 | 79,860.00
Family of Woodstock, Inc./HUD SHP Families FY 2017 | 39 John Street | Kingston | NY | 12401 | 80,916.00
Rochester Housing Authority/RHA/VOC PSH-RA #6 | 675 West Main Street | Rochester | NY | 14611 | 81,094.00
Domestic Violence and Rape Crisis Services of Saratoga Count (dba Wellspring)/NewView Permanent Supportive 2017-18 | 480 Broadway, LL20 | Saratoga Springs | NY | 12866 | 81,346.00
Coalition for the Homeless of the Southern of NY/NY-511 COC planning Project | 80 Hawley St | Binghamton | NY | 13901 | 83,807.00
The Center for Youth Services, Inc./Parenting Teens | 905 Monroe Avenue | Rochester | NY | 14620 | 83,935.00
DUNKIRK HOUSING AUTHORITY/Shelter Plus Care Project | 15 N MAIN ST, APT 7 | DUNKIRK | NY | 14048 | 84,288.00
North Country Transitional Living Services, Inc./Scattered Site Leasing Model | 482 Black River Parkway | Watertown | NY | 13601 | 84,479.00
Association for Mental Health and Wellness/Senior Quarters 2017 | 939 Johnson Avenue | Ronkonkoma | NY | 11779 | 86,313.00
Catholic Charities of Chemung/Schuyler/Chemung SHARE—RR Hsg | 215 East Church Street | Elmira | NY | 14901 | 86,870.00
Legal Aid Society of Northeastern New York, Inc./Legal Aid Rapid Rehousing for Families 2017-2 | 55 Colvin Avnue, NA | Albany | NY | 12206 | 87,708.00
Emergency Housing Group, Inc./Stephen Saunders Residence | 38 Seward Avenue | Middletown | NY | 10940 | 90,058.00
United Way of the Valley and Greater Utica Area/NY-518 CoC Planning Application FY2017 | 201 Lafayette Street | Utica | NY | 13502 | 90,500.00
Westchester County Dept. of Community Mental Health/DCMH Vet Home 03 | 112 East Post Road, 2nd Floor | White Plains | NY | 10601 | 91,464.00
Family of Woodstock, Inc./HUD MidWay FY 2017 | 39 John Street | Kingston | NY | 12401 | 91,667.00
Jefferson County Department of Social Services/JCDSS Chronic Homeless S+C Renewal FY2017 | 250 Arsenal Street | Watertown | NY | 13601 | 91,875.00
The Housing Council/The Housing Council at PathStone GOW RRH 2016 Program | 75 College Avenue | Rochester | NY | 14607 | 91,881.00
Tompkins Community Action, Inc./Amici House | 701 Spencer Road | Ithaca | NY | 14850 | 92,699.00
Catholic Charities Housing Office/Shelter Plus Care THA SP (2017) | 41 North Main Avenue | Albany | NY | 12203 | 92,821.00
Rochester Housing Authority/RHA/Son House PSH-PBRA #26 | 675 West Main Street | Rochester | NY | 14611 | 93,053.00
WAIT House/Transitional Living Program for Homeless Pregnant and Parenting Youth | 10-12 Wait St., P.O. Box 3252 | Glens Falls | NY | 12801 | 93,462.00
Bethesda House of Schenectady, Inc./Beacon Residential Program 2017 | 834 State St | Schenectady | NY | 12307 | 94,199.00
Projects to Empower and Organize the Psychiatrically Labeled/PEOPLe Home Project FY2017 | 126 Innis Avenue | Poughkeepsie | NY | 12601 | 94,284.00
NYS Office of Mental Health/OMH/Free 2017 | 44 Holland Avenue | Albany | NY | 12229 | 95,262.00
Corporation for AIDS Research, Education and Services, Inc./Rensselaer County CoC Planning Project (2017) | 200 Henry Johnson Blvd., Suite 4 | Albany | NY | 12210 | 95,959.00
Vocational Instruction Project Community Services, Inc/Abraham Apartments | 1910 Arthur Ave | Bronx | NY | 10457 | 96,047.00
Support Ministries, Inc./Arvilla House (FY 2017) | 28 Delaware Terrace | Albany | NY | 12209 | 96,078.00
Housing Options Made Easy, Inc./Chaut. Permanent Housing for Individuals with Mental Illness | 75 Jamestown Street | Gowanda | NY | 14070 | 96,635.00
Helping Hands Interfaith Coalition for the Homeless of Rockland County Inc/Helping Hands Rapid Rehousing 2 | 11 East Church Street | Spring Valley | NY | 10977 | 96,881.00
Family of Woodstock, Inc./Rapid Re-Housing Families FY2017 | 39 John Street | Kingston | NY | 12401 | 97,452.00
Albany Housing Coalition, Inc./Rapid Rehousing for Homeless Veterans (2017) | 278 Clinton Avenue | Albany | NY | 12210 | 98,182.00
City of Mount Vernon (NY)/CMV RA 07 | City Hall—Roosevelt Square | Mount Vernon | NY | 10550 | 98,218.00
Support Ministries, Inc./Project HELP (FY 2017) | 28 Delaware Terrace | Albany | NY | 12209 | 99,357.00
St Catherine's Center for Children/SCCC Family PSH 18-19 | 40 N Main Ave | Albany | NY | 12203 | 99,895.00
Catholic Charities of Chemung/Schuyler/HMIS | 215 East Church Street | Elmira | NY | 14901 | 100,058.00
Corporation for AIDS Research, Education and Services, Inc./Albany County UFA Project (2017) | 200 Henry Johnson Blvd., Suite 4 | Albany | NY | 12210 | 100,136.00
Rochester Housing Authority/RHA/VOA Family Housing Program PSH-RA #21 | 675 West Main Street | Rochester | NY | 14611 | 100,956.00
YWCA of Binghamton/Broome County/Intensive Independent Living Program 2017 | 80 Hawley Street | Binghamton | NY | 13901 | 102,028.00
Catholic Charities of the Roman Catholic Diocese of Syracuse, NY/Permanent Housing for the Chronically Homeless 2 Expansion | 1654 West Onondaga Street | Syracuse | NY | 13204 | 104,508.00
Catholic Charities of Chemung/Schuyler/BONUS—Permanent Supported Housing | 215 East Church Street | Elmira | NY | 14901 | 105,042.00
Joseph's House and Shelter, Inc./Bert's Place (2017) | 202 4th Street | Troy | NY | 12180 | 105,057.00
Finger Lakes Addictions Counseling and Referral Agency/Wayne County Permanent Supportive Housing | 28 East Main Street | Clifton Springs | NY | 14432 | 105,270.00
Fairview Recovery Services, Inc/HMIS | 5 Merrick Street | Binghamton | NY | 13904 | 105,297.00
Warren Washington Association for Mental Health/WWAMH Housing First Program | 3041 State Rte. 4 | Hudson Falls | NY | 12839 | 105,817.00
Council on Addiction Recovery Services, Inc./Shelter Plus Care Community Based Housing FY2017 | 201 South Union Street | Olean | NY | 14760 | 106,212.00
Mental Health Association of Nassau County, Inc./AHAL II | 16 Main Street | Hempstead | NY | 11550 | 106,376.00
Westchester County Dept. of Social Services/The Refuge | 112 East Post Road | White Plains | NY | 10601 | 107,001.00
Syracuse Brick House Inc./Grove Point | 329 N. Salina St., Suite 300 | Syracuse | NY | 13203 | 107,325.00
Clinton County Social Services Department/Shelter North 2017 | 13 Durkee Street | Plattsburgh | NY | 12901 | 108,921.00
CUCS, Inc./The Christopher | 198 East 121st Street, 6th Floor | New York | NY | 10035 | 109,333.00
CAPITAL AREA PEER SERVICES/100 Clinton Ave Apartments (2017) | 352 CENTRAL AVENUE | ALBANY | NY | 12206 | 109,765.00
Central New York Services, Inc./Oneida County Supportive Living Program 2 | 518 James Street, Suite 240 | Syracuse | NY | 13203 | 109,948.00
Oswego County Opportunities Inc/OCO-PSH | 239 Oneida Street | Fulton | NY | 13069 | 111,776.00
Binghamton Housing Authority/BHA/Lisle Ave Project Renewal 2017 | 35 Exchange St | Binghamton | NY | 13901 | 113,136.00
JCTOD Outreach, Inc. dba Johnson Park Center/JPA IV—FY2017 | 26 Johnson Park | Utica | NY | 13501 | 113,593.00
Chapel House Inc/Supported Housing Program FY 2017 | 36 Franklin St | Auburn | NY | 13021 | 114,108.00
Mental Health Association in Orange County, Inc./MHA HDH FY 2017 | 73 James P Kelly Way | Middletown | NY | 10940 | 115,496.00
Corporation for AIDS Research, Education and Services, Inc./Schenectady County CoC Planning Project (2017) | 200 Henry Johnson Blvd., Suite 4 | Albany | NY | 12210 | 115,865.00
JCTOD Outreach, Inc. dba Johnson Park Center/JPA 5—FY2017 | 26 Johnson Park | Utica | NY | 13501 | 116,000.00
Family Residences and Essential Enterprises, Inc./HUD-Nassau 2017-18 | 191 Sweet Hollow Road | Old Bethpage | NY | 11804 | 116,486.00
County of Dutchess/HRH Shelter Plus Care | 22 Market Street | Poughkeepsie | NY | 12601 | 117,636.00
YWCA of Rochester and Monroe County/YWCA Family Rapid Re-Housing | 175 North Clinton Ave | Rochester | NY | 14604 | 117,684.00
Central New York Services, Inc./Susan's Place | 518 James Street, Suite 240 | Syracuse | NY | 13203 | 117,943.00
Cazenovia Recovery Systems, Inc./Cazenovia Niagara County Shelter Plus Care | 2671 Main Street | Buffalo | NY | 14214 | 118,312.00
Catholic Charities of the Roman Catholic Diocese of Syracuse, NY/Permanent Housing for Homeless Veterans | 1654 West Onondaga Street | Syracuse | NY | 13204 | 120,141.00
West Side Federation for Senior and Supportive Housing, Inc./74th Street Home Expansion | 2345 Broadway | New York | NY | 10024 | 120,405.00
Samaritan Daytop Village, Inc./Young Mothers Program 2 2017 Renewal | 138-02 Queens Blvd | Briarwood | NY | 11435 | 122,361.00
Interfaith Partnership for the Homeless/Sheridan Ave Housing Project | 176 Sheridan Ave | Albany | NY | 12210 | 122,897.00
The Bridge Inc./631 East 6th Street Residence | 248 West 108th Street | New York | NY | 10025 | 123,455.00
Center for Safety & Change, Inc./CSC DV Rapid Re-Housing (2017) | 9 Johnsons Lane | New City | NY | 10956 | 124,525.00
Delphi Drug and Alcohol Council Inc/Home Safe Bonus | 1839 E. Ridge Road | Rochester | NY | 14622 | 124,735.00
Catholic Charities of Rochester dba Catholic Family Center/Lafayette Housing 2 | 87 N. Clinton Ave | Rochester | NY | 14604 | 125,019.00
The Bridge Inc./Park West House II | 248 West 108th Street | New York | NY | 10025 | 125,838.00
Central Nassau Guidance and Counseling Services, Inc./Ozanam | 950 South Oyster Bay Road | Hicksville | NY | 11801 | 125,967.00
Catholic Charities of the Roman Catholic Diocese of Syracuse, NY/Catholic Charities Rapid Rehousing | 1654 West Onondaga Street | Syracuse | NY | 13204 | 127,280.00
Person Centered Housing Options Inc./PCHO RRH | 1136 Buffalo Road | Rochester | NY | 14624 | 127,837.00
Central New York Services, Inc./Recovery Permanent Supportive Housing Program II | 518 James Street, Suite 240 | Syracuse | NY | 13203 | 128,049.00
Bethesda House of Schenectady, Inc./Pathways to the Future 2017 | 834 State St | Schenectady | NY | 12307 | 128,936.00
The Center for Youth Services, Inc./Transitional Living Program | 905 Monroe Avenue | Rochester | NY | 14620 | 129,288.00
Association to Benefit Children/ABC Permanent Supportive Housing Program | 419 East 86th Street | New York | NY | 10028 | 130,131.00
YWCA of the Greater Capital Region, Inc./Apartment Program (2017) | 21 1st Street | Troy | NY | 12180 | 130,784.00
City of Schenectady/Shelter Plus Care 20 bed 2017 | 105 Jay Street, City Hall, Department of Development, Room 14 | Schenectady | NY | 12305 | 132,602.00
H.E.L.P. Equity Homes, Inc./Nassau Scattered Site Permanent Housing Program | 115 E. 13th Street | New York | NY | 10003 | 133,287.00
The Albany Damien Center, Inc./The Madison Apartments FY2017 | 646 State Street | Albany | NY | 12203 | 133,489.00
Rochester Housing Authority/RHA/JPC PSH-RA #18 | 675 West Main Street | Rochester | NY | 14611 | 133,781.00
Community Action for Human Services, Inc./JHB Housing, Inc. | 2225 Lodovick Avenue | Bronx | NY | 10469 | 133,895.00
Institute for Community Living, Inc./Flatbush Aveunue Residence | 125 Broad Street, 3rd Floor | New York | NY | 10004 | 134,543.00
Institute for Community Living, Inc./Lewis Ave Residence | 125 Broad Street, 3rd Floor | New York | NY | 10004 | 134,544.00
Women In Need, Inc./Women In Need SPC 4 Families in Recovery | 115 West 31st Street | New York | NY | 10001 | 134,600.00
Mohawk Opportunities, Inc./Supported Housing Program (2017) Renewal Project Application | 201 Nott Terrace | Schenectady | NY | 12307 | 134,631.00
Binghamton Housing Authority/BHA/OFB Project Renewal 2017 | 35 Exchange St | Binghamton | NY | 13901 | 134,930.00
Catholic Charities of the Roman Catholic Diocese of Syracuse, NY/Catholic Charities Rapid Rehousing 2 | 1654 West Onondaga Street | Syracuse | NY | 13204 | 135,170.00
Rochester Housing Authority/RHA/OMH SPOA Chronically Homeless PSH-RA#17 | 675 West Main Street | Rochester | NY | 14611 | 135,714.00
Emergency Housing Group, Inc./HONOR Housing First III | 38 Seward Avenue | Middletown | NY | 10940 | 135,746.00
City of Glens Falls Housing Authority/Housing First Regular 2017 | 23 Jay Street, Stichman Towers | Glens Falls | NY | 12801 | 136,284.00
FACES NY,INC./Congregate Renewal Project application 2017 | 123 West 115th Street | New York | NY | 10026 | 136,464.00
Westchester County Dept. of Social Services/Westchester Coordinated Entry | 112 East Post Road | White Plains | NY | 10601 | 136,819.00
Catholic Charities of Cortland County/Shelter Plus Care | 33-35 Central Avenue | Corltand | NY | 13045 | 137,864.00
Westchester County Dept. of Community Mental Health/DCMH RAP expansion | 112 East Post Road, 2nd Floor | White Plains | NY | 10601 | 138,505.00
Family of Woodstock, Inc./HUD S&C Families FY2017 | 39 John Street | Kingston | NY | 12401 | 139,756.00
Hudson River Housing, Inc./HRH Hillcrest House | 313 Mill Street | Poughkeepsie | NY | 12601 | 141,619.00
Catholic Charities of Rochester dba Catholic Family Center/Lafayette Housing | 87 N. Clinton Ave | Rochester | NY | 14604 | 142,868.00
Palladia, Inc./Fox Point | 305 Seventh Avenue | New York | NY | 10001 | 143,549.00
Mental Health Association in Orange County, Inc./Family Supportive Housing FY 2017 | 73 James P Kelly Way | Middletown | NY | 10940 | 144,307.00
Mohawk Opportunities, Inc./Permanent and Supported Housing | 201 Nott Terrace | Schenectady | NY | 12307 | 145,535.00
Trillium Health, Inc/Trillium Health Permanent Supportive Housing | 259 Monroe Avenue | Rochester | NY | 14607 | 145,860.00
The Bridge Inc./The Bridge S+C | 248 West 108th Street | New York | NY | 10025 | 146,384.00
Fairview Recovery Services, Inc/NY-511 Coordinated Entry | 5 Merrick Street | Binghamton | NY | 13904 | 146,980.00
Joseph's House and Shelter, Inc./Bethune Program (2017) | 202 4th Street | Troy | NY | 12180 | 147,711.00
Circulo de la Hispanidad/Casa Salva RRH | 26 West Park Avenue, Second Floor | Long Beach | NY | 11561 | 147,989.00
AIDS Community Resources, Inc./Rapid Rehousing for LGBT Youth | 627 W. Genesee St | Syracuse | NY | 13204 | 148,013.00
Cayuga/Seneca Community Action Agency, Inc./Rapid Rehousing Program | 89 York St., Suite 1 | Auburn | NY | 13021 | 148,157.00
Hudson River Housing, Inc./HRH COACH | 313 Mill Street | Poughkeepsie | NY | 12601 | 148,419.00
United Way of Central New York/Homeless Management Information System (HMIS) | 518 James Street | Syracuse | NY | 13203 | 148,611.00
Catholic Charities of Chemung/Schuyler/HSH—Permanent Supported Housing | 215 East Church Street | Elmira | NY | 14901 | 149,626.00
Corporation for AIDS Research, Education and Services, Inc./Albany County CoC Planning Project (2017) | 200 Henry Johnson Blvd., Suite 4 | Albany | NY | 12210 | 150,205.00
Housing Options Made Easy, Inc./Catt. Permanent Housing for Individuals with Mental Illness | 75 Jamestown Street | Gowanda | NY | 14070 | 150,831.00
Rochester Housing Authority/RHA/Unity Chronically Homeless PSH-RA #13 | 675 West Main Street | Rochester | NY | 14611 | 151,071.00
Women In Need, Inc./Women In Need SPC 1 Triangle House | 115 West 31st Street | New York | NY | 10001 | 151,737.00
Project Renewal, Inc./Vets | 200 Varick Street, 9th Floor | New York | NY | 10014 | 155,257.00
Volunteers of America of Western New York, Inc./Volunteers of America's of WNY's Permanent Supportive Housing | 214 Lake Avenue | Rochester | NY | 14608 | 157,331.00
United Veterans Beacon House, Inc./SHP/Islip | 1715 Union Boulevard | Bayshore | NY | 11706 | 159,710.00
Newburgh Interfaith Emergency Housing Inc./Project LIFE Rapid Rehousing Program | 172 1st Street | Newburgh | NY | 12550 | 160,092.00
Central New York Services, Inc./Oneida County Homeless Management Information System II | 518 James Street, Suite 240 | Syracuse | NY | 13203 | 160,456.00
County of Dutchess/MARC Shelter Plus Care | 22 Market Street | Poughkeepsie | NY | 12601 | 160,914.00
County of Dutchess/HRH Home Base I | 22 Market Street | Poughkeepsie | NY | 12601 | 162,594.00
Westchester County Dept. of Community Mental Health/DCMH Leasing Project | 112 East Post Road, 2nd Floor | White Plains | NY | 10601 | 164,177.00
West Side Federation for Senior and Supportive Housing, Inc./West 74th Street Home | 2345 Broadway | New York | NY | 10024 | 165,389.00
Central New York Services, Inc./Oneida County Rapid Re-Housing Program 1 | 518 James Street, Suite 240 | Syracuse | NY | 13203 | 166,181.00
Rochester Housing Authority/RHA/Strong Ties PSH-RA #8 | 675 West Main Street | Rochester | NY | 14611 | 166,684.00
Erie County Department of Mental Health/ECDMH Supported Housing Program IX | 95 Franklin Street | Buffalo | NY | 14202 | 167,710.00
Helping Hands Interfaith Coalition for the Homeless of Rockland County Inc/Helping Hands Rapid Re-Housing (2017) | 11 East Church Street | Spring Valley | NY | 10977 | 168,599.00
Schenectady Community Action Program, Inc./SCAP Sojourn House (FY2017) v. 2 | 913 Albany Street | Schenectady | NY | 12307 | 169,065.00
Kids Oneida, Inc./Evelyn's House Plus | 310 Main Street | Utica | NY | 13501 | 169,984.00
City of Norwich Housing Authority/NH Shelter Plus Care 1 | 13 Brown Street | Norwich | NY | 13815 | 170,311.00
Safe Harbors of the Hudson, Inc./Safe Harbors Cornerstone Residence | 111 Broadway | Newburgh | NY | 12550 | 171,006.00
Hope House Inc/Permanent Supportive Housing Program | 573 Livingston Ave | Albany | NY | 12206 | 172,039.00
Rehabilitation Support Services/Oasas Shelter Plus Care 2017 | 11 Twin Maples Plaza | Saugerties | NY | 12477 | 172,316.00
Opportunities for Broome, Inc./Rapid Re-Housing Project-OFB | 5 West State St | Binghamton | NY | 13901 | 172,414.00
South shore Association for Independent Living, Inc./SAIL Housing and Services II | 1976 Grand Ave | Baldwin | NY | 11510 | 173,745.00
Palladia, Inc./Chelsea Court | 305 Seventh Avenue | New York | NY | 10001 | 174,758.00
Westchester County Dept. of Community Mental Health/DCMH Samaritan Initiative | 112 East Post Road, 2nd Floor | White Plains | NY | 10601 | 176,320.00
Urban Pathways, Inc./Cluster House | 575 8th Avenue | New York | NY | 10018 | 176,577.00
The Center for Youth Services, Inc./Transition Age Youth Rapid Rehousing Project—Bonus Funding | 905 Monroe Avenue | Rochester | NY | 14620 | 176,998.00
Bethesda House of Schenectady, Inc./The Lighthouse 2017 | 834 State St | Schenectady | NY | 12307 | 177,392.00
Suffolk County Department of Social Services/Beacon House III | 3085 Veterans Memorial Highway | Ronkonkoma | NY | 11779 | 178,436.00
Providence Housing Development Corporation/Providence Veterans Permanent Housing Program | 1150 Buffalo Road | Rochester | NY | 14624 | 181,170.00
Domestic Violence and Rape Crisis Services of Saratoga Count (dba Wellspring)/NewView Rapid Rehousing 2017-8 | 480 Broadway, LL20 | Saratoga Springs | NY | 12866 | 182,095.00
Equinox, Inc./Transitional Living Project | 500 Central Avenue | Albany | NY | 12206 | 184,010.00
Goddard Riverside Community Center/Corner House | 593 Columbus Ave | New York | NY | 10024 | 184,074.00
Services for the UnderServed, Inc./SUS Morris Avenue | 305 Seventh Avenue, 10th Floor | New York | NY | 10001 | 184,749.00
Central New York Services, Inc./Oneida County Supportive Living Program | 518 James Street, Suite 240 | Syracuse | NY | 13203 | 185,580.00
Central New York Services, Inc./Oneida County Homeless Assistance Case Management Program | 518 James Street, Suite 240 | Syracuse | NY | 13203 | 188,735.00
Restoration Society, Inc./RSI Coordinated Entry Assessment Project | 66 Englewood Avenue | Buffalo | NY | 14214 | 192,458.00
Institute for Community Living, Inc./Integrated Permanent Housing, Support Services, Employment Program | 125 Broad Street, 3rd Floor | New York | NY | 10004 | 192,990.00
Rochester Housing Authority/RHA/PCHO PSH-RA #27 | 675 West Main Street | Rochester | NY | 14611 | 195,278.00
County of Dutchess/RSS MICA Shelter Plus Care | 22 Market Street | Poughkeepsie | NY | 12601 | 195,435.00
Bailey House Inc./STARS II Renewal 2017 | 1751 Park Avenue, 3rd Floor | New York | NY | 10035 | 198,554.00
FACES NY/WWC renewal project 2017 | 121 West 115th St | New York | NY | 10026 | 198,827.00
Circulo de la Hispanidad/Casa Serenidad FY 2017 | 26 West Park Avenue, Second Floor | Long Beach | NY | 11561 | 200,878.00
Services for the UnderServed, Inc./OMH/SUS 12 | 305 Seventh Avenue, 10th Floor | New York | NY | 10001 | 203,026.00
Catholic Charities of Buffalo/Catholic Charities RRH | 741 Delaware Ave | Buffalo | NY | 14209 | 203,081.00
Veterans & Community Housing Coalition/SVAP 2017 | 20 Prospect St, Building 2, Suite 313 | Ballston Spa | NY | 12020 | 203,196.00
Hispanos Unidos de Buffalo, Inc./Hispanos Unidos de Buffalo RRH | 254 Virginia St | Buffalo | NY | 14201 | 203,202.00
Central New York Services, Inc./Oneida County Dual Recovery Supportive Living Program | 518 James Street, Suite 240 | Syracuse | NY | 13203 | 205,196.00
Cazenovia Recovery Systems, Inc./Cazenovia Supportive Housing—Substance Abuse | 2671 Main Street | Buffalo | NY | 14214 | 206,597.00
Syracuse Brick House Inc./FAST Housing | 329 N. Salina St., Suite 300 | Syracuse | NY | 13203 | 207,376.00
Mental Health Association of Nassau County, Inc./AHAL I | 16 Main Street | Hempstead | NY | 11550 | 208,063.00
Homeless Alliance of Western New York, Inc./NY508 HMIS | 960 Main St | Buffalo | NY | 14202 | 210,255.00
County of Orange/RECAP NY 0811 Veterans | 30 Harriman Drive | Goshen | NY | 10924 | 211,511.00
Fairview Recovery Services, Inc/Fairview Recovery Services, 25 Units | 5 Merrick Street | Binghamton | NY | 13904 | 212,834.00
Equinox, Inc./Project Break Free | 500 Central Avenue | Albany | NY | 12206 | 215,293.00
North Country Transitional Living Services, Inc./Reallocation: Rapid Rehousing | 482 Black River Parkway | Watertown | NY | 13601 | 215,328.00
Lutheran Social Services of New York/Muhlenberg Residence | 475 Riverside Drive, Suite 1244 | New York | NY | 10115 | 218,079.00
City of Glens Falls Housing Authority/Community-Chronic 2017 | 23 Jay Street, Stichman Towers | Glens Falls | NY | 12801 | 218,315.00
Erie County Department of Mental Health/ECDMH Continuum of Care III | 95 Franklin Street | Buffalo | NY | 14202 | 219,743.00
Volunteers of America of Western New York, Inc./VOAWNY PSH for Chronically Homeless Individuals and Families in Binghamton | 214 Lake Avenue | Rochester | NY | 14608 | 220,861.00
City of New York Acting by and through its Department of Housing Preservation and Development/Clinton Housing W. 42nd Street | 100 Gold Street, 9C | New York | NY | 10038 | 223,765.00
Goddard Riverside Community Center/Havens | 593 Columbus Ave | New York | NY | 10024 | 225,326.00
The Salvation Army, a New York Corporation/Barnabas Rapid Rehousing | 440 West Nyack Road | West Nyack | NY | 10994 | 225,408.00
Family of Woodstock, Inc./HUD S&C SRO FY2017 | 39 John Street | Kingston | NY | 12401 | 227,989.00
EHS, Inc./Evergreen PSH I | 206 South Elmwood Avenue | Buffalo | NY | 14201 | 228,458.00
Sheltering Arms Children and Family Services/Safe Home 2017 | 305 7th Avenue, 4th Floor | New York | NY | 10001 | 229,908.00
Women In Need, Inc./Women In Need SPC 2 Brooklyn Recovery | 115 West 31st Street | New York | NY | 10001 | 230,383.00
Catholic Charities of Chemung/Schuyler/S+C Permanent Supported Housing | 215 East Church Street | Elmira | NY | 14901 | 230,724.00
Harlem United Community AIDS Center/124th Street Residence Housing | 306 Lenox Avenue, 3rd Floor | New York | NY | 10027 | 232,174.00
City of Mount Vernon (NY)/CMV RA 05 | City Hall—Roosevelt Square | Mount Vernon | NY | 10550 | 232,665.00
CUCS, Inc./Dorothy Day | 198 East 121st Street, 6th Floor | New York | NY | 10035 | 235,028.00
Vocational Instruction Project Community Services, Inc/Crotona SRO | 1910 Arthur Ave | Bronx | NY | 10457 | 235,875.00
Community, Counseling, & Mediation/Georgia's Place | 1 Hoyt St., 7th Fl | Brooklyn | NY | 11201 | 236,604.00
Institute for Community Living, Inc./Stepping Stone Residence Nevins Street CRO | 125 Broad Street, 3rd Floor | New York | NY | 10004 | 239,298.00
Volunteers of America of Western New York, Inc./Volunteers of America of WNY's Permanent Supportive Housing for Chronically Homeless Individuals (Pinnacle Heights) | 214 Lake Avenue | Rochester | NY | 14608 | 240,238.00
The Mental Health Association of Columbia-Greene Counties/P16 Permanent Supportive Housing for CH and Homeless Individuals and Families | MHACGC, 713 Union Street | Hudson | NY | 12534 | 240,710.00
Rochester Housing Authority/RHA/1630 Dewey Ave, PSH-PBRA #23 | 675 West Main Street | Rochester | NY | 14611 | 243,311.00
Community, Counseling, & Mediation/Rico's Place | 1 Hoyt St., 7th Fl | Brooklyn | NY | 11201 | 243,503.00
Housing + Solutions/Housing + Solutions S+C | 4 West 43rd Street, Suite 316 | New York | NY | 10036 | 244,173.00
The Salvation Army, a New York Corporation/State Street Apartments | 440 West Nyack Road | West Nyack | NY | 10994 | 244,423.00
Project Hospitality, Inc./Permanent Housing 2 | 100 Park Avenue | Staten Island | NY | 10302 | 244,901.00
Anchor House, Inc./Anchor House, Inc. | 1041-47 Bergen Street | Brooklyn | NY | 11216 | 245,232.00
Cazenovia Recovery Systems, Inc./Cazenovia Permanent Supportive Housing for Chronically Homeless | 2671 Main Street | Buffalo | NY | 14214 | 248,171.00
Urban Resource Institute/Urban Center for Change | 75 Broad Street, 5th Floor | New York | NY | 10004 | 250,294.00
Rockland County/Rockland County DSS PSH Program (2017) | 50 Sanatorium Road, Building L | Pomona | NY | 10970 | 250,621.00
Rochester Housing Authority/HMIS for RMCCoC | 675 West Main Street | Rochester | NY | 14611 | 251,880.00
United Way of Central New York/CoC Planning Project Application FY2017 | 518 James Street | Syracuse | NY | 13203 | 252,299.00
Coordinated Care Services, Inc./Coordinated Entry | 1099 Jay Street, Building J | Rochester | NY | 14611 | 252,622.00
Housing + Solutions/Freya House | 4 West 43rd Street, Suite 316 | New York | NY | 10036 | 252,845.00
The Salvation Army, a New York Corporation/Safe Haven | 440 West Nyack Road | West Nyack | NY | 10994 | 254,018.00
Volunteers of America of Western New York, Inc./VOAWNY Permanent Supportive Housing in Rochester, NY—Foundation House | 214 Lake Avenue | Rochester | NY | 14608 | 254,290.00
Brooklyn Bureau of Community Service/Brooklyn Bureau Voc/Ed Program | 285 Schermerhorn Street | Brooklyn | NY | 11217 | 254,430.00
Albany Housing Authority/HATAS Shelter Plus Care (2017) | 200 South Pearl Street | Albany | NY | 12202 | 254,470.00
Oswego County Opportunities Inc/OCO-RRH | 239 Oneida Street | Fulton | NY | 13069 | 254,680.00
Chadwick Residence, Inc./Supportive Housing | 335 Valley Drive | Syracuse | NY | 13207 | 255,604.00
Bethesda House of Schenectady, Inc./Liberty Consolidated 2017 | 834 State St | Schenectady | NY | 12307 | 256,166.00
Central New York Services, Inc./Recovery Permanent Supportive Housing Program | 518 James Street, Suite 240 | Syracuse | NY | 13203 | 257,064.00
Institute for Community Living, Inc./Lawton Street Residence | 125 Broad Street, 3rd Floor | New York | NY | 10004 | 257,095.00
El Regreso Foundation/El Regreso Foundation | 189-191 South 2nd Street | Brooklyn | NY | 11211 | 258,691.00
Gerard Place Housing Development Fund Company, Inc./Gerard Place Permanent Supportive Housing for Chronically Homeless Single Parent Families | 2515 Bailey Avenue | Buffalo | NY | 14215 | 259,041.00
Long Island Coalition for the Homeless/LI HMIS 2017 | 600 Albany Avenue, Suite 2 | Amityville | NY | 11701 | 259,689.00
Westchester County Dept. of Social Services/HMIS | 112 East Post Road | White Plains | NY | 10601 | 260,000.00
St. Peter's Addiction Recovery Center/St. Peter's Addiction Recovery Center—22 units (2017) | 3 Mercy Care Lane | Guilderland | NY | 12084 | 260,002.00
The Bridge Inc./Pleasant Ave House | 248 West 108th Street | New York | NY | 10025 | 260,120.00
South shore Association for Independent Living, Inc./SAIL Housing and Services | 1976 Grand Ave | Baldwin | NY | 11510 | 260,516.00
Mental Health Association in Orange County, Inc./Home To Stay FY 2017 | 73 James P Kelly Way | Middletown | NY | 10940 | 261,482.00
City of New York Acting by and through its Department of Housing Preservation and Development/Chelsea Leaf North | 100 Gold Street, 9C | New York | NY | 10038 | 263,078.00
Community Access, Inc/255 East Broadway | 2 Washington Street, 9th Floor | New York | NY | 10004 | 265,322.00
Suburban Housing Development & Research, Inc/W&H 4-30-19 | 1360 Fifth Avenue, P.O. Box 5012 | Bay Shore | NY | 11706 | 268,870.00
Palladia, Inc./Hill House | 305 Seventh Avenue | New York | NY | 10001 | 271,885.00
University Consultation & Treatment Ctr. for Mental Hygien/The Ehrlich Residence | 1020 Grand Concourse | New York | NY | 10451 | 272,781.00
Concern for Independent Living, Inc./Opportunities | 312 Expressway Drive South | Medford | NY | 11763 | 273,213.00
Syracuse Brick House Inc./K.E.E.S. IV | 329 N. Salina St., Suite 300 | Syracuse | NY | 13203 | 274,047.00
Volunteers of America of Western New York, Inc./VOAWNY's Reentry Rapid Rehousing Program | 214 Lake Avenue | Rochester | NY | 14608 | 276,030.00
Wilson Commencement Park/Wilson Commencement Park Permanent Supportive Housing | 251 Joseph Avenue | Rochester | NY | 14605 | 276,286.00
Spiritus Christi Prison Outreach, Inc./SCPO TH/RRH | 934 Culver Road | Rochester | NY | 14609 | 278,210.00
Providence Housing Development Corporation/Providence Supportive Suburban Housing Initiative | 1150 Buffalo Road | Rochester | NY | 14624 | 279,027.00
Greyston Health Services, Inc./Issan House | 21 Park Avenue | Yonkers | NY | 10703 | 279,467.00
HOPE Community Services, Inc./CNR Rehousing Initiative | 50 Washington Avenue | New Rochelle | NY | 10801 | 281,153.00
Jewish Board of Family and Children's Services, Inc./Kingsbridge CR/SRO | 135 West 50th Street, 6th Floor | New York | NY | 10020 | 283,836.00
Joseph's House and Shelter, Inc./Joseph's House (2017) | 202 4th Street | Troy | NY | 12180 | 286,778.00
City of Mount Vernon (NY)/CMV RA 06 | City Hall—Roosevelt Square | Mount Vernon | NY | 10550 | 287,921.00
Palladia, Inc./Flora Vista | 305 Seventh Avenue | New York | NY | 10001 | 289,525.00
NYS Office of Mental Health/OMH/SAIL 2 2017 | 44 Holland Avenue | Albany | NY | 12229 | 289,884.00
Albany Housing Authority/Shelter Plus Care for Homeless Veterans with Disabilities (2017) | 200 South Pearl Street | Albany | NY | 12202 | 290,431.00
Catholic Charities Diocese of Rockville Centre/Project Veterans' Independence | 333 North Main Street | Freeport | NY | 11520 | 290,957.00
Goddard Riverside Community Center/Housing Options | 593 Columbus Ave | New York | NY | 10024 | 293,546.00
Palladia, Inc./Scattered Sites | 305 Seventh Avenue | New York | NY | 10001 | 295,424.00
FACES NY, Inc/NSP Renewal project application 2017 | 123 West 115th Street | New York | NY | 10026 | 298,019.00
Volunteers of America of Western New York, Inc./Volunteers of America of WNY's Project ReDirect | 214 Lake Avenue | Rochester | NY | 14608 | 298,876.00
Community Missions of Niagara Frontier, Inc./Community Missions Rapid Rehousing | 1570 Buffalo Avenue | Niagara Falls | NY | 14303 | 300,373.00
Catholic Charities of the Roman Catholic Diocese of Syracuse, NY/Home at Last Supportive Housing | 1654 West Onondaga Street | Syracuse | NY | 13204 | 301,631.00
City of New York Acting by and through its Department of Housing Preservation and Development/St. John's House II | 100 Gold Street, 9C | New York | NY | 10038 | 302,334.00
Transitional Services Association, Inc./TSA Housing First | 127 Union Street | Saratoga Springs | NY | 12866 | 303,165.00
Services for the UnderServed, Inc./SUS Decatur | 305 Seventh Avenue, 10th Floor | New York | NY | 10001 | 303,256.00
Catholic Charities Community Services of Orange County/CoC 28-unit | 11 Hamilton Avenue | Monticello | NY | 12701 | 303,643.00
Lower Eastside Service Center, Inc/Diversity Works FY 2017 | 80 Maiden Lane, Suite 305 | New York | NY | 10038 | 305,715.00
Long Island Coalition for the Homeless/COC Planning Project 2017 | 600 Albany Avenue, Suite 2 | Amityville | NY | 11701 | 306,742.00
Women In Need, Inc./Families in SHINE | 115 West 31st Street | New York | NY | 10001 | 307,106.00
Housing Works, Inc./Staten Island Scattered Site Housing Program | 57 Willoughby Street, 2nd Floor | Brooklyn | NY | 11201 | 313,002.00
CUCS, Inc./The Prince George | 198 East 121st Street, 6th Floor | New York | NY | 10035 | 314,204.00
YWCA of Schenectady/ROSA'S HOUSE CONSOLIDATED 2018-19 | 44 Washington Ave | Schenectady | NY | 12305 | 320,090.00
Services for the UnderServed, Inc./SUS Broadway | 305 Seventh Avenue, 10th Floor | New York | NY | 10001 | 325,456.00
Westchester County Dept. of Social Services/Stepping Stones | 112 East Post Road | White Plains | NY | 10601 | 329,915.00
Violence Intervention Program, Inc./Casa Sandra Supportive Housing Program for Social Change FY2017 | P.O. Box 1161, Triborough Station | New York | NY | 10035 | 331,109.00
Bowery Residents' Committee, Inc./Liberty Avenue | 131 West 25th Street, 12th Floor | New York | NY | 10001 | 336,604.00
City of New York Acting by and through its Department of Housing Preservation and Development/Kingsbridge Terrace | 100 Gold Street, 9C | New York | NY | 10038 | 337,821.00
Erie County Department of Mental Health/ECDMH Shelter Plus Care VI | 95 Franklin Street | Buffalo | NY | 14202 | 338,832.00
City of New York Acting by and through its Department of Housing Preservation and Development/Wazobia House | 100 Gold Street, 9C | New York | NY | 10038 | 338,854.00
Schenectady Community Action Program, Inc./SCAP Rapid Rehousing (FY2017) v.2 | 913 Albany Street | Schenectady | NY | 12307 | 340,488.00
Homeless and Travelers Aid Society of the Capital District, Inc./Pathways I 2017 | 138 Central Ave | Albany | NY | 12206 | 341,124.00
NYS Office of Mental Health/OMH/SAIL 3 2017 | 44 Holland Avenue | Albany | NY | 12229 | 342,511.00
Women In Need, Inc./Women In Need SPC 3 Bronx Recovery | 115 West 31st Street | New York | NY | 10001 | 344,721.00
Coordinated Care Services, Inc./CoC Planning Project Application FY2017 | 1099 Jay Street, Building J | Rochester | NY | 14611 | 345,678.00
United Bronx Parents, Inc/United Bronx Parents Shelter Plus Care | 966 Prospect Ave | Bronx | NY | 10459 | 346,692.00
Bowery Residents' Committee, Inc./Palace Hotel SRO | 131 West 25th Street, 12th Floor | New York | NY | 10001 | 350,001.00
The Bridge Inc./1885 Third Avenue Residence | 248 West 108th Street | New York | NY | 10025 | 352,273.00
The Salvation Army, a New York Corporation/HALE RRH | 440 West Nyack Road | West Nyack | NY | 10994 | 355,996.00
Liberty Resources, Inc./Permanent Supportive Housing for Individuals | 1045 James Street | Syracuse | NY | 13203 | 359,739.00
NYS Office of Mental Health/OMH/Pibly 2017 | 44 Holland Avenue | Albany | NY | 12229 | 360,124.00
Delphi Drug and Alcohol Council Inc/Home Safe | 1839 E. Ridge Road | Rochester | NY | 14622 | 362,907.00
Housing Works, Inc./HUD Jefferson Housing Program | 57 Willoughby Street, 2nd Floor | Brooklyn | NY | 11201 | 363,032.00
The Municipal Housing Authority for the City of Yonkers/Rapid Road To Housing | 1511 Central Park Avenue, P.O. Box 35 | Yonkers | NY | 10701 | 367,568.00
Lantern Community Services/Schafer Hall SHP | 494 8th Avenue, 20th Floor | New York | NY | 10001 | 370,169.00
Emergency Housing Group, Inc./HONOR ehg (PSH) Bonus | 38 Seward Avenue | Middletown | NY | 10940 | 375,939.00
Good Shepherd Services/Good Shepherd Services—Chelsea Foyer NOFA 2017 | 305 Seventh Ave, 9th Floor | New York | NY | 10001 | 379,697.00
Project Renewal, Inc./Tech | 200 Varick Street, 9th Floor | New York | NY | 10014 | 379,706.00
Urban Pathways, Inc./Ivan Shapiro House | 575 8th Avenue | New York | NY | 10018 | 380,256.00
The Safe Center LI, INC./Horizon | 15 Grumman Road West, Suite 1000 | Bethpage | NY | 11714 | 382,215.00
Women In Need, Inc./SHINE Families | 115 West 31st Street | New York | NY | 10001 | 382,280.00
City of Mount Vernon (NY)/Shallow Rent | City Hall—Roosevelt Square | Mount Vernon | NY | 10550 | 384,214.00
West Side Federation for Senior and Supportive Housing, Inc./129th Street Residence | 2345 Broadway | New York | NY | 10024 | 386,863.00
Rochester Housing Authority/RHA/Salvation Army Chronically Homeless PSH-RA #12 | 675 West Main Street | Rochester | NY | 14611 | 386,989.00
Homeless and Travelers Aid Society of the Capital District, Inc./Pathways II (2017) | 138 Central Ave | Albany | NY | 12206 | 390,419.00
Concern for Independent Living, Inc./Opportunities V | 312 Expressway Drive South | Medford | NY | 11763 | 390,579.00
Institute for Community Living, Inc./Emerson Family Development Center | 125 Broad Street, 3rd Floor | New York | NY | 10004 | 391,445.00
Concern for Independent Living, Inc./Project Homestart | 312 Expressway Drive South | Medford | NY | 11763 | 391,473.00
Project Renewal, Inc./Bowery | 200 Varick Street, 9th Floor | New York | NY | 10014 | 391,758.00
Housing Works, Inc./East 9th Street Residence Program | 57 Willoughby Street, 2nd Floor | Brooklyn | NY | 11201 | 392,792.00
Bridging Access to Care/BAC CoC PSH Program FY2017 | 2261 Church Ave | Brooklyn | NY | 11226 | 394,122.00
Interfaith Partnership for the Homeless/IPH, HATAS, St. Catherine's Collaborative | 176 Sheridan Ave | Albany | NY | 12210 | 399,356.00
Steuben Churchpeople Against Poverty, Inc/Steuben County S+C (FY 2017) | 26 Bridge St | Corning | NY | 14830 | 401,678.00
Columba Kavanagh House, Inc./Columba Kavanagh House, Inc. | 209 East 118th Street | New York | NY | 10035 | 402,454.00
Kenmore Housing Development Fund Corp./Kenmore Hall | c/o Housing and Services, Inc., 243 West 30th Street, 2nd floor | New York | NY | 10001 | 404,746.00
Covenant House New York/Under 21, Inc./New Covenant | 460 W. 41st St | New York | NY | 10036 | 410,787.00
Harlem United Community AIDS Center/Harlem United Family PH | 306 Lenox Avenue, 3rd Floor | New York | NY | 10027 | 412,830.00
The Bridge Inc./Iyana House | 248 West 108th Street | New York | NY | 10025 | 413,880.00
Lutheran Social Services of New York/Community House | 475 Riverside Drive, Suite 1244 | New York | NY | 10115 | 414,421.00
City of New York Acting by and through its Department of Housing Preservation and Development/Dorothy McGowan | 100 Gold Street, 9C | New York | NY | 10038 | 417,051.00
City of New York Acting by and through its Department of Housing Preservation and Development/JHB Housing | 100 Gold Street, 9C | New York | NY | 10038 | 417,051.00
Project Renewal, Inc./Shelter Plus Care | 200 Varick Street, 9th Floor | New York | NY | 10014 | 418,882.00
Housing Works, Inc./Stand Up Harlem Housing Program | 57 Willoughby Street, 2nd Floor | Brooklyn | NY | 11201 | 423,474.00
Project Renewal, Inc./Home | 200 Varick Street, 9th Floor | New York | NY | 10014 | 423,476.00
Services for the UnderServed, Inc./OMH SUS Knick/Beach | 305 Seventh Avenue, 10th Floor | New York | NY | 10001 | 426,925.00
Women In Need, Inc./SHINE Stars | 115 West 31st Street | New York | NY | 10001 | 427,084.00
Bestself Behavioral Health/BestSelf Safe Haven | 255 Delaware Avenue | Buffalo | NY | 14202 | 436,235.00
Banana Kelly Improvement Assoc Inc/Rental Assistance Program | 863 Prospect Ave | Bronx | NY | 10459 | 439,797.00
Community Access, Inc/Warren Street SRO | 2 Washington Street, 9th Floor | New York | NY | 10004 | 442,428.00
City of New York Acting by and through its Department of Housing Preservation and Development/Ilene R. Smith Residence | 100 Gold Street, 9C | New York | NY | 10038 | 443,117.00
City of New York Acting by and through its Department of Housing Preservation and Development/North Core Studios | 100 Gold Street, 9C | New York | NY | 10038 | 443,117.00
City of New York Acting by and through its Department of Housing Preservation and Development/Peter Jay Sharp Residence | 100 Gold Street, 9C | New York | NY | 10038 | 443,117.00
City of New York Acting by and through its Department of Housing Preservation and Development/Warren Street Residence | 100 Gold Street, 9C | New York | NY | 10038 | 443,117.00
Erie County Department of Mental Health/ECDMH Chronic Homeless I | 95 Franklin Street | Buffalo | NY | 14202 | 443,886.00
Ali Forney Center/Ali Forney 11 | 224 West 35th Street, Suite 1500 | New York | NY | 10001 | 446,938.00
Polish Community Center of Buffalo/Matt Urban Hope Gardens | 1081 Broadway | Buffalo | NY | 14212 | 447,896.00
Housing + Solutions/Grace House | 4 West 43rd Street, Suite 316 | New York | NY | 10036 | 448,965.00
EHS, Inc./Evergreen PSH II | 206 South Elmwood Avenue | Buffalo | NY | 14201 | 461,543.00
Providence Housing Development Corporation/Providence Shelter Plus Care | 1150 Buffalo Road | Rochester | NY | 14624 | 464,728.00
The Fortune Society, Inc./Fortune Academy Residence | 29-76 Northern Boulevard | Long Island City | NY | 11101 | 465,648.00
Homeless Alliance of Western New York, Inc./CoC Planning Project Application 2017 | 960 Main St | Buffalo | NY | 14202 | 467,287.00
Westchester County Dept. of Social Services/Homestead | 112 East Post Road | White Plains | NY | 10601 | 468,431.00
Person Centered Housing Options Inc./PCHO RRH II | 1136 Buffalo Road | Rochester | NY | 14624 | 470,717.00
City of New York Acting by and through its Department of Housing Preservation and Development/Lindenguild Hall | 100 Gold Street, 9C | New York | NY | 10038 | 472,612.00
Jewish Board of Family and Children's Services, Inc./Maple House CR/SRO | 135 West 50th Street, 6th Floor | New York | NY | 10020 | 473,078.00
Westchester County Dept. of Community Mental Health/Westchester CoC Planning Project | 112 East Post Road, 2nd Floor | White Plains | NY | 10601 | 476,312.00
City of New York Acting by and through its Department of Housing Preservation and Development/NCS Consolidated | 100 Gold Street, 9C | New York | NY | 10038 | 484,235.00
Central New York Services, Inc./Oneida County TRA D-Contract | 518 James Street, Suite 240 | Syracuse | NY | 13203 | 488,092.00
Central New York Services, Inc./Oneida County TRA F-Contract | 518 James Street, Suite 240 | Syracuse | NY | 13203 | 490,964.00
Common Ground Management/Housing for Homeless and Addicted to Alcohol | 505 8th AVE, FL 5 | New York | NY | 10018 | 493,368.00
City of New York Human Rescources Administration/Department of Social Services/SSO CAPS FY17 Expansion | 150 Greenwich Street | New York | NY | 10007 | 495,088.00
Lower Eastside Service Center, Inc/LESC House FY2017 | 80 Maiden Lane, Suite 305 | New York | NY | 10038 | 501,474.00
City of New York Acting by and through its Department of Housing Preservation and Development/Stardom Hall | 100 Gold Street, 9C | New York | NY | 10038 | 503,989.00
Institute for Community Living, Inc./Shelter + Care '95 | 125 Broad Street, 3rd Floor | New York | NY | 10004 | 504,287.00
Syracuse Brick House Inc./K.E.E.S. III | 329 N. Salina St., Suite 300 | Syracuse | NY | 13203 | 510,010.00
POSTGRADUATE CENTER FOR MENTAL HEALTH/Richard Dicker Residence | 158 East 35th Street | New York | NY | 10016 | 510,038.00
Women In Need, Inc./SHINE Moms and Children | 115 West 31st Street | New York | NY | 10001 | 516,086.00
The Municipal Housing Authority for the City of Yonkers/Housing Independence Through Employment | 1511 Central Park Avenue, P.O. Box 35 | Yonkers | NY | 10701 | 521,007.00
City of New York Acting by and through its Department of Housing Preservation and Development/Ehrlich Residence | 100 Gold Street, 9C | New York | NY | 10038 | 521,314.00
Housing Works, Inc./East New York Residence Program | 57 Willoughby Street, 2nd Floor | Brooklyn | NY | 11201 | 523,399.00
Polish Community Center of Buffalo/Matt Urban Rapid Rehousing | 1081 Broadway | Buffalo | NY | 14212 | 530,661.00
Samaritan Daytop Village, Inc./Continuum of Care 2017 Renewal | 138-02 Queens Blvd | Briarwood | NY | 11435 | 533,140.00
Ali Forney Center/Ali Forney Center | 224 West 35th Street, Suite 1500 | New York | NY | 10001 | 537,905.00
Palladia, Inc./Cedar Tremont House | 305 Seventh Avenue | New York | NY | 10001 | 542,684.00
Services for the UnderServed, Inc./SUS LI RRH FY17 | 305 Seventh Avenue, 10th Floor | New York | NY | 10001 | 544,208.00
Schenectady Community Action Program, Inc./SCAP Permanent Housing Project (FY2017) v.3 | 913 Albany Street | Schenectady | NY | 12307 | 544,394.00
Spectrum Human Services/Spectrum Chronic Homeless | 227 Thorn Avenue | Orchard Park | NY | 14127 | 553,016.00
Schenectady Municipal Housing Authority/SMHA Shleter Plus Care (2017) | 375 Broadway | Schenectady | NY | 12305 | 554,501.00
City of New York Acting by and through its Department of Housing Preservation and Development/Citileaf Chelsea South | 100 Gold Street, 9C | New York | NY | 10038 | 554,920.00
Options for Community Living, Inc./NCC 3 | 202 East Main Street | Smithtown | NY | 11787 | 557,890.00
City of New York Acting by and through its Department of Housing Preservation and Development/290 East 3rd Street Residence | 100 Gold Street, 9C | New York | NY | 10038 | 560,412.00
City of New York Acting by and through its Department of Housing Preservation and Development/Gibb Mansion | 100 Gold Street, 9C | New York | NY | 10038 | 560,412.00
Rochester Housing Authority/RHA/VOA PSH-RA #7 | 675 West Main Street | Rochester | NY | 14611 | 566,554.00
Restoration Society, Inc./RSI Rapid Re Housing for Singles | 66 Englewood Avenue | Buffalo | NY | 14214 | 567,092.00
Family Service League, Inc./FSL RRH Renewal 2017 | 790 Park Avenue | Huntington | NY | 11743 | 567,430.00
City of New York Acting by and through its Department of Housing Preservation and Development/Diversity Works | 100 Gold Street, 9C | New York | NY | 10038 | 570,409.00
Family Service League, Inc./FSL RRH New Project 2017 | 790 Park Avenue | Huntington | NY | 11743 | 575,287.00
The Municipal Housing Authority for the City of Yonkers/Yonkers RA | 1511 Central Park Avenue, P.O. Box 35 | Yonkers | NY | 10701 | 582,651.00
City of New York Acting by and through its Department of Housing Preservation and Development/Bronx Park East Residence | 100 Gold Street, 9C | New York | NY | 10038 | 586,478.00
City of New York Acting by and through its Department of Housing Preservation and Development/WSFSSH Consolidated | 100 Gold Street, 9C | New York | NY | 10038 | 587,412.00
Providence Housing Development Corporation/Providence PBV Permanent Housing | 1150 Buffalo Road | Rochester | NY | 14624 | 592,796.00
Albany Housing Authority/CARES Shelter Plus Care (Yr 3) (2017) | 200 South Pearl Street | Albany | NY | 12202 | 593,628.00
Jewish Board of Family and Children's Services, Inc./Burnside Community Residence | 135 West 50th Street, 6th Floor | New York | NY | 10020 | 594,066.00
City of New York Acting by and through its Department of Housing Preservation and Development/Casa Renacer | 100 Gold Street, 9C | New York | NY | 10038 | 599,511.00
City of New York Human Rescources Administration/Department of Social Services/SSO CAPS Grant 2017 | 150 Greenwich Street | New York | NY | 10007 | 600,000.00
Regional Economic Community Action Program, Inc./NY-602-REN Regional Economic Community Action Program | 40 Smith St | Middletown | NY | 10940 | 604,300.00
Catholic Charities of the Roman Catholic Diocese of Syracuse, NY/PHH: Housing First for Individuals and Families | 1654 West Onondaga Street | Syracuse | NY | 13204 | 616,560.00
Jefferson County Department of Social Services/JCDSS Transitional S+C Renewal FY2017 | 250 Arsenal Street | Watertown | NY | 13601 | 623,669.00
Palladia, Inc./Community Housing Program | 305 Seventh Avenue | New York | NY | 10001 | 624,095.00
Services for the UnderServed, Inc./Briarwood SRO | 305 Seventh Avenue, 10th Floor | New York | NY | 10001 | 629,967.00
Project Renewal, Inc./In Homes Now | 200 Varick Street, 9th Floor | New York | NY | 10014 | 634,745.00
Syracuse Brick House Inc./K.E.E.S. II | 329 N. Salina St, Suite 300 | Syracuse | NY | 13203 | 635,556.00
Jewish Board of Family and Children's Services, Inc./124th Street CR/SRO | 135 West 50th Street, 6th Floor | New York | NY | 10020 | 636,820.00
City of New York Acting by and through its Department of Housing Preservation and Development/CCM Consolidated | 100 Gold Street, 9C | New York | NY | 10038 | 648,567.00
City of New York Acting by and through its Department of Housing Preservation and Development/Gramercy Leaf | 100 Gold Street, 9C | New York | NY | 10038 | 651,642.00
Bailey House Inc./S.H.I.P. for Young Adults Renewal 2017 | 1751 Park Avenue, 3rd Floor | New York | NY | 10035 | 654,573.00
Catholic Charities of the Roman Catholic Diocese of Syracuse, NY/Permanent Housing for the Chronically Homeless 1 | 1654 West Onondaga Street | Syracuse | NY | 13204 | 656,087.00
New Choices Recovery Center/Renewal Project Application FY2017 | 302 State Street | Schnectady | NY | 12305 | 662,488.00
Bailey House Inc./Schafer Hall Family Program Renewal 2017 | 1751 Park Avenue, 3rd Floor | New York | NY | 10035 | 666,718.00
Jewish Board of Family and Children's Services, Inc./White Plains Road CR/SRO | 135 West 50th Street, 6th Floor | New York | NY | 10020 | 669,306.00
Services for the UnderServed, Inc./SUS LI RRH Program II | 305 Seventh Avenue, 10th Floor | New York | NY | 10001 | 669,813.00
City of New York Acting by and through its Department of Housing Preservation and Development/CUCS Kingsbridge Heights | 100 Gold Street, 9C | New York | NY | 10038 | 670,836.00
Project Renewal, Inc./PRI Transitions | 200 Varick Street, 9th Floor | New York | NY | 10014 | 677,690.00
Syracuse Housing Authority/Continuum of Care Subsidy Program 2017-47 | 516 Burt Street | Syracuse | NY | 13202 | 680,742.00
Services for the UnderServed, Inc./OMH/SUS 40 | 305 Seventh Avenue, 10th Floor | New York | NY | 10001 | 684,328.00
Institute for Community Living, Inc./Shelter + Care '94 | 125 Broad Street, 3rd Floor | New York | NY | 10004 | 691,522.00
Services for the UnderServed, Inc./Long Island Rapid Re-Housing Program | 305 Seventh Avenue, 10th Floor | New York | NY | 10001 | 704,736.00
Concern for Independent Living, Inc./Opportunities II | 312 Expressway Drive South | Medford | NY | 11763 | 715,565.00
City of New York Acting by and through its Department of Housing Preservation and Development/Edith MacGuire Residence | 100 Gold Street, 9C | New York | NY | 10038 | 716,806.00
Palladia, Inc./Stratford House | 305 Seventh Avenue | New York | NY | 10001 | 749,888.00
Central New York Services, Inc./Oneida County TRA E-Contract | 518 James Street, Suite 240 | Syracuse | NY | 13203 | 762,892.00
Institute for Community Living, Inc./Emerson Family Supported | 125 Broad Street, 3rd Floor | New York | NY | 10004 | 769,604.00
Housing + Solutions/Athena House | 4 West 43rd Street, Suite 316 | New York | NY | 10036 | 782,390.00
Westchester County Dept. of Social Services/First Steps | 112 East Post Road | White Plains | NY | 10601 | 798,113.00
Housing + Solutions/Sankofa | 4 West 43rd Street, Suite 316 | New York | NY | 10036 | 801,242.00
Polish Community Center of Buffalo/Matt Urban Housing first | 1081 Broadway | Buffalo | NY | 14212 | 809,160.00
City of New York Acting by and through its Department of Housing Preservation and Development/Odyssey House Haven | 100 Gold Street, 9C | New York | NY | 10038 | 831,406.00
Jewish Board of Family and Children's Services, Inc./Bronx Permanent Housing | 135 West 50th Street, 6th Floor | New York | NY | 10020 | 841,412.00
City of New York Acting by and through its Department of Housing Preservation and Development/Rustin House | 100 Gold Street, 9C | New York | NY | 10038 | 873,872.00
City of New York Acting by and through its Department of Housing Preservation and Development/Lenniger | 100 Gold Street, 9C | New York | NY | 10038 | 875,579.00
HELP Social Service Corporation/Genesis Homes Supportive Housing Program I | 115 East 13th Street | New York | NY | 10003 | 889,633.00
The Fortune Society, Inc./Fortune Academy S+C | 29-76 Northern Boulevard | Long Island City | NY | 11101 | 900,911.00
Praxis Housing Initiatives, Inc/Riverside Place | 17 Battery Place | New York | NY | 10004 | 902,663.00
Catholic Charities Diocese of Rockville Centre/Project Independence | 333 North Main Street | Freeport | NY | 11520 | 906,070.00
Foundation for Research on Sexually Transmitted Diseases/Frost'd Scatter Site PH | 306 Lenox Avenue, 2nd Floor | New York | NY | 10027 | 935,802.00
City of New York Acting by and through its Department of Housing Preservation and Development/VIP Consolidated | 100 Gold Street, 9C | New York | NY | 10038 | 938,364.00
Person Centered Housing Options Inc./PCHO Housing First | 1136 Buffalo Road | Rochester | NY | 14624 | 948,992.00
Catholic Charities of the Roman Catholic Diocese of Syracuse, NY/Permanent Housing for the Chronically Homeless 2 | 1654 West Onondaga Street | Syracuse | NY | 13204 | 950,365.00
City of New York Acting by and through its Department of Housing Preservation and Development/SUS consolidated | 100 Gold Street, 9C | New York | NY | 10038 | 964,430.00
Jewish Board of Family and Children's Services, Inc./Bryce House TH-RRH Project | 135 West 50th Street, 6th Floor | New York | NY | 10020 | 979,517.00
Promesa, Inc./Promesa Shelter Plus Care | 300 E 175th Street | Bronx | NY | 10457 | 990,367.00
Central Nassau Guidance and Counseling Services, Inc./Heading Home | 950 South Oyster Bay Road | Hicksville | NY | 11801 | 1,115,925.00
Bailey House Inc./Bridges to Home RRH for Young Adults Renewal 2017 | 1751 Park Avenue, 3rd Floor | New York | NY | 10035 | 1,129,426.00
City of New York Acting by and through its Department of Housing Preservation and Development/Camba Consolidated | 100 Gold Street, 9C | New York | NY | 10038 | 1,133,857.00
City of New York Acting by and through its Department of Housing Preservation and Development/ARC Consolidated | 100 Gold Street, 9C | New York | NY | 10038 | 1,146,890.00
Services for the UnderServed, Inc./SUS Brooklyn Supported Housing | 305 Seventh Avenue, 10th Floor | New York | NY | 10001 | 1,161,002.00
City of New York Acting by and through its Department of Housing Preservation and Development/Geel Consolidated | 100 Gold Street, 9C | New York | NY | 10038 | 1,196,153.00
Women In Need, Inc./WISH Families | 115 West 31st Street | New York | NY | 10001 | 1,223,993.00
The City of New York Department of Homeless Services/NY-600 CoC Planning Application FY2017 | 4-WTC, 150 Greenwich Street | New York | NY | 10007 | 1,250,000.00
The City of New York Department of Homeless Services/HMIS Project Application FY2017 | 4-WTC, 150 Greenwich Street | New York | NY | 10007 | 1,298,261.00
CUCS, Inc./West Harlem Transitional Services | 198 East 121st Street, 6th Floor | New York | NY | 10035 | 1,327,350.00
City of New York Acting by and through its Department of Housing Preservation and Development/Palladia consolidated | 100 Gold Street, 9C | New York | NY | 10038 | 1,370,652.00
Jericho Project/Rapid Rehousing | 245 West 29th Street, Suite 902 | New York | NY | 10001 | 1,375,397.00
City of New York Acting by and through its Department of Housing Preservation and Development/St. Joseph Consolidated | 100 Gold Street, 9C | New York | NY | 10038 | 1,629,105.00
Project Hospitality, Inc./Project Hospitality Permanent Housing | 100 Park Avenue | Staten Island | NY | 10302 | 1,683,657.00
City of New York Acting by and through its Department of Housing Preservation and Development/Community Access Consolidated | 100 Gold Street, 9C | New York | NY | 10038 | 1,697,718.00
Project Hospitality, Inc./Permanent Housing 3 | 100 Park Avenue | Staten Island | NY | 10302 | 1,816,303.00
Covenant House New York/Under 21, Inc./New Cov RRH | 460 W. 41st St | New York | NY | 10036 | 1,826,603.00
City of New York Acting by and through its Department of Housing Preservation and Development/Sobro Consolidated | 100 Gold Street, 9C | New York | NY | 10038 | 1,905,279.00
City of New York Acting by and through its Department of Housing Preservation and Development/Project Renewal consolidated | 100 Gold Street, 9C | New York | NY | 10038 | 1,965,120.00
Unity House of Troy, Inc./Permanent Supported Housing (800) | 2431 Sixth Avenue | Troy | NY | 12180 | 2,026,694.00
Erie County Department of Mental Health/ECDMH Continuum of Care I | 95 Franklin Street | Buffalo | NY | 14202 | 2,067,137.00
Services for the UnderServed, Inc./OASAS S+C | 305 Seventh Avenue, 10th Floor | New York | NY | 10001 | 2,102,183.00
POSTGRADUATE CENTER FOR MENTAL HEALTH/PCMH City Wide Homes | 158 East 35th Street | New York | NY | 10016 | 2,245,797.00
Erie County Department of Mental Health/ECDMH Continuum of Care II | 95 Franklin Street | Buffalo | NY | 14202 | 2,282,358.00
Rochester Housing Authority/RHA/Monroe County DHS PSH-RA #5 | 675 West Main Street | Rochester | NY | 14611 | 2,338,757.00
Jericho Project/Rapid Rehousing 2 | 245 West 29th Street, Suite 902 | New York | NY | 10001 | 2,518,604.00
Westchester County Dept. of Social Services/Turning Point | 112 East Post Road | White Plains | NY | 10601 | 2,941,203.00
City of New York Acting by and through its Department of Housing Preservation and Development/Breaking Ground Consolidated | 100 Gold Street, 9C | New York | NY | 10038 | 3,522,607.00
City of New York Acting by and through its Department of Housing Preservation and Development/Lantern Consolidated | 100 Gold Street, 9C | New York | NY | 10038 | 5,177,883.00
Westchester County Dept. of Community Mental Health/DCMH RA Project | 112 East Post Road, 2nd Floor | White Plains | NY | 10601 | 8,191,629.00
Meridian HeatlhCare (formerly Meridian Community Care)/Homestead House | 527 N. Meridian Rd | Youngstown | OH | 44509 | 11,446.00
ICAN Inc./ICAN CoC Rapid Re-Housing II | 1214 Market Ave N | Canton | OH | 44714 | 12,397.00
Family & Community Services, Inc./Ravenna Permanent Supportive Housing for Veterans | 705 Oakwood St, Suite #221 | Ravenna | OH | 44266 | 13,085.00
Community Shelter Board/CHN 2017 Family Homes | 111 Liberty St, Suite 150 | Columbus | OH | 43215 | 13,310.00
Meridian HeatlhCare (formerly Meridian Community Care)/Samaritan Housing, PRA | 527 N. Meridian Rd | Youngstown | OH | 44509 | 13,618.00
Catholic Charities Regional Agency/HMIS Project | 319 W. Rayen Avenue | Youngstown | OH | 44502 | 15,000.00
Oriana House, Inc/Project Beginnings I | P.O. Box 1501 | Akron | OH | 44309 | 16,180.00
Miami Valley Housing Opportunities, Inc./MVHO PSH Operating | 907 W. Fifth Street, 3rd Floor | Dayton | OH | 45402 | 21,904.00
Interfaith Hospitality Network of Springfield/Saint Vincent House | 501 W High Street | Springfield | OH | 45506 | 22,426.00
Family Abuse Shelter of Miami County, Inc./Family Abuse Shelter PSH | 16 East Franklin Street | Troy | OH | 45373 | 26,461.00
Community Health Center/Renew | 838 Coburn St | Akron | OH | 44311 | 30,590.00
New Sunrise Properties, Inc./Supportive Housing | 1100 N. Abbe Rd., Suite A | Elyria | OH | 44035 | 31,764.00
City of Springfield/Springfield St. Vincent DePaul Shelter + Care | 76 E. High Street | Springfield | OH | 45502 | 33,375.00
Columbiana Metropolitan Housing Authority/Columbiana Free Choice II: The Counseling Center | 325 Moore Street | East Liverpool | OH | 43920 | 33,571.00
Help Hotline Crisis Center/Coordinated Entry 2017-2018 | P.O. Box 46 | Youngstown | OH | 44501 | 33,929.00
HM Housing Development Corporation/Faith House II | 1561-E East 30th Street | Lorain | OH | 44055 | 35,230.00
Young Women's Christian Association of Canton/New Beginnings PSH | YWCA of Canton, 231 6th Street NE | Canton | OH | 44702 | 35,610.00
Project Woman of Springfield and Clark County/Chrysalis Transitional Program | 525 East Home Road | Springfield | OH | 45503 | 35,770.00
North Coast Community Homes, Inc./Akron Supportive Housing (South Street) | 14221 Broadway Ave | Cleveland | OH | 44125 | 37,733.00
Tri-County Board of Recovery & Mental Health Services/Miami County SPC | 1100 Wayne St., Suite 4000 | Troy | OH | 45373 | 38,900.00
Lake County Alcohol, Drug Addiction and Mental Health Servic/Lake County SPC III | One Victoria Place, Suite 205 | Painesville | OH | 44077 | 40,025.00
The City of Marietta, Ohio/Marietta/Washington Shelter Plus Care | 304 Putnam Street | Marietta | OH | 45750 | 40,080.00
Athens Metropolitan Housing Authority/Athens Serenity Village SAMI Shelter Plus Care | 10 Hope Drive, NA | Athens | OH | 45701 | 40,642.00
Mental Health & Recovery Board of Union County/Shelter Plus Care Union County | 131 N. Main Street | Marysville | OH | 43040 | 41,131.00
Columbiana County Mental Health Clinic/Permanent Housing for Persons with Disabilities | P.O. Box 429, 40722 State Route 154 | Lisbon | OH | 44432 | 41,318.00
Mental Health, Drug and Alcohol Services Board/Madriver/Park Street | 123 N. Detroit Street, P.O. Box 765 | West Liberty | OH | 43357 | 42,925.00
Meridian HeatlhCare (formerly Meridian Community Care)/Meridian Women's Center South | 527 N. Meridian Rd | Youngstown | OH | 44509 | 43,129.00
Integrated Services for Behavioral Health, Inc./Graham Drive | 11 Graham Drive | Athens | OH | 45701 | 43,465.00
North Coast Community Homes, Inc./Akron Supportive Housing (Waterloo) | 14221 Broadway Ave | Cleveland | OH | 44125 | 43,869.00
Stark Metropolitan Housing Authority/Shelter Plus Care TRA MHRSB | 400 East Tuscarawas Street | Canton | OH | 44702 | 44,087.00
Community Action Partnership of the Greater Dayton Area/Harding Place Transitional Housing Program | 719 South Main Street | Dayton | OH | 45402 | 45,190.00
Beach House, Inc./Steps to Home PSH II | 2283 Ashland Ave | Toledo | OH | 43620 | 45,408.00
LAWRENCE COUNTY PORT AUTHORITY/Lawrence County One-Stop Shelter Plus Care | 216 COLLINS AVENUE | SOUTH POINT | OH | 45680 | 48,029.00
Stark Metropolitan Housing Authority/Shelter Plus Care Hunter House 2011 | 400 East Tuscarawas Street | Canton | OH | 44702 | 50,069.00
Licking Metropolitan Housing Authority/Shelter Plus Care Vouchers 2 | 144 W. Main St | Newark | OH | 43055 | 51,984.00
City of Springfield/Springfield Shelter Plus Care 3 | 76 E. High Street | Springfield | OH | 45502 | 52,893.00
Strategies to End Homelessness, Inc./Talbert Services TGGH Expansion/Gertrude House | 2368 Victory Parkway, Suite 600 | Cincinnati | OH | 45206 | 53,500.00
TLC Homelessness Board/HMIS Expansion 2017 | 1946 N. 13th St. #437 | Toledo | OH | 43604 | 57,990.00
ICAN Inc./ICAN CoC Rapid Re-Housing I Expansion | 1214 Market Ave N | Canton | OH | 44714 | 59,296.00
Strategies to End Homelessness, Inc./OTRCH East Clifton Homes | 2368 Victory Parkway, Suite 600 | Cincinnati | OH | 45206 | 59,448.00
Cuyahoga County/Buckeye PSH Long-Term Rental Assistance | 310 W. Lakeside Ave, Suite 595 | Cleveland | OH | 44113 | 59,803.00
Community Shelter Board/CHN 2017 Inglewood Court | 111 Liberty St., Suite 150 | Columbus | OH | 43215 | 60,247.00
CommQuest Services, Inc./Supportive Services for the Homeless | 625 Cleveland Ave. NW | Canton | OH | 44702 | 60,990.00
Info Line, Inc./Home Again | 703 South Main Street, Suite 211 | Akron | OH | 44311 | 62,532.00
Community Shelter Board/Van Buren Village PSH | 111 Liberty St, Suite 150 | Columbus | OH | 43215 | 64,200.00
Transitional Housing, Inc./Permanent Supportive Housing/CH | 1545 West 25th Street | Cleveland | OH | 44113 | 64,559.00
Mental Health & Recovery Board of Union County/I'm Home | 131 N. Main Street | Marysville | OH | 43040 | 65,542.00
Community Shelter Board/CHN 2017 Wilson Apartments | 111 Liberty St, Suite 150 | Columbus | OH | 43215 | 66,279.00
Community Action Commission of Fayette County/Stable Futures | 1400 US Route 22 NW | Washington Court House | OH | 43160 | 67,239.00
Licking County Coalition for Housing/LCCH Rapid Re-Housing | 23 South Park Place, Suite 200 | Newark | OH | 43058 | 67,482.00
Licking Metropolitan Housing Authority/Shelter Plus Care Chronic | 144 W. Main St | Newark | OH | 43055 | 69,312.00
Sojourners Care Network/Generation Now Permanent Supportive Housing | P.O. Box 312, 605 WEST MAIN ST | MCARTHUR | OH | 45651 | 69,716.00
Ohio Multi-County Development Corporation/Horizon House | 838 Cobrun St | Akron | OH | 44311 | 72,185.00
Fayette County Metropolitan Housing Authority/Fayette Shelter Plus Care | 121 East Street | Washington Court House | OH | 43160 | 72,631.00
Integrated Services for Behavioral Health, Inc./Charles Place | 11 Graham Drive | Athens | OH | 45701 | 74,529.00
New Housing Ohio, Inc./Warren County Permanent Supportive Housing | 4055 Executive Park Drive, Suite 125 | Cincinnati | OH | 45241 | 74,567.00
Stark County Mental Health & Addiction Recovery/Stark County Central Intake and Assessment | 121 Cleveland Avenue SW | Canton | OH | 44702 | 74,900.00
Strategies to End Homelessness, Inc./Tender Mercies Harkavy Hall SRA | 2368 Victory Parkway, Suite 600 | Cincinnati | OH | 45206 | 75,283.00
Preble County Mental Health & Recovery Board/Prestwick Square 2 | 225 North Barron St | Eaton | OH | 45320 | 75,329.00
Mental Health, Drug and Alcohol Services Board/Logan/Champaign Housing | 123 N. Detroit Street, P.O. Box 765 | West Liberty | OH | 43357 | 76,387.00
Trumbull Mental Health and Recovery Board/Trumbull NewShelter Plus Care Vouchers | 4076 Youngstown Road | Warren | OH | 44484 | 76,824.00
Legacy III, Inc/Women's Empowerment Program 2017 | 733 W. Market Street, Suite B5A | Akron | OH | 44303 | 77,428.00
City of Youngstown/CoC Planning Grant 2017 | 20 W. Federal Street, Suite 602 | Youngstown | OH | 44503 | 78,774.00
Stark Housing Network Inc/CoC Planning Project Application FY2017 | 408 Ninth St. SW | Canton | OH | 44707 | 79,890.00
Ohio Multi-County Development Corporation/Cardinal's Peak | 838 Cobrun St | Akron | OH | 44311 | 81,425.00
Project Woman of Springfield and Clark County/Reigns of Renewal | 525 East Home Road | Springfield | OH | 45503 | 83,463.00
Neighborhood Properties, Inc./Families With Mental Illness | 2753 West Central Avenue | Toledo | OH | 43606 | 83,558.00
Info Line, Inc./Centralized Intake—Summit | 703 South Main Street, Suite 211 | Akron | OH | 44311 | 85,652.00
Catholic Charities Diocese of Toledo/Miriam House | 1933 Spielbusch Avenue | Toledo | OH | 43604 | 86,774.00
Strategies to End Homelessness, Inc./Shelterhouse Supportive Services | 2368 Victory Parkway, Suite 600 | Cincinnati | OH | 45206 | 90,441.00
Strategies to End Homelessness, Inc./Tender Mercies Dana Hotel | 2368 Victory Parkway, Suite 600 | Cincinnati | OH | 45206 | 90,567.00
TLC Homelessness Board/HMIS Renewal 2017 | 1946 N. 13th St., #437 | Toledo | OH | 43604 | 90,609.00
Beatitude House/Beatitude House CH Permanent Supportive Housing | 238 Tod Lane | Youngstown | OH | 44504 | 91,185.00
Neighborhood Properties, Inc./Families With Mental Illness Expansion | 2753 West Central Avenue | Toledo | OH | 43606 | 91,243.00
ICAN Inc./West Park Apartments | 1214 Market Ave N | Canton | OH | 44714 | 91,925.00
Community Shelter Board/CHN 2017 Rental Assistance SRA III | 111 Liberty St, Suite 150 | Columbus | OH | 43215 | 92,491.00
ICAN Inc./ICAN CoC Rapid Re-Housing I | 1214 Market Ave, N | Canton | OH | 44714 | 94,372.00
Strategies to End Homelessness, Inc./Shelterhouse Recovery Transitional Housing | 2368 Victory Parkway, Suite 600 | Cincinnati | OH | 45206 | 94,772.00
Strategies to End Homelessness, Inc./OTRCH Recovery Hotel SRA PSH | 2368 Victory Parkway, Suite 600 | Cincinnati | OH | 45206 | 95,751.00
The Center for Individual and Family Services/NEXT STEP | 741 Scholl Rd | Mansfield | OH | 44907 | 96,092.00
Strategies to End Homelessness, Inc./OTRCH Carrie's Place | 2368 Victory Parkway, Suite 600 | Cincinnati | OH | 45206 | 96,106.00
City of Springfield/Springfield Shelter Plus Care 1 | 76 E. High Street | Springfield | OH | 45502 | 96,556.00
Neighborhood Properties, Inc./Pathway To Shelter | 2753 West Central Avenue | Toledo | OH | 43606 | 96,906.00
YWCA of Elyria/Women's Campus Project | 318 West Avenue | Elyria | OH | 44035 | 96,994.00
Community Health Center/Peachtree II | 838 Coburn St | Akron | OH | 44311 | 97,110.00
Geauga County Board of Mental Health & Recovery Services/SPC Geauga County TRA | 13244 Ravenna Road | Chardon | OH | 44024 | 98,716.00
Trumbull Mental Health and Recovery Board/Joey's Landing | 4076 Youngstown Road | Warren | OH | 44484 | 100,366.00
City of Dayton, Ohio/2017 PRA Renewal | 101 W. Third Street | Dayton | OH | 45402 | 100,586.00
Neighborhood Properties, Inc./A Place Called Home | 2753 West Central Avenue | Toledo | OH | 43606 | 102,035.00
City of Dayton, Ohio/2017 SRA II Renewal | 101 W. Third Street | Dayton | OH | 45402 | 102,354.00
Strategies to End Homelessness, Inc./Lighthouse Street Outreach | 2368 Victory Parkway, Suite 600 | Cincinnati | OH | 45206 | 102,518.00
Cogswell Hall, Inc./Cogswell Supportive Housing | 7200 Franklin Blvd., Suite 100 | Cleveland | OH | 44102 | 102,942.00
OneEighty, Inc./PSH Plus Care | 104 Spink Street | Wooster | OH | 44691 | 105,781.00
Stark County Mental Health & Addiction Recovery/Stark County HMIS System Coordination | 121 Cleveland Avenue SW | Canton | OH | 44702 | 107,446.00
Neighborhood Properties, Inc./Fresh Start | 2753 West Central Avenue | Toledo | OH | 43606 | 108,838.00
Community Shelter Board/NCR 2017 Commons at Buckingham | 111 Liberty St, Suite 150 | Columbus | OH | 43215 | 110,051.00
Community Shelter Board/NCR 2017 Commons at Grant | 111 Liberty St, Suite 150 | Columbus | OH | 43215 | 110,051.00
Community Shelter Board/NCR 2017 Commons at Third | 111 Liberty St, Suite 150 | Columbus | OH | 43215 | 110,051.00
Emerald Development & Economic Network (EDEN), Inc./2010 TRA | 7812 Madison Avenue | Cleveland | OH | 44102 | 111,423.00
Montgomery County Board of County Commissioners/CoC Coordinated Entry | 451 W. Third St., 9th Floor | Dayton | OH | 45422 | 112,320.00
Lake County Alcohol, Drug Addiction and Mental Health Servic/Lake County McKinley Grove SPC | One Victoria Place, Suite 205 | Painesville | OH | 44077 | 112,389.00
Community AIDS Network/Akron Pride Initiative/The Micah Program | 759 West Market Street, First Floor | Akron | OH | 44303 | 113,037.00
Family Abuse Shelter of Miami County, Inc./Miami County Family RRH | 16 East Franklin Street | Troy | OH | 45373 | 113,808.00
Community Action Commission of Fayette County/CAC Permanent Supportive Housing | 1400 US Route 22 NW | Washington Court House | OH | 43160 | 113,878.00
Alliance for Children & Families/B-FIRST PSH | 624 Scranton Ave | Alliance | OH | 44601 | 114,463.00
Community Health Center/McTaggert Court I | 838 Coburn St | Akron | OH | 44311 | 117,740.00
Summit County Children Services/Transitions To Independence | 264 S Arlington St | Akron | OH | 44306 | 117,847.00
Alliance for Children & Families/A-FIRST PSH | 624 Scranton Ave | Alliance | OH | 44601 | 117,986.00
Family & Community Services, Inc./Portage Area Transitional Housing 3 | 705 Oakwood St., Suite #221 | Ravenna | OH | 44266 | 118,671.00
ACCESS, Inc./STEP II | 230 West Market Street | Akron | OH | 44303 | 120,987.00
ICAN Inc./Housing First Leasing Assistance | 1214 Market Ave N | Canton | OH | 44714 | 121,832.00
Community Health Center/Peachtree I | 838 Coburn St | Akron | OH | 44311 | 122,000.00
Family Violence Prevention Center of Greene County, Inc./Supportive Opportunities and Services | 380 Bellbrook Ave | Xenia | OH | 45385 | 123,483.00
Community Shelter Board/VOAGO 2017 Permanent Supportive Housing for Families Expansion | 111 Liberty St, Suite 150 | Columbus | OH | 43215 | 123,716.00
St. Vincent de Paul Social Services, Inc./St. Vincent de Paul Kettering Commons PSH FY 2017 | 124 W. Apple Street | Dayton | OH | 45402 | 124,151.00
Mahoning County Mental Health and Recovery Board/PSH Vouchers 2017-2018 | 222 West Federal Street, Suite 201 | Youngstown | OH | 44503 | 124,412.00
St. Vincent de Paul Social Services, Inc./St. Vincent de Paul DePaul Center PSH FY 2017 | 124 W. Apple Street | Dayton | OH | 45402 | 125,869.00
H.M. Life Opportunity Services/Blackbird Landing | 3250 W. Market Street, Suite # 204 | Akron | OH | 44333 | 126,702.00
Legacy III, Inc/Humble Beginnings Program 2017 | 733 W. Market Street, Suite B5A | Akron | OH | 44303 | 126,717.00
YWCA of Elyria/Women In Secure Housing | 318 West Avenue | Elyria | OH | 44035 | 128,631.00
Miami Valley Housing Opportunities, Inc./Ohio Avenue Commons | 907 W. Fifth Street, 3rd Floor | Dayton | OH | 45402 | 129,417.00
Meridian HealthCare (formerly Meridian Community Care)/Phoenix Court | 527 N. Meridian Rd | Youngstown | OH | 44509 | 130,922.00
Strategies to End Homelessness, Inc./YWCA Domestic Violence Rapid Rehousing | 2368 Victory Parkway, Suite 600 | Cincinnati | OH | 45206 | 131,708.00
Ohio Multi-County Development Corporation/Blackbird Landing II | 838 Cobrun St | Akron | OH | 44311 | 132,969.00
Emerald Development & Economic Network (EDEN), Inc./Gurnick Place | 7812 Madison Avenue | Cleveland | OH | 44102 | 133,005.00
Miami Valley Housing Opportunities, Inc./MVHO Leasing II | 907 W. Fifth Street, 3rd Floor | Dayton | OH | 45402 | 134,164.00
Community Shelter Board/CHN 2017 Terrace Place Apartments | 111 Liberty St, Suite 150 | Columbus | OH | 43215 | 135,549.00
Mental Health, Drug and Alcohol Services Board/Family Housing | 123 N. Detroit Street, P.O. Box 765 | West Liberty | OH | 43357 | 136,013.00
Strategies to End Homelessness, Inc./Coordinated Entry | 2368 Victory Parkway, Suite 600 | Cincinnati | OH | 45206 | 136,711.00
Summit County Children Services/Homes For Foster Youth | 264 S Arlington St | Akron | OH | 44306 | 137,300.00
Preble County Mental Health & Recovery Board/Prestwick Square | 225 North Barron St | Eaton | OH | 45320 | 138,820.00
Alliance for Children & Families/SOHO PSH 2015 | 624 Scranton Ave | Alliance | OH | 44601 | 139,269.00
Akron Metropolitan Housing Authority/Shelter Plus Care (CANAPI 2017) OH0152L5E061609 | 100 W. Cedar Street, N/A | Akron | OH | 44307 | 140,003.00
Montgomery County Board of County Commissioners/HMIS | 451 W. Third St., 9th Floor | Dayton | OH | 45422 | 140,525.00
Homefull/Iowa Avenue Commons | 33 W. First Street, Suite 100 | Dayton | OH | 45402 | 140,916.00
Legacy III, Inc/Emerging Women Program 2017 | 733 W. Market Street, Suite B5A | Akron | OH | 44303 | 141,881.00
Jefferson County Community Action Council/Supportive Housing Program | 114 North 4th Street | Steubenville | OH | 43952 | 142,434.00
City of Akron/OH-506 CoC Planning Application FY2017 | 166 S. High St, Suite 400 | Akron | OH | 44308 | 142,854.00
ICAN Inc./Cherry Grove | 1214 Market Ave N | Canton | OH | 44714 | 145,679.00
Coleman Professional Services/Shelter Plus Care 2 | 5982 Rhodes Road | Kent | OH | 44240 | 146,251.00
Ironton Lawrence County Area CAO, Inc./Lawrence County One-Stop TRA | 305 North 5th Street | Ironton | OH | 45638 | 148,338.00
Legacy III, Inc/Brubaker Program 2017 | 733 W. Market Street, Suite B5A | Akron | OH | 44303 | 148,990.00
Geauga County Board of Mental Health & Recovery Services/Permanent Supportive Housing | 13244 Ravenna Road | Chardon | OH | 44024 | 151,609.00
Info Line, Inc./Hope | 703 South Main Street, Suite 211 | Akron | OH | 44311 | 152,568.00
Strategies to End Homelessness, Inc./Lighthouse Scattered Site RRH | 2368 Victory Parkway, Suite 600 | Cincinnati | OH | 45206 | 154,961.00
Butler County, Ohio/Butler County S+C for Chronically Homeless II | 130 High Street, 6th Floor | Hamilton | OH | 45011 | 157,041.00
Knox Metropolitan Housing Authority/Knox County TRA | 201A West High Street | Mount Vernon | OH | 43050 | 158,811.00
TLC Homelessness Board/CoC Planning Project Application 2017 | 1946 N. 13th St., #437 | Toledo | OH | 43604 | 160,186.00
Stark Metropolitan Housing Authority/Gateway House II SPC Phase II | 400 East Tuscarawas Street | Canton | OH | 44702 | 163,507.00
Miami Valley Housing Opportunities, Inc./Key Terrace Supportive Services | 907 W. Fifth Street, 3rd Floor | Dayton | OH | 45402 | 164,039.00
Community Shelter Board/CSB 2017 HMIS/CSP | 111 Liberty St, Suite 150 | Columbus | OH | 43215 | 164,070.00
Homefull/Saphire Rapid Rehousing | 33 W. First Street, Suite 100 | Dayton | OH | 45402 | 166,533.00
Tuscarawas County/Tuscarawas County TRA | 119 Garland Drive SW | New Philadelphia | OH | 44663 | 168,945.00
Communtiy Support Services Inc./Safe Haven | 150 Cross St | Akron | OH | 44311 | 169,467.00
Butler County, Ohio/Butler SPC for Homeless Individuals and Families | 130 High Street, 6th Floor | Hamilton | OH | 45011 | 170,109.00
Appleseed Community Mental Health Center, Inc./Appleseed RRH | 2233 Rocky Lane | Ashland | OH | 44805 | 170,474.00
St. Paul's Community Center/My Place | 230 13 St | Toledo | OH | 43604 | 171,287.00
Neighborhood Properties, Inc./Housing First | 2753 West Central Avenue | Toledo | OH | 43606 | 172,336.00
Lake County Alcohol, Drug Addiction and Mental Health Servic/Lake County SPC II | One Victoria Place, Suite 205 | Painesville | OH | 44077 | 173,165.00
Miami Valley Housing Opportunities, Inc./MVHO Leasing I | 907 W. Fifth Street, 3rd Floor | Dayton | OH | 45402 | 177,327.00
Butler County, Ohio/Butler SPC for Adults with Chronic Homelessness | 130 High Street, 6th Floor | Hamilton | OH | 45011 | 178,765.00
H. M. Life Opportunity Services/Access Home | 3250 W. Market Street, Suite #204 | Akron | OH | 44333 | 179,098.00
Strategies to End Homelessness, Inc./Lighthouse RRH Expansion | 2368 Victory Parkway, Suite 600 | Cincinnati | OH | 45206 | 179,286.00
Homefull/River Commons II | 33 W. First Street, Suite 100 | Dayton | OH | 45402 | 180,844.00
Tuscarawas County/Recovery Begins at Home | 119 Garland Drive SW | New Philadelphia | OH | 44663 | 182,187.00
Community Shelter Board/Maryhaven 2017 Supportive Housing Project | 111 Liberty St, Suite 150 | Columbus | OH | 43215 | 183,196.00
Allen Metropolitan Housing Authority/Allen Shelter Plus Care Vouchers | 600 South Main Street | Lima | OH | 45804 | 185,558.00
Community Shelter Board/NCR 2017 PSH Expansion + Enhancement | 111 Liberty St, Suite 150 | Columbus | OH | 43215 | 186,973.00
TASC of Northwest Ohio, Inc./Walls For All | 701 Jefferson Avenue, Suite 101 | Toledo | OH | 43604 | 188,124.00
Trumbull Mental Health and Recovery Board/Trumbull New Shelter Plus Care Chronic | 4076 Youngstown Road | Warren | OH | 44484 | 188,568.00
Alliance for Children & Families/SOHO BONUS | 624 Scranton Ave | Alliance | OH | 44601 | 188,853.00
Community Shelter Board/CHN 2017 Safe Haven | 111 Liberty St, Suite 150 | Columbus | OH | 43215 | 188,951.00
Fairfield Metopolitan Housing Authority/Fairfield County Shelter Plus Care | 315 North Columbus Street | Lancaster | OH | 43130 | 192,474.00
The Salvation Army, a New York Corporation/Delaware County Permanent Supportive Housing for Families | 440 West Nyack Road | West Nyack | OH | 10994 | 193,449.00
Daybreak, Inc./Milestones | 605 S. Patterson Boulevard | Dayton | OH | 45402 | 195,585.00
St. Paul's Community Center/Home Base | 230 13 St | Toledo | OH | 43604 | 197,307.00
Young Women's Christian Association of Youngstown, Ohio/YWCA Scattered-Site 2 Permanent Housing for Disabled Families | 25 West Rayen Avenue | Youngstown | OH | 44503 | 200,543.00
ICAN Inc./Shelter Plus Care SRA | 1214 Market Ave N | Canton | OH | 44714 | 202,915.00
Community Shelter Board/YMCA 2017 S+C SRA | 111 Liberty St, Suite 150 | Columbus | OH | 43215 | 205,706.00
Strategies to End Homelessness, Inc./Lighthouse Permanent Supportive Housing | 2368 Victory Parkway, Suite 600 | Cincinnati | OH | 45206 | 207,953.00
Medina County Alcohol, Drug Addiction and Mental Health Boar/Northland II | 246 Northland Dr | Medina | OH | 44256 | 211,783.00
WSOS Community Action Commission, Inc./WSOS Homenet Permanent Housing Program—DV | 109 S. Front Street | Fremont | OH | 43420 | 213,397.00
Warren Metropolitan Housing Authority/Warren Shelter Plus Care | 990 East Ridge Drive | Lebanon | OH | 45036 | 213,691.00
West Side Catholic Center/WSCC RRH 20 | 3135 Lorain Ave | Cleveland | OH | 44113 | 216,659.00
Community Shelter Board/CSB 2017 UFA | 111 Liberty St, Suite 150 | Columbus | OH | 43215 | 219,546.00
Mental Health Services for Homeless Persons, Inc./Downtown Superior Apartments | 1744 Payne Avenue | Cleveland | OH | 44114 | 220,189.00
Residential Administrators, Inc./Residential Administrators PSH | 1521 N. Detroit Street, P.O. Box 765 | West Liberty | OH | 43357 | 222,921.00
Strategies to End Homelessness, Inc./YWCA DV TH/RRH | 2368 Victory Parkway, Suite 600 | Cincinnati | OH | 45206 | 223,128.00
Hocking Metropolitan Housing Authority/Shelter Plus care | 33601 Pine Ridge Drive | Logan | OH | 43138 | 224,369.00
Miami Valley Housing Opportunities, Inc./Key Terrace Rental Assistance | 907 W. Fifth Street, 3rd Floor | Dayton | OH | 45402 | 224,560.00
Findlay Hope House for the Homeless, Inc./Able Housing | 1800 N. Blanchard St., Suite 106 | Findlay | OH | 45840 | 224,816.00
ICAN Inc./Supported Apartments | 1214 Market Ave N | Canton | OH | 44714 | 225,368.00
Interfaith Hospitality Network of Springfield/Permanent Housing with Supportive Services | 501 W. High Street | Springfield | OH | 45506 | 227,140.00
Young Women's Christian Association of Canton/STARR | YWCA of Canton, 231 6th Street NE | Canton | OH | 44702 | 228,200.00
Neighborhood Properties, Inc./1st Avenue | 2753 West Central Avenue | Toledo | OH | 43606 | 230,737.00
Communtiy Support Services Inc./Blue Herron | 150 Cross St | Akron | OH | 44311 | 231,003.00
Neighborhood Properties, Inc./Haven | 2753 West Central Avenue | Toledo | OH | 43606 | 232,075.00
Community Shelter Board/Huckleberry House 2017 Transitional Living Program | 111 Liberty St, Suite 150 | Columbus | OH | 43215 | 232,135.00
Community Shelter Board/CHN 2017 Leasing SHP Program | 111 Liberty St, Suite 150 | Columbus | OH | 43215 | 232,221.00
Lake County Alcohol, Drug Addiction and Mental Health Servic/Lake County SPC | One Victoria Place, Suite 205 | Painesville | OH | 44077 | 232,846.00
Community Shelter Board/CHN 2017 East Fifth Avenue Apartments | 111 Liberty St, Suite 150 | Columbus | OH | 43215 | 232,914.00
Catholic Charities Diocese of Toledo/Special Assistance for Families Accessing Housing | 1933 Spielbusch Avenue | Toledo | OH | 43604 | 234,120.00
Miami Valley Housing Opportunities, Inc./MVHO Westcliff | 907 W. Fifth Street, 3rd Floor | Dayton | OH | 45402 | 234,382.00
Community Shelter Board/CHN 2017 Briggsdale Apartments | 111 Liberty St, Suite 150 | Columbus | OH | 43215 | 234,491.00
Strategies to End Homelessness, Inc./Salvation Army RRH 2 for Families | 2368 Victory Parkway, Suite 600 | Cincinnati | OH | 45206 | 234,731.00
Neighborhood Properties, Inc./PACT Partnership | 2753 West Central Avenue | Toledo | OH | 43606 | 237,377.00
Strategies to End Homelessness, Inc./BHS Rapid Rehousing 3 for Families | 2368 Victory Parkway, Suite 600 | Cincinnati | OH | 45206 | 242,196.00
Strategies to End Homelessness, Inc./Salvation Army Permanent RRH 1 | 2368 Victory Parkway, Suite 600 | Cincinnati | OH | 45206 | 243,056.00
Strategies to End Homelessness, Inc./FY17 RRH | 2368 Victory Parkway, Suite 600 | Cincinnati | OH | 45206 | 245,800.00
Young Women's Christian Association of Canton/STARR II | YWCA of Canton, 231 6th Street NE | Canton | OH | 44702 | 245,963.00
Miami Valley Housing Opportunities, Inc./MVHO Leasing III | 907 W. Fifth Street, 3rd Floor | Dayton | OH | 45402 | 246,444.00
Strategies to End Homelessness, Inc./Shelterhouse Homeless Individuals Partnership (HIP) | 2368 Victory Parkway, Suite 600 | Cincinnati | OH | 45206 | 251,769.00
Volunteers of America of Greater Ohio/Almost Home | 8225 Brecksville Road, Suite 206 | Cleveland | OH | 44141 | 253,669.00
Homefull/Rapid Re-Housing | 33 W. First Street, Suite 100 | Dayton | OH | 45402 | 254,972.00
Strategies to End Homelessness, Inc./OTRCH Jimmy Heath House | 2368 Victory Parkway, Suite 600 | Cincinnati | OH | 45206 | 255,452.00
Community Shelter Board/CHN 2017 Parsons Avenue Apartments | 111 Liberty St, Suite 150 | Columbus | OH | 43215 | 256,811.00
Trumbull Mental Health and Recovery Board/Trumbull Shelter Plus Care for homeless persons with a mental illness 1 | 4076 Youngstown Road | Warren | OH | 44484 | 257,555.00
Community Shelter Board/YWCA 2017 WINGS | 111 Liberty St, Suite 150 | Columbus | OH | 43215 | 257,848.00
Info Line, Inc./Akron/Summit County HMIS | 703 South Main Street, Suite 211 | Akron | OH | 44311 | 260,442.00
Communtiy Support Services Inc./The Commons at Madaline Park | 150 Cross St | Akron | OH | 44311 | 264,899.00
Battered Women's Shelter/Step III | 974 East Market Street | Akron | OH | 44305 | 266,125.00
Athens Metropolitan Housing Authority/Athens Shelter Plus Care | 10 Hope Drive, NA | Athens | OH | 45701 | 270,810.00
Montgomery County Board of County Commissioners/OH 505 CoC Planning 2017 | 451 W. Third St., 9th Floor | Dayton | OH | 45422 | 271,273.00
WSOS Community Action Commission, Inc./WSOS Permanent Supportive Housing Expansion | 109 S. Front Street | Fremont | OH | 43420 | 271,382.00
Community Shelter Board/CHN 2017 Community ACT | 111 Liberty St, Suite 150 | Columbus | OH | 43215 | 273,026.00
Coleman Professional Services/Coleman PSH | 5982 Rhodes Road | Kent | OH | 44240 | 282,044.00
Toledo Community Service Center dba Family House/RRH Program | 669 Indiana Avenue | Toledo | OH | 43604 | 286,388.00
Volunteers of America of Greater Ohio/Crossroads Supportive Housing Program | 8225 Brecksville Road, Suite 206 | Cleveland | OH | 44141 | 287,063.00
Columbiana Metropolitan Housing Authority/Columbiana MHA Shelter + Care I | 325 Moore Street | East Liverpool | OH | 43920 | 291,821.00
Coleman Professional Services/Beacon House | 5982 Rhodes Road | Kent | OH | 44240 | 292,261.00
Community Shelter Board/TSA 2017 Job 2 Housing (OH0074U5E031605) | 111 Liberty St, Suite 150 | Columbus | OH | 43215 | 294,017.00
Coleman Professional Services/Jefferson County Shelter Plus Care | 5982 Rhodes Road | Kent | OH | 44240 | 300,123.00
WSOS Community Action Commission, Inc./WSOS Rapid ReHousing Conversion | 109 S. Front Street | Fremont | OH | 43420 | 301,001.00
Strategies to End Homelessness, Inc./BHS Rapid Rehousing 2 | 2368 Victory Parkway, Suite 600 | Cincinnati | OH | 45206 | 320,656.00
Strategies to End Homelessness, Inc./IHN RRH for Families | 2368 Victory Parkway, Suite 600 | Cincinnati | OH | 45206 | 322,474.00
Strategies to End Homelessness, Inc./Family Housing Partnership | 2368 Victory Parkway, Suite 600 | Cincinnati | OH | 45206 | 322,568.00
St. Vincent de Paul Social Services, Inc./St. Vincent de Paul Safe Haven FY 2017 | 124 W. Apple Street | Dayton | OH | 45402 | 324,177.00
Strategies to End Homelessness, Inc./OTRCH Paths to Recovery | 2368 Victory Parkway, Suite 600 | Cincinnati | OH | 45206 | 326,263.00
Beach House, Inc./Steps to Home TH-C | 2283 Ashland Ave | Toledo | OH | 43620 | 329,268.00
Community Shelter Board/CSB 2017 CoC Planning | 111 Liberty St, Suite 150 | Columbus | OH | 43215 | 329,319.00
Strategies to End Homelessness, Inc./FY 2017 UFA | 2368 Victory Parkway, Suite 600 | Cincinnati | OH | 45206 | 331,618.00
Strategies to End Homelessness, Inc./Tender Mercies Haven Hall PSH | 2368 Victory Parkway, Suite 600 | Cincinnati | OH | 45206 | 332,951.00
Neighborhood Properties, Inc./Affordable Housing for Persons With Mental Illness | 2753 West Central Avenue | Toledo | OH | 43606 | 340,108.00
Ashtabula County Mental Health and Recovery Services Board/Ashtabula Shelter Plus Care Vouchers for homeless persons with mental illness | 4817 State Road, Suite 203 | Ashtabula | OH | 44004 | 344,357.00
Licking Metropolitan Housing Authority/Licking Shelter Plus Care | 144 W. Main St | Newark | OH | 43055 | 345,772.00
Young Women's Christian Association of Youngstown, Ohio/YWCA Permanent Housing for Families with Disabilities | 25 West Rayen Avenue | Youngstown | OH | 44503 | 346,181.00
Meridian HeatlhCare (formerly Meridian Community Care)/SRO II | 527 N. Meridian Rd | Youngstown | OH | 44509 | 351,006.00
Strategies to End Homelessness, Inc./IHN Permanent Supportive Housing 2 | 2368 Victory Parkway, Suite 600 | Cincinnati | OH | 45206 | 354,170.00
Strategies to End Homelessness, Inc./IHN Permanent Supportive Housing | 2368 Victory Parkway, Suite 600 | Cincinnati | OH | 45206 | 356,623.00
Eastway Corporation/Aspire | 600 Wayne Ave | Dayton | OH | 45410 | 360,365.00
Strategies to End Homelessness, Inc./BHS Permanent Supportive Housing | 2368 Victory Parkway, Suite 600 | Cincinnati | OH | 45206 | 361,533.00
Strategies to End Homelessness, Inc./NISRE Exit PSH | 2368 Victory Parkway, Suite 600 | Cincinnati | OH | 45206 | 362,163.00
Strategies to End Homelessness, Inc./BHS Rapid Rehousing 4 | 2368 Victory Parkway, Suite 600 | Cincinnati | OH | 45206 | 364,390.00
Beatitude House/Beatitude House Permanent Supportive Housing Program | 238 Tod Lane | Youngstown | OH | 44504 | 365,476.00
West Side Catholic Center/WSCC RRH 32 | 3135 Lorain Ave | Cleveland | OH | 44113 | 370,207.00
Community Shelter Board/CHN 2017 Southpoint Place Apartments | 111 Liberty St, Suite 150 | Columbus | OH | 43215 | 376,578.00
Medina Metropolitan Housing Authority/Medina County TRA | 850 Walter Road | Medina | OH | 44256 | 381,408.00
Community Shelter Board/VOAGO 2017 Permanent Supportive Housing for Families | 111 Liberty St, Suite 150 | Columbus | OH | 43215 | 384,383.00
Daybreak, Inc./Opportunity House | 605 S. Patterson Boulevard | Dayton | OH | 45402 | 387,486.00
Strategies to End Homelessness, Inc./FY 2017 HMIS Renewal | 2368 Victory Parkway, Suite 600 | Cincinnati | OH | 45206 | 388,611.00
Strategies to End Homelessness, Inc./OTRCH ALI Consolidation | 2368 Victory Parkway, Suite 600 | Cincinnati | OH | 45206 | 394,752.00
Homefull/RRH Priority Populations | 33 W. First Street, Suite 100 | Dayton | OH | 45402 | 409,494.00
Beach House, Inc./Steps to Home | 2283 Ashland Ave | Toledo | OH | 43620 | 414,451.00
Stark Metropolitan Housing Authority/Shelter Plus Care TRA | 400 East Tuscarawas Street | Canton | OH | 44702 | 416,953.00
Strategies to End Homelessness, Inc./NCR Commons at South Cumminsville | 2368 Victory Parkway, Suite 600 | Cincinnati | OH | 45206 | 418,252.00
Trumbull Mental Health and Recovery Board/Shelter Plus Care Vouchers for Families | 4076 Youngstown Road | Warren | OH | 44484 | 419,413.00
Lorain County Board of Mental Health/Lorain Shelter Plus Care | 1173 North Ridge Road East, Suite 101 | Lorain | OH | 44055 | 426,022.00
PLACES Inc./Opening Doors for the Homeless | 11 W. Monument Ave.—7th Floor | Dayton | OH | 45402 | 427,100.00
Emerald Development & Economic Network (EDEN), Inc./Permanent Housing for Persons with Chemical Dependencies 2001 | 7812 Madison Avenue | Cleveland | OH | 44102 | 429,462.00
H. M. Life Opportunity Services/Permanent Supportive Housing—H.M. Life Opportunity Services | 3250 W. Market Street, Suite #204 | Akron | OH | 44333 | 430,150.00
Portage Metropolitan Housing Authority/Portage Shelter Plus Care | 2832 State Route 59 | Ravenna | OH | 44266 | 431,539.00
Beach House, Inc./Steps to Home Permanent Supportive Housing | 2283 Ashland Ave | Toledo | OH | 43620 | 433,576.00
Coalition On Homelessness and Housing in Ohio/Homeless Management Information System | 175 S. 3rd Street, Suite 250 | Columbus | OH | 43215 | 458,840.00
Mental Health Services for Homeless Persons, Inc./Permanent Housing for Young Adults | 1744 Payne Avenue | Cleveland | OH | 44114 | 464,049.00
Mental Health Services for Homeless Persons, Inc./Safe Haven 3 | 1744 Payne Avenue | Cleveland | OH | 44114 | 464,170.00
Akron Metropolitan Housing Authority/Shelter Plus Care (CSS 2017) OH0153L5E061609 | 100 W. Cedar Street, N/A | Akron | OH | 44307 | 470,716.00
Ohio Development Services Agency/CoC Planning Project FY17 | 77 South High Street, 24th Floor | Columbus | OH | 43215 | 476,093.00
WSOS Community Action Commission, Inc./WSOS Homenet Permanent Supportive Housing | 109 S. Front Street | Fremont | OH | 43420 | 476,945.00
City of Dayton, Ohio/2017 SRA Renewal | 101 W. Third Street | Dayton | OH | 45402 | 483,523.00
Cuyahoga County/Cuyahoga County Rapid Re-Housing for Families | 310 W. Lakeside Ave, Suite 595 | Cleveland | OH | 44113 | 488,712.00
Strategies to End Homelessness, Inc./CILO Permanent Housing Program | 2368 Victory Parkway, Suite 600 | Cincinnati | OH | 45206 | 493,853.00
Strategies to End Homelessness, Inc./FY 2017 CoC Planning | 2368 Victory Parkway, Suite 600 | Cincinnati | OH | 45206 | 497,427.00
Cuyahoga County/Cuyahoga County Coordinated Entry | 310 W. Lakeside Ave, Suite 595 | Cleveland | OH | 44113 | 500,000.00
Licking County Coalition for Housing/LCCH Transitional Housing | 23 South Park Place, Suite 200 | Newark | OH | 43058 | 530,945.00
Cuyahoga County/2016 Rapid Re-Housing for Single Adults | 310 W. Lakeside Ave, Suite 595 | Cleveland | OH | 44113 | 538,461.00
Community Shelter Board/Alvis Inc 2017 Amethyst Program | 111 Liberty St, Suite 150 | Columbus | OH | 43215 | 555,143.00
Strategies to End Homelessness, Inc./OVGI PH Rapid Re-housing | 2368 Victory Parkway, Suite 600 | Cincinnati | OH | 45206 | 603,867.00
Eastway Corporation/HOPE Housing | 600 Wayne Ave | Dayton | OH | 45410 | 653,226.00
Strategies to End Homelessness, Inc./Talbert House Permanent Supportive Housing 1 | 2368 Victory Parkway, Suite 600 | Cincinnati | OH | 45206 | 660,322.00
Emerald Development & Economic Network (EDEN), Inc./Duplex Housing- Scattered Site | 7812 Madison Avenue | Cleveland | OH | 44102 | 678,397.00
Licking County Coalition for Housing/Rapid Re-Housing Ohio | 23 South Park Place, Suite 200 | Newark | OH | 43058 | 703,841.00
Strategies to End Homelessness, Inc./Caracole PSH | 2368 Victory Parkway, Suite 600 | Cincinnati | OH | 45206 | 704,719.00
Warren Metropolitan Housing Authority/Transitions | 990 East Ridge Drive | Lebanon | OH | 45036 | 717,537.00
Mental Health Services for Homeless Persons, Inc./Payne Avenue Plus | 1744 Payne Avenue | Cleveland | OH | 44114 | 725,315.00
Cuyahoga County/Cuyahoga County Rapid Re-Housing for Single Adults and Youth | 310 W. Lakeside Ave, Suite 595 | Cleveland | OH | 44113 | 726,315.00
Community Shelter Board/CHN 2017 Rebuilding Lives PACT Team Initiative | 111 Liberty St, Suite 150 | Columbus | OH | 43215 | 726,943.00
Mental Health Services for Homeless Persons, Inc./Miles | 1744 Payne Avenue | Cleveland | OH | 44114 | 757,602.00
Strategies to End Homelessness, Inc./BHS Rapid Rehousing 1 | 2368 Victory Parkway, Suite 600 | Cincinnati | OH | 45206 | 770,054.00
Community Shelter Board/Equitas Health 2017 PSH | 111 Liberty St, Suite 150 | Columbus | OH | 43215 | 783,195.00
Strategies to End Homelessness, Inc./Shelterhouse HUD RRH | 2368 Victory Parkway, Suite 600 | Cincinnati | OH | 45206 | 827,268.00
Emerald Development & Economic Network (EDEN), Inc./Permanent Housing for Persons with Chemical Dependencies 2004 | 7812 Madison Avenue | Cleveland | OH | 44102 | 862,542.00
Strategies to End Homelessness, Inc./Talbert House Permanent Supportive Housing 2 | 2368 Victory Parkway, Suite 600 | Cincinnati | OH | 45206 | 934,628.00
Mental Health Services for Homeless Persons, Inc./8301 Detroit | 1744 Payne Avenue | Cleveland | OH | 44114 | 965,990.00
PLACES Inc./Housing First I-IV | 11 W. Monument Ave.—7th Floor | Dayton | OH | 45402 | 996,009.00
Mental Health Services for Homeless Persons, Inc./South Pointe | 1744 Payne Avenue | Cleveland | OH | 44114 | 1,016,430.00
Emerald Development & Economic Network (EDEN), Inc./SRA 2007-54 | 7812 Madison Avenue | Cleveland | OH | 44102 | 1,017,438.00
Emerald Development & Economic Network (EDEN), Inc./EAX Greenbridge Extension | 7812 Madison Avenue | Cleveland | OH | 44102 | 1,070,066.00
Emerald Development & Economic Network (EDEN), Inc./Rapid Rehousing for Families and Singles Bonus FY2015 | 7812 Madison Avenue | Cleveland | OH | 44102 | 1,223,786.00
Community Shelter Board/CHN 2017 S+C TRA | 111 Liberty St, Suite 150 | Columbus | OH | 43215 | 1,385,703.00
Emerald Development & Economic Network (EDEN), Inc./SRA 2004 | 7812 Madison Avenue | Cleveland | OH | 44102 | 1,504,704.00
Mental Health Services for Homeless Persons, Inc./Euclid | 1744 Payne Avenue | Cleveland | OH | 44114 | 1,544,268.00
Community Shelter Board/CHN 2017 S+C SRA | 111 Liberty St, Suite 150 | Columbus | OH | 43215 | 1,609,752.00
Community Shelter Board/CHN 2017 Supportive Housing Leasing | 111 Liberty St, Suite 150 | Columbus | OH | 43215 | 1,819,252.00
City of Dayton, Ohio/2017 TRA Renewal | 101 W. Third Street | Dayton | OH | 45402 | 2,186,012.00
Strategies to End Homelessness, Inc./Excel PSH Consolidation | 2368 Victory Parkway, Suite 600 | Cincinnati | OH | 45206 | 3,462,640.00
Emerald Development & Economic Network (EDEN), Inc./TRA 1126 Units | 7812 Madison Avenue | Cleveland | OH | 44102 | 10,765,612.00
KI BOIS Community Action Foundation, Inc./OK-507 CoC Planning Application FY2017 | P.O. Box 727, 200 SE “A” Street | Stigler | OK | 74462 | 9,546.00
City of Norman/FY2017 Planning Grant | 201-A West Gray | Norman | OK | 73069 | 11,875.00
Stillwater Housing Development Corporation/Mission of Hope Permanent Housing for Veterans | 807 S Lowry | Stillwater | OK | 74074 | 13,743.00
Lawton Housing Authority/Homeless Management Information System (HMIS) | 609 S.W. F Avenue | Lawton | OK | 73501 | 16,065.00
Community Action Resource & Development, Inc./Safe Life Permanent Supportive Housing | 707 W. Lowry Road | Claremore | OK | 74017 | 16,800.00
Northern Oklahoma Youth Services & Shelter Inc./NOYS FY 2017 CoC Planning Grant | 2203 North Ash St | Ponca City | OK | 74601 | 18,402.00
Stillwater Housing Development Corporation/Mission of Hope Transitional Housing | 807 S Lowry | Stillwater | OK | 74074 | 18,402.00
Northwest Domestic Crisis Services, Inc./2017 Planning Project | 1024 22nd Street | Woodward | OK | 73801 | 19,399.00
City of Oklahoma City/HOPE Shelter Plus Care Families 2 | 420 West Main, Suite 920 | Oklahoma City | OK | 73102 | 20,582.00
City of Oklahoma City/Centralized Intake and Referral | 420 West Main, Suite 920 | Oklahoma City | OK | 73102 | 21,400.00
Northeast Oklahoma Community Action Agency, Inc./OK-505 CoC Planning Application FY2017 | 856 E. Melton Drive, P.O. Box 603 | Jay | OK | 74346 | 21,864.00
City of Oklahoma City/HMIS 2 | 420 West Main, Suite 920 | Oklahoma City | OK | 73102 | 22,000.00
State of Oklahoma/Norman Permanent Housing | 2000 N. Classen Blvd., Suite E600 | Oklahoma City | OK | 73106 | 25,059.00
Mental Health Association in Tulsa, Inc./LTS Apartments II | 1870 S Boulder Avenue | Tulsa | OK | 74119 | 25,781.00
Northeast Oklahoma Community Action Agency, Inc./NEOCAA Dedicated HMIS Renewal of Project OK0047L6I051608 | 856 E. Melton Drive, P.O. Box 603 | Jay | OK | 74346 | 27,217.00
Stillwater Housing Development Corporation/Mission of Hope Permanent Housing | 807 S Lowry | Stillwater | OK | 74074 | 35,792.00
Freedom From Addiction Through Christ/Ark Annex Renewal 2018-2019 | 5250 S. 592 Rd | Miami | OK | 74354 | 38,012.00
Northeast Oklahoma Community Action Agency, Inc./NEOCAA PSH Renewal of Project OK0048L6I051608 | 856 E. Melton Drive, P.O. Box 603 | Jay | OK | 74346 | 38,416.00
Community Crisis Center, Inc./Partnership for Peace | 118 A Street Southeast | Miami | OK | 74354 | 40,938.00
United Way of Ponca City, Inc./FY2017 NCOCoC HMIS (6/1/18—5/31/2019) | 205 North Second Street | Ponca City | OK | 74601 | 44,765.00
Food and Shelter/Housing Case Management 2018-19 | 201 Reed Ave | Norman | OK | 73071 | 45,411.00
Lawton Housing Authority/Homeless Management Information System (HMIS) | 609 S.W. F Avenue | Lawton | OK | 73501 | 47,147.00
Freedom From Addiction Through Christ/Ark Renewal 2018-2019 | 5250 S. 592 Rd | Miami | OK | 74354 | 48,284.00
Housing Authority of the City of Norman/Shelter + Care Progressive Independence | 700 N. Berry Road | Norman | OK | 73069 | 53,066.00
State of Oklahoma/McClain County Shelter Plus Care | 2000 N. Classen Blvd., Suite E600 | Oklahoma City | OK | 73106 | 54,366.00
Volunteers of America of Oklahoma, Inc./5500PSH | 9605 East 61st Street | Tulsa | OK | 74133 | 60,790.00
City of Oklahoma City/HOPE S+C 8 | 420 West Main, Suite 920 | Oklahoma City | OK | 73102 | 64,276.00
Community Service Council of Greater Tulsa/CoC Coordinated Entry System OK-501 | 16 E 16th St, Suite 202 | Tulsa | OK | 74119 | 64,368.00
Housing Authority of the City of Norman/Thunderbird Clubhouse | 700 N. Berry Road | Norman | OK | 73069 | 65,548.00
Stillwater Housing Development Corporation/Mission of Hope Stillwater Permanent Housing | 807 S Lowry | Stillwater | OK | 74074 | 69,635.00
City of Oklahoma City/Permanent Supportive Housing at Parkside | 420 West Main, Suite 920 | Oklahoma City | OK | 73102 | 75,085.00
Survivor Resource Network/Renewal Program Application FY2017 | 208 S. 13th | Ponca City | OK | 74601 | 75,581.00
City of Oklahoma City/Firstep Women's Graduate Housing Program | 420 West Main, Suite 920 | Oklahoma City | OK | 73102 | 77,463.00
Community Service Council of Greater Tulsa/CoC Planning Project Application FY2017 | 16 E 16th St, Suite 202 | Tulsa | OK | 74119 | 80,240.00
City of Oklahoma City/Home Now Supportive Housing Program | 420 West Main, Suite 920 | Oklahoma City | OK | 73102 | 82,518.00
City of Oklahoma City/Horizon—HMIS | 420 West Main, Suite 920 | Oklahoma City | OK | 73102 | 88,000.00
Mental Health Association in Tulsa, Inc./Walker Hall TLC | 1870 S Boulder Avenue | Tulsa | OK | 74119 | 88,456.00
City of Oklahoma City/CEC Supportive Housing | 420 West Main, Suite 920 | Oklahoma City | OK | 73102 | 89,406.00
Housing Authority of the City of Norman/Shelter plus Care Norman | 700 N. Berry Road | Norman | OK | 73069 | 97,044.00
City of Oklahoma City/LTS OKC Apartments Permanent Supportive Housing | 420 West Main, Suite 920 | Oklahoma City | OK | 73102 | 106,358.00
Volunteers of America of Oklahoma, Inc./5400PSH | 9605 East 61st Street | Tulsa | OK | 74133 | 111,660.00
Youth Services of Tulsa, Inc./RRH Youth Renewal | 311 S. Madison Ave | Tulsa | OK | 74120 | 112,724.00
Tulsa Day Center for the Homeless, Inc./Hudson Villas | 415 W. Archer Street | Tulsa | OK | 74103 | 114,869.00
Food and Shelter/SHP 01 2018-19 | 201 Reed Ave | Norman | OK | 73071 | 116,805.00
KI BOIS Community Action Foundation, Inc./KI BOIS Permanent Supportive Housing Program | P.O. Box 727, 200 SE “A” Street | Stigler | OK | 74462 | 116,835.00
Community Service Council of Greater Tulsa/ShareLink Homeless Management Information System (HMIS) | 16 E 16th St, Suite 202 | Tulsa | OK | 74119 | 123,113.00
Tulsa Day Center for the Homeless, Inc./Tulsa Day Center Permanent Housing Program | 415 W. Archer Street | Tulsa | OK | 74103 | 123,318.00
Northwest Domestic Crisis Services, Inc./Alva PSH 2017 | 1024 22nd Street | Woodward | OK | 73801 | 124,380.00
Mental Health Association in Tulsa, Inc./LTS Apartments VI | 1870 S Boulder Avenue | Tulsa | OK | 74119 | 127,718.00
Tulsa Day Center for the Homeless, Inc./Day Center Rapid Re-Housing Program | 415 W. Archer Street | Tulsa | OK | 74103 | 128,000.00
Mental Health Association in Tulsa, Inc./William D. Packard Permanent Supportive Housing | 1870 S Boulder Avenue | Tulsa | OK | 74119 | 135,228.00
City of Oklahoma City/Permanent Supportive Housing at the Lodges | 420 West Main, Suite 920 | Oklahoma City | OK | 73102 | 140,542.00
The Landing, INC/The Landing SHP | 502 West Conner | Fairland | OK | 74343 | 142,377.00
City of Oklahoma City/Hope Housing Plus | 420 West Main, Suite 920 | Oklahoma City | OK | 73102 | 148,118.00
City of Oklahoma City/Westlawn Permanent Supportive Housing | 420 West Main, Suite 920 | Oklahoma City | OK | 73102 | 198,539.00
State of Oklahoma/Balance of State Shelter Plus Care | 2000 N. Classen Blvd., Suite E600 | Oklahoma City | OK | 73106 | 208,196.00
Mental Health Association in Tulsa, Inc./12th Street Safe Haven | 1870 S Boulder Avenue | Tulsa | OK | 74119 | 222,768.00
Waynoka Mental Health Authority/Northwest Substance Abuse Treatment Center | 1095 Nickerson Street | Waynoka | OK | 73860 | 235,314.00
City of Oklahoma City/Hope Partners in Housing | 420 West Main, Suite 920 | Oklahoma City | OK | 73102 | 251,591.00
City of Oklahoma City/Hope CH32 | 420 West Main, Suite 920 | Oklahoma City | OK | 73102 | 304,289.00
City of Oklahoma City/Pershing Center Permanent Supportive Housing | 420 West Main, Suite 920 | Oklahoma City | OK | 73102 | 309,715.00
City of Oklahoma City/HOPE Shelter Plus Care 39 | 420 West Main, Suite 920 | Oklahoma City | OK | 73102 | 322,376.00
City of Oklahoma City/Journey Home—OKC | 420 West Main, Suite 920 | Oklahoma City | OK | 73102 | 350,219.00
Volunteers of America of Oklahoma, Inc./5200PSH | 9605 East 61st Street | Tulsa | OK | 74133 | 365,724.00
City of Oklahoma City/MHA Supportive Housing | 420 West Main, Suite 920 | Oklahoma City | OK | 73102 | 428,207.00
City of Oklahoma City/Building Foundations Supportive Housing Program | 420 West Main, Suite 920 | Oklahoma City | OK | 73102 | 457,605.00
Mental Health Association in Tulsa, Inc./LTS Apartments | 1870 S Boulder Avenue | Tulsa | OK | 74119 | 784,576.00
ACCESS/Renewal Project Application 2017 Woodrow Pines | 3630 Aviation Way | Medford | OR | 97504 | 11,446.00
ACCESS/CoC Planning Project Application FY2017 | 3630 Aviation Way | Medford | OR | 97504 | 12,851.00
NeighborImpact/Welcome Home Grant | 2303 SW First Street | Redmond | OR | 97756 | 14,388.00
NeighborImpact/Central OR Planning | 2303 SW First Street | Redmond | OR | 97756 | 17,435.00
NeighborImpact/Cascades RHY Rapid Re-Housing Project | 2303 SW First Street | Redmond | OR | 97756 | 18,413.00
County of Multnomah/Pathways Youth Housing | 421 SW Oak Street, Suite 105 | Portland | OR | 97204 | 20,833.00
Clatsop Community Action/CCA-PH-RRH | 364 9th Street | Astoria | OR | 97103 | 20,983.00
Cascadia Behavioral Healthcare/Special Needs Housing | 847 NE 19th Avenue, #100 Administrative Offices | Portland | OR | 97232 | 23,613.00
Tillamook County Community Action Resource Enterprises, Inc./CARE Homeless PH-RRH | 2310 First Street, Suite 2 | Tillamook | OR | 97141 | 26,866.00
Central Oregon Veterans Outreach/COVO Housing Stabilization Program | 61510 South Highway 97, Suite 100 | Bend | OR | 97702 | 28,395.00
Washington County Department of Housing Services/Housing Stabilization Program | 111 NE Lincoln Street, Suite 200-L, MS 63 | Hillsboro | OR | 97124 | 31,618.00
Clackamas Dept. Health, Housing & Human Srvs/Coordinated Housing Access | 2051 Kaen Road, Suite 245 | Oregon City | OR | 97045 | 31,928.00
Oregon Housing and Community Services/HMIS 2017 Expansion Grant | 725 Summer Street N.E., Suite B | Salem | OR | 97301 | 33,704.00
Community Action Program of East Central Oregon/CAPECO PH Bonus 1 | 721 SE Third St., Suite D | Pendleton | OR | 97801 | 34,854.00
Shangri-La Corporation/Shangri-La PH Bonus SHAP-1 | 4080 Reed Rd. SE, Suite 150 | Salem | OR | 97302 | 35,305.00
Mid-Willamette Valley Community Action Agency/ROCC SSO for Coordinated Entry | 2475 Center St. NE | Salem | OR | 97301 | 36,309.00
NeighborImpact/Cascades RHY Rapid Re-Housing Expansion Project | 2303 SW First Street | Redmond | OR | 97756 | 36,359.00
St. Vincent de Paul Society of Lane County, Inc./First Place Families Project | P.O. Box 24608 | Eugene | OR | 97402 | 37,810.00
Washington County Department of Housing Services/Homeless Management Information System | 111 NE Lincoln Street, Suite 200-L, MS 63 | Hillsboro | OR | 97124 | 39,742.00
United Community Action Network/UCAN CARE For Independent Living PH | 280 Kenneth Ford Dr | Roseburg | OR | 97470 | 40,050.00
United Community Action Network/UCAN Grandview Homes PH | 280 Kenneth Ford Dr | Roseburg | OR | 97470 | 40,207.00
The Inn-Home for Boys/Avalon 2017 | 9138 SE St. Helen's St | Clackamas | OR | 97015 | 46,088.00
County of Multnomah/Pathways Youth Mental Health Services | 421 SW Oak Street, Suite 105 | Portland | OR | 97204 | 46,673.00
Community Services Consortium/CSC Project Passport PH-RRH | 250 Broadalbin Street SW, Suite 2A | Albany | OR | 97321 | 50,092.00
Clatsop Community Action/CCA- PH RRH Youth | 364 9th Street | Astoria | OR | 97103 | 50,423.00
NeighborImpact/HMIS | 2303 SW First Street | Redmond | OR | 97756 | 53,000.00
Tillamook County Community Action Resource Enterprises, Inc./CARE Homeless PH Bonus 1 | 2310 First Street, Suite 2 | Tillamook | OR | 97141 | 56,167.00
Yamhill Community Action Partnership/YCAP Stabilization and Self-Reliance PH-RRH | 1317 NE DUSTIN CT, P.O. Box 621 | McMinnville | OR | 97128 | 59,030.00
Yamhill Community Action Partnership/YCAP Open Door PSH Bonus | 1317 NE DUSTIN CT, P.O. Box 621 | McMinnville | OR | 97128 | 62,972.00
Clackamas Dept. Health, Housing & Human Srvs/OR-507 CoC Planning Application FY2017 | 2051 Kaen Road, Suite 245 | Oregon City | OR | 97045 | 67,004.00
Clatsop Community Action/CCA-PH-Bonus 1 | 364 9th Street | Astoria | OR | 97103 | 68,300.00
Clackamas Dept. Health, Housing & Human Srvs/HOPE II | 2051 Kaen Road, Suite 245 | Oregon City | OR | 97045 | 68,493.00
Oregon Coast Community Action/ORCCA Family Transitions PH-RRH | 1855 Thomas Ave | Coos Bay | OR | 97420 | 69,246.00
Clackamas Women's Services, Inc./Rapid Rehousing for survivors of domestic violence | 256 Warner Milne Rd | Oregon City | OR | 97045 | 69,831.00
Clackamas Dept. Health, Housing & Human Srvs/Clackamas County CoC HMIS | 2051 Kaen Road, Suite 245 | Oregon City | OR | 97045 | 70,862.00
Community Services Consortium/CSC Housing Stabilization PH-RRH | 250 Broadalbin Street SW, Suite 2A | Albany | OR | 97321 | 71,560.00
Oregon State Health Authority/OHA ROCC—OHOP PH Consolidated | 800 NE Oregon Street, Suite 1105 | Portland | OR | 97232 | 71,666.00
Clackamas Women's Services, Inc./Permanent Supportive Housing for Domestic Violence Survivors-Renewal 2017 | 256 Warner Milne Rd | Oregon City | OR | 97045 | 74,409.00
Transition Projects, Inc./Rapid Rehousing Bonus | 665 NW Hoyt Street | Portland | OR | 97209 | 74,576.00
Oregon Housing and Community Services/OHCS HMIS Consolidated | 725 Summer Street N.E., Suite B | Salem | OR | 97301 | 80,992.00
Yamhill Community Action Partnership/YCAP Youth RRH | 1317 NE DUSTIN CT, P.O. Box 621 | McMinnville | OR | 97128 | 94,565.00
Lane County/Cascades Rapid Re-housing Project | 151 W. 7th Ave., Room 560 | Eugene | OR | 97401 | 97,889.00
Shangri-La Corporation/Shangri-La PH SHAP-2 | 4080 Reed Rd. SE, Suite 150 | Salem | OR | 97302 | 98,033.00
Lane County/LANE Homeless Management Information System | 151 W. 7th Ave., Room 560 | Eugene | OR | 97401 | 98,185.00
Washington County Department of Housing Services/OR-506 CoC Planning Application FY2017 | 111 NE Lincoln Street, Suite 200-L, MS 63 | Hillsboro | OR | 97124 | 98,374.00
Lane County/OR-500 CoC Planning Application FY2017 | 151 W. 7th Ave., Room 560 | Eugene | OR | 97401 | 98,383.00
Community Action Partnership of Oregon/CoC Planning Project | 350 Mission Street SE, Suite 201 | Salem | OR | 97302 | 99,852.00
Washington County Department of Housing Services/Hillsboro Graduated Independent Living Program | 111 NE Lincoln Street, Suite 200-L, MS 63 | Hillsboro | OR | 97124 | 100,081.00
Central City Concern/Sunrise Place | 232 NW Sixth Ave | Portland | OR | 97209 | 106,767.00
New Avenues for Youth Inc./Roads to Housing | 1220 SW Columbia St | Portland | OR | 97201 | 107,783.00
Klamath/Lake Community Action Services/KLCAS Home Matters PSH Bonus 1 | 2300 Clairmont | Klamath Falls | OR | 97601 | 108,122.00
United Community Action Network/UCAN Rent and Support PH-RRH Consolidated | 280 Kenneth Ford Dr | Roseburg | OR | 97470 | 108,553.00
Bradley-Angle House/Andrea Lee Rental Assistance | 5432 N. Albina Ave | Portland | OR | 97217 | 110,119.00
Community Action Program of East Central Oregon/CAPECO Co-operative PH-RRH | 721 SE Third St., Suite D | Pendleton | OR | 97801 | 114,846.00
Community Works Inc./Renewal Project FY2017 | 201 West Main St., Suite 3D | Medford | OR | 97501 | 115,338.00
Rogue Valley Council of Governments/Home At Last 2017 | 155 N 1st St., P.O. Box 3275 | Central Point | OR | 97502 | 118,098.00
Communities in Action/CinA PSH Bonus 1 | 915 SW 3rd Avenue | Ontario | OR | 97914 | 120,039.00
Clackamas Dept. Health, Housing & Human Srvs/Rent Well RRH | 2051 Kaen Road, Suite 245 | Oregon City | OR | 97045 | 120,369.00
Washington County Department of Housing Services/Transitional Living Program | 111 NE Lincoln Street, Suite 200-L, MS 63 | Hillsboro | OR | 97124 | 121,741.00
Cascadia Behavioral Healthcare/Special Needs Services | 847 NE 19th Avenue, #100 Administrative Offices | Portland | OR | 97232 | 127,974.00
Community Services Consortium/CSC Supportive Housing PH-RRH | 250 Broadalbin Street SW, Suite 2A | Albany | OR | 97321 | 141,614.00
Northwest Housing Alternatives/NHA RRH FY 2017 | 2316 SE Willard | Milwaukie | OR | 97222 | 142,434.00
Community Action Team, Inc/CAT Permanent Housing Program PH | 125 N 17th Street, 124 N 18th Street | Saint Helens | OR | 97051 | 144,331.00
Community Action Team, Inc/CAT New Beginnings | 125 N 17th Street, 124 N 18th Street | Saint Helens | OR | 97051 | 144,586.00
Human Solutions, Inc./Safe Home | 12350 SE Powell Boulevard | Portland | OR | 97236 | 148,267.00
United Community Action Network/UCAN ROLS PH | 280 Kenneth Ford Dr | Roseburg | OR | 97470 | 149,410.00
The Inn-Home for Boys/HomeSafe 2017 | 9138 SE St. Helen's St | Clackamas | OR | 97015 | 149,414.00
The Salvation Army, A California Corporation/The Women's Housing Collaborative Expansion | 2010 NW Kearney | Portland | OR | 97209 | 150,484.00
Salem Interfaith Hospitality Network/Salem IHN-PSH Bonus 1 | 1055 Edgewater St NW | Salem | OR | 97304 | 152,268.00
Clackamas Dept. Health, Housing & Human Srvs/Housing our Families | 2051 Kaen Road, Suite 245 | Oregon City | OR | 97045 | 159,604.00
The Inn-Home for Boys/Springwater 2017 | 9138 SE St. Helen's St | Clackamas | OR | 97015 | 162,912.00
Central City Concern/Alcohol and Drug Free Housing | 232 NW Sixth Ave | Portland | OR | 97209 | 163,661.00
Shangri-La Corporation/Shangri-La PSH Assistance PH | 4080 Reed Rd. SE, Suite 150 | Salem | OR | 97302 | 166,639.00
Lane County/Camas Permanent Housing Project | 151 W. 7th Ave., Room 560 | Eugene | OR | 97401 | 168,021.00
Transition Projects, Inc./Horizons | 665 NW Hoyt Street | Portland | OR | 97209 | 178,081.00
Northwest Pilot Project, Inc./Pathways Rent Assistance | 1430 SW Broadway, Suite 200 | Portland | OR | 97201 | 183,123.00
Lane County/Emerald Options | 151 W. 7th Ave., Room 560 | Eugene | OR | 97401 | 187,701.00
St. Vincent de Paul Society of Lane County, Inc./Vet LIFT | P.O. Box 24608 | Eugene | OR | 97402 | 192,188.00
Lane County/Sahalie Permanent Housing Project | 151 W. 7th Ave., Room 560 | Eugene | OR | 97401 | 196,767.00
County of Multnomah/Horizons Youth Supportive Housing | 421 SW Oak Street, Suite 105 | Portland | OR | 97204 | 197,676.00
Bradley-Angle House/Healing Roots Rental Assistance | 5432 N. Albina Ave | Portland | OR | 97217 | 209,365.00
Luke-Dorf, Inc./The Clifford Apartments | 8915 SW Center Street | Tigard | OR | 97223 | 218,354.00
Community Action Team, Inc/CAT St Helens PH-RRH Consolidated | 125 N 17th Street, 124 N 18th Street | Saint Helens | OR | 97051 | 224,339.00
St. Vincent de Paul Society of Lane County, Inc./Connections | P.O. Box 24608 | Eugene | OR | 97402 | 226,452.00
Central City Concern/Employment Recovery Program | 232 NW Sixth Ave | Portland | OR | 97209 | 227,262.00
Central City Concern/Chez Ami | 232 NW Sixth Ave | Portland | OR | 97209 | 235,379.00
City of Portland/HMIS | 1221 SW 4th Ave, Rm 340 | Portland | OR | 97204 | 245,666.00
JOIN/NOWHome | 1435 NE 81st Ave, Suite 100 | Portland | OR | 97213 | 263,596.00
Clackamas Dept. Health, Housing & Human Srvs/HOPE Leasing Program | 2051 Kaen Road, Suite 245 | Oregon City | OR | 97045 | 264,109.00
St. Vincent de Paul Society of Lane County, Inc./LIFT | P.O. Box 24608 | Eugene | OR | 97402 | 267,787.00
Central City Concern/Madrona Studios | 232 NW Sixth Ave | Portland | OR | 97209 | 276,461.00
Transition Projects, Inc./Women's Housing Program | 665 NW Hoyt Street | Portland | OR | 97209 | 290,438.00
Washington County Department of Housing Services/Safe Haven | 111 NE Lincoln Street, Suite 200-L, MS 63 | Hillsboro | OR | 97124 | 297,426.00
Clackamas Dept. Health, Housing & Human Srvs/Housing our Heroes | 2051 Kaen Road, Suite 245 | Oregon City | OR | 97045 | 313,545.00
Transition Projects, Inc./Winter Housing: Targeted Permanent Supportive Housing for Women's Winter Shelter Residents | 665 NW Hoyt Street | Portland | OR | 97209 | 320,331.00
Housing and Community Services Agency of Lane County/Madrone Permanent Housing Project | 177 Day Island Road | Eugene | OR | 97401 | 323,560.00
Neighborhood House/19th Ave Apartments | 7780 SW Capitol Highway | Portland | OR | 97219 | 335,610.00
Transition Projects, Inc./OTIS Project | 665 NW Hoyt Street | Portland | OR | 97209 | 381,534.00
Home Forward/Shelter Plus Care 4 | 135 SW Ash Street | Portland | OR | 97204 | 386,095.00
Transition Projects, Inc./Collaboration | 665 NW Hoyt Street | Portland | OR | 97209 | 386,987.00
Cascadia Behavioral Healthcare/OTIH Project | 847 NE 19th Avenue, #100 Administrative Offices | Portland | OR | 97232 | 389,228.00
Mid-Willamette Valley Community Action Agency/MWVCAA ARCHES PH-RRH | 2475 Center St. NE | Salem | OR | 97301 | 389,461.00
Human Solutions, Inc./Moving to Permanent Housing | 12350 SE Powell Boulevard | Portland | OR | 97236 | 398,778.00
The Salvation Army, A California Corporation/The Women's Housing Collaborative | 2010 NW Kearney | Portland | OR | 97209 | 415,075.00
NeighborImpact/NeighborImpact PH-RRH Program | 2303 SW First Street | Redmond | OR | 97756 | 433,961.00
Outside In/Old Town Collaborative Homeless Housing Program | 1132 SW 13th Avenue | Portland | OR | 97205 | 437,085.00
Housing Authority of Clackamas County/Shelter + Care | P.O. Box 1510, 13930 S. Gain Street | Oregon City | OR | 97045 | 443,640.00
Washington County Department of Housing Services/CoC Rapid Re-Housing for Families | 111 NE Lincoln Street, Suite 200-L, MS 63 | Hillsboro | OR | 97124 | 458,744.00
County of Multnomah/Homesafe Supportive Housing Project | 421 SW Oak Street, Suite 105 | Portland | OR | 97204 | 459,632.00
Housing and Community Services Agency of Lane County/Shelter Plus Care | 177 Day Island Road | Eugene | OR | 97401 | 478,459.00
Cascade AIDS Project/Housing Integration for Healthier Outcomes | 520 NW Davis, Suite 215 | Portland | OR | 97209 | 480,659.00
Human Solutions, Inc./Rapid Re-Housing Intitiative | 12350 SE Powell Boulevard | Portland | OR | 97236 | 486,800.00
Human Solutions, Inc./Safe Home Partnership | 12350 SE Powell Boulevard | Portland | OR | 97236 | 507,565.00
Lane County/Safe Haven Shankle | 151 W. 7th Ave., Room 560 | Eugene | OR | 97401 | 537,958.00
Lane County/McKenzie Rapid Re-housing Project | 151 W. 7th Ave., Room 560 | Eugene | OR | 97401 | 550,749.00
Home Forward/Shelter Plus Care 6 | 135 SW Ash Street | Portland | OR | 97204 | 589,553.00
County of Multnomah/OR-501 CoC Planning Application FY2017 | 421 SW Oak Street, Suite 105 | Portland | OR | 97204 | 632,691.00
County of Multnomah/Domestic Violence Supportive Housing | 421 SW Oak Street, Suite 105 | Portland | OR | 97204 | 640,295.00
Home Forward/Shelter Plus Care CAP | 135 SW Ash Street | Portland | OR | 97204 | 686,203.00
Home Forward/Shelter Plus Care CPT | 135 SW Ash Street | Portland | OR | 97204 | 721,107.00
Home Forward/Shelter Plus Care VAC | 135 SW Ash Street | Portland | OR | 97204 | 727,089.00
Cascadia Behavioral Healthcare/Royal Palm 2 PSH | 847 NE 19th Avenue, #100 Administrative Offices | Portland | OR | 97232 | 766,298.00
Self Enhancement, Inc./Project HAVEN: Permanent Supportive Housing | 3920 North Kerby Avenue | Portland | OR | 97227 | 1,025,325.00
Human Solutions, Inc./Family Futures | 12350 SE Powell Boulevard | Portland | OR | 97236 | 1,374,513.00
Self Enhancement, Inc./Project HAVEN: Rapid Rehousing | 3920 North Kerby Avenue | Portland | OR | 97227 | 1,772,924.00
Washington County Department of Housing Services/Shelter Plus Care Renewal | 111 NE Lincoln Street, Suite 200-L, MS 63 | Hillsboro | OR | 97124 | 2,320,155.00
Central City Concern/HOPE | 232 NW Sixth Ave | Portland | OR | 97209 | 2,441,429.00
Home Forward/Shelter Plus Care ICH | 135 SW Ash Street | Portland | OR | 97204 | 2,769,110.00
Tableland Services, Inc./Permanent Supportive Housing CH Project | 535 E Main Street | Somerset | PA | 15501 | 8,445.00
County of Erie/Erie County Coordinated Entry | 154 West 9th Street | Erie | PA | 16501 | 12,000.00
Community Action Agency of Delaware County, Inc./RRH Expansion—Housing Locator | Government Center, 201 West Front Street | Media | PA | 19063 | 12,430.00
People's Emergency Center/Imani II Leasing | 325 North 39th Street | Philadelphia | PA | 19104 | 14,369.00
Keystone Opportunity Center, Inc./Upper Bucks Rapid Rehousing 1 Renewal 2017 | 104 Main Street | Souderton | PA | 18964 | 18,057.00
Housing Authority of the County of Cumberland/Carlisle Supportive Housing Program | 114 North Hanover Street, Suite 104 | Carlisle | PA | 17013 | 18,272.00
County of Chester/CoC Planning Project Application 2017 | 601 Westtown Road, Suite 365, P.O. Box 2747 | West Chester | PA | 19380 | 19,189.00
Crawford County Mental Health Awareness Program, Inc/CHAPS Fairweather Lodge | 944 Liberty Street | Meadville | PA | 16335 | 19,351.00
1260 Housing Development Corporation/Center West Walnut Access | 2042-48 Arch Street, 2nd Floor | Philadelphia | PA | 19103 | 22,400.00
Housing Authority of the County of Dauphin/S+C 2011 Expansion 2017 | 501 Mohn Street, P.O. Box 7598 | Steelton | PA | 17113 | 23,899.00
County of Bucks/MH PSH I | 1260 Almshouse Rd | Doylestown | PA | 18901 | 24,072.00
County of Bucks/MH PSH II | 1260 Almshouse Rd | Doylestown | PA | 18901 | 24,072.00
Commonwealth of Pennsylvania/Commonwealth of PA HMIS (PA-509) Expansion | 400 North Street, 4th floor | Harrisburg | PA | 17120 | 24,489.00
Fayette County Community Action Agency, Inc./Fairweather Lodge Supportive Housing | 108 N. Beeson Blvd | Uniontown | PA | 15401 | 24,782.00
Commonwealth of Pennsylvania/Commonwealth of PA HMIS (PA-601) Expansion | 400 North Street, 4th floor | Harrisburg | PA | 17120 | 25,000.00
Montgomery County, PA, Dept. of BH/DD/Shelter Plus Care/ACT II | 1430 DeKalb St., P.O. Box 311 | Norristown | PA | 19404 | 26,064.00
BUCKS COUNTY HOUSING AUTHORITY/SHELTER + CARE RENEWAL FUNDING | 350 SOUTH MAIN STREET, SUITE 205 | DOYLESTOWN | PA | 18901 | 26,100.00
BELL SOCIALIZATION SERVICES/York Apartments | 160 S GEORGE ST | YORK | PA | 17401 | 27,000.00
Indiana County Commumity Action Program, Inc./PHD2 | 827 Water Street | Indiana | PA | 15701 | 28,638.00
County of Greene/Greene County Rapid Rehousing Project #2 | 19 S. Washington Street | Waynesburg | PA | 15370 | 29,400.00
County of Franklin/Franklin/Fulton Homeless Assistance Project 2018 Expansion | 425 Franklin Farm Lane | Chambersburg | PA | 17202 | 29,900.00
County of Greene/Greene County Permanent Supportive Housing Expansion Project | 19 S. Washington Street | Waynesburg | PA | 15370 | 30,294.00
Committee For Dignity and Fairness For the Homeless Housing/Dignity III—Better Options for Self-Sufficiency (BOSS) | 5227-R Germantown Avenue | Philadelphia | PA | 19144 | 30,569.00
The Salvation Army, a New York Corporation/Salvation Army Reading Rapid Rehousing | 440 West Nyack Road | West Nyack | PA | 10994 | 31,209.00
Catherine McAuley Center/Rapid Rehousing #2 | 430 Pittston Avenue | Scranton | PA | 18505 | 32,676.00
Opportunity House/New Beginnings | 430 N. Second Street | Reading | PA | 19601 | 33,319.00
Community Development Program of Beaver County/2017 CoC Coordinated Entry | 1013 Eighth Avenue | Beaver Falls | PA | 15010 | 33,725.00
Housing Authority of the County of Dauphin/Dauphin Co. 2008 S+C Expansion Renewal 2017 | 501 Mohn Street, P.O. Box 7598 | Steelton | PA | 17113 | 34,872.00
County of Greene/Greene County Rapid Rehousing Project | 19 S. Washington Street | Waynesburg | PA | 15370 | 36,317.00
1260 Housing Development Corporation/Reed Preston Housing | 2042-48 Arch Street, 2nd Floor | Philadelphia | PA | 19103 | 38,409.00
Gaudenzia Foundation, Inc./DELTA Communities RRH | 1910 N. Second Street | Harrisburg | PA | 17102 | 38,584.00
Community Action Agency of Delaware County, Inc./CoC—Coordinated Entry—CAADC | Government Center, 201 West Front Street | Media | PA | 19063 | 39,586.00
County of York/Coordinated Entry | 28 E. Market St | York | PA | 17401 | 40,000.00
Crawford County Coalition on Housing Needs, Inc/Liberty House Transitional Housing Program | 1180 Liberty Street | Meadville | PA | 16335 | 40,026.00
Lawrence County Social Services, Inc./SAFE | P.O. Box 189 241 W. Grant St | New Castle | PA | 16103 | 40,634.00
Housing Authority of the County of Cumberland/Perry County Veterans Program | 114 North Hanover Street, Suite 104 | Carlisle | PA | 17013 | 41,705.00
ACHIEVEability/Cecil Housing | 21 South 61st Street | Philadelphia | PA | 19139 | 42,000.00
Bucks County Opportunity Council, Inc./Coordinated Assessment | 100 Doyle Street | Doylestown | PA | 18901 | 42,375.00
City of Philadelphia/1523 Fairmount | Municipal Services Bldg, 1401 JFK Blvd, 10th FLR | Philadelphia | PA | 19102 | 42,387.00
Tabor Community Services Inc./Market View Apartments | 308 East King Street, Box 1676 | Lancaster | PA | 17608 | 43,157.00
City of Philadelphia/Calcutta House Apartments | Municipal Services Bldg, 1401 JFK Blvd, 10th FLR | Philadelphia | PA | 19102 | 43,296.00
Crawford County Mental Health Awareness Program, Inc/CHAPS Family Housing | 944 Liberty Street | Meadville | PA | 16335 | 43,539.00
Opportunity House/Linkages | 430 N. Second Street | Reading | PA | 19601 | 43,643.00
Community Action Partnership of Mercer County/Supported Housing for Seriously Mentally Ill | 75 South Dock Street | Sharon | PA | 16146 | 45,100.00
County of Bucks/PA-511 CoC Planning Application FY2017 | 1260 Almshouse Rd | Doylestown | PA | 18901 | 45,213.00
County of Greene/Greene County Shelter + Care Project | 19 S. Washington Street | Waynesburg | PA | 15370 | 45,405.00
Community Development Program of Beaver County/HMIS Expansion Renewal 2017 | 1013 Eighth Avenue | Beaver Falls | PA | 15010 | 46,000.00
Keystone Opportunity Center, Inc./Montco CoC PSH Renewal 2017 | 104 Main Street | Souderton | PA | 18964 | 46,386.00
Berks Counseling Center, Inc./BCC Phoenix House | 645 Penn St., 2nd Floor | Reading | PA | 19601 | 47,631.00
Tableland Services, Inc./Permanent Supportive HousingWorks Expansion | 535 E Main Street | Somerset | PA | 15501 | 48,524.00
Warren-Forest EOC/Youngsville Permanent Supportive Housing | 1209 Pennsylvania Avenue West, P.O. Box 547 | Warren | PA | 16365 | 48,699.00
Capital Area Coalition on Homelessness/HMIS Renewal Application FY2017 | 10 North Second Street, Suite 405 | Harrisburg | PA | 17101 | 48,705.00
Lancaster General Hospital/Lancaster HMIS1 | 555 North Duke Street | Lancaster | PA | 17604 | 49,765.00
Indiana County Commumity Action Program, Inc./PHD | 827 Water Street | Indiana | PA | 15701 | 50,236.00
Housing Authority of the County of Butler Inc/Franklin Court Chronically Homeless | 114 Woody Drive | Butler | PA | 16001 | 51,588.00
Northern Cambria Community Development Corporation/Chestnut Street Gardens | 4200 Crawford Ave., Suite 200 | Northern Cambria | PA | 15714 | 51,643.00
Capital Area Coalition on Homelessness/CACH Planning Project 2018-2019 | 10 North Second Street, Suite 405 | Harrisburg | PA | 17101 | 52,307.00
Domestic Violence Service Center, Inc./See Yourself Succeed | P.O. Box 2177 | Wilkes-Barre | PA | 18703 | 52,354.00
Pottstown Cluster of Religious Communities/Pottstown Cluster Rapid Rehousing 2014 | 57 North Franklin Street | Pottstown | PA | 19464 | 52,432.00
Fayette County Community Action Agency, Inc./Southwest Regional Rapid Re-Housing II | 108 N. Beeson Blvd | Uniontown | PA | 15401 | 52,636.00
Warren-Forest EOC/Warren Permanent Supportive Housing | 1209 Pennsylvania Avenue West, P.O. Box 547 | Warren | PA | 16365 | 53,367.00
Lancaster General Hospital/Lancaster County Coordinated Assessment- Outreach Worker | 555 North Duke Street | Lancaster | PA | 17604 | 54,079.00
County of York/York City & County CoC Planning Project—2017 | 28 E. Market St | York | PA | 17401 | 54,822.00
Westmoreland Community Action/WCA Transitional Age Permanent Supportive Housing 2017 | 226 South Maple Avenue | Greensburg | PA | 15601 | 54,829.00
Community Basics, Inc./Lincoln House FY2017 Renewal | 941 Wheatland Ave, Suite 204 | Lancaster | PA | 17603 | 55,700.00
Lawrence County Social Services, Inc./Veterans RRH Project | P.O. Box 189, 241 W. Grant St | New Castle | PA | 16103 | 56,694.00
Lancaster General Hospital/Lancaster HMIS 2 | 555 North Duke Street | Lancaster | PA | 17604 | 56,766.00
County of Delaware/CoC- Coordinated Entry | 20 S. 69th St., 4th Floor | Upper Darby | PA | 19082 | 57,292.00
Venango County Mental Health/Shelter Plus Care | One Dale Avenue | Franklin | PA | 16323 | 58,131.00
Human Services Center/Pearson Street SHP | 130 West North Street | New Castle | PA | 16101 | 58,153.00
United Neighborhood Centers of Northeastern Pennsylvania/Homeless Management Information Systems (HMIS) | 777 Keystone Industrial Park Rd | Throop | PA | 18512 | 59,556.00
Community Services of Venango County, Inc./Sycamore Commons | 206 Seneca St., n/a | Oil City | PA | 16301 | 59,965.00
Allegheny County Department of Human Services/MyPlace PSH | Human Services Building, 2nd floor, One Smithfield Street | Pittsburgh | PA | 15222 | 60,256.00
County of Chester/Forensic House HSI., 2017 | 601 Westtown Road, Suite 365, P.O. Box 2747 | West Chester | PA | 19380 | 60,864.00
Fayette County Community Action Agency, Inc./Fayette County Rapid Rehousing | 108 N. Beeson Blvd | Uniontown | PA | 15401 | 61,189.00
Catholic Social Services of the Diocese of Scranton Inc/Holy Family Housing | 504 Penn Avenue | Scranton | PA | 18509 | 62,069.00
City of Philadelphia/Patriot House | Municipal Services Bldg, 1401 JFK Blvd, 10th FLR | Philadelphia | PA | 19102 | 62,393.00
Northern Cambria Community Development Corporation/Schoolhouse Gardens | 4200 Crawford Ave., Suite 200 | Northern Cambria | PA | 15714 | 63,659.00
Opportunity House/New Beginnings II | 430 N. Second Street | Reading | PA | 19601 | 63,906.00
Housing Authority of the County of Cumberland/West Shore SHP II | 114 North Hanover Street, Suite 104 | Carlisle | PA | 17013 | 64,546.00
United Neighborhood Centers of Northeastern Pennsylvania/UNC Rapid Rehousing #2 | 777 Keystone Industrial Park Rd | Throop | PA | 18512 | 64,806.00
Fayette County Community Action Agency, Inc./Lenox Street Apartments | 108 N. Beeson Blvd | Uniontown | PA | 15401 | 65,296.00
Community Action, Inc./Transitional Housing Project | 105 Grace Way | Punxsutawney | PA | 15767 | 66,101.00
The Salvation Army, a New York Corporation/Salvation Army Carlisle PH Project | 440 West Nyack Road | West Nyack | PA | 10994 | 66,403.00
Northern Cambria Community Development Corporation/Clinton Street Gardens | 4200 Crawford Ave., Suite 200 | Northern Cambria | PA | 15714 | 66,485.00
County of Beaver/PA-603 CoC Planning Application FY 2017 | 1013 Eighth Avenue | Beaver Falls | PA | 15010 | 66,548.00
Housing Authority of the County of Cumberland/West Shore SHP I | 114 North Hanover Street, Suite 104 | Carlisle | PA | 17013 | 66,828.00
County of York/Continuum of Care RRH Rental Assistance Program | 28 E. Market St | York | PA | 17401 | 66,987.00
Lancaster General Hospital/Lancaster HMIS | 555 North Duke Street | Lancaster | PA | 17604 | 67,410.00
County of Chester/RRH for Families and Indiv. II 2017 | 601 Westtown Road, Suite 365, P.O. Box 2747 | West Chester | PA | 19380 | 68,348.00
Allegheny County Department of Human Services/Allegheny Link | Human Services Building, 2nd floor, One Smithfield Street | Pittsburgh | PA | 15222 | 68,761.00
Gaudenzia Inc./Harbor House | 106 W Main Street | Norristown | PA | 19401 | 69,552.00
YWCA OF GREATER HARRISBURG/YW-Veterans Housing 2017 | 1101 Market Street | Harrisburg | PA | 17103 | 69,821.00
Brethren Housing Association/Side By Side | 219 Hummel Street | Harrisburg | PA | 17104 | 70,179.00
Catholic Social Services of the Diocese of Scranton, Inc./St. Hedwig's Veterans Village | 504 Penn Avenue | Scranton | PA | 18509 | 70,280.00
CATHOLIC CHARITIES OF THE DIOCESE OF ALLENTOWN, INC/Permanent Supportive Housing | 900 South Woodward Street | Allentown | PA | 18103 | 71,863.00
Lawrence County Social Services, Inc./Western CoC Coordinated Entry SSO | P.O. Box 189 241 W. Grant St | New Castle | PA | 16103 | 71,865.00
Keystone Opportunity Center, Inc./Upper Bucks Rapid Rehousing 2 Renewal 2017 | 104 Main Street | Souderton | PA | 18964 | 72,140.00
City of Philadelphia/Escalera | Municipal Services Bldg, 1401 JFK Blvd, 10th FLR | Philadelphia | PA | 19102 | 72,720.00
Gaudenzia Inc./Thompson Street/Shelton Court Apartments | 106 W Main Street | Norristown | PA | 19401 | 72,855.00
Cameron/Elk Counties Behavioral & Developmental Programs/AHEAD | 94 Hospital Street, 4th Floor | Ridgway | PA | 15853 | 73,679.00
Lawrence County Social Services, Inc./TEAM RRH Project | P.O. Box 189, 241 W. Grant St | New Castle | PA | 16103 | 74,061.00
Lawrence County Social Services, Inc./NWRHA | P.O. Box 189, 241 W. Grant St | New Castle | PA | 16103 | 74,167.00
County of Erie/Finally Home | 154 West 9th Street | Erie | PA | 16501 | 74,232.00
Allegheny County Department of Human Services/Good Start | Human Services Building, 2nd floor, One Smithfield Street | Pittsburgh | PA | 15222 | 74,247.00
County of Erie/PA-605 CoC Planning Application FY2017 | 154 West 9th Street | Erie | PA | 16501 | 74,318.00
United Neighborhood Centers of Northeastern Pennsylvania/PA-508 CoC Planning Application FY2017 | 777 Keystone Industrial Park Rd | Throop | PA | 18512 | 75,324.00
People's Emergency Center/Bernice Elza | 325 North 39th Street | Philadelphia | PA | 19104 | 76,272.00
Housing Transitions, Inc./Nittany House Apartments | P.O. Box 1391 | State College | PA | 16804 | 76,423.00
Family Service Association of Bucks County/Bucks County Housing Link, Centralized Intake/Coordinated Assessment- FY 2017 | 4 Cornerstone Drive | Langhorne | PA | 19047 | 76,613.00
Berks Counseling Center, Inc./BCC 13 S. 10th St. Permanent Housing | 645 Penn St., 2nd Floor | Reading | PA | 19601 | 77,754.00
Lawrence County Social Services, Inc./Western CoC Coordinated Entry Implementation | P.O. Box 189, 241 W. Grant St | New Castle | PA | 16103 | 78,135.00
Montgomery County, PA, Dept. of BH/DD/Project Vesta | 1430 DeKalb St., P.O. Box 311 | Norristown | PA | 19404 | 78,192.00
People's Emergency Center/Fattah Homes II | 325 North 39th Street | Philadelphia | PA | 19104 | 78,294.00
Union Mission of Latrobe, Inc./Union Mission Permanent Supportive Housing 2 | 2217 East Harrison Avenue, P.O. Box 271 | Latrobe | PA | 15650 | 79,067.00
County of York/Coordinated Entry—Expansion | 28 E. Market St | York | PA | 17401 | 80,000.00
Lawrence County Social Services, Inc./Coordinated Entry Expansion | P.O. Box 189, 241 W. Grant St | New Castle | PA | 16103 | 80,000.00
City of Philadelphia/New Generations | Municipal Services Bldg, 1401 JFK Blvd, 10th FLR | Philadelphia | PA | 19102 | 80,943.00
Crisis Shelter of Lawrence County/Transitional Housing | 1218 West State Street | New Castle | PA | 16101 | 81,835.00
Community Connections of Clearfield/Jefferson Counties/Housing First | P.O. Box 268, 375 Beaver Drive | DuBois | PA | 15801 | 81,924.00
County of Franklin/Franklin/Fulton S+C Project 2018 | 425 Franklin Farm Lane | Chambersburg | PA | 17202 | 82,128.00
Catholic Social Services of the Diocese of Scranton Inc/RRH-1 | 504 Penn Avenue | Scranton | PA | 18509 | 82,416.00
Council on Chemical Abuse/Transitional Housing Services for Chemically Dependent Homeless Women with Children | 601 Penn St, Suite 600 | Reading | PA | 19601 | 84,447.00
Catholic Social Services of the Diocese of Scranton Inc/Mother Teresa's Haven PSHP | 504 Penn Avenue | Scranton | PA | 18509 | 84,768.00
Berks Coalition to End Homelessness, Inc/PA-506 HMIS FY2017 | 831 Walnut Street | Reading | PA | 19601 | 85,600.00
Allegheny County Department of Human Services/Liberty | Human Services Building, 2nd floor, One Smithfield Street | Pittsburgh | PA | 15222 | 85,995.00
Community Basics, Inc./Fordney Road FY 2017 Renewal | 941 Wheatland Ave, Suite 204 | Lancaster | PA | 17603 | 86,309.00
Christian Churches United/HELP Ministries Rapid Rehousing FY2017 | 413 S. 19th Street | Harrisburg | PA | 17104 | 86,467.00
County of Montgomery, Pennsylvania/PA-504 CoC Planning Application FY2017 | Office of Housing & Community Development Human Services Center, 1430 DeKalb Street | Norristown | PA | 19404 | 86,605.00
Wayne County/Wayne Combined TH/RRH Project | 925 Court Street | Honesdale | PA | 18431 | 86,950.00
Berks Counseling Center, Inc./BCC PS Recovery Housing | 645 Penn St., 2nd Floor | Reading | PA | 19601 | 87,468.00
County of Mifflin/Mifflin County Permanent Housing | 20 North Wayne Street | Lewistown | PA | 17044 | 87,627.00
Catholic Social Services/2017 Housing Resource Coordination Program | 222 N 17th Street, Ste 300 | Philadelphia | PA | 19103 | 87,780.00
Allegheny County Department of Human Services/Path to New Life | Human Services Building, 2nd floor, One Smithfield Street | Pittsburgh | PA | 15222 | 88,076.00
Valley Youth House Committee, Inc./York County RRH for Youth | 3400 High Point Blvd | Bethlehem | PA | 18017 | 88,277.00
Gaudenzia Foundation, Inc./DELTA Communities RRH Apartments | 1910 N. Second Street | Harrisburg | PA | 17102 | 88,416.00
People's Emergency Center/Bigham Homes | 325 North 39th Street | Philadelphia | PA | 19104 | 88,528.00
Catholic Social Services of the Diocese of Scranton, Inc./PSHP Pike County | 504 Penn Avenue | Scranton | PA | 18509 | 89,687.00
County of Lycoming DBA Lycoming-Clinton Joinder Board/Lycoming/Clinton Renewal #6 | 200 East Street | Williamsport | PA | 17701 | 90,031.00
United Christian Ministries, Inc./Kenner Garnet Renewal 2017 | 7534 Rt 49 Osceola, P.O. Box 25 | Elkland | PA | 16920 | 90,403.00
County of Butler, Human Services/Path Transition Age Project | 124 West Diamond Street, P.O. Box 1208 | Butler | PA | 16003 | 90,928.00
Allegheny County Department of Human Services/Delores Howze Program | Human Services Building, 2nd floor, One Smithfield Street | Pittsburgh | PA | 15222 | 91,147.00
Northumberland County MH/MR/Sharing Support | 217 North Center St | Sunbury | PA | 17801 | 91,670.00
Crawford County Mental Health Awareness Program, Inc/Crawford County Housing Advocacy Project | 944 Liberty Street | Meadville | PA | 16335 | 93,531.00
Community Action, Inc./Housing for Homeless and Disabled Persons | 105 Grace Way | Punxsutawney | PA | 15767 | 93,725.00
Shalom House/SHARP | 9 S. 15th Street | Harrisburg | PA | 17104 | 94,469.00
County of Washington/Supportive Living | 100 West Beau Street, Suite 703 | Washington | PA | 15301 | 94,484.00
Lancaster General Hospital/Lancaster Planning | 555 North Duke Street | Lancaster | PA | 17604 | 95,022.00
Catholic Social Services of the Diocese of Scranton, Inc./Permanent Supportive Housing 2 | 504 Penn Avenue | Scranton | PA | 18509 | 95,379.00
Catholic Social Services of the Diocese of Scranton, Inc./VA-PSHP Lackawanna | 504 Penn Avenue | Scranton | PA | 18509 | 96,948.00
County of Chester/Safe Haven, HSI. 2017 | 601 Westtown Road, Suite 365, P.O. Box 2747 | West Chester | PA | 19380 | 97,531.00
The Lehigh Conference of Churches/Outreach and Case Management for the Disabled, Chronically Homeless | 457 W. Allen St | Allentown | PA | 18102 | 97,559.00
County of Chester/RRH for Families and Individuals III | 601 Westtown Road, Suite 365, P.O. Box 2747 | West Chester | PA | 19380 | 97,761.00
Berks Coalition to End Homelessness, Inc/PA-506 CoC Planning Application FY2017 | 831 Walnut Street | Reading | PA | 19601 | 98,054.00
People's Emergency Center/Cloisters III | 325 North 39th Street | Philadelphia | PA | 19104 | 98,188.00
Horizon House/SHP Reallocation Project | 120 South 30th Street | Philadelphia | PA | 19104 | 98,193.00
Easy Does It, Inc./Transitional Housing—Easy Does It | 1300 Hilltop Road | Leesport | PA | 19533 | 98,201.00
Catholic Social Services of the Diocese of Scranton, Inc./Susquehanna/Wayne PSHP | 504 Penn Avenue | Scranton | PA | 18509 | 99,032.00
Tabor Community Services Inc./Lancaster Hearthside | 308 East King Street, Box 1676 | Lancaster | PA | 17608 | 99,589.00
The Salvation Army, a New York Corporation/The Salvation Army Stepping Stone Program | 440 West Nyack Road | West Nyack | PA | 10994 | 99,806.00
Union Mission of Latrobe, Inc./Union Mission Permanent Supportive Housing | 2217 East Harrison Avenue, P.O. Box 271 | Latrobe | PA | 15650 | 100,395.00
YMCA of Reading & Berks County/Y-Haven/Y-Passages | 631 Washington Street | Reading | PA | 19601 | 100,446.00
Tabor Community Services Inc./Hearthside 2 | 308 East King Street, Box 1676 | Lancaster | PA | 17608 | 101,133.00
Commission on Economic Opportunity/SHP Case Management for the Homeless | 165 Amber Lane | Wilkes-Barre | PA | 18703 | 101,428.00
City of Philadelphia/FRP Rapid Rehousing | Municipal Services Bldg, 1401 JFK Blvd, 10th FLR | Philadelphia | PA | 19102 | 101,800.00
City of Philadelphia/Shelton Court | Municipal Services Bldg, 1401 JFK Blvd, 10th FLR | Philadelphia | PA | 19102 | 102,230.00
The Salvation Army, a New York Corporation/PHDI Program | 440 West Nyack Road | West Nyack | PA | 10994 | 102,290.00
Fayette County Community Action Agency, Inc./Fayette Apartments | 108 N. Beeson Blvd | Uniontown | PA | 15401 | 102,487.00
Housing Authority of the County of Cumberland/Perry County Permanent SHP | 114 North Hanover Street, Suite 104 | Carlisle | PA | 17013 | 102,862.00
County of Bucks/2017 Dedicated HMIS | 1260 Almshouse Rd | Doylestown | PA | 18901 | 103,023.00
Montgomery County, PA, Dept. of BH/DD/Montco BHDD/Penn Foundation S+C | 1430 DeKalb St., P.O. Box 311 | Norristown | PA | 19404 | 103,028.00
Commonwealth of Pennsylvania/Commonwealth of PA HMIS (PA-601) | 400 North Street, 4th floor | Harrisburg | PA | 17120 | 103,098.00
Transitions of PA/SUN Counties Rapid Re-Housing for Domestic Violence Victims | 120 South Third Street | Lewisburg | PA | 17837 | 103,367.00
City of Philadelphia/Hogar de Esperanza | Municipal Services Bldg, 1401 JFK Blvd, 10th FLR | Philadelphia | PA | 19102 | 104,280.00
Opportunity House/Crossroads | 430 N. Second Street | Reading | PA | 19601 | 104,456.00
Center for Community Action/Bedford, Fulton, Huntingdon RRH | 195 Drive In Lane | Everett | PA | 15537 | 104,539.00
Northampton County Housing Authority/NCHA S+C 2017 | 15 South Wood Street | Nazareth | PA | 18064 | 105,513.00
Armstrong County Community Action Agency/Armstrong-Fayette Rapid Rehousing Program | 705 Butler Road | Kittanning | PA | 16201 | 105,595.00
Bucks County Opportunity Council, Inc./ReStart Economic Self-Sufficiency | 100 Doyle Street | Doylestown | PA | 18901 | 107,110.00
Union-Snyder Community Action Agency/Union-Snyder Housing First | 713 Bridge Street, Suite 10 | Selinsgrove | PA | 17870 | 107,349.00
Union-Snyder Community Action Agency/Union-Snyder Rapid ReHousing Program | 713 Bridge Street, Suite 10 | Selinsgrove | PA | 17870 | 107,349.00
County of Erie/Make it a Home Always I | 154 West 9th Street | Erie | PA | 16501 | 108,228.00
Horizon House/Horizon House Permanent Housing Initiative | 120 South 30th Street | Philadelphia | PA | 19104 | 108,305.00
Council on Chemical Abuse/Transitional Supportive Housing for Homeless Dually Diagnosed Men | 601 Penn St, Suite 600 | Reading | PA | 19601 | 108,853.00
Valley Youth House Committee, Inc./York County TH-RRH for Youth | 3400 High Point Blvd | Bethlehem | PA | 18017 | 109,691.00
Berks Counseling Center, Inc./BCC 239 S. 5th St., Permanent Housing | 645 Penn St., 2nd Floor | Reading | PA | 19601 | 109,962.00
Catholic Social Services of the Diocese of Scranton, Inc./Rural Permanent Supportive Housing Program | 504 Penn Avenue | Scranton | PA | 18509 | 110,244.00
Impact Services Corporation/Hancock Manor | 1952 E. Allegheny Avenue | Philadelphia | PA | 19134 | 111,177.00
County of Erie/Lighting the Candle II | 154 West 9th Street | Erie | PA | 16501 | 111,762.00
Westmoreland Community Action/WCA PSH PITTSBURGH STREET HOUSE 2017 | 226 South Maple Avenue | Greensburg | PA | 15601 | 112,026.00
Valley Youth House Committee, Inc./Montgomery County Rapid Re-Housing for Families | 3400 High Point Blvd | Bethlehem | PA | 18017 | 112,028.00
Commission on Economic Opportunity/William Cherkes Residence | 165 Amber Lane | Wilkes-Barre | PA | 18703 | 112,324.00
Resources for Human Development, Inc./Crossroads Housing Bonus | 4700 Wissahickon Ave., Suite 126 | Philadelphia | PA | 19144 | 112,541.00
County of Chester/Famil Services of CC 2017 | 601 Westtown Road, Suite 365, P.O. Box 2747 | West Chester | PA | 19380 | 112,907.00
Catholic Social Services of the Diocese of Scranton Inc/Gabriel House | 504 Penn Avenue | Scranton | PA | 18509 | 113,140.00
Resources for Human Development, Inc./Crossroads Schuylkill Co. Permanent Supportive Housing | 4700 Wissahickon Ave., Suite 126 | Philadelphia | PA | 19144 | 113,168.00
Valley Housing Development Corporation/VHDC SHP #4 2017 | 943 Long Street | Bethlehem | PA | 18015 | 113,486.00
Volunteers Of America Delaware Valley Inc/Station House Supportive Housing | 235 White Horse Pike | Collingswood | PA | 08107 | 113,597.00
YWCA OF GREATER HARRISBURG/2017 PHD Renewal | 1101 Market Street | Harrisburg | PA | 17103 | 115,274.00
Blair County Community Action Program/Rapid Re-Housing | 2100 6th Avenue | Altoona | PA | 16602 | 115,857.00
County of Erie/Make it a Home Always II | 154 West 9th Street | Erie | PA | 16501 | 115,864.00
Commission on Economic Opportunity/PSH for 9 Homeless Families | 165 Amber Lane | Wilkes-Barre | PA | 18703 | 115,914.00
Housing Authority of the County of Cumberland/Rapid Rehousing II | 114 North Hanover Street, Suite 104 | Carlisle | PA | 17013 | 116,182.00
Asociacion Puertoriquenos en Marcha, Inc./Latino Homeless Services Initiative | 1900 9th Street | Philadelphia | PA | 19122 | 116,801.00
Resources for Human Development, Inc./Crossroads Housing Bonus Expansion | 4700 Wissahickon Ave., Suite 126 | Philadelphia | PA | 19144 | 117,213.00
Catherine McAuley Center/Rapid ReHousing | 430 Pittston Avenue | Scranton | PA | 18505 | 118,420.00
The Community Intervention Center of Lackawanna County/CIC Permanent Supportive Housing #2 | 445 N. 6TH Ave | Scranton | PA | 18503 | 118,705.00
Pathways to Housing PA Inc/SALT 10 | 5201 Old York Road, Suite 108 | Philadelphia | PA | 19141 | 118,721.00
City of Philadelphia/Independence Place | Municipal Services Bldg, 1401 JFK Blvd, 10th FLR | Philadelphia | PA | 19102 | 118,919.00
Allegheny County Department of Human Services/At Home | Human Services Building, 2nd floor, One Smithfield Street | Pittsburgh | PA | 15222 | 120,513.00
Allegheny County Department of Human Services/Familylinks Community Housing Program | Human Services Building, 2nd floor, One Smithfield Street | Pittsburgh | PA | 15222 | 120,912.00
County of Lancaster/North Star Housing | 150 N. Queen Street, Suite 610 | Lancaster | PA | 17603 | 121,404.00
Allegheny County Department of Human Services/Northside Common Ministries Permanent Housing Program | Human Services Building, 2nd floor, One Smithfield Street | Pittsburgh | PA | 15222 | 121,419.00
Committee For Dignity and Fairness For the Homeless Housing/Dignity II Transitional Housing | 5227-R Germantown Avenue | Philadelphia | PA | 19144 | 122,253.00
Armstrong County Community Action Agency/Armstrong County Permanent Supportive Housing Program | 705 Butler Road | Kittanning | PA | 16201 | 122,280.00
Commission on Economic Opportunity/2017 Luzerne County CoC Planning Application | 165 Amber Lane | Wilkes-Barre | PA | 18703 | 123,395.00
City Mission-Living Stones, Inc./Gallatin School Living Centre | 155 North Gallatin Avenue | Uniontown | PA | 15401 | 124,773.00
Holcomb Associates, Inc./Recovery Supported Living 2017 | 467 Creamery Way | Exton | PA | 19341 | 125,357.00
CAPSEA, Inc./Housing Plus | 28 Morgan Ave | Ridgway | PA | 15853 | 125,769.00
Catholic Social Services of the Diocese of Scranton Inc/St Ann | 504 Penn Avenue | Scranton | PA | 18509 | 127,150.00
Catholic Social Services of the Diocese of Scranton, Inc./CSS PSHP #1 | 504 Penn Avenue | Scranton | PA | 18509 | 127,567.00
Commission on Economic Opportunity/PSH Chronic Homeless 2 | 165 Amber Lane | Wilkes-Barre | PA | 18703 | 127,838.00
Huntingdon House/Huntingdon House Rapid Rehousing Program | 401 Seventh Street | Huntingdon | PA | 16652 | 128,792.00
Housing Development Corporation of NEPA/HDC SHP 2 2017 | 163 Amber Lane | Wilkes-Barre | PA | 18702 | 128,832.00
1260 Housing Development Corporation/Pennsgrove Permanent Housing | 2042-48 Arch Street, 2nd Floor | Philadelphia | PA | 19103 | 130,410.00
Connect, Inc./Westmoreland Permanent Supportive Housing | 302 Chamber Plaza | Charleroi | PA | 15022 | 130,949.00
Travelers Aid Society of Philadelphia/Melville Way | 111 N 49th Street | Philadelphia | PA | 19139 | 131,428.00
Valley Housing Development Corporation/VHDC SHP #3 2017 | 943 Long Street | Bethlehem | PA | 18015 | 131,657.00
YWCA OF GREATER HARRISBURG/2017 Safe Haven Permanent Supportive Housing | 1101 Market Street | Harrisburg | PA | 17103 | 131,768.00
Candleheart, INC/Candleheart RR | 1334 South Fourth Street | Chambersburg | PA | 17201 | 131,768.00
Allegheny County Department of Human Services/Village I | Human Services Building, 2nd floor, One Smithfield Street | Pittsburgh | PA | 15222 | 132,298.00
County of Erie/Lighting the Candle I | 154 West 9th Street | Erie | PA | 16501 | 133,635.00
Allegheny County Department of Human Services/YW Bridges Rapid Re-Housing Program | Human Services Building, 2nd floor, One Smithfield Street | Pittsburgh | PA | 15222 | 133,671.00
Crawford County Mental Health Awareness Program, Inc/Housing Now | 944 Liberty Street | Meadville | PA | 16335 | 134,475.00
Housing Authority of the City of York/Shelter Plus Care Renwal Application FY 2017 | 31 S. Broad Street | York | PA | 17403 | 135,000.00
Tableland Services, Inc./SHP Transitional Housing Project | 535 E Main Street | Somerset | PA | 15501 | 136,213.00
Lancaster General Hospital/Lancaster County Coordinated Assessment | 555 North Duke Street | Lancaster | PA | 17604 | 136,294.00
Armstrong County Community Action Agency/Rapid Rehousing Program of Armstrong County | 705 Butler Road | Kittanning | PA | 16201 | 136,434.00
Allegheny County Department of Human Services/Flex 15 | Human Services Building, 2nd floor, One Smithfield Street | Pittsburgh | PA | 15222 | 137,009.00
Housing Development Corporation of NEPA/Rapid Re-housing for Families 2017 | 163 Amber Lane | Wilkes-Barre | PA | 18702 | 137,556.00
Community Action Agency of Delaware County, Inc./Coordinated Assessment Program | Government Center, 201 West Front Street | Media | PA | 19063 | 137,677.00
Mental Health Partnerships/Connect to Permanency | 1211 Chestnut Street | Philadelphia | PA | 19107 | 137,934.00
Catholic Social Services of the Diocese of Scranton Inc/St Ann Expansion | 504 Penn Avenue | Scranton | PA | 18509 | 137,969.00
Allegheny County Department of Human Services/Work Towards Sustainability from Crisis | Human Services Building, 2nd floor, One Smithfield Street | Pittsburgh | PA | 15222 | 139,200.00
County of Montgomery, Pennsylvania/HMIS Dedicated Project 2017 | Office of Housing & Community Development Human Services Center, 1430 DeKalb Street | Norristown | PA | 19404 | 139,242.00
City of Philadelphia/Rowan Diamond | Municipal Services Bldg, 1401 JFK Blvd, 10th FLR | Philadelphia | PA | 19102 | 139,356.00
Housing Development Corporation of NEPA/HDC SHP 6 2017 | 163 Amber Lane | Wilkes-Barre | PA | 18702 | 139,712.00
Housing Authority of the County of Cumberland/Rapid Rehousing Cumberland Perry Lebanon | 114 North Hanover Street, Suite 104 | Carlisle | PA | 17013 | 140,200.00
Allegheny County Department of Human Services/HUD Independence Program | Human Services Building, 2nd floor, One Smithfield Street | Pittsburgh | PA | 15222 | 140,878.00
Housing Transitions, Inc./Nittany House Apartments II | P.O. Box 1391 | State College | PA | 16804 | 140,976.00
County of Washington/Crossing Pointe | 100 West Beau Street, Suite 703 | Washington | PA | 15301 | 141,425.00
County of Chester/RRH-PH forCTI | 601 Westtown Road, Suite 365, P.O. Box 2747 | West Chester | PA | 19380 | 141,597.00
Cameron/Elk Counties Behavioral & Developmental Programs/Home Again | 94 Hospital Street, 4th Floor | Ridgway | PA | 15853 | 141,808.00
County of Greene/Greene County Permanent Supportive Housing Project | 19 S. Washington Street | Waynesburg | PA | 15370 | 142,439.00
Catholic Social Services of the Diocese of Scranton, Inc./VA-PSHP Luzerne | 504 Penn Avenue | Scranton | PA | 18509 | 142,810.00
ActionAIDS, Inc./Circle of Care Supportive Housing for Persons with Disabilities | 1216 Arch Street, 6th Floor | Philadelphia | PA | 19107 | 142,885.00
Delaware County Housing Authority/DCHA-FCS SHP | 1855 Constitution Ave | Woodlyn | PA | 19094 | 143,141.00
Housing Authority of the County of Cumberland/Safe Harbour SHP | 114 North Hanover Street, Suite 104 | Carlisle | PA | 17013 | 143,564.00
County of Erie/Self Start II | 154 West 9th Street | Erie | PA | 16501 | 143,818.00
County of Erie/Fresh Start | 154 West 9th Street | Erie | PA | 16501 | 143,877.00
Housing Development Corporation of NEPA/HDC SHP 3 2017 | 163 Amber Lane | Wilkes-Barre | PA | 18702 | 144,439.00
City of Philadelphia/Bethesda Consolidated | Municipal Services Bldg, 1401 JFK Blvd, 10th FLR | Philadelphia | PA | 19102 | 144,816.00
County of Erie/Self Start III | 154 West 9th Street | Erie | PA | 16501 | 145,056.00
Community Action Agency of Delaware County, Inc./Rapid Re-Housing Program CAADC | Government Center, 201 West Front Street | Media | PA | 19063 | 145,239.00
County of Erie/Erie County HMIS | 154 West 9th Street | Erie | PA | 16501 | 146,027.00
The Community Intervention Center of Lackawanna County/Shelter Me Safe Haven | 445 N. 6TH Ave | Scranton | PA | 18503 | 146,031.00
YWCA OF GREATER HARRISBURG/Housing for Victims of Human Trafficking Renewal 2017 | 1101 Market Street | Harrisburg | PA | 17103 | 146,473.00
County of York/York County Homeless Management Information System (HMIS) | 28 E. Market St | York | PA | 17401 | 147,482.00
Third Street Alliance for Women & Children/Renewal Application—Third Street Alliance—Lehigh Valley Rapid Rehousing Program | 41 North Third Street | Easton | PA | 18042 | 148,164.00
City of Philadelphia/Hope Haven I | Municipal Services Bldg, 1401 JFK Blvd, 10th FLR | Philadelphia | PA | 19102 | 149,520.00
Commonwealth of Pennsylvania/Commonwealth of PA HMIS (PA-509) | 400 North Street, 4th floor | Harrisburg | PA | 17120 | 149,520.00
Asociacion Puertoriquenos en Marcha, Inc./Abriendo Caminos | 1900 9th Street | Philadelphia | PA | 19122 | 149,711.00
County of Delaware/CoC Planning Grant 2017 | 20 S. 69th St., 4th Floor | Upper Darby | PA | 19082 | 149,760.00
Catherine McAuley Center/Permanent Supportive Housing | 430 Pittston Avenue | Scranton | PA | 18505 | 150,135.00
Allegheny County Department of Human Services/Choice I | Human Services Building, 2nd floor, One Smithfield Street | Pittsburgh | PA | 15222 | 150,269.00
Berks Counseling Center, Inc./BCC 1135/37 Franklin St. Permanent Housing | 645 Penn St., 2nd Floor | Reading | PA | 19601 | 150,655.00
Allegheny County Department of Human Services/HMIS Expansion Program | Human Services Building, 2nd floor, One Smithfield Street | Pittsburgh | PA | 15222 | 152,250.00
County of Washington/Shelter plus Care—Washington City Mission | 100 West Beau Street, Suite 703 | Washington | PA | 15301 | 152,340.00
Allegheny County Department of Human Services/ATLAS | Human Services Building, 2nd floor, One Smithfield Street | Pittsburgh | PA | 15222 | 152,858.00
Northern Cambria Community Development Corporation/Independence Gardens | 4200 Crawford Ave., Suite 200 | Northern Cambria | PA | 15714 | 153,149.00
The Salvation Army, a New York Corporation/Salvation Army Reading PH Bonus Project | 440 West Nyack Road | West Nyack | PA | 10994 | 153,941.00
Young Women's Christian Association/Liberty Options RRH | 815 West Fourth Street | Williamsport | PA | 17701 | 156,295.00
County of Washington/HomeFIRST | 100 West Beau Street, Suite 703 | Washington | PA | 15301 | 156,864.00
Commission on Economic Opportunity/Rev. Edward P. Nolan Residence | 165 Amber Lane | Wilkes-Barre | PA | 18703 | 156,980.00
County of Cambria/Cambria County Comprehensive Housing Program | 200 South Center Street | Ebensburg | PA | 15931 | 157,856.00
City of Philadelphia/Indpendence Place Expansion | Municipal Services Bldg, 1401 JFK Blvd, 10th FLR | Philadelphia | PA | 19102 | 158,006.00
Penndel Mental Health Center, Inc./Community Residential Services | 1100 Newportville Road | Croydon | PA | 19021 | 158,021.00
The Community Intervention Center of Lackawanna County/CIC Permanent Supportive Housing #1 | 445 N. 6TH Ave | Scranton | PA | 18503 | 159,046.00
Lancaster General Hospital/Lancaster County Consolidated RRH-Bonus | 555 North Duke Street | Lancaster | PA | 17604 | 159,549.00
The Salvation Army, a New York Corporation/Allentown Hospitality House Permanent Housing Program | 440 West Nyack Road | West Nyack | PA | 10994 | 159,766.00
Berks Counseling Center, Inc./BCC PSH Leasing Assistance 2 | 645 Penn St., 2nd Floor | Reading | PA | 19601 | 159,767.00
County of Lancaster/Polaris Housing | 150 N. Queen Street, Suite 610 | Lancaster | PA | 17603 | 160,359.00
Allegheny County Department of Human Services/Valor | Human Services Building, 2nd floor, One Smithfield Street | Pittsburgh | PA | 15222 | 160,856.00
Commission on Economic Opportunity/PSH for Families & Individuals | 165 Amber Lane | Wilkes-Barre | PA | 18703 | 161,103.00
ACHIEVEability/Haddington Housing | 21 South 61st Street | Philadelphia | PA | 19139 | 161,700.00
Allegheny County Department of Human Services/Through Open Door | Human Services Building, 2nd floor, One Smithfield Street | Pittsburgh | PA | 15222 | 163,648.00
Mental Health Partnerships/Connect | 1211 Chestnut Street | Philadelphia | PA | 19107 | 164,351.00
Bethesda Project/Sanctuary | 1630 South Street | Philadelphia | PA | 19146 | 164,670.00
Housing Alliance of Pennsylvania/Coordinated Entry System Pilot Project FY 2017 | 309 Florence Ave, Suite 914N | Jenkintown | PA | 19046 | 165,000.00
Allegheny County Department of Human Services/Home for Good | Human Services Building, 2nd floor, One Smithfield Street | Pittsburgh | PA | 15222 | 166,534.00
Allegheny County Department of Human Services/Sunrise Permanent Housing Program | Human Services Building, 2nd floor, One Smithfield Street | Pittsburgh | PA | 15222 | 166,760.00
Berks Counseling Center, Inc./BCC Permanent Housing Leasing Assistance 1 | 645 Penn St., 2nd Floor | Reading | PA | 19601 | 166,834.00
Commission on Economic Opportunity/HMIS for Luzerne County CoC | 165 Amber Lane | Wilkes-Barre | PA | 18703 | 167,618.00
Commission on Economic Opportunity/PSH Chronic Homeless 1 | 165 Amber Lane | Wilkes-Barre | PA | 18703 | 167,789.00
Westmoreland Community Action/Pathways Permanent Supportive Housing 2017 | 226 South Maple Avenue | Greensburg | PA | 15601 | 168,292.00
Housing Authority of the County of Cumberland/Perry County Rapid ReHousing | 114 North Hanover Street, Suite 104 | Carlisle | PA | 17013 | 169,433.00
Allegheny County Department of Human Services/A Step Forward | Human Services Building, 2nd floor, One Smithfield Street | Pittsburgh | PA | 15222 | 169,874.00
County of Delaware/OBH-PSH-CH HH | 20 S. 69th St., 4th Floor | Upper Darby | PA | 19082 | 171,152.00
Horizon House/Coordinated Entry—Horizon House | 120 South 30th Street | Philadelphia | PA | 19104 | 173,223.00
Berks Counseling Center, Inc./BCC New Hope House Transitional Housing | 645 Penn St., 2nd Floor | Reading | PA | 19601 | 173,259.00
Methodist Services/Fresh Start | 4300 Monument Road | Philadelphia | PA | 19131 | 173,383.00
YWCA OF GREATER HARRISBURG/2017 YWCA Joint TH-RRH | 1101 Market Street | Harrisburg | PA | 17103 | 173,460.00
Bucks County Opportunity Council, Inc./Rapid Rehousing CoC | 100 Doyle Street | Doylestown | PA | 18901 | 174,174.00
Housing Authority of the County of Cumberland/Shelter + Care Chronic | 114 North Hanover Street, Suite 104 | Carlisle | PA | 17013 | 174,314.00
Allegheny County Department of Human Services/Housing Plus 2 | Human Services Building, 2nd floor, One Smithfield Street | Pittsburgh | PA | 15222 | 174,676.00
Allegheny County Department of Human Services/Bridging the Gap | Human Services Building, 2nd floor, One Smithfield Street | Pittsburgh | PA | 15222 | 175,507.00
County of Washington/HomeTEAM | 100 West Beau Street, Suite 703 | Washington | PA | 15301 | 175,753.00
County of Chester/RRH-PH Indiv. & Famlies HACC 2017 | 601 Westtown Road, Suite 365, P.O. Box 2747 | West Chester | PA | 19380 | 177,523.00
County of Butler, Human Services/HOPE Project | 124 West Diamond Street, P.O. Box 1208 | Butler | PA | 16003 | 178,233.00
United Neighborhood Centers of Northeastern Pennsylvania/UNC Rapid Re-Housing for Families | 777 Keystone Industrial Park Rd | Throop | PA | 18512 | 178,246.00
Housing Development Corporation of NEPA/HDC SHP 4 2017 | 163 Amber Lane | Wilkes-Barre | PA | 18702 | 178,975.00
Women Against Abuse, Inc./Sojourner House | 100 S. Broad Street, Suite 1341 | Philadelphia | PA | 19110 | 179,786.00
County of Butler, Human Services/Home Again Butler County | 124 West Diamond Street, P.O. Box 1208 | Butler | PA | 16003 | 180,209.00
ActionAIDS, Inc./Casa Nueva Vida | 1216 Arch Street, 6th Floor | Philadelphia | PA | 19107 | 183,696.00
Catherine McAuley Center/Permanent Supportive Housing #2 | 430 Pittston Avenue | Scranton | PA | 18505 | 184,512.00
City of Philadelphia/CEA-BHRS | Municipal Services Bldg, 1401 JFK Blvd, 10th FLR | Philadelphia | PA | 19102 | 184,800.00
The Lehigh Conference of Churches/Pathways Housing 2 | 457 W. Allen St | Allentown | PA | 18102 | 185,277.00
The Salvation Army, a New York Corporation/Salvation Army Pottstown PSH Program | 440 West Nyack Road | West Nyack | PA | 10994 | 185,334.00
Allegheny County Department of Human Services/G-PGH Phase 3 | Human Services Building, 2nd floor, One Smithfield Street | Pittsburgh | PA | 15222 | 185,608.00
Blair County Community Action Program/Rapid Re-Housing 2 | 2100 6th Avenue | Altoona | PA | 16602 | 186,288.00
County of Franklin/Franklin/Fulton Homeless Assistance Project 2018 | 425 Franklin Farm Lane | Chambersburg | PA | 17202 | 186,942.00
Resources for Human Development, Inc./LV ACT Housing Supports | 4700 Wissahickon Ave., Suite 126 | Philadelphia | PA | 19144 | 189,316.00
Hedwig House, Inc./MH/D&A SHELTER LIAISON EXPANSION | 1717 Swede Road, Suite 114 | Blue Bell | PA | 19422 | 189,898.00
Lancaster General Hospital/Lancaster—Crisis to RRH | 555 North Duke Street | Lancaster | PA | 17604 | 190,587.00
Lawrence County Social Services, Inc./My First Place | P.O. Box 189, 241 W. Grant St | New Castle | PA | 16103 | 192,058.00
City of Philadelphia/Philadelphia Rapid Re-Housing | Municipal Services Bldg, 1401 JFK Blvd, 10th FLR | Philadelphia | PA | 19102 | 192,335.00
City of Philadelphia/Back on Track | Municipal Services Bldg, 1401 JFK Blvd, 10th FLR | Philadelphia | PA | 19102 | 193,488.00
City of Philadelphia/CTT | Municipal Services Bldg, 1401 JFK Blvd, 10th FLR | Philadelphia | PA | 19102 | 193,920.00
Horizon House/JOURNEY HOME | 120 South 30th Street | Philadelphia | PA | 19104 | 193,995.00
Tableland Services, Inc./Permanent Housing with Disabilities (SHP) | 535 E Main Street | Somerset | PA | 15501 | 196,920.00
The Salvation Army, a New York Corporation/Salvation Army Chester PH 2 | 440 West Nyack Road | West Nyack | PA | 10994 | 197,041.00
Centre County Government/Centre County Rapid Re Housing Program | 420 Holmes Street | Bellefonte | PA | 16823 | 197,536.00
Travelers Aid Society of Philadelphia/Chestnut Manor | 111 N 49th Street | Philadelphia | PA | 19139 | 197,556.00
County of Washington/Shelter plus Care I | 100 West Beau Street, Suite 703 | Washington | PA | 15301 | 198,643.00
The Salvation Army, a New York Corporation/Salvation Army Chester PH Bonus Project | 440 West Nyack Road | West Nyack | PA | 10994 | 198,671.00
Lehigh County Housing Authority/LCHA S+C 2017 | 635 Broad Street | Emmaus | PA | 18049 | 198,874.00
Allegheny County Department of Human Services/HMIS | Human Services Building, 2nd floor, One Smithfield Street | Pittsburgh | PA | 15222 | 198,942.00
Allegheny County Department of Human Services/Sankofa | Human Services Building, 2nd floor, One Smithfield Street | Pittsburgh | PA | 15222 | 199,501.00
The Lehigh Conference of Churches/Pathways Housing | 457 W. Allen St | Allentown | PA | 18102 | 199,724.00
County of Delaware/HMIS | 20 S. 69th St., 4th Floor | Upper Darby | PA | 19082 | 200,000.00
Crawford County Commissioners/Crawford County Shelter plus Care | Crawford County Courthouse, 903 Diamond Park | Meadville | PA | 16335 | 200,151.00
Women's Resource Center, Inc./WRC Rapid Re-housing for Domestic & Sexual Violence Survivors | 620 Madison Avenue | Scranton | PA | 18510 | 201,896.00
Catholic Social Services/Visitation Homes | 222 N 17th Street, Ste 300 | Philadelphia | PA | 19103 | 202,085.00
The Salvation Army, a New York Corporation/FY 2017 Beaver County Friendship Homes | 440 West Nyack Road | West Nyack | PA | 10994 | 202,181.00
Valley Housing Development Corporation/VHDC SHP #2 2017 | 943 Long Street | Bethlehem | PA | 18015 | 204,168.00
Housing Development Corporation of NEPA/HDC SHP 5 2017 | 163 Amber Lane | Wilkes-Barre | PA | 18702 | 204,391.00
County of Lancaster/Enterprise Housing | 150 N. Queen Street, Suite 610 | Lancaster | PA | 17603 | 204,633.00
Young Women's Christian Association/Liberty House PSH | 815 West Fourth Street | Williamsport | PA | 17701 | 204,857.00
Allegheny County Department of Human Services/Generations | Human Services Building, 2nd floor, One Smithfield Street | Pittsburgh | PA | 15222 | 207,279.00
Allegheny County Department of Human Services/YWCA Chrysalis | Human Services Building, 2nd floor, One Smithfield Street | Pittsburgh | PA | 15222 | 207,782.00
Home Nursing Agency Community Services/Housing Assistance and Rental Program | 201 Chestnut Avenue, P.O. Box 352 | Altoona | PA | 16601 | 208,360.00
Housing Authority of the County of Beaver/Crescent Commons 2017 Renewal | 300 State Street | Beaver | PA | 15009 | 208,422.00
County of Erie/Independence | 154 West 9th Street | Erie | PA | 16501 | 209,264.00
The Community Intervention Center of Lackawanna County/CIC Permanent Supportive Housing #3 | 445 N. 6TH Ave | Scranton | PA | 18503 | 209,380.00
ACHIEVEability/Appletree Housing | 21 South 61st Street | Philadelphia | PA | 19139 | 210,000.00
Allegheny County Department of Human Services/Soteria Project | Human Services Building, 2nd floor, One Smithfield Street | Pittsburgh | PA | 15222 | 214,047.00
City of Philadelphia/CES HMIS | Municipal Services Bldg, 1401 JFK Blvd, 10th FLR | Philadelphia | PA | 19102 | 214,200.00
The Salvation Army, a New York Corporation/Salvation Army Norristown PH2 | 440 West Nyack Road | West Nyack | PA | 10994 | 215,816.00
City of Philadelphia/Willard School | Municipal Services Bldg, 1401 JFK Blvd, 10th FLR | Philadelphia | PA | 19102 | 217,140.00
Asociacion Puertoriquenos en Marcha, Inc./SERA | 1900 9th Street | Philadelphia | PA | 19122 | 217,154.00
People's Emergency Center/Imani Homes II | 325 North 39th Street | Philadelphia | PA | 19104 | 217,480.00
Committee For Dignity and Fairness For the Homeless Housing/Enhanced Services Project (ESP) | 5227-R Germantown Avenue | Philadelphia | PA | 19144 | 218,034.00
City of Philadelphia/Hope Bridge | Municipal Services Bldg, 1401 JFK Blvd, 10th FLR | Philadelphia | PA | 19102 | 218,950.00
County of Washington/HomeWISE | 100 West Beau Street, Suite 703 | Washington | PA | 15301 | 219,006.00
County of Delaware/OBH-PSH- CH-T2—FC | 20 S. 69th St., 4th Floor | Upper Darby | PA | 19082 | 220,052.00
Housing Alliance of Pennsylvania/Coordinated Entry System Project | 309 Florence Ave, Suite 914N | Jenkintown | PA | 19046 | 221,166.00
Housing Authority of the County of Cumberland/Shelter + Care Non-Chronic | 114 North Hanover Street, Suite 104 | Carlisle | PA | 17013 | 221,754.00
Bethesda Project/Safe Haven—My Brother's House | 1630 South Street | Philadelphia | PA | 19146 | 223,761.00
Allegheny County Department of Human Services/Open Arms | Human Services Building, 2nd floor, One Smithfield Street | Pittsburgh | PA | 15222 | 224,101.00
People's Emergency Center/Imani Homes III | 325 North 39th Street | Philadelphia | PA | 19104 | 224,166.00
Lawrence County Social Services, Inc./NWRHA 2 | P.O. Box 189, 241 W. Grant St | New Castle | PA | 16103 | 225,010.00
The Lehigh Conference of Churches/Tenant-Based Rental Assistance for the Disabled,Chronically Homeless | 457 W. Allen St | Allentown | PA | 18102 | 225,337.00
Housing Authority of Monroe County/Renewal Application Shelter Plus Care MC 2016 | 1055 West Main Street | Stroudsburg, | PA | 18360 | 226,821.00
Lawrence County Social Services, Inc./Turning Point | P.O. Box 189, 241 W. Grant St | New Castle | PA | 16103 | 230,159.00
My Place Germantown/My Place Germantown | 209 E. Price St | Philadelphia | PA | 19144 | 231,106.00
Housing Alliance of Pennsylvania/Coordinated Entry System Expansion Project FY2017 | 309 Florence Ave, Suite 914N | Jenkintown | PA | 19046 | 231,550.00
Housing Authority of the County of Dauphin/Dauphin Co. Housing Authority Renewal 2017 | 501 Mohn Street, P.O. Box 7598 | Steelton | PA | 17113 | 231,621.00
Allegheny County Department of Human Services/VLP Constitution | Human Services Building, 2nd floor, One Smithfield Street | Pittsburgh | PA | 15222 | 233,240.00
Allegheny County Department of Human Services/Next Chapter | Human Services Building, 2nd floor, One Smithfield Street | Pittsburgh | PA | 15222 | 233,351.00
City of Philadelphia/Kairos House | Municipal Services Bldg, 1401 JFK Blvd, 10th FLR | Philadelphia | PA | 19102 | 234,576.00
The Salvation Army, a New York Corporation/Protecting Your Future Homeless Aftercare Program | 440 West Nyack Road | West Nyack | PA | 10994 | 234,708.00
Housing Development Corporation of NEPA/HDC SHP 1 2017 | 163 Amber Lane | Wilkes-Barre | PA | 18702 | 236,366.00
Methodist Services/Monument Village | 4300 Monument Road | Philadelphia | PA | 19131 | 238,975.00
Pathways to Housing PA Inc/SALT: Supported Adult Living Teams | 5201 Old York Road, Suite 108 | Philadelphia | PA | 19141 | 239,167.00
Blair County Community Action Program/Rapid Re-Housing Expansion | 2100 6th Avenue | Altoona | PA | 16602 | 240,900.00
Allegheny County Department of Human Services/Personalized Housing Options | Human Services Building, 2nd floor, One Smithfield Street | Pittsburgh | PA | 15222 | 241,025.00
People's Emergency Center/3902 Transitional Housing | 325 North 39th Street | Philadelphia | PA | 19104 | 241,083.00
Gaudenzia Inc./Tioga Arms Apartments | 106 W Main Street | Norristown | PA | 19401 | 243,570.00
City of Philadelphia/Safe At Home | Municipal Services Bldg, 1401 JFK Blvd, 10th FLR | Philadelphia | PA | 19102 | 244,490.00
Fitzmaurice Community Services, Inc/Pathfinders | 2115 North Fifth Street | Stroudsburg | PA | 18360 | 244,566.00
Allegheny County Department of Human Services/GoodStart-2 | Human Services Building, 2nd floor, One Smithfield Street | Pittsburgh | PA | 15222 | 245,314.00
City of Philadelphia/Homeless Management Information System (HMIS) | Municipal Services Bldg, 1401 JFK Blvd, 10th FLR | Philadelphia | PA | 19102 | 247,196.00
County of Delaware/S + C 67 | 20 S. 69th St., 4th Floor | Upper Darby | PA | 19082 | 247,242.00
Allegheny County Department of Human Services/Victory | Human Services Building, 2nd floor, One Smithfield Street | Pittsburgh | PA | 15222 | 247,952.00
People's Emergency Center/Rowan House | 325 North 39th Street | Philadelphia | PA | 19104 | 248,181.00
Resources for Human Development, Inc./Project Advantage | 4700 Wissahickon Ave., Suite 126 | Philadelphia | PA | 19144 | 250,281.00
Allegheny County Department of Human Services/SAFE-At-Home | Human Services Building, 2nd floor, One Smithfield Street | Pittsburgh | PA | 15222 | 255,815.00
Allegheny County Department of Human Services/CV Housing Plus Program | Human Services Building, 2nd floor, One Smithfield Street | Pittsburgh | PA | 15222 | 256,334.00
The Salvation Army, a New York Corporation/Reed House and Mid-City Apartments | 440 West Nyack Road | West Nyack | PA | 10994 | 256,559.00
The Salvation Army, a New York Corporation/Kirby Family House | 440 West Nyack Road | West Nyack | PA | 10994 | 258,442.00
Connect, Inc./D.W.E.L | 302 Chamber Plaza | Charleroi | PA | 15022 | 260,234.00
1260 Housing Development Corporation/Thompson Street Housing | 2042-48 Arch Street, 2nd Floor | Philadelphia | PA | 19103 | 260,604.00
Allegheny County Department of Human Services/Haven Housing | Human Services Building, 2nd floor, One Smithfield Street | Pittsburgh | PA | 15222 | 260,776.00
County of York/CoC Medium-Term RRH Rental Assistance Program | 28 E. Market St | York | PA | 17401 | 262,062.00
Allegheny County Department of Human Services/CHOICE II | Human Services Building, 2nd floor, One Smithfield Street | Pittsburgh | PA | 15222 | 262,441.00
Resources for Human Development, Inc./Crossroads Family | 4700 Wissahickon Ave., Suite 126 | Philadelphia | PA | 19144 | 262,645.00
Allegheny County Department of Human Services/Sisters Place Permanent Housing Program | Human Services Building, 2nd floor, One Smithfield Street | Pittsburgh | PA | 15222 | 263,770.00
Commonwealth of Pennsylvania/PA-601 CoC Planning Project Application FY 2017 | 400 North Street, 4th floor | Harrisburg | PA | 17120 | 263,904.00
Allegheny County Department of Human Services/Haven Homes | Human Services Building, 2nd floor, One Smithfield Street | Pittsburgh | PA | 15222 | 264,580.00
COMHAR/COMPASS 1 Program 2017 | 100 W. Lehigh Ave | Philadelphia | PA | 19133 | 265,009.00
City of Philadelphia/Integrated Supportive Housing | Municipal Services Bldg, 1401 JFK Blvd, 10th FLR | Philadelphia | PA | 19102 | 266,430.00
ActionAIDS, Inc./Positive Living | 1216 Arch Street, 6th Floor | Philadelphia | PA | 19107 | 266,892.00
Turning Point Interfaith Mission Inc/PH for PWD | 40 E. High Street | Gettysburg | PA | 17325 | 266,986.00
Volunteers of America/Manna House | 25 N River St | Wilkes-Barre | PA | 18702 | 267,735.00
City of Philadelphia/Kate's Place | Municipal Services Bldg, 1401 JFK Blvd, 10th FLR | Philadelphia | PA | 19102 | 268,920.00
Center for Community Action/South Central PA RRH | 195 Drive In Lane | Everett | PA | 15537 | 273,477.00
Reading Housing Authority/Shelter Plus Care | 400 Hancock Blvd | Reading | PA | 19611 | 276,275.00
Montgomery County, PA, Dept. of BH/DD/Coordinated Homeless Outreach Center | 1430 DeKalb St., P.O. Box 311 | Norristown | PA | 19404 | 276,509.00
Catholic Youth Center/CYC Homeless Child Care Program | 36 South Washington Street | Wilkes-Barre | PA | 18701 | 281,459.00
Keystone Opportunity Center, Inc./Keystone Rapid Rehousing Renewal 2017 | 104 Main Street | Souderton | PA | 18964 | 281,636.00
Allegheny County Department of Human Services/Hospitality Homes I | Human Services Building, 2nd floor, One Smithfield Street | Pittsburgh | PA | 15222 | 282,749.00
Valley Youth House Committee, Inc./Lehigh Valley RRH for Families | 3400 High Point Blvd | Bethlehem | PA | 18017 | 284,072.00
Allegheny County Department of Human Services/YWCA WISH Program | Human Services Building, 2nd floor, One Smithfield Street | Pittsburgh | PA | 15222 | 288,471.00
Family and Community Service of Delaware County/Ralph Moses House Joint TH-RRH | 600 North Olive Street | Media | PA | 19063 | 288,928.00
The Lehigh Conference of Churches/Pathways TBRA for Families, Youth and Veterans | 457 W. Allen St | Allentown | PA | 18102 | 293,554.00
Allegheny County Department of Human Services/Rapid Re-Housing for Families Demonstration Program | Human Services Building, 2nd floor, One Smithfield Street | Pittsburgh | PA | 15222 | 295,591.00
City of Philadelphia/Tioga Arms | Municipal Services Bldg, 1401 JFK Blvd, 10th FLR | Philadelphia | PA | 19102 | 310,243.00
City of Philadelphia/DOEH Housing First Project | Municipal Services Bldg, 1401 JFK Blvd, 10th FLR | Philadelphia | PA | 19102 | 310,529.00
The Veterans Multi-Service Center/Veterans Home Project | 213-217 N 4th Street | Philadelphia | PA | 19106 | 313,334.00
Drueding Center/New Neighbors | 413 W. Master St | Philadelphia | PA | 19122 | 314,452.00
Christian Churches United/Susquehanna Harbor Safe Haven FY2017 | 413 S. 19th Street | Harrisburg | PA | 17104 | 317,210.00
Allegheny County Department of Human Services/New Foundations I | Human Services Building, 2nd floor, One Smithfield Street | Pittsburgh | PA | 15222 | 318,452.00
Victim Outreach Intervention Center/Enduring VOICe | 111 S. Cliff Street, Suite 1A | Butler | PA | 16001 | 324,218.00
Montgomery County, PA, Dept. of BH/DD/Permanent Solutions II | 1430 DeKalb St., P.O. Box 311 | Norristown | PA | 19404 | 326,497.00
City of Philadelphia/St. Raymond's House | Municipal Services Bldg, 1401 JFK Blvd, 10th FLR | Philadelphia | PA | 19102 | 328,179.00
United Neighborhood Centers of Northeastern Pennsylvania/UNC Permanent Supportive Housing #1 | 777 Keystone Industrial Park Rd | Throop | PA | 18512 | 329,706.00
Allegheny County Department of Human Services/MOMS II | Human Services Building, 2nd floor, One Smithfield Street | Pittsburgh | PA | 15222 | 329,982.00
Valley Youth House Committee, Inc./Bucks County RRH for Youth | 3400 High Point Blvd | Bethlehem | PA | 18017 | 331,938.00
Horizon House/Horizon House PSH CH | 120 South 30th Street | Philadelphia | PA | 19104 | 333,244.00
Horizon House/Supports to Achieve Self Sufficiency | 120 South 30th Street | Philadelphia | PA | 19104 | 333,979.00
Commonwealth of Pennsylvania/PA-509 CoC Planning Project Application FY 2017 | 400 North Street, 4th floor | Harrisburg | PA | 17120 | 341,071.00
Allegheny County Department of Human Services/Community Human Services Shelter Plus Care Program | Human Services Building, 2nd floor, One Smithfield Street | Pittsburgh | PA | 15222 | 343,022.00
Valley Youth House Committee, Inc./Luzerne Cty RRH for Young Adults | 3400 High Point Blvd | Bethlehem | PA | 18017 | 344,003.00
Family Service of Montgomery County/FSMC Permanent Supportive Housing Montgomery | 3125 Ridge Pike | Eagleville | PA | 19403 | 350,015.00
Resources for Human Development, Inc./Crossroads Individual | 4700 Wissahickon Ave., Suite 126 | Philadelphia | PA | 19144 | 350,262.00
City of Philadelphia/Salvation Army Consolidated | Municipal Services Bldg, 1401 JFK Blvd, 10th FLR | Philadelphia | PA | 19102 | 351,216.00
Allegheny County Department of Human Services/Home At Last | Human Services Building, 2nd floor, One Smithfield Street | Pittsburgh | PA | 15222 | 353,631.00
City of Philadelphia/Edison 64 | Municipal Services Bldg, 1401 JFK Blvd, 10th FLR | Philadelphia | PA | 19102 | 360,100.00
County of Erie/My Way Home | 154 West 9th Street | Erie | PA | 16501 | 360,502.00
Allegheny County Department of Human Services/Families United | Human Services Building, 2nd floor, One Smithfield Street | Pittsburgh | PA | 15222 | 362,612.00
City of Philadelphia/Families In Transition | Municipal Services Bldg, 1401 JFK Blvd, 10th FLR | Philadelphia | PA | 19102 | 364,270.00
Easy Does It, Inc./Permanent Housing—Easy Does It | 1300 Hilltop Road | Leesport | PA | 19533 | 369,927.00
Blair County Community Action Program/Rapid Re-Housing 1 | 2100 6th Avenue | Altoona | PA | 16602 | 374,873.00
Zachewicz Enterprises Inc./CRS Stone Harbour Renewal 2017 | 2634 Darlington Road, Suite 4 | Beaver Falls | PA | 15010 | 387,888.00
Allegheny County Department of Human Services/Flex 51 Expansion | Human Services Building, 2nd floor, One Smithfield Street | Pittsburgh | PA | 15222 | 391,412.00
City of Philadelphia/In Community/The Crossing/St. Elizabeth's | Municipal Services Bldg, 1401 JFK Blvd, 10th FLR | Philadelphia | PA | 19102 | 393,588.00
Pottstown Cluster of Religious Communities/Pottstown HRC Rapid Rehousing 2015 | 57 North Franklin Street | Pottstown | PA | 19464 | 402,886.00
Housing Authority of the County of Beaver/CARL Renewal FY 2017 | 300 State Street | Beaver | PA | 15009 | 405,668.00
McKean County Redevelopment & Housing Authority/Northwest RRH | 415 West Main Street | Smethport | PA | 16749 | 406,290.00
United Neighborhood Centers of Northeastern Pennsylvania/Permanent Supportive Housing for Families #1 | 777 Keystone Industrial Park Rd | Throop | PA | 18512 | 410,743.00
Westmoreland Community Action/WCA PSH for Families 2017 | 226 South Maple Avenue | Greensburg | PA | 15601 | 418,047.00
City of Philadelphia/HOPIN IV | Municipal Services Bldg, 1401 JFK Blvd, 10th FLR | Philadelphia | PA | 19102 | 421,008.00
Allegheny County Department of Human Services/Flex 51 | Human Services Building, 2nd floor, One Smithfield Street | Pittsburgh | PA | 15222 | 427,531.00
County of Erie/Self Start I | 154 West 9th Street | Erie | PA | 16501 | 428,819.00
Fayette County Community Action Agency, Inc./Southwest Regional Rapid Re-Housing | 108 N. Beeson Blvd | Uniontown | PA | 15401 | 429,997.00
Allegheny County Department of Human Services/FAITH | Human Services Building, 2nd floor, One Smithfield Street | Pittsburgh | PA | 15222 | 449,521.00
Allegheny County Department of Human Services/Spectrum I | Human Services Building, 2nd floor, One Smithfield Street | Pittsburgh | PA | 15222 | 457,187.00
Delaware County Housing Authority/Del. Co. PSH for Homeless Adults with Mental Illness | 1855 Constitution Ave | Woodlyn | PA | 19094 | 463,360.00
Allegheny County Department of Human Services/Flex 30 | Human Services Building, 2nd floor, One Smithfield Street | Pittsburgh | PA | 15222 | 470,803.00
DUBOIS HOUSING AUTHORITY/ShelterPlusCare12345.4.1.18 | 21 EAST LONG AVENUE | DUBOIS | PA | 15801 | 471,496.00
Valley Youth House Committee, Inc./TH-RRH for Lehigh Valley Youth | 3400 High Point Blvd | Bethlehem | PA | 18017 | 479,930.00
Allegheny County Department of Human Services/“Keys” to Success | Human Services Building, 2nd floor, One Smithfield Street | Pittsburgh | PA | 15222 | 487,178.00
HELP Development Corporation/HELP Philadelphia II | 115 East 13th Street | New York | PA | 10003 | 487,622.00
City of Philadelphia/Rowan Judson | Municipal Services Bldg, 1401 JFK Blvd, 10th FLR | Philadelphia | PA | 19102 | 488,160.00
Allegheny County Department of Human Services/A River to Home | Human Services Building, 2nd floor, One Smithfield Street | Pittsburgh | PA | 15222 | 494,101.00
COMHAR/SHP 2 Program 2017 | 100 W. Lehigh Ave | Philadelphia | PA | 19133 | 496,728.00
Pathways to Housing PA Inc/Pathways Phila IVAST Project | 5201 Old York Road, Suite 108 | Philadelphia | PA | 19141 | 500,149.00
City of Philadelphia/First Foundation | Municipal Services Bldg, 1401 JFK Blvd, 10th FLR | Philadelphia | PA | 19102 | 508,825.00
City of Philadelphia/HELP Philadelphia Rapid Rehousing | Municipal Services Bldg, 1401 JFK Blvd, 10th FLR | Philadelphia | PA | 19102 | 511,600.00
County of Washington/Permanent Supportive Housing | 100 West Beau Street, Suite 703 | Washington | PA | 15301 | 518,816.00
City of Philadelphia/Pathways Bonus | Municipal Services Bldg, 1401 JFK Blvd, 10th FLR | Philadelphia | PA | 19102 | 528,260.00
Allegheny County Department of Human Services/HARBOR-2-RRH | Human Services Building, 2nd floor, One Smithfield Street | Pittsburgh | PA | 15222 | 528,879.00
Methodist Services/Fairway Commons | 4300 Monument Road | Philadelphia | PA | 19131 | 553,734.00
Allegheny County Department of Human Services/PA600 CoC Planning Project Application FY 2017 | Human Services Building, 2nd floor, One Smithfield Street | Pittsburgh | PA | 15222 | 583,922.00
Episcopal Community Services/FAST Housing | 225 S. 3rd Street | Philadelphia | PA | 19106 | 602,128.00
City of Philadelphia/St. John the Evangelist House SPC 1 | Municipal Services Bldg, 1401 JFK Blvd, 10th FLR | Philadelphia | PA | 19102 | 606,256.00
Allegheny County Department of Human Services/Flex 50 Families | Human Services Building, 2nd floor, One Smithfield Street | Pittsburgh | PA | 15222 | 607,468.00
City of Philadelphia/FRP CoC Rapid Rehousing | Municipal Services Bldg, 1401 JFK Blvd, 10th FLR | Philadelphia | PA | 19102 | 631,390.00
Delaware County Housing Authority/Shelter Plus Care 2345 | 1855 Constitution Ave | Woodlyn | PA | 19094 | 634,814.00
County of Delaware/OBH RRH | 20 S. 69th St., 4th Floor | Upper Darby | PA | 19082 | 636,341.00
Impact Services Corporation/Homebase | 1952 E. Allegheny Avenue | Philadelphia | PA | 19134 | 640,126.00
Horizon House/Welcome Home | 120 South 30th Street | Philadelphia | PA | 19104 | 658,614.00
Pathways to Housing PA Inc/PTH Phila Integrated Services Project SHP | 5201 Old York Road, Suite 108 | Philadelphia | PA | 19141 | 674,825.00
Allegheny County Department of Human Services/Trail Lane II | Human Services Building, 2nd floor, One Smithfield Street | Pittsburgh | PA | 15222 | 699,352.00
Allegheny County Department of Human Services/Hestia Project | Human Services Building, 2nd floor, One Smithfield Street | Pittsburgh | PA | 15222 | 708,416.00
Lancaster General Hospital/Lancaster County Consolidated RRH Project | 555 North Duke Street | Lancaster | PA | 17604 | 709,957.00
City of Philadelphia/Rap4Youth | Municipal Services Bldg, 1401 JFK Blvd, 10th FLR | Philadelphia | PA | 19102 | 728,915.00
City of Philadelphia/HOPIN II | Municipal Services Bldg, 1401 JFK Blvd, 10th FLR | Philadelphia | PA | 19102 | 733,872.00
County of Chester/ARC Housing Options 2017 | 601 Westtown Road, Suite 365, P.O. Box 2747 | West Chester | PA | 19380 | 744,946.00
Project HOME/Women of Change/St Columba | 1515 Fairmount | Philadelphia | PA | 19130 | 773,964.00
Allegheny County Department of Human Services/Neighborhood Living Program | Human Services Building, 2nd floor, One Smithfield Street | Pittsburgh | PA | 15222 | 775,937.00
Horizon House/Home First | 120 South 30th Street | Philadelphia | PA | 19104 | 792,813.00
Allegheny County Department of Human Services/MyPlace RRH | Human Services Building, 2nd floor, One Smithfield Street | Pittsburgh | PA | 15222 | 798,623.00
City of Philadelphia/HOPIN I | Municipal Services Bldg, 1401 JFK Blvd, 10th FLR | Philadelphia | PA | 19102 | 817,728.00
Travelers Aid Society of Philadelphia/RSVP | 111 N 49th Street | Philadelphia | PA | 19139 | 882,914.00
City of Philadelphia/Housing First and Community Integration | Municipal Services Bldg, 1401 JFK Blvd, 10th FLR | Philadelphia | PA | 19102 | 975,269.00
City of Philadelphia/CoC Planning Application FY2017 | Municipal Services Bldg, 1401 JFK Blvd, 10th FLR | Philadelphia | PA | 19102 | 979,975.00
Drueding Center/Project Rainbow | 413 W. Master St | Philadelphia | PA | 19122 | 1,081,411.00
City of Philadelphia/Reunification | Municipal Services Bldg, 1401 JFK Blvd, 10th FLR | Philadelphia | PA | 19102 | 3,011,904.00
Rhode Island Housing and Mortgage Finance Corporation/Agape Permanent Supportive Housing Program 2017 | 44 Washington Street | Providence | RI | 02903 | 24,055.00
Rhode Island Housing and Mortgage Finance Corporation/Gemini Apartments | 44 Washington Street | Providence | RI | 02903 | 27,214.00
Westbay Community Action/East, Earl, & Warwick Avenue 2017 | 224 Buttonwoods Ave | Warwick | RI | 02886 | 30,638.00
Crossroads Rhode Island/Travelers Aid Housing 2017 | 160 Broad Street | Providence | RI | 02903 | 33,083.00
Community Care Alliance/Rapid Re-Housing of Northern Rhode Island (Youth Project) 2017 | 800 Clinton Street | Woonsocket | RI | 02895 | 33,701.00
Rhode Island Housing and Mortgage Finance Corporation/Fair Street 2017 | 44 Washington Street | Providence | RI | 02903 | 39,464.00
Lucy's Hearth/Lucy's Hearth Housing Program | 19 Valley Road | Middletown | RI | 02842 | 40,592.00
Crossroads Rhode Island/Travelers Aid of Rhode Island 2017 | 160 Broad Street | Providence | RI | 02903 | 43,225.00
Amos House/Amos House Swan Street 2017 | 460 Pine Street | Providence | RI | 02907 | 47,056.00
East Bay Community Action Program/East Bay Coalition for the Homeless Permanent Housing | 19 Broadway | Newport | RI | 02840 | 47,535.00
YWCA Rhode Island/Sarah Frances Grant Homestead | 514 Blackstone Street | Woonsocket | RI | 02895 | 49,441.00
Rhode Island Housing and Mortgage Finance Corporation/Haswill 2017 | 44 Washington Street | Providence | RI | 02903 | 50,296.00
Rhode Island Housing and Mortgage Finance Corporation/2016 Statewide TBRA for the Homeless 2017 | 44 Washington Street | Providence | RI | 02903 | 50,851.00
Amos House/414 Friendship Street 2017 | 460 Pine Street | Providence | RI | 02907 | 63,380.00
Westerly Area Rest Meals Inc./Greater Westerly Supportive Housing Expansion Project 2017 | 56 Spruce St | Westerly | RI | 02891 | 66,048.00
Crossroads Rhode Island/Rhode Island Family Shelter 2017 | 160 Broad Street | Providence | RI | 02903 | 68,154.00
Rhode Island Housing and Mortgage Finance Corporation/Burnside Ave. Permanent Supportive Housing 2017 | 44 Washington Street | Providence | RI | 02903 | 71,762.00
Rhode Island Housing and Mortgage Finance Corporation/Tremont Street 2017 | 44 Washington Street | Providence | RI | 02903 | 76,690.00
Crossroads Rhode Island/Permanent Housing for Disabled Adults 2017 | 160 Broad Street | Providence | RI | 02903 | 91,486.00
Crossroads Rhode Island/Permanent Housing for Disabled Elders 2017 | 160 Broad Street | Providence | RI | 02903 | 101,897.00
Rhode Island Housing and Mortgage Finance Corporation/Rhode Island Housing Rental Assistance | 44 Washington Street | Providence | RI | 02903 | 103,800.00
Rhode Island Housing and Mortgage Finance Corporation/2010 S+C Project 2017 | 44 Washington Street | Providence | RI | 02903 | 114,193.00
Rhode Island Housing and Mortgage Finance Corporation/Fran Conway-Winter 2017 | 44 Washington Street | Providence | RI | 02903 | 125,893.00
Rhode Island Housing and Mortgage Finance Corporation/Rapid ReHousing of Northern Rhode Island 2017 | 44 Washington Street | Providence | RI | 02903 | 132,978.00
Rhode Island Housing and Mortgage Finance Corporation/Constitution Hill Supportive Housing Program 2017 | 44 Washington Street | Providence | RI | 02903 | 135,000.00
Crossroads Rhode Island/Crossroads RI Family PSH 2017 | 160 Broad Street | Providence | RI | 02903 | 146,580.00
Rhode Island Coalition for the Homeless/Rhode Island Homeless Management Information System | 1070 Main St | Pawtucket | RI | 02860 | 152,064.00
Sojourner House/Sojourner House Rapid Re-Housing | 386 Smith Street | Providence | RI | 02908 | 152,592.00
Rhode Island Housing and Mortgage Finance Corporation/Coming Home Permanent Supportive Housing Project 2017 | 44 Washington Street | Providence | RI | 02903 | 161,320.00
Operation Stand Down Rhode Island/West Warwick | 1010 Hartford Avenue | Johnston | RI | 02919 | 174,755.00
Crossroads Rhode Island/70 Linwood Apartments 2017 | 160 Broad Street | Providence | RI | 02903 | 179,535.00
Crossroads Rhode Island/Crossroads Rapid Re-Housing Project for Families-2017 | 160 Broad Street | Providence | RI | 02903 | 188,058.00
Housing Authority of the City of Pawtucket, RI, The/Pawtucket Housing Authority's Rapid Rehousing Project | 214 Roosevelt Avenue | Pawtucket | RI | 02860 | 215,510.00
Foster Forward/Rapid Rehousing for Former Foster Youth | 55 South Brow Street | East Providence | RI | 02914 | 229,254.00
Rhode Island Housing and Mortgage Finance Corporation/Rhode Island Housing Permanent Supportive Housing Project 2017 | 44 Washington Street | Providence | RI | 02903 | 231,352.00
Rhode Island Housing and Mortgage Finance Corporation/RI-500 CoC Planning Application FY2017 | 44 Washington Street | Providence | RI | 02903 | 234,913.00
Rhode Island Housing and Mortgage Finance Corporation/Access to Home 2017 | 44 Washington Street | Providence | RI | 02903 | 297,750.00
Rhode Island Housing and Mortgage Finance Corporation/S+C Renewal 2017 | 44 Washington Street | Providence | RI | 02903 | 1,764,069.00
United Housing Connections/HAL2 | 135 Edinburgh Court, Suite 100-B | Greenville | SC | 29607 | 20,921.00
The Salvation Army/Housing Stabilization—Rapid Re-housing 2017 | 3024 Farrow Road | Columbia | SC | 29203 | 46,823.00
Florence Crittenton Programs of South Carolina/Rapid ReHousing For Families FY2017 | 19 Saint Margaret Street | Charleston | SC | 29403 | 51,473.00
The Housing Authority of the City of Columbia, SC/Housing First Expansion Plus | 1917 Harden Street | Columbia | SC | 29204 | 54,100.00
Mental Illness Recovery Center, Inc./MIRCI Housing First for Unaccompanied Youth | 3809 Rosewood Drive | Columbia | SC | 29205 | 58,760.00
Family Services Inc/Home to Stay | 4925 Lacross Rd, Ste 215 | Charleston | SC | 29406 | 62,883.00
Lowcountry Homeless Coalition/CoC Planning Project FY2017 | P.O. Box 20038 | Charleston | SC | 29413 | 74,025.00
Midlands Housing Alliance, Inc./Midlands Rapid Re-housing | 2025 Main St | Columbia | SC | 29201 | 84,403.00
Family Services Inc/Lease on Life 3 | 4925 Lacross Rd, Ste 215 | Charleston | SC | 29406 | 85,161.00
Trinity Housing Corporation/Young Adulthood Housing Collaborative | 2711 Middleburg Dr., Suite 308 | Columbia | SC | 29204 | 86,505.00
Palmetto Place Children's Emergency Shelter/Unaccompanied Youth JT PH/RRH Project | 5507 Colonial Dr | Columbia | SC | 29203 | 86,512.00
United Way of the Midlands/SC-502 CoC Planning Application FY2017 | 1818 Blanding Street | Columbia | SC | 29201 | 86,937.00
Eastern Carolina Homelessness Organization/CoC Coordinated Entry | 1204 N. Kings Hwy | Myrtle Beach | SC | 29577 | 88,924.00
Eastern Carolina Homelessness Organization/CoC Planning Grant | 1204 N. Kings Hwy | Myrtle Beach | SC | 29577 | 91,307.00
Anderson Interfaith Ministries/Rapid Re-Housing | 1202 South Murray Avenue | Anderson | SC | 29624 | 91,325.00
Sea Haven, Inc./Sea Haven Rapid Re-Housing | 280 Hwy. 57 S | Little River | SC | 29566 | 99,800.00
Family Services Inc/Lease on Life 2 | 4925 Lacross Rd, Ste 215 | Charleston | SC | 29406 | 110,058.00
United Way of the Midlands/HMIS Renewal SC-502 2017 | 1818 Blanding Street | Columbia | SC | 29201 | 118,133.00
United Housing Connections/Piedmont Keys FI | 135 Edinburgh Court, Suite 100-B | Greenville | SC | 29607 | 126,398.00
Sea Haven, Inc./Sea Haven Rapid Re-Housing | 280 Hwy. 57 S | Little River | SC | 29566 | 127,290.00
One-Eighty Place/Rapid Re-Housing MACH 17 | 35 Walnut Street | Charleston | SC | 29403 | 128,072.00
United Housing Connections/CoC Planning Project Application 2017 | 135 Edinburgh Court, Suite 100-B | Greenville | SC | 29607 | 128,614.00
United Housing Connections/Reedy Place SH | 135 Edinburgh Court, Suite 100-B | Greenville | SC | 29607 | 128,754.00
Eastern Carolina Homelessness Organization/Dedicated HMIS | 1204 N. Kings Hwy | Myrtle Beach | SC | 29577 | 128,767.00
The Housing Authority of the City of Columbia, SC/Housing First Expansion | 1917 Harden Street | Columbia | SC | 29204 | 131,574.00
United Housing Connections/Transitions—Youth | 135 Edinburgh Court, Suite 100-B | Greenville | SC | 29607 | 136,272.00
Eastern Carolina Homelessness Organization/Renewing Beyond Shelter | 1204 N. Kings Hwy | Myrtle Beach | SC | 29577 | 136,965.00
One-Eighty Place/Self-Sufficiency RRH 17 | 35 Walnut Street | Charleston | SC | 29403 | 139,441.00
Eastern Carolina Homelessness Organization/ECHO Ph-1 PSH | 1204 N. Kings Hwy | Myrtle Beach | SC | 29577 | 139,718.00
Eastern Carolina Homelessness Organization/ECHO RRH-1 | 1204 N. Kings Hwy | Myrtle Beach | SC | 29577 | 149,556.00
Mental Illness Recovery Center, Inc./MIRCI PH for Chronic Homeless | 3809 Rosewood Drive | Columbia | SC | 29205 | 154,943.00
Eastern Carolina Homelessness Organization/Ph-1 PSH Expansion | 1204 N. Kings Hwy | Myrtle Beach | SC | 29577 | 156,452.00
Family Services Inc/Lease on Life 1 | 4925 Lacross Rd, Ste 215 | Charleston | SC | 29406 | 157,254.00
United Housing Connections/Upstate HMIS | 135 Edinburgh Court, Suite 100-B | Greenville | SC | 29607 | 163,215.00
One-Eighty Place/HMIS | 35 Walnut Street | Charleston | SC | 29403 | 166,620.00
One-Eighty Place/Housing First PSH 17 Expansion | 35 Walnut Street | Charleston | SC | 29403 | 171,910.00
Meg's House Shelter for Abused Women and Children/Operation Impact | P.O. Box 3410 | Greenwood | SC | 29648 | 175,870.00
United Housing Connections/HAL | 135 Edinburgh Court, Suite 100-B | Greenville | SC | 29607 | 177,211.00
Meg's House Shelter for Abused Women and Children/Project HOPE | P.O. Box 3410 | Greenwood | SC | 29648 | 181,115.00
United Housing Connections/RAVE | 135 Edinburgh Court, Suite 100-B | Greenville | SC | 29607 | 182,494.00
Eastern Carolina Homelessness Organization/Housing First to Awakenings | 1204 N. Kings Hwy | Myrtle Beach | SC | 29577 | 189,586.00
Sunbelt Human Advancement Resources, Inc. (SHARE)/Welcome Home | 254 S. Pleasantburg Drive | Greenville | SC | 29607 | 191,172.00
United Housing Connections/Rapid Rehousing | 135 Edinburgh Court, Suite 100-B | Greenville | SC | 29607 | 194,732.00
Eastern Carolina Homelessness Organization/ECHO Ph-3 PSH | 1204 N. Kings Hwy | Myrtle Beach | SC | 29577 | 198,803.00
United Housing Connections/HOME | 135 Edinburgh Court, Suite 100-B | Greenville | SC | 29607 | 201,147.00
The Housing Authority of the City of Columbia, SC/Permanent Supportive Housing Chronic | 1917 Harden Street | Columbia | SC | 29204 | 209,881.00
Meg's House Shelter for Abused Women and Children/Lakelands Rural Transitional Housing Program | P.O. Box 3410 | Greenwood | SC | 29648 | 214,814.00
Mental Illness Recovery Center, Inc./MIRCI SHP | 3809 Rosewood Drive | Columbia | SC | 29205 | 253,167.00
Eastern Carolina Homelessness Organization/Housing First Ph-4 | 1204 N. Kings Hwy | Myrtle Beach | SC | 29577 | 262,302.00
Eastern Carolina Homelessness Organization/ECHO OPENING DOORS TO HOUSING FIRST PH-2 | 1204 N. Kings Hwy | Myrtle Beach | SC | 29577 | 268,138.00
South Carolina Department of Mental Health/Home Base III and IV Consolidated Program | 2414 Bull Street | Columbia | SC | 29201 | 271,288.00
The Housing Authority of the City of Columbia, SC/Permanent Supportive Housing Disabled | 1917 Harden Street | Columbia | SC | 29204 | 278,288.00
South Carolina Department of Mental Health/Greenville-Spartanburg Consolidated Shelter Plus Care | 2414 Bull Street | Columbia | SC | 29201 | 279,717.00
Mental Illness Recovery Center, Inc./MIRCI Housing First | 3809 Rosewood Drive | Columbia | SC | 29205 | 282,672.00
Sistercare Inc./Permanent Housing and Supportive Services for Disabled Domestic Violence Victims | 1820 Morlaine Drive | Cayce | SC | 29033 | 303,331.00
Project Care, Inc./P.R.I.D.E. Permanent Housing | 218 Viola Street | Greenville | SC | 29601 | 354,865.00
One-Eighty Place/Housing First PSH 17 | 35 Walnut Street | Charleston | SC | 29403 | 379,747.00
One-Eighty Place/Rapid Re-Housing LHC 17 | 35 Walnut Street | Charleston | SC | 29403 | 381,161.00
South Carolina Department of Mental Health/Home Base I and II Consolidated Program | 2414 Bull Street | Columbia | SC | 29201 | 552,945.00
Sioux Falls Housing and Redevelopment Commission/Shelter Plus Care SF III—2017 Renewal 4 Units | 630 S. Minnesota Ave | Sioux Falls | SD | 57104 | 33,338.00
Sioux Falls Housing and Redevelopment Commission/Safe Home—Renewal 2017 | 630 S. Minnesota Ave | Sioux Falls | SD | 57104 | 34,673.00
South Dakota Housing Development Authority/2017 South Dakota Statewide HMIS | 3060 East Elizabeth Street, P.O. Box 1237 | Pierre | SD | 57501 | 39,684.00
South Dakota Housing Development Authority/SD-500 CoC Planning Application FY2017 | 3060 East Elizabeth Street, P.O. Box 1237 | Pierre | SD | 57501 | 52,883.00
Cornerstone Rescue Mission/Cornerstone Apartments Permanent Supportive Housing | 30 Main St | Rapid City | SD | 57701 | 72,186.00
South Dakota Housing Development Authority/SD-500 CoC SSO CES FY2017 | 3060 East Elizabeth Street, P.O. Box 1237 | Pierre | SD | 57501 | 105,144.00
Lewis & Clark Behavioral Health Services, Inc./Lewis and Clark Housing Project | 1028 Walnut Street | Yankton | SD | 57078 | 140,121.00
Inter-Lakes Community Action Partnership/Heartland House 3 Rapid Rehousing Program | 111 North Van Eps Avenue | Madison | SD | 57042 | 162,013.00
Inter-Lakes Community Action Partnership/Heartland House Rapid Rehousing Program | 111 North Van Eps Avenue | Madison | SD | 57042 | 319,338.00
Sioux Falls Housing and Redevelopment Commission/Shelter Plus Care | 630 S. Minnesota Ave | Sioux Falls | SD | 57104 | 335,089.00
The Journey Home, Inc/2017 Chronic Leasing Renewal | P.O. Box 331025, NA | Murfreesboro | TN | 37133 | 9,640.00
Professional Care Services Of West Tn., Inc./PCS Brownsville Duplexes | 1997 Hwy 51 South | Covington | TN | 38019 | 10,014.00
The Journey Home, Inc/2017 Smyrna (Assumed) Leasing Renewal | P.O. Box 331025, NA | Murfreesboro | TN | 37133 | 13,400.00
The Journey Home, Inc/2017 LOV Leasing (Assumed) Renewal | P.O. Box 331025, NA | Murfreesboro | TN | 37133 | 13,904.00
Housing Opportunities and People Enterprises, Inc./HOPE Permanent Housing Project #2 | 591 E. Monticello Pike | Huntsville | TN | 37756 | 15,129.00
Case Management Incorporated/Alice Avenue Project | 3171 Directors Row | Memphis | TN | 38131 | 15,865.00
Marshall County/Family Life RRH (Marshall Co S+C) | 2205 Courthouse Annex | Lewisburg | TN | 37091 | 16,670.00
The Journey Home, Inc/2017 Older Youth Renewal | P.O. Box 331025, NA | Murfreesboro | TN | 37133 | 19,096.00
Housing Opportunities and People Enterprises, Inc./HOPE Permanent Housing Project #1 | 591 E. Monticello Pike | Huntsville | TN | 37756 | 21,832.00
The Mary Parrish Center/The Mary Parrish Center Renewal Application FY2017 | P.O. Box 60009 | Nashville | TN | 37206 | 23,688.00
Community Action Network, Inc/Community Rental Assistance | 3975 Copper Springs Road | Springville | TN | 38256 | 26,074.00
Oasis Center, Inc./Youth Rapid Rehousing | 1704 Charlotte Ave, Suite 200 | Nashville | TN | 37203 | 30,693.00
The Crossville Housing Development Corporation/2017 Planning Project TN-506 | 67 Irwin Ave | Crossville | TN | 38555 | 32,700.00
AIM Housing, Inc./AIM Family Housing 2017 | 472 W M.L. King Blvd | Chattanooga | TN | 37402 | 33,239.00
Tennessee Valley Coalition to End Homelessness, Inc./CoC Planning Project FY17 | 4313 Ball Camp Pike, Suite 201 | Knoxville | TN | 37921 | 35,000.00
Campus for Human Development/Omega COC 2017 Room In The Inn | 705 Drexel Street | Nashville | TN | 37203 | 35,576.00
Area Relief Ministries, Inc./Madison County Rapid ReHousing Project | P.O. Box 7 | Jackson | TN | 38302 | 35,658.00
Robertson County/Robertson County S+C 082017 | 523 S. Brown Street | Springfiled | TN | 37172 | 35,892.00
Community Alliance for the Homeless/HMIS Renewal Grant FY2017 | 44 North 2nd Street, Suite 302 | Memphis | TN | 38103 | 37,608.00
Chattanooga Homeless Coalition/CES 2017 | 600 N. Holtzclaw Ave | Chattanooga | TN | 37404 | 38,775.00
Appalachian Regional Coalition on Homelessness/2017 HMIS Reallocation Renewal Project | 321 West Walnut Street | Johnson City | TN | 37604 | 43,498.00
Appalachian Regional Coalition on Homelessness/ARCH 2017 Planning Project | 321 West Walnut Street | Johnson City | TN | 37604 | 44,529.00
Town of Crossville Housing Authority/Pathways RRH 2017 (TN0251L4J061602) | 67 Irwin Ave | Crossville | TN | 38555 | 45,071.00
Tennessee Homeless Solutions/THS Planning Project FY2017 | 60 Natchez Trace South | Lexington | TN | 38351 | 45,081.00
Catholic Charities of Tennessee Inc./Catholic Charities Rapid Rehousing (RRH) 2017 | 2806 McGavock Pike | Nashville | TN | 37214 | 45,288.00
The Crossville Housing Development Corporation/2017 Coordinated Entry TN-506 | 67 Irwin Ave | Crossville | TN | 38555 | 46,151.00
Town of Crossville Housing Authority/Shelter Plus Care Five 2017 (TN0193L4J061602) | 67 Irwin Ave | Crossville | TN | 38555 | 48,173.00
Safe Haven Family Shelter/SHFS RRH1 2017 | 1234 3rd Avenue South | Nashville | TN | 37210 | 52,312.00
Buffalo Valley, Inc./HNM Planning Grant 2017 | 501 Park Avenue South, P.O. Box 879 | Hohenwald | TN | 38462 | 52,887.00
Volunteer Behavioral Health Care System/VolPH-McMinn | 413 Spring Street | Chattanooga | TN | 37405 | 53,225.00
Metropolitan Development & Housing Agency/MDHA HMIS Renewal 2017 | 701 South Sixth Street | Nashville | TN | 37206 | 53,508.00
Greenhouse Ministries/Cottage Program FY2017 | 309 South Spring Street | Murfreesboro | TN | 37130 | 54,446.00
The Journey Home, Inc/2017 Family Leasing Renewal | P.O. Box 331025, NA | Murfreesboro | TN | 37133 | 54,754.00
Quinco Community Mental Health Centers/Quinco Rental Assistance | 10710 Old Highway 64 | Bolivar | TN | 38008 | 59,094.00
Town of Crossville Housing Authority/Iris Cottage 2017 (TN0167L4J061605) | 67 Irwin Ave | Crossville | TN | 38555 | 60,491.00
Volunteer Ministry Center, Inc./Minvilla Manor FY 2017 | 511 North Broadway | Knoxville | TN | 37917 | 60,570.00
T.A.M.B. of Jackson, Inc./McCowat House | 110 McCowat Street | Jackson | TN | 38301 | 62,589.00
Town of Crossville Housing Authority/Community Supportive Housing 2017 (TN0168L4J061606) | 67 Irwin Ave | Crossville | TN | 38555 | 62,610.00
Safe Haven Family Shelter/SHFS RRH2 2017 | 1234 3rd Avenue South | Nashville | TN | 37210 | 63,032.00
The Salvation Army, A Georgia Corporation/Operation Bootstrap Transitional Housing Program | 409 N. Broadway | Knoxville | TN | 37917 | 67,936.00
Tennessee Valley Coalition to End Homelessness, Inc./HMIS Renewal 2017 | 4313 Ball Camp Pike, Suite 201 | Knoxville | TN | 37921 | 68,886.00
Southeastern Housing Foundation II, Inc./Flenniken Housing | The Regas Building, 318 N. Gay Street, Suite 210 | Knoxville | TN | 37917 | 69,951.00
Center of Hope/Center of Hope Against DV Transitional Housing | 2441 Park Plus Drive, P.O. Box 1961 | Columbia | TN | 38401 | 70,486.00
Jackson Area Council on Alcoholism and Drug Dependency/Housing the Indigent | 900 East Chester Street | Jackson | TN | 38301 | 72,305.00
Wo/Men's Resource and Rape Assistance Program/WRAP Housing | 512 Roland Avenue | Jackson | TN | 38301 | 72,627.00
Area Relief Ministries, Inc./The Turning Point | P.O. Box 7 | Jackson | TN | 38302 | 73,146.00
Quinco Community Mental Health Center, Inc./Fairways Project | 10710 Old Highway 64 | Bolivar | TN | 38008 | 75,285.00
Chattanooga Homeless Coalition/2017 CoC Planning | 600 N. Holtzclaw Ave | Chattanooga | TN | 37404 | 75,364.00
Kingsport Housing & Redevelopment Authority/2017 SHP I Pro Rata Renewal Application | 906 E. Sevier Avenue, P.O. Box 44 | Kingsport | TN | 37662 | 76,557.00
Safe Haven Family Shelter/SHFS Transition In Place 2017 | 1234 3rd Avenue South | Nashville | TN | 37210 | 79,452.00
Community Alliance for the Homeless/HMIS PLUS Grant Renewal FY2017 | 44 North 2nd Street, Suite 302 | Memphis | TN | 38103 | 80,094.00
Positively Living/Parkridge Harbor Apartments | 1501 East Fifth Avenue | Knoxville | TN | 37917 | 80,180.00
Damascus Road, Inc./Waverly Home | P.O. Box 1075 | Paris | TN | 38242 | 83,363.00
Appalachian Regional Coalition on Homelessness/2017 PSH Bonus Project | 321 West Walnut Street | Johnson City | TN | 37604 | 90,258.00
Knoxville-Knox County Community Action Committee/Families In Need Rapid ReHousing | P.O. BOX 51650, 2247 WESTERN AV | Knoxville | TN | 37950 | 90,636.00
Behavioral Health Initiatives, Inc./Phoenix Project FY2017 | 15 Executive Drive | Jackson | TN | 38305 | 92,286.00
OUTMemphis/OUTMemphis Metamorphosis Project Rapid Re-housing Program 2017 | 892 South Cooper St | Memphis | TN | 38104 | 92,520.00
Tennessee Homeless Solutions/Henderson County Rapid Rehousing 2017 | 60 Natchez Trace South | Lexington | TN | 38351 | 93,619.00
Chattanooga Homeless Coalition/2017 Enhanced HMIS | 600 N. Holtzclaw Ave | Chattanooga | TN | 37404 | 94,775.00
Appalachian Regional Coalition on Homelessness/2017 PSH Renewal Project | 321 West Walnut Street | Johnson City | TN | 37604 | 96,103.00
The Next Door, Inc./TND: Freedom Recovery Program | 2100 Clifton Avenue | Nashville | TN | 37203 | 96,123.00
Tennessee Homeless Solutions/Decatur County Rental Assistance | 60 Natchez Trace South | Lexington | TN | 38351 | 96,268.00
Case Management Incorporated/Family Haven Apartments | 3171 Directors Row | Memphis | TN | 38131 | 97,857.00
CEASE Domestic Violence and Sexual Assault Inc./Safe at Home | 929 W. First North St, P.O. Box 3359 | Morristown | TN | 37814 | 97,927.00
Tennessee Valley Coalition to End Homelessness, Inc./Family Services Housing 2017 | 4313 Ball Camp Pike, Suite 201 | Knoxville | TN | 37921 | 99,681.00
Community Alliance for the Homeless/Memphis/Shelby County Coordinated Entry System 2017 | 44 North 2nd Street, Suite 302 | Memphis | TN | 38103 | 100,000.00
Tennessee Valley Coalition to End Homelessness, Inc./HMIS System 2017 | 4313 Ball Camp Pike, Suite 201 | Knoxville | TN | 37921 | 100,757.00
Tennessee Homeless Solutions/Current Existing HMIS | 60 Natchez Trace South | Lexington | TN | 38351 | 100,973.00
Chattanooga Homeless Coalition/2017 HMIS | 600 N. Holtzclaw Ave | Chattanooga | TN | 37404 | 102,569.00
Metropolitan Development & Housing Agency/TN-504 CoC Planning Application 2017 MDHA | 701 South Sixth Street | Nashville | TN | 37206 | 103,050.00
Knoxville-Knox County Community Action Committee/REACH | P.O.BOX 51650, 2247 WESTERN AV | Knoxville | TN | 37950 | 104,580.00
Knoxville-Knox County Community Action Committee/Elizabeth's Home Rapid Rehousing | P.O.BOX 51650, 2247 WESTERN AV | Knoxville | TN | 37950 | 104,724.00
City of Clarksville/City of Clarksville S+C | One Public Square | Clarksville | TN | 37040 | 107,780.00
Carey Counseling Center, Inc./Herrington Place | 408 Virginia Street, P.O. Box 30 | Paris | TN | 38242 | 113,170.00
Appalachian Regional Coalition on Homelessness/2017 HMIS Renewal Project | 321 West Walnut Street | Johnson City | TN | 37604 | 113,170.00
Agape Child & Family Services, Inc./Agape Access for All FY2017 Phase II | 3160 Directors Row | Memphis | TN | 38131 | 115,640.00
Alpha Omega Veterans Services, Inc./2017 AOVS Depot Town homes Phase 1 | 1183 Madison | Memphis | TN | 38104 | 115,698.00
Tennessee Valley Coalition to End Homelessness, Inc./Operation Restore 2017 | 4313 Ball Camp Pike, Suite 201 | Knoxville | TN | 37921 | 117,903.00
Fairview Housing Management Corporation/The Manna House Renewal 2017 | P.O. 5746 | Johnson City | TN | 37601 | 119,090.00
City of Memphis, Tennessee/Aloysius Commons Shelter Plus Care FY 2017 | 701 North Main Street | Memphis | TN | 38107 | 125,885.00
Damascus Road, Inc./Curtis Street | P.O. Box 1075 | Paris | TN | 38242 | 126,251.00
Safe Haven Family Shelter/Nashville CES Collaboration 2017 | 1234 3rd Avenue South | Nashville | TN | 37210 | 128,000.00
Metropolitan Development & Housing Agency/MDHA Shelter Plus Care 13 Unit Renewal 2017 | 701 South Sixth Street | Nashville | TN | 37206 | 128,680.00
The University of Tennessee/UT HMIS | 1534 White Avenue | Knoxville | TN | 37996 | 132,282.00
The Crossville Housing Development Corporation/2017 HMIS TN-506 | 67 Irwin Ave | Crossville | TN | 38555 | 138,973.00
Knoxville-Knox County Community Action Committee/Project SUCCEED Rapid Rehousing | P.O. BOX 51650, 2247 WESTERN AV | Knoxville | TN | 37950 | 140,514.00
Kingsport Housing & Redevelopment Authority/2017 SHP II Bonus Renewal Application | 906 E. Sevier Avenue, P.O. Box 44 | Kingsport | TN | 37662 | 143,133.00
Community Alliance for the Homeless/HMIS HEARTH Grant Renewal FY2017 | 44 North 2nd Street, Suite 302 | Memphis | TN | 38103 | 146,744.00
The Salvation Army, A Georgia Corporation/Operation Bootstrap Transitional Housing-Rapid Rehousing Program | 409 N. Broadway | Knoxville | TN | 37917 | 149,816.00
Fairview Housing Management Corporartion/Appalachian Family Housing | 100 E. Millard St | Johnson City | TN | 37601 | 154,787.00
Buffalo Valley, Inc./HNM HMIS | 501 Park Avenue South, P.O. Box 879 | Hohenwald | TN | 38462 | 157,500.00
Alpha Omega Veterans Services, Inc./2017 AOVS Depot SRO | 1183 Madison | Memphis | TN | 38104 | 157,668.00
Alpha Omega Veterans Services, Inc./2017 AOVS Lease Program | 1183 Madison | Memphis | TN | 38104 | 173,282.00
Door of Hope, Inc./FY2017 245 N. Bellevue | 245 N. Bellevue | Memphis | TN | 38105 | 176,262.00
Chattanooga Church Ministries Inc./Community Kitchen Permanent Housing for Families 2018-2019 | 727 East 11th Street | Chattanooga | TN | 37403 | 180,942.00
Chattanooga Church Ministries Inc./Community Kitchen Permanent Housing for Individuals 2018-2019 | 727 East 11th Street | Chattanooga | TN | 37403 | 181,017.00
Alpha Omega Veterans Services, Inc./2017 AOVS Permanent Supportive Housing | 1183 Madison | Memphis | TN | 38104 | 181,216.00
Friends For Life Corporation/Aloysius New Beginnings | 43 N. Cleveland | Memphis | TN | 38104 | 189,535.00
Community Alliance for the Homeless/TN-501 CoC Planning Application FY2017 | 44 North 2nd Street, Suite 302 | Memphis | TN | 38103 | 195,348.00
Volunteer Behavioral Health Care System/VolPH-Hamilton | 413 Spring Street | Chattanooga | TN | 37405 | 198,839.00
Friends For Life Corporation/Aloysius Scattered Site Permanent Supportive Housing | 43 N. Cleveland | Memphis | TN | 38104 | 199,405.00
The Salvation Army, a Georgia Corporation/The Salvation Army Joint TH/RRH | 631 Dickerson Road | Nashville | TN | 37207 | 208,208.00
City of Memphis, Tennessee/Breaking the Cycle Shelter Plus Care FY 2017 | 701 North Main Street | Memphis | TN | 38107 | 213,646.00
Partnership for Families, Children and Adults,Inc/Consortium of Services | 1800 McCallie Ave | Chattanooga | TN | 37404 | 225,469.00
Alliance Healthcare Services/2017 STAY 2 | 2150 Whitney Avenue | Memphis | TN | 38127 | 240,079.00
Door of Hope, Inc./FY2017 One Door at a Time | 245 N. Bellevue | Memphis | TN | 38105 | 241,632.00
Alliance Healthcare Services/2017 North Hill Woods | 2150 Whitney Avenue | Memphis | TN | 38127 | 244,396.00
Alliance Healthcare Services/2017 STAY 1 | 2150 Whitney Avenue | Memphis | TN | 38127 | 254,751.00
Metropolitan Inter-Faith Association/MIFA Rapid Rehousing Program Expansion Renewal 2017 | 910 Vance Avenue | Memphis | TN | 38126 | 265,945.00
Town of Crossville Housing Authority/Shelter Plus Care Group 2017 (TN0150L4J061608) | 67 Irwin Ave | Crossville | TN | 38555 | 273,207.00
Buffalo Valley, Inc./HNM Permanent Supportive Housing | 501 Park Avenue South, P.O. Box 879 | Hohenwald | TN | 38462 | 296,770.00
SOUTHEAST TENNESSEE HUMAN RESOURCE AGENCY/Shelter + Care 110 | 312 Resource Road | Dunlap | TN | 37327 | 312,635.00
Door of Hope, Inc./FY2017 One Door at a Time Phase Two | 245 N. Bellevue | Memphis | TN | 38105 | 350,825.00
Buffalo Valley, Inc./HNM Maury County (Precious Chosen) | 501 Park Avenue South, P.O. Box 879 | Hohenwald | TN | 38462 | 351,124.00
Carey Counseling Center, Inc./CAREY Rental Assistance | 408 Virginia Street, P.O. Box 30 | Paris | TN | 38242 | 366,992.00
Case Management Incorporated/Home Plus Care | 3171 Directors Row | Memphis | TN | 38131 | 369,835.00
Helen Ross McNabb Center/Helen Ross McNabb Supportive Housing | 201 West Springdale Ave | Knoxville | TN | 37917 | 372,670.00
SOUTHEAST TENNESSEE HUMAN RESOURCE AGENCY/Shelter + Care + 44 | 312 Resource Road | Dunlap | TN | 37327 | 392,640.00
Murfreesboro Housing Authority/MHA Supportive Care FY2017 | 415 North Maple Street | Murfreesboro | TN | 37130 | 451,516.00
Catholic Charities, Inc/Genesis Homeless Services | 1325 Jefferson Avenue | Memphis | TN | 38104 | 456,920.00
Metropolitan Inter-Faith Association/MIFA Rapid Rehousing Program | 910 Vance Avenue | Memphis | TN | 38126 | 502,513.00
Promise Development Corporation/Memphis Strong Families Initiative 2017 | 40 S. Main Street, Suite 2560 | Memphis | TN | 38103 | 529,955.00
Urban Housing Solutions, Inc./UHS Homeless recovery Program Renewal FY2017 | 822 Woodland St | Nashville | TN | 37206 | 538,198.00
Kingsport Housing & Redevelopment Authority/2017 SPC Renewal Application | 906 E. Sevier Avenue, P.O. Box 44 | Kingsport | TN | 37662 | 659,734.00
SOUTHEAST TENNESSEE HUMAN RESOURCE AGENCY/Supportive Housing Program | 312 Resource Road | Dunlap | TN | 37327 | 736,378.00
Buffalo Valley, Inc./HNM C | 501 Park Avenue South, P.O. Box 879 | Hohenwald | TN | 38462 | 746,931.00
Promise Development Corporation/Promise Leasing 2017 | 40 S. Main Street, Suite 2560 | Memphis | TN | 38103 | 789,717.00
Metropolitan Development & Housing Agency/MDHA Shelter Plus Care Consolidated Renewal 2017 | 701 South Sixth Street | Nashville | TN | 37206 | 1,624,452.00
The Salvation Army a Georgia Corporation—Waco/Rapid Re-Housig Expansion 1 | 4721 W. Waco Dr | Waco | TX | 76710 | 16,684.00
Nortex Regional Planning Commissiom/Planning Grant | 4309 Jacksboro Hwy, #200 | Wichita Falls | TX | 76302 | 27,500.00
San Antonio AIDS Foundation/San Antonio AIDS Foundation Permanent Supportive Housing | 818 E. Grayson St | San Antonio | TX | 78208 | 32,281.00
The Salvation Army a Georgia Corporation—Waco/Coordinated Entry 2017—New Reallocation | 4721 W. Waco Dr | Waco | TX | 76710 | 43,590.00
Heart of Texas Homeless Coalition/TX-604 CoC Planning Application FY2017 | 300 Austin Ave | Waco | TX | 76701 | 46,379.00
Family Abuse Center, Inc./Permanent Supportive Housing Program | P.O. Box 20395 | Waco | TX | 76702 | 51,367.00
Twin City Mission, Inc./HMIS Expansion 2017 | 2505 South College | Bryan | TX | 77801 | 53,269.00
City of Waco/HEART OF TEXAS HMIS 2017 | 300 Austin Avenue | Waco | TX | 76701 | 62,653.00
Homeless Network of Texas (dba Texas Homeless Network)/TX BoS CoC HMIS Project FY 2017 Expansion | 1713 Fortview Road | Austin | TX | 78704 | 70,000.00
The Salvation Army a Georgia Corporation—Waco/Rapid Re-Housing Program FY 2017 | 4721 W. Waco Dr | Waco | TX | 76710 | 75,929.00
Heart of Texas Region Mental Health And Mental Retardation/COC Rapid Rehousing Grant 1 FY2017 | 110 South 12th Street | Waco | TX | 76703 | 76,478.00
Tarrant County/Housing SPC | 1509B S. University Dr., Ste 276 | Fort Worth | TX | 76107 | 77,436.00
Heart of Texas Region Mental Health And Mental Retardation/COC Housing Navigator Expansion 2017 | 110 South 12th Street | Waco | TX | 76703 | 80,011.00
Community Partnership for the Homeless DBA Green Doors/Renewal SHP-PSH for Families with Disabilities (Glen Oaks Corner) | P.O. Box 685065 | Austin | TX | 78768 | 81,463.00
Family Violence Prevention Services, Inc./FVPS Rapid Re Housing 2017 | 7911 Broadway | San Antonio | TX | 78209 | 82,469.00
Housing Authority of the City of Arlington/2017 SPC At Large Expansion | 501 W. Sanford Street, Suite 20 | Arlington | TX | 76011 | 82,747.00
Family Abuse Center, Inc./Rapid Re-Housing Program | P.O. Box 20395 | Waco | TX | 76702 | 84,143.00
CitySquare/St Jude PSH | 511 N. Akard, Suite 302 | Dallas | TX | 75201 | 86,205.00
Housing Authority of the City of Arlington/2017 SPC Tenant Based | 501 W. Sanford Street, Suite 20 | Arlington | TX | 76011 | 88,008.00
Tarrant County/TBLA 15 Samaritan House | 1509B S. University Dr., Ste 276 | Fort Worth | TX | 76107 | 92,994.00
Heart of Texas Region Mental Health And Mental Retardation/COC Housing Navigator FY2017 | 110 South 12th Street | Waco | TX | 76703 | 93,037.00
SEARCH Homeless Services/Mobile Outreach to Chronic Street Homeless | 2015 Congress | Houston | TX | 77002 | 96,520.00
Tarrant County/Samaritan House Grace Village | 1509B S. University Dr., Ste 276 | Fort Worth | TX | 76107 | 99,621.00
South Alamo Regional Alliance for the Homeless/Coordinated Entry | P.O. Box 7613 | San Antonio | TX | 78207 | 100,000.00
Irving, City of/City of Irving S+C 2017 Renewal Revised | 825 W Irving Blvd | Irving | TX | 75060 | 106,204.00
CITY OF DALLAS/Shelter Plus Care ORC | 1500 MARILLA ST., STE 6BN | DALLAS | TX | 75201 | 106,328.00
CitySquare/OnTRAC Tarrant TH/RRH | 511 N. Akard, Suite 302 | Dallas | TX | 75201 | 106,391.00
Women Opting for More Affordable Housing Now, Inc.(WOMAN, Inc./WOMAN, Inc. Rapid Re-Housing | 1919 Decatur, POB 571898 | Houston | TX | 77257 | 108,744.00
Montrose Counseling Center, Inc. (dba the Montrose Center)/LGBT Domestic Violence Services | 401 Branard Street, 2nd Floor | Houston | TX | 77006 | 112,153.00
Catholic Charities, Diocese of Fort Worth/Master Lease II | 249 West Thornhill Drive | Fort Worth | TX | 76115 | 117,662.00
Catholic Charities, Diocese of Fort Worth/Master Lease | 249 West Thornhill Drive | Fort Worth | TX | 76115 | 117,697.00
Heart of Texas Region Mental Health And Mental Retardation/COC Permanent Supportive Housing Grant 2 FY2017 | 110 South 12th Street | Waco | TX | 76703 | 117,698.00
SafeHaven of Tarrant County/SafeSolutions for Rapid Rehousing | 1100 Hemphill Street, #303 | Fort Worth | TX | 76104 | 120,336.00
Tarrant County/SafeTomorrows | 1509B S. University Dr., Ste 276 | Fort Worth | TX | 76107 | 121,188.00
Crisis Assistance Center, Inc/PSH Dedicated Plus Disabled Program FY2018-19 | 1022 McCall Ave | Conroe | TX | 77301 | 122,047.00
Center Against Sexual and Family Violence/SAFE TH PH-RRH | 580 Giles | El Paso | TX | 79915 | 127,507.00
Housing Authority of the City of El Paso/Veterans Lodge | 5300 E. Paisano | El Paso | TX | 79905 | 130,343.00
Heart of Texas Region Mental Health And Mental Retardation/COC Permanent Supportive Housing Grant 1 FY2017 | 110 South 12th Street | Waco | TX | 76703 | 131,435.00
Family Abuse Center, Inc./Transitional Housing Program | P.O. Box 20395 | Waco | TX | 76702 | 131,816.00
Sabine Valley Regional MHMR Center dba Community Healthcore/Fredonia Homeless and Disabled Women and Children Rapid Rehousing | 107 Woodbine Place | Longview | TX | 75601 | 132,814.00
Tarrant County/TBLA 13 MHMR | 1509B S. University Dr., Ste 276 | Fort Worth | TX | 76107 | 135,557.00
El Paso Coalition for the Homeless/Homeless Management Information System | 6044 Gateway East, Suite 211 | El Paso | TX | 79905 | 136,207.00
Project Vida/Project Vida PSH | 3607 Rivera | El Paso | TX | 79905 | 139,774.00
Family Violence Prevention Services, Inc./La Paloma Transitional Housing 2017 | 7911 Broadway | San Antonio | TX | 78209 | 149,250.00
Ending Community Homelessness Coalition, Inc./HMIS Project 1 | 300 E. Highland Mall Blvd | Austin | TX | 78752 | 150,234.00
Housing Authority of the City of Arlington/2017 SPC At Large Expansion | 501 W. Sanford Street, Suite 20 | Arlington | TX | 76011 | 150,604.00
San Antonio AIDS Foundation/San Antonio AIDS Foundation Permanent Supportive Housing | 818 E. Grayson St | San Antonio | TX | 78208 | 150,682.00
City of Beaumont/2017—City of Beaumont—CoC Renewal Grant | 801 Main Street | Beaumont | TX | 77701 | 151,712.00
San Antonio Metropolitan Ministry Inc./2017 SAMM Rapid ReHousing | 5254 Blanco Rd | San Antonio | TX | 78216 | 151,976.00
El Paso Coalition for the Homeless/CoC Planning Project Application | 6044 Gateway East, Suite 211 | El Paso | TX | 79905 | 153,164.00
The Salvation Army, a Georgia Corporation/Transforming Lives FY2017 | 521 Josephine | Corpus Christi | TX | 78401 | 153,704.00
Housing Authority of the City of El Paso/Siesta Gardens | 5300 E. Paisano | El Paso | TX | 79905 | 154,363.00
Tarrant County Homeless Coalition/CoC Coordinated Assesment System | 1201 E. 13th Street | Fort Worth | TX | 76102 | 155,041.00
El Paso Human Services, Inc./PSH Youth | 1001 Montana | El Paso | TX | 79902 | 156,392.00
Catholic Charities Dallas/New PSH | 1421 W. Mockingbird Lane | Dallas | TX | 75234 | 159,873.00
The Salvation Army—Temple, TX/The Salvation Army—CoC Rapid Rehousing Program | 419 West Ave. G | Temple | TX | 76504 | 163,130.00
Fort Worth Housing Solutions/SPC 6 2017-2018 | 1201 E. 13th Street | Fort Worth | TX | 76102 | 166,295.00
Fort Worth Housing Solutions/CHANGE SPC 8 2017-2018 | 1201 E. 13th Street | Fort Worth | TX | 76102 | 167,395.00
Tarrant County/TBLA 17 MHMR | 1509B S. University Dr., Ste 276 | Fort Worth | TX | 76107 | 167,751.00
Shelter Agencies For Families in East Texas, Inc/SAFE-T RRH 2 | 204 Patrick Street | Mount Pleasant | TX | 75455 | 171,329.00
Ending Community Homelessness Coalition, Inc./TX-503 CoC Planning Application FY2017 | 300 E. Highland Mall Blvd | Austin | TX | 78752 | 171,880.00
CitySquare/OnTRAC Dallas TH/RRH | 511 N. Akard, Suite 302 | Dallas | TX | 75201 | 178,278.00
Neighborhood Development Corp/Homeless to Homes Program | 520 Decatur Ave | Orange | TX | 77630 | 180,221.00
Front Steps, Inc./First Steps | 500 E. 7th Street | Austin | TX | 78701 | 182,500.00
Presbyterian Night Shelter/Mimi Hunter Fitzgerald Safe Haven | 2400 Cypress | Fort Worth | TX | 76102 | 184,526.00
Promise House, Inc./Promise House Rapid Rehousing Program | 224 W. Page Avenue | Dallas | TX | 75208 | 184,897.00
Promise House, Inc./Promise House Wesley Inn | 224 W. Page Avenue | Dallas | TX | 75208 | 191,440.00
Family Violence Prevention Services, Inc./Community Based Counseling and Re-housing 2017 | 7911 Broadway | San Antonio | TX | 78209 | 192,437.00
Tarrant County/TSA Housing First PSH | 1509B S. University Dr., Ste 276 | Fort Worth | TX | 76107 | 196,944.00
Mid-Coast Family Services, Inc./New Hope 2017 | 120 S. Main, Suite 175 | Victoria | TX | 77901 | 197,311.00
SafeHaven of Tarrant County/SafeFoundations for Rapid Rehousing | 1100 Hemphill Street, #303 | Fort Worth | TX | 76104 | 197,892.00
Opportunity Center for the Homeless/Opportunity Center PSH | 1208 Myrtle Avenue | El Paso | TX | 79901 | 200,038.00
El Paso Center for Children, Inc./EPCC Rapid Rehousing | 2200 N. Stevens St | El Paso | TX | 79930 | 200,144.00
Emergence Health Network/EHN Supportive Housing | 1600 Montana | El Paso | TX | 79902 | 206,183.00
The Women's Home/Transitional Housing Two | 607 Westheimer | Houston | TX | 77006 | 207,406.00
Opportunity Center for the Homeless/Opportunity Center Rapid Re Housing | 1208 Myrtle Avenue | El Paso | TX | 79901 | 211,476.00
Tarrant County/TSA Housing First PSH II | 1509B S. University Dr., Ste 276 | Fort Worth | TX | 76107 | 215,240.00
Fort Bend County Women's Center, Inc./FY17 DV Trauma Housing Project SHP PH (renewal) TX0333L6E001604 | 501 Hwy 90 A East | Richmond | TX | 77406 | 218,106.00
Coalition for the Homeless of Houston/Harris County/Coordinated Access 2 FY17 | 2000 Crawford Suite 700 | Houston | TX | 77002 | 220,887.00
La Posada Home, Inc./La Posada Rapid Re Housing | 1020 N. Campbell Street | El Paso | TX | 79902 | 228,153.00
Giving HOPE, Inc./Giving Hope Permanent Supportive Housing FY2017 | 117 West Sycamore, NA | Denton | TX | 76201 | 228,910.00
Twin City Mission, Inc./Rapid Re-Housing 2017 | 2505 South College | Bryan | TX | 77801 | 232,322.00
Caritas of Austin/Spring Terrace | 611 Neches | Austin | TX | 78701 | 233,584.00
Front Steps, Inc./Samaritan | 500 E. 7th Street | Austin | TX | 78701 | 235,685.00
Caritas of Austin/MyHome Too | 611 Neches | Austin | TX | 78701 | 239,137.00
San Antonio Metropolitan Ministry Inc./2017 SAMMinistries Permanent Supportive Housing | 5254 Blanco Rd | San Antonio | TX | 78216 | 240,589.00
CitySquare/OnTRAC Permanent Housing | 511 N. Akard, Suite 302 | Dallas | TX | 75201 | 245,744.00
Abilene Hope Haven, Inc./Hope Housing Services | 801 S. Treadaway Blvd | Abilene | TX | 79602 | 245,927.00
San Antonio Metropolitan Ministry Inc./2017 SAMMinistries Housing First 2 | 5254 Blanco Rd | San Antonio | TX | 78216 | 252,310.00
Fort Bend County Women's Center, Inc./FY 2017 Shelter Plus Care (TX0353L6E001604) | 501 Hwy 90 A East | Richmond | TX | 77406 | 261,157.00
Young Women's Christian Association of Houston/YWCA of Houston Center for Women | 6309 Martin Luther King Jr. Blvd | Houston | TX | 77021 | 271,880.00
Family Gateway, Inc./PSH 18 | 711 S. St. Paul Street | Dallas | TX | 75201 | 275,328.00
Tarrant County Homeless Coalition/CoC HMIS | 1201 E. 13th Street | Fort Worth | TX | 76102 | 282,122.00
YWCA El Paso del Norte Region/YWCA Rapid Re-housing | 201 E. Main, Suite 400, NA | El Paso | TX | 79901 | 284,975.00
WestCare Texas, Inc./Next Step | 1616 Callaghan Street | Laredo | TX | 78040 | 285,379.00
Homeless Network of Texas (dba Texas Homeless Network)/TX BoS CoC HMIS Project FY 2017 | 1713 Fortview Road | Austin | TX | 78704 | 293,018.00
The Salvation Army-Amarillo, Texas/Operation Homestead FY2017 (Renewal) | 400 S. Harrison | Amarillo | TX | 79101 | 293,383.00
Coalition for the Homeless of Houston/Harris County/Coordinated Access FY17 | 2000 Crawford, Suite 700 | Houston | TX | 77002 | 293,833.00
Emergence Health Network/EHN RRH | 1600 Montana | El Paso | TX | 79902 | 298,529.00
The Salvation Army, a Georgia Corporation/Project Bridge Rapid Rehousing FY17 | 521 Josephine | Corpus Christi | TX | 78401 | 299,086.00
Denton County MHMR Center/Connections SHP | 2519 Scripture St., N/A | Denton | TX | 76201 | 300,205.00
Mid-Coast Family Services, Inc./Hope Net 2017 | 120 S. Main, Suite 175 | Victoria | TX | 77901 | 305,207.00
Nortex Regional Planning Commissiom/My Walls | 4309 Jacksboro Hwy, #200 | Wichita Falls | TX | 76302 | 306,206.00
South Alamo Regional Alliance for the Homeless/SARAH 2017 Planning Grant | P.O. Box 7613 | San Antonio | TX | 78207 | 308,257.00
City of Amarillo/Shelter Plus Care | 808 S. Buchanan Street | Amarillo | TX | 79105 | 310,368.00
City of Texarkana/Texarkana Homeless Coalition: Doorways Home | 220 Texas Blvd | Texarkana | TX | 75501 | 316,901.00
Tarrant County/CEC 3CP | 1509B S. University Dr., Ste 276 | Fort Worth | TX | 76107 | 321,089.00
MHMR of Tarrant County/Gateway to Housing | 3840 S. Hulen Street, North Tower | Fort Worth | TX | 76107 | 327,913.00
Housing Authority of the City of Arlington/2017 Arlington Housing Rapid Rehousing | 501 W. Sanford Street, Suite 20 | Arlington | TX | 76011 | 330,000.00
Odessa Links, Inc./Project Hope FY 2017 | 119 West 4th, Suite 201 | Odessa | TX | 79761 | 331,008.00
Metro Dallas Homeless Alliance/Coordinated Assessment System | 2816 Swiss Avenue | Dallas | TX | 75204 | 332,256.00
Harmony House, Inc./Harmony House New Beginnings FY17 | 602 Girard Street | Houston | TX | 77007 | 335,406.00
Tarrant County Homeless Coalition/TX-601 CoC Planning Application FY2017 | 1201 E. 13th Street | Fort Worth | TX | 76102 | 335,910.00
Tarrant County Homeless Coalition/CAS Field Ops Expansion | 1201 E. 13th Street | Fort Worth | TX | 76102 | 336,007.00
Community Enrichment Center, Inc./CEC Rapid Rehousing | 6250 N. E. Loop 820 | North Richland Hills | TX | 76180 | 337,206.00
Lubbock Open Door/Lubbock Open Door PSH | 1918 13th St | Lubbock | TX | 79401 | 342,305.00
Housing Crisis Center, Inc./Permanent Housing (Family) | 4210 Junius Street | Dallas | TX | 75246 | 344,156.00
Harris County/Healthcare for the Homeless Veterans Permanent Supportive Housing | 8410 Lantern Point Dr | Houston | TX | 77054 | 354,385.00
Thrive Youth Center, Inc./Thrive Rapid Rehousing Program Renewal 2017 | 1 Haven for Hope Way | San Antonio | TX | 78207 | 356,960.00
Tarrant County/Salvation Army Veterans PSH Program | 1509B S. University Dr., Ste 276 | Fort Worth | TX | 76107 | 359,600.00
Caritas of Austin/MyHome | 611 Neches | Austin | TX | 78701 | 365,601.00
Northwest Assistance Ministries/NAM Permanent SHP | 15555 Kuykendahl Road | Houston | TX | 77090 | 365,794.00
The Salvation Army, A Georgia Corporation/The Salvation Army—Harbor Light PSH FY17 | 1500 Austin Street | Houston | TX | 77002 | 366,398.00
Young Women's Christian Association of Houston/Choices Permanent Supportive Housing | 6309 Martin Luther King Jr. Blvd | Houston | TX | 77021 | 366,784.00
The Salvation Army/The Salvation Army Stepping Forward Transitional Program | 521 W. Elmira | San Antonio | TX | 78212 | 373,059.00
Housing Crisis Center, Inc./Permanent Housing Services | 4210 Junius Street | Dallas | TX | 75246 | 373,771.00
Hope's Door Inc./TH-RRH Project 2017 | 860 F Ave., Suite 100 | Plano | TX | 75074 | 375,596.00
City of Longview/City of Longview CoC 2017 Renewal | P.O. Box 1952 | Longview | TX | 75606 | 380,518.00
Harmony House, Inc./Harmony House New Beginnings FY17 Expansion | 602 Girard Street | Houston | TX | 77007 | 384,886.00
Austin Travis County Mental Health Mental Retardation Center DBA Integral Care/Fresh Start | 1430 Collier Street | Austin | TX | 78704 | 398,052.00
Presbyterian Night Shelter/Housing Solutions Combined | 2400 Cypress | Fort Worth | TX | 76102 | 401,711.00
Youth and Family Alliance dba LifeWorks/Housing Options for Youth-renewal | 3700 South 1st Street | Austin | TX | 78704 | 402,252.00
The Salvation Army/Scattered Sites Permanent Supportive Housing | 521 W. Elmira | San Antonio | TX | 78212 | 403,110.00
Houston Area Women's Center/FY2017 Housing Advocacy Renewal | 1010 Waugh Dr | Houston | TX | 77019 | 403,793.00
Metro Dallas Homeless Alliance/COC HMIS | 2816 Swiss Avenue | Dallas | TX | 75204 | 409,588.00
Metrocare Services/Safe Haven | 1345 River Bend Dr | Dallas | TX | 75247 | 420,901.00
Star of Hope Mission/Star of Hope Mission New Haven II | 4848 Loop Central, Suite 500 | Houston | TX | 77081 | 430,345.00
San Antonio Metropolitan Ministry Inc./2017 SAMMinistries Housing First 3 | 5254 Blanco Rd | San Antonio | TX | 78216 | 431,605.00
CITY OF DALLAS/My Residence Program | 1500 MARILLA ST., STE 6BN | DALLAS | TX | 75201 | 435,627.00
Families In Crisis, Inc./2017—FIC-RRH-KILLEEN | 1305 East Rancier Avenue | Killeen | TX | 76541 | 436,324.00
Center for Transforming Lives/CTL Rapid Rehousing Renewal 1603 | 512 W. 4th St | Fort Worth | TX | 76102 | 451,804.00
SEARCH Homeless Services/Case Management for Permanent Supportive Housing | 2015 Congress | Houston | TX | 77002 | 451,841.00
Housing Crisis Center, Inc./Veterans Housing Partnership | 4210 Junius Street | Dallas | TX | 75246 | 459,062.00
Family Endeavors, Inc./Family Endeavors' Fairwweather Family Lodge | 535 Bandera Road | San Antonio | TX | 78228 | 461,662.00
Haven for Hope of Bexar County/HMIS 2017 | 1 Haven for Hope Way | San Antonio | TX | 78207 | 463,475.00
Houston HELP, Inc/Corder Place Apartments | 2211 Norfolk, Suite 740 | Houston | TX | 77098 | 468,497.00
United States Veterans Initiative/Permanent Housing for Chronically Homeless | 4640 Main Street | Houston | TX | 77002 | 474,828.00
Recovery Resource Council/Project New Start | 2700 Airport Freeway | Fort Worth | TX | 76111 | 479,523.00
Santa Maria Hostel, Inc./The Hope Housing Project | 2605 Parker Road | Houston | TX | 77093 | 487,280.00
San Antonio Metropolitan Ministry Inc./2017 SAMMinistries Transitional Housing Program | 5254 Blanco Rd | San Antonio | TX | 78216 | 488,413.00
Metro Dallas Homeless Alliance/CoC Planning Project Application FY2017 | 2816 Swiss Avenue | Dallas | TX | 75204 | 491,693.00
Temenos Community Development Corporation/FY17 Temenos Place Apartments III (TX0425L6E001601) | 2019 Crawford | Houston | TX | 77002 | 495,590.00
United States Veterans Initiative/Permanent Housing for Disabled Veterans | 4640 Main Street | Houston | TX | 77002 | 509,440.00
The Salvation Army, A Georgia Corporation/The Salvation Army—Mission Advance FY17 | 1500 Austin Street | Houston | TX | 77002 | 523,185.00
CitySquare/Destination Home 40 | 511 N. Akard, Suite 302 | Dallas | TX | 75201 | 523,553.00
The Salvation Army, A Georgia Corporation/The Salvation Army Social Services (YA) FY17 | 1500 Austin Street | Houston | TX | 77002 | 538,287.00
Tarrant County/TSA SIMON PSH | 1509B S. University Dr., Ste 276 | Fort Worth | TX | 76107 | 540,651.00
The Gulf Coast Center/Gulf Coast Center Permanent Housing FY17 | 10000 Emmett F. Lowry, Ste. 1220 | Texas City | TX | 77591 | 557,775.00
HCDVCC/Domestic Violence RRH 2016 | 2990 Richmond Ave., Suite 550 | Houston | TX | 77098 | 558,268.00
AIDS Foundation Houston, Inc./T.E.X.T M.S.G | 6260 Westpark Dr., Suite 100 | Houston | TX | 77057 | 568,542.00
The Salvation Army, A Georgia Corporation/Passages II Rapid Rehousing Collaboration | 501 E. 8th Street | Austin | TX | 78701 | 580,886.00
American GI Forum National Veterans Outreach Program, Inc./AGIF-NVOP FY 2017 Rapid Rehousing II | 611 N. Flores, Suite 200 | San Antonio | TX | 78205 | 593,404.00
Star of Hope Mission/Star of Hope Mission New Haven | 4848 Loop Central, Suite 500 | Houston | TX | 77081 | 606,398.00
The SAFE Alliance/SAFE Supportive Housing Program | 1515 Grove Boulevard | Austin | TX | 78741 | 624,678.00
SEARCH Homeless Services/Supportive Services at Temenos II | 2015 Congress | Houston | TX | 77002 | 631,315.00
Housing Authority of the City of Austin/HACA FY2017 Integral Care and ASA Consolidated | 1124 South, IH-35 | Austin | TX | 78704 | 642,690.00
Coalition for the Homeless of Houston/Harris County/HMIS Renewal FY17 | 2000 Crawford, Suite 700 | Houston | TX | 77002 | 646,035.00
AIDS Foundation Houston, Inc./A Friendly Haven | 6260 Westpark Dr., Suite 100 | Houston | TX | 77057 | 648,021.00
Temenos Community Development Corporation/FY17 Knowles-Temenos Place Apartments (TX0275L6E001607) | 2019 Crawford | Houston | TX | 77002 | 670,371.00
Housing Crisis Center, Inc./Home Again | 4210 Junius Street | Dallas | TX | 75246 | 687,100.00
Houston Area Community Services, Inc./START | 2150 W 18th St., Suite 300 | Houston | TX | 77008 | 697,742.00
CITY OF DALLAS/Gateway to Permanent Supportive Housing | 1500 MARILLA ST., STE 6BN | DALLAS | TX | 75201 | 718,103.00
Caritas of Austin/Terraza | 611 Neches | Austin | TX | 78701 | 720,193.00
AIDS Foundation Houston, Inc./First Responders | 6260 Westpark Dr., Suite 100 | Houston | TX | 77057 | 753,662.00
American GI Forum National Veterans Outreach Program, Inc./AGIF-NVOP FY 2017 Permanent Housing | 611 N. Flores, Suite 200 | San Antonio | TX | 78205 | 762,360.00
Harris County/Northline SRO | 8410 Lantern Point Dr | Houston | TX | 77054 | 804,514.00
Fort Bend County Women's Center, Inc./FY17 Aftercare Expansion Project (SHP RRH) renewal TX0166L6E001609 | 501 Hwy 90 A East | Richmond | TX | 77406 | 816,590.00
CitySquare/Destination Home 60 | 511 N. Akard, Suite 302 | Dallas | TX | 75201 | 835,319.00
Housing Authority of the City of San Antonio/SAHA 2017 Renewal SAHA PSH 86 | 818 S. Flores | San Antonio | TX | 78204 | 842,022.00
The Family Place/2017 Renewal Application | P.O. Box 7999 | Dallas | TX | 75209 | 849,941.00
SEARCH Homeless Services/Harrisburg Case Management Services | 2015 Congress | Houston | TX | 77002 | 858,807.00
PWA Coalition of Dallas, Inc. d/b/a AIDS Services of Dallas/Hillcrest House Combined | 400 South Zang Boulevard, Suite 210 | Dallas | TX | 75208 | 902,726.00
The Housing Authority of Travis County/Upward | 502 E. Highland Mall Blvd., Ste. 106 B | Austin | TX | 78752 | 906,807.00
Presbyterian Night Shelter/Housing Solutions Combined | 2400 Cypress | Fort Worth | TX | 76102 | 931,465.00
Change HAPPENS!/Rescue In Motion Permanent Housing Program 2.0 | 3353 Elgin Street | Houston | TX | 77004 | 950,274.00
Coalition for the Homeless of Houston/Harris County/CoC Planning Funds FY2017 | 2000 Crawford, Suite 700 | Houston | TX | 77002 | 968,703.00
The Bridge Over Troubled Waters, Inc./The Bridge Permanent Housing Project for Women with Disabilities | 3811 Allen Genoa | Pasadena | TX | 77504 | 979,139.00
SEARCH Homeless Services/SEARCH Housing Plus | 2015 Congress | Houston | TX | 77002 | 998,673.00
Tarrant County/TBLA 114 Tarrant County | 1509B S. University Dr., Ste 276 | Fort Worth | TX | 76107 | 1,053,959.00
HCDVCC/Domestic Violence RRH | 2990 Richmond Ave., Suite 550 | Houston | TX | 77098 | 1,061,368.00
Homeless Network of Texas (dba Texas Homeless Network)/TX-607 CoC Planning Project FY2017 | 1713 Fortview Road | Austin | TX | 78704 | 1,073,277.00
Houston Area Community Services, Inc./ACE | 2150 W 18th St., Suite 300 | Houston | TX | 77008 | 1,141,497.00
Bexar County Board of Trustees for Mental Health Mental Retardation Services d/b/a The Center for Health Care Services/Permanent Supportive Housing | 6800 Park Ten Blvd., Ste. 200-S | San Antonio | TX | 78213 | 1,160,876.00
San Antonio Metropolitan Ministry Inc./2017 SAMMinistries Housing First | 5254 Blanco Rd | San Antonio | TX | 78216 | 1,178,283.00
Catholic Charities of the Archdiocese Galveston-Houston/The Lotus Project | 2900 Louisiana Street | Houston | TX | 77006 | 1,197,729.00
Metrocare Services/Efficiency Apartment Supportive Housing (EASH) | 1345 River Bend Dr | Dallas | TX | 75247 | 1,201,744.00
Houston Housing Authority/FY2017—TAY Renewal | 2640 Fountainview, Suite 400 | Houston | TX | 77057 | 1,297,916.00
Fort Worth Housing Solutions/SPC 2 2017-2018 | 1201 E. 13th Street | Fort Worth | TX | 76102 | 1,311,624.00
CITY OF DALLAS/Shelter Plus Care | 1500 MARILLA ST., STE 6BN | DALLAS | TX | 75201 | 1,528,930.00
Fort Worth Housing Solutions/SPC 1 2017-2018 | 1201 E. 13th Street | Fort Worth | TX | 76102 | 1,697,477.00
CitySquare/Destination Home | 511 N. Akard, Suite 302 | Dallas | TX | 75201 | 1,706,085.00
Metrocare Services/The Cottages | 1345 River Bend Dr | Dallas | TX | 75247 | 2,086,504.00
Harmony House, Inc./Harmony House Permanent Solutions FY17 | 602 Girard Street | Houston | TX | 77007 | 2,275,352.00
Houston Area Community Services, Inc./YEAH! | 2150 W 18th St., Suite 300 | Houston | TX | 77008 | 2,562,716.00
Houston Housing Authority/FY2017—RRH Renewal | 2640 Fountainview, Suite 400 | Houston | TX | 77057 | 2,610,884.00
The Road Home/TRH Scattered Site Properties FY2017 | 210 South Rio Grande St | Salt Lake City | UT | 84101 | 17,100.00
Your Community Connection of Ogden/Northern Utah/Rapid Rehousing Youth 2017 | 2261 Adams Avenue | Ogden | UT | 84401 | 25,052.00
Weber Housing Authority/Shelter Plus Care | 237 26th Street, #E220 | Ogden | UT | 84401 | 32,812.00
Utah Department of Workforce Services/DWS Mountainland HMIS FY2017 | 1385 South State Street, 4th Floor | Salt Lake City | UT | 84115 | 36,000.00
Young Womens Christian Assn of Utah/YWCA TH Residential Self-Sufficiency FY2017 | 322 E 300 S | Salt Lake City | UT | 84111 | 38,733.00
United Way of Central and Southern Utah/UT504 Planning Project FY2017 | 148 North 100 West | Provo | UT | 84601 | 47,292.00
Housing Authority of Utah County/PSH Leasing 2017 Expansion | 240 E Center Street | Provo | UT | 84606 | 48,591.00
Provo City Housing Authority/PH—RENTAL ASSISTANCE RENEWAL 2017 | 650 West 100 North | Provo | UT | 84601 | 49,033.00
Golden Spike Treatment Ranch, Inc/GSO REAP 3.0 | 869 South 170 East | Provo | UT | 84606 | 50,236.00
St. George Housing Authority/SGHA Housing Matters | 975 North 1725 West, #101 | St. George | UT | 84770 | 57,105.00
St. Anne's Center/Rapid Rehousing for Youth | 269 West 3300 South | Ogden | UT | 84401 | 60,312.00
Utah Department of Workforce Services/UT-503 Planning Project FY2017 | 1385 South State Street, 4th Floor | Salt Lake City | UT | 84115 | 62,629.00
Uintah Basin Association of Governments/UBAOG Rapid Re-Housing | 330 East 100 South | Roosevelt | UT | 84066 | 63,215.00
Family Connection Center/FCC Rapid Rehousing | 1360 East 1450 South | Clearfield | UT | 84015 | 66,464.00
Your Community Connection of Ogden/Northern Utah/RRH Singles 2017 | 2261 Adams Avenue | Ogden | UT | 84401 | 68,431.00
Community Action Services and Food Bank, Inc./SSO For Homeless Families Renewal 2017 | 815 South Freedom Blvd., Suite 100 | Provo | UT | 84601 | 69,001.00
Housing Assistance Management Enterprise/HAME Sunrise Metro FY2017 | 1776 South West Temple Street | Salt Lake City | UT | 84115 | 69,896.00
Community Action Services and Food Bank, Inc./RRH For Homeless Persons Renewal 2017 | 815 South Freedom Blvd., Suite 100 | Provo | UT | 84601 | 75,784.00
Your Community Connection of Ogden/Northern Utah/Rapid Rehousing 2017 | 2261 Adams Avenue | Ogden | UT | 84401 | 78,914.00
Housing Authority of the County of Salt Lake/HACSL SPR Sponsor Based w/TRH FY2017 | 3595 South Main Street | Salt Lake City | UT | 84115 | 79,811.00
Housing Authority of Utah County/PSH Leasing 2017 | 240 E Center Street | Provo | UT | 84606 | 79,937.00
Utah Department of Workforce Services/DWS Balance of State HMIS FY2017 | 1385 South State Street, 4th Floor | Salt Lake City | UT | 84115 | 80,640.00
Davis Behavioral Health Inc./Davis Permanent Supportive Housing | 934 South Main Street, #6 | Layton | UT | 84041 | 81,047.00
Five County Association of Governments/Five County/Dove Center/Canyon Creek RRH Renewal | 1070 W 1600 S, Bldg B | Saint George | UT | 84770 | 82,164.00
St. Anne's Center/Rapid Re-Housing | 269 West 3300 South | Ogden | UT | 84401 | 85,460.00
Housing Authority of the County of Salt Lake/HACSL SPK Kelly Benson FY2017 | 3595 South Main Street | Salt Lake City | UT | 84115 | 91,204.00
Housing Authority of Salt Lake City/HASLC Shelter Plus Care V FY2017 | 1776 S West Temple | Salt Lake City | UT | 84115 | 92,883.00
Five County Association of Governments/Five County/Dove/Canyon Creek RRH Expansion Renewal | 1070 W 1600 S, Bldg B | Saint George | UT | 84770 | 93,591.00
First Step House/FSH Rapid Rehousing Program II FY2017 | 411 North Grant St | Salt Lake City | UT | 84116 | 101,901.00
The Road Home/TRH RRH Expansion FY2017 | 210 South Rio Grande St | Salt Lake City | UT | 84101 | 109,648.00
First Step House/FSH Rapid Rehousing Program FY2017 | 411 North Grant St | Salt Lake City | UT | 84116 | 113,446.00
Friends of Switchpoint/Switchpoint Rapid Rehousing 2017 | 948 N 1300 W | Saint George | UT | 84770 | 122,164.00
The Road Home/TRH RRH for Families FY2017 | 210 South Rio Grande St | Salt Lake City | UT | 84101 | 126,985.00
Bear River Association of Governments/BRAG Rapid Re-housing Program | 170 N Main | Logan | UT | 84321 | 133,556.00
The Road Home/TRH PSH Expansion FY2017 | 210 South Rio Grande St. | Salt Lake City | UT | 84101 | 149,208.00
Tooele County Housing Authoriity/Tooele County PSH 2017 | 66 West Vine Street | Tooele | UT | 84074 | 158,425.00
Valley Mental Health, Inc/VBHHFFY2017 | P.O. Box 572070 | Murray | UT | 84157 | 161,810.00
Family Connection Center/Expansion FCC Rapid Re housing 2017 | 1360 East 1450 South | Clearfield | UT | 84015 | 183,666.00
Weber Housing Authority/Supportive Housing Program | 237 26th Street, #E220 | Ogden | UT | 84401 | 188,357.00
Housing Authority of the County of Salt Lake/HACSL SPG Grace Mary Manor FY2017 | 3595 South Main Street | Salt Lake City | UT | 84115 | 191,826.00
Housing Authority of the City of Ogden/Shelter Plus Care | 1100 Grant Avenue | Ogden | UT | 84404 | 192,498.00
Salt Lake County Government/UT-500 CoC Planning Application FY2017 | 2001 South State Street, Suite N4-930, P.O. Box 144575 | Salt Lake City | UT | 84114 | 212,464.00
Housing Authority of the County of Salt Lake/HACSL SPBB Bud Bailey FY2017 | 3595 South Main Street | Salt Lake City | UT | 84115 | 213,269.00
Utah Department of Workforce Services/DWS Salt Lake HMIS FY2017 | 1385 South State Street, 4th Floor | Salt Lake City | UT | 84115 | 223,151.00
Housing Authority of Salt Lake City/HASLC Shelter Plus Care II FY2017 | 1776 S West Temple | Salt Lake City | UT | 84115 | 226,094.00
Housing Authority of Salt Lake City/HASLC Shelter Plus Care IV FY2017 | 1776 S West Temple | Salt Lake City | UT | 84115 | 230,954.00
Volunteers of America, Utah/VOA Rapid Rehousing for Youth FY2017 | 435 West Bearcat Drive | Salt Lake City | UT | 84115 | 257,054.00
Volunteers of America, Utah/VOA Supportive Housing for Youth FY2017 | 435 West Bearcat Drive | Salt Lake City | UT | 84115 | 290,967.00
Provo City Housing Authority/PH—RENTAL ASSISTANCE RENEWAL 2017 | 650 West 100 North | Provo | UT | 84601 | 309,394.00
Housing Authority of Utah County/HAUC Renewal 2017 | 240 E Center Street | Provo | UT | 84606 | 341,044.00
The Road Home/TRH CHSH Leasing FY2017 | 210 South Rio Grande St | Salt Lake City | UT | 84101 | 469,022.00
Housing Authority of the County of Salt Lake/HACSL SP3 New Chronic FY2017 | 3595 South Main Street | Salt Lake City | UT | 84115 | 520,681.00
Housing Authority of the County of Salt Lake/HACSL SP Renewal FY2017 | 3595 South Main Street | Salt Lake City | UT | 84115 | 1,024,483.00
Housing Authority of the County of Salt Lake/HACSL COCR Reallocated FY2017 | 3595 South Main Street | Salt Lake City | UT | 84115 | 1,045,828.00
The Road Home/TRH PSH Rental Assistance FY2017 | 210 South Rio Grande St | Salt Lake City | UT | 84101 | 1,300,113.00
Virginia Beach Community Development Corporation/New Haven | 2400 Potters Road | Virginia Beach | VA | 23454 | 5,210.00
Prince William County Department of Social Services/PWA PSH HOUSE I | 7987 Ashton Avenue | Manassas | VA | 20109 | 8,788.00
Thomas Jefferson Area Coalition for the Homeless/VA-504 CoC Planning Application FY2017 | P.O. Box 34 | Charlottesville | VA | 22902 | 10,773.00
George Washington Regional Commission/VA-514 CoC Planning Application FY2017 | 406 Princess Anne St | Fredericksburg | VA | 22401 | 11,273.00
Miriam's House, Inc./CoC Planning | 409 Magnolia Street | Lynchburg | VA | 24503 | 12,765.00
Northwestern Community Services/NWCS—PSH Program for Chronically Homeless 2 | 209 West Criser Road, Suite 300 | Front Royal | VA | 22630 | 17,869.00
Northern Shenandoah Valley Regional Commission/CoC Planning Project Application FY2017 | 400E Kendrick Lane | Front Royal | VA | 22630 | 19,065.00
Miriam's House, Inc./Miriam's House HMIS | 409 Magnolia Street | Lynchburg | VA | 24503 | 21,357.00
Miriam's House, Inc./Magnolia Street PSH Bonus | 409 Magnolia Street | Lynchburg | VA | 24503 | 21,686.00
City of Alexandria, a municipal corporation of Virginia/VA-603 CoC Planning Application FY2017 | 2525 Mt. Vernon Ave | Alexandria | VA | 22301 | 23,540.00
Micah Ecumenical Ministries/FY17 Journey Supportive Housing (FUSE Expansion) | P.O. Box 3277 | Fredericksburg | VA | 22402 | 23,607.00
County of Loudoun/Permanent Supportive Housing Program | 102 Heritage Way NE, P.O. Box 7400 | Leesburg | VA | 20177 | 25,152.00
People Incorporated of Virginia/Bristol Permanent Supportive Housing Renewal FY17 | 1173 West Main Street | Abingdon | VA | 24210 | 26,417.00
Miriam's House, Inc./Community First Rapid Re-Housing | 409 Magnolia Street | Lynchburg | VA | 24503 | 30,936.00
Samaritan House, Inc./Rapid Re-Housing 1 | 2620 Southern Blvd | Virginia Beach | VA | 23452 | 33,887.00
Portsmouth Area Resources Coalition, Inc./2017 CoC Planning Project | P.O. Box 1183 | Portsmouth | VA | 23705 | 35,094.00
Prince William County Department of Social Services/PWA-HMIS FY 17 | 7987 Ashton Avenue | Manassas | VA | 20109 | 36,230.00
City of Virginia Beach/FY2017 COV Planning Grant | 2401 Courthouse Drive | Virginia Beach | VA | 23456 | 40,181.00
South River Development Corporation/Canterbury Commons Staunton | 1700 New Hope Road, P.O. Box 1138 | Waynesboro | VA | 22980 | 41,477.00
City of Roanoke/CoC Planning Project | 215 Church Avenue | Roanoke | VA | 24011 | 41,786.00
People Incorporated of Virginia/FHN RRH Renewal FY17 | 1173 West Main Street | Abingdon | VA | 24210 | 46,510.00
Prince William County Department of Social Services/VA 604 CoC Planning Project FY 2017 | 7987 Ashton Avenue | Manassas | VA | 20109 | 48,725.00
City of Roanoke/Coordinated Assessment System | 215 Church Avenue | Roanoke | VA | 24011 | 49,070.00
Portsmouth Christian Outreach Ministries/Chronic Homeless Resource and Opportunity Network (CHRON) | 910 Seventh St | Portsmouth | VA | 23704 | 49,348.00
Homeward/HCIS Richmond FY2017 | 1125 Commerce Road | Richmond | VA | 23224 | 50,000.00
The Planning Council/FY2017 SVHC ShelterLink | 5365 Robin Hood Road, Ste 700 | Norfolk | VA | 23513 | 51,544.00
Portsmouth Area Resources Coalition, Inc./Families Succeed with Housing (FaSH) | P.O. Box 1183 | Portsmouth | VA | 23705 | 53,071.00
Pathway Homes, Inc./1991 Pathway Homes SHP Expansion | 10201 Fairfax Blvd., Suite 200 | Fairfax | VA | 22030 | 53,810.00
Helping Overcome Poverty's Existence, Inc./FY 17 HOPE PSH | 680 W. Main Street, P.O. Box 743 | Wytheville | VA | 24382 | 54,404.00
George Washington Regional Commission/VA-514 CoC HMIS Renewal FY2017 | 406 Princess Anne St | Fredericksburg | VA | 22401 | 55,125.00
The Planning Council/FY2017 GVPHC ShelterLink | 5365 Robin Hood Road, Ste 700 | Norfolk | VA | 23513 | 55,172.00
City of Alexandria, a municipal corporation of Virginia/HMIS Management Analyst | 2525 Mt. Vernon Ave | Alexandria | VA | 22301 | 55,225.00
New Hope Housing, Inc./Just Home | 8407-E Richmond Highway | Alexandria | VA | 22309 | 55,229.00
Roanoke Valley Student Trouble Center, Inc. d/b/a Trust House/Trust House Case Management | 404 Elm Avenue, SW | Roanoke | VA | 24016 | 56,476.00
Micah Ecumenical Ministries/FY17-Journey Supportive Housing (FUSE) | P.O. Box 3277 | Fredericksburg | VA | 22402 | 57,965.00
Miriam's House, Inc./Magnolia Street Supportive Housing | 409 Magnolia Street | Lynchburg | VA | 24503 | 58,414.00
City of Hampton Department of Human Services/FY2017 GVPHC Planning Project | 1320 Lasalle Ave | Hampton | VA | 23369 | 58,754.00
Judeo-Christian Outreach Center/JCOC Affordable Housing | 1053 Virginia Beach Blvd | Virginia Beach | VA | 23451 | 59,410.00
The Planning Council/FY2017 VB HMIS | 5365 Robin Hood Road, Ste 700 | Norfolk | VA | 23513 | 62,721.00
LINK OF HAMPTON ROADS, INC./CANLINK IV | 10413 WARWICK BLVD | NEWPORT NEWS | VA | 23601 | 63,705.00
Arlington Street People's Assistance Network,INC./Homeward | 2020A N 14th Street | ARLINGTON | VA | 22201 | 64,163.00
City of Hampton Department of Human Services/Regional Housing Crisis Hotline FY17 Coordinated Assessment | 1320 Lasalle Ave | Hampton | VA | 23369 | 65,682.00
New Hope Housing, Inc./Milestones | 8407-E Richmond Highway | Alexandria | VA | 22309 | 65,734.00
Helping Overcome Poverty's Existence, Inc./FY 17 HOPE RRH | 680 W. Main Street, P.O. Box 743 | Wytheville | VA | 24382 | 67,131.00
Region Ten Community Services Board/Positive Places PSH 2017 | 500 Old Lynchburg Road | Charlottesville | VA | 22903 | 69,408.00
The Genieve Shelter/The Genieve Shelter Housing Program | 157 N. Main Street (2nd Floor) | Suffolk | VA | 23434 | 70,288.00
Virginia Beach Community Development Corporation/Veterans First Permanent Supportive Housing | 2400 Potters Road | Virginia Beach | VA | 23454 | 71,521.00
Arlington County Government/Arlington County CoC Planning Grant 2017 | 2100 Washington Blvd., Third Floor | Arlington | VA | 22204 | 74,000.00
Portsmouth Christian Outreach Ministries/Transitional Housing | 910 Seventh St | Portsmouth | VA | 23704 | 75,533.00
Virginia Supportive Housing/Housing First 8 Renewal FY 2017 | 8002 Discovery Drive, Suite 201 | Henrico | VA | 23229 | 76,284.00
Samaritan House, Inc./Rapid Re-Housing 5 | 2620 Southern Blvd | Virginia Beach | VA | 23452 | 79,353.00
LGBT Life Center/CHAP VB Expansion 2017 | 222 West 21st Street, Suite F-308 | Norfolk | VA | 23517 | 81,250.00
Roanoke Valley Student Trouble Center, Inc. d/b/a Trust House/Heroes Haven PSH for CH Vets | 404 Elm Avenue, SW | Roanoke | VA | 24016 | 81,303.00
Portsmouth Area Resources Coalition, Inc./Step Up To Responsibility (SUTR) | P.O. Box 1183 | Portsmouth | VA | 23705 | 81,346.00
Volunteers of America Chesapeake, Inc./Arlington Master Lease PSH Program | 7901 Annapolis Road | Lanham | VA | 20706 | 83,394.00
Harrisonburg Redevelopment and Housing Authority/HMIS Renewal Project FY2017 | 286 Kelley Street | Harrisonburg | VA | 22802 | 84,072.00
Samaritan House, Inc./Transitional Housing Program (HUD4) | 2620 Southern Blvd | Virginia Beach | VA | 23452 | 85,150.00
Sheltered Homes of Alexandria/Canterbury & Mayflower Permanent Housing | 720 North Saint Asaph Street | Alexandria | VA | 22314 | 86,441.00
ForKids,inc./Bridge Rapid Re-housing FY17 | 4200 Colley Avenue, P.O. Box 6044 | Norfolk | VA | 23508 | 93,080.00
New Hope Housing, Inc./Just Homes-Fairfax | 8407-E Richmond Highway | Alexandria | VA | 22309 | 93,201.00
Council of Community Services/HMIS | 502 Campbell Avenue, SW | Roanoke | VA | 24016 | 96,060.00
Homeward/Coordinated Entry FY2017 | 1125 Commerce Road | Richmond | VA | 23224 | 97,500.00
Sheltered Homes of Alexandria/Columbus Street Permanent Housing Program | 720 North Saint Asaph Street | Alexandria | VA | 22314 | 97,800.00
Judeo-Christian Outreach Center/JCOC Rapid Rehousing | 1053 Virginia Beach Blvd | Virginia Beach | VA | 23451 | 101,524.00
Commonwealth of Virginia/BoS Planning FY2017 | 600 East Main Street, Suite 300 | Richmond | VA | 23219 | 103,063.00
Virginia Supportive Housing/Portsmouth Housing First 1 Renewal FY 2017 | 8002 Discovery Drive, Suite 201 | Henrico | VA | 23229 | 103,088.00
St. Columba Ecumenical Ministries, Inc./Next Step Transitional Housing | 2114 Lafayette Blvd | Norfolk | VA | 23509 | 103,832.00
ForKids,inc./Elizabeth Place PSH FY17 | 4200 Colley Avenue, P.O. Box 6044 | Norfolk | VA | 23508 | 106,283.00
Samaritan House, Inc./Rapid Re-Housing 2 | 2620 Southern Blvd | Virginia Beach | VA | 23452 | 109,848.00
The Planning Council/FY2017 SVHC Planning | 5365 Robin Hood Road, Ste 700 | Norfolk | VA | 23513 | 113,700.00
People Incorporated of Virginia/Foothills Housing Network PSH Renewal FY17 | 1173 West Main Street | Abingdon | VA | 24210 | 114,404.00
Newport News Redevelopment and Housing Authority/Shelter Plus Care | 227 27th Street | Newport News | VA | 23607 | 115,630.00
Community Alternatives Management Group, Inc./CAMG 10 FY17 | 863 Glenrock Road | Norfolk | VA | 23502 | 118,010.00
Commonwealth Catholic Charities/Crater PSH | 1601 Rolling Hills Drive | Richmond | VA | 23229 | 121,484.00
St. Joseph's Villa/FY17 HRC—Expansion Grant CACH—St. Joseph's Villa | 8000 Brook Road | Richmond | VA | 23227 | 128,204.00
Fairfax County Office to Prevent and End Homelessness/VA-601 CoC Planning Application FY2017 | 12000 Government Center Parkway, Suite 333 | Fairfax | VA | 22035 | 130,000.00
Virginia Supportive Housing/Portsmouth Housing First 3 Renewal FY 2017 | 8002 Discovery Drive, Suite 201 | Henrico | VA | 23229 | 133,647.00
LGBT Life Center/CHAP Virginia Beach Renewal FY 2017 | 222 West 21st Street, Suite F-308 | Norfolk | VA | 23517 | 135,148.00
Region Ten Community Services Board/Supportive Housing Program PSH 2017 | 500 Old Lynchburg Road | Charlottesville | VA | 22903 | 135,811.00
Arlington Street People's Assistance Network,Inc./Westover | 2020A N 14th Street | ARLINGTON | VA | 22201 | 137,256.00
City of Roanoke/City of Roanoke Homeless Assistance Team | 215 Church Avenue | Roanoke | VA | 24011 | 140,422.00
Transitions Family Violence Services/Next Step to Home | P.O. Box 561 | Hampton | VA | 23669 | 140,670.00
Samaritan House, Inc./Rapid Re-Housing 3 | 2620 Southern Blvd | Virginia Beach | VA | 23452 | 140,812.00
Commonwealth of Virginia/HMIS FY2017 | 600 East Main Street, Suite 300 | Richmond | VA | 23219 | 141,301.00
Young Women's Christian Association of South Hampton Roads/Women In Crisis Scattered Site Transitional Housing 2017 | 500 East Plume, Suite 700 | Norfolk | VA | 23510 | 141,501.00
Homeward/CoC Planning FY2017 | 1125 Commerce Road | Richmond | VA | 23224 | 141,585.00
Portsmouth Area Resources Coalition, Inc./Single Adult Barrier Reduction Exchange 2(SABRE 2) | P.O. Box 1183 | Portsmouth | VA | 23705 | 145,133.00
ForKids,inc./Regional Housing Crisis Hotline Coordinated Assessment FY17 | 4200 Colley Avenue, P.O. Box 6044 | Norfolk | VA | 23508 | 147,673.00
Alexandria Community Services Board/Notabene & Family Permanent Housing | 2525 Mt. Vernon Ave | Alexandria | VA | 22301 | 147,792.00
Prince William County Department of Social Services/PASS—Permanent Supportive Housing | 7987 Ashton Avenue | Manassas | VA | 20109 | 149,396.00
Christian Relief Services Charities, Inc./1991 CRSC/Pathway Homes SHP | 8301 Richmond Highway | Alexandria | VA | 22309 | 151,181.00
Region Ten Community Services Board/Shelter + Care PSH 2017 | 500 Old Lynchburg Road | Charlottesville | VA | 22903 | 151,483.00
County of Loudoun/Permanent Supportive Housing Reallocation Project | 102 Heritage Way NE, P.O. Box 7400 | Leesburg | VA | 20177 | 152,600.00
Prince William County Department of Social Services/PWA—Leasing | 7987 Ashton Avenue | Manassas | VA | 20109 | 154,684.00
Micah Ecumenical Ministries/FY17-Journey Supportive Housing (FISH) | P.O. Box 3277 | Fredericksburg | VA | 22402 | 161,909.00
PRS, Inc./PRS Intensive Supportive Housing | 1761 Old Meadow Road | McLean | VA | 22102 | 174,610.00
Pathway Homes, Inc./1991 Pathway Homes SHP | 10201 Fairfax Blvd., Suite 200 | Fairfax | VA | 22030 | 177,924.00
New Hope Housing, Inc./Alexandria Housing First | 8407-E Richmond Highway | Alexandria | VA | 22309 | 178,471.00
Virginia Supportive Housing/VSH Shelter Plus Care | 8002 Discovery Drive, Suite 201 | Henrico | VA | 23229 | 184,353.00
Pathway Homes, Inc./2009 Pathway Homes SHP | 10201 Fairfax Blvd., Suite 200 | Fairfax | VA | 22030 | 184,765.00
FACETS/TRIUMPH Permanent Supportive Housing | 10640 Page Avenue, Suite 300 | Fairfax | VA | 22030 | 184,776.00
Pathway Homes, Inc./2007 Pathway Homes SHP | 10201 Fairfax Blvd., Suite 200 | Fairfax | VA | 22030 | 185,104.00
St. Joseph's Villa/FY17 HRC—CACH—St. Joseph's Villa | 8000 Brook Road | Richmond | VA | 23227 | 187,508.00
Hampton-Newport News Community Services Board/Onward | 300 Medical Drive | Hampton | VA | 23666 | 191,183.00
ForKids,inc./Regional Rapid Re-Housing FY17 | 4200 Colley Avenue, P.O. Box 6044 | Norfolk | VA | 23508 | 202,762.00
Prince William County Department of Social Services/PWA Rapid Rehousing FY 17 | 7987 Ashton Avenue | Manassas | VA | 20109 | 203,552.00
Volunteers of America Chesapeake, Inc./HOME RRH Program | 7901 Annapolis Road | Lanham | VA | 20706 | 209,074.00
Virginia Supportive Housing/Housing First 2 Renewal FY 2017 | 8002 Discovery Drive, Suite 201 | Henrico | VA | 23229 | 214,691.00
New Hope Housing, Inc./Susan's Place | 8407-E Richmond Highway | Alexandria | VA | 22309 | 215,498.00
Lynchburg Redevelopment & Housing Authority/Housing First Lynchburg | 918 Commerce Street | Lynchburg | VA | 24504 | 225,000.00
Virginia Supportive Housing/Richmond PSH 2017 Renewal | 8002 Discovery Drive, Suite 201 | Henrico | VA | 23229 | 235,843.00
Christian Relief Services of Virginia, Inc./1994 CRSVA/PH/PRS FY2017 | 8301 Richmond Highway | Alexandria | VA | 22309 | 236,496.00
Housing Families First/Building Neighbors Rapid Re-Housing | 3900 Nine Mile Road | Henrico | VA | 23223 | 242,055.00
Richmond Behavioral Health Authority/Home Connect 1 Program | 107 S. 5th Street | Richmond | VA | 23219 | 245,380.00
Bridges to Independence/Alexandria Rapid Re-housing FY2017 | 3103 9th Road, North | Arlington | VA | 22201 | 260,733.00
Northwestern Community Services/NWCS—Shelter Plus Care | 209 West Criser Road, Suite 300 | Front Royal | VA | 22630 | 260,939.00
Virginia Supportive Housing/VSH FUSE 2017 Renewal | 8002 Discovery Drive, Suite 201 | Henrico | VA | 23229 | 281,951.00
Hampton-Newport News Community Services Board/Safe Harbors | 300 Medical Drive | Hampton | VA | 23666 | 293,280.00
Abused and Homeless Children's Refuge/Rapid Rehousing for Transition Age Youth | 8221 Old Courthouse Road, Suite 207 | Vienna | VA | 22182 | 296,100.00
Emergency Shelter, Inc. DBA HomeAgain/HomeAgain RRH | P.O. Box 5222 | Richmond | VA | 23220 | 296,295.00
LGBT Life Center/CHAP Peninsula Renewal FY 2017 | 222 West 21st Street, Suite F-308 | Norfolk | VA | 23517 | 298,809.00
St. Joseph's Villa/FY17 RIC FLAGLER—St. Joseph's Villa | 8000 Brook Road | Richmond | VA | 23227 | 306,260.00
Christian Relief Services of Virginia, Inc./1995 CRSVA/PH/PRS SHP FY2017 | 8301 Richmond Highway | Alexandria | VA | 22309 | 316,013.00
Bridges to Independence/Arlington Rapid Re-housing FY17 | 3103 9th Road, North | Arlington | VA | 22201 | 334,683.00
Emergency Shelter, Inc. DBA HomeAgain/Permanent Supportive Housing Program | P.O. Box 5222 | Richmond | VA | 23220 | 344,897.00
Virginia Supportive Housing/Housing First 3 Renewal FY 2017 | 8002 Discovery Drive, Suite 201 | Henrico | VA | 23229 | 348,171.00
New Hope Housing, Inc./PSH Group Homes | 8407-E Richmond Highway | Alexandria | VA | 22309 | 365,331.00
Virginia Supportive Housing/Housing First 5 Renewal FY 2017 | 8002 Discovery Drive, Suite 201 | Henrico | VA | 23229 | 373,614.00
Pathway Homes, Inc./2011 Pathway Homes SHP | 10201 Fairfax Blvd., Suite 200 | Fairfax | VA | 22030 | 376,131.00
LGBT Life Center/CHAP Norfolk Renewal FY2017 | 222 West 21st Street, Suite F-308 | Norfolk | VA | 23517 | 379,176.00
Roanoke Valley Student Trouble Center, Inc. d/b/a Trust House/Healing Haven | 404 Elm Avenue, SW | Roanoke | VA | 24016 | 381,991.00
ForKids,inc./LEAP Rapid Re-Housing FY17 | 4200 Colley Avenue, P.O. Box 6044 | Norfolk | VA | 23508 | 388,481.00
Community Alternatives Management Group, Inc./CAMG 34 FY17 | 863 Glenrock Road | Norfolk | VA | 23502 | 403,960.00
Fairfax County Department of Housing and Community Development/DHCD/Pathway Homes SPC 9C | 3700 Pender Dr., Suite 300 | Fairfax | VA | 22030 | 411,230.00
Arlington Street People's Assistance Network,INC./Inroads | 2020A N 14th Street | ARLINGTON | VA | 22201 | 430,293.00
Arlington Street People's Assistance Network,INC./Home Bound | 2020A N 14th Street | ARLINGTON | VA | 22201 | 439,404.00
FACETS/Linda's Gateway Permanent Supportive Housing | 10640 Page Avenue, Suite 300 | Fairfax | VA | 22030 | 439,596.00
Shelter House, Inc/Rapid Re-Housing Project | 12310 Pinecrest Road, Suite 304 | Reston | VA | 20191 | 459,962.00
ForKids,inc./Legacy PSH FY17 | 4200 Colley Avenue, P.O. Box 6044 | Norfolk | VA | 23508 | 518,686.00
City of Portsmouth Virginia/Shelter Plus Care | 1811 King St | Portsmouth | VA | 23704 | 527,449.00
Shelter House, Inc/RISE | 12310 Pinecrest Road, Suite 304 | Reston | VA | 20191 | 552,022.00
City of Norfolk/Shelter Plus Care FY 17 | 225 W. Olney Rd | Norfolk | VA | 23510 | 554,026.00
Virginia Supportive Housing/Richmond Housing First 2017 Renewal | 8002 Discovery Drive, Suite 201 | Henrico | VA | 23229 | 565,552.00
Fairfax County Department of Housing and Community Development/DHCD/Pathway Homes SPC 1C | 3700 Pender Dr., Suite 300 | Fairfax | VA | 22030 | 570,445.00
Pathway Homes, Inc./2015 Pathway Homes SHP | 10201 Fairfax Blvd., Suite 200 | Fairfax | VA | 22030 | 577,524.00
FACETS/TRIUMPH III Permanent Supportive Housing | 10640 Page Avenue, Suite 300 | Fairfax | VA | 22030 | 591,399.00
Arlington Street People's Assistance Network,INC./Turning Keys | 2020A N 14th Street | ARLINGTON | VA | 22201 | 643,002.00
LINK OF HAMPTON ROADS, INC./CANLINK I | 10413 WARWICK BLVD | NEWPORT NEWS | VA | 23601 | 731,607.00
City of Richmond/Richmond Shelter Plus Care 1 2017 Renewal Application | 900 East Marshall Street, N/A | Richmond | VA | 23219 | 733,170.00
Virginia Supportive Housing/HomeLink Consolidated Renewal FY 2017 | 8002 Discovery Drive, Suite 201 | Henrico | VA | 23229 | 912,413.00
Fairfax County Department of Housing and Community Development/DHCD/Pathway Homes SPC 10C | 3700 Pender Dr., Suite 300 | Fairfax | VA | 22030 | 927,187.00
Pathway Homes, Inc./2014 Pathway Homes SHP | 10201 Fairfax Blvd., Suite 200 | Fairfax | VA | 22030 | 1,353,684.00
Champlain Valley Office of Economic Opportunity/Chittenden Coordinated Entry II | 255 South Champlain Street | Burlington | VT | 05401 | 20,000.00
Institute for Community Alliances/Vermont BoS HMIS Expansion | 1111 9th Street, Suite 245 | Des Moines | VT | 50314 | 28,810.00
Institute for Community Alliances/Vermont BoS HMIS Project | 1111 9th Street, Suite 245 | Des Moines | VT | 50314 | 30,572.00
City of Burlington/VT 501 Planning Application | 149 Church Street, Room 32 | Burlington | VT | 05401 | 33,389.00
Vermont State Housing Authority/VSHA S+C SW Expansion FY17 | One Prospect Street | Montpelier | VT | 05602 | 44,148.00
Champlain Valley Office of Economic Opportunity/Chittenden Coordinated Entry | 255 South Champlain Street | Burlington | VT | 05401 | 59,999.00
Institute for Community Alliances/Chittenden CoC ICA HMIS Expansion | 1111 9th Street, Suite 245 | Des Moines | VT | 50314 | 65,000.00
Pathways Vermont, INC/Pathways Vermont Rapid Rehousing Project Expansion | 125 College St., Floor 2 | Burlington | VT | 05401 | 67,893.00
Pathways Vermont, INC/Pathways Vermont Housing First Rapid Re-Housing Program (HF-RRH) | 125 College St., Floor 2 | Burlington | VT | 05401 | 71,323.00
Spectrum Youth and Family Services/Rapid Rehousing for Homeless Youth | 31 Elmwood Avenue | Burlington | VT | 05401 | 78,742.00
State of Vermont/Coordinated Entry Partnership Expansion | 280 State Drive | Waterbury | VT | 05671 | 83,167.00
Vermont State Housing Authority/VT BoS CoC Planning Project FY17 | One Prospect Street | Montpelier | VT | 05602 | 95,345.00
Vermont State Housing Authority/VSHA RRH5 FY17 | One Prospect Street | Montpelier | VT | 05602 | 97,813.00
Burlington Housing Authority/Beacon Place Apartments | 65 Main Street | Burlington | VT | 05401 | 115,560.00
Burlington Housing Authority/Shelter Plus Care- Housing First | 65 Main Street | Burlington | VT | 05401 | 134,616.00
State of Vermont/Domestic Violence Housing First | 280 State Drive | Waterbury | VT | 05671 | 152,350.00
Burlington Housing Authority/Shelter Plus Care-New Horizons | 65 Main Street | Burlington | VT | 05401 | 173,147.00
Burlington Housing Authority/ECHO-Expanding Chronically Homeless Options | 65 Main Street | Burlington | VT | 05401 | 201,428.00
State of Vermont/Coordinated Entry Partnership Renewal | 280 State Drive | Waterbury | VT | 05671 | 222,472.00
Brattleboro Housing Authority/BraHAFY17 | 224 Melrose Street | Brattleboro | VT | 05301 | 244,594.00
Vermont State Housing Authority/VSHA RRH Statewide FY17 | One Prospect Street | Montpelier | VT | 05602 | 864,202.00
Vermont State Housing Authority/VSHA S+C Statewide FY17 | One Prospect Street | Montpelier | VT | 05602 | 1,748,294.00
Yakima Neighborhood Health Services/906 Arlington—PSH | 12 South 8th Street, P.O. Box 2605 | Yakima | WA | 98907 | 11,912.00
Community Action of Skagit County/Skagit ACT Housing | 330 Pacific Place | Mount Vernon | WA | 98273 | 16,918.00
El Centro de la Raza/ECR Transitional Housing | 2524 16th Ave South | Seattle | WA | 98144 | 17,603.00
Yakima Valley Conference of Governments/WA-507 CoC Planning Grant | 311 N. 4th St., Suite 204 | Yakima | WA | 98901 | 19,105.00
City of Spokane/WA0125 Transitions/Women's Hearth Coc 2017 | 808 W. Spokane Falls Blvd | Spokane | WA | 99201 | 21,861.00
City of Spokane/WA0127 VOA Crosswalk CoC 2017 | 808 W. Spokane Falls Blvd | Spokane | WA | 99201 | 22,555.00
City of Seattle Human Services Department/Dorothy Day House | P.O. Box 34215, 700 5th Avenue, Suite 5800 | Seattle | WA | 98124 | 25,422.00
YWCA of Kitsap County/Permanent Supportive Housing for Families with Children | 905 Pacific Avenue | Bremerton | WA | 98337 | 25,697.00
Council for the Homeless/HMIS Expansion | 2500 Main St | Vancouver | WA | 98660 | 26,520.00
Multi-Service Center/Homeless Families Transitional Housing | 1200 S. 336th Street | Federal Way | WA | 98003 | 26,724.00
Housing Authority of Island County/Island County Shelter Plus Care | 7 NW 6th Street | Coupeville | WA | 98239 | 26,920.00
City of Seattle Human Services Department/Ozanam 2 | P.O. Box 34215, 700 5th Avenue, Suite 5800 | Seattle | WA | 98124 | 27,395.00
Low Income Housing Institute/Fleetwood Tenant Stabilization | 2407 1st Ave, Suite 200 | Seattle | WA | 98121 | 31,500.00
Snohomish, County of/Beachwood North | 3000 Rockefeller Avenue, M/S 305 | Everett | WA | 98201 | 33,249.00
City of Seattle Human Services Department/Avalon Place | P.O. Box 34215, 700 5th Avenue, Suite 5800 | Seattle | WA | 98124 | 35,142.00
Pierce County/Independence Housing Opportunity | 1305 Tacoma Avenue South, Suite 104 | Tacoma | WA | 98402 | 36,321.00
Pierce County/Manresa Permanent Supportive Housing | 1305 Tacoma Avenue South, Suite 104 | Tacoma | WA | 98402 | 37,429.00
Kent Youth and Family Services/Watson Manor Transitional Living Program | 232 2nd Avenue S, Suite 201 | Kent | WA | 98032 | 38,134.00
YWCA of Seattle-King County-Snohomish County/Auburn Transitional Housing | 1118 Fifth Avenue | Seattle | WA | 98101 | 42,540.00
Womens Resource Center of North Central Washington/HomeSafe | 202 Palouse Street | Wenatchee | WA | 98801 | 45,010.00
Yakima Neighborhood Health Services/YNHS PSH5 | 12 South 8th Street, P.O. Box 2605 | Yakima | WA | 98907 | 46,795.00
Next Step Housing/Pear Tree Place III | 2900 Powerhouse Road, Leasing Office | Yakima | WA | 98902 | 47,380.00
Community Action of Skagit County/Skagit Family Development | 330 Pacific Place | Mount Vernon | WA | 98273 | 48,879.00
HopeSource/HopeSource Rapid Rehousing Project | 700 E. Mountain View Ave, Suite 501 | Ellensburg | WA | 98926 | 48,917.00
Share/Bridges to Housing | 2306 NE Andresen Rd | Vancouver | WA | 98661 | 49,855.00
Council for the Homeless/WA-508 CoC Planning Application FY2017 | 2500 Main St | Vancouver | WA | 98660 | 50,741.00
Columbia Gorge Housing Authority/Shelter Plus Care | 500 E 2nd Street | The Dalles | WA | 97058 | 51,362.00
Pierce County/Rural Bright Futures | 1305 Tacoma Avenue South, Suite 104 | Tacoma | WA | 98402 | 51,515.00
Next Step Housing/Sommerset Apartments | 2900 Powerhouse Road, Leasing Office | Yakima | WA | 98902 | 53,034.00
Yakima Neighborhood Health Services/904 Arlington—PSH | 12 South 8th Street, P.O. Box 2605 | Yakima | WA | 98907 | 53,073.00
City of Spokane/WA0128 VOA Hope House CoC 2017 | 808 W. Spokane Falls Blvd | Spokane | WA | 99201 | 55,665.00
The Family Support Center of South Sound/Rapid Re-housing for Homeless Families | P.O. Box 784 | Olympia | WA | 98507 | 56,610.00
YWCA of Seattle-King County-Snohomish County/Anita Vista | 1118 Fifth Avenue | Seattle | WA | 98101 | 57,319.00
Low Income Housing Institute/Arbor Manor | 2407 1st Ave, Suite 200 | Seattle | WA | 98121 | 57,696.00
Pierce County/AM Rapid Rehousing Expansion Project | 1305 Tacoma Avenue South, Suite 104 | Tacoma | WA | 98402 | 59,906.00
Okanogan Behavioral HealthCare/The Shove House—Supportive Housing Program | 1007 Koala Drive | Omak | WA | 98841 | 61,126.00
Snohomish, County of/Monte Cristo | 3000 Rockefeller Avenue, M/S 305 | Everett | WA | 98201 | 62,734.00
Pierce County/Pierce County HMIS Project | 1305 Tacoma Avenue South, Suite 104 | Tacoma | WA | 98402 | 63,261.00
City of Spokane/WA0109 Catholic Charities SMS TH CoC 17 | 808 W. Spokane Falls Blvd | Spokane | WA | 99201 | 64,529.00
King, County of/Mi Casa | 401 5th Avenue, Suite 500 | Seattle | WA | 98104 | 64,613.00
Community Services Northwest/PSH Northwest | P.O. Box 1845 | Vancouver | WA | 98668 | 68,206.00
Walla Walla County/Permanent Supportive Housing for the Severely Mentally Ill | 314 W Main Street, P.O. Box 1753 | Walla Walla | WA | 99362 | 70,110.00
Share/Bridging the Gap | 2306 NE Andresen Rd | Vancouver | WA | 98661 | 71,193.00
Pierce County/Campbell Court | 1305 Tacoma Avenue South, Suite 104 | Tacoma | WA | 98402 | 72,616.00
Council for the Homeless/HMIS | 2500 Main St | Vancouver | WA | 98660 | 74,082.00
Pierce County/Randall Townsend | 1305 Tacoma Avenue South, Suite 104 | Tacoma | WA | 98402 | 74,763.00
City of Spokane/WA0126 VOA Alexandria's House CoC 2017 | 808 W. Spokane Falls Blvd | Spokane | WA | 99201 | 75,144.00
Community Action of Skagit County/Skagit Housing Solutions | 330 Pacific Place | Mount Vernon | WA | 98273 | 75,355.00
Yakima Neighborhood Health Services/Bienestar—PSH | 12 South 8th Street, P.O. Box 2605 | Yakima | WA | 98907 | 75,903.00
The Salvation Army, a California corporation/The Salvation Army—Hickman House | 111 Queen Anne Ave N | Seattle | WA | 98109 | 77,838.00
City of Spokane/WA0373 Homeless Families Coordinated Assessment (HFCA) CoC 2017 | 808 W. Spokane Falls Blvd | Spokane | WA | 99201 | 80,000.00
Pierce County/CHANGES | 1305 Tacoma Avenue South, Suite 104 | Tacoma | WA | 98402 | 80,179.00
Serenity House of Clallam County/Tempest | 2203 West 18th, P.O. Box 4047 | Port Angeles | WA | 98363 | 87,176.00
Community Services Northwest/PSH Northwest II | P.O. Box 1845 | Vancouver | WA | 98668 | 87,992.00
Pierce County/Family Permanent Housing | 1305 Tacoma Avenue South, Suite 104 | Tacoma | WA | 98402 | 90,266.00
Opportunity Council/22 North | 1111 Cornwall Ave., 1111 Cornwall Ave | Bellingham | WA | 98225 | 92,664.00
Serenity House of Clallam County/Clallam Families Rapid Re-Housing | 2203 West 18th, P.O. Box 4047 | Port Angeles | WA | 98363 | 94,404.00
Crossroads Housing/Mason County Shelter Transitional Housing Program | P.O. Box 1777, 71 Sargison Loop | Shelton | WA | 98584 | 98,318.00
Pierce County/Spanaway Commons | 1305 Tacoma Avenue South, Suite 104 | Tacoma | WA | 98402 | 100,079.00
Benton and Franklin Counties Department of Human Services/Shelter Plus Care | 7102 W. Okanogan Pl., Ste. 201 | Kennewick | WA | 99336 | 100,779.00
Snohomish, County of/CCS Veterans Permanent Housing | 3000 Rockefeller Avenue, M/S 305 | Everett | WA | 98201 | 101,448.00
King, County of/Family Village Redmond PSH for Families | 401 5th Avenue, Suite 500 | Seattle | WA | 98104 | 104,651.00
Snohomish, County of/Homeless Youth Rapid Rehousing | 3000 Rockefeller Avenue, M/S 305 | Everett | WA | 98201 | 104,989.00
City of Seattle Human Services Department/Martin Court | P.O. Box 34215, 700 5th Avenue, Suite 5800 | Seattle | WA | 98124 | 105,000.00
YouthCare/Straley House | 2500 NE 54th Street | Seattle | WA | 98105 | 105,602.00
Pierce County/CoC Planning Project Application FY2017 | 1305 Tacoma Avenue South, Suite 104 | Tacoma | WA | 98402 | 106,761.00
Yakima Neighborhood Health Services/Futuros Brilliantes | 12 South 8th Street, P.O. Box 2605 | Yakima | WA | 98907 | 107,930.00
Archdiocesan Housing Authority/Rose of Lima House | 100 23rd Ave. South | Seattle | WA | 98144 | 108,487.00
Community Youth Services/ECHO Rapid Rehousing | 711 State Ave NE | Olympia | WA | 98506 | 108,802.00
City of Spokane/City of Spokane CoC Planning Grant FY 2017 | 808 W. Spokane Falls Blvd | Spokane | WA | 99201 | 110,152.00
City of Seattle Human Services Department/Cascade Women's Supportive Housing | P.O. Box 34215, 700 5th Avenue, Suite 5800 | Seattle | WA | 98124 | 116,182.00
Share/Bridging the Gap expansion | 2306 NE Andresen Rd | Vancouver | WA | 98661 | 116,921.00
Friends of Youth/Arbor House (New Ground Bothell) | 13116 NE 132nd St. | Kirkland | WA | 98034 | 123,062.00
King, County of/Severson Program | 401 5th Avenue, Suite 500 | Seattle | WA | 98104 | 123,286.00
Washington Gorge Action Programs/Turning Point Rapid Re-Housing Program | 115 W. Steuben | Bingen | WA | 98605 | 123,757.00
Catholic Community Services/Drexel House | 100 23rd Ave South | Seattle | WA | 98144 | 128,028.00
Serenity House of Clallam County/SunBelt Apartments | 2203 West 18th, P.O. Box 4047 | Port Angeles | WA | 98363 | 130,328.00
Housing Authority of Thurston County/Housing and Transitional Services (HATS) | 1206 12th Avenue SE | Olympia | WA | 98501 | 133,921.00
Snohomish, County of/Housing Hope Village (PSH) | 3000 Rockefeller Avenue, M/S 305 | Everett | WA | 98201 | 134,623.00
Snohomish, County of/Coordinated Entry | 3000 Rockefeller Avenue, M/S 305 | Everett | WA | 98201 | 136,855.00
City of Spokane/WA0218 VOA Samaritan III CoC 2017 | 808 W. Spokane Falls Blvd | Spokane | WA | 99201 | 136,888.00
Olympic Community Action Programs/Crossroads Permanent Solutions | 823 Commerce Loop | Port Townsend | WA | 98368 | 141,223.00
Snohomish, County of/Domestic Violence Rapid ReHousing | 3000 Rockefeller Avenue, M/S 305 | Everett | WA | 98201 | 141,967.00
WA State Department of Commerce/Washington State Rural Continuum of Care HMIS | 1011 Plum Street SE | Olympia | WA | 98504 | 143,082.00
Opportunity Council/Dorothy Place PSH | 1111 Cornwall Ave | Bellingham | WA | 98225 | 144,000.00
City of Seattle Human Services Department/Patrick Place | P.O. Box 34215, 700 5th Avenue, Suite 5800 | Seattle | WA | 98124 | 144,900.00
Lewis County/Lewis County Transitional Housing Project | 360 NW North St, Second floor Health | Chehalis | WA | 98532 | 146,355.00
City of Seattle Human Services Department/Ronald Commons | P.O. Box 34215, 700 5th Avenue, Suite 5800 | Seattle | WA | 98124 | 147,653.00
City of Spokane/WA0330 Coordinated Assessment—SHCA CoC 2017 | 808 W. Spokane Falls Blvd | Spokane | WA | 99201 | 148,000.00
Community Youth Services/RISE Transitional Housing | 711 State Ave NE | Olympia | WA | 98506 | 151,564.00
YouthCare/Ravenna House | 2500 NE 54th Street | Seattle | WA | 98105 | 151,856.00
Snohomish, County of/Snohomish County UFA Project | 3000 Rockefeller Avenue, M/S 305 | Everett | WA | 98201 | 152,777.00
City of Spokane/WA0374 Catholic Charities HOC PSH III CoC 2017 | 808 W. Spokane Falls Blvd | Spokane | WA | 99201 | 155,000.00
Solid Ground Washington/Broadview Transitional Housing Program | 1501 N. 45th Street | Seattle | WA | 98103 | 158,620.00
City of Spokane/WA0119 SNAP Small Cities Rapid Rehousing CoC 2017 | 808 W. Spokane Falls Blvd | Spokane | WA | 99201 | 159,976.00
City of Seattle Human Services Department/Noel House at Bakhita Gardens | P.O. Box 34215, 700 5th Avenue, Suite 5800 | Seattle | WA | 98124 | 163,581.00
King, County of/Valley Cities Landing | 401 5th Avenue, Suite 500 | Seattle | WA | 98104 | 164,090.00
Community Services Northwest/The Way Home III | P.O. Box 1845 | Vancouver | WA | 98668 | 168,715.00
Pierce County/Safe Choices | 1305 Tacoma Avenue, South Suite 104 | Tacoma | WA | 98402 | 172,034.00
Pierce County/A Place for Us Too | 1305 Tacoma Avenue, South Suite 104 | Tacoma | WA | 98402 | 176,806.00
City of Spokane/WA0329 City of Spokane HMIS Project CoC 2017 | 808 W. Spokane Falls Blvd | Spokane | WA | 99201 | 177,489.00
City of Spokane/WA0332 Catholic Charities HF at Buder Haven/The Marilee CoC 2017 | 808 W. Spokane Falls Blvd | Spokane | WA | 99201 | 177,491.00
Pierce County/Nativity House Apartments | 1305 Tacoma Avenue South, Suite 104 | Tacoma | WA | 98402 | 177,665.00
City of Spokane/WA0288 Catholic Charities Rapid Rehousing Project CoC 2017 | 808 W. Spokane Falls Blvd | Spokane | WA | 99201 | 178,618.00
Impact NW/Impact NW Permanent Supportive Housing (Clark) | 10055 E Burnside St | Portland | WA | 97216 | 179,896.00
The Family Support Center of South Sound/Strengthening Families Rapid Re-Housing Project | P.O. Box 784 | Olympia | WA | 98507 | 180,604.00
Pierce County/SCH Sponsor Based Rental Assistance | 1305 Tacoma Avenue South, Suite 104 | Tacoma | WA | 98402 | 181,169.00
City of Spokane/WA0122 SNAP Rapid Rehousing for Families CoC 2017 | 808 W. Spokane Falls Blvd | Spokane | WA | 99201 | 183,006.00
Opportunity Council/WHSC Master Leasing II | 1111 Cornwall Ave | Bellingham | WA | 98225 | 185,782.00
WA State Department of Commerce/WA-501 CoC Planning Application FY2017 | 1011 Plum Street SE | Olympia | WA | 98504 | 186,252.00
Snohomish, County of/CCS Meadowdale | 3000 Rockefeller Avenue, M/S 305 | Everett | WA | 98201 | 188,013.00
City of Spokane/WA0113 SNAP/VOA Comprehensive Housing and Services CoC 2017 | 808 W. Spokane Falls Blvd | Spokane | WA | 99201 | 191,635.00
City of Spokane/WA0285 Catholic Charities/Housing First Project CoC 2017 | 808 W. Spokane Falls Blvd | Spokane | WA | 99201 | 192,186.00
Pierce County/Housing 4 Success (H4S) | 1305 Tacoma Avenue South, Suite 104 | Tacoma | WA | 98402 | 193,411.00
Archdiocesan Housing Authority/St. Martin's on Westlake | 100 23rd Ave. South | Seattle | WA | 98144 | 197,739.00
Catholic Community Services/Aloha Inn | 100 23rd Ave South | Seattle | WA | 98144 | 201,576.00
Agape Unlimited/Sisyphus II Housing Project-Agape Unlimited CoC Program-PSH-Sponsor Base Rental Assistance (PSH SRA) | 4841 Auto Center Way, Suite 101 | Bremerton | WA | 98312 | 202,670.00
King, County of/Kent PSH | 401 5th Avenue, Suite 500 | Seattle | WA | 98104 | 207,657.00
Snohomish, County of/CCS Homeless Families, Home at Last | 3000 Rockefeller Avenue, M/S 305 | Everett | WA | 98201 | 208,759.00
Snohomish, County of/HMIS Lead | 3000 Rockefeller Avenue, M/S 305 | Everett | WA | 98201 | 212,216.00
City of Seattle Human Services Department/Evans House | P.O. Box 34215, 700 5th Avenue, Suite 5800 | Seattle | WA | 98124 | 214,992.00
Yakima Neighborhood Health Services/Bright Futures Neighborhood | 12 South 8th Street, P.O. Box 2605 | Yakima | WA | 98907 | 215,263.00
City of Spokane/WA0130 VOA/Samaritan 05-06 CoC 2017 | 808 W. Spokane Falls Blvd | Spokane | WA | 99201 | 216,226.00
Opportunity Council/WHSC Master Leasing III | 1111 Cornwall Ave | Bellingham | WA | 98225 | 216,422.00
Janus Youth Programs, Inc./Connections | 707 NE Couch Street | Portland | WA | 97232 | 217,480.00
Snohomish, County of/Pathways Home (PSH) | 3000 Rockefeller Avenue, M/S 305 | Everett | WA | 98201 | 217,946.00
Opportunity Council/Whatcom Rapid Rehousing | 1111 Cornwall Ave | Bellingham | WA | 98225 | 221,962.00
Pierce County/Bright Futures | 1305 Tacoma Avenue South, Suite 104 | Tacoma | WA | 98402 | 222,849.00
Snohomish, County of/Pathways Home (RRH) | 3000 Rockefeller Avenue, M/S 305 | Everett | WA | 98201 | 225,297.00
City of Spokane/WA0331 Rapid Rehousing for Households without Children CoC 2017 | 808 W. Spokane Falls Blvd | Spokane | WA | 99201 | 226,020.00
Snohomish, County of/Snohomish County Collaborative Planning Project | 3000 Rockefeller Avenue, M/S 305 | Everett | WA | 98201 | 229,166.00
City of Seattle Human Services Department/YWCA Opportunity Place and Seneca | P.O. Box 34215, 700 5th Avenue, Suite 5800 | Seattle | WA | 98124 | 231,080.00
Blue Mountain Action Council/The Next Step | 1520 Kelly Place, Suite #140 | Walla Walla | WA | 99362 | 233,820.00
Pacific County/Pacific County Supported Housing Collaborative | 1216 West Robert Bush Drive | South Bend | WA | 98586 | 236,667.00
The Salvation Army, a California corporation/Transitional Living Program | 811 Maynard Ave. South, N/A | Seattle | WA | 98134 | 253,988.00
Share/Step Forward | 2306 NE Andresen Rd | Vancouver | WA | 98661 | 257,642.00
Snohomish, County of/Long Term Leasing for the Disabled | 3000 Rockefeller Avenue, M/S 305 | Everett | WA | 98201 | 261,539.00
Northwest Youth Services/Skagit County Transitional Living Program; Step Up | 1020 North State Street, n/a | Bellingham | WA | 98225 | 261,787.00
City of Seattle Human Services Department/PHG 7th and Cherry | P.O. Box 34215, 700 5th Avenue, Suite 5800 | Seattle | WA | 98124 | 270,710.00
Community Services Northwest/The Way Home Too | P.O. Box 1845 | Vancouver | WA | 98668 | 278,676.00
City of Spokane/WA0302 Catholic Charities Rapid Rehousing Project for Families CoC 2017 | 808 W. Spokane Falls Blvd | Spokane | WA | 99201 | 279,650.00
Benton Franklin Community Action Committee/Bateman House Project | 720 W. Court Street | Pasco | WA | 99301 | 285,929.00
Snohomish, County of/CCS The Road Home | 3000 Rockefeller Avenue, M/S 305 | Everett | WA | 98201 | 295,080.00
Snohomish, County of/Long Term Leasing for the Chronically Homeless Disabled | 3000 Rockefeller Avenue, M/S 305 | Everett | WA | 98201 | 295,320.00
Benton Franklin Community Action Committee/Home Choices | 720 W. Court Street | Pasco | WA | 99301 | 295,821.00
Housing Authority of the City of Bremerton/Tranisional Housing—Permanent Housing/Rapid re-Housing. | 600 Park Ave | Bremerton | WA | 98310 | 299,221.00
City of Spokane/WA0111 VOA PSH Off Site CoC 2017 | 808 W. Spokane Falls Blvd | Spokane | WA | 99201 | 299,868.00
City of Spokane/WA0129 VOA Off-Site PSH CoC 2017 | 808 W. Spokane Falls Blvd | Spokane | WA | 99201 | 302,665.00
City of Seattle Human Services Department/Ozanam House | P.O. Box 34215, 700 5th Avenue, Suite 5800 | Seattle | WA | 98124 | 318,933.00
City of Seattle Human Services Department/Sandpoint Youth Group Homes | P.O. Box 34215, 700 5th Avenue, Suite 5800 | Seattle | WA | 98124 | 324,869.00
Pierce County/Discover Independence | 1305 Tacoma Avenue South, Suite 104 | Tacoma | WA | 98402 | 324,872.00
Snohomish, County of/CCS Journey Home | 3000 Rockefeller Avenue, M/S 305 | Everett | WA | 98201 | 327,701.00
City of Spokane/WA0353 Rapid Rehousing for Households with Children CoC 2017 | 808 W. Spokane Falls Blvd | Spokane | WA | 99201 | 331,177.00
Share/Story Street II | 2306 NE Andresen Rd | Vancouver | WA | 98661 | 333,943.00
City of Seattle Human Services Department/North 96th Street (95th and Aurora) Supportive Housing Expansion | P.O. Box 34215, 700 5th Avenue, Suite 5800 | Seattle | WA | 98124 | 346,935.00
City of Seattle Human Services Department/North 96th Street (95th and Aurora) Supportive Housing Expansion #2 | P.O. Box 34215, 700 5th Avenue, Suite 5800 | Seattle | WA | 98124 | 346,935.00
Community Psychiatric Clinic/Harbor House—Safe Haven | 11000 Lake City Way NE | Seattle | WA | 98125 | 348,156.00
City of Seattle Human Services Department/Home Safe Rapid Rehousing | P.O. Box 34215, 700 5th Avenue, Suite 5800 | Seattle | WA | 98124 | 353,132.00
King, County of/My Friend's Place TH/RRH | 401 5th Avenue, Suite 500 | Seattle | WA | 98104 | 374,651.00
City of Seattle Human Services Department/Canaday House | P.O. Box 34215, 700 5th Avenue, Suite 5800 | Seattle | WA | 98124 | 375,378.00
City of Seattle Human Services Department/Sandpoint Families Supportive Housing | P.O. Box 34215, 700 5th Avenue, Suite 5800 | Seattle | WA | 98124 | 393,823.00
King, County of/WA-500 HMIS | 401 5th Avenue, Suite 500 | Seattle | WA | 98104 | 403,714.00
Downtown Emergency Service Center/Lyon Building | 515 3rd Ave | Seattle | WA | 98104 | 421,199.00
Snohomish, County of/CCS Everett Safe Streets Supportive Housing | 3000 Rockefeller Avenue, M/S 305 | Everett | WA | 98201 | 439,072.00
City of Seattle Human Services Department/Kerner Scott House | P.O. Box 34215, 700 5th Avenue, Suite 5800 | Seattle | WA | 98124 | 443,471.00
Snohomish, County of/CCS Home Connection | 3000 Rockefeller Avenue, M/S 305 | Everett | WA | 98201 | 443,804.00
City of Seattle Human Services Department/Coming Home | P.O. Box 34215, 700 5th Avenue, Suite 5800 | Seattle | WA | 98124 | 488,420.00
King, County of/King County Rapid Rehousing Program | 401 5th Avenue, Suite 500 | Seattle | WA | 98104 | 494,463.00
City of Seattle Human Services Department/Nyer Urness | P.O. Box 34215, 700 5th Avenue, Suite 5800 | Seattle | WA | 98124 | 520,542.00
City of Seattle Human Services Department/Williams Apartments | P.O. Box 34215, 700 5th Avenue, Suite 5800 | Seattle | WA | 98124 | 523,679.00
Pierce County/Housing First | 1305 Tacoma Avenue South, Suite 104 | Tacoma | WA | 98402 | 528,535.00
City of Seattle Human Services Department/Working for Housing Stability RRH Project | P.O. Box 34215, 700 5th Avenue, Suite 5800 | Seattle | WA | 98124 | 535,564.00
City of Seattle Human Services Department/Aurora Supportive Housing | P.O. Box 34215, 700 5th Avenue, Suite 5800 | Seattle | WA | 98124 | 535,631.00
City of Seattle Human Services Department/Rainier Supportive Housing Project | P.O. Box 34215, 700 5th Avenue, Suite 5800 | Seattle | WA | 98124 | 541,756.00
King, County of/DESC RRH Expansion | 401 5th Avenue, Suite 500 | Seattle | WA | 98104 | 570,631.00
Pierce County/Collaborative Housing | 1305 Tacoma Avenue South, Suite 104 | Tacoma | WA | 98402 | 577,459.00
King, County of/REACH Scattered Sites PSH Expansion | 401 5th Avenue, Suite 500 | Seattle | WA | 98104 | 582,218.00
City of Seattle Human Services Department/Scattered Site Leasing | P.O. Box 34215, 700 5th Avenue, Suite 5800 | Seattle | WA | 98124 | 606,035.00
King, County of/REACH Scattered Sites PSH #1 | 401 5th Avenue, Suite 500 | Seattle | WA | 98104 | 636,946.00
City of Seattle Human Services Department/1811 Eastlake | P.O. Box 34215, 700 5th Avenue, Suite 5800 | Seattle | WA | 98124 | 646,545.00
City of Seattle Human Services Department/Cottage Grove Commons | P.O. Box 34215, 700 5th Avenue, Suite 5800 | Seattle | WA | 98124 | 671,140.00
King, County of/WA-500 CoC Planning | 401 5th Avenue, Suite 500 | Seattle | WA | 98104 | 1,011,724.00
City of Seattle Human Services Department/Seattle Rapid Rehousing for Families Project | P.O. Box 34215, 700 5th Avenue, Suite 5800 | Seattle | WA | 98124 | 1,107,373.00
King, County of/King County Shelter Plus Care Program—SRA | 401 5th Avenue, Suite 500 | Seattle | WA | 98104 | 1,188,998.00
City of Seattle Human Services Department/Interbay Supportive Housing | P.O. Box 34215, 700 5th Avenue, Suite 5800 | Seattle | WA | 98124 | 1,210,846.00
Bellingham Housing Authority/Shelter Plus Care Tenant Based | 208 Unity Street | Bellingham | WA | 98225 | 1,231,537.00
City of Seattle Human Services Department/Rapid Rehousing for Young Adults | P.O. Box 34215, 700 5th Avenue, Suite 5800 | Seattle | WA | 98124 | 1,307,963.00
King, County of/WA-500 Coordinated Entry | 401 5th Avenue, Suite 500 | Seattle | WA | 98104 | 1,872,500.00
Snohomish, County of/Shelter Plus Care #5 | 3000 Rockefeller Avenue, M/S 305 | Everett | WA | 98201 | 3,993,122.00
King, County of/King County Scattered Sites Supportive Housing | 401 5th Avenue, Suite 500 | Seattle | WA | 98104 | 4,444,675.00
King, County of/King County Shelter Plus Care Program—TRA | 401 5th Avenue, Suite 500 | Seattle | WA | 98104 | 7,489,903.00
Porchlight, Inc./Nakoosa Trail | 306 N. Brooks Street | Madison | WI | 53715 | 14,094.00
Institute for Community Alliances/Racine CoC HMIS Expansion | 1111 9th Street, Suite 245 | Des Moines | WI | 50314 | 15,000.00
HOPES Center of Racine, INC/HOPES Center Rapid Rehousing 2 | 521 Sixth Street | Racine | WI | 53403 | 23,163.00
HOPES Center of Racine, INC/HOPES Center Rapid Rehousing 3 | 521 Sixth Street | Racine | WI | 53403 | 28,950.00
Mercy Housing Lakefront/Johnston Center | 120 S. LaSalle, Suite 1850 | Chicago | WI | 60603 | 34,139.00
Institute for Community Alliances/Racine CoC ICA Coordinated Entry | 1111 9th Street, Suite 245 | Des Moines | WI | 50314 | 37,525.00
HOPES Center of Racine, INC/HOPES Center Rapid Rehousing 1 | 521 Sixth Street | Racine | WI | 53403 | 42,136.00
Institute for Community Alliances/Madison/Dane CoC HMIS Expansion | 1111 9th Street, Suite 245 | Des Moines | WI | 50314 | 44,500.00
Homeless Assistance Leadership Organization, Inc./Racine CoC Planning Grant | 2000 DeKoven Avenue, Unit 1 | Racine | WI | 53403 | 45,238.00
Porchlight, Inc./Pheasant Ridge Trail | 306 N. Brooks Street | Madison | WI | 53715 | 53,627.00
The Road Home Dane County/Second Chance Apartment Project | 128 E. Olin Avenue, Suite 202 | Madison | WI | 53713 | 54,009.00
City of Appleton/Fox Cities HP Rapid Re-Housing Program | 100 N Appleton Street, Sixth Floor | Appleton | WI | 54911 | 56,216.00
Women's Resource Center of Racine/Purple Ribbon Permanent Housing Project | P.O. Box 1764 | Racine | WI | 53401 | 58,662.00
IMPACT Alcohol and Other Drug Abuse Services, Inc./Community Based Coordinated Entry | 6737 W. Washington, Suite 2225 | Milwaukee | WI | 53214 | 61,498.00
Tellurian, Inc./ReachOut Housing First | 5900 Monona Dr., Suite 300 | Monona | WI | 53716 | 63,315.00
Institute for Community Alliances/Milwaukee CoC HMIS Coordination Project | 1111 9th Street, Suite 245 | Des Moines | WI | 50314 | 66,761.00
Community Action Coalition For South Central Wisconsin, Inc./SHIFT | 1717 N. Stoughton Road | Madison | WI | 53704 | 67,806.00
Tellurian, Inc./Permanent Housing Program | 5900 Monona Dr., Suite 300 | Monona | WI | 53716 | 70,265.00
Walworth County Housing Authority/Hartwell Street Apartments | 735 N. Wisconsin Street, Suite 100 | Elkhorn | WI | 53121 | 70,810.00
Tellurian, Inc./Willy Street SRO | 5900 Monona Dr., Suite 300 | Monona | WI | 53716 | 71,293.00
YWCA La Crosse/YWCA La Crosse Transitional Housing | 3219 Commerce Street | La Crosse | WI | 54603 | 74,720.00
Institute for Community Alliances/Milwaukee CoC HMIS Expansion | 1111 9th Street, Suite 245 | Des Moines | WI | 50314 | 77,351.00
Tenant Resource Center, Inc./Rapid Rehousing | 1202 Williamson St., Suite 102 | Madison | WI | 53703 | 78,727.00
The Salvation Army/RISE: Rehousing Into Supportive Environments—Expansion | 630 East Washington Avenue | Madison | WI | 53703 | 83,108.00
Tellurian, Inc./ReachOut Housing First-Expansion | 5900 Monona Dr., Suite 300 | Monona | WI | 53716 | 85,337.00
City of Madison/WI-503 CoC Planning Application FY2017 | 215 Martin Luther King Jr. Blvd., Rm 225 | Madison | WI | 53703 | 91,940.00
ADVOCAP, Inc./ADVOCAP Fond du Lac Rapid Rehousing | 19 West First Street | Fond du Lac | WI | 54935 | 94,092.00
Milwaukee County of/Milwaukee County/Heartland Housing S+C | 600 W Walnut St., Suite 100 | Milwaukee | WI | 53212 | 94,396.00
Friends of Housing Corporation/PH Renewal 2017 | 455 E. Ogden Avenue, #200 | Milwaukee | WI | 53202 | 104,737.00
CAP Services, Inc/Transitional Living Project | 2900 Hoover Road, Suite A | Stevens Point | WI | 54482 | 107,025.00
Richard's Place Inc./Richard's Place I SHP Transitional Housing Project (Whiterock) | P.O. Box 294 | Waukesha | WI | 53187 | 114,699.00
Northwest Wisconsin Community Services Agency Inc./ABC Transitional Housing | 1118 Tower Avenue | Superior | WI | 54880 | 115,847.00
ADVOCAP, Inc./COC Winnebagoland Rapid Rehousing | 19 West First Street | Fond du Lac | WI | 54935 | 117,992.00
Hebron House of Hospitality, Inc/Jeremy House Safe Haven | 111 E. Main Street | Waukesha | WI | 53186 | 118,755.00
Western Dairyland Economic Opportunity Council, Inc./Permanent Supportive Housing Program | 23122 Whitehall Road, P.O. Box 125 | Independence | WI | 54747 | 125,522.00
Porchlight, Inc./Housing First Leasing Project | 306 N. Brooks Street | Madison | WI | 53715 | 128,206.00
Kenosha Human Development Services, Inc./KYF Rapid Rehousing Project | 5407 8th Avenue | Kenosha | WI | 53140 | 128,823.00
Lakeshore CAP Inc. of Wisconsin/RRH | 702 State Street, P.O. Box 2315 | Manitowoc | WI | 54221 | 129,183.00
Milwaukee County of/Milwaukee County/FOH SRA | 600 W Walnut St., Suite 100 | Milwaukee | WI | 53212 | 131,248.00
ADVOCAP, Inc./Winnebagoland PSH | 19 West First Street | Fond du Lac | WI | 54935 | 131,804.00
Kenosha Human Development Services, Inc./Homeless Youth Project | 5407 8th Avenue | Kenosha | WI | 53140 | 143,243.00
Richard's Place Inc./Richard's Place II Permanent Housing Project (Mainstreet) | P.O. Box 294 | Waukesha | WI | 53187 | 150,322.00
Tellurian, Inc./HOPE | 5900 Monona Dr., Suite 300 | Monona | WI | 53716 | 152,451.00
St. Catherine Residence, Inc./St. Catherine Residence | 1032 E. Knapp Street | Milwaukee | WI | 53202 | 152,852.00
West Central Wisconsin Community Action Agency, Inc./West CAP Permanent Supportive Housing | 525 Second Street, P.O. Box 308 | Glenwood City | WI | 54013 | 156,969.00
The Salvation Army/RISE: Rehousing Into Supportive Environments | 630 East Washington Avenue | Madison | WI | 53703 | 158,612.00
Porchlight, Inc./Thierer Road | 306 N. Brooks Street | Madison | WI | 53715 | 159,623.00
Family Services of Northeast Wisconsin/Brown County Rapid ReHousing | P.O. Box 22308, 300 Crooks Street | Green Bay | WI | 54305 | 160,826.00
The Salvation Army/ROOTS Permanent Housing | 1730 N. 7th Street | Milwaukee | WI | 53205 | 163,177.00
Community Action Coalition For South Central Wisconsin, Inc./Jefferson County Transitional Housing | 1717 N. Stoughton Road | Madison | WI | 53704 | 168,164.00
Housing Partnership of the Fox Cities, Inc./It Takes A Village Permanent Supportive Housing | 605 E. Hancock Street | Appleton | WI | 54911 | 179,528.00
North Central Community Action Program, Inc./The Big Ten | 2111 8th Street South, Suite 102 | Wisconsin Rapids | WI | 54494 | 180,539.00
City of Appleton/Fox Cities Housing Coalition Transitional Housing Program | 100 N Appleton Street, Sixth Floor | Appleton | WI | 54911 | 181,152.00
Kenosha Human Development Services, Inc./Kenosha Permanent Housing Connections | 5407 8th Avenue | Kenosha | WI | 53140 | 181,929.00
Mercy Health/House of Mercy Rapid Re-housing | 1000 Mineral Point Ave | Janesville | WI | 53548 | 188,060.00
Community Action Coalition For South Central Wisconsin, Inc./Project WISH | 1717 N. Stoughton Road | Madison | WI | 53704 | 190,776.00
Center for Veterans Issues, Ltd./PSH Racine | 315 W. Court Street, 2nd Floor | Milwaukee | WI | 53212 | 194,539.00
Newcap, Inc./SHP Housing First | 1201 Main St | Oconto | WI | 54153 | 195,752.00
Kenosha Human Development Services, Inc./Kenosha Permanent Housing Connections Expansion | 5407 8th Avenue | Kenosha | WI | 53140 | 209,635.00
Community Action, Inc. of Rock & Walworth Counties/CAI-PSH | 20 Eclipse Center | Beloit | WI | 53511 | 218,395.00
Women and Children's Horizons Inc./Transitional Living Program | 2525 63 Street | Kenosha | WI | 53143 | 224,772.00
Couleecap, Inc./Couleecap Housing First Permanent Housing Program | 201 Melby St | Westby | WI | 54667 | 228,401.00
Community Action Coalition For South Central Wisconsin, Inc./Home for Good | 1717 N. Stoughton Road | Madison | WI | 53704 | 238,509.00
West Central Wisconsin Community Action Agency, Inc./West CAP Permanent Supportive Housing II | 525 Second Street, P.O. Box 308 | Glenwood City | WI | 54013 | 240,504.00
Milwaukee County of/Milwaukee County/Mercy Housing SPC—Milwaukee South | 600 W Walnut St., Suite 100 | Milwaukee | WI | 53212 | 247,813.00
The Salvation Army/Permanent Supportive Housing | 504 W. 8th St | New Richmond | WI | 54016 | 258,225.00
Western Dairyland Economic Opportunity Council, Inc./Permanent Supportive Housing | 23122 Whitehall Road, P.O. Box 125 | Independence | WI | 54747 | 259,101.00
ADVOCAP, Inc./Winnebagoland Rapid Rehousing | 19 West First Street | Fond du Lac | WI | 54935 | 264,532.00
Institute for Community Alliances/Madison/Dane CoC Coordinated Entry | 1111 9th Street, Suite 245 | Des Moines | WI | 50314 | 267,611.00
Central Wisconsin Community Action Council, Inc./Project Chance Rapid Re-Housing | 1000 Hwy 13 | Wisconsin Dells | WI | 53965 | 268,912.00
WALKER'S POINT YOUTH AND FAMILY CENTER/RAPID REHOUSING FOR YOUTH | 2030 WEST NATIONAL AVENUE | MILWAUKEE | WI | 53204 | 273,074.00
Wisconsin Balance of State Continuum of Care, Inc./WIBOSCOC Planning Project Application FY2017 | P.O. Box 272 | Eau Claire | WI | 54702 | 275,671.00
Couleecap, Inc./Couleecap New Hope Permanent Housing Program | 201 Melby St | Westby | WI | 54667 | 276,694.00
Center for Veterans Issues, Ltd./Veterans Gardens | 315 W. Court Street, 2nd Floor | Milwaukee | WI | 53212 | 285,150.00
Newcap, Inc./Brown County Youth RRH Project | 1201 Main St | Oconto | WI | 54153 | 340,450.00
West Central Wisconsin Community Action Agency, Inc./West CAP Rapid Rehousing II | 525 Second Street, P.O. Box 308 | Glenwood City | WI | 54013 | 345,232.00
City of Milwaukee/WI-501 CoC Plannig Application FY2017 | 200 E. Wells Street, Room 606 | Milwaukee | WI | 53202 | 357,984.00
Guest House of Milwaukee, Inc./Homelinc 5 | 1216 N. 13th St | Milwaukee | WI | 53205 | 370,307.00
Institute for Community Alliances/Wisconsin HMIS Project Renewal | 1111 9th Street, Suite 245 | Des Moines | WI | 50314 | 371,429.00
Couleecap, Inc./Couleecap Transitional Housing Program | 201 Melby St | Westby | WI | 54667 | 373,303.00
Milwaukee County of/Milwaukee County Housing First TBRA II | 600 W Walnut St., Suite 100 | Milwaukee | WI | 53212 | 400,447.00
YWCA of Madison, Inc./House-ability Program | 101 E. Mifflin St., Suite 100 | Madison | WI | 53703 | 403,276.00
Wisconsin Balance of State Continuum of Care, Inc./WIBOSCOC Supportive Services for Coordinated Entry | P.O. Box 272 | Eau Claire | WI | 54702 | 404,506.00
Community Advocates, Inc./Autumn West Safe Haven | 728 N. James Lovell Street | Milwaukee | WI | 53233 | 411,322.00
Homeless Assistance Leadership Organization, Inc./A Place of My Own Housing Initiative | 2000 DeKoven Avenue, Unit 1 | Racine | WI | 53403 | 428,857.00
Center for Veterans Issues, Ltd./OTP/PSH Milwaukee | 315 W. Court Street, 2nd Floor | Milwaukee | WI | 53212 | 444,076.00
Community Action, Inc. of Rock & Walworth Counties/CAI-RRH | 20 Eclipse Center | Beloit | WI | 53511 | 452,695.00
Newcap, Inc./Brown County PSH | 1201 Main St | Oconto | WI | 54153 | 539,697.00
Hope House of Milwaukee, Inc./Hope House Joint TH-RRH New project | 209 West Orchard Street | Milwaukee | WI | 53204 | 580,353.00
Milwaukee County of/Milwaukee County—Housing First Tenant-Based Rent Assistance | 600 W Walnut St., Suite 100 | Milwaukee | WI | 53212 | 600,482.00
Outreach Community Health Centers, Inc./Permanent Housing-Rapid Rehousing for Families | 711 West Capitol Drive | Milwaukee | WI | 53206 | 658,454.00
Dane County, WI/Rental Assistance | 1202 Northport Dr | Madison | WI | 53704 | 935,338.00
Community Advocates, Inc./Autumn West Permanent Housing | 728 N. James Lovell Street | Milwaukee | WI | 53233 | 1,139,448.00
Guest House of Milwaukee, Inc./Homelinc III | 1216 N. 13th St | Milwaukee | WI | 53205 | 1,144,090.00
Milwaukee County of/Milwaukee County Shelter + Care/TRA (My Home Housing Program) | 600 W Walnut St., Suite 100 | Milwaukee | WI | 53212 | 2,840,811.00
Huntington West Virginia Housing Authority/SNAP 2017 Renewal 18 | 300 West Seventh Avenue | Huntington | WV | 25701 | 6,947.00
Huntington West Virginia Housing Authority/SNAP 2017 Renewal 12 | 300 West Seventh Avenue | Huntington | WV | 25701 | 13,656.00
Greater Wheeling Coalition for the Homeless/FY2017 WV-500 Planning | 84 Fifteenth Street | Wheeling | WV | 26003 | 19,218.00
Cabell-Huntington Coalition for the Homeless, Inc./Coordinated Entry 2017 | 627 Fourth Avenue | Huntington | WV | 25701 | 28,240.00
Huntington West Virginia Housing Authority/SNAP 2017 Renewal 10 | 300 West Seventh Avenue | Huntington | WV | 25701 | 28,942.00
Raleigh County Community Action Association, Incorporated/RCCAA Leasing Expansion FY2017 | 111 Willow Lane | Beckley | WV | 25801 | 32,676.00
Cabell-Huntington Coalition for the Homeless, Inc./CoC Planning 2017 | 627 Fourth Avenue | Huntington | WV | 25701 | 33,500.00
Covenant House, Inc./Rapid Re-Housing 2017 | 600 Shrewsbury Street | Charleston | WV | 25301 | 34,762.00
Kanawha Valley Collective/KVC Planning Project 2017 | 600 Shrewsbury Street, Suite 1 | Charleston | WV | 25301 | 41,750.00
WVU Research Corporation/WVU Ooliblikasmees CEA 2017 Renewal | 886 Chestnut Ridge Road, P.O. BOX 6845 | Morgantown | WV | 26506 | 42,994.00
North Central WV Community Action, Inc./North Central WV Community Action Agency, Inc. SHP Permanent Project II | 1304 Goose Run Road | Fairmont | WV | 26554 | 43,158.00
Covenant House, Inc./Housing First IV | 600 Shrewsbury Street | Charleston | WV | 25301 | 46,091.00
Covenant House, Inc./Housing First V | 600 Shrewsbury Street | Charleston | WV | 25301 | 46,391.00
YWCA of Charleston/Shanklin Phase II Chronically Homeless | 1426 Kanawha Boulevard East | Charleston | WV | 25301 | 46,561.00
WV Coalition to End Homelessness, Inc./HMIS Expansion FY2017 | 929 West Main Street | Bridgeport | WV | 26330 | 48,100.00
Prestera Center for Mental Health Services/Balen | 3375 U.S. Route 60 East | Huntington | WV | 25705 | 48,885.00
North Central WV Community Action, Inc./North Central WV Community Action Agency, INC SHP Permanent Project | 1304 Goose Run Road | Fairmont | WV | 26554 | 57,363.00
Huntington West Virginia Housing Authority/SNAP 2017 Renewal 23 | 300 West Seventh Avenue | Huntington | WV | 25701 | 58,058.00
Huntington West Virginia Housing Authority/SNAP 2017 HMIS Reallocation | 300 West Seventh Avenue | Huntington | WV | 25701 | 63,888.00
Kanawha Valley Collective, Inc./Homeless Management Information System | 600 Shrewsbury Street c/o Covenant House | Charleston | WV | 25301 | 63,999.00
YWCA of Charleston/Shanklin Center for Senior Enrichment | 1426 Kanawha Boulevard East | Charleston | WV | 25301 | 67,254.00
Huntington West Virginia Housing Authority/SNAP 2017 HMIS Renewal Consolidation | 300 West Seventh Avenue | Huntington | WV | 25701 | 68,927.00
Southwestern Community Action Council, Inc./FY 2017—Simms Housing | 540 5th Avenue | Huntington | WV | 25701 | 70,287.00
Huntington West Virginia Housing Authority/SNAP 2017 Renewal 16 | 300 West Seventh Avenue | Huntington | WV | 25701 | 76,596.00
Covenant House, Inc./Housing First III | 600 Shrewsbury Street | Charleston | WV | 25301 | 77,364.00
Huntington West Virginia Housing Authority/SNAP 2017 Renewal 6 | 300 West Seventh Avenue | Huntington | WV | 25701 | 82,221.00
Cabell-Huntington Coalition for the Homeless, Inc./Rapid Rehousing Bonus 2017 | 627 Fourth Avenue | Huntington | WV | 25701 | 85,283.00
City of Charleston/Centralized Assessment Team | 105 McFarland Street | Charleston | WV | 25301 | 91,713.00
Cabell-Huntington Coalition for the Homeless, Inc./Rapid Rehousing Expansion 2017 | 627 Fourth Avenue | Huntington | WV | 25701 | 101,394.00
Huntington West Virginia Housing Authority/SNAP 2017 Consolidation 13-15 | 300 West Seventh Avenue | Huntington | WV | 25701 | 103,741.00
Cabell-Huntington Coalition for the Homeless, Inc./Housing First (SSO) Renewal 2017 | 627 Fourth Avenue | Huntington | WV | 25701 | 107,595.00
Charleston-Kanawha Housing Authority/Shelter + Care #1 Renewal 2017 | 1525 Washington Street, West | Charleston | WV | 25387 | 113,269.00
WV Coalition to End Homelessness, Inc./WV-508 CoC Planning Application FY2017 | 929 West Main Street | Bridgeport | WV | 26330 | 117,050.00
Bartlett House, Inc/West Run Permanent Supportive Housing 2017 | 1110 University Ave | Morgantown | WV | 26505 | 120,760.00
Charleston-Kanawha Housing Authority/Shelter + Care #2 Renewal 2017 | 1525 Washington Street, West | Charleston | WV | 25387 | 121,937.00
Randolph County Housing Authority/RCHA Rapid Rehousing FY 2017 | P.O. Box 1579 | Elkins | WV | 26241 | 122,448.00
Cabell-Huntington Coalition for the Homeless, Inc./Safe Quarters Renewal 2017 | 627 Fourth Avenue | Huntington | WV | 25701 | 127,066.00
WVU Research Corporation/WVU CEA 2017 Renewal | 886 Chestnut Ridge Road, P.O. BOX 6845 | Morgantown | WV | 26506 | 129,869.00
Huntington West Virginia Housing Authority/SNAP 2017 Renewal 8 | 300 West Seventh Avenue | Huntington | WV | 25701 | 130,811.00
Greater Wheeling Coalition for the Homeless/FY2017 SSO | 84 Fifteenth Street | Wheeling | WV | 26003 | 135,796.00
WVU Research Corporation/WVU RRH 2017 Renewal | 886 Chestnut Ridge Road, P.O. Box 6845 | Morgantown | WV | 26506 | 137,379.00
Raleigh County Community Action Association, Incorporated/Renewal RCCAA Leasing FY2017 | 111 Willow Lane | Beckley | WV | 25801 | 138,232.00
Raleigh County Community Action Association, Incorporated/Renewal RCCAA Supportive Housing FY2017 | 111 Willow Lane | Beckley | WV | 25801 | 147,444.00
Covenant House, Inc./Housing First | 600 Shrewsbury Street | Charleston | WV | 25301 | 164,407.00
Telamon Corporation/Reliable Housing Permanent Supportive Housing | 5560 Munford Road, Suite 201 | Raleigh | WV | 27612 | 168,013.00
Telamon Corporation/Hearthstone Permanent Supportive Housing | 5560 Munford Road, Suite 201 | Raleigh | WV | 27612 | 172,392.00
Telamon Corporation/Potomac Highlands Permanent Supportive Housing | 5560 Munford Road, Suite 201 | Raleigh | WV | 27612 | 173,840.00
Huntington West Virginia Housing Authority/SNAP 2017 Renewal 9-11A-22 | 300 West Seventh Avenue | Huntington | WV | 25701 | 174,822.00
Cabell-Huntington Coalition for the Homeless, Inc./Targeted Rapid Rehousing 2017 | 627 Fourth Avenue | Huntington | WV | 25701 | 188,215.00
Raleigh County Community Action Association, Incorporated/RCCAA CoC Rapid Re-Housing Program FY2017 | 111 Willow Lane | Beckley | WV | 25801 | 192,483.00
WV Coalition to End Homelessness, Inc./Kenobi Rapid Rehousing FY 2017 | 929 West Main Street | Bridgeport | WV | 26330 | 193,088.00
WV Coalition to End Homelessness, Inc./Kenobi Expansion FY2017 | 929 West Main Street | Bridgeport | WV | 26330 | 196,826.00
WVU Research Corporation/WVU Greenbrier PSH 2017 Renewal | 886 Chestnut Ridge Road, P.O. Box 6845 | Morgantown | WV | 26506 | 207,909.00
WV Coalition to End Homelessness, Inc./Jar'Kai Rapid Rehousing FY2017 | 929 West Main Street | Bridgeport | WV | 26330 | 219,947.00
Bartlett House, Inc/West Run Bridge & RRH Housing | 1110 University Ave | Morgantown | WV | 26505 | 223,295.00
WVU Research Corporation/WVU EPH Regional H1 PSH 2017 Renewal | 886 Chestnut Ridge Road, P.O. Box 6845 | Morgantown | WV | 26506 | 240,800.00
Huntington West Virginia Housing Authority/SNAP 2017 Renewal 5-7-11-21 | 300 West Seventh Avenue | Huntington | WV | 25701 | 246,154.00
Roark-Sullivan Lifeway Center/Twin Cities | 505 Leon Sullivan Way | Charleston | WV | 25301 | 261,942.00
Greater Wheeling Coalition for the Homeless/FY2017 RH | 84 Fifteenth Street | Wheeling | WV | 26003 | 268,033.00
WV Coalition to End Homelessness, Inc./WVCEH Leasing Project FY2017 | 929 West Main Street | Bridgeport | WV | 26330 | 328,200.00
WV Coalition to End Homelessness, Inc./HMIS Renewal FY2017 | 929 West Main Street | Bridgeport | WV | 26330 | 389,746.00
Clarksburg Housing Authority/PSH-1 | 433 Baltimore Avenue | Clarksburg | WV | 26301 | 413,056.00
Huntington West Virginia Housing Authority/SNAP 2017 Renewal 2-3 | 300 West Seventh Avenue | Huntington | WV | 25701 | 624,576.00
Department of Family Services/WY-500 CoC Planning Application FY2017 | 2300 Capitol Ave, 3rd Floor | Cheyenne | WY | 82002 | 28,571.00
Council of Community Services/Permanent Supportive Housing for Chronically Homeless Families | 114 4J Road | Gillette | WY | 82716 | 55,819.00
Institute for Community Alliances/DFS to ICA 1 HMIS Renewal | 1111 9th Street, Suite 245 | Des Moines | WY | 50314 | 61,539.00
Community Action Partnership of Natrona County/Life Steps Permanent Supportive Housing | 800 Werner Court, Suite 201 | Casper | WY | 82601 | 64,125.00
Institute for Community Alliances/DFS to ICA HMIS Expansion Renewal | 1111 9th Street, Suite 245 | Des Moines | WY | 50314 | 82,275.00

Appendix G

FY2017 Choice Neighborhoods Planning Grants

Contact: Mindy Turbov, (202) 402-4191.

Organization name | Address | City | State | ZIP | Award amount
City of Huntington | 800 5th Avenue | Huntington | WV | 25701 | $350,000.00
City of Lewiston | 27 Pine Street | Lewiston | ME | 04240 | 1,300,000.00
Cuyahoga Metropolitan Housing Authority | 8120 Kinsman Road | Cleveland | OH | 44104 | 350,000.00
Housing Authority of Cook County | 175 W Jackson Blvd., Suite 350 | Chicago | IL | 60604 | 350,000.00
Housing Authority of the City of Los Angeles | 2600 Wilshire Boulevard | Los Angeles | CA | 90057 | 1,300,000.00
Philadelphia Housing Authority | 12 South 23rd Street, 6th Floor | Philadelphia | PA | 19103 | 1,300,000.00

[FR Doc. 2018-10465 Filed 5-16-18; 8:45 am]

BILLING CODE 4210-67-P